DEPARTMENT OF HEALTH AND HUMAN SERVICES

Centers for Medicare & Medicaid Services

42 CFR Parts 410 and 414

[CMS-1204-P]

RIN 0938-AL21

Medicare Program; Revisions to Payment Policies Under the Physician Fee Schedule for Calendar Year 2003

AGENCY: Centers for Medicare & Medicaid Services (CMS), HHS.

ACTION: Proposed rule.

SUMMARY: The proposed rule would refine the resource-based practice expense relative value units (RVUs) and make other changes to Medicare Part B payment policy. The policy changes concern: Medicare Economic Index, pricing of the technical component for positron emission tomography (PET) scans, Medicare qualifications for clinical nurse specialists, a process to add or delete services to the definition of telehealth, definition for ZZZ global periods, global period for surface radiation, and an endoscopic base for urology codes. We also discuss the refinement of anesthesia work values, clinical social worker services, and how drugs are accounted for in the sustainable growth rate.

We are proposing these changes to ensure that our payment systems are updated to reflect changes in medical practice and the relative value of services. We solicit comments on the proposed policy changes.

This proposed rule also clarifies the enrollment of physical and occupational therapists as therapists in private practice. In addition, this proposed rule discusses physical and occupational therapy payment caps and makes technical changes to outpatient rehabilitation services.

DATES: We will consider comments if we receive them at the appropriate address, as provided below, no later than 5 p.m. on August 27, 2002.

ADDRESSES: In commenting, please refer to file code CMS-1204-P. Because of staff and resource limitations, we cannot accept comments by facsimile (FAX) transmission. Mail written comments (one original and two copies) to the following address ONLY: Centers for Medicare & Medicaid Services, Department of Health and Human Services, Attention: CMS-1204-P, P.O. Box 8013, Baltimore, MD 21244-8013.

Please allow sufficient time for us to receive mailed comments on time in the event of delivery delays.

If you prefer, you may deliver (by hand or courier) your written comments (one original and two copies) to one of the following addresses: Room 445-G, Hubert H. Humphrey Building, 200 Independence Avenue, SW., Washington, DC 20201, or Room C5-14-03, 7500 Security Boulevard, Baltimore, MD 21244-8013.

(Because access to the interior of the HHH Building is not readily available to persons without Federal Government identification, commenters are encouraged to leave their comments in the CMS drop slots located in the main lobby of the building. A stamp-in clock is available if you wish to retain proof of filing by stamping in and retaining an extra copy of the comments being filed.)

Comments mailed to the addresses indicated as appropriate for hand or courier delivery may be delayed and could be considered late.

For information on viewing public comments, see the beginning of the SUPPLEMENTARY INFORMATION section.

FOR FURTHER INFORMATION CONTACT: Carolyn Mullen, (410) 786-4589, Marc Hartstein, (410) 786-4539, or Stephanie Monroe (410) 786-6864 (for issues related to resource-based practice expense relative value units).

Jim Menas, (410) 786-4507 (for issues related to anesthesia).

Marc Hartstein, (410) 786-4539 (for issues related to sustainable growth rate).

Gail Addis, (410) 786-4522 (for issues related to PET scans and HCPCS codes).

Craig Dobyski, (410) 786-4584 (for issues related to telehealth).

Terri Harris, (410) 786-6830 (for issues related to physical and occupational therapy).

Latesha Walker, (410) 786-1101 (for all other issues).

SUPPLEMENTARY INFORMATION: Inspection of Public Comments: Comments received timely will be available for public inspection as they are received, generally beginning approximately 3 weeks after publication of a document, at the headquarters of the Centers for Medicare & Medicaid Services, 7500 Security Boulevard, Baltimore, Maryland 21244, Monday through Friday of each week from 8:30 a.m. to 4 p.m. To schedule an appointment to view public comments, phone (410) 786-7197.

Copies: To order copies of the Federal Register containing this document, send your request to: New Orders, Superintendent of Documents, P.O. Box 371954, Pittsburgh, PA 15250-7954. Specify the date of the issue requested and enclose a check or money order payable to the Superintendent of Documents, or enclose your Visa or Master Card number and expiration date. Credit card orders can also be placed by calling the order desk at (202) 512-1800 (or toll-free at 1-888-293-6498) or by faxing to (202) 512-2250. The cost for each copy is $9. As an alternative, you can view and photocopy the Federal Register document at most libraries designated as Federal Depository Libraries and at many other public and academic libraries throughout the country that receive the Federal Register.

This Federal Register document is also available from the Federal Register online database through GPO Access, a service of the U.S. Government Printing Office. The web site address is: http://www.access.gpo.gov/nara/index.html.

Information on the physician fee schedule can be found on our homepage. You can access this data by using the following directions:

1. Go to the CMS homepage (http://www.cms.hhs.gov).

2. Click on “Medicare.”

3. Click on “Professional/Technical Information.”

4. Select Medicare Payment Systems.

5. Select Physician Fee Schedule.

Or, you can go directly to the Physician Fee Schedule page by typing the following: http://www.cms.hhs.gov/medicare/pfsmain.htm.

To assist readers in referencing sections contained in this preamble, we are providing the following table of contents. Some of the issues discussed in this preamble affect the payment policies but do not require changes to the regulations in the Code of Federal Regulations. Information on the regulation's impact appears throughout the preamble and is not exclusively in section V.

Table of Contents

I. Background

A. Legislative History

B. Published Changes to the Fee Schedule

II. Provisions of the Proposed Regulations

A. Resource-Based Practice Expense Relative Value Units

B. Anesthesia Issues

C. Changes to the Physician Fee Schedule Update Calculation and the Sustainable Growth Rate (SGR)

D. Pricing of Technical Components (TC) for Positron Emissions Tomography (PET) Scans

E. Enrollment of Physical and Occupational Therapists as Therapists in Private Practice

F. Clinical Social Worker Services

G. Medicare Qualifications for Clinical Nurse Specialists

H. Process to Add or Delete Services to the Definition of Telehealth

I. Definition for ZZZ Global Periods

J. Change in Global Period for CPT Code 77789 (Surface Application of Radiation Source)

K. Technical Change: § 410.61(d)(iii) Outpatient Rehabilitation Services

L. New HCPCS G-Codes

M. Endoscopic Base for Urology Codes

N. Physical Therapy and Occupational Therapy Caps

III. Collection of Information Requirements

IV. Response to Comments

V. Regulatory Impact Analysis

Addendum A—Explanation and Use of Addendum B

Addendum B—2003 Relative Value Units and Related Information Used in Determining Medicare Payments for 2003.

In addition, because of the many organizations and terms to which we refer by acronym in this proposed rule, we are listing these acronyms and their corresponding terms in alphabetical order below:

AMA—American Medical Association

BBA—Balanced Budget Act of 1997

BBRA—Balanced Budget Refinement Act of 1999

CF—Conversion factor

CFR—Code of Federal Regulations

CMS—Centers for Medicare & Medicaid Services

CNS—Clinical Nurse Specialist

CPT—(Physicians') Current Procedural Terminology (4th Edition, 2002, copyrighted by the American Medical Association)

CPEP—Clinical Practice Expert Panel

CRNA—Certified Registered Nurse Anesthetist

E/M—Evaluation and management

FMR—Fair market rental

GAF—Geographic adjustment factor

GPCI—Geographic practice cost index

HCPCS—Healthcare Common Procedure Coding System

HHA—Home health agency

HHS—(Department of) Health and Human Services

IDTFs—Independent Diagnostic Testing Facilities

MCM—Medicare Carrier Manual

MedPAC—Medicare Payment Advisory Commission

MEI—Medicare Economic Index

MGMA—Medical Group Management Association

MSA—Metropolitan Statistical Area

NAMCS—National Ambulatory Medical Care Survey

PC—Professional component

PEAC—Practice Expense Advisory Committee

PET—Positron Emission Tomography

PPS—Prospective payment system

RUC—(AMA's Specialty Society) Relative (Value) Update Committee

RVU—Relative value unit

SGR—Sustainable growth rate

SMS—(AMA's) Socioeconomic Monitoring System

SNF—Skilled Nursing Facility

TC—Technical component

I. Background

A. Legislative History

Since January 1, 1992, Medicare has paid for physicians' services under section 1848 of the Social Security Act (the Act), “Payment for Physicians” Services.” This section provides for three major elements: (1) A fee schedule for the payment of physicians' services; (2) limits on the amounts that nonparticipating physicians can charge beneficiaries; and (3) a sustainable growth rate for the rates of increase in Medicare expenditures for physicians' services. The Act requires that payments under the fee schedule be based on national uniform relative value units (RVUs) based on the resources used in furnishing a service. Section 1848(c) of the Act requires that national RVUs be established for physician work, practice expense, and malpractice expense. Section 1848(c)(2)(B)(ii)(II) of the Act provides that adjustments in RVUs may not cause total physician fee schedule payments to differ by more than $20 million from what they would have been had the adjustments not been made. If adjustments to RVUs cause expenditures to change by more than $20 million, we must make adjustments to preserve budget neutrality.

B. Published Changes to the Fee Schedule

In the July 2000 proposed rule (65 FR 44177), we listed all of the final rules published through November 1999. In the August 2001 proposed rule (66 FR 40372) we discussed the November 2000 final rule relating to the updates to the RVUs and revisions to payment policies under the physician fee schedule.

In the November 2001 final rule with comment period (66 FR 55246), we revised the policy for resource-based practice expense RVUs; services and supplies incident to a physician's professional service; anesthesia base unit variations; recognition of CPT tracking codes; and nurse practitioners, physician assistants, and clinical nurse specialists performing screening sigmoidoscopies. We also addressed comments received on the June 8, 2001 proposed notice (66 FR 31028) for the 5-year review of work RVUs and finalized these work RVUs. In addition, we acknowledged comments received in response to a discussion of modifier-62, which is used to report the work of co-surgeons. The November 2001 final rule also updated the list of services that are subject to the physician self-referral prohibitions in order to reflect CPT and Healthcare Common Procedure Coding System (HCPCS) code changes that were effective January 1, 2002. All these revisions ensure that our payment systems are updated to reflect changes in medical practice and the relative value of services.

The Medicare, Medicaid, and State Child Health Insurance Program (SCHIP) Benefits Improvement and Protection Act of 2000 (Pub. L. 106-554) (BIPA) modernized the mammography screening benefit and authorized payment under the physician fee schedule effective January 1, 2002. It provided for biennial screening pelvic examinations for certain beneficiaries and expanded coverage for screening colonoscopies to all beneficiaries effective July 1, 2001. It provided for annual glaucoma screenings for high-risk beneficiaries and established coverage for medical nutrition therapy services for certain beneficiaries effective January 1, 2002. It expanded payment for telehealth services effective October 1, 2001; required certain Indian Health Service providers to be paid for some services under the physician fee schedule effective July 1, 2001; and revised the payment for certain physician pathology services effective January 1, 2001. This final rule conformed our regulations to reflect these statutory provisions.

The final rule also announced the calendar year 2002 physician fee schedule conversion factor of $36.1992.

II. Provisions of the Proposed Regulations

This proposed rule would affect the regulations set forth at part 410, Supplementary medical insurance (SMI) benefits and part 414, Payment for Part B medical and other health services.

A. Resource-Based Practice Expense Relative Value Units

1. Resource-Based Practice Expense Legislation

Section 121 of the Social Security Act Amendments of 1994 (Pub. L. 103-432), enacted on October 31, 1994, required us to develop a methodology for a resource-based system for determining practice expense RVUs for each physician's service beginning in 1998. In developing the methodology, we were to consider the staff, equipment, and supplies used in providing medical and surgical services in various settings. The legislation specifically required that, in implementing the new system of practice expense RVUs, we apply the same budget-neutrality provisions that we apply to other adjustments under the physician fee schedule.

Section 4505(a) of the Balanced Budget Act of 1997 (BBA) (Pub. L. 105-33), enacted on August 5, 1997, amended section 1848(c)(2)(ii) of the Act and delayed the effective date of the resource-based practice expense RVU system until January 1, 1999. In addition, section 4505(b) of the BBA provided for a 4-year transition period from charge-based practice expense RVUs to resource-based RVUs.

Further legislation affecting resource-based practice expense RVUs was included in the Medicare, Medicaid and State Child Health Insurance Program (SCHIP) Balanced Budget Refinement Act of 1999 (BBRA) (Pub. L. 106-113), enacted on November 29, 1999. Section 212 of the BBRA amended section 1848(c)(2)(ii) of the Act by directing us to establish a process under which we accept and use, to the maximum extent practicable and consistent with sound data practices, data collected or developed by entities and organizations. These data would supplement the data we normally collect in determining the practice expense component of the physician fee schedule for payments in CY 2001 and CY 2002. (In the 1999 final rule (64 FR 59380), we extended, for an additional 2 years, the period during which we would accept supplementary data.)

2. Current Methodology for Computing the Practice Expense Relative Value Unit System

Effective with services furnished on or after January 1, 1999, we established a new methodology for computing resource-based practice expense RVUs that used the two significant sources of actual practice expense data we have available—the Clinical Practice Expert Panel (CPEP) data and the American Medical Association's (AMA) Socioeconomic Monitoring System (SMS) data. The methodology was based on an assumption that current aggregate specialty practice costs are a reasonable way to establish initial estimates of relative resource costs for physicians' services across specialties. The methodology allocated these aggregate specialty practice costs to specific procedures and, thus, can be seen as a “top-down” approach.

a. Major Steps

A brief discussion of the major steps involved in the determination of the practice expense RVUs follows. (Please see the November 1, 2001 final rule (66 FR 55249) for a more detailed explanation of the top-down methodology.)

• Step 1—Determine the specialty specific practice expense per hour of physician direct patient care. We used the AMA's SMS survey of actual aggregate cost data by specialty to determine the practice expenses per hour for each specialty. We calculated the practice expenses per hour for the specialty by dividing the aggregate practice expenses for the specialty by the total number of hours spent in patient care activities.

• Step 2—Create a specialty specific practice expense pool of practice expense costs for treating Medicare patients. To calculate the total number of hours spent treating Medicare patients for each specialty, we used the physician time assigned to each procedure code and the Medicare utilization data. We then calculated the specialty specific practice expense pools by multiplying the specialty practice expenses per hour by the total physician hours.

• Step 3—Allocate the specialty specific practice expense pool to the specific services performed by each specialty. For each specialty, we divided the practice expense pool into two groups based on whether direct or indirect costs were involved and used a different allocation basis for each group.

(i) Direct costs—For direct costs (which include clinical labor, medical supplies, and medical equipment), we used the procedure specific CPEP data on the staff time, supplies, and equipment as the allocation basis.

(ii) Indirect costs—To allocate the cost pools for indirect costs, including administrative labor, office expenses, and all other expenses, we used the total direct costs combined with the physician fee schedule work RVUs. We converted the work RVUs to dollars using the Medicare CF (expressed in 1995 dollars for consistency with the SMS survey years).

• Step 4—For procedures performed by more than one specialty, the final procedure code allocation was a weighted average of allocations for the specialties that perform the procedure, with the weights being the frequency with which each specialty performs the procedure on Medicare patients.

b. Other Methodological Issues

(i) Zero Physician Work Pool—For services with physician work RVUs equal to zero (including those services with a technical and professional component), we created a separate practice expense pool using the average clinical staff time from the CPEP data and the “all physicians” practice expense per hour.

We then used the adjusted 1998 practice expense RVUs to allocate this pool to each service. Also, for all radiology services that are assigned physician work RVUs, we used the adjusted 1998 practice expense RVUs for radiology services as an interim measure to allocate the direct practice expense cost pool for radiology.

(ii) Crosswalks for Specialties without Practice Expense Survey Data

Since many specialties identified in our claims data did not correspond exactly to the specialties included in the SMS survey data, it was necessary to crosswalk these specialties to the most appropriate SMS specialty.

(iii) Because we believe that most physical therapy services furnished in physicians' offices are performed by physical therapists, we crosswalked all utilization for therapy services in the CPT 97000 series to the physical and occupational therapy practice expense pool.

B. Practice Expense Proposals for Calendar Year 2003

1. CPEP Data

a. Ophthalmology Services—Rank Order Anomalies

Rank order anomalies were created in three ophthalmology families of codes because only certain services in each family were brought to the Practice Expense Advisory Committee (PEAC) for refinement, while CPEP data for the other codes were left unchanged. The American Academy of Ophthalmology has requested that we make the following changes in the CPEP data to ensure that the more complex services in a family of codes are not paid less than the simpler services and we are proposing to do so.

CPT code 67820, Revise eyelashes—remove ophthane from the supply list.

CPT code 67825, Revise eyelashes—remove the bipolar handpiece from the supply list.

CPT code 65220, Removal foreign body from eye—use the supply list and clinical staff time assigned to CPT code 65222. The exam lane should be the only equipment assigned.

CPT codes 92081 and 92083, Visual field examination(s)—Assign the same supplies and equipment as CPT code 92082; assign 35 minutes of clinical staff time to 92081 and 70 minutes to 92083.

b. Practice Expense Inputs for Thermotherapy Procedures

There are three CPT codes for transurethral destruction of prostate tissue: CPT 53850, by microwave therapy, CPT 53852, by radiofrequency thermotherapy, and CPT 53853, by water-induced thermotherapy (WIT). A manufacturer of WIT equipment has expressed concern that the practice expense inputs currently assigned to CPT 53853 underestimate the costs associated with that procedure relative to the other two codes. We have compared the inputs of the three codes and agree that the WIT procedure has not been assigned many of the basic supply and equipment inputs that are included in the CPEP inputs for the other two procedures. Therefore, we are proposing to add, on an interim basis, the following inputs: Power table, ultrasound unit, mayo stand, endoscopy stretcher, light source, chux, sani-wipe, patient education book, sterile towel, sterile gloves, specimen cup, alcohol swab, gauze, tape, lidocaine, betadine, 10 cc syringe, 30 cc syringe, sterile water, leg bag. These inputs would be in addition to the thermotherapy unit, treatment catheter, drainage bag, cystopak (which contains drapes, syringe, irrigation tubing, surgical lubricant, sterile cup, gauze pad and cysto tubing) and minimum visit package for each visit (which contains patient gown, unsterile gloves, exam table paper, pillow case and thermometer probe cover) that are currently assigned as practice expense inputs for this procedure.

We are also proposing to change on an interim basis the staff type for CPT code 53853 from the RN/LPN/MTA blend to RN in order to make the staff type consistent among these three similar procedures. In addition, we have corrected for all three procedures the minutes assigned to each piece of equipment to reflect the intra- and post-clinical staff times only, rather than the total clinical staff times as we do for all services.

We will request that these three procedures be reexamined by the PEAC at the same time in order to ensure that there is a consistent approach to the assignment of direct cost inputs.

We have also received questions regarding the large disparity in prices that we have used for the three different thermotherapy machines. Currently, the thermotherapy equipment for CPT code 53850 is priced at $180,000, code 53852 at $42,995 and code 53853 at $18,500. The first two prices were given to us in 1999 and we have been sent documentation that indicates that the prices have fallen dramatically since that time. This documentation indicates that the current price for the thermotherapy equipment for CPT 53580 is somewhere between $55,000 and $100,000 and for code 53852 between $25,000 and $30,000. We are proposing to set the prices at $60,000 and $30,000, respectively and are also requesting that commenters furnish any additional available price documentation, particularly invoices for recently purchased equipment, so that we can ensure that any differences in assigned prices accurately reflect actual differences in costs.

c. Revision to Inputs for Iontophoresis

It has been brought to our attention that the electrodes assigned to the supply list for CPT code 97033, Iontophoresis, are not the type of electrodes required for this procedure. We are proposing to substitute two electrodes with a medication vesicle as the appropriate supply for iontophoresis.

d. Correction to Price for Sterile Water

The current price of $40.00 for 1000 ml of sterile water that is listed in our CPEP supply database is incorrect. We are proposing to change this to $3.00.

2. Zero Physician Work Pool for Practice Expense

a. Discussion of Alternatives to the Zero Physician Work Pool

Within the last year, there have been two reports that have addressed the zero physician work pool. The GAO released a report in October 2001 that recommended eliminating the zero physician work pool (GAO-02-53, page 25). The Lewin Group, under contract with us, provided a draft report on June 5, 2001 analyzing the zero physician work pool and provided several ideas that we could study as alternatives. As we indicated in the November 2, 1998 final rule (63 FR 58821), we created the zero physician work pool as an interim measure until we could further analyze the effect of the top-down methodology on the Medicare payment for services that do not have physician work RVUs. Given our interest in finding alternatives to the zero physician work pool, we have analyzed the following possible ideas:

• Eliminate the Zero Physician Work Pool.

The Lewin Group indicated that one idea could be to eliminate the zero physician work pool, as recommended by the GAO (the Lewin Group, page 19). We do not believe that the zero physician work pool should be eliminated at this time. In the absence of a change to the methodology or additional data, eliminating the zero physician work pool would result in large reductions in payments for some of the specialties whose services are included in the pool. The Lewin Group also indicated that this idea is not a “viable alternative to the current zero (physician) work pool approach.” (The Lewin Group, pages 19-20).

• Develop Specialty-Specific Zero Physician Work Pools.

Under this approach, the Lewin Group report described an idea for maintaining the general zero physician work pool approach with specialty-specific zero physician work pools (the Lewin Group, page 20). Since the zero physician work pool is an exception to the basic methodology, we are not currently interested in developing another exception to replace it. We are interested in finding a single methodology that would apply to all physicians' services. While we are not adopting this suggestion, we do appreciate the Lewin Group's work in developing this and many other ideas for consideration as we make refinements to the practice expense methodology.

• Make Technical Component Equal Global Less Professional Component RVUs.

Many of the services that are affected by the zero physician work pool are services that have both professional and technical components. Under current policy, the technical component practice expense RVU is determined in the zero physician work pool. It is added to the practice expense RVUs for the professional component determined under the basic methodology to determine payment for the global service. This Lewin Group idea would change this to make the technical component RVUs equal the difference between the global and the professional component RVUs while other zero physician work services would be returned to the basic methodology (The Lewin Group, page 21).

If we were to adopt this approach, the zero physician work pool would no longer have any effect. The zero physician work pool would not have any effect on the professional and technical component services since the global service from the basic methodology would be used to derive the technical component value. The practice expense RVUs for other zero physician work services would be priced under the basic methodology. In the absence of a change to the methodology or additional data, this idea would result in large reductions in payments for some of the specialties whose services are included in the pool.

As we have indicated above, we are concerned about adopting this idea at this time. While we are not currently proposing to adopt this idea as an alternative to the zero physician work pool, we do believe there is merit in making the technical component value equal the difference between the global and professional component RVU for services that are unaffected by the zero physician work pool. We receive many more bills for the global than the technical component only. Since it is far more common to receive a global than a technical component only bill, it is far more likely that using the global to value the technical component service will result in a payment that is more typical of the relative actual practice expense associated with the service.

For this reason, we are proposing to make the technical component value equal to the difference between the global and the professional component for procedure codes that are not included in the zero physician work pool. We will continue to make the global value equal to the sum of the professional and the technical component values for procedure codes that remain in the zero physician work pool. However, we may revisit this decision in the future if we can address issues related to the zero physician work pool. We have provided more detail on the redistributive impact of this proposal among all physician specialties in the impact section of this proposed rule.

• Develop Proxy Physician Work RVUs for Zero Physician Work Services.

Finally, the Lewin Group described an idea that would retain work and direct expenses as the basic allocators of indirect costs but create proxy physician work values for services that have no physician work (the Lewin Group, pages 22-23). The GAO suggests that the basic method for allocating indirect expenses does not adequately account for the indirect costs associated with services that do not have physician work RVUs (GAO-02-53, page 22). We do not believe that the large payment reductions that would occur if some zero physician work services were priced under the basic methodology are necessarily associated with the indirect cost allocation methodology. While the zero physician work pool is of benefit to many of the services that were originally included, some specialties commented that this methodological change negatively affected the particular services they provide. As a result, we allowed specialties to request that their services be removed from the zero physician work pool (see July 22, 1999 proposed rule (64 FR 39620)). If there are shortcomings in the indirect cost allocation for services that have zero physician work, it seems likely that the values for all zero physician work services would be adversely affected. However, since many zero physician work services are not adversely affected under the top down methodology, it seems unlikely that the indirect cost allocation explains the adverse payment impact that would result for some services from elimination of the zero physician work pool. For this reason, we do not anticipate modifying the indirect cost allocation for zero physician work services.

Based on our analysis of the Lewin suggestions, we do not believe that allocation of either direct or indirect expenses explains the effect of the top down methodology on zero physician work services. Rather, we believe it is likely that a relatively low practice expense per hour for some of the specialties included in the zero physician work pool explains why their payments are adversely affected by its elimination.

The specialties whose services are affected by the zero physician work pool may want to conduct supplemental practice expense surveys if they believe there are shortcomings in the practice expense per hour information that we use as part of the basic methodology. We have published in this issue of the Federal Register, an interim final rule with comment that will modify the criteria for acceptance of supplemental data. This should make it easier for specialties to incorporate new practice expense survey information into the methodology. Further, as we indicated previously in the November 1, 2000 Federal Register (65 FR 65384), we believe that there are significant advantages to receiving practice cost information through multi-specialty surveys. For this reason, we would welcome a multi-specialty practice expense survey from all of the specialties that have payments affected by the zero physician work pool.

b. Other Proposals for Changes to the Zero Physician Work Pool

(i) Adjustment to Oncology Supplies Practice Expense Per Hour

In the June 5, 1998 proposed rule (63 FR 30832), we proposed an adjustment to the medical supplies practice expense per hour for oncology as a result of a concern that their inordinately high practice expense per hour included expenses associated with separately payable cancer drugs. We proposed to substitute the “all physician” average for the oncology-specific medical supplies practice expense per hour. We received public comments indicating that, even after excluding the effect of higher drug expenses, oncologists have higher medical supply expenses than the average physician because of high supply costs associated with the administration of chemotherapy. These commenters suggested alternatives to using the average physician rate. In our November 2, 1998 (63 FR 58825) final rule, we made an adjustment to the medical supplies practice expense per hour for oncology and indicated our belief that oncology medical supply expenses would not necessarily exceed those of the average physician. However, the adjustment has largely had no effect since the practice expense RVUs for chemotherapy administration services are determined in the zero physician work pool.

In its October 2001 report, the GAO recommended that we examine the effect of the adjustment made to oncologists' reported medical supplies expenses per hour. GAO did not suggest a specific alternative to the adjustment we made (GAO-02-53, pages 24-25). Consistent with the GAO recommendation, we have examined this adjustment and its impact on Medicare payments to oncologists. Upon further review, we believe that there is merit in reconsidering the adjustment that we made to the medical supply expenses for oncologists in combination with removing chemotherapy administration services from the zero physician work pool.

At this time, we have no specific information on oncology medical supply expenses net of separately payable drugs. However, we have established a process that would allow specialties to submit supplemental practice expense survey data to us. While the criteria for performing a survey require consistency with the SMS, we are amenable to modifications to the survey instrument so that it can address questions that are of concern to a specific medical specialty. For instance, we would allow an oncology survey to request that respondents distinguish between drug and other medical supply related expenses. We believe that using specific data on this question from a survey would be preferable to developing an alternative adjustment that requires us to make assumptions about oncology medical supply expenses. However, if further survey information is unavailable to us, we are considering information that could be used as a reasonable proxy to determine the portion of the supplies practice expense per hour that is attributable to medical supplies that are not separately payable. Such an idea was suggested in the public comments on the June 5, 1998 proposed rule. We are considering other alternatives as well. These approaches to the supplies practice expense per hour would apply if chemotherapy administration services were removed from the zero physician work pool.

(ii) Change to Staff Time Used To Create the Pool

In the November 2, 1998 final rule (63 FR 58841), we indicated that average clinical staff time was used in the creation of the zero physician work pool. Since the cost pools are created based on physician time and, by definition, zero physician work services have no physician time, we need to use staff time to create the cost pool. If our database indicates that multiple staff types are typically involved in the service, we have used an average of the different clinical staff times. We are proposing to create the cost pool using the highest staff time in place of average staff time. The impact of this proposal is shown in the impact section of this proposed rule.

(iii) Removal of Non-Invasive Vascular Diagnostic Study Codes From the Zero Physician Work Pool

We are proposing to remove the non-invasive vascular diagnostic study codes (CPT codes 93875-93990) from the zero physician work pool based on a request from the American Association for Vascular Surgery and the Society for Vascular Surgery. The impact of this proposal is also described further in the impact section.

(iv) Removal of Immunization CPT Codes 90471 and 90472 From the Zero Physician Work Pool

As discussed above, in the November 2, 1998 final rule (63 FR 58841), in response to the many commenters who were concerned about the proposed reductions for services with zero physician work RVUs, we created a separate practice expense pool for all services with zero physician work RVUs. The assignment of services to this zero physician work pool was of benefit to most services in this expense pool. However, some specialties were negatively affected by this methodology, and we have allowed specialties to indicate whether their services should be priced in this pool.

Immunization administration services do not have physician work RVUs and have been included in the zero physician work pool. So that the direct practice expense resource costs associated with the immunization administration services are recognized, we propose removing these services from the zero physician work pool methodology and treating them like the vast majority of services on the physician fee schedule. Using the direct cost practice expense inputs as recommended by the AMA's RUC, the proposed practice expense relative value units will be 0.22 for CPT code 90471 and 0.09 for CPT code 90472. This change will nearly double payment for CPT code 90471 and slightly reduce payment for CPT code 90472. Procedure CPT code 90471 is used for immunization administration and CPT code 90472 is used for each additional vaccine. Since CPT code 90472 must be billed in conjunction with CPT code 90471, the total payment for these procedures will increase when billed together.

We have not assigned immunization administration physician work RVUs because this service does not typically involve a physician. The nurse that administers the vaccine typically provides the necessary counseling to the patient and this time is accounted for in the practice expense RVU.

In addition, we would note that not all services represented by CPT codes 90471 and 90472 are covered by Medicare. For example, medically necessary administrations of tetanus toxoid (such as following a severe injury) would be covered whereas preventive administration of this vaccine would not be covered. Also, we will consider whether the amount of counseling of the patient and/or family may be different for childhood immunizations than for the typical Medicare service. Therefore, we are considering whether coding changes to reflect these differences would be appropriate.

3. Utilization Data

As indicated earlier, Medicare utilization is an important data source used in determining the practice expense RVUs. In our final rule published on November 2, 1998 (63 FR 58815), we used 1997 Medicare utilization data to create the original resource-based practice expense RVUs. Based on a public comment, we indicated in our November 2, 1999 final rule (64 FR 59405) that we would use 1998 Medicare utilization to develop the fully implemented RVUs that appear in that final rule. Because these data were unavailable to us for the proposed rule, the first time we could act on this public comment was in the final rule. We have continued our policy of using the latest utilization data to develop each successive year's fully implemented practice expense RVUs during each year of the transition (see 65 FR 65436, published on November 1, 2000, and 66 FR 55322, published on November 1, 2001).

While substituting the latest year's utilization data into the practice expense methodology generally made little difference on total Medicare payments per specialty, it had a larger impact on services that have values affected by the zero physician work pool. The practice expense values for the technical component and other services included in the zero physician work pool declined 4 percent in 2002 as a result of using the most recent Medicare utilization data. Since the technical component is used to derive the global practice expense RVUs for professional and technical component services, there was also a reduction in the practice expense RVU for the global service.

The specialties that provide many of the services that are included in the zero physician work pool have expressed concern about the impact of the most recent data on utilization on values for their services. They recently suggested that we use combined utilization data from 1997 to 2000 to determine the practice expense values. Alternatively, these commenters suggested using either the 1997 or 1999 utilization as a “base year” until an alternative to the zero physician work pool can be developed. These commenters further indicated that, once an option is chosen, we should not use more recent utilization data until comprehensive reform of the zero physician work methodology is adopted.

We believe the suggestion of using multiple years of utilization data in the practice expense methodology has merit. Using multiple years of data has the potential to minimize the effect of year to year case mix changes on practice expense RVUs and improves the stability of our payment systems. We are proposing to develop the practice expense RVUs using Medicare utilization data from 1997-2000. More information on the impact of this proposal can be found in the regulatory impact statement of this proposed rule.

We also agree with the suggestion that the utilization data not change annually until the zero physician work pool is eliminated. In fact, we are reconsidering whether to continue the practice of using the most recent utilization to develop each successive year's practice expense RVUs. As we have indicated elsewhere in this and earlier rules, we are continuing the refinement process beyond the 1998-2002 transition period mandated by the BBA. Once the refinement process is complete, we believe that the physician community has a reasonable expectation that the practice expense RVUs will not change from year to year unless further refinement is undertaken. Once the initial refinement of practice expense RVUs is complete, we expect to make additional refinements at least every 5 years as provided for in section 1848(c)(2)(B) of the Act. As the refinement process continues, there have been fewer widespread changes to Medicare payments and there has been increased year-to-year consistency in the practice expense RVUs. We believe this stability would improve if we incorpoated the most recent utilization data into the practice expense methodology only when we undertake substantial refinement as part of a 5-year review. For this reason, we are proposing to use the 1997-2000 utilization data to develop the CY 2003 practice expense RVUs and not further update the utilization data to incorporate the 2001 utilization data in this year's final rule. Further, we are proposing to continue using the 1997-2000 utilization data in the practice expense methodology until we undertake the 5-year review of practice expense RVUs. We invite comments on these issues.

4. Site of Service

As part of our resource-based practice expense methodology, we make a distinction between the practice expense RVUs for the non-facility and the facility setting.

This distinction is needed because of the higher resource costs to the physician in the non-facility setting when the practitioner typically bears the cost of the resources associated with the service. In addition, the distinction ensures that we do not make a duplicate payment for any of the practice expenses incurred in performing a service for a Medicare beneficiary. When the beneficiary is a facility patient, we pay the facility for the clinical staff, supplies, and equipment needed to care for the patient. A generally lower facility practice expense rate is paid to the practitioner. Currently, we have designated only hospitals, skilled nursing facilities (SNFs), and community mental health centers (CMHCs) as facilities for purposes of calculating practice expense. An ambulatory surgical center (ASC) is designated as a facility if it is the place of service for a procedure on the ASC list. All other places of service are currently considered non-facility.

Several new places of service are now in use for which we need to assign a site-of-service designation. Also, we are proposing revisions to the site-of-service designation for several existing places of service. We are proposing to assign a facility site of service where a facility or other payment will be made, in addition to the physician fee schedule payment to the practitioner, to reflect the practice expenses incurred in providing a service to a Medicare patient. We are proposing to designate all other places of service as non-facilities.

The following is a list of the new places of service, along with their place of service numerical codes and their proposed site of service designations using the above criteria:

04—Homeless Shelter—

We are proposing that this be considered a nonfacility setting.

05—Indian Health Service Free-Standing Facility—

We are proposing that this be considered a nonfacility setting.

06—Indian Health Service Provider-Based Facility—

We are proposing that this be considered a facility setting.

07—Tribal 638—Free-Standing Facility—

We are proposing that this be considered a nonfacility setting.

08—Tribal 638—Provider-Based Facility—

We are proposing that this be considered a facility setting.

15—Mobile Unit

We are proposing that this be considered a nonfacility setting.

If a mobile unit provides a service to a facility patient, the appropriate place-of-service code for the facility should be used. For instance, if a portable X-ray service is provided to a patient in a Part A skilled nursing facility stay, the place of service is 31, Skilled Nursing Facility. No payment is made under Part B for the technical component of a diagnostic test, portable x-ray transportation or portable x-ray set up. Payment is made to the SNF for Part A services and includes payment for diagnostic services that may be needed by the patient. This policy is consistent with recommendations made by the Inspector General in a recent report, Review of Improper Payments Made by Medicare Part B for Covered Services under the Part A Skilled Nursing Facility Prospective Payment System (A-01-00-00538).

20—Urgent Care Facility—

We are proposing that this be considered a nonfacility setting.

We are proposing changes in site of service to the following current designations:

26—Military Treatment Facility—

Currently this is designated as a nonfacility. We are proposing that this be considered a facility setting.

41—Ambulance-Land

42—Ambulance Air or Water—

Currently codes 41 and 42 are designated as nonfacility. We would propose to designate them as facilities because we make payments for ambulance services using the ambulance fee schedule that covers the direct practice expense.

52—Psychiatric Facility Partial Hospitalization—

Currently, this is designated as a nonfacility. We are proposing that this be considered a facility setting.

56—Psychiatric Residential Treatment Facility—

Currently, this is designated as a nonfacility. We are proposing that this be considered a facility setting.

In the chart below is a complete list of all the existing place-of-service codes along with the appropriate site-of-service designation and the descriptor for each. These codes are used on all professional claims to specify the entity where services are furnished.

Place of Service Codes for Professional Claims; Database as of 1/11/2002
Facility vs nonfacility designation | Place of service code(s) | Place of service name | Place of service description
| 01-02 | Unassigned | N/A.
NF | 03 | School | A facility whose primary purpose is education.
NF | 04 | Homeless Shelter | A facility or location whose primary purpose is to provide temporary housing to homeless individuals (for example, emergency shelters, individual or family shelters).
NF | 05 | Indian Health Service Free-standing Facility | A facility or location, owned and operated by the Indian Health Service, which provides diagnostic, therapeutic (surgical and non-surgical), and rehabilitation services to American Indians and Alaska Natives who do not require hospitalization.
F | 06 | Indian Health Service Provider-based Facility | A facility or location, owned and operated by the Indian Health Service, which provides diagnostic, therapeutic (surgical and non-surgical), and rehabilitation services rendered by, or under the supervision of, physicians to American Indians and Alaska Natives admitted as inpatients or outpatients.
NF | 07 | Tribal 638 Free-standing Facility | A facility or location owned and operated by a Federally recognized American Indian or Alaska Native tribe or tribal organization under a 638 agreement, which provides diagnostic, therapeutic (surgical and non- surgical), and rehabilitation services to tribal members who do not require hospitalization.
F | 08 | Tribal 638 Provider-based Facility | A facility or location owned and operated by a Federally recognized American Indian or Alaska Native tribe or tribal organization under a 638 agreement, which provides diagnostic, therapeutic (surgical and non- surgical), and rehabilitation services to tribal members admitted as inpatients or outpatients.
| 09-10 | Unassigned | N/A.
NF | 11 | Office | Location, other than a hospital, skilled nursing facility (SNF), military treatment facility, community health center, State or local public health clinic, or intermediate care facility (ICF), where the health professional routinely provides health examinations, diagnosis, and treatment of illness or injury on an ambulatory basis.
NF | 12 | Home | Location, other than a hospital or other facility, where the patient receives care in a private residence.
| 13-14 | Unassigned | N/A.
NF (*See above explanation) | 15 | Mobile Unit | A facility/unit that moves from place-to-place equipped to provide preventive, screening, diagnostic, and/or treatment services.
| 16-19 | Unassigned | N/A.
NF | 20 | Urgent Care Facility | Location, distinct from a hospital emergency room, an office, or a clinic, whose purpose is to diagnose and treat illness or injury for unscheduled, ambulatory patients seeking immediate medical attention.
F | 21 | Inpatient Hospital | A facility, other than psychiatric, which primarily provides diagnostic, therapeutic (both surgical and nonsurgical), and rehabilitation services by, or under, the supervision of physicians to patients admitted for a variety of medical conditions.
F | 22 | Outpatient Hospital | A portion of a hospital which provides diagnostic, therapeutic (both surgical and nonsurgical), and rehabilitation services to sick or injured persons who do not require hospitalization or institutionalization.
F | 23 | Emergency Room—Hospital | A portion of a hospital where emergency diagnosis and treatment of illness or injury is provided.
F when performing a service on the Medicare ASC list, otherwise a NF. | 24 | Ambulatory Surgical Center | A freestanding facility, other than a physician's office, where surgical and diagnostic services are provided on an ambulatory basis.
NF | 25 | Birthing Center | A facility, other than a hospital's maternity facilities or a physician's office, which provides a setting for labor, delivery, and immediate post-partum care as well as immediate care of newborn infants.
F | 26 | Military Treatment Facility | A medical facility operated by one or more of the Uniformed Services. Military Treatment Facility (MTF) also refers to certain former U.S. Public Health Service (USPHS) facilities now designated as Uniformed Service Treatment Facilities (USTF).
| 27-30 | Unassigned | N/A.
F | 31 | Skilled Nursing Facility | A facility which primarily provides inpatient skilled nursing care and related services to patients who require medical, nursing, or rehabilitative services but does not provide the level of care or treatment available in a hospital.
NF | 32 | Nursing Facility | A facility which primarily provides to residents skilled nursing care and related services for the rehabilitation of injured, disabled, or sick persons, or, on a regular basis, health-related care services above the level of custodial care to other than mentally retarded individuals.
NF | 33 | Custodial Care Facility | A facility which provides room, board and other personal assistance services, generally on a long-term basis, and which does not include a medical component.
F | 34 | Hospice | A facility, other than a patient's home, in which palliative and supportive care for terminally ill patients and their families is provided.
| 35-40 | Unassigned | N/A.
F | 41 | Ambulance—Land | A land vehicle specifically designed, equipped and staffed for lifesaving and transporting the sick or injured.
F | 42 | Ambulance—Air or Water | An air or water vehicle specifically designed, equipped and staffed for lifesaving and transporting the sick or injured.
| 43-49 | Unassigned | N/A.
NF | 50 | Federally Qualified Health Center | A facility located in a medically underserved area that provides Medicare beneficiaries preventive primary medical care under the general direction of a physician.
F | 51 | Inpatient Psychiatric Facility | A facility that provides inpatient psychiatric services for the diagnosis and treatment of mental illness on a 24-hour basis, by or under the supervision of a physician.
F | 52 | Psychiatric Facility-Partial Hospitalization | A facility for the diagnosis and treatment of mental illness that provides a planned therapeutic program for patients who do not require full time hospitalization, but who need broader programs than are possible from outpatient visits to a hospital-based or hospital-affiliated facility.
F | 53 | Community Mental Health Center | A facility that provides the following services: outpatient services, including specialized outpatient services for children, the elderly, individuals who are chronically ill, and residents of the CMHC's mental health services area who have been discharged from inpatient treatment at a mental health facility; 24-hour a day emergency care services; day treatment, other partial hospitalization services, or psychosocial rehabilitation services; screening for patients being considered for admission to State mental health facilities to determine the appropriateness of that admission; and consultation and education services.
NF | 54 | Intermediate Care Facility/Mentally Retarded | A facility which primarily provides health-related care and services above the level of custodial care to mentally retarded individuals but does not provide the level of care or treatment available in a hospital or SNF.
NF | 55 | Residential Substance-Abuse Treatment Facility | A facility which provides treatment for substance (alcohol and drug) abuse to live-in residents who do not require acute medical care. Services include individual and group therapy and counseling, family counseling, laboratory tests, drugs and supplies, psychological testing, and room and board.
NF | 56 | Psychiatric Residential Treatment Center | A facility or distinct part of a facility for psychiatric care which provides a total 24-hour therapeutically planned and professionally staffed group living and learning environment.
| 57-59 | Unassigned | N/A.
NF | 60 | Mass Immunization Center | A location where providers administer pneumococcal pneumonia and influenza virus vaccinations and submit these services as electronic media claims, paper claims, or using the roster billing method. This generally takes place in a mass immunization setting, such as a public health center, pharmacy, or mall, but may include a physician office setting.
NF | 61 | Comprehensive Inpatient Rehabilitation Facility | A facility that provides comprehensive rehabilitation services under the supervision of a physician to inpatients with physical disabilities. Services include physical therapy, occupational therapy, speech pathology, social or psychological services, and orthotics and prosthetics services.
NF | 62 | Comprehensive Outpatient Rehabilitation Facility | A facility that provides comprehensive rehabilitation services under the supervision of a physician to outpatients with physical disabilities. Services include physical therapy, occupational therapy, and speech pathology services.
| 63-64 | Unassigned | N/A.
NF | 65 | End-Stage Renal Disease Treatment Facility | A facility other than a hospital, which provides dialysis treatment, maintenance, and/or training to patients or caregivers on an ambulatory or home-care basis.
| 66-70 | Unassigned | N/A.
NF | 71 | State or Local Public Health Clinic | A facility maintained by either State or local health departments which provides ambulatory primary medical care under the general direction of a physician.
NF | 72 | Rural Health Clinic | A certified facility which is located in a rural medically-underserved area that provides ambulatory primary medical care under the general direction of a physician.
| 73-80 | Unassigned | N/A.
NF | 81 | Independent Laboratory | A laboratory certified to perform diagnostic and/or clinical tests independent of an institution or a physician's office.
| 82-98 | Unassigned | N/A.
| 99 | Other Place of Service | Other place of service not identified above.

B. Anesthesia Issues

1. Five-Year Review of Anesthesia Work

Medical and surgical services paid under the physician fee schedule have three separate relative value components, a work RVU, a practice expense RVU and a malpractice RVU. Physician anesthesia services are paid under the physician fee schedule, but the payment method is different than the payment method for physician medical and surgical services. Payment for anesthesia services is based on the sum of base units and anesthesia time units multiplied by an anesthesia CF that is different from the physician fee schedule CF for medical and surgical services.

The law requires that we review RVUs no less than every 5 years. The first 5-year review of work RVUs was completed and the revised work RVUs were implemented in 1997. The second 5-year review (with the exception of anesthesia services) was completed and the revised work RVUs implemented in CY 2002.

In the first 5-year review of work RVUs, we accepted the American Medical Association's (AMA's) Relative Value Update Committee's (RUC's) recommendation that the work of anesthesia services was undervalued by approximately 23 percent. Since anesthesia services do not have individual work RVUs per code, the adjustment in anesthesia work was made to the anesthesia CF and not to the anesthesia codes themselves. This resulted in a 16-percent increase in the anesthesia CF. Budget neutrality was maintained by making an adjustment to the general physician fee schedule.

For the second 5-year review, the American Society of Anesthesiologists (ASA) submitted comments to us contending that the work of anesthesia services is still undervalued by almost 31 percent. The Society subsequently reduced this to a request for a 26-percent increase in work based on additional discussions with the RUC.

We can impute an anesthesia work value from the current allowed charge for an anesthesia service. This work value can be compared to the work value for anesthesia services that is derived from a building block approach. Under the building block approach, uniform individual components of the anesthesia service are identified and the work value of each component is estimated on the basis of a comparable physician medical or surgical service. The ASA derived a work value for an anesthesia code by dividing the anesthesia service into five uniform components and compared the work of each component to a comparable medical or surgical service. The five components are—preoperative evaluation, equipment and supply preparation, induction period, postinduction period, and postoperative care and visits. Using this method, the ASA proposed work values for 19 high volume anesthesia codes. The 19 codes represent a reasonable variety of surgical procedure types, including general surgery, vascular surgery, neurosurgery, urology, orthopedics, cardiac surgery, and ophthalmology. The base units of the 19 anesthesia codes reviewed range from three to twenty units.

During this second 5-year review of work, four RUC workgroups have reviewed the ASA comments and received supplemental information through presentations from the ASA. Most of these workgroups have expressed concerns about some of the intensity values that ASA assigned to the individual anesthesia components, most notably, the induction and postinduction time periods. Each of these workgroups expressed serious concern about extrapolating the imputed work undervaluation from the 19 survey codes to all anesthesia service codes, even though these 19 codes account for more than 40 percent of all anesthesia associated with surgical services.

Despite the efforts of its workgroups, the RUC furnished no recommendation to us on whether the work of anesthesia services is over-or undervalued. In the November 1, 2001 physician fee schedule final rule, we stated that:

The RUC has informed us that it will continue to look at anesthesia work beginning at its first meeting in CY 2002. We will review the RUC recommendation and address anesthesia work in next year's proposed physician fee schedule rule.

The RUC recently presented us with the analysis and findings of its April 2002 anesthesia workgroup. Despite its detailed analysis and laborious discussions of this issue, the RUC concluded that it was unable to make a recommendation regarding modification to the physician work valuation of anesthesia codes. Specifically, the RUC indicated the following:

“The RUC, having carefully considered the information presented, and having a reasonable level of confidence in the data which was presented and developed by the RUC, is unable to make a recommendation to CMS regarding modification to the physician work valuation of anesthesia codes.”

At the April 2002 meeting, the RUC anesthesia workgroup reviewed the postinduction intensity values for the 19 anesthesia codes. The group also reviewed each anesthesia code, the benchmark surgical code, and the five codes mapped to that anesthesia code that accounted for the largest percentage of total volume. The group considered the extent to which the anesthesia work of the benchmark surgical code is representative of other surgical codes that would be covered by the anesthesia code.

We will review the information forwarded by the RUC and all comments we receive during the comment period to determine if an appropriate adjustment can be made to anesthesia work. We would note that any such adjustment would also require an adjustment to the conversion factor for all physicians' services, as required by section 1848(c)(2)(B)(ii) of the Act. For example, a 26 percent increase in anesthesia work, an amount which was requested last year, would require a reduction of about 0.4 percent in the conversion factor for all services. We welcome comments on these issues.

2. Add-on Anesthesia Codes

Current Policy

As we discuss above, payment for anesthesia services is based on the sum of an anesthesia code-specific base unit value plus anesthesia time units multiplied by an anesthesia CF. If the physician is involved in multiple anesthesia services for the same patient during the same operative session, payment is based on the base unit assigned to the anesthesia service having the highest base unit value and anesthesia time that encompasses the multiple services. This policy was adopted at the start of the physician fee schedule in 1992 and is incorporated in § 414.48(g).

Claims processing manuals instruct the carrier on the method for handling anesthesia associated with multiple or bilateral surgical procedures. Under Medicare Carrier Manual (MCM) 4830 D, the carrier instructs the physician to report the anesthesia procedure with the highest base unit value with the multiple procedures modifier, “51”, and to report total time across all surgical procedures. Thus, the carrier is recognizing payment for one anesthesia code, despite the billing of multiple surgical codes by a surgeon.

Proposed Policy for Add-on Codes

In 2001 and 2002, the CPT has added new anesthesia codes, some of which are add-on codes. The objective is that the add-on code would be billed with a primary code and the base unit of each code would be allowed.

In the burn area, CPT code 01953 (1 base unit) is used in conjunction with CPT code 01952 (5 base units). In the obstetrical area, CPT code 01968 (2 base units) is used in conjunction with CPT code 01967 (5 base units) and CPT code 01969 (5 base units) is used in conjunction with CPT code 01967 (5 base units).

The application of the multiple anesthesia service policy means that the base units of the add-on codes would never be recognized. Only the base units of the primary code would be allowed. We believe that anesthesia add-on codes should be priced differently than other multiple anesthesia codes. As a result, we are proposing to revise the regulations in § 414.46(g) to include an exception to the usual multiple anesthesia services policy for add-on codes.

C. Changes to the Physician Fee Schedule Update Calculation and the Sustainable Growth Rate (SGR)

1. Medicare Economic Index Productivity Adjustment

In its March 2002 Report to Congress, MedPAC recommended that “The Secretary should revise the productivity adjustment for physicians' services and make it a multifactor instead of labor-only adjustment.” In this section, we review the history of the Medicare Economic Index (MEI) productivity adjustment, describe the current MEI productivity adjustment, and identify and evaluate possible alternative MEI productivity adjustments based on the individual contributions we solicited from experts on this topic. We conclude by proposing that the MEI productivity adjustment be changed to reflect an economy-wide multifactor productivity adjustment.

a. History of MEI Productivity Adjustment

The MEI is based on the fourth sentence of section 1842(b)(3) of the Act that states that prevailing charge levels beginning after June 30, 1973 may not exceed the level from the previous year except to the extent that the Secretary finds, on the basis of appropriate economic index data, that such higher level is justified by year-to-year economic changes. S. Rept. No. 92-1230 at 191 (1972) provides slightly more detail on that index, stating that:

Initially, the Secretary would be expected to base the proposed economic indexes on presently available information on changes in expenses of practice and general earnings levels combined in a matter consistent with available data on the ratio of the expenses of practice to income from practice occurring among self-employed physicians as a group.

Based on this legislative intent, in 1975, we determined that the MEI would be based on a broad wage measure reflecting overall earnings growth, rather than direct inclusion of physicians' net income. We used average weekly earnings of nonagricultural production (nonsupervisory) workers, net of worker's productivity, as the wage proxy in the initial MEI. We included the productivity adjustment because it avoided double counting of gains in earnings resulting from growth in productivity and produced a MEI that approximated an economy-wide output price index like the Consumer Price Index (CPI). The productivity adjustment we used was the annual change in economy-wide private nonfarm business labor productivity, applied only to the physicians' earnings portion of the MEI (then 60 percent).

As noted, the productivity adjustment in the MEI serves to avoid the double counting of productivity gains. Absent the adjustment, productivity gains from producing additional outputs (procedures) with a given amount of inputs would be included in both the earnings component of the MEI (reflecting growth in overall economy-wide productivity) and in the additional procedures that are billed (reflecting physicians' own productivity gains). Therefore, general economic labor productivity growth is removed from the labor portion of the price update.

The basic structure of the MEI remained relatively unchanged from its effective date (July 1, 1975) to 1992, although its weights were updated periodically and a component was added for professional liability insurance. Section 9331 of the Omnibus Budget Reconciliation Act of 1986 (Pub. L. 99-509) (OBRA) mandated a study of the MEI and a notice and opportunity for public comment before revision of the methodology for calculating the MEI. Based on this requirement, we held a workshop with experts on the MEI in March 1987 to discuss topics ranging from the specific type of index to use (Laspeyres versus Paasche) to revising the method of reflecting productivity changes. Participants in the meeting included the Federal government, the Physician Payment Review Commission (PPRC), the Congressional Budget Office, the American Medical Association (AMA), and several consulting firms. The meeting participants concluded that a productivity adjustment was appropriate and that an acceptable measure of physician-specific productivity did not exist. Many alternative approaches were discussed, including the use of a policy-based “target” measure and several existing economic productivity measures.

Using recommendations from the meeting participants, we revised the MEI and the productivity adjustment with the implementation of the physician fee schedule as discussed in the November 1992 final rule (57 FR 55896). While we retained an adjustment for economy-wide labor productivity, it was applied to all of the direct labor categories of the MEI (70.448 percent), not just physicians' earnings, and was based on the 10-year moving average percent change (instead of annual percent changes). This form of the index has been used since that time, and was most recently discussed in the November 1998 final rule (63 FR 58845) when the MEI weights were rebased to a 1996 base year.

The Balanced Budget Act replaced the Medicare Volume Performance Standard (MVPS) with a Sustainable Growth Rate (SGR). Section 1848(f) of the Act specifies the formula for establishing yearly SGR target for physicians' services under Medicare. The use of SGR targets is intended to control the actual growth in aggregate Medicare expenditures for physicians' services. The SGR targets are not limits on expenditures. Payments for services are not withheld if the SGR target is exceeded by actual expenditures. Rather, the appropriate fee schedule update, as specified in section 1848(d)(3) of the Act, is adjusted to reflect the success or failure in meeting the SGR target. If expenditures are less than the target, the update is increased. If expenditures exceed the target, the update is reduced. Specifically, expenditures are allowed to increase by fee-for-service Medicare enrollment growth, physician fee increases, increases in real per capita Gross Domestic Product (GDP), and changes in laws or regulations. Consequently, the statute links allowable increases in the volume of services resulting from physician productivity gains—together with volume and intensity increases due to technology and other factors—to the real per capita GDP.

When the SGR was enacted, the Congress specified continued use of the MEI. By 1997, this index, including its productivity adjustment, had been used in updating Medicare payments to physicians for over twenty years. We did not propose any changes to the productivity adjustment used in the MEI because its continued use was consistent with the newly mandated SGR. If we did not make the adjustment in the MEI, general economic productivity gains would be reflected in two of the SGR factors, the MEI and real per-capita GDP (which reflects real GDP per hour worked, or labor productivity, and hours worked per person). We believe it is reasonable to remove the effect of general economic productivity from one of these factors (the MEI) to avoid double counting.

b. Current MEI Productivity Adjustment

The current MEI productivity adjustment is based on the 10-year moving average percent change in private nonfarm business (referred to hereafter as “economy-wide”) labor productivity, published by the Bureau of Labor Statistics (BLS) on a quarterly basis. A 10-year moving average is used to limit the impact of cyclical fluctuations in productivity. The productivity adjustment is applied only to the direct labor portions of the MEI (currently estimated at 71.272 percent). Therefore, the MEI is not reduced by the full change in labor productivity, but instead by only a portion of the change.

In addition, the most recently available historical data are used for the update for the upcoming calendar year (for example, data available through the second quarter of CY 2001 was used for the CY 2002 update).

Under this method, the current estimate of the existing MEI for the CY 2003 fee schedule update would be 2.3 percent. The 10-year moving average percent change in economy-wide labor productivity for the CY 2003 update is estimated to be 2.1 percent. However, since this adjustment is applied only to the direct labor portion of the MEI, the actual adjustment would be 1.5 percent. By comparison, the most recent forecast by DRI-WEFA, a Global Insight Company, of the CPI for all items for this same period is 1.6 percent.

As noted previously, since its original development, the MEI productivity adjustment has been based on economy-wide productivity changes. This practice arose from the fact that the physicians' compensation portion of the MEI is proxied to grow at the same rate as general earnings in the overall economy, which reflect growth in overall economy-wide productivity. Removing labor productivity growth reflected in general earnings from the labor portion of the MEI produces an index that is consistent with other economy-wide output price indexes, like the CPI. Although some commenters have argued that use of a physician-specific productivity measure would be more appropriate, no such published measure existed at the time of the MEI's development; nor does one exist today.

c. Research on Alternative MEI Productivity Adjustments

We conducted a number of research activities to evaluate whether the current productivity adjustment is still the most appropriate adjustment to use in the MEI. First, we evaluated the currently available productivity estimates that are produced by the BLS to develop a better understanding of the strengths and weaknesses of these measures. We also reviewed the theoretical foundation of the MEI to understand how labor and multifactor productivity relate to the current physician payment system. Then we studied the limited publicly available data to begin to develop preliminary estimates of trends in physician-specific productivity to better understand the current market conditions facing physicians. Finally, we solicited the individual contributions of academic and other professional economic experts on prices and productivity. They included experts from MedPAC, AMA, OMB, Dr. Uwe Reinhardt from Princeton University, Dr. Joe Newhouse from Harvard University, Dr. Ernst Berndt from MIT, and Dr. Joel Popkin from Joel Popkin and Company (former Assistant Commissioner of Prices at BLS). Based on the information we gathered during these research efforts, we evaluated six possible options for a productivity adjustment to the MEI. Our findings on each of the options we investigated are summarized below:

• Option 1—Using a physician-specific productivity adjustment.

This option would entail using an estimate of physician-specific productivity to adjust the MEI. This option may have some theoretical attractiveness, but there are major problems obtaining accurate measures of physician-specific productivity. First, no published measure of physician-specific productivity is available. The Federal agency that produces the official government statistics on productivity, BLS, does not calculate or publish productivity measures for any health sector. Nor are there alternative measures of physician-specific productivity that incorporate the BLS methodology of measuring productivity and that would meet the BLS standard of publication. Second, it is not clear that using physician-specific productivity within the current structure of the MEI would be appropriate. Because we believe the MEI appropriately uses an economy-wide wage measure as the proxy for physician wages, using physician specific productivity could overstate or understate the appropriate wage increase in the MEI.

We do believe, however, that it is important to understand the rate of change in physician-specific productivity. Toward this end, we have performed our own preliminary analysis of physician-specific productivity, using the limited publicly available data on physician outputs and inputs. Our analysis attempted to simulate the methodology the BLS would use to measure productivity. While this information cannot be interpreted as an official measure of productivity, we do believe it is a rough indication of the current market conditions facing physicians. We used this information to help form our determination of the most appropriate productivity adjustment to incorporate in the MEI, fully recognizing its preliminary nature and other limitations. The results of our preliminary analysis suggest that long-run physician-specific productivity growth is currently at approximately the same level as economy-wide multifactor productivity growth. Prior to the recent period, however, our preliminary estimates suggested that physician productivity gains were generally significantly greater than general economy-wide multifactor productivity gains.

As we have emphasized, our rough estimates are inadequate for establishing a formal basis for the productivity adjustment to the MEI. Nor is the underlying economic theory sufficiently compelling, at this time, to adopt a physician-specific productivity measure, even if a suitable one were available. We conclude, however, that economy-wide multifactor productivity growth appears to be roughly comparable to current physician-specific productivity growth.

• Option 2—Retaining the current productivity adjustment.

We investigated retaining the current productivity adjustment, that is, applying the 10-year moving average percent change in economy-wide labor productivity to the labor portion of the MEI. We have applied economy-wide labor productivity to a portion of the index in some form since the inception of the MEI in 1975. This current form has been used since the last major revision to the index in 1992 and was developed from the contributions of the 1987 expert panel. That panel concluded that using labor productivity applied to the labor portion of the index was a technically sound way to account for productivity in the physician update. This method makes optimal use of the available data since labor productivity data were, and are, available on a more timely basis than economy-wide multifactor productivity. By applying this measure to the labor portion of the index, the mix of physician-specific labor and nonlabor inputs is reflected. Also, the use of a 10-year moving average percentage change reduces the volatility of annual labor productivity changes.

Our research, however, has indicated that using multifactor productivity applied to the entire index is superior to using an economy-wide labor productivity measure applied only to the labor portion of the index. The experts with whom we consulted believed it was more appropriate to reflect the explicit contribution to output from all inputs. The current measure explicitly reflects the changes in economy-wide labor inputs but does not reflect the actual change in nonlabor inputs. Instead, it implicitly assumes that nonlabor inputs would grow at the rate necessary to produce an economy-wide multifactor measure that is equivalent to the current MEI productivity adjustment. That implicit assumption is less precise than a direct, explicit calculation.

In addition, while the implicit approach produced an MEI productivity adjustment in most years that was reasonably consistent with overall multifactor productivity growth, it now appears less consistent with the actual change in nonlabor inputs in the economy. In recent years, economy-wide labor productivity has grown very rapidly. This acceleration is partly the result of major investments in computers (a nonlabor input) that have helped create a more productive work force. Also, the Bureau of Economic Analysis (BEA) has adopted methodological changes in accounting for computer software purchases in measuring GDP. These changes have significantly increased the measured historical growth rates in real GDP and labor productivity. As a result of these developments, the MEI productivity adjustment based on labor productivity applied only to the labor portion of the MEI has increased very rapidly. Since the multifactor definition is an explicit calculation of the change in economic output relative to the change in both labor and nonlabor inputs, it better reflects the trend changes.

Finally, as noted previously, our preliminary estimates of physician-specific productivity suggest a current growth pattern that is similar to growth in multifactor productivity in the economy overall. In consideration of the economic theory underlying productivity measurement, especially in view of the recent developments in labor versus nonlabor economic input growth trends, we concluded that using a multifactor productivity adjustment is superior to the current methodology for adjustment for productivity in the MEI.

• Option 3—Changing to using economy-wide multifactor productivity.

One option for adjusting for productivity gains in the MEI would be to continue to use an economy-wide productivity measure, but to use multifactor productivity applied to the entire index, instead of labor productivity applied to the labor portion of the MEI. As noted previously, this approach was recommended by MedPAC in its March 2002 Report to the Congress. This option would better satisfy the theoretical requirements of an output price, in this case the MEI, by explicitly reflecting the productivity gains from all inputs. In addition, the use of economy-wide multifactor productivity would still be consistent with the MEI's use of economy-wide wages as a proxy for physician earnings. While annual multifactor productivity can fluctuate considerably, though usually less than labor productivity, using a moving-average would produce a relatively stable and predictable adjustment.

Each expert with whom we consulted believed that using a multifactor productivity measure was theoretically superior to the existing method because it reflected the actual changes in nonlabor inputs instead of reflecting an implicit assumption. They also believed that the lack of timely data on multifactor productivity was not as important as would have appeared initially. Instead, the experts believed it was more appropriate that the adjustment be based on a long-run average that was stable and predictable rather than on annual changes in productivity. Thus, if a long-run average were used, the increased lag time associated with the availability of published data on multifactor productivity would become less significant. Finally, one expert believed that changing to economy-wide multifactor productivity applied to the entire MEI would make it easier to understand the magnitude of the productivity adjustment.

Use of multifactor productivity to adjust the MEI poses two concerns. First, multifactor productivity is much harder to measure than labor productivity. Economic inputs other than labor hours can be very difficult to identify and calculate properly. The experts at BLS, however, have adequately overcome these difficulties, and we are satisfied that their official published measurements are sound for the purpose at hand. Moreover, use of a 10-year moving average increase helps to mitigate any remaining measurement variation from year to year.

The second concern relates to the timeliness of the data. BLS publishes multifactor productivity levels and changes only annually (as opposed to the quarterly release of labor productivity data) and with an extended time lag (about 1½ years). These timeframes arise unavoidably from the difficulties of measurement mentioned above, but imply that the timeframe of data used to adjust the MEI would not match that of the historical data on wages and prices underlying the MEI. For the CY 2003 physician payment update, for example, we would use data on wages and prices through the second quarter of CY 2002, but would have to use multifactor productivity data only through CY 2000. Although the misalignment of data periods is a concern, we believe it is a reasonable trade-off in view of the improvement offered by the explicit measurement of nonlabor inputs. Also, since use of a 10-year moving average is intended to reduce fluctuations and provide a more stable level of the productivity adjustment, availability of the most recent data is of less importance.

The 10-year moving average percent change in economy-wide multifactor productivity that would be used for the CY 2003 update (historical data through CY 2000) is currently estimated at 0.8 percent. Our preliminary internal analysis of physician-specific productivity gains suggests that these economy-wide multifactor measures are somewhat consistent with those trends. Thus, using economy-wide multifactor productivity for MEI productivity adjustment theoretically would be superior to using labor productivity growth applied to the labor portion of the MEI. In addition, the use of a 10-year moving average would help alleviate the lag in the availability of the data. Lastly, the current 10-year moving average growth in economy-wide multifactor productivity appears to be within the range we have estimated for physician-specific multifactor productivity. One possible weakness of using economy-wide multifactor productivity is that it does not reflect physician-specific measures, whereas the existing methodology reflects the distribution of labor and nonlabor inputs used in the production of physician services. In practice, however, the balance between these factors of production is not substantially different for physician practices versus the overall economy.

• Option 4—Changing to using economy-wide multifactor productivity with physician-specific input weights.

Another option we explored was using economy-wide labor and capital productivity measures (which, when weighted together, produce multifactor productivity), but with physician-specific input weights. This method would better reflect the proportion of labor and capital inputs used by physicians, yet still reflect the explicit contribution to productivity of labor and nonlabor inputs. The experts with whom we discussed this option thought it was theoretically consistent with a measure of multifactor productivity, even though different productivity measures would be applied to different components of the MEI.

As noted above, the labor and capital shares for the overall economy do not appear to vary enough from the physician-specific shares in the MEI to result in a significantly different measure. A weakness of this method is that the BLS capital productivity series is not widely used or cited; therefore, we are unsure of the accuracy and reliability of this measure. This method also adds another layer of complexity to the formula, however, making it more difficult to understand the adjustment. We would prefer that any method we choose be straightforward so that everyone can readily understand the adjustment. Overall, we believe that this method does not provide enough of a technical improvement to justify the added complexity that would be required to implement it.

• Option 5—Adjusting productivity using a “Policy Standard”.

In its March 2002 Report to the Congress, MedPAC suggested establishing a policy target for the productivity adjustment. Under this methodology, the level of the policy target would be based on the productivity gains that we believe physicians could attain. This level would be set through policy and would likely be based on a long-run average of either economy-wide labor or multifactor productivity (but could reflect other, possibly judgmental, factors). Generally, the level of the policy standard would remain constant for several years; periodically, the policy target would be reviewed, and possibly adjusted.

Some of the experts we consulted believed that a policy target would lessen the volatility of the adjustment since the target would not be changed often. Conversely, others noted the large, abrupt changes that could result if actual economic performance deviated from the policy standard requiring subsequent adjustments to the standard. Some believed that this method adjusts for the problem of precisely measuring productivity. If we used a policy standard we could avoid having to develop an exact measure. Using a policy target, however, may appear arbitrary without a theoretical basis to support its use.

The policy target recommended by MedPAC was 0.5 percentage points per year. Its justification for this number was the fact that the long-run average of economy-wide multifactor productivity was close to 0.5 percent (the most recent 10-year average is now 0.8 percent). We do not believe this is a preferred option for adjusting the MEI for productivity improvements. Our preference is to use a long-term data-based approach that will produce results that are not inconsistent with a policy standard and that will automatically reflect changes in actual economic performance over time, and not through abrupt periodic large adjustments. Thus, we conclude that a policy target does not provide an improvement over any of the data-based methodologies.

• Option 6—Eliminate Productivity Adjustment from the MEI.

Questions are raised occasionally as to the possibility of eliminating the productivity adjustment from the MEI. We did not consider this to be a viable option. Our research concluded that adjusting for productivity in the MEI is necessary to have a technically correct measure of an output price increase, free of double-counting the impact of productivity. Every expert with whom we consulted agreed that a productivity adjustment was appropriate. They believed that the important question is which adjustment is the most appropriate. Therefore, we conclude, again, that it is not acceptable for the productivity adjustment to be removed from the MEI.

d. Use of a Forecasted MEI and Productivity Adjustment

MedPAC, in its March 2002 Report to the Congress, recommended the use of a forecasted MEI value, rather than the current historical increase. However, implementation of this option raises several legal as well as practical issues. The 1972 Senate Finance Committee report language reflects Congress' intent that the MEI should “follow rather than lead” overall inflation. Because of this, updates to the physician fee schedule have always been based on historical, rather than forecasted, MEI data. In this way, increases in the MEI do not lead the current measures of inflation but follow them based on historical trends. Furthermore, at the time of implementation of the SGR system, the Congress specified that the SGR system should use the MEI that existed at that time, which was based on historical data measures. The law did not recommend or specify a change in the MEI methodology; the assumption is that the Congress was satisfied that the MEI was functioning as designed.

If we were to change to a forecasted MEI and productivity adjustment, there are also several practical issues that would need to be addressed. One is that changing from a historical-based MEI to a projected MEI would cause transitional problems because there would be a period of data that would not be accounted for in the year of implementation. For example, the CY 2002 MEI update was based on historical data through the second quarter of 2001. If we were to use a forecasted MEI in the update for CY 2003, the changes between the second quarter of 2001 and the first quarter of 2003 would not be accounted for in the update. Finally, changing to a forecasted MEI and productivity adjustment raises additional questions about correcting for forecast errors. Based on these problems, we will continue to use historical data to make updates under the physician fee schedule.

e. Proposed Productivity Adjustment to the MEI

Based on the research we conducted on this issue, we are proposing to change the methodology for adjusting for productivity in the MEI. We propose that the MEI used for the CY 2003 physician payment update reflect changes in the 10-year moving average of private nonfarm business (economy-wide) multifactor productivity applied to the entire index. The current method accounts for productivity by adjusting the labor portion of the MEI by the 10-year moving average change in private nonfarm business (economy-wide) labor productivity.

We propose to make this change because: (1) It is theoretically more appropriate to explicitly reflect the productivity gains associated with all inputs (both labor and nonlabor); (2) the recent growth rate in economy-wide multifactor productivity appears more consistent with the current market conditions facing physicians; and (3) the MEI still uses economy-wide wage changes as a proxy for physician wage changes. We believe that using a 10-year moving average change in economy-wide multifactor productivity produces a stable and predictable adjustment and is consistent with the moving-average methodology used in the existing MEI. We propose that the adjustment be based on the latest available actual historical economy-wide multifactor productivity data, as measured by BLS. Based on these proposed changes, we currently estimate the MEI to increase 3.0 percent for CY 2003. This is the result of a 3.8-percent increase in the price portion of the MEI, adjusted downward by a 0.8-percent increase in the 10-year moving average change in economy-wide multifactor productivity. Table 1 shows the detailed cost categories of the proposed MEI update for CY 2003. Since the current estimate of the MEI increase for CY 2003 is based on incomplete historical data, it may change slightly before we announce the final MEI no later than November 1, 2002.

Table 1.—Increase in the Medicare Economic Index Update for Calendar Year 2003 ¹
Cost categories and price measures | 1996 weights ² | CY 2003 percent changes
Medicare Economic Index Total, productivity adjusted | n/a | 3.0
Productivity: 10-year moving average of Multifactor productivity, private nonfarm business sector | n/a | 0.8
Medicare Economic Index Total, without productivity adjustment | 100.0 | 3.8
1. Physician's Own Time ³ | 54.5 | 4.1
a. Wages and Salaries: Average hourly earnings Private nonfarm | 44.2 | 3.9
b. Fringe Benefits: Employment Cost Index, benefits, private nonfarm | 10.3 | 4.8
2. Physician's Practice Expense ³ | 45.5 | 3.6
a. Nonphysician Employee Compensation | 16.8 | 4.1
1. Wages and Salaries: Employment Cost Index, wages and salaries, weighted by occupation | 12.4 | 3.7
2. Fringe Benefits: Employment Cost Index, fringe benefits, white collar | 4.4 | 5.4
b. Office Expense: Consumer Price Index for Urban Consumers (CPI-U), housing | 11.6 | 2.6
c. Medical Materials and Supplies: Producer Price Index (PPI), ethical drugs/PPI, surgical appliances and supplies/CPI-U, medical equipment and supplies (equally weighted) | 4.5 | 2.1
d. Professional Liability Insurance: CMS professional liability insurance survey ⁴ | 3.2 | 11.3
e. Medical Equipment: PPI, medical instruments and equipment | 1.9 | 1.6
f. Other Professional Expense | 7.6 | 1.6
1. Professional Car: CPI-U, private transportation | 1.3 | −2.9
2. Other: CPI-U, all items less food and energy | 6.3 | 2.5
¹ The rates of historical change are estimated for the 12-month period ending June 30, 2002, which is the period used for computing the calendar year 2003 update. The price proxy values are based upon the latest available Bureau of Labor Statistics data as of April 2002.
² The weights shown for the MEI components are the 1996 base-year weights, which may not sum to subtotals or totals because of rounding. The MEI is a fixed-weight, Laspeyres-type input price index whose category weights indicate the distribution of expenditures among the inputs to physicians' services for calendar year 1996. To determine the MEI level for a given year, the price proxy level for each component is multiplied by its 1996 weight. The sum of these products (weights multiplied by the price index levels) over all cost categories yields the composite MEI level for a given year. The annual percent change in the MEI levels is an estimate of price change over time for a fixed market basket of inputs to physicians' services.
³ The measures of productivity, average hourly earnings, Employment Cost Indexes, as well as the various Producer and Consumer Price Indexes can be found on the Bureau of Labor Statistics website— http://stats.bls.gov.
⁴ Derived from a CMS survey of several major insurers (the latest available historical percent change data are for the period ending second quarter of 2002).
n/a Productivity is factored into the MEI compensation categories as an adjustment to the price variables; therefore, no explicit weight exists for productivity in the MEI.

2. Sustainable Growth Rate (SGR)

Section 1848(f)(2) of the Act specifies a formula for calculating annual SGR targets for Medicare physicians' services. The formula includes four factors. Section 1848(f)(2)(A) of the Act specifies that the first factor is the Secretary's estimate of weighted average percentage increase in fees for all physicians' services. We have calculated this factor as a weighted average of the CY 2002 fee increases that apply for the different types of services included in the definition of physicians' services for the SGR. (For a complete list of these services see the November 1, 2001 Federal Register (66 FR 55316).) Drugs furnished in a physician's office that are not usually self-administered are generally covered “incident to” a physician's service under section 1861(s)(2)(A) of the Act and included in the SGR. In the past, we have used the MEI as an approximation of the drug price increase. In the final revisions we make to the CY 2001 SGR later this year, we will account for drug price growth using a refined methodology that uses growth in drug prices instead of the MEI as a proxy. In addition, we will account for drug price growth using this refined methodology in the SGRs for CY 2002 and subsequent years.

Under section 1848(d) of the Act, the update for any year is equal to the MEI increased or decreased by an update adjustment factor determined using a statutory formula. The statute limits the update adjustment factor to +3.0 and −7.0 percentage points. On March 1, 2002, we provided our estimate of the CY 2003 physician fee schedule update to the Medicare Payment Advisory Committee (MedPAC) and made this information available to the public. We estimated the update adjustment factor would be −13.1 percent. If the only change to our March 2002 estimate was accounting for drug price growth in the SGR, we estimate the update adjustment factor would be −12.8 percent. Since the statute limits the update adjustment factor to −7.0 percent, we expect the CY 2002 physician fee schedule update to equal the MEI reduced by 7.0 percentage points.

D. Pricing of Technical Components (TC) for Positron Emission Tomography (PET) Scans

Currently all components of HCPCS code G0125, Lung image PET scan, are nationally priced. However, the technical component (TC) and global value for all other PET scans are carrier priced. To keep pricing consistent with other PET scans, we propose to have the carriers price the TC and global values of HCPCS code G0125.

E. Enrollment of Physical and Occupational Therapists as Therapists in Private Practice

In the November 2, 1998 final rule (63 FR 58814), we defined private practice for physical therapists (PTs) or occupational therapists (OTs) to include a therapist whose practice is in an—

• Unincorporated solo practice;

• Unincorporated partnership; or

• Unincorporated group practice.

Private practice also includes an individual who is furnishing therapy as an employee of one of the above, a professional corporation, or other incorporated therapy practice. Some carriers and fiscal intermediaries have interpreted the regulation to mean that occupational and physical therapists employed by physicians cannot be enrolled as therapists in private practice. In these carrier areas, therapy services provided in a physician's office must instead be billed as incident to a physician's service.

A specialty society representing occupational therapists has requested that carriers be able to enroll OTs in physician-directed groups as occupational therapists in private practice. A group representing PTs believes that provider numbers should be issued only to PTs working as employees in practices owned and operated by therapists.

We are proposing to clarify national policy—we would allow carriers to enroll therapists as physical or occupational therapists in private practice when they are employed by physician groups. We believe that this would reflect actual practice patterns and would permit more flexible employment opportunities for therapists. We also believe that this would increase beneficiaries' access to therapy services, particularly in rural areas. Therefore, we would revise §§ 410.59 and 410.60 to reflect this change.

F. Clinical Social Worker Services

Currently, § 410.73(b)(2)(ii) states that, for purposes of billing Medicare Part B, clinical social worker (CSW) services do not include services furnished by a CSW to an inpatient of a Medicare-participating skilled nursing facility (SNF). Under this rule, CSWs cannot receive Medicare Part B payment for diagnostic and therapeutic mental health services when the services are furnished to patients in participating SNFs, but they can receive payment for these same mental health services when furnished in most other settings. Additionally, clinical psychologists (CPs) may receive Medicare Part B payment for these same diagnostic and therapeutic mental health services when furnished to patients in participating SNFs. The effective date of the rule that precluded Medicare Part B payment to CSWs for services furnished to patients in participating SNFs was June 22, 1998. However, the provisions under this rule were suspended for two years beyond the effective date. Accordingly, these provisions that terminated payment for CSW services in the SNF setting were delayed until June 22, 2000. Announcement of the two-year suspension of the provisions was made in a letter signed by the Administrator to the National Association of Social Workers rather than publishing it in the Federal Register.

In order to redress this issue, on October 19, 2000, we published a notice of proposed rulemaking in the Federal Register (65 FR 62681), in which we proposed to pay CSWs for CPT psychiatry codes 90801, 90802, 90816, 90818, 90821, 90823, 90826, 90828, 90846, 90847, 90853, and 90857 when furnished to patients in participating SNFs who are not in a covered Part A stay. At this time, we are reprinting our proposal to allow CSWs to bill for the listed CPT psychiatry codes when furnished to patients in participating SNFs who are not under a covered Part A stay. Since we have already received comments on our previously published proposed rule both supporting and opposing our proposal, we are not now seeking comments in this proposed rule. However, we will respond to the comments already received on the issue of CSW services provided to beneficiaries in SNFs when we publish this year's physician fee schedule final rule.

G. Medicare Qualifications For Clinical Nurse Specialists

Section 4511(d)(3)(B) of the Balanced Budget Act of 1997 (Pub. L. 105-33) (BBA) defined a clinical nurse specialist as an individual who—

(i) Is a registered nurse and is licensed to practice nursing in the State in which the clinical nurse specialist services are performed; and

(ii) Holds a master's degree in a defined clinical area of nursing from an accredited educational institution.

When implementing the regulation for this benefit, we added a provision requiring that a CNS must be certified by the American Nurses Credentialing Center (ANCC). It has recently been pointed out to us that the ANCC does not provide certification for CNSs who specialize in fields such as oncology, critical care, or rehabilitation.

We are proposing to revise § 410.76(b)(3) to read as follows: “Be certified as a clinical nurse specialist by a national certifying body that has established standards for clinical nurse specialists and that is approved by the Secretary.” This revision would be consistent with certification criteria for nurse practitioners.

H. Process to Add or Delete Services to the Definition of Telehealth

1. Background

Effective October 1, 2001, section 1834(m) of the Act provides for an expansion of the definition of a Medicare telehealth service. The law defines telehealth services as professional consultations, office and other outpatient visits, and office psychiatry services (identified as of July 1, 2000, by HCPCS codes 99241-99275, 99201-99215, 90804-90809 and 90862) and any additional service specified by the Secretary. In addition, the law requires the Secretary to establish a process for adding or deleting services to the list of telehealth services on an annual basis.

In this proposed rule, we are proposing (1) to establish a process for adding or deleting services from the list of telehealth services, and (2) to add specific services to the list of telehealth services for CY 2003.

To evaluate services that may be appropriate for Medicare telehealth, we would accept requests for adding services to, or deleting services from, the list of Medicare telehealth services. We would accept proposals from any interested individuals or organizations from either the public or the private sectors, for example, from medical specialty societies, individual physicians or practitioners, hospitals, and State or Federal agencies. (We may also generate additions or deletions of services internally.) We would post instructions on our website outlining the steps necessary to submit a proposal. Information on applying for a new HCPCS code may be found on our website at www.hcfa.gov/Medicare/hcpcs.htm, then select “HCPCS Coding Request Information.”

Each proposal would have to address the items outlined below.

• Name(s), address(es) and contact information of the requestor.

• The HCPCS code(s) that describes the service(s) proposed for addition or deletion to the list of Medicare telehealth services. If the requestor does not know the applicable HCPCS code, the request should include a description of services furnished during the telehealth session.

• A description of the type(s) of medical professional(s) providing the telehealth service at the distant site.

• A detailed discussion of the reasons the proposed service should be added to the definition of Medicare telehealth.

• An explanation as to why the requested service cannot be billed under the current scope of telehealth services, for example, the reason why the HCPCS codes currently on the list of Medicare telehealth services would not be appropriate for billing the service requested.

• An application for a new HCPCS code if the requestor believes that neither the HCPCS codes currently on the list of telehealth services nor any other HCPCS code would be adequate for describing the service requested.

• If available, data showing that the use of a telecommunications system does not change the diagnosis or treatment plan as compared to the face-to-face delivery of the service.

• If available, data showing that patients who receive this service via a telecommunications system are satisfied with the service that is delivered.

2. Categories for Additions

We would assign any request to add a service to the definition of Medicare telehealth services to one of the following categories:

• Category #1: Services similar to office and other outpatient visits, consultation, and office psychiatry services. We would review these requests to ensure that the services proposed for addition to the list of Medicare telehealth services are similar to the current telehealth services. For example, we would look for similarities between the proposed and existing telehealth services in terms of the roles of, and interactions among, the beneficiary, the physician (or other practitioner) at the distant site and, if necessary, the telepresenter. We would also look for similarities in the telecommunications system used to deliver the proposed service, for example, the use of interactive audio and video equipment. If a proposed service meets the criteria set forth above, we would add it to the list of Medicare telehealth services.

• Category #2: Services that are not similar to the current list of telehealth services, for example, physical therapy services, endoscopy services, and distant monitoring of patients in intensive care units. Our review of these requests would include an assessment of whether the use of a telecommunications system to deliver the service produces similar diagnostic findings or therapeutic interventions as compared with a face-to-face “hands on” delivery of the same service. In other words, the discrete outcome of the interaction between the clinician and patient facilitated by a telecommunications system should correlate well with the discrete outcome of the clinician-patient interaction when performed face-to-face.

Requestors should submit evidence indicating that the use of a telecommunications system does not affect the diagnosis or treatment plan as compared to a face-to-face delivery of the service. If the evidence shows that the proposed telehealth service is equivalent to the face-to-face delivery of the service, we would add it to the list of telehealth services. However, if we determine that the use of a telecommunications system changes the nature or outcome of the service, for example, the nature of clinical intervention, as compared with the face-to-face delivery of the service, we would view the request as a request for a new service, rather than a different method of delivering an existing Medicare service. Under Medicare, new services: (1) Must fall into a benefit category; (2) must be reasonable and necessary in accordance with section 1862(a)(1)(A) of the Act; and (3) must not be specifically excluded from coverage. The requestor would have the option of applying for a national coverage determination. Information on applying for a national coverage determination may be found on our website at http://www.hcfa.gov; then select “Coverage Policies,” then “Process.”

3. Our Review of Requests to Add Services

Our review of submitted requests to add services may result in the following outcomes:

• Adding an existing HCPCS code to the list of Medicare telehealth services.

• Determining that the requested service is already described by an existing telehealth service.

• Creating a new HCPCS code to describe the requested service and adding it to the list of Medicare telehealth services.

• Requesting further information.

• Notifying the requestor that a national coverage determination is necessary before a decision to accept or reject a proposal can be made.

• Rejecting the request.

4. Deletion of Services

We may choose to remove a service currently on the list of Medicare telehealth services. We would remove a service from that list if, upon review of the available evidence, we determine that a Medicare telehealth service is not safe, effective, or medically beneficial.

5. Implementation

We propose to make additions or deletions to the list of Medicare telehealth services effective on a CY basis. We would use the annual physician fee schedule proposed rule published in the summer and the final rule published by November 1 each year as the vehicle for making these changes.

We will accept requests for adding services to the list of Medicare telehealth services on an ongoing basis; requests must be received no later than December 31 of each CY to be considered for the next proposed rule.

We are requesting specific comments on this approach to adding or deleting services and HCPCS codes to the definition of telehealth services.

6. Proposed Addition to the Definition of Medicare Telehealth for Calendar Year 2003

Section 1834(m) of the Act defines Medicare telehealth services as office and other outpatient visits, consultation, and office psychiatry services as described by the following HCPCS codes: 99201-99215; 99241-99275; 90804-90809; and 90862. We stated in the CY 2002 final rule (66 FR 55283) that we believed it would be inappropriate to expand the definition of Medicare telehealth services beyond the services explicitly listed in the Act until we have developed a process for adding or deleting services.

However, after further review of the comments submitted in response to the proposed rule for CY 2002, we believe that the psychiatric diagnostic interview is similar to the Medicare telehealth services listed in the statute. Specifically, we believe this service would meet the criteria set forth in Category 1 of the proposed process for adding services.

As defined by CPT 2002, a psychiatric diagnostic interview includes “a history, mental status, and a disposition, and may include communication with family or other sources, ordering and medical interpretation of laboratory or other medical diagnostic studies.” These components would be comparable to an initial office visit, or consultation services, which are currently Medicare telehealth services. Additionally, an initial psychiatric diagnostic interview is typically the first step in treating mental illness and is required before psychotherapy can begin. Therefore, we propose to add psychiatric diagnostic interview examination as represented by HCPCS code 90801 to the list of Medicare telehealth services.

We would revise § 410.78 and § 414.65 to reflect this proposed addition to the list of Medicare telehealth services.

I. Definition for ZZZ Global Periods

Services with ZZZ global periods are add-on services, which can only be billed along with another service. The current policy associated with a code with a global indicator of ZZZ recognizes only the incremental intra-service work and practice expense associated with the add-on service. Any pre-service or post-service work associated with a service with a global indicator of ZZZ is considered accounted for in the base procedure with which these add-on services must be billed.

Several specialties, as well as the RUC, have stated that some add-on services contain separately identifiable postservice work and practice expense. The RUC has recommended that we revise our current definition of the global indicator ZZZ to clarify that there may be postservice work associated with a limited number of ZZZ global services.

Consistent with this recommendation, we propose to revise the current definition of a ZZZ global period. “ZZZ = Code related to another service and is always included in the global period of the other service (Note: Physician work is associated with intra-service time and in some instances the post-service time).”

We plan to work with the RUC to identify those services with a global period of ZZZ that also have separately identifiable postservice work.

J. Change in Global Period for CPT code 77789 (Surface Application of Radiation Source)

The RUC has suggested a change in the global period for CPT code 77789 (surface application of radiation source) from a 90-day global period to a 000-day global period. We agree that all work is provided on the day of the procedure and no other visits for pre- and post-care are necessary. Therefore, we are proposing to assign a 000-day global period to this service. We have examined this code and believe that the current work value accurately reflects a 000-day global period and, therefore, needs no adjustment. We would adjust the clinical staff practice expense inputs to reflect that there is no post-procedure visit. The supplies and equipment inputs are appropriate for a 000-day global and need no revision.

K. Technical Change for § 410.61(d)(1)(iii) Outpatient Rehabilitation Services

The occupational therapists have pointed out that § 410.61(d)(1)(iii) incorrectly references “physical” therapy when it should reference “occupational” therapy. Therefore, we are proposing to revise § 410.61(d)(1)(iii) to correct this error.

L. New HCPCS G-Codes

1. Codes for Treatment of Peripheral Neuropathy

Effective for services furnished on or after July 1, 2002, Medicare will cover an evaluation (examination and treatment) of the feet every six months for individuals with a documented diagnosis.

G0245: Initial physician evaluation of a diabetic patient with diabetic sensory neuropathy resulting in a loss of protective sensation (LOPS) which must include the procedure used to diagnose LOPS; a patient history; and a physical examination that consists of at least the following elements—

(a) Visual inspection of the forefoot, hindfoot and toeweb spaces;

(b) Evaluation of protective sensation;

(c) Evaluation of foot structure and biomechanics;

(d) Evaluation of vascular status and skin integrity;

(e) Evaluation and recommendation of footwear; and

(f) Patient education.

We are proposing to crosswalk the work, practice expense, and malpractice RVUs from CPT code 99202, a level two, new patient office visit code. We are proposing to crosswalk the practice expense inputs from CPT code 99202 and revalue the practice expense RVU using the practice expense methodology once we have utilization for these codes.

G0246: Follow-up evaluation of a diabetic patient with diabetic sensory neuropathy resulting in a loss of protective sensation (LOPS) to include at least the following, a patient history and physical examination that includes—

(a) Visual inspection of the forefoot, hindfoot and toeweb spaces;

(b) Evaluation of protective sensation;

(c) Evaluation of foot structure and biomechanics;

(d) Evaluation of vascular status and skin integrity;

(e) Evaluation and recommendation of footwear; and

(f) Patient education.

We are proposing to crosswalk the work, practice expense, and malpractice RVUs from CPT code 99212, a level two, established patient office visit code. We are proposing to crosswalk the practice expense inputs from CPT code 99212 and revalue the practice expense RVU using the practice expense methodology once we have utilization for these codes.

G0247: Routine foot care of a diabetic patient with diabetic sensory neuropathy resulting in a loss of protective sensation (LOPS) to include if present, at least the following—

(a) Local care of superficial wounds;

(b) Debridement of corns and calluses; and

(c) Trimming and debridement of nails.

We are proposing to crosswalk the work, practice expense, and malpractice RVUs from CPT code 11040, Debridement; skin; partial thickness. We are proposing to crosswalk the practice expense inputs from CPT code 11040 and will revalue the practice expense RVUs using the practice expense methodology once we have utilization for this code.

2. Current Perception Sensory Nerve Conduction Threshold Test (SNCT)

G0255: Current Perception Threshold/Sensory Nerve Conduction Test, (SNCT) per limb, any nerve.

We have created a G-code that represents SNCT as a diagnostic test used to diagnose sensory neuropathies. The test is noninvasive and uses a transcutaeous electrical stimulus to evoke a sensation. We have determined that there is insufficient scientific or clinical evidence to consider the use of this device as reasonable and necessary within the meaning of section 1862(a)(1)(A) of the Act, and, therefore, Medicare will not pay for this type of test.

3. Positron Emission Tomography (PET) Codes for Breast Imaging

Medicare has expanded the coverage indications for PET scanning to include imaging for breast cancer. We have created codes that describe staging and restaging after or prior to the course of treatment of breast cancer. We have also created a PET scan code to evaluate the response to treatment of breast cancer.

PET imaging for initial diagnosis of breast cancer and/or surgical planning for breast cancer are described by a CPT code, but Medicare will not cover this diagnosis.

G0252: PET imaging for initial diagnosis of breast cancer and/or surgical planning for breast cancer (for example, initial staging of axillary lymph nodes), not covered by Medicare. This code is not covered by Medicare because there is a national non-coverage determination for initial diagnosis of breast cancer and initial staging of axillary lymph nodes.

G0253: PET imaging for breast cancer, full and partial-ring PET scanners only, staging/restaging after or prior to course of treatment.

G0254: PET imaging for breast cancer, full and partial-ring PET scanners only, evaluation of response to treatment, performed during course of treatment.

We are proposing that the TC and global for both of these codes be carrier priced.

For both procedure codes G0253 and G0254, we propose to make the PC work RVU equal to 1.87. There are no direct inputs for PC services. We propose to use practice expense RVUs of 0.58 and malpractice RVUs of 0.07 for these services.

4. Home Prothrombin Time International Normalized Ratio (INR) Monitoring for Anticoagulation Management

For services furnished on or after July 1, 2002, Medicare will cover the use of home prothrombin time or INR monitoring in a patient's home for anticoagulation management for patients with mechanical heart valves. A physician must prescribe the testing. The patient must have been anticoagulated for at least three months prior to use of the home INR device; and the patient must undergo an education program. The testing with the device is limited to a frequency of once per week.

G0248: Demonstration, at initial use, of home INR monitoring for a patient with mechanical heart valve(s) who meets Medicare coverage criteria, under the direction of a physician; includes: demonstration use and care of the INR monitor, obtaining at least one blood sample provision of instructions for reporting home INR test results and documentation of a patient's ability to perform testing.

We are proposing that this code be assigned no work RVUs and .01 malpractice RVUs. For the practice expense inputs, we are proposing 75 minutes of RN/LPN/MTA staff time; a supply list, including four test strips, lancets and alcohol pads, a patient education booklet, and batteries for the monitor; and equipment, consisting of a home INR monitor. Using these proposed inputs in the practice expense methodology will produce an estimated practice expense RVU of 2.92.

G0249: Provision of test materials and equipment for home INR monitoring to patient with mechanical heart valve(s) who meets Medicare coverage criteria. Includes provision of materials for use in the home and reporting of test results to physician; per 4 tests.

We are proposing that this code be assigned no work RVUs and .01 malpractice RVUs. For the practice expense inputs, we are proposing 13 minutes of RN/LPN/MTA staff time, a supply list, including four test strips, lancets and alcohol pads, and equipment, consisting of a home INR monitor. Using these proposed inputs in the practice expense methodology will produce an estimated practice expense RVU of 2.08.

G0250: Physician review/ interpretation and patient management of home INR test for a patient with mechanical heart valve(s) who meets other coverage criteria; per 4 tests (does not require face-to-face service)

We are proposing that this code be assigned 0.18 work RVUs and .01 malpractice RVUs. There would be no direct practice expense inputs for this code. We will use practice expense methodology to develop a practice expense RVU that will reflect indirect costs of the physicians performing this service. The estimated practice expense RVU will equal 0.07.

5. Bone Marrow Aspiration and Biopsy on the Same Date of Service

We are proposing to create a new G-code that reflects a bone marrow biopsy and aspiration procedure that is performed on the same date, at the same encounter, through the same incision. Because it is our understanding that the typical case involves an aspiration and biopsy through the same incision, we are creating a G-code to reflect this service. If the two procedures, aspiration and biopsy, are performed at different sites (for example, contralateral illiac crests, sternum/illiac crest, two separate incisions on the same iliac crest or two patient encounters on the same date of service), the -59 modifier would be appropriate to use. In this instance, the CPT codes for aspiration and biopsy would each be used.

GXXXX: Bone marrow aspiration and biopsy performed on the same day.

We are proposing physician work RVUs of 1.56 and malpractice RVUs of 0.04. We propose to crosswalk the practice expense inputs from CPT code 38220, Bone marrow aspiration, with the assignment of an additional five minutes of clinical staff time. Using these proposed inputs in the practice expense methodology will produce an estimated practice expense RVU of 3.32 in the nonfacility setting. The practice expense RVU in the facility setting is estimated at 0.60.

M. Endoscopic Base for Urology Codes

Cystoscopy and treatment CPT codes 52234, 52235, and 52240 were inadvertently identified in the Medicare Physician Fee Schedule Database as services subject to multiple procedural reductions as opposed to the procedural reduction rules specific to endoscopic services. Multiple procedural reduction rules allow full payment for the primary services with a 50 percent reduction to the RVUs for each additional service. The endoscopic reduction rules establish payment using the full value of the highest valued endoscopic service plus the difference between the next highest valued service and the base endoscopic service. The inadvertent application of the multiple procedural reduction as opposed to the endoscopic procedural reduction has resulted in our overpaying for these services. We propose applying the endoscopic reduction rules to these services and have identified CPT code 52000 as the endoscopic base code for these services.

N. Physical Therapy and Occupational Therapy Caps

Section 4541(c) of the Balanced Budget Act of 1997 required application of a payment limitation to all rehabilitation services provided on or after January 1, 1999. The limitation was an annual per beneficiary limit of $1500 on all outpatient physical therapy services (including speech-language pathology services). A separate $1500 limit was applied to all occupational therapy services. (The limitation amounts were to be increased to reflect medical inflation.) The annual limitation did not apply to services furnished directly or under arrangement by a hospital to an outpatient or to an inpatient who is not in a covered Part A stay.

Section 221 of the Balanced Budget Refinement Act of 1999 (Pub. L. 106-113, enacted on November 29, 1999) (BBRA) placed a moratorium on the application of the payment limitation for two years from January 1, 2000 through December 31, 2001. Section 421 of the Medicare, Medicaid, and SCHIP Beneficiary Improvement and Protection Act of 2000 (Pub. L. 106-554, enacted on December 21, 2000) (BIPA), extended the moratorium on application of the limitation to claims for outpatient rehabilitation services with dates of service January 1, 2002 through December 31, 2002. Therefore, the moratorium applies to outpatient rehabilitation claims with dates of service January 1, 2001 through December 31, 2002. Outpatient rehabilitation claims for services rendered on or after January 1, 2003 will be subject to the payment limitation unless Congress acts to extend the moratorium.

III. Collection of Information Requirements

This document does not impose information collection and recordkeeping requirements. Consequently, it need not be reviewed by the Office of Management and Budget under the authority of the Paperwork Reduction Act of 1995.

IV. Response to Comments

Because of the large number of items of correspondence we normally receive on Federal Register documents published for comment, we are not able to acknowledge or respond to them individually. We will consider all comments we receive by the date and time specified in the DATES section of this preamble, and, if we proceed with a subsequent document, we will respond to the major comments in the preamble to that document.

V. Regulatory Impact Analysis

We have examined the impact of this rule as required by Executive Order 12866 (September 1993, Regulatory Planning and Review), the Regulatory Flexibility Act (RFA) (September 16, 1980 Pub. L. 96-354), section 1102(b) of the Social Security Act, the Unfunded Mandates Reform Act of 1995 (Pub. L. 104-4), and Executive Order 13132.

Executive Order 12866 directs agencies to assess all costs and benefits of available regulatory alternatives and, when regulation is necessary, to select regulatory approaches that maximize net benefits (including potential economic, environmental, public health and safety effects, distributive impacts, and equity). A regulatory impact analysis must be prepared for proposed rules with economically significant effects (that is, a proposed rule that would have an annual effect on the economy of $100 million or more in any one year, or would adversely affect in a material way the economy, a sector of the economy, productivity, competition, jobs, the environment, public health or safety, or State, local, or tribal governments or communities). We have simulated the effect of the proposed changes to practice expense RVUs described earlier. The net effect of the changes we are proposing will not materially increase or decrease Medicare expenditures for physicians' services because the statute requires that changes to RVUs cannot increase or decrease expenditures more than $20 million. Since increases in payments resulting from RVU changes must be offset by decreases in payments for other services, the proposed practice expense changes will result in a redistribution of payments among physician specialties. The proposed changes to the MEI would result in increases in Medicare expenditures for physicians' services of $150 million in fiscal year (FY) 2003, $340 million in FY 2004, and $550 million in FY 2005. Therefore, this proposed rule is considered to be a major rule because it is economically significant, and, thus, we have prepared a regulatory impact analysis.

The RFA requires that we analyze regulatory options for small businesses and other entities. We prepare a Regulatory Flexibility Analysis unless we certify that a rule would not have a significant economic impact on a substantial number of small entities. The analysis must include a justification concerning the reason action is being taken, the kinds and number of small entities the rule affects, and an explanation of any meaningful options that achieve the objectives and less significant adverse economic impact on the small entities.

Section 1102(b) of the Act requires us to prepare a regulatory impact analysis for any proposed rule that may have a significant impact on the operations of a substantial number of small rural hospitals. This analysis must conform to the provisions of section 603 of the RFA. For purposes of section 1102(b) of the Act, we define a small rural hospital as a hospital that is located outside a Metropolitan Statistical Area and has fewer than 100 beds.

For purposes of the RFA, physicians, nonphysicians, and suppliers are considered small businesses if they generate revenues of $6 million or less. Approximately 95 percent of physicians (except mental health specialists) are considered to be small entities. There are about 700,000 physicians, other practitioners and medical suppliers that receive Medicare payment under the physician fee schedule.

Section 202 of the Unfunded Mandates Reform Act of 1995 also requires that agencies assess anticipated costs and benefits before issuing any rule that may result in expenditure in any one year by State, local, or tribal governments, in the aggregate, or by the private sector, of $110 million. We have determined that this proposed rule will have no consequential effect on State, local, or tribal governments.

We have examined this proposed rule in accordance with Executive Order 13132 and have determined that this regulation would not have any negative impact on the rights, roles, or responsibilities of State, local, or tribal governments.

We have prepared the following analysis, which together with the rest of this preamble, meets all assessment requirements. It explains the rationale for, and purposes of, the rule, details the costs and benefits of the rule, analyzes alternatives, and presents the measures we propose to use to minimize the burden on small entities. As indicated elsewhere in this proposed rule, we propose to make changes to the Medicare Economic Index, refine resource-based practice based practice expense RVUs and make a variety of other minor changes to our regulations, payments or payment policy to ensure that our payment systems are updated to reflect changes in medical practice and the relative value of services. We provide information for each of the proposed policy changes in the relevant sections in this proposed rule. As discussed elsewhere in this proposed rule, the provisions of this proposed rule, if adopted, would only change Medicare payment rates for physician fee schedule services. While this rule would allow physical and occupational therapists that are employed by physicians to separately enroll in the Medicare program, it does not impose reporting, recordkeeping and other compliance requirements. We are unaware of any relevant Federal rules that duplicate, overlap or conflict with this proposed rule. The relevant sections of this proposed rule contain a description of significant alternatives.

A. Resource-Based Practice Expense Relative Value Units

Under section 1848(c)(2) of the Act, adjustments to RVUs may not cause the amount of expenditures to differ by more than $20 million from the amount of expenditures that would have resulted without such adjustments. We are proposing several changes that would result in a change of expenditures that would exceed $20 million if we made no offsetting adjustments to either the conversion factor or RVUs.

With respect to practice expense, our policy has been to meet the budget neutrality requirements in the statute by incorporating a rescaling adjustment in the practice expense methodology. That is, we estimate the aggregate number of practice expense relative values that will be paid under current and proposed policy in CY 2003. We apply a uniform adjustment factor to make the aggregate number of proposed practice expense relative values equal the number estimated that would be paid under current policy.

Table 2 shows the specialty level impact on payment of changes being proposed for CY 2003. In past years, we have shown the Medicare payment impact of redistributive changes in RVUs for all specialties that can bill for Medicare physician fee schedule services. We included some of the smaller specialty categories in closely related larger ones and have shown payment impacts for 35 different specialty categories. For this proposed rule, we are showing separate impacts for 49 different specialty categories. We are separately showing specialties that have more than $50 million in total Medicare allowed charges for physician fee schedule services. We are changing the way we illustrate impacts based on comments and suggestions that have come to us from the physician community. The payment impacts reflect averages for each specialty based on Medicare utilization. The payment impact for an individual physician would be different from the average, based on the mix of services the physician provides. The average change in total revenues would be less than the impact displayed here since physicians furnish services to both Medicare and non-Medicare patients and specialties may receive substantial Medicare revenues for services that are not paid under the physician fee schedule. For instance, independent laboratories receive more than 80 percent of their Medicare revenues from clinical laboratory services that are not paid under the physician fee schedules. This table shows only the payment impact on physician fee schedule services.

We modeled the impact of five changes to the practice expense methodology. The column labeled “Input Changes” shows the effect of proposed changes described in section II. A. As indicated in that section, we are making several changes to the inputs that are used to value several ophthalmology and thermotherapy procedures and lontophoresis. We also revised the price we are using for sterile water. These changes will result in very little specialty impact with a small reduction in payment to optometry.

The column labeled “Staff Time” shows the impact of our proposal to use staff time in place of average staff time in creation of the zero physician work pool. This proposal would result in increases in payment for services that are included in the zero physician work pool while broadly distributing reductions in payments to all other physician fee schedule services.

The column labeled “Professional Technical Changes” refers to our proposal to change the calculation of the practice expense RVUs for codes with professional and technical components. As indicated earlier, we are proposing to make the technical component value equal the difference between the global and the professional component for procedure codes that are not included in the zero physician work pool. For procedure codes that would remain in the zero physician work pool, we would continue to make the global equal the sum of the professional and the technical component values.

The column labeled “Zero Physician Work Pool” refers to our proposal to remove several services from the zero physician work pool based on requests from the physician specialties that perform the predominant number of services for a given family of codes. The practice expense RVUs for these codes would no longer be determined under the zero physician work methodology. If the services have professional and technical components, the professional component practice expense RVU would be subtracted from the global practice expense RVU to determine the technical component practice value.

The column labeled “Multi-Year Utilization” refers to our proposal to use multiple years of utilization data in the practice expense methodology. The figures shown in Table 2 may change if we make any changes to the zero physician work pool following the consideration of public comments.

Several physician specialties (Allergy/Immunology, Cardiology, Hematology/Oncology, Interventional Radiology, Radiation Oncology, Radiology) that derive a significant portion of their Medicare revenues from services affected by the zero physician work pool calculations would see an increase in payment from the proposed changes. Other physician specialties would see an increase in payment from the change to the practice expense RVUs for professional and technical component services and/or from removing services from the zero physician work pool (neurology, physical medicine, vascular surgery).

Payments to pathology would be reduced by approximately 2 percent. This is largely attributable to the change in the practice expense RVU calculations for professional and technical component services. While payments for pathology would decline, as we noted earlier, since it is far more common for our carriers to receive a global than a technical-component-only bill, we believe it is far more likely that using the global to value the technical component service would result in a payment that is more typical of the practice expense associated with the service. We reviewed the Medicare utilization and found 42.8 million allowed services associated with a global pathology service and 4.3 million for the technical component only. Several other specialties may also experience small reductions in aggregate payments from these proposed changes.

As a result of changing the practice expense RVU calculation for professional and technical component services, payments for physician fee schedule services to independent laboratories would decline by approximately 8 percent. However, physician fee schedule services account for approximately 17 percent of total Medicare revenues for independent laboratories. The impact on total Medicare revenues from this reduction would be approximately −1 percent. The figures in Table 2 may change if we if we make any changes to the zero physician work pool following the consideration of public comments.

The net effect of these proposals would also increase payments for several types of suppliers that provide services that are affected by the zero physician work pool methodology. Payments to Independent Diagnostic and Treatment Facilities would increase by approximately 9 percent. Portable X-ray suppliers would receive an approximate increase of 8 percent in payments for services paid under the physician fee schedule. However, we would note that only about 47 percent of Medicare revenues received by portable X-ray suppliers are attributable to physician fee schedule services. The other Medicare revenues received by portable X-ray suppliers are attributed to the transportation of X-ray equipment paid at rates determined by the Medicare carrier. Any change to the rates for carrier priced services would be made at local carrier discretion. The total change in payments (before application of the estimated 4.4 percent reduction to the physician fee schedule conversion factor discussed next) will be about 3 percent.

Table 2 shows the estimated change in payment rates based on provisions of this proposed rule. If we change any of these proposals following our consideration of comments, these figures may change.

Table 2.—Impact of Practice Expense Changes on Total Medicare Allowed Charges by Physician, Practitioner and Supplier Subcategory
Category | Medicare allowed charges ($ in billions) | Input changes (percent) | Maximum staff time (percent) | Professional technical changes (percent) | Zero physician work pool (percent) | Multi-year utilization | Total (percent)
Physicians:
ALLERGY/IMMUNOLOGY | $0.14 | 0 | 1 | 0 | 0 | 0 | 2
ANESTHESIOLOGY | 1.17 | 0 | 0 | 0 | 0 | 0 | −1
CARDIAC SURGERY | 0.27 | 0 | 0 | 0 | 0 | 0 | 0
CARDIOLOGY | 4.28 | 0 | 1 | 0 | 0 | 1 | 1
CLINICS | 1.81 | 0 | 0 | 0 | 0 | 0 | 0
DERMATOLOGY | 1.43 | 0 | −1 | 0 | 0 | 0 | −2
EMERGENCY MEDICINE | 1.04 | 0 | 0 | 0 | 0 | 0 | 0
ENDOCRINOLOGY | 0.20 | 0 | 0 | 0 | 0 | 0 | 0
FAMILY PRACTICE | 3.27 | 0 | 0 | 0 | 0 | 0 | 0
GASTROENTEROLOGY | 1.25 | 0 | 0 | 0 | 0 | −1 | −1
GENERAL PRACTICE | 0.87 | 0 | 0 | 0 | 0 | 0 | 0
GENERAL SURGERY | 1.94 | 0 | 0 | 0 | 0 | 0 | −1
GERIATRICS | 0.08 | 0 | 0 | 0 | 0 | 0 | 0
HEMATOLOGY/ONCOLOGY | 0.90 | 0 | 1 | 0 | 0 | 1 | 1
INFECTIOUS DISEASE | 0.25 | 0 | 0 | 0 | 0 | 0 | −1
INTERNAL MEDICINE | 6.42 | 0 | 0 | 0 | 0 | 0 | 0
INTERVENTIONAL RADIOLOGY | 0.13 | 0 | 0 | 0 | 0 | 0 | 1
NEPHROLOGY | 1.03 | 0 | 0 | 0 | 0 | 0 | −1
NEUROLOGY | 0.85 | 0 | 1 | 3 | 0 | 0 | −1
NEUROSURGERY | 0.35 | 0 | 0 | 0 | 0 | 0 | −1
OBSTETRICS/GYNECOLOGY | 0.45 | 0 | 0 | 0 | 0 | 0 | 0
OPHTHALMOLOGY | 3.69 | 0 | −1 | 0 | 0 | −1 | −1
ORTHOPEDIC SURGERY | 2.22 | 0 | 0 | 0 | 0 | 0 | 0
OTOLARNGOLOGY | 0.63 | 0 | 0 | 0 | 0 | 0 | 0
PATHOLOGY | 0.63 | 0 | 0 | −2 | 0 | 0 | −2
PEDIATRICS | 0.05 | 0 | 0 | 0 | 0 | 0 | 0
PHYSICAL MEDICINE | 0.48 | 0 | 0 | 1 | 0 | 0 | 1
PLASTIC SURGERY | 0.23 | 0 | 0 | 0 | 0 | −1 | −1
PSYCHIATRY | 1.00 | 0 | 0 | 0 | 0 | 0 | 0
PULMONARY DISEASE | 1.07 | 0 | 0 | 1 | 0 | 0 | 0
RADIATION ONCOLOGY | 0.72 | 0 | 2 | 0 | 0 | 2 | 3
RADIOLOGY | 3.12 | 0 | 1 | 0 | 0 | 1 | 2
RHEUMATOLOGY | 0.30 | 0 | 0 | 0 | 0 | 0 | 0
THORACIC SURGERY | 0.44 | 0 | 0 | 0 | 0 | 0 | 0
UROLOGY | 0.44 | 0 | 0 | 0 | 0 | −1 | −1
VASCULAR SURGERY | 0.34 | 0 | 0 | 0 | 2 | 0 | 2
Other Practitioners:
CHIROPRACTOR | 0.44 | 0 | 0 | 0 | 0 | −1 | −1
CLINICAL PSYCHOLOGIST | 0.38 | 0 | 0 | 0 | 0 | 1 | 1
CLINICAL SOCIAL WORKER | 0.21 | 0 | 0 | 0 | 0 | 1 | 0
NURSE ANESTHETIST | 0.35 | 0 | 0 | 0 | 0 | 0 | −1
NURSE PRACTITIONER | 0.21 | 0 | 0 | 0 | 0 | 0 | 0
OPTOMETRY | 0.50 | −1 | −1 | 0 | 0 | −1 | −2
PHYSICAL/OCCUPATIONAL THERAPY | 0.47 | 0 | 0 | 0 | 0 | 0 | 0
PHYSICIAN ASSISTANTS | 0.17 | 0 | 0 | 0 | 0 | 0 | 0
PODIATRY | 1.10 | 0 | 0 | 0 | 0 | 0 | −1
Suppliers:
DIAGNOSTIC TREATMENT FACILITY | 0.35 | 0 | 3 | 1 | 1 | 3 | 9
INDEPENDENT LABORATORY | 0.38 | 0 | −1 | −9 | 0 | 2 | −8
PORTABLE XRAY SUPPLIER | 0.06 | 0 | 4 | 0 | 0 | 3 | 8
ALL OTHER | 0.29 | 0 | 0 | 0 | 0 | 0 | 0
TOTAL | 49.21 | 0 | 0 | 0 | 0 | 0 | 0

In previous years, we have not included the effect of the physician fee schedule update in our impact tables. The statutory methodology for updating physician rates for CY 2001 and subsequent years is specified in section 1848(d)(4) of the Act. Section 1848(d)(4) of the Act indicates that physician fee schedule rates are updated by the MEI increased or decreased by an “update adjustment factor.” The update adjustment factor reflects a comparison of actual and target expenditures under the sustainable growth rate system (SGR) under section 1848(f) of the Act. If actual expenditures exceed target expenditures, the update adjustment factor is negative. If actual expenditures are less than target expenditures, the update adjustment factor is positive. The update adjustment factor is limited to +3.0 and −7.0 percentage points. We do not have authority to change physician fee schedule update formula specified in statute. Since the application of the update cannot be changed through the rulemaking process, we have not shown the effect of the physician fee schedule update in our impact tables. However, public comment indicates an interest in our illustrating the effect of the update on payments to physicians in the impact section of our regulation.

Consistent with the requirements of section 1848(d)(1)(E) of the Act, we made an estimate of the physician fee schedule update for CY 2003 available to the Medicare Payment Advisory Commission (MedPAC) and the public on March 1, 2002. At that time, we provided our latest estimate of the MEI for CY 2003 and indicated that the update adjustment factor would likely equal the −7.0 percentage point limit established in statute. That is, the CY 2003 update would equal the MEI reduced by 7.0 percentage points. Section 1848(d)(4)(F) of the Act requires the update to be reduced by an additional −0.2 percentage points.

We currently estimate that the CY 2003 MEI will equal 2.3 percent using an adjustment based on a 10-year average economy-wide labor productivity. If we substitute a 10-year average economy-wide multifactor productivity as proposed in this proposed rule, the CY 2003 MEI is estimated to be 3.0 percent. Substituting multifactor for labor productivity increases the MEI by 0.7 percentage points. We believe that it remains likely that the update adjustment factor will equal the statutory limit of −7.0 percentage points specified in section 1848(d)(4) of the Act. Taking the following factors into account, we estimate that the CY 2003 physician fee schedule update will equal the product of the following 3 factors:

MEI 3.0% (1.030)

Update Adjustment Factor −7.0% (0.930)

Legislative Factor −0.2% (0.998)

Update −4.4% (0.956)

The MEI is based on the 3 complete quarters and 1 projected quarter of information and may change slightly before we announce the final MEI no later than November 1, 2002. Incorporating the estimated update with the practice expense impacts shown above will produce the following estimated impact on payments for physician fee schedule services. Table 3 shows the estimated change in average payments by specialty based on provisions of this proposed rule and the estimated physician fee schedule update. If we change any of these provisions based on public comment or if the actual MEI is different than our estimate, these figures may change.

Table 3.—Estimated Impact Practice Expense and Update on Total Medicare Allowed Charges by Specialty
Specialty | Medicare allowed charges ($ in billions) | Combined practice expense changes (percent) | Estimated update (percent) | Total (percent)
Physicians:
ALLERGY/IMMUNOLOGY | $0.14 | 2 | −4.4 | −3
ANESTHESIOLOGY | 1.17 | −1 | −4.4 | −5
CARDIAC SURGERY | 0.27 | 0 | −5.5 | −5
CARDIOLOGY | 4.28 | 1 | −4.4 | −4
CLINICS | 1.81 | 0 | −4.4 | −5
DERMATOLOGY | 1.43 | −2 | −4.4 | −6
EMERGENCY MEDICINE | 1.04 | 0 | −4.4 | −4
ENDOCRINOLOGY | 0.20 | 0 | −4.4 | −5
FAMILY PRACTICE | 3.27 | 0 | −4.4 | −5
GASTROENTEROLOGY | 1.25 | −1 | −4.4 | −5
GENERAL PRACTICE | 0.87 | 0 | −4.4 | −4
GENERAL SURGERY | 1.94 | −1 | −4.4 | −5
GERIATRICS | 0.08 | 0 | −4.4 | −5
HEMATOLOGY/ONCOLOGY | 0.90 | 1 | −4.4 | −3
INFECTIOUS DISEASE | 0.25 | −1 | −4.4 | −5
INTERNAL MEDICINE | 6.42 | 0 | −4.4 | −5
INTERVENTIONAL RADIOLOGY | 0.13 | 1 | −4.4 | −4
NEPHROLOGY | 1.03 | −1 | −4.4 | −5
NEUROLOGY | 0.85 | 2 | −4.4 | −1
NEUROSURGERY | 0.35 | −1 | −4.4 | −5
OBSTETRICS/GYNECOLOGY | 0.45 | 0 | −4.4 | −5
OPHTHALMOLOGY | 3.69 | −1 | −4.4 | −5
ORTHOPEDIC SURGERY | 2.22 | 0 | −4.4 | −5
OTOLARNGOLOGY | 0.63 | 0 | −4.4 | −5
PATHOLOGY | 0.63 | −2 | −4.4 | −6
PEDIATRICS | 0.05 | 0 | −4.4 | −4
PHYSICAL MEDICINE | 0.48 | 1 | −4.4 | −3
PLASTIC SURGERY | 0.23 | −1 | −4.4 | −5
PSYCHIATRY | 1.00 | 0 | −4.4 | −5
PULMONARY DISEASE | 1.07 | 0 | −4.4 | −4
RADIATION ONCOLOGY | 0.72 | 3 | −4.4 | −3
RADIOLOGY | 3.12 | 2 | −4.4 | −3
RHEUMATOLOGY | 0.30 | 0 | −4.4 | −4
THORACIC SURGERY | 0.44 | 0 | −4.4 | −4
UROLOGY | 1.28 | −1 | −4.4 | −4
VASCULAR SURGERY | 0.34 | 2 | −4.4 | −3
Other Practitioners:
CHIROPRACTOR | 0.44 | −1 | −4.4 | −5
CLINICAL PSYCHOLOGIST | 0.38 | 1 | −4.4 | −4
CLINICAL SOCIAL WORKER | 0.21 | 0 | −4.4 | −4
NURSE ANESTHETIST | 0.35 | −1 | −4.4 | −5
NURSE PRACTITIONER | 0.21 | 0 | −4.4 | −5
OPTOMETRY | 0.50 | −2 | −4.4 | −4
PHYSICAL/OCCUPATIONAL THERAPY | 0.47 | 0 | −4.4 | −5
PHYSICIANS ASSISTANT | 0.17 | 0 | −4.4 | −5
PODIATRY | 1.10 | −1 | −4.4 | −5
Suppliers:
DIAGNOSTIC TREATMENT FACILITY | 0.35 | 9 | −4.4 | 1
INDEPENDENT LABORATORY | 0.38 | −8 | −4.4 | −9
PORTABLE X-RAY SUPPLIER | 0.06 | 8 | −4.4 | −1
ALL OTHER | 0.29 | 0 | −4.4 | −5
TOTAL | 49.21 | 0 | −4.4 | −4.4

Table 4 shows the impact on payments for selected high volume procedures of all of the changes previously discussed. This table shows the combined impact of the change in the practice expense RVUs and the estimated physician fee schedule update on total payment for the procedure. There are separate columns that show the change in the facility rates and the nonfacility rates. For an explanation of facility and non-facility practice expense refer to § 414.22(b)(5)(i). The table shows the estimated change in payment rates based on provisions of this proposed rule and the estimated physician fee schedule update. If we change any of the provisions following the consideration of public comments or if the actual MEI is different than our estimate, these figures may change.

Table 4.—Impact of Proposed Rule and Physician Fee Schedule Update on Medicare Payment for Selected Procedures
HCPCS | MOD | DESC | Facility payment: Old | Facility payment: New | Facility payment: % Change | Nonfacility payment: Old | Nonfacility payment: New | Nonfacility payment: % Change
11721 |  | Debride nail, 6 or more | $28.96 | $27.34 | −6 | $36.92 | $34.95 | −5
17000 |  | Detroy benign/premal lesion | 32.94 | 31.15 | −5 | 62.62 | 58.48 | −7
27130 |  | Total hip arthroplasty | 1,452.31 | 1,376.62 | −5 | N/A | N/A | N/A
27236 |  | Treat thigh fracture | 1,113.85 | 1,053.40 | −5 | N/A | N/A | N/A
27244 |  | Treat thigh fracture | 1,137.38 | 1,074.86 | −5 | N/A | N/A | N/A
27447 |  | Total knee arthroplasty | 1,514.21 | 1,433.72 | −5 | N/A | N/A | N/A
33533 |  | CABG, arterial, single | 1,827.34 | 1,742.75 | −5 | N/A | N/A | N/A
35301 |  | Rechanneling of artery | 1,061.36 | 1,011.18 | −5 | N/A | N/A | N/A
43239 |  | Upper GI endoscopy, biopsy | 154.93 | 146.73 | −5 | 354.75 | 316.30 | −11
45385 |  | Lesion removal colonoscopy | 287.78 | 273.04 | −5 | 571.22 | 511.82 | −10
66821 |  | After cataract laser surgery | 213.94 | 203.83 | −5 | 229.50 | 219.40 | −4
66984 |  | Cataract surg w/iol, i stage | 669.32 | 636.06 | −5 | N/A | N/A | N/A
67210 |  | Treatment of retinal lesion | 546.61 | 519.09 | 5 | 603.08 | 575.15 | −5
71010 | 26 | Chest x-ray | 9.05 | 8.65 | −4 | 9.05 | 8.65 | −4
71020 | 26 | Chest x-ray | 11.22 | 10.38 | −7 | 11.22 | 10.38 | −7
76091 |  | Mammogram, both breasts | N/A | N/A | N/A | 90.50 | 90.32 | 0
76091 | 26 | Mammogram, both breasts | 43.44 | 41.53 | −4 | 43.44 | 41.53 | −4
76092 |  | Mammogram, screening | N/A | N/A | N/A | 81.81 | 78.21 | −4
76092 | 26 | Mammogram, screening | 35.48 | 33.91 | −4 | 35.48 | 33.91 | −4
77427 |  | Radiation tx management, x5 | 167.96 | 159.88 | −5 | 167.96 | 159.88 | −5
78465 | 26 | Heart image (3d), multiple | 74.93 | 70.94 | −5 | 74.93 | 70.94 | −5
88305 | 26 | Tissue exam by pathologist | 40.54 | 38.41 | −5 | 40.54 | 38.41 | −5
90801 |  | Psy dx interview | 137.19 | 130.81 | −5 | 144.80 | 138.08 | −5
90806 |  | Psytx, off, 45-50 min | 91.22 | 87.55 | −4 | 95.93 | 92.05 | −4
90807 |  | Psytx, off, 45-50 min w/e&m | 98.82 | 94.13 | −5 | 103.53 | 98.28 | −5
90862 |  | Medication management | 46.33 | 43.95 | −5 | 51.04 | 48.45 | −5
90921 |  | ESRD related services, month | 273.30 | 258.16 | −6 | 273.30 | 258.16 | −6
90935 |  | Hemodialysis, one evaluation | 76.38 | 71.98 | −6 | N/A | N/A | N/A
92004 |  | Eye exam, new patient | 87.96 | 83.05 | −6 | 123.44 | 117.66 | −5
92012 |  | Eye exam established pat | 35.84 | 33.91 | −5 | 61.18 | 58.48 | −4
92014 |  | Eye exam & treatment | 58.64 | 55.37 | −6 | 91.22 | 86.86 | −5
92980 |  | Insert itracoronary stent | 790.59 | 748.18 | −5 | N/A | N/A | N/A
92982 |  | Coronary artery dilation | 584.26 | 553.00 | −5 | N/A | N/A | N/A
93000 |  | Electrocardiogram, complete | N/A | N/A | N/A | 25.34 | 25.26 | 0
93010 |  | Electrocardiogram report | 9.05 | 8.31 | −8 | 9.05 | 8.31 | −8
93015 |  | Cardiovascular stress test | N/A | N/A | N/A | 99.91 | 100.01 | 0
93307 | 26 | Echo exam of heart | 48.14 | 45.33 | −6 | 48.14 | 45.33 | −6
93510 | 26 | Left heart catheterization | 230.59 | 218.02 | −5 | 230.59 | 218.02 | −5
98941 |  | Chiropractic manipulation | 31.13 | 29.42 | −5 | 35.48 | 33.57 | −5
99202 |  | Office/outpatient visit, new | 45.61 | 43.26 | −5 | 61.54 | 58.14 | −6
99203 |  | Office/outpatient visit, new | 69.50 | 66.10 | −5 | 91.95 | 86.86 | −6
99204 |  | Office/outpatient visit, new | 102.81 | 97.93 | −5 | 130.68 | 123.89 | −5
99205 |  | Office/outpatient visit, new | 136.47 | 129.43 | −5 | 166.15 | 157.46 | −5
99211 |  | Office/outpatient visit, est | 8.69 | 8.31 | −4 | 20.27 | 19.03 | −6
99212 |  | Office/outpatient visit, est | 23.17 | 21.80 | −6 | 36.20 | 33.91 | −6
99213 |  | Office/outpatient visit, est | 34.03 | 32.53 | −4 | 50.32 | 47.76 | −5
99214 |  | Office/outpatient visit, est | 56.11 | 53.29 | −5 | 78.91 | 74.75 | −5
99215 |  | Office/outpatient visit, est | 90.50 | 85.82 | −5 | 115.84 | 109.35 | −6
99221 |  | Initial hospital care | 65.16 | 61.94 | −5 | N/A | N/A | N/A
99222 |  | Initial hospital care | 108.24 | 102.78 | −5 | N/A | N/A | N/A
99223 |  | Initial hospital care | 150.95 | 143.27 | −5 | N/A | N/A | N/A
99231 |  | Subsequent hospital care | 32.58 | 30.80 | −5 | N/A | N/A | N/A
99232 |  | Subsequent hospital care | 53.57 | 50.87 | −5 | N/A | N/A | N/A
99233 |  | Subsequent hospital care | 76.38 | 72.33 | −5 | N/A | N/A | N/A
99236 |  | Observ/hosp same date | 214.66 | 204.87 | −5 | N/A | N/A | N/A
99238 |  | Hospital discharge day | 66.24 | 62.98 | −5 | N/A | N/A | N/A
99239 |  | Hospital discharge day | 90.86 | 86.17 | −5 | N/A | N/A | N/A
99241 |  | Office consultation | 33.30 | 31.15 | −6 | 47.06 | 44.64 | −5
99242 |  | Office consultation | 68.05 | 64.02 | −6 | 87.24 | 82.36 | −6
99243 |  | Office consultation | 90.14 | 85.48 | −5 | 115.84 | 109.35 | −6
99244 |  | Office consultation | 133.58 | 126.66 | −5 | 164.34 | 155.38 | −5
99245 |  | Office consultation | 177.01 | 167.84 | −5 | 212.85 | 201.41 | −5
99251 |  | Initial inpatient consult | 34.75 | 32.88 | −5 | N/A | N/A | N/A
99252 |  | Initial inpatient consult | 69.86 | 66.10 | −5 | N/A | N/A | N/A
99253 |  | Initial inpatient consult | 95.20 | 90.32 | −5 | N/A | N/A | N/A
99254 |  | Initial inpatient consult | 136.83 | 129.77 | −5 | N/A | N/A | N/A
99255 |  | Initial inpatient consult | 188.60 | 178.57 | −5 | N/A | N/A | N/A
99261 |  | Follow-up inpatient consult | 21.72 | 20.76 | −4 | N/A | N/A | N/A
99262 |  | Follow-up inpatient consult | 43.44 | 41.18 | −5 | N/A | N/A | N/A
99263 |  | Follow-up inpatient consult | 64.80 | 61.25 | −5 | N/A | N/A | N/A
99282 |  | Emergency dept visit | 26.43 | 25.26 | −4 | N/A | N/A | N/A
99283 |  | Emergency dept visit | 59.37 | 56.75 | −4 | N/A | N/A | N/A
99284 |  | Emergency dept visit | 92.67 | 88.59 | −4 | N/A | N/A | N/A
99285 |  | Emergency dept visit | 144.80 | 138.08 | −5 | N/A | N/A | N/A
99291 |  | Critical care, first hour | 198.37 | 188.60 | −5 | 208.87 | 197.60 | −5
99292 |  | Critical care, addl 30 min | 98.82 | 94.13 | −5 | 108.24 | 101.05 | −7
99301 |  | Nursing facility care | 60.09 | 57.45 | −4 | 70.23 | 66.79 | −5
99302 |  | Nursing facility care | 80.72 | 76.83 | −5 | 95.57 | 91.01 | −5
99303 |  | Nursing facility care | 100.27 | 95.51 | −5 | 118.73 | 112.82 | −5
99311 |  | Nursing fac care, subseq | 30.05 | 28.72 | −4 | 40.18 | 38.41 | −4
99312 |  | Nursing fac care, subseq | 49.95 | 47.41 | −5 | 61.90 | 58.83 | −5
99313 |  | Nursing fac care, subseq | 70.95 | 67.48 | −5 | 84.34 | 80.29 | −5
99348 |  | Home visit, est patient | N/A | N/A | N/A | 73.85 | 69.90 | −5
99350 |  | Home visit, est patient | N/A | N/A | N/A | 166.52 | 157.46 | −5

B. Proposed Productivity Adjustment to the MEI

As indicated in section II.D of this proposed rule, we are proposing to change the methodology for adjusting for productivity in the MEI. We propose that the MEI used for the CY 2003 physician payment update reflect changes in the 10-year moving average of private nonfarm business (economy-wide) multifactor productivity applied to the entire index. The prior method accounted for productivity by adjusting the labor portion of the MEI by the 10-year moving average change in private nonfarm business (economy-wide) labor productivity. Our reasons for proposing this change and the alternatives we considered are discussed in detail in section II.D.

We believe that we have developed a revised MEI methodology that is technically superior to the current MEI and more adequately reflects annual changes in the cost of furnishing services in efficient physicians' practices. We estimate that the proposed changes to the MEI would raise the index by 0.7 percentage points from 2.3 percent to 3.0 percent for CY 2003 based on 3 complete quarters and 1 projected quarter of information. This figure may change based on complete data. We estimate that this proposed change would increase Federal expenditures by $150 million in FY 2003. The outyear impact is a function of numerous economic variables that fluctuate unpredictably. Our estimate of the impact beyond FY 2003 is based on projections of both the current and proposed revised index. We estimate the proposed change would increase Federal expenditures by $340 million in FY 2004 and $550 million in FY 2005.

C. Site of Service

Relative values for practice expense are determined for both “facility” and “nonfacility” settings. (See Addendum B.) We propose to clarify which place of service codes are assigned to facility relative values and which place of service codes are assigned to nonfacility relative values. This clarification should benefit physicians, providers, and Medicare contractors by making the payment rules clearer. We are proposing to update facility and nonfacility designations for several new place of service codes and change the designations for several place of service codes already in existence. The update for the new place of service codes will have no effect on Medicare spending. The place of service codes in which we are changing the designation are infrequently used for physician fee schedule services. Any effect of this proposal would result in very minor redistribution in payment among physician fee schedule services through the practice expense budget-neutrality adjustments.

D. Pricing of Technical Components (TC) for Positron Emission Tomography (PET) Scans

As stated earlier, to keep pricing consistent with the manner in which other PET scan services are paid, we are proposing a change from national pricing to having the carriers price the TC and global value for HCPCS code G0125 Lung Image PET scans. The budgetary impact on the Medicare program and providers would be uncertain since we do not know the payment amounts that carriers would use for this service.

E. Medicare Qualifications for Clinical Nurse Specialists (CNSs)

As previously stated, we are proposing to revise regulations regarding qualifications for CNSs by allowing flexibility as to certifying bodies. We believe this change would make the Medicare requirements more consistent with criteria for other practitioners. We also believe there would be additional enrollment of CNSs that would qualify for Medicare enrollment. We expect that this proposal would have little effect on Medicare expenditures.

F. Process To Add or Delete Services to the Definition of Telehealth

We are proposing a process for adding or deleting services from the list of telehealth services, as well as for adding specific services to the list for CY 2003. There are no costs or savings to the Medicare program associated with this proposal. In addition, we are proposing to add psychiatric diagnostic interview examination, as represented by HCPCS code 90801, to the list of Medicare telehealth services. We believe this would have little effect on Medicare expenditures.

G. Change in Global Period for CPT Code 77789 (Surface Application of Radiation Source

We are proposing a change in the global period for CPT code 77789 (surface application of radiation source) from a 90-day global period to a 000-day global period. We believe physicians that furnish these services would benefit from this change because it would simplify their billing processes. We do not expect it would have a significant impact on the Medicare program because the change would reflect current practices.

H. New HCPCS G-Codes

We are proposing to add new G-codes to describe evaluation (examination and treatment) of the feet no more often than every 6 months for individuals with a documented diagnosis of diabetic peripheral neuropathy with loss of protective sensation. We established payment for these codes in CY 2002 to allow for payment consistent with a national coverage decision clarifying coverage for routine foot exams. This provision would have no impact on the program because the codes will be implemented through a program memorandum to reflect new national policy effective July 1, 2002.

I. Endoscopic Base for Urology Codes

We are proposing to correct the pricing of certain endoscopic services. As we indicated in section II.N., we propose to use CPT procedure code 52000 as the endoscopic base code for CPT procedure codes 52234, 52235, and 52240. This proposed change would result in a reduction in payment in instances when these codes are billed in conjunction with either CPT procedure code 52000 or other codes that have CPT procedure code 52000 as the endscopic base code. We expect the savings would be negligible.

J. Physical Therapy and Occupational Therapy Caps

There were no proposals made in this area. The imposition of the physical and occupational therapy caps will occur as a result of application of section 4541(c) of the BBA. While section 221 of the BBRA and section 421 of BIPA placed a moratorium on application of these caps, the moratorium expires for physical and occupational therapy services rendered after December 31, 2002. We estimate that application of the caps will reduce Medicare expenditures for physical and occupational therapy services by $240 million in 2003.

K. Enrollment of Physical and Occupational Therapists as Therapists in Private Practice

This proposal would clarify Medicare enrollment criteria for therapists and provide consistency among Medicare contractors. This would allow flexibility for therapists in how they choose to practice by allowing all therapists that met the enrollment criteria to enroll in Medicare.

L. Alternatives Considered

This proposed rule contains a range of policies. The preamble identifies those policies when discretion has been exercised and presents rationale for our decisions, including a presentation of nonselected options.

M. Impact on Beneficiaries

Although changes in physicians' payments were large when the physician fee schedule was implemented in 1992, we detected no problems with beneficiary access to care. We do not believe that there would be any problem with access to care as a result of the proposed changes in this rule. While it has been suggested that the negative update for 2003 may affect beneficiary access to care, we note that the formula to determine this update is set by statute and this regulation cannot, and does not, change it. Furthermore, since beginning our transition to a resource-based practice expense system in CY 1999, we have not found that there are problems with beneficiary access to care.

As indicated above, the imposition of the physical and occupational therapy caps will occur as a result of application of section 4541(c) of the BBA. It is possible that application of physical and occupational therapy caps will have an impact on Medicare beneficiaries either through increased liability for services exceeding the cap or fewer services being provided. We contracted with the Urban Institute to perform analyses related to the implementation of the therapy caps, based on an analysis of a sample of therapy services provided from 1998 through 2000. The draft reports are available on the CMS website. The contractor report indicated that in 2000, about 12 percent of patients who received therapy services would have exceeded the caps. More than 50 percent of those who exceeded the caps did so by $500 or more. The caps are more likely to be exceeded in skilled nursing facilities, comprehensive outpatient rehabilitation facilities, and other rehabilitation facility settings. The caps do not apply to outpatient therapy services provided in an outpatient hospital. The report does not make assumptions about changes in behavior in response to the caps. Without more experience with the caps, it is difficult to predict the precise impact on beneficiaries.

In accordance with the provisions of Executive Order 12866, this regulation was reviewed by the Office of Management and Budget.

List of Subjects

42 CFR Part 410

Health facilities, Health professions, Kidney diseases, Laboratories, Medicare, Rural areas, X-rays.

42 CFR Part 414

Administrative practice and procedure, Health facilities, Health professions, Kidney diseases, Medicare, Reporting and recordkeeping requirements, Rural areas, X-rays.

For the reasons set forth in the preamble, the Centers for Medicare & Medicaid Services proposes to amend 42 CFR chapter IV as follows:

PART 410—SUPPLEMENTARY MEDICAL INSURANCE (SMI) BENEFITS

1. The authority citation for Part 410 continues to read as follows:

Authority: Secs. 1102 and 1871 of the Social Security Act (42 U.S.C. 1302 and 1395hh).

2. Section 410.59 is amended as follows:

A. Paragraph (c)(1)(ii)(C) is revised.

B. A new paragraph (c)(1)(ii)(D) is added.

The revision and addition read as follows:

§ 410.59 Outpatient occupational therapy services: conditions.

* * * * *

(c) * * *

(1) * * *

(ii) * * *

(C) An unincorporated solo practice, partnership, or group practice, or a professional corporation or other incorporated occupational therapy practice.

(D) A physician group.

* * * * *

3. Section 410.60 is amended as follows:

A. Paragraph (c)(1)(ii)(C) is revised.

B. A new paragraph (c)(1)(ii)(D) is added.

The revision and addition read as follows:

§ 410.60 Outpatient physical therapy services: conditions.

* * * * *

(c) * * *

(1) * * *

(ii) * * *

(C) An unincorporated solo practice, partnership, or group practice, or a professional corporation or other incorporated physical therapy practice.

(D) An employee of a physician group.

* * * * *

4. Section 410.61 is amended by revising paragraph (d)(1)(iii) to read as follows:

§ 410.61 Outpatient rehabilitation services.

* * * * *

(d) * * *

(1) * * *

(iii) The occupational therapist that furnishes the occupational therapy services.

* * * * *

5. Section 410.76 is amended by revising paragraph (b)(3) to read as follows:

§ 410.76 Clinical nurse specialists' services.

* * * * *

(b) * * *

(3) Be certified as a clinical nurse specialist by a national certifying body that has established standards for clinical nurse specialists and that is approved by the Secretary.

* * * * *

6. Section 410.78 is amended as follows:

a. Revise the heading of the section.

b. Revise paragraph (b) introductory text.

c. Revise paragraph (b)(1).

The revisions read as follows:

§ 410.78 Telehealth services.

* * * * *

(b) General rule. Medicare Part B pays for office and other outpatient visits, professional consultation, psychiatric diagnostic interview examination, individual psychotherapy, and pharmacologic management furnished by an interactive telecommunications system if the following conditions are met:

(1) The physician or practitioner at the distant site must be licensed to furnish the service under State law. The physician or practitioner at the distant site who is licensed under State law to furnish a covered telehealth service described in this section may bill, and receive payment for, the service when it is delivered via a telecommunications system.

* * * * *

PART 414—PAYMENT FOR PART B MEDICAL AND OTHER HEALTH SERVICES

1. The authority citation for part 414 continues to read as follows:

Authority: Secs. 1102, 1871, and 1881(b)(1) of the Social Security Act (42 U.S.C. 1302, 1395hh, and 1395rr(b)(1)).

2. Section 414.46is amended by revising paragraph (g) to read as follows:

§ 414.46 Additional rules for payment of anesthesia services.

* * * * *

(g) Physician involved in multiple anesthesia services. If the physician is involved in multiple anesthesia services for the same patient during the same operative session, the carrier makes payment according to the base unit associated with the anesthesia service having the highest base unit value and anesthesia time that encompasses the multiple services. If the multiple anesthesia services involve add-on anesthesia codes, as described in program operating instructions, the carrier makes payment for the add-on codes according to the usual anesthesia payment rules in paragraph (b) of this section.

3. Section 414.65, is amended as follows:

a. Revise the heading of the section.

b. Revise paragraph (a)(1).

c. Revise paragraph (b) introductory text.

The revisions read as follows:

§ 414.65 Payment for telehealth services.

(a) * * *

(1) The Medicare payment amount for office or other outpatient visits, consultation, individual psychotherapy, psychiatric diagnostic interview examination, and pharmacologic management furnished via an interactive telecommunications system is equal to the current fee schedule amount applicable for the service of the physician or practitioner.

* * * * *

(b) Originating site facility fee. For telehealth services furnished on or after October 1, 2001:

* * * * *

(Catalog of Federal Domestic Assistance Program No. 93.774, Medicare—Supplementary Medical Insurance Program)
Dated: May 21, 2002.
Thomas A. Scully,
Administrator, Centers for Medicare & Medicaid Services.

Approved: June 5, 2002.
Tommy G. Thompson,
Secretary.

Note: These addenda will not appear in the Code of Federal Regulations.

Addendum A—Explanation and Use of Addenda B

The addenda on the following pages provide various data pertaining to the Medicare fee schedule for physicians' services furnished in 2003. Addendum B contains the RVUs for work, non-facility practice expense, facility practice expense, and malpractice expense, and other information for all services included in the physician fee schedule. Addendum B will no longer publish alpha numeric codes for which there is no physician fee schedule coverage or payment or services paid on the clinical lab fee schedule.

Addendum B—2003 Relative Value Units and Related Information Used in Determining Medicare Payments for 2003

This addendum contains the following information for each CPT code and alphanumeric HCPCS code, except for alphanumeric codes beginning with B (enteral and parenteral therapy), E (durable medical equipment), K (temporary codes for nonphysicians' services or items), or L (orthotics), and codes for anesthesiology.

1. CPT/HCPCS code. This is the CPT or alphanumeric HCPCS number for the service. Alphanumeric HCPCS codes are included at the end of this addendum.

2. Modifier. A modifier is shown if there is a technical component (modifier TC) and a professional component (PC) (modifier -26) for the service. If there is a PC and a TC for the service, Addendum B contains three entries for the code: One for the global values (both professional and technical); one for modifier -26 (PC); and one for modifier TC. The global service is not designated by a modifier, and physicians must bill using the code without a modifier if the physician furnishes both the PC and the TC of the service.

Modifier -53 is shown for a discontinued procedure. There will be RVUs for the code (CPT code 45378) with this modifier.

3. Status indicator. This indicator shows whether the CPT/HCPCS code is in the physician fee schedule and whether it is separately payable if the service is covered.

A = Active code. These codes are separately payable under the fee schedule if covered. There will be RVUs for codes with this status. The presence of an “A” indicator does not mean that Medicare has made a national decision regarding the coverage of the service. Carriers remain responsible for coverage decisions in the absence of a national Medicare policy.

B = Bundled code. Payment for covered services is always bundled into payment for other services not specified. If RVUs are shown, they are not used for Medicare payment. If these services are covered, payment for them is subsumed by the payment for the services to which they are incident. (An example is a telephone call from a hospital nurse regarding care of a patient.)

C = Carrier-priced code. Carriers will establish RVUs and payment amounts for these services, generally on a case-by-case basis following review of documentation, such as an operative report.

D = Deleted code. These codes are deleted effective with the beginning of the calendar year.

E = Excluded from physician fee schedule by regulation. These codes are for items or services that we chose to exclude from the physician fee schedule payment by regulation. No RVUs are shown, and no payment may be made under the physician fee schedule for these codes. Payment for them, if they are covered, continues under reasonable charge or other payment procedures.

G = Code not valid for Medicare purposes. Medicare does not recognize codes assigned this status. Medicare uses another code for reporting of, and payment for, these services.

N = Noncovered service. These codes are noncovered services. Medicare payment may not be made for these codes. If RVUs are shown, they are not used for Medicare payment.

P = Bundled or excluded code. There are no RVUs for these services. No separate payment should be made for them under the physician fee schedule.

—If the item or service is covered as incident to a physician's service and is furnished on the same day as a physician's service, payment for it is bundled into the payment for the physician's service to which it is incident (an example is an elastic bandage furnished by a physician incident to a physician's service).

—If the item or service is covered as other than incident to a physician's service, it is excluded from the physician fee schedule (for example, colostomy supplies) and is paid under the other payment provisions of the Act.

R = Restricted coverage. Special coverage instructions apply. If the service is covered and no RVUs are shown, it is carrier-priced.

T = Injections. There are RVUs for these services, but they are only paid if there are no other services payable under the physician fee schedule billed on the same date by the same provider. If any other services payable under the physician fee schedule are billed on the same date by the same provider, these services are bundled into the service(s) for which payment is made.

X = Exclusion by law. These codes represent an item or service that is not within the definition of “physicians” services” for physician fee schedule payment purposes. No RVUs are shown for these codes, and no payment may be made under the physician fee schedule. (Examples are ambulance services and clinical diagnostic laboratory services.)

4. Description of code. This is an abbreviated version of the narrative description of the code.

5. Physician work RVUs. These are the RVUs for the physician work for this service in 2003. Codes that are not used for Medicare payment are identified with a “+.”

6. Facility practice expense RVUs. These are the fully implemented resource-based practice expense RVUs for facility settings.

7. Non-facility practice expense RVUs. These are the fully implemented resource-based practice expense RVUs for non-facility settings.

8. Malpractice expense RVUs. These are the RVUs for the malpractice expense for the service for 2003.

9. Facility total. This is the sum of the work, fully implemented facility practice expense, and malpractice expense RVUs.

10. Non-facility total. This is the sum of the work, fully implemented non-facility practice expense, and malpractice expense RVUs.

11. Global period. This indicator shows the number of days in the global period for the code (0, 10, or 90 days). An explanation of the alpha codes follows:

MMM = The code describes a service furnished in uncomplicated maternity cases including antepartum care, delivery, and postpartum care. The usual global surgical concept does not apply. See the 1999 Physicians' Current Procedural Terminology for specific definitions.

XXX = The global concept does not apply.

YYY = The global period is to be set by the carrier (for example, unlisted surgery codes).

ZZZ = Code related to another service that is always included in the global period of the other service. (Note: Physician work and practice expense are associated with intra service time and in some instances the post service time.)

——————————

¹ CPT codes and descriptions only are copyright 2001 American Medical Association. All Rights Reserved. Applicable FARS/DFARS Apply.

² Copyright 1994 American Dental Association. All rights reserved (D0110-D9999).

³ +Indicates RVUs are not use for Medicate payments.

⁴ PE RVUs = Practice Expense Relative Value Units.

Addendum B.—Relative Value Units (RVUs) and Related Information
CPT ¹/ HCPCS ² | MOD | Status | Description | Physician Work RVUs ³ | Facility PE RVUs | Non- Facility PE RVUs | Mal- Practice RVUs | Global
0001T |  | C | Endovas repr abdo ao aneurys | 0.00 | 0.00 | 0.00 | 0.00 | XXX
0002T |  | C | Endovas repr abdo ao aneurys | 0.00 | 0.00 | 0.00 | 0.00 | XXX
0003T |  | C | Cervicography | 0.00 | 0.00 | 0.00 | 0.00 | XXX
0005T |  | C | Perc cath stent/brain cv art | 0.00 | 0.00 | 0.00 | 0.00 | XXX
0006T |  | C | Perc cath stent/brain cv art | 0.00 | 0.00 | 0.00 | 0.00 | XXX
0007T |  | C | Perc cath stent/brain cv art | 0.00 | 0.00 | 0.00 | 0.00 | XXX
0008T |  | C | Upper gi endoscopy w/suture | 0.00 | 0.00 | 0.00 | 0.00 | XXX
0009T |  | C | Endometrial cryoablation | 0.00 | 0.00 | 0.00 | 0.00 | XXX
0010T |  | C | Tb test, gamma interferon | 0.00 | 0.00 | 0.00 | 0.00 | XXX
0012T |  | C | Osteochondral knee autograft | 0.00 | 0.00 | 0.00 | 0.00 | XXX
0013T |  | C | Osteochondral knee allograft | 0.00 | 0.00 | 0.00 | 0.00 | XXX
0014T |  | C | Meniscal transplant, knee | 0.00 | 0.00 | 0.00 | 0.00 | XXX
0016T |  | C | Thermotx choroid vasc lesion | 0.00 | 0.00 | 0.00 | 0.00 | XXX
0017T |  | C | Photocoagulat macular drusen | 0.00 | 0.00 | 0.00 | 0.00 | XXX
0018T |  | C | Transcranial magnetic stimul | 0.00 | 0.00 | 0.00 | 0.00 | XXX
0019T |  | C | Extracorp shock wave tx, ms | 0.00 | 0.00 | 0.00 | 0.00 | XXX
0020T |  | C | Extracorp shock wave tx, ft | 0.00 | 0.00 | 0.00 | 0.00 | XXX
0021T |  | C | Fetal oximetry, trnsvag/cerv | 0.00 | 0.00 | 0.00 | 0.00 | XXX
0023T |  | C | Phenotype drug test, hiv 1 | 0.00 | 0.00 | 0.00 | 0.00 | XXX
0024T |  | C | Transcath cardiac reduction | 0.00 | 0.00 | 0.00 | 0.00 | XXX
0025T |  | C | Ultrasonic pachymetry | 0.00 | 0.00 | 0.00 | 0.00 | XXX
0026T |  | C | Measure remnant lipoproteins | 0.00 | 0.00 | 0.00 | 0.00 | XXX
10021 |  | A | Fna w/o image | 1.27 | NA | 1.00 | 0.10 | XXX
10022 |  | A | Fna w/image | 1.27 | NA | 1.26 | 0.08 | XXX
10040 |  | A | Acne surgery | 1.18 | 0.53 | 0.93 | 0.05 | 010
10060 |  | A | Drainage of skin abscess | 1.17 | 0.67 | 1.47 | 0.08 | 010
10061 |  | A | Drainage of skin abscess | 2.40 | 1.42 | 1.83 | 0.17 | 010
10080 |  | A | Drainage of pilonidal cyst | 1.17 | 0.73 | 2.12 | 0.09 | 010
10081 |  | A | Drainage of pilonidal cyst | 2.45 | 1.54 | 2.88 | 0.19 | 010
10120 |  | A | Remove foreign body | 1.22 | 0.36 | 1.48 | 0.10 | 010
10121 |  | A | Remove foreign body | 2.69 | 1.78 | 2.93 | 0.25 | 010
10140 |  | A | Drainage of hematoma/fluid | 1.53 | 0.87 | 1.49 | 0.15 | 010
10160 |  | A | Puncture drainage of lesion | 1.20 | 0.42 | 0.72 | 0.11 | 010
10180 |  | A | Complex drainage, wound | 2.25 | 1.26 | 1.47 | 0.25 | 010
11000 |  | A | Debride infected skin | 0.60 | 0.24 | 0.63 | 0.05 | 000
11001 |  | A | Debride infected skin add-on | 0.30 | 0.11 | 0.37 | 0.02 | ZZZ
11010 |  | A | Debride skin, fx | 4.20 | 1.98 | 2.39 | 0.45 | 010
11011 |  | A | Debride skin/muscle, fx | 4.95 | 2.59 | 3.82 | 0.53 | 000
11012 |  | A | Debride skin/muscle/bone, fx | 6.88 | 4.21 | 5.47 | 0.89 | 000
11040 |  | A | Debride skin, partial | 0.50 | 0.21 | 0.54 | 0.05 | 000
11041 |  | A | Debride skin, full | 0.82 | 0.33 | 0.69 | 0.08 | 000
11042 |  | A | Debride skin/tissue | 1.12 | 0.46 | 1.04 | 0.11 | 000
11043 |  | A | Debride tissue/muscle | 2.38 | 1.38 | 2.65 | 0.24 | 010
11044 |  | A | Debride tissue/muscle/bone | 3.06 | 1.82 | 3.26 | 0.34 | 010
11055 |  | R | Trim skin lesion | 0.43 | 0.18 | 0.51 | 0.02 | 000
11056 |  | R | Trim skin lesions, 2 to 4 | 0.61 | 0.26 | 0.57 | 0.03 | 000
11057 |  | R | Trim skin lesions, over 4 | 0.79 | 0.33 | 0.64 | 0.04 | 000
11100 |  | A | Biopsy of skin lesion | 0.81 | 0.37 | 1.46 | 0.04 | 000
11101 |  | A | Biopsy, skin add-on | 0.41 | 0.19 | 0.69 | 0.02 | ZZZ
11200 |  | A | Removal of skin tags | 0.77 | 0.31 | 1.16 | 0.04 | 010
11201 |  | A | Remove skin tags add-on | 0.29 | 0.12 | 0.51 | 0.02 | ZZZ
11300 |  | A | Shave skin lesion | 0.51 | 0.22 | 1.01 | 0.03 | 000
11301 |  | A | Shave skin lesion | 0.85 | 0.39 | 1.09 | 0.04 | 000
11302 |  | A | Shave skin lesion | 1.05 | 0.47 | 1.18 | 0.05 | 000
11303 |  | A | Shave skin lesion | 1.24 | 0.54 | 1.31 | 0.06 | 000
11305 |  | A | Shave skin lesion | 0.67 | 0.28 | 0.74 | 0.04 | 000
11306 |  | A | Shave skin lesion | 0.99 | 0.43 | 1.00 | 0.05 | 000
11307 |  | A | Shave skin lesion | 1.14 | 0.50 | 1.12 | 0.05 | 000
11308 |  | A | Shave skin lesion | 1.41 | 0.61 | 1.26 | 0.07 | 000
11310 |  | A | Shave skin lesion | 0.73 | 0.33 | 1.11 | 0.04 | 000
11311 |  | A | Shave skin lesion | 1.05 | 0.50 | 1.20 | 0.05 | 000
11312 |  | A | Shave skin lesion | 1.20 | 0.57 | 1.27 | 0.06 | 000
11313 |  | A | Shave skin lesion | 1.62 | 0.74 | 1.55 | 0.09 | 000
11400 |  | A | Removal of skin lesion | 0.91 | 0.35 | 1.63 | 0.06 | 010
11401 |  | A | Removal of skin lesion | 1.32 | 0.51 | 1.76 | 0.09 | 010
11402 |  | A | Removal of skin lesion | 1.61 | 0.95 | 2.51 | 0.12 | 010
11403 |  | A | Removal of skin lesion | 1.92 | 1.07 | 2.75 | 0.16 | 010
11404 |  | A | Removal of skin lesion | 2.20 | 1.15 | 2.91 | 0.18 | 010
11406 |  | A | Removal of skin lesion | 2.76 | 1.36 | 3.21 | 0.25 | 010
11420 |  | A | Removal of skin lesion | 1.06 | 0.43 | 1.46 | 0.08 | 010
11421 |  | A | Removal of skin lesion | 1.53 | 0.62 | 1.77 | 0.11 | 010
11422 |  | A | Removal of skin lesion | 1.76 | 1.04 | 2.53 | 0.14 | 010
11423 |  | A | Removal of skin lesion | 2.17 | 1.22 | 2.92 | 0.17 | 010
11424 |  | A | Removal of skin lesion | 2.62 | 1.38 | 3.04 | 0.21 | 010
11426 |  | A | Removal of skin lesion | 3.78 | 1.82 | 3.70 | 0.34 | 010
11440 |  | A | Removal of skin lesion | 1.15 | 0.51 | 2.18 | 0.08 | 010
11441 |  | A | Removal of skin lesion | 1.61 | 0.72 | 2.38 | 0.11 | 010
11442 |  | A | Removal of skin lesion | 1.87 | 1.25 | 2.79 | 0.14 | 010
11443 |  | A | Removal of skin lesion | 2.49 | 1.57 | 3.30 | 0.18 | 010
11444 |  | A | Removal of skin lesion | 3.42 | 1.98 | 3.75 | 0.25 | 010
11446 |  | A | Removal of skin lesion | 4.49 | 2.45 | 4.20 | 0.30 | 010
11450 |  | A | Removal, sweat gland lesion | 2.73 | 0.97 | 4.11 | 0.26 | 090
11451 |  | A | Removal, sweat gland lesion | 3.95 | 1.44 | 4.91 | 0.39 | 090
11462 |  | A | Removal, sweat gland lesion | 2.51 | 0.95 | 4.08 | 0.23 | 090
11463 |  | A | Removal, sweat gland lesion | 3.95 | 1.57 | 5.55 | 0.40 | 090
11470 |  | A | Removal, sweat gland lesion | 3.25 | 1.24 | 4.66 | 0.30 | 090
11471 |  | A | Removal, sweat gland lesion | 4.41 | 1.72 | 5.69 | 0.40 | 090
11600 |  | A | Removal of skin lesion | 1.41 | 1.02 | 2.41 | 0.09 | 010
11601 |  | A | Removal of skin lesion | 1.93 | 1.30 | 2.46 | 0.12 | 010
11602 |  | A | Removal of skin lesion | 2.09 | 1.35 | 2.58 | 0.13 | 010
11603 |  | A | Removal of skin lesion | 2.35 | 1.42 | 2.83 | 0.16 | 010
11604 |  | A | Removal of skin lesion | 2.58 | 1.49 | 3.15 | 0.18 | 010
11606 |  | A | Removal of skin lesion | 3.43 | 1.77 | 3.76 | 0.28 | 010
11620 |  | A | Removal of skin lesion | 1.34 | 1.03 | 2.39 | 0.09 | 010
11621 |  | A | Removal of skin lesion | 1.97 | 1.37 | 2.50 | 0.12 | 010
11622 |  | A | Removal of skin lesion | 2.34 | 1.54 | 2.78 | 0.15 | 010
11623 |  | A | Removal of skin lesion | 2.93 | 1.76 | 3.18 | 0.20 | 010
11624 |  | A | Removal of skin lesion | 3.43 | 1.98 | 3.59 | 0.25 | 010
11626 |  | A | Removal of skin lesion | 4.30 | 2.46 | 4.36 | 0.35 | 010
11640 |  | A | Removal of skin lesion | 1.53 | 1.23 | 2.45 | 0.10 | 010
11641 |  | A | Removal of skin lesion | 2.44 | 1.71 | 2.85 | 0.15 | 010
11642 |  | A | Removal of skin lesion | 2.93 | 1.94 | 3.26 | 0.18 | 010
11643 |  | A | Removal of skin lesion | 3.50 | 2.21 | 3.69 | 0.24 | 010
11644 |  | A | Removal of skin lesion | 4.55 | 2.81 | 4.65 | 0.33 | 010
11646 |  | A | Removal of skin lesion | 5.95 | 3.62 | 5.52 | 0.46 | 010
11719 |  | R | Trim nail(s) | 0.17 | 0.07 | 0.25 | 0.01 | 000
11720 |  | A | Debride nail, 1-5 | 0.32 | 0.13 | 0.34 | 0.02 | 000
11721 |  | A | Debride nail, 6 or more | 0.54 | 0.21 | 0.43 | 0.04 | 000
11730 |  | A | Removal of nail plate | 1.13 | 0.44 | 0.81 | 0.09 | 000
11732 |  | A | Remove nail plate, add-on | 0.57 | 0.23 | 0.30 | 0.05 | ZZZ
11740 |  | A | Drain blood from under nail | 0.37 | 0.14 | 0.81 | 0.03 | 000
11750 |  | A | Removal of nail bed | 1.86 | 0.77 | 1.71 | 0.16 | 010
11752 |  | A | Remove nail bed/finger tip | 2.67 | 1.74 | 2.10 | 0.33 | 010
11755 |  | A | Biopsy, nail unit | 1.31 | 0.56 | 1.07 | 0.06 | 000
11760 |  | A | Repair of nail bed | 1.58 | 1.24 | 1.78 | 0.17 | 010
11762 |  | A | Reconstruction of nail bed | 2.89 | 1.86 | 2.23 | 0.32 | 010
11765 |  | A | Excision of nail fold, toe | 0.69 | 0.49 | 1.13 | 0.05 | 010
11770 |  | A | Removal of pilonidal lesion | 2.61 | 1.23 | 2.93 | 0.24 | 010
11771 |  | A | Removal of pilonidal lesion | 5.74 | 3.91 | 5.50 | 0.56 | 090
11772 |  | A | Removal of pilonidal lesion | 6.98 | 4.36 | 6.35 | 0.68 | 090
11900 |  | A | Injection into skin lesions | 0.52 | 0.22 | 0.75 | 0.02 | 000
11901 |  | A | Added skin lesions injection | 0.80 | 0.36 | 0.87 | 0.03 | 000
11920 |  | R | Correct skin color defects | 1.61 | 0.80 | 2.21 | 0.17 | 000
11921 |  | R | Correct skin color defects | 1.93 | 1.00 | 2.60 | 0.21 | 000
11922 |  | R | Correct skin color defects | 0.49 | 0.25 | 0.39 | 0.05 | ZZZ
11950 |  | R | Therapy for contour defects | 0.84 | 0.42 | 1.20 | 0.06 | 000
11951 |  | R | Therapy for contour defects | 1.19 | 0.52 | 1.57 | 0.10 | 000
11952 |  | R | Therapy for contour defects | 1.69 | 0.70 | 2.01 | 0.17 | 000
11954 |  | R | Therapy for contour defects | 1.85 | 0.93 | 2.62 | 0.19 | 000
11960 |  | A | Insert tissue expander(s) | 9.08 | 11.15 | NA | 0.88 | 090
11970 |  | A | Replace tissue expander | 7.06 | 5.01 | NA | 0.77 | 090
11971 |  | A | Remove tissue expander(s) | 2.13 | 3.88 | 6.27 | 0.21 | 090
11975 |  | N | Insert contraceptive cap | 1.48 | 0.57 | 1.56 | 0.14 | XXX
11976 |  | R | Removal of contraceptive cap | 1.78 | 0.70 | 1.67 | 0.17 | 000
11977 |  | N | Removal/reinsert contra cap | 3.30 | 1.28 | 2.27 | 0.31 | XXX
11980 |  | A | Implant hormone pellet(s) | 1.48 | 0.56 | 1.12 | 0.10 | 000
11981 |  | A | Insert drug implant device | 1.48 | 0.57 | 1.56 | 0.14 | XXX
11982 |  | A | Remove drug implant device | 1.78 | 0.69 | 1.68 | 0.17 | XXX
11983 |  | A | Remove/insert drug implant | 3.30 | 1.28 | 2.27 | 0.31 | XXX
12001 |  | A | Repair superficial wound(s) | 1.70 | 0.44 | 2.09 | 0.13 | 010
12002 |  | A | Repair superficial wound(s) | 1.86 | 0.93 | 2.15 | 0.15 | 010
12004 |  | A | Repair superficial wound(s) | 2.24 | 1.04 | 2.41 | 0.17 | 010
12005 |  | A | Repair superficial wound(s) | 2.86 | 1.23 | 2.96 | 0.23 | 010
12006 |  | A | Repair superficial wound(s) | 3.67 | 1.54 | 3.61 | 0.31 | 010
12007 |  | A | Repair superficial wound(s) | 4.12 | 1.83 | 4.05 | 0.37 | 010
12011 |  | A | Repair superficial wound(s) | 1.76 | 0.45 | 2.25 | 0.14 | 010
12013 |  | A | Repair superficial wound(s) | 1.99 | 0.96 | 2.39 | 0.16 | 010
12014 |  | A | Repair superficial wound(s) | 2.46 | 1.09 | 2.68 | 0.18 | 010
12015 |  | A | Repair superficial wound(s) | 3.19 | 1.28 | 3.28 | 0.24 | 010
12016 |  | A | Repair superficial wound(s) | 3.93 | 1.56 | 3.76 | 0.32 | 010
12017 |  | A | Repair superficial wound(s) | 4.71 | 1.90 | NA | 0.39 | 010
12018 |  | A | Repair superficial wound(s) | 5.53 | 2.27 | NA | 0.46 | 010
12020 |  | A | Closure of split wound | 2.62 | 1.42 | 2.48 | 0.24 | 010
12021 |  | A | Closure of split wound | 1.84 | 1.02 | 1.61 | 0.19 | 010
12031 |  | A | Layer closure of wound(s) | 2.15 | 0.77 | 2.15 | 0.15 | 010
12032 |  | A | Layer closure of wound(s) | 2.47 | 1.28 | 2.77 | 0.15 | 010
12034 |  | A | Layer closure of wound(s) | 2.92 | 1.45 | 3.04 | 0.21 | 010
12035 |  | A | Layer closure of wound(s) | 3.43 | 1.67 | 3.08 | 0.30 | 010
12036 |  | A | Layer closure of wound(s) | 4.05 | 2.45 | 5.20 | 0.41 | 010
12037 |  | A | Layer closure of wound(s) | 4.67 | 2.79 | 5.49 | 0.49 | 010
12041 |  | A | Layer closure of wound(s) | 2.37 | 0.83 | 2.34 | 0.17 | 010
12042 |  | A | Layer closure of wound(s) | 2.74 | 1.42 | 2.98 | 0.17 | 010
12044 |  | A | Layer closure of wound(s) | 3.14 | 1.61 | 3.15 | 0.24 | 010
12045 |  | A | Layer closure of wound(s) | 3.64 | 1.86 | 3.53 | 0.34 | 010
12046 |  | A | Layer closure of wound(s) | 4.25 | 2.52 | 5.48 | 0.40 | 010
12047 |  | A | Layer closure of wound(s) | 4.65 | 2.88 | 5.92 | 0.41 | 010
12051 |  | A | Layer closure of wound(s) | 2.47 | 1.41 | 3.00 | 0.16 | 010
12052 |  | A | Layer closure of wound(s) | 2.77 | 1.38 | 2.92 | 0.17 | 010
12053 |  | A | Layer closure of wound(s) | 3.12 | 1.54 | 3.09 | 0.20 | 010
12054 |  | A | Layer closure of wound(s) | 3.46 | 1.65 | 3.44 | 0.25 | 010
12055 |  | A | Layer closure of wound(s) | 4.43 | 2.18 | 4.49 | 0.35 | 010
12056 |  | A | Layer closure of wound(s) | 5.24 | 3.05 | 6.55 | 0.43 | 010
12057 |  | A | Layer closure of wound(s) | 5.96 | 3.75 | 6.07 | 0.50 | 010
13100 |  | A | Repair of wound or lesion | 3.12 | 1.82 | 3.34 | 0.21 | 010
13101 |  | A | Repair of wound or lesion | 3.92 | 2.29 | 3.54 | 0.22 | 010
13102 |  | A | Repair wound/lesion add-on | 1.24 | 0.57 | 0.73 | 0.10 | ZZZ
13120 |  | A | Repair of wound or lesion | 3.30 | 1.87 | 3.45 | 0.23 | 010
13121 |  | A | Repair of wound or lesion | 4.33 | 2.39 | 3.76 | 0.25 | 010
13122 |  | A | Repair wound/lesion add-on | 1.44 | 0.65 | 0.86 | 0.12 | ZZZ
13131 |  | A | Repair of wound or lesion | 3.79 | 2.21 | 3.70 | 0.25 | 010
13132 |  | A | Repair of wound or lesion | 5.95 | 3.25 | 4.48 | 0.32 | 010
13133 |  | A | Repair wound/lesion add-on | 2.19 | 1.01 | 1.19 | 0.17 | ZZZ
13150 |  | A | Repair of wound or lesion | 3.81 | 2.66 | 5.17 | 0.29 | 010
13151 |  | A | Repair of wound or lesion | 4.45 | 3.10 | 5.04 | 0.28 | 010
13152 |  | A | Repair of wound or lesion | 6.33 | 4.00 | 5.71 | 0.38 | 010
13153 |  | A | Repair wound/lesion add-on | 2.38 | 1.09 | 1.32 | 0.18 | ZZZ
13160 |  | A | Late closure of wound | 10.48 | 6.28 | NA | 1.19 | 090
14000 |  | A | Skin tissue rearrangement | 5.89 | 4.68 | 7.31 | 0.46 | 090
14001 |  | A | Skin tissue rearrangement | 8.47 | 5.99 | 8.55 | 0.65 | 090
14020 |  | A | Skin tissue rearrangement | 6.59 | 5.39 | 7.78 | 0.50 | 090
14021 |  | A | Skin tissue rearrangement | 10.06 | 7.15 | 9.05 | 0.69 | 090
14040 |  | A | Skin tissue rearrangement | 7.87 | 6.10 | 8.03 | 0.53 | 090
14041 |  | A | Skin tissue rearrangement | 11.49 | 7.93 | 9.73 | 0.68 | 090
14060 |  | A | Skin tissue rearrangement | 8.50 | 6.95 | 8.54 | 0.59 | 090
14061 |  | A | Skin tissue rearrangement | 12.29 | 8.79 | 10.70 | 0.75 | 090
14300 |  | A | Skin tissue rearrangement | 11.76 | 8.44 | 9.90 | 0.88 | 090
14350 |  | A | Skin tissue rearrangement | 9.61 | 6.37 | NA | 1.09 | 090
15000 |  | A | Skin graft | 4.00 | 1.88 | 2.44 | 0.37 | 000
15001 |  | A | Skin graft add-on | 1.00 | 0.43 | 0.58 | 0.11 | ZZZ
15050 |  | A | Skin pinch graft | 4.30 | 3.96 | 5.05 | 0.46 | 090
15100 |  | A | Skin split graft | 9.05 | 6.16 | 6.25 | 0.94 | 090
15101 |  | A | Skin split graft add-on | 1.72 | 0.74 | 1.20 | 0.18 | ZZZ
15120 |  | A | Skin split graft | 9.83 | 6.75 | 8.40 | 0.87 | 090
15121 |  | A | Skin split graft add-on | 2.67 | 1.22 | 1.60 | 0.27 | ZZZ
15200 |  | A | Skin full graft | 8.03 | 5.57 | 9.30 | 0.73 | 090
15201 |  | A | Skin full graft add-on | 1.32 | 0.64 | 1.07 | 0.14 | ZZZ
15220 |  | A | Skin full graft | 7.87 | 6.23 | 9.26 | 0.68 | 090
15221 |  | A | Skin full graft add-on | 1.19 | 0.58 | 0.92 | 0.12 | ZZZ
15240 |  | A | Skin full graft | 9.04 | 7.06 | 8.90 | 0.77 | 090
15241 |  | A | Skin full graft add-on | 1.86 | 0.94 | 1.46 | 0.17 | ZZZ
15260 |  | A | Skin full graft | 10.06 | 7.53 | 8.86 | 0.63 | 090
15261 |  | A | Skin full graft add-on | 2.23 | 1.14 | 1.56 | 0.17 | ZZZ
15342 |  | A | Cultured skin graft, 25 cm | 1.00 | 1.03 | 2.14 | 0.09 | 010
15343 |  | A | Culture skn graft addl 25 cm | 0.25 | 0.10 | 0.41 | 0.02 | ZZZ
15350 |  | A | Skin homograft | 4.00 | 4.40 | 8.43 | 0.42 | 090
15351 |  | A | Skin homograft add-on | 1.00 | 0.41 | 0.92 | 0.11 | ZZZ
15400 |  | A | Skin heterograft | 4.00 | 4.79 | 4.79 | 0.40 | 090
15401 |  | A | Skin heterograft add-on | 1.00 | 0.46 | 1.11 | 0.11 | ZZZ
15570 |  | A | Form skin pedicle flap | 9.21 | 6.11 | 8.17 | 0.96 | 090
15572 |  | A | Form skin pedicle flap | 9.27 | 5.83 | 7.68 | 0.93 | 090
15574 |  | A | Form skin pedicle flap | 9.88 | 6.85 | 8.31 | 0.92 | 090
15576 |  | A | Form skin pedicle flap | 8.69 | 6.34 | 8.80 | 0.72 | 090
15600 |  | A | Skin graft | 1.91 | 2.39 | 6.22 | 0.19 | 090
15610 |  | A | Skin graft | 2.42 | 2.67 | 3.38 | 0.25 | 090
15620 |  | A | Skin graft | 2.94 | 3.42 | 6.82 | 0.28 | 090
15630 |  | A | Skin graft | 3.27 | 3.71 | 6.10 | 0.28 | 090
15650 |  | A | Transfer skin pedicle flap | 3.97 | 3.77 | 6.11 | 0.36 | 090
15732 |  | A | Muscle-skin graft, head/neck | 17.84 | 11.31 | NA | 1.50 | 090
15734 |  | A | Muscle-skin graft, trunk | 17.79 | 11.18 | NA | 1.91 | 090
15736 |  | A | Muscle-skin graft, arm | 16.27 | 10.73 | NA | 1.78 | 090
15738 |  | A | Muscle-skin graft, leg | 17.92 | 11.17 | NA | 1.95 | 090
15740 |  | A | Island pedicle flap graft | 10.25 | 7.05 | 8.55 | 0.62 | 090
15750 |  | A | Neurovascular pedicle graft | 11.41 | 8.17 | NA | 1.12 | 090
15756 |  | A | Free muscle flap, microvasc | 35.23 | 20.87 | NA | 3.11 | 090
15757 |  | A | Free skin flap, microvasc | 35.23 | 22.03 | NA | 3.37 | 090
15758 |  | A | Free fascial flap, microvasc | 35.10 | 22.06 | NA | 3.52 | 090
15760 |  | A | Composite skin graft | 8.74 | 6.66 | 8.88 | 0.72 | 090
15770 |  | A | Derma-fat-fascia graft | 7.52 | 6.03 | NA | 0.78 | 090
15775 |  | R | Hair transplant punch grafts | 3.96 | 1.55 | 3.07 | 0.43 | 000
15776 |  | R | Hair transplant punch grafts | 5.54 | 2.88 | 3.90 | 0.60 | 000
15780 |  | A | Abrasion treatment of skin | 7.29 | 6.41 | 6.41 | 0.41 | 090
15781 |  | A | Abrasion treatment of skin | 4.85 | 4.74 | 4.84 | 0.27 | 090
15782 |  | A | Abrasion treatment of skin | 4.32 | 4.13 | 4.21 | 0.21 | 090
15783 |  | A | Abrasion treatment of skin | 4.29 | 3.47 | 4.55 | 0.26 | 090
15786 |  | A | Abrasion, lesion, single | 2.03 | 1.27 | 1.73 | 0.11 | 010
15787 |  | A | Abrasion, lesions, add-on | 0.33 | 0.16 | 0.31 | 0.02 | ZZZ
15788 |  | R | Chemical peel, face, epiderm | 2.09 | 1.03 | 2.90 | 0.11 | 090
15789 |  | R | Chemical peel, face, dermal | 4.92 | 3.46 | 5.92 | 0.27 | 090
15792 |  | R | Chemical peel, nonfacial | 1.86 | 2.08 | 2.78 | 0.10 | 090
15793 |  | A | Chemical peel, nonfacial | 3.74 | 3.33 | NA | 0.17 | 090
15810 |  | A | Salabrasion | 4.74 | 3.83 | 3.83 | 0.42 | 090
15811 |  | A | Salabrasion | 5.39 | 4.75 | 6.10 | 0.52 | 090
15819 |  | A | Plastic surgery, neck | 9.38 | 6.69 | NA | 0.77 | 090
15820 |  | A | Revision of lower eyelid | 5.15 | 7.08 | 11.63 | 0.30 | 090
15821 |  | A | Revision of lower eyelid | 5.72 | 7.22 | 12.14 | 0.31 | 090
15822 |  | A | Revision of upper eyelid | 4.45 | 6.47 | 10.50 | 0.22 | 090
15823 |  | A | Revision of upper eyelid | 7.05 | 7.55 | 11.57 | 0.32 | 090
15824 |  | R | Removal of forehead wrinkles | 0.00 | 0.00 | 0.00 | 0.00 | 000
15825 |  | R | Removal of neck wrinkles | 0.00 | 0.00 | 0.00 | 0.00 | 000
15826 |  | R | Removal of brow wrinkles | 0.00 | 0.00 | 0.00 | 0.00 | 000
15828 |  | R | Removal of face wrinkles | 0.00 | 0.00 | 0.00 | 0.00 | 000
15829 |  | R | Removal of skin wrinkles | 0.00 | 0.00 | 0.00 | 0.00 | 000
15831 |  | A | Excise excessive skin tissue | 12.40 | 7.66 | NA | 1.30 | 090
15832 |  | A | Excise excessive skin tissue | 11.59 | 7.75 | NA | 1.21 | 090
15833 |  | A | Excise excessive skin tissue | 10.64 | 7.04 | NA | 1.17 | 090
15834 |  | A | Excise excessive skin tissue | 10.85 | 6.98 | NA | 1.18 | 090
15835 |  | A | Excise excessive skin tissue | 11.67 | 6.80 | NA | 1.13 | 090
15836 |  | A | Excise excessive skin tissue | 9.34 | 6.19 | NA | 0.95 | 090
15837 |  | A | Excise excessive skin tissue | 8.43 | 6.34 | 7.48 | 0.78 | 090
15838 |  | A | Excise excessive skin tissue | 7.13 | 5.68 | NA | 0.58 | 090
15839 |  | A | Excise excessive skin tissue | 9.38 | 5.77 | 7.29 | 0.88 | 090
15840 |  | A | Graft for face nerve palsy | 13.26 | 9.80 | NA | 1.15 | 090
15841 |  | A | Graft for face nerve palsy | 23.26 | 14.52 | NA | 2.65 | 090
15842 |  | A | Flap for face nerve palsy | 37.96 | 22.95 | NA | 3.99 | 090
15845 |  | A | Skin and muscle repair, face | 12.57 | 8.54 | NA | 0.80 | 090
15850 |  | B | Removal of sutures | 0.78 | 0.30 | 1.43 | 0.04 | XXX
15851 |  | A | Removal of sutures | 0.86 | 0.34 | 1.61 | 0.05 | 000
15852 |  | A | Dressing change,not for burn | 0.86 | 0.36 | 1.77 | 0.07 | 000
15860 |  | A | Test for blood flow in graft | 1.95 | 0.80 | 1.31 | 0.13 | 000
15876 |  | R | Suction assisted lipectomy | 0.00 | 0.00 | 0.00 | 0.00 | 000
15877 |  | R | Suction assisted lipectomy | 0.00 | 0.00 | 0.00 | 0.00 | 000
15878 |  | R | Suction assisted lipectomy | 0.00 | 0.00 | 0.00 | 0.00 | 000
15879 |  | R | Suction assisted lipectomy | 0.00 | 0.00 | 0.00 | 0.00 | 000
15920 |  | A | Removal of tail bone ulcer | 7.95 | 5.50 | NA | 0.83 | 090
15922 |  | A | Removal of tail bone ulcer | 9.90 | 7.35 | NA | 1.06 | 090
15931 |  | A | Remove sacrum pressure sore | 9.24 | 5.56 | NA | 0.95 | 090
15933 |  | A | Remove sacrum pressure sore | 10.85 | 8.00 | NA | 1.14 | 090
15934 |  | A | Remove sacrum pressure sore | 12.69 | 8.34 | NA | 1.35 | 090
15935 |  | A | Remove sacrum pressure sore | 14.57 | 10.04 | NA | 1.56 | 090
15936 |  | A | Remove sacrum pressure sore | 12.38 | 8.86 | NA | 1.32 | 090
15937 |  | A | Remove sacrum pressure sore | 14.21 | 10.36 | NA | 1.51 | 090
15940 |  | A | Remove hip pressure sore | 9.34 | 5.94 | NA | 0.98 | 090
15941 |  | A | Remove hip pressure sore | 11.43 | 9.87 | NA | 1.23 | 090
15944 |  | A | Remove hip pressure sore | 11.46 | 8.67 | NA | 1.21 | 090
15945 |  | A | Remove hip pressure sore | 12.69 | 9.63 | NA | 1.38 | 090
15946 |  | A | Remove hip pressure sore | 21.57 | 14.05 | NA | 2.32 | 090
15950 |  | A | Remove thigh pressure sore | 7.54 | 5.16 | NA | 0.80 | 090
15951 |  | A | Remove thigh pressure sore | 10.72 | 8.02 | NA | 1.14 | 090
15952 |  | A | Remove thigh pressure sore | 11.39 | 7.43 | NA | 1.19 | 090
15953 |  | A | Remove thigh pressure sore | 12.63 | 8.87 | NA | 1.38 | 090
15956 |  | A | Remove thigh pressure sore | 15.52 | 10.48 | NA | 1.64 | 090
15958 |  | A | Remove thigh pressure sore | 15.48 | 10.79 | NA | 1.66 | 090
15999 |  | C | Removal of pressure sore | 0.00 | 0.00 | 0.00 | 0.00 | YYY
16000 |  | A | Initial treatment of burn(s) | 0.89 | 0.27 | 1.07 | 0.06 | 000
16010 |  | A | Treatment of burn(s) | 0.87 | 0.36 | 1.18 | 0.07 | 000
16015 |  | A | Treatment of burn(s) | 2.35 | 0.94 | 1.88 | 0.22 | 000
16020 |  | A | Treatment of burn(s) | 0.80 | 0.26 | 1.21 | 0.06 | 000
16025 |  | A | Treatment of burn(s) | 1.85 | 0.67 | 1.87 | 0.16 | 000
16030 |  | A | Treatment of burn(s) | 2.08 | 0.90 | 3.03 | 0.18 | 000
16035 |  | A | Incision of burn scab, initi | 3.75 | 1.50 | NA | 0.36 | 090
16036 |  | A | Incise burn scab, addl incis | 1.50 | 0.60 | NA | 0.11 | ZZZ
17000 |  | A | Detroy benign/premal lesion | 0.60 | 0.27 | 1.06 | 0.03 | 010
17003 |  | A | Destroy lesions, 2-14 | 0.15 | 0.07 | 0.23 | 0.01 | ZZZ
17004 |  | A | Destroy lesions, 15 or more | 2.79 | 1.28 | 2.51 | 0.12 | 010
17106 |  | A | Destruction of skin lesions | 4.59 | 2.76 | 4.58 | 0.28 | 090
17107 |  | A | Destruction of skin lesions | 9.16 | 4.94 | 6.88 | 0.53 | 090
17108 |  | A | Destruction of skin lesions | 13.20 | 7.18 | 8.80 | 0.89 | 090
17110 |  | A | Destruct lesion, 1-14 | 0.65 | 0.26 | 1.09 | 0.04 | 010
17111 |  | A | Destruct lesion, 15 or more | 0.92 | 0.38 | 1.16 | 0.04 | 010
17250 |  | A | Chemical cautery, tissue | 0.50 | 0.21 | 0.74 | 0.04 | 000
17260 |  | A | Destruction of skin lesions | 0.91 | 0.40 | 1.34 | 0.04 | 010
17261 |  | A | Destruction of skin lesions | 1.17 | 0.55 | 1.45 | 0.05 | 010
17262 |  | A | Destruction of skin lesions | 1.58 | 0.74 | 1.65 | 0.07 | 010
17263 |  | A | Destruction of skin lesions | 1.79 | 0.82 | 1.76 | 0.08 | 010
17264 |  | A | Destruction of skin lesions | 1.94 | 0.85 | 1.83 | 0.08 | 010
17266 |  | A | Destruction of skin lesions | 2.34 | 0.96 | 2.04 | 0.11 | 010
17270 |  | A | Destruction of skin lesions | 1.32 | 0.60 | 1.54 | 0.06 | 010
17271 |  | A | Destruction of skin lesions | 1.49 | 0.71 | 1.61 | 0.06 | 010
17272 |  | A | Destruction of skin lesions | 1.77 | 0.84 | 1.75 | 0.07 | 010
17273 |  | A | Destruction of skin lesions | 2.05 | 0.95 | 1.89 | 0.09 | 010
17274 |  | A | Destruction of skin lesions | 2.59 | 1.18 | 2.15 | 0.11 | 010
17276 |  | A | Destruction of skin lesions | 3.20 | 1.68 | 2.47 | 0.15 | 010
17280 |  | A | Destruction of skin lesions | 1.17 | 0.53 | 1.37 | 0.05 | 010
17281 |  | A | Destruction of skin lesions | 1.72 | 0.82 | 1.72 | 0.07 | 010
17282 |  | A | Destruction of skin lesions | 2.04 | 0.97 | 1.88 | 0.09 | 010
17283 |  | A | Destruction of skin lesions | 2.64 | 1.23 | 2.18 | 0.11 | 010
17284 |  | A | Destruction of skin lesions | 3.21 | 1.49 | 2.47 | 0.14 | 010
17286 |  | A | Destruction of skin lesions | 4.44 | 2.48 | 3.12 | 0.22 | 010
17304 |  | A | Chemosurgery of skin lesion | 7.60 | 3.65 | 7.57 | 0.31 | 000
17305 |  | A | 2nd stage chemosurgery | 2.85 | 1.37 | 3.51 | 0.12 | 000
17306 |  | A | 3rd stage chemosurgery | 2.85 | 1.38 | 3.51 | 0.12 | 000
17307 |  | A | Followup skin lesion therapy | 2.85 | 1.40 | 3.52 | 0.12 | 000
17310 |  | A | Extensive skin chemosurgery | 0.95 | 0.47 | 1.50 | 0.05 | 000
17340 |  | A | Cryotherapy of skin | 0.76 | 0.26 | 0.37 | 0.04 | 010
17360 |  | A | Skin peel therapy | 1.43 | 0.71 | 1.45 | 0.06 | 010
17380 |  | R | Hair removal by electrolysis | 0.00 | 0.00 | 0.00 | 0.00 | 000
17999 |  | C | Skin tissue procedure | 0.00 | 0.00 | 0.00 | 0.00 | YYY
19000 |  | A | Drainage of breast lesion | 0.84 | 0.29 | 1.23 | 0.07 | 000
19001 |  | A | Drain breast lesion add-on | 0.42 | 0.14 | 0.84 | 0.03 | ZZZ
19020 |  | A | Incision of breast lesion | 3.57 | 3.38 | 6.84 | 0.35 | 090
19030 |  | A | Injection for breast x-ray | 1.53 | 0.52 | 3.74 | 0.07 | 000
19100 |  | A | Bx breast percut w/o image | 1.27 | 0.44 | 1.46 | 0.10 | 000
19101 |  | A | Biopsy of breast, open | 3.18 | 1.93 | 5.24 | 0.20 | 010
19102 |  | A | Bx breast percut w/image | 2.00 | 0.69 | 5.11 | 0.13 | 000
19103 |  | A | Bx breast percut w/device | 3.70 | 1.27 | 12.71 | 0.16 | 000
19110 |  | A | Nipple exploration | 4.30 | 4.40 | 8.56 | 0.44 | 090
19112 |  | A | Excise breast duct fistula | 3.67 | 3.07 | 9.11 | 0.38 | 090
19120 |  | A | Removal of breast lesion | 5.56 | 3.09 | 4.92 | 0.56 | 090
19125 |  | A | Excision, breast lesion | 6.06 | 3.25 | 5.03 | 0.61 | 090
19126 |  | A | Excision, addl breast lesion | 2.93 | 1.03 | NA | 0.30 | ZZZ
19140 |  | A | Removal of breast tissue | 5.14 | 3.65 | 9.29 | 0.52 | 090
19160 |  | A | Removal of breast tissue | 5.99 | 4.48 | NA | 0.61 | 090
19162 |  | A | Remove breast tissue, nodes | 13.53 | 7.93 | NA | 1.38 | 090
19180 |  | A | Removal of breast | 8.80 | 5.97 | NA | 0.88 | 090
19182 |  | A | Removal of breast | 7.73 | 5.01 | NA | 0.79 | 090
19200 |  | A | Removal of breast | 15.49 | 9.09 | NA | 1.51 | 090
19220 |  | A | Removal of breast | 15.72 | 9.14 | NA | 1.56 | 090
19240 |  | A | Removal of breast | 16.00 | 8.78 | NA | 1.62 | 090
19260 |  | A | Removal of chest wall lesion | 15.44 | 9.02 | NA | 1.64 | 090
19271 |  | A | Revision of chest wall | 18.90 | 11.09 | NA | 2.27 | 090
19272 |  | A | Extensive chest wall surgery | 21.55 | 11.93 | NA | 2.54 | 090
19290 |  | A | Place needle wire, breast | 1.27 | 0.43 | 3.00 | 0.06 | 000
19291 |  | A | Place needle wire, breast | 0.63 | 0.22 | 1.76 | 0.03 | ZZZ
19295 |  | A | Place breast clip, percut | 0.00 | NA | 2.88 | 0.01 | ZZZ
19316 |  | A | Suspension of breast | 10.69 | 7.64 | NA | 1.15 | 090
19318 |  | A | Reduction of large breast | 15.62 | 10.30 | NA | 1.69 | 090
19324 |  | A | Enlarge breast | 5.85 | 4.29 | NA | 0.63 | 090
19325 |  | A | Enlarge breast with implant | 8.45 | 6.29 | NA | 0.90 | 090
19328 |  | A | Removal of breast implant | 5.68 | 4.59 | NA | 0.61 | 090
19330 |  | A | Removal of implant material | 7.59 | 5.27 | NA | 0.81 | 090
19340 |  | A | Immediate breast prosthesis | 6.33 | 3.19 | NA | 0.68 | ZZZ
19342 |  | A | Delayed breast prosthesis | 11.20 | 7.92 | NA | 1.21 | 090
19350 |  | A | Breast reconstruction | 8.92 | 6.87 | 13.93 | 0.95 | 090
19355 |  | A | Correct inverted nipple(s) | 7.57 | 5.47 | 13.39 | 0.80 | 090
19357 |  | A | Breast reconstruction | 18.16 | 13.88 | NA | 1.96 | 090
19361 |  | A | Breast reconstruction | 19.26 | 11.98 | NA | 2.08 | 090
19364 |  | A | Breast reconstruction | 41.00 | 23.88 | NA | 3.91 | 090
19366 |  | A | Breast reconstruction | 21.28 | 11.71 | NA | 2.27 | 090
19367 |  | A | Breast reconstruction | 25.73 | 15.24 | NA | 2.78 | 090
19368 |  | A | Breast reconstruction | 32.42 | 18.77 | NA | 3.51 | 090
19369 |  | A | Breast reconstruction | 29.82 | 18.13 | NA | 3.24 | 090
19370 |  | A | Surgery of breast capsule | 8.05 | 6.15 | NA | 0.86 | 090
19371 |  | A | Removal of breast capsule | 9.35 | 7.24 | NA | 1.01 | 090
19380 |  | A | Revise breast reconstruction | 9.14 | 7.13 | NA | 0.98 | 090
19396 |  | A | Design custom breast implant | 2.17 | 0.92 | 6.66 | 0.23 | 000
19499 |  | C | Breast surgery procedure | 0.00 | 0.00 | 0.00 | 0.00 | YYY
20000 |  | A | Incision of abscess | 2.12 | 1.19 | 2.15 | 0.17 | 010
20005 |  | A | Incision of deep abscess | 3.42 | 2.19 | 2.99 | 0.34 | 010
20100 |  | A | Explore wound, neck | 10.08 | 4.37 | 5.83 | 0.99 | 010
20101 |  | A | Explore wound, chest | 3.22 | 1.48 | 2.82 | 0.24 | 010
20102 |  | A | Explore wound, abdomen | 3.94 | 1.76 | 3.39 | 0.35 | 010
20103 |  | A | Explore wound, extremity | 5.30 | 3.00 | 4.25 | 0.57 | 010
20150 |  | A | Excise epiphyseal bar | 13.69 | 8.96 | NA | 0.96 | 090
20200 |  | A | Muscle biopsy | 1.46 | 0.60 | 1.69 | 0.17 | 000
20205 |  | A | Deep muscle biopsy | 2.35 | 0.95 | 3.86 | 0.23 | 000
20206 |  | A | Needle biopsy, muscle | 0.99 | 0.35 | 3.18 | 0.06 | 000
20220 |  | A | Bone biopsy, trocar/needle | 1.27 | 3.02 | 5.05 | 0.06 | 000
20225 |  | A | Bone biopsy, trocar/needle | 1.87 | 3.06 | 4.46 | 0.11 | 000
20240 |  | A | Bone biopsy, excisional | 3.23 | 4.12 | NA | 0.33 | 010
20245 |  | A | Bone biopsy, excisional | 7.78 | 6.74 | NA | 0.44 | 010
20250 |  | A | Open bone biopsy | 5.03 | 4.25 | NA | 0.50 | 010
20251 |  | A | Open bone biopsy | 5.56 | 4.78 | NA | 0.79 | 010
20500 |  | A | Injection of sinus tract | 1.23 | 3.88 | 5.68 | 0.10 | 010
20501 |  | A | Inject sinus tract for x-ray | 0.76 | 0.26 | 3.22 | 0.03 | 000
20520 |  | A | Removal of foreign body | 1.85 | 3.46 | 5.49 | 0.17 | 010
20525 |  | A | Removal of foreign body | 3.50 | 4.26 | 6.93 | 0.40 | 010
20526 |  | A | Ther injection carpal tunnel | 0.86 | 0.38 | 0.77 | 0.06 | 000
20550 |  | A | Inject tendon/ligament/cyst | 0.86 | 0.26 | 0.84 | 0.06 | 000
20551 |  | A | Inject tendon origin/insert | 0.86 | 0.38 | 0.77 | 0.06 | 000
20552 |  | A | Inject trigger point, 1 or 2 | 0.86 | 0.38 | 0.77 | 0.06 | 000
20553 |  | A | Inject trigger points, > 3 | 0.86 | 0.38 | 0.77 | 0.06 | 000
20600 |  | A | Drain/inject, joint/bursa | 0.66 | 0.35 | 0.64 | 0.06 | 000
20605 |  | A | Drain/inject, joint/bursa | 0.68 | 0.36 | 0.75 | 0.06 | 000
20610 |  | A | Drain/inject, joint/bursa | 0.79 | 0.41 | 0.93 | 0.08 | 000
20615 |  | A | Treatment of bone cyst | 2.28 | 2.63 | 4.68 | 0.19 | 010
20650 |  | A | Insert and remove bone pin | 2.23 | 3.18 | 4.94 | 0.28 | 010
20660 |  | A | Apply, remove fixation device | 2.51 | 1.46 | NA | 0.48 | 000
20661 |  | A | Application of head brace | 4.89 | 6.61 | NA | 0.92 | 090
20662 |  | A | Application of pelvis brace | 6.07 | 5.27 | NA | 0.81 | 090
20663 |  | A | Application of thigh brace | 5.43 | 4.70 | NA | 0.77 | 090
20664 |  | A | Halo brace application | 8.06 | 8.30 | NA | 1.49 | 090
20665 |  | A | Removal of fixation device | 1.31 | 1.24 | 2.30 | 0.17 | 010
20670 |  | A | Removal of support implant | 1.74 | 3.30 | 5.63 | 0.23 | 010
20680 |  | A | Removal of support implant | 3.35 | 5.10 | 5.10 | 0.46 | 090
20690 |  | A | Apply bone fixation device | 3.52 | 1.84 | NA | 0.47 | 090
20692 |  | A | Apply bone fixation device | 6.41 | 3.07 | NA | 0.60 | 090
20693 |  | A | Adjust bone fixation device | 5.86 | 12.41 | NA | 0.85 | 090
20694 |  | A | Remove bone fixation device | 4.16 | 6.12 | 8.77 | 0.57 | 090
20802 |  | A | Replantation, arm, complete | 41.15 | 29.57 | NA | 5.81 | 090
20805 |  | A | Replant, forearm, complete | 50.00 | 44.44 | NA | 3.95 | 090
20808 |  | A | Replantation hand, complete | 61.65 | 48.81 | NA | 6.49 | 090
20816 |  | A | Replantation digit, complete | 30.94 | 46.19 | NA | 3.01 | 090
20822 |  | A | Replantation digit, complete | 25.59 | 42.70 | NA | 3.07 | 090
20824 |  | A | Replantation thumb, complete | 30.94 | 44.93 | NA | 3.48 | 090
20827 |  | A | Replantation thumb, complete | 26.41 | 44.52 | NA | 3.21 | 090
20838 |  | A | Replantation foot, complete | 41.41 | 28.98 | NA | 5.85 | 090
20900 |  | A | Removal of bone for graft | 5.58 | 6.14 | 6.31 | 0.77 | 090
20902 |  | A | Removal of bone for graft | 7.55 | 8.77 | NA | 1.06 | 090
20910 |  | A | Remove cartilage for graft | 5.34 | 6.69 | 8.56 | 0.50 | 090
20912 |  | A | Remove cartilage for graft | 6.35 | 7.57 | NA | 0.55 | 090
20920 |  | A | Removal of fascia for graft | 5.31 | 5.57 | NA | 0.54 | 090
20922 |  | A | Removal of fascia for graft | 6.61 | 6.32 | 9.03 | 0.88 | 090
20924 |  | A | Removal of tendon for graft | 6.48 | 6.98 | NA | 0.82 | 090
20926 |  | A | Removal of tissue for graft | 5.53 | 6.22 | NA | 0.73 | 090
20930 |  | B | Spinal bone allograft | 0.00 | 0.00 | 0.00 | 0.00 | XXX
20931 |  | A | Spinal bone allograft | 1.81 | 0.95 | NA | 0.34 | ZZZ
20936 |  | B | Spinal bone autograft | 0.00 | 0.00 | 0.00 | 0.00 | XXX
20937 |  | A | Spinal bone autograft | 2.79 | 1.47 | NA | 0.43 | ZZZ
20938 |  | A | Spinal bone autograft | 3.02 | 1.58 | NA | 0.52 | ZZZ
20950 |  | A | Fluid pressure, muscle | 1.26 | 2.08 | NA | 0.16 | 000
20955 |  | A | Fibula bone graft, microvasc | 39.21 | 29.77 | NA | 4.35 | 090
20956 |  | A | Iliac bone graft, microvasc | 39.27 | 28.02 | NA | 5.77 | 090
20957 |  | A | Mt bone graft, microvasc | 40.65 | 20.15 | NA | 5.74 | 090
20962 |  | A | Other bone graft, microvasc | 39.27 | 27.75 | NA | 5.19 | 090
20969 |  | A | Bone/skin graft, microvasc | 43.92 | 32.44 | NA | 4.34 | 090
20970 |  | A | Bone/skin graft, iliac crest | 43.06 | 29.88 | NA | 4.64 | 090
20972 |  | A | Bone/skin graft, metatarsal | 42.99 | 18.59 | NA | 6.07 | 090
20973 |  | A | Bone/skin graft, great toe | 45.76 | 27.95 | NA | 4.65 | 090
20974 |  | A | Electrical bone stimulation | 0.62 | 0.33 | 0.41 | 0.09 | 000
20975 |  | A | Electrical bone stimulation | 2.60 | 1.37 | NA | 0.42 | 000
20979 |  | A | Us bone stimulation | 0.62 | 0.24 | 0.57 | 0.04 | 000
20999 |  | C | Musculoskeletal surgery | 0.00 | 0.00 | 0.00 | 0.00 | YYY
21010 |  | A | Incision of jaw joint | 10.14 | 7.22 | NA | 0.54 | 090
21015 |  | A | Resection of facial tumor | 5.29 | 7.27 | NA | 0.52 | 090
21025 |  | A | Excision of bone, lower jaw | 10.06 | 6.80 | 7.27 | 0.79 | 090
21026 |  | A | Excision of facial bone(s) | 4.85 | 5.05 | 5.30 | 0.40 | 090
21029 |  | A | Contour of face bone lesion | 7.71 | 6.14 | 6.85 | 0.74 | 090
21030 |  | A | Removal of face bone lesion | 6.46 | 4.76 | 5.33 | 0.60 | 090
21031 |  | A | Remove exostosis, mandible | 3.24 | 2.12 | 3.31 | 0.28 | 090
21032 |  | A | Remove exostosis, maxilla | 3.24 | 2.24 | 3.28 | 0.27 | 090
21034 |  | A | Removal of face bone lesion | 16.17 | 10.58 | 10.58 | 1.37 | 090
21040 |  | A | Removal of jaw bone lesion | 2.11 | 1.80 | 2.98 | 0.19 | 090
21041 |  | A | Removal of jaw bone lesion | 6.71 | 4.33 | 5.55 | 0.56 | 090
21044 |  | A | Removal of jaw bone lesion | 11.86 | 7.93 | NA | 0.87 | 090
21045 |  | A | Extensive jaw surgery | 16.17 | 10.23 | NA | 1.20 | 090
21050 |  | A | Removal of jaw joint | 10.77 | 11.68 | NA | 0.84 | 090
21060 |  | A | Remove jaw joint cartilage | 10.23 | 10.19 | NA | 1.16 | 090
21070 |  | A | Remove coronoid process | 8.20 | 5.97 | NA | 0.67 | 090
21076 |  | A | Prepare face/oral prosthesis | 13.42 | 7.17 | 9.54 | 1.36 | 010
21077 |  | A | Prepare face/oral prosthesis | 33.75 | 18.03 | 23.99 | 3.43 | 090
21079 |  | A | Prepare face/oral prosthesis | 22.34 | 12.47 | 16.96 | 1.59 | 090
21080 |  | A | Prepare face/oral prosthesis | 25.10 | 14.01 | 19.05 | 2.55 | 090
21081 |  | A | Prepare face/oral prosthesis | 22.88 | 12.77 | 17.36 | 1.87 | 090
21082 |  | A | Prepare face/oral prosthesis | 20.87 | 11.15 | 14.83 | 1.46 | 090
21083 |  | A | Prepare face/oral prosthesis | 19.30 | 10.77 | 14.65 | 1.96 | 090
21084 |  | A | Prepare face/oral prosthesis | 22.51 | 12.56 | 17.08 | 1.57 | 090
21085 |  | A | Prepare face/oral prosthesis | 9.00 | 4.81 | 6.40 | 0.65 | 010
21086 |  | A | Prepare face/oral prosthesis | 24.92 | 13.91 | 18.91 | 1.86 | 090
21087 |  | A | Prepare face/oral prosthesis | 24.92 | 13.31 | 17.71 | 2.22 | 090
21088 |  | C | Prepare face/oral prosthesis | 0.00 | 0.00 | 0.00 | 0.00 | 090
21089 |  | C | Prepare face/oral prosthesis | 0.00 | 0.00 | 0.00 | 0.00 | 090
21100 |  | A | Maxillofacial fixation | 4.22 | 3.95 | 5.67 | 0.18 | 090
21110 |  | A | Interdental fixation | 5.21 | 4.25 | 5.18 | 0.28 | 090
21116 |  | A | Injection, jaw joint x-ray | 0.81 | 0.29 | 7.90 | 0.05 | 000
21120 |  | A | Reconstruction of chin | 4.93 | 6.06 | 9.69 | 0.29 | 090
21121 |  | A | Reconstruction of chin | 7.64 | 6.18 | 7.71 | 0.56 | 090
21122 |  | A | Reconstruction of chin | 8.52 | 7.53 | NA | 0.59 | 090
21123 |  | A | Reconstruction of chin | 11.16 | 8.13 | NA | 1.16 | 090
21125 |  | A | Augmentation, lower jaw bone | 10.62 | 8.01 | 9.32 | 0.72 | 090
21127 |  | A | Augmentation, lower jaw bone | 11.12 | 7.38 | 9.51 | 0.76 | 090
21137 |  | A | Reduction of forehead | 9.82 | 8.13 | NA | 0.53 | 090
21138 |  | A | Reduction of forehead | 12.19 | 9.40 | NA | 1.47 | 090
21139 |  | A | Reduction of forehead | 14.61 | 8.88 | NA | 1.02 | 090
21141 |  | A | Reconstruct midface, lefort | 18.10 | 10.71 | NA | 1.63 | 090
21142 |  | A | Reconstruct midface, lefort | 18.81 | 12.16 | NA | 1.16 | 090
21143 |  | A | Reconstruct midface, lefort | 19.58 | 10.98 | NA | 0.90 | 090
21145 |  | A | Reconstruct midface, lefort | 19.94 | 11.18 | NA | 2.09 | 090
21146 |  | A | Reconstruct midface, lefort | 20.71 | 11.91 | NA | 2.13 | 090
21147 |  | A | Reconstruct midface, lefort | 21.77 | 12.00 | NA | 1.52 | 090
21150 |  | A | Reconstruct midface, lefort | 25.24 | 16.28 | NA | 1.09 | 090
21151 |  | A | Reconstruct midface, lefort | 28.30 | 20.03 | NA | 1.98 | 090
21154 |  | A | Reconstruct midface, lefort | 30.52 | 19.05 | NA | 4.86 | 090
21155 |  | A | Reconstruct midface, lefort | 34.45 | 20.69 | NA | 5.48 | 090
21159 |  | A | Reconstruct midface, lefort | 42.38 | 27.58 | NA | 6.74 | 090
21160 |  | A | Reconstruct midface, lefort | 46.44 | 26.69 | NA | 4.39 | 090
21172 |  | A | Reconstruct orbit/forehead | 27.80 | 15.81 | NA | 1.91 | 090
21175 |  | A | Reconstruct orbit/forehead | 33.17 | 20.14 | NA | 5.16 | 090
21179 |  | A | Reconstruct entire forehead | 22.25 | 17.94 | NA | 2.48 | 090
21180 |  | A | Reconstruct entire forehead | 25.19 | 18.89 | NA | 2.15 | 090
21181 |  | A | Contour cranial bone lesion | 9.90 | 8.49 | NA | 0.97 | 090
21182 |  | A | Reconstruct cranial bone | 32.19 | 21.96 | NA | 2.53 | 090
21183 |  | A | Reconstruct cranial bone | 35.31 | 23.64 | NA | 2.75 | 090
21184 |  | A | Reconstruct cranial bone | 38.24 | 24.65 | NA | 4.12 | 090
21188 |  | A | Reconstruction of midface | 22.46 | 15.57 | NA | 1.85 | 090
21193 |  | A | Reconst lwr jaw w/o graft | 17.15 | 10.69 | NA | 1.53 | 090
21194 |  | A | Reconst lwr jaw w/graft | 19.84 | 12.65 | NA | 1.39 | 090
21195 |  | A | Reconst lwr jaw w/o fixation | 17.24 | 12.28 | NA | 1.20 | 090
21196 |  | A | Reconst lwr jaw w/fixation | 18.91 | 12.87 | NA | 1.62 | 090
21198 |  | A | Reconstr lwr jaw segment | 14.16 | 11.59 | NA | 1.05 | 090
21199 |  | A | Reconstr lwr jaw w/advance | 16.00 | 10.19 | NA | 1.26 | 090
21206 |  | A | Reconstruct upper jaw bone | 14.10 | 9.66 | NA | 1.01 | 090
21208 |  | A | Augmentation of facial bones | 10.23 | 8.44 | 9.46 | 0.92 | 090
21209 |  | A | Reduction of facial bones | 6.72 | 5.81 | 7.84 | 0.60 | 090
21210 |  | A | Face bone graft | 10.23 | 8.14 | 8.78 | 0.88 | 090
21215 |  | A | Lower jaw bone graft | 10.77 | 7.01 | 8.71 | 1.04 | 090
21230 |  | A | Rib cartilage graft | 10.77 | 10.20 | NA | 0.96 | 090
21235 |  | A | Ear cartilage graft | 6.72 | 8.12 | 12.04 | 0.52 | 090
21240 |  | A | Reconstruction of jaw joint | 14.05 | 11.42 | NA | 1.15 | 090
21242 |  | A | Reconstruction of jaw joint | 12.95 | 11.21 | NA | 1.40 | 090
21243 |  | A | Reconstruction of jaw joint | 20.79 | 13.90 | NA | 1.85 | 090
21244 |  | A | Reconstruction of lower jaw | 11.86 | 9.13 | NA | 0.95 | 090
21245 |  | A | Reconstruction of jaw | 11.86 | 10.17 | 13.17 | 0.88 | 090
21246 |  | A | Reconstruction of jaw | 12.47 | 10.04 | 10.04 | 1.21 | 090
21247 |  | A | Reconstruct lower jaw bone | 22.63 | 16.47 | NA | 2.21 | 090
21248 |  | A | Reconstruction of jaw | 11.48 | 7.75 | 8.79 | 1.01 | 090
21249 |  | A | Reconstruction of jaw | 17.52 | 10.11 | 11.33 | 1.39 | 090
21255 |  | A | Reconstruct lower jaw bone | 16.72 | 11.37 | NA | 1.13 | 090
21256 |  | A | Reconstruction of orbit | 16.19 | 13.42 | NA | 1.04 | 090
21260 |  | A | Revise eye sockets | 16.52 | 11.01 | NA | 1.25 | 090
21261 |  | A | Revise eye sockets | 31.49 | 19.83 | NA | 2.20 | 090
21263 |  | A | Revise eye sockets | 28.42 | 14.74 | NA | 2.16 | 090
21267 |  | A | Revise eye sockets | 18.90 | 14.58 | NA | 1.35 | 090
21268 |  | A | Revise eye sockets | 24.48 | 16.16 | NA | 0.79 | 090
21270 |  | A | Augmentation, cheek bone | 10.23 | 9.48 | 9.48 | 0.73 | 090
21275 |  | A | Revision, orbitofacial bones | 11.24 | 11.04 | NA | 1.03 | 090
21280 |  | A | Revision of eyelid | 6.03 | 6.19 | NA | 0.27 | 090
21282 |  | A | Revision of eyelid | 3.49 | 5.30 | NA | 0.21 | 090
21295 |  | A | Revision of jaw muscle/bone | 1.53 | 4.33 | NA | 0.13 | 090
21296 |  | A | Revision of jaw muscle/bone | 4.25 | 4.65 | NA | 0.30 | 090
21299 |  | C | Cranio/maxillofacial surgery | 0.00 | 0.00 | 0.00 | 0.00 | YYY
21300 |  | A | Treatment of skull fracture | 0.72 | 0.27 | 2.76 | 0.09 | 000
21310 |  | A | Treatment of nose fracture | 0.58 | 0.15 | 2.66 | 0.05 | 000
21315 |  | A | Treatment of nose fracture | 1.51 | 1.28 | 3.41 | 0.12 | 010
21320 |  | A | Treatment of nose fracture | 1.85 | 2.03 | 4.81 | 0.15 | 010
21325 |  | A | Treatment of nose fracture | 3.77 | 3.69 | NA | 0.31 | 090
21330 |  | A | Treatment of nose fracture | 5.38 | 5.55 | NA | 0.48 | 090
21335 |  | A | Treatment of nose fracture | 8.61 | 7.14 | NA | 0.64 | 090
21336 |  | A | Treat nasal septal fracture | 5.72 | 5.55 | NA | 0.45 | 090
21337 |  | A | Treat nasal septal fracture | 2.70 | 3.27 | 5.22 | 0.22 | 090
21338 |  | A | Treat nasoethmoid fracture | 6.46 | 6.07 | NA | 0.53 | 090
21339 |  | A | Treat nasoethmoid fracture | 8.09 | 6.73 | NA | 0.76 | 090
21340 |  | A | Treatment of nose fracture | 10.77 | 9.18 | NA | 0.85 | 090
21343 |  | A | Treatment of sinus fracture | 12.95 | 9.77 | NA | 1.06 | 090
21344 |  | A | Treatment of sinus fracture | 19.72 | 13.45 | NA | 1.72 | 090
21345 |  | A | Treat nose/jaw fracture | 8.16 | 7.92 | 9.46 | 0.60 | 090
21346 |  | A | Treat nose/jaw fracture | 10.61 | 10.05 | NA | 0.85 | 090
21347 |  | A | Treat nose/jaw fracture | 12.69 | 9.56 | NA | 1.14 | 090
21348 |  | A | Treat nose/jaw fracture | 16.69 | 11.03 | NA | 1.50 | 090
21355 |  | A | Treat cheek bone fracture | 3.77 | 2.28 | 4.37 | 0.29 | 010
21356 |  | A | Treat cheek bone fracture | 4.15 | 3.25 | NA | 0.36 | 010
21360 |  | A | Treat cheek bone fracture | 6.46 | 5.65 | NA | 0.52 | 090
21365 |  | A | Treat cheek bone fracture | 14.95 | 11.39 | NA | 1.30 | 090
21366 |  | A | Treat cheek bone fracture | 17.77 | 11.96 | NA | 1.41 | 090
21385 |  | A | Treat eye socket fracture | 9.16 | 7.53 | NA | 0.64 | 090
21386 |  | A | Treat eye socket fracture | 9.16 | 8.06 | NA | 0.76 | 090
21387 |  | A | Treat eye socket fracture | 9.70 | 8.27 | NA | 0.78 | 090
21390 |  | A | Treat eye socket fracture | 10.13 | 8.57 | NA | 0.70 | 090
21395 |  | A | Treat eye socket fracture | 12.68 | 9.83 | NA | 1.09 | 090
21400 |  | A | Treat eye socket fracture | 1.40 | 1.06 | 3.16 | 0.12 | 090
21401 |  | A | Treat eye socket fracture | 3.26 | 3.19 | 4.70 | 0.34 | 090
21406 |  | A | Treat eye socket fracture | 7.01 | 6.80 | NA | 0.59 | 090
21407 |  | A | Treat eye socket fracture | 8.61 | 7.84 | NA | 0.67 | 090
21408 |  | A | Treat eye socket fracture | 12.38 | 10.11 | NA | 1.24 | 090
21421 |  | A | Treat mouth roof fracture | 5.14 | 6.03 | 7.17 | 0.42 | 090
21422 |  | A | Treat mouth roof fracture | 8.32 | 7.52 | NA | 0.69 | 090
21423 |  | A | Treat mouth roof fracture | 10.40 | 8.07 | NA | 0.95 | 090
21431 |  | A | Treat craniofacial fracture | 7.05 | 6.81 | NA | 0.58 | 090
21432 |  | A | Treat craniofacial fracture | 8.61 | 7.67 | NA | 0.55 | 090
21433 |  | A | Treat craniofacial fracture | 25.35 | 17.13 | NA | 2.46 | 090
21435 |  | A | Treat craniofacial fracture | 17.25 | 12.51 | NA | 1.66 | 090
21436 |  | A | Treat craniofacial fracture | 28.04 | 17.24 | NA | 2.32 | 090
21440 |  | A | Treat dental ridge fracture | 2.70 | 3.55 | 5.46 | 0.22 | 090
21445 |  | A | Treat dental ridge fracture | 5.38 | 5.15 | 6.85 | 0.55 | 090
21450 |  | A | Treat lower jaw fracture | 2.97 | 2.71 | 6.49 | 0.23 | 090
21451 |  | A | Treat lower jaw fracture | 4.87 | 5.55 | 6.44 | 0.39 | 090
21452 |  | A | Treat lower jaw fracture | 1.98 | 4.10 | 9.17 | 0.14 | 090
21453 |  | A | Treat lower jaw fracture | 5.54 | 6.36 | 7.31 | 0.49 | 090
21454 |  | A | Treat lower jaw fracture | 6.46 | 5.64 | NA | 0.55 | 090
21461 |  | A | Treat lower jaw fracture | 8.09 | 7.93 | 9.06 | 0.73 | 090
21462 |  | A | Treat lower jaw fracture | 9.79 | 8.03 | 10.31 | 0.80 | 090
21465 |  | A | Treat lower jaw fracture | 11.91 | 7.79 | NA | 0.84 | 090
21470 |  | A | Treat lower jaw fracture | 15.34 | 9.88 | NA | 1.36 | 090
21480 |  | A | Reset dislocated jaw | 0.61 | 0.18 | 1.58 | 0.05 | 000
21485 |  | A | Reset dislocated jaw | 3.99 | 3.32 | 3.76 | 0.31 | 090
21490 |  | A | Repair dislocated jaw | 11.86 | 7.46 | NA | 1.31 | 090
21493 |  | A | Treat hyoid bone fracture | 1.27 | 3.58 | NA | 0.10 | 090
21494 |  | A | Treat hyoid bone fracture | 6.28 | 4.85 | NA | 0.44 | 090
21495 |  | A | Treat hyoid bone fracture | 5.69 | 5.02 | NA | 0.41 | 090
21497 |  | A | Interdental wiring | 3.86 | 3.91 | 4.64 | 0.31 | 090
21499 |  | C | Head surgery procedure | 0.00 | 0.00 | 0.00 | 0.00 | YYY
21501 |  | A | Drain neck/chest lesion | 3.81 | 3.53 | 4.35 | 0.36 | 090
21502 |  | A | Drain chest lesion | 7.12 | 7.29 | NA | 0.79 | 090
21510 |  | A | Drainage of bone lesion | 5.74 | 6.92 | NA | 0.67 | 090
21550 |  | A | Biopsy of neck/chest | 2.06 | 1.23 | 2.20 | 0.13 | 010
21555 |  | A | Remove lesion, neck/chest | 4.35 | 2.43 | 4.18 | 0.41 | 090
21556 |  | A | Remove lesion, neck/chest | 5.57 | 3.21 | NA | 0.51 | 090
21557 |  | A | Remove tumor, neck/chest | 8.88 | 7.58 | NA | 0.85 | 090
21600 |  | A | Partial removal of rib | 6.89 | 7.47 | NA | 0.81 | 090
21610 |  | A | Partial removal of rib | 14.61 | 10.91 | NA | 1.85 | 090
21615 |  | A | Removal of rib | 9.87 | 7.85 | NA | 1.20 | 090
21616 |  | A | Removal of rib and nerves | 12.04 | 9.08 | NA | 1.31 | 090
21620 |  | A | Partial removal of sternum | 6.79 | 7.96 | NA | 0.77 | 090
21627 |  | A | Sternal debridement | 6.81 | 12.18 | NA | 0.82 | 090
21630 |  | A | Extensive sternum surgery | 17.38 | 13.60 | NA | 1.95 | 090
21632 |  | A | Extensive sternum surgery | 18.14 | 11.81 | NA | 2.16 | 090
21700 |  | A | Revision of neck muscle | 6.19 | 6.97 | 8.43 | 0.31 | 090
21705 |  | A | Revision of neck muscle/rib | 9.60 | 7.55 | NA | 0.92 | 090
21720 |  | A | Revision of neck muscle | 5.68 | 6.72 | 8.25 | 0.80 | 090
21725 |  | A | Revision of neck muscle | 6.99 | 7.43 | NA | 0.90 | 090
21740 |  | A | Reconstruction of sternum | 16.50 | 12.21 | NA | 2.03 | 090
21750 |  | A | Repair of sternum separation | 10.77 | 9.44 | NA | 1.35 | 090
21800 |  | A | Treatment of rib fracture | 0.96 | 1.06 | 2.27 | 0.09 | 090
21805 |  | A | Treatment of rib fracture | 2.75 | 4.46 | NA | 0.29 | 090
21810 |  | A | Treatment of rib fracture(s) | 6.86 | 6.73 | NA | 0.60 | 090
21820 |  | A | Treat sternum fracture | 1.28 | 1.50 | 2.72 | 0.15 | 090
21825 |  | A | Treat sternum fracture | 7.41 | 9.85 | NA | 0.84 | 090
21899 |  | C | Neck/chest surgery procedure | 0.00 | 0.00 | 0.00 | 0.00 | YYY
21920 |  | A | Biopsy soft tissue of back | 2.06 | 0.75 | 2.27 | 0.12 | 010
21925 |  | A | Biopsy soft tissue of back | 4.49 | 4.61 | 11.73 | 0.44 | 090
21930 |  | A | Remove lesion, back or flank | 5.00 | 2.61 | 4.50 | 0.49 | 090
21935 |  | A | Remove tumor, back | 17.96 | 13.13 | NA | 1.87 | 090
22100 |  | A | Remove part of neck vertebra | 9.73 | 8.62 | NA | 1.55 | 090
22101 |  | A | Remove part, thorax vertebra | 9.81 | 8.86 | NA | 1.51 | 090
22102 |  | A | Remove part, lumbar vertebra | 9.81 | 8.93 | NA | 1.46 | 090
22103 |  | A | Remove extra spine segment | 2.34 | 1.24 | NA | 0.37 | ZZZ
22110 |  | A | Remove part of neck vertebra | 12.74 | 10.73 | NA | 2.20 | 090
22112 |  | A | Remove part, thorax vertebra | 12.81 | 10.64 | NA | 1.96 | 090
22114 |  | A | Remove part, lumbar vertebra | 12.81 | 10.88 | NA | 1.98 | 090
22116 |  | A | Remove extra spine segment | 2.32 | 1.19 | NA | 0.40 | ZZZ
22210 |  | A | Revision of neck spine | 23.82 | 16.92 | NA | 4.23 | 090
22212 |  | A | Revision of thorax spine | 19.42 | 14.62 | NA | 2.78 | 090
22214 |  | A | Revision of lumbar spine | 19.45 | 15.07 | NA | 2.78 | 090
22216 |  | A | Revise, extra spine segment | 6.04 | 3.14 | NA | 0.98 | ZZZ
22220 |  | A | Revision of neck spine | 21.37 | 15.34 | NA | 3.65 | 090
22222 |  | A | Revision of thorax spine | 21.52 | 12.81 | NA | 3.08 | 090
22224 |  | A | Revision of lumbar spine | 21.52 | 15.67 | NA | 3.20 | 090
22226 |  | A | Revise, extra spine segment | 6.04 | 3.15 | NA | 1.01 | ZZZ
22305 |  | A | Treat spine process fracture | 2.05 | 1.93 | 3.17 | 0.29 | 090
22310 |  | A | Treat spine fracture | 2.61 | 3.45 | 4.65 | 0.37 | 090
22315 |  | A | Treat spine fracture | 8.84 | 9.14 | NA | 1.37 | 090
22318 |  | A | Treat odontoid fx w/o graft | 21.50 | 14.70 | NA | 4.26 | 090
22319 |  | A | Treat odontoid fx w/graft | 24.00 | 17.01 | NA | 4.76 | 090
22325 |  | A | Treat spine fracture | 18.30 | 14.66 | NA | 2.61 | 090
22326 |  | A | Treat neck spine fracture | 19.59 | 15.40 | NA | 3.54 | 090
22327 |  | A | Treat thorax spine fracture | 19.20 | 15.11 | NA | 2.75 | 090
22328 |  | A | Treat each add spine fx | 4.61 | 2.31 | NA | 0.66 | ZZZ
22505 |  | A | Manipulation of spine | 1.87 | 2.98 | 4.57 | 0.27 | 010
22520 |  | A | Percut vertebroplasty thor | 8.91 | 4.13 | NA | 0.99 | 010
22521 |  | A | Percut vertebroplasty lumb | 8.34 | 3.90 | NA | 0.93 | 010
22522 |  | A | Percut vertebroplasty addl | 4.31 | 1.74 | NA | 0.33 | ZZZ
22548 |  | A | Neck spine fusion | 25.82 | 17.74 | NA | 4.98 | 090
22554 |  | A | Neck spine fusion | 18.62 | 13.67 | NA | 3.51 | 090
22556 |  | A | Thorax spine fusion | 23.46 | 16.51 | NA | 3.78 | 090
22558 |  | A | Lumbar spine fusion | 22.28 | 14.98 | NA | 3.18 | 090
22585 |  | A | Additional spinal fusion | 5.53 | 2.82 | NA | 0.98 | ZZZ
22590 |  | A | Spine & skull spinal fusion | 20.51 | 15.32 | NA | 3.81 | 090
22595 |  | A | Neck spinal fusion | 19.39 | 14.31 | NA | 3.62 | 090
22600 |  | A | Neck spine fusion | 16.14 | 12.63 | NA | 2.89 | 090
22610 |  | A | Thorax spine fusion | 16.02 | 12.73 | NA | 2.66 | 090
22612 |  | A | Lumbar spine fusion | 21.00 | 15.47 | NA | 3.28 | 090
22614 |  | A | Spine fusion, extra segment | 6.44 | 3.39 | NA | 1.04 | ZZZ
22630 |  | A | Lumbar spine fusion | 20.84 | 15.73 | NA | 3.79 | 090
22632 |  | A | Spine fusion, extra segment | 5.23 | 2.68 | NA | 0.90 | ZZZ
22800 |  | A | Fusion of spine | 18.25 | 13.89 | NA | 2.71 | 090
22802 |  | A | Fusion of spine | 30.88 | 21.32 | NA | 4.42 | 090
22804 |  | A | Fusion of spine | 36.27 | 23.91 | NA | 5.23 | 090
22808 |  | A | Fusion of spine | 26.27 | 18.18 | NA | 4.36 | 090
22810 |  | A | Fusion of spine | 30.27 | 19.74 | NA | 4.49 | 090
22812 |  | A | Fusion of spine | 32.70 | 21.34 | NA | 4.67 | 090
22818 |  | A | Kyphectomy, 1-2 segments | 31.83 | 20.75 | NA | 5.01 | 090
22819 |  | A | Kyphectomy, 3 or more | 36.44 | 21.64 | NA | 5.20 | 090
22830 |  | A | Exploration of spinal fusion | 10.85 | 9.91 | NA | 1.73 | 090
22840 |  | A | Insert spine fixation device | 12.54 | 6.50 | NA | 2.03 | ZZZ
22841 |  | B | Insert spine fixation device | 0.00 | 0.00 | 0.00 | 0.00 | XXX
22842 |  | A | Insert spine fixation device | 12.58 | 6.57 | NA | 2.04 | ZZZ
22843 |  | A | Insert spine fixation device | 13.46 | 6.74 | NA | 2.10 | ZZZ
22844 |  | A | Insert spine fixation device | 16.44 | 8.94 | NA | 2.42 | ZZZ
22845 |  | A | Insert spine fixation device | 11.96 | 6.13 | NA | 2.22 | ZZZ
22846 |  | A | Insert spine fixation device | 12.42 | 6.38 | NA | 2.26 | ZZZ
22847 |  | A | Insert spine fixation device | 13.80 | 7.19 | NA | 2.36 | ZZZ
22848 |  | A | Insert pelv fixation device | 6.00 | 3.26 | NA | 0.88 | ZZZ
22849 |  | A | Reinsert spinal fixation | 18.51 | 13.89 | NA | 2.87 | 090
22850 |  | A | Remove spine fixation device | 9.52 | 8.72 | NA | 1.51 | 090
22851 |  | A | Apply spine prosth device | 6.71 | 3.39 | NA | 1.11 | ZZZ
22852 |  | A | Remove spine fixation device | 9.01 | 8.51 | NA | 1.40 | 090
22855 |  | A | Remove spine fixation device | 15.13 | 11.41 | NA | 2.74 | 090
22899 |  | C | Spine surgery procedure | 0.00 | 0.00 | 0.00 | 0.00 | YYY
22900 |  | A | Remove abdominal wall lesion | 5.80 | 4.30 | NA | 0.58 | 090
22999 |  | C | Abdomen surgery procedure | 0.00 | 0.00 | 0.00 | 0.00 | YYY
23000 |  | A | Removal of calcium deposits | 4.36 | 7.10 | 8.92 | 0.50 | 090
23020 |  | A | Release shoulder joint | 8.93 | 10.37 | NA | 1.23 | 090
23030 |  | A | Drain shoulder lesion | 3.43 | 4.30 | 6.00 | 0.42 | 010
23031 |  | A | Drain shoulder bursa | 2.74 | 4.06 | 5.82 | 0.33 | 010
23035 |  | A | Drain shoulder bone lesion | 8.61 | 15.80 | NA | 1.19 | 090
23040 |  | A | Exploratory shoulder surgery | 9.20 | 11.54 | NA | 1.28 | 090
23044 |  | A | Exploratory shoulder surgery | 7.12 | 10.28 | NA | 0.97 | 090
23065 |  | A | Biopsy shoulder tissues | 2.27 | 1.33 | 2.52 | 0.14 | 010
23066 |  | A | Biopsy shoulder tissues | 4.16 | 6.17 | 7.65 | 0.50 | 090
23075 |  | A | Removal of shoulder lesion | 2.39 | 3.13 | 5.27 | 0.25 | 010
23076 |  | A | Removal of shoulder lesion | 7.63 | 8.17 | NA | 0.87 | 090
23077 |  | A | Remove tumor of shoulder | 16.09 | 14.36 | NA | 1.81 | 090
23100 |  | A | Biopsy of shoulder joint | 6.03 | 8.64 | NA | 0.81 | 090
23101 |  | A | Shoulder joint surgery | 5.58 | 8.53 | NA | 0.77 | 090
23105 |  | A | Remove shoulder joint lining | 8.23 | 10.09 | NA | 1.13 | 090
23106 |  | A | Incision of collarbone joint | 5.96 | 8.75 | NA | 0.82 | 090
23107 |  | A | Explore treat shoulder joint | 8.62 | 10.28 | NA | 1.19 | 090
23120 |  | A | Partial removal, collar bone | 7.11 | 9.58 | NA | 0.99 | 090
23125 |  | A | Removal of collar bone | 9.39 | 10.54 | NA | 1.27 | 090
23130 |  | A | Remove shoulder bone, part | 7.55 | 9.62 | NA | 1.06 | 090
23140 |  | A | Removal of bone lesion | 6.89 | 8.23 | NA | 0.82 | 090
23145 |  | A | Removal of bone lesion | 9.09 | 11.43 | NA | 1.24 | 090
23146 |  | A | Removal of bone lesion | 7.83 | 10.60 | NA | 1.11 | 090
23150 |  | A | Removal of humerus lesion | 8.48 | 9.84 | NA | 1.14 | 090
23155 |  | A | Removal of humerus lesion | 10.35 | 11.93 | NA | 1.20 | 090
23156 |  | A | Removal of humerus lesion | 8.68 | 10.27 | NA | 1.18 | 090
23170 |  | A | Remove collar bone lesion | 6.86 | 10.65 | NA | 0.84 | 090
23172 |  | A | Remove shoulder blade lesion | 6.90 | 10.05 | NA | 0.95 | 090
23174 |  | A | Remove humerus lesion | 9.51 | 11.76 | NA | 1.30 | 090
23180 |  | A | Remove collar bone lesion | 8.53 | 15.70 | NA | 1.18 | 090
23182 |  | A | Remove shoulder blade lesion | 8.15 | 16.31 | NA | 1.08 | 090
23184 |  | A | Remove humerus lesion | 9.38 | 16.25 | NA | 1.24 | 090
23190 |  | A | Partial removal of scapula | 7.24 | 8.36 | NA | 0.97 | 090
23195 |  | A | Removal of head of humerus | 9.81 | 10.62 | NA | 1.38 | 090
23200 |  | A | Removal of collar bone | 12.08 | 13.91 | NA | 1.48 | 090
23210 |  | A | Removal of shoulder blade | 12.49 | 13.95 | NA | 1.61 | 090
23220 |  | A | Partial removal of humerus | 14.56 | 15.15 | NA | 2.03 | 090
23221 |  | A | Partial removal of humerus | 17.74 | 16.33 | NA | 2.51 | 090
23222 |  | A | Partial removal of humerus | 23.92 | 20.37 | NA | 3.37 | 090
23330 |  | A | Remove shoulder foreign body | 1.85 | 3.57 | 5.69 | 0.18 | 010
23331 |  | A | Remove shoulder foreign body | 7.38 | 9.51 | NA | 1.02 | 090
23332 |  | A | Remove shoulder foreign body | 11.62 | 11.93 | NA | 1.62 | 090
23350 |  | A | Injection for shoulder x-ray | 1.00 | 0.34 | 7.63 | 0.05 | 000
23395 |  | A | Muscle transfer, shoulder/arm | 16.85 | 13.82 | NA | 2.29 | 090
23397 |  | A | Muscle transfers | 16.13 | 14.11 | NA | 2.24 | 090
23400 |  | A | Fixation of shoulder blade | 13.54 | 13.98 | NA | 1.91 | 090
23405 |  | A | Incision of tendon & muscle | 8.37 | 9.37 | NA | 1.12 | 090
23406 |  | A | Incise tendon(s) & muscle(s) | 10.79 | 11.52 | NA | 1.48 | 090
23410 |  | A | Repair of tendon(s) | 12.45 | 12.33 | NA | 1.72 | 090
23412 |  | A | Repair of tendon(s) | 13.31 | 12.90 | NA | 1.86 | 090
23415 |  | A | Release of shoulder ligament | 9.97 | 9.97 | NA | 1.39 | 090
23420 |  | A | Repair of shoulder | 13.30 | 13.81 | NA | 1.86 | 090
23430 |  | A | Repair biceps tendon | 9.98 | 11.10 | NA | 1.40 | 090
23440 |  | A | Remove/transplant tendon | 10.48 | 11.33 | NA | 1.47 | 090
23450 |  | A | Repair shoulder capsule | 13.40 | 12.82 | NA | 1.86 | 090
23455 |  | A | Repair shoulder capsule | 14.37 | 13.39 | NA | 2.01 | 090
23460 |  | A | Repair shoulder capsule | 15.37 | 13.99 | NA | 2.17 | 090
23462 |  | A | Repair shoulder capsule | 15.30 | 13.69 | NA | 2.16 | 090
23465 |  | A | Repair shoulder capsule | 15.85 | 13.73 | NA | 1.61 | 090
23466 |  | A | Repair shoulder capsule | 14.22 | 13.36 | NA | 2.00 | 090
23470 |  | A | Reconstruct shoulder joint | 17.15 | 14.91 | NA | 2.40 | 090
23472 |  | A | Reconstruct shoulder joint | 21.10 | 17.03 | NA | 2.37 | 090
23480 |  | A | Revision of collar bone | 11.18 | 11.52 | NA | 1.56 | 090
23485 |  | A | Revision of collar bone | 13.43 | 12.95 | NA | 1.84 | 090
23490 |  | A | Reinforce clavicle | 11.86 | 11.82 | NA | 1.11 | 090
23491 |  | A | Reinforce shoulder bones | 14.21 | 13.26 | NA | 2.00 | 090
23500 |  | A | Treat clavicle fracture | 2.08 | 2.50 | 3.77 | 0.26 | 090
23505 |  | A | Treat clavicle fracture | 3.69 | 3.91 | 5.79 | 0.50 | 090
23515 |  | A | Treat clavicle fracture | 7.41 | 8.12 | NA | 1.03 | 090
23520 |  | A | Treat clavicle dislocation | 2.16 | 2.55 | 3.83 | 0.26 | 090
23525 |  | A | Treat clavicle dislocation | 3.60 | 3.82 | 5.95 | 0.44 | 090
23530 |  | A | Treat clavicle dislocation | 7.31 | 7.83 | NA | 0.85 | 090
23532 |  | A | Treat clavicle dislocation | 8.01 | 8.17 | NA | 1.13 | 090
23540 |  | A | Treat clavicle dislocation | 2.23 | 2.50 | 4.40 | 0.24 | 090
23545 |  | A | Treat clavicle dislocation | 3.25 | 3.56 | 4.89 | 0.39 | 090
23550 |  | A | Treat clavicle dislocation | 7.24 | 8.12 | NA | 0.94 | 090
23552 |  | A | Treat clavicle dislocation | 8.45 | 8.73 | NA | 1.18 | 090
23570 |  | A | Treat shoulder blade fx | 2.23 | 2.62 | 3.76 | 0.29 | 090
23575 |  | A | Treat shoulder blade fx | 4.06 | 4.16 | 6.01 | 0.53 | 090
23585 |  | A | Treat scapula fracture | 8.96 | 9.26 | NA | 1.25 | 090
23600 |  | A | Treat humerus fracture | 2.93 | 3.58 | 5.50 | 0.39 | 090
23605 |  | A | Treat humerus fracture | 4.87 | 6.36 | 8.10 | 0.67 | 090
23615 |  | A | Treat humerus fracture | 9.35 | 10.05 | NA | 1.31 | 090
23616 |  | A | Treat humerus fracture | 21.27 | 15.83 | NA | 2.98 | 090
23620 |  | A | Treat humerus fracture | 2.40 | 3.32 | 5.21 | 0.32 | 090
23625 |  | A | Treat humerus fracture | 3.93 | 5.41 | 7.18 | 0.53 | 090
23630 |  | A | Treat humerus fracture | 7.35 | 8.12 | NA | 1.03 | 090
23650 |  | A | Treat shoulder dislocation | 3.39 | 3.50 | 5.46 | 0.31 | 090
23655 |  | A | Treat shoulder dislocation | 4.57 | 4.21 | NA | 0.52 | 090
23660 |  | A | Treat shoulder dislocation | 7.49 | 7.91 | NA | 1.01 | 090
23665 |  | A | Treat dislocation/fracture | 4.47 | 5.66 | 7.41 | 0.60 | 090
23670 |  | A | Treat dislocation/fracture | 7.90 | 8.56 | NA | 1.10 | 090
23675 |  | A | Treat dislocation/fracture | 6.05 | 6.53 | 8.15 | 0.83 | 090
23680 |  | A | Treat dislocation/fracture | 10.06 | 9.65 | NA | 1.39 | 090
23700 |  | A | Fixation of shoulder | 2.52 | 3.39 | NA | 0.35 | 010
23800 |  | A | Fusion of shoulder joint | 14.16 | 14.08 | NA | 1.97 | 090
23802 |  | A | Fusion of shoulder joint | 16.60 | 13.40 | NA | 2.34 | 090
23900 |  | A | Amputation of arm & girdle | 19.72 | 15.42 | NA | 2.47 | 090
23920 |  | A | Amputation at shoulder joint | 14.61 | 13.65 | NA | 1.92 | 090
23921 |  | A | Amputation follow-up surgery | 5.49 | 6.51 | NA | 0.78 | 090
23929 |  | C | Shoulder surgery procedure | 0.00 | 0.00 | 0.00 | 0.00 | YYY
23930 |  | A | Drainage of arm lesion | 2.94 | 3.89 | 5.98 | 0.32 | 010
23931 |  | A | Drainage of arm bursa | 1.79 | 3.61 | 5.67 | 0.21 | 010
23935 |  | A | Drain arm/elbow bone lesion | 6.09 | 12.53 | NA | 0.84 | 090
24000 |  | A | Exploratory elbow surgery | 5.82 | 5.91 | NA | 0.77 | 090
24006 |  | A | Release elbow joint | 9.31 | 8.43 | NA | 1.27 | 090
24065 |  | A | Biopsy arm/elbow soft tissue | 2.08 | 3.25 | 5.34 | 0.14 | 010
24066 |  | A | Biopsy arm/elbow soft tissue | 5.21 | 6.53 | 8.66 | 0.61 | 090
24075 |  | A | Remove arm/elbow lesion | 3.92 | 5.96 | 7.99 | 0.43 | 090
24076 |  | A | Remove arm/elbow lesion | 6.30 | 7.14 | NA | 0.70 | 090
24077 |  | A | Remove tumor of arm/elbow | 11.76 | 14.01 | NA | 1.32 | 090
24100 |  | A | Biopsy elbow joint lining | 4.93 | 5.85 | NA | 0.62 | 090
24101 |  | A | Explore/treat elbow joint | 6.13 | 6.70 | NA | 0.84 | 090
24102 |  | A | Remove elbow joint lining | 8.03 | 7.72 | NA | 1.09 | 090
24105 |  | A | Removal of elbow bursa | 3.61 | 5.08 | NA | 0.49 | 090
24110 |  | A | Remove humerus lesion | 7.39 | 9.51 | NA | 0.99 | 090
24115 |  | A | Remove/graft bone lesion | 9.63 | 10.31 | NA | 1.15 | 090
24116 |  | A | Remove/graft bone lesion | 11.81 | 12.01 | NA | 1.66 | 090
24120 |  | A | Remove elbow lesion | 6.65 | 6.67 | NA | 0.87 | 090
24125 |  | A | Remove/graft bone lesion | 7.89 | 7.07 | NA | 0.88 | 090
24126 |  | A | Remove/graft bone lesion | 8.31 | 7.77 | NA | 0.90 | 090
24130 |  | A | Removal of head of radius | 6.25 | 6.73 | NA | 0.87 | 090
24134 |  | A | Removal of arm bone lesion | 9.73 | 15.85 | NA | 1.31 | 090
24136 |  | A | Remove radius bone lesion | 7.99 | 6.40 | NA | 0.85 | 090
24138 |  | A | Remove elbow bone lesion | 8.05 | 7.76 | NA | 1.12 | 090
24140 |  | A | Partial removal of arm bone | 9.18 | 16.80 | NA | 1.23 | 090
24145 |  | A | Partial removal of radius | 7.58 | 11.15 | NA | 1.01 | 090
24147 |  | A | Partial removal of elbow | 7.54 | 11.09 | NA | 1.04 | 090
24149 |  | A | Radical resection of elbow | 14.20 | 10.98 | NA | 1.90 | 090
24150 |  | A | Extensive humerus surgery | 13.27 | 14.58 | NA | 1.81 | 090
24151 |  | A | Extensive humerus surgery | 15.58 | 16.06 | NA | 2.19 | 090
24152 |  | A | Extensive radius surgery | 10.06 | 9.58 | NA | 1.19 | 090
24153 |  | A | Extensive radius surgery | 11.54 | 7.21 | NA | 0.64 | 090
24155 |  | A | Removal of elbow joint | 11.73 | 9.34 | NA | 1.42 | 090
24160 |  | A | Remove elbow joint implant | 7.83 | 7.59 | NA | 1.07 | 090
24164 |  | A | Remove radius head implant | 6.23 | 6.71 | NA | 0.84 | 090
24200 |  | A | Removal of arm foreign body | 1.76 | 3.29 | 5.66 | 0.15 | 010
24201 |  | A | Removal of arm foreign body | 4.56 | 6.68 | 8.70 | 0.56 | 090
24220 |  | A | Injection for elbow x-ray | 1.31 | 0.46 | 11.20 | 0.07 | 000
24300 |  | A | Manipulate elbow w/anesth | 3.75 | 5.26 | NA | 0.52 | 090
24301 |  | A | Muscle/tendon transfer | 10.20 | 9.03 | NA | 1.30 | 090
24305 |  | A | Arm tendon lengthening | 7.45 | 7.49 | NA | 0.98 | 090
24310 |  | A | Revision of arm tendon | 5.98 | 8.14 | NA | 0.74 | 090
24320 |  | A | Repair of arm tendon | 10.56 | 10.72 | NA | 1.00 | 090
24330 |  | A | Revision of arm muscles | 9.60 | 8.62 | NA | 1.21 | 090
24331 |  | A | Revision of arm muscles | 10.65 | 9.19 | NA | 1.41 | 090
24332 |  | A | Tenolysis, triceps | 7.45 | 5.13 | NA | 0.77 | 090
24340 |  | A | Repair of biceps tendon | 7.89 | 7.61 | NA | 1.08 | 090
24341 |  | A | Repair arm tendon/muscle | 7.90 | 7.61 | NA | 1.08 | 090
24342 |  | A | Repair of ruptured tendon | 10.62 | 9.17 | NA | 1.48 | 090
24343 |  | A | Repr elbow lat ligmnt w/tiss | 8.65 | 7.60 | NA | 1.21 | 090
24344 |  | A | Reconstruct elbow lat ligmnt | 14.00 | 10.42 | NA | 1.95 | 090
24345 |  | A | Repr elbw med ligmnt w/tiss | 8.65 | 7.60 | NA | 1.21 | 090
24346 |  | A | Reconstruct elbow med ligmnt | 14.00 | 10.42 | NA | 1.95 | 090
24350 |  | A | Repair of tennis elbow | 5.25 | 6.11 | NA | 0.72 | 090
24351 |  | A | Repair of tennis elbow | 5.91 | 6.59 | NA | 0.82 | 090
24352 |  | A | Repair of tennis elbow | 6.43 | 6.90 | NA | 0.90 | 090
24354 |  | A | Repair of tennis elbow | 6.48 | 6.84 | NA | 0.88 | 090
24356 |  | A | Revision of tennis elbow | 6.68 | 7.02 | NA | 0.90 | 090
24360 |  | A | Reconstruct elbow joint | 12.34 | 9.93 | NA | 1.69 | 090
24361 |  | A | Reconstruct elbow joint | 14.08 | 10.92 | NA | 1.95 | 090
24362 |  | A | Reconstruct elbow joint | 14.99 | 10.88 | NA | 1.92 | 090
24363 |  | A | Replace elbow joint | 18.49 | 13.42 | NA | 2.52 | 090
24365 |  | A | Reconstruct head of radius | 8.39 | 7.93 | NA | 1.11 | 090
24366 |  | A | Reconstruct head of radius | 9.13 | 8.34 | NA | 1.28 | 090
24400 |  | A | Revision of humerus | 11.06 | 12.49 | NA | 1.53 | 090
24410 |  | A | Revision of humerus | 14.82 | 13.83 | NA | 1.89 | 090
24420 |  | A | Revision of humerus | 13.44 | 16.46 | NA | 1.82 | 090
24430 |  | A | Repair of humerus | 12.81 | 12.66 | NA | 1.80 | 090
24435 |  | A | Repair humerus with graft | 13.17 | 13.78 | NA | 1.84 | 090
24470 |  | A | Revision of elbow joint | 8.74 | 6.47 | NA | 1.23 | 090
24495 |  | A | Decompression of forearm | 8.12 | 10.00 | NA | 0.92 | 090
24498 |  | A | Reinforce humerus | 11.92 | 12.18 | NA | 1.67 | 090
24500 |  | A | Treat humerus fracture | 3.21 | 3.24 | 4.96 | 0.41 | 090
24505 |  | A | Treat humerus fracture | 5.17 | 6.63 | 8.63 | 0.72 | 090
24515 |  | A | Treat humerus fracture | 11.65 | 11.15 | NA | 1.63 | 090
24516 |  | A | Treat humerus fracture | 11.65 | 11.68 | NA | 1.63 | 090
24530 |  | A | Treat humerus fracture | 3.50 | 4.68 | 6.02 | 0.47 | 090
24535 |  | A | Treat humerus fracture | 6.87 | 6.56 | 8.59 | 0.96 | 090
24538 |  | A | Treat humerus fracture | 9.43 | 10.31 | NA | 1.25 | 090
24545 |  | A | Treat humerus fracture | 10.46 | 9.97 | NA | 1.47 | 090
24546 |  | A | Treat humerus fracture | 15.69 | 13.38 | NA | 2.18 | 090
24560 |  | A | Treat humerus fracture | 2.80 | 3.04 | 4.74 | 0.35 | 090
24565 |  | A | Treat humerus fracture | 5.56 | 5.73 | 7.73 | 0.74 | 090
24566 |  | A | Treat humerus fracture | 7.79 | 9.79 | NA | 1.10 | 090
24575 |  | A | Treat humerus fracture | 10.66 | 8.21 | NA | 1.44 | 090
24576 |  | A | Treat humerus fracture | 2.86 | 3.14 | 4.52 | 0.38 | 090
24577 |  | A | Treat humerus fracture | 5.79 | 5.98 | 7.94 | 0.81 | 090
24579 |  | A | Treat humerus fracture | 11.60 | 10.66 | NA | 1.62 | 090
24582 |  | A | Treat humerus fracture | 8.55 | 10.24 | NA | 1.20 | 090
24586 |  | A | Treat elbow fracture | 15.21 | 10.83 | NA | 2.12 | 090
24587 |  | A | Treat elbow fracture | 15.16 | 10.68 | NA | 2.14 | 090
24600 |  | A | Treat elbow dislocation | 4.23 | 4.90 | 6.63 | 0.49 | 090
24605 |  | A | Treat elbow dislocation | 5.42 | 4.87 | NA | 0.72 | 090
24615 |  | A | Treat elbow dislocation | 9.42 | 7.76 | NA | 1.31 | 090
24620 |  | A | Treat elbow fracture | 6.98 | 6.42 | NA | 0.90 | 090
24635 |  | A | Treat elbow fracture | 13.19 | 16.18 | NA | 1.84 | 090
24640 |  | A | Treat elbow dislocation | 1.20 | 1.78 | 3.35 | 0.11 | 010
24650 |  | A | Treat radius fracture | 2.16 | 2.79 | 4.44 | 0.28 | 090
24655 |  | A | Treat radius fracture | 4.40 | 5.10 | 7.13 | 0.58 | 090
24665 |  | A | Treat radius fracture | 8.14 | 9.27 | NA | 1.13 | 090
24666 |  | A | Treat radius fracture | 9.49 | 10.03 | NA | 1.32 | 090
24670 |  | A | Treat ulnar fracture | 2.54 | 2.99 | 4.37 | 0.33 | 090
24675 |  | A | Treat ulnar fracture | 4.72 | 5.36 | 7.32 | 0.65 | 090
24685 |  | A | Treat ulnar fracture | 8.80 | 9.64 | NA | 1.23 | 090
24800 |  | A | Fusion of elbow joint | 11.20 | 9.64 | NA | 1.41 | 090
24802 |  | A | Fusion/graft of elbow joint | 13.69 | 11.21 | NA | 1.89 | 090
24900 |  | A | Amputation of upper arm | 9.60 | 10.94 | NA | 1.18 | 090
24920 |  | A | Amputation of upper arm | 9.54 | 12.50 | NA | 1.22 | 090
24925 |  | A | Amputation follow-up surgery | 7.07 | 9.22 | NA | 0.95 | 090
24930 |  | A | Amputation follow-up surgery | 10.25 | 11.52 | NA | 1.23 | 090
24931 |  | A | Amputate upper arm & implant | 12.72 | 11.44 | NA | 1.56 | 090
24935 |  | A | Revision of amputation | 15.56 | 12.31 | NA | 1.58 | 090
24940 |  | C | Revision of upper arm | 0.00 | 0.00 | 0.00 | 0.00 | 090
24999 |  | C | Upper arm/elbow surgery | 0.00 | 0.00 | 0.00 | 0.00 | YYY
25000 |  | A | Incision of tendon sheath | 3.38 | 7.25 | NA | 0.45 | 090
25001 |  | A | Incise flexor carpi radialis | 3.38 | 4.22 | NA | 0.45 | 090
25020 |  | A | Decompress forearm 1 space | 5.92 | 11.04 | NA | 0.75 | 090
25023 |  | A | Decompress forearm 1 space | 12.96 | 16.91 | NA | 1.50 | 090
25024 |  | A | Decompress forearm 2 spaces | 9.50 | 7.91 | NA | 1.20 | 090
25025 |  | A | Decompress forearm 2 spaces | 16.54 | 11.74 | NA | 1.91 | 090
25028 |  | A | Drainage of forearm lesion | 5.25 | 9.85 | NA | 0.61 | 090
25031 |  | A | Drainage of forearm bursa | 4.14 | 9.83 | NA | 0.50 | 090
25035 |  | A | Treat forearm bone lesion | 7.36 | 16.18 | NA | 0.98 | 090
25040 |  | A | Explore/treat wrist joint | 7.18 | 9.13 | NA | 0.96 | 090
25065 |  | A | Biopsy forearm soft tissues | 1.99 | 2.38 | 2.38 | 0.12 | 010
25066 |  | A | Biopsy forearm soft tissues | 4.13 | 8.15 | NA | 0.49 | 090
25075 |  | A | Remove forearm lesion subcut | 3.74 | 7.22 | NA | 0.40 | 090
25076 |  | A | Remove forearm lesion deep | 4.92 | 12.49 | NA | 0.59 | 090
25077 |  | A | Remove tumor, forearm/wrist | 9.76 | 15.45 | NA | 1.10 | 090
25085 |  | A | Incision of wrist capsule | 5.50 | 10.81 | NA | 0.71 | 090
25100 |  | A | Biopsy of wrist joint | 3.90 | 7.28 | NA | 0.50 | 090
25101 |  | A | Explore/treat wrist joint | 4.69 | 7.67 | NA | 0.60 | 090
25105 |  | A | Remove wrist joint lining | 5.85 | 10.73 | NA | 0.77 | 090
25107 |  | A | Remove wrist joint cartilage | 6.43 | 11.20 | NA | 0.82 | 090
25110 |  | A | Remove wrist tendon lesion | 3.92 | 8.38 | NA | 0.48 | 090
25111 |  | A | Remove wrist tendon lesion | 3.39 | 6.44 | NA | 0.42 | 090
25112 |  | A | Reremove wrist tendon lesion | 4.53 | 7.30 | NA | 0.54 | 090
25115 |  | A | Remove wrist/forearm lesion | 8.82 | 16.72 | NA | 1.11 | 090
25116 |  | A | Remove wrist/forearm lesion | 7.11 | 15.66 | NA | 0.90 | 090
25118 |  | A | Excise wrist tendon sheath | 4.37 | 7.78 | NA | 0.55 | 090
25119 |  | A | Partial removal of ulna | 6.04 | 11.06 | NA | 0.80 | 090
25120 |  | A | Removal of forearm lesion | 6.10 | 14.75 | NA | 0.81 | 090
25125 |  | A | Remove/graft forearm lesion | 7.48 | 15.74 | NA | 1.02 | 090
25126 |  | A | Remove/graft forearm lesion | 7.55 | 15.44 | NA | 1.00 | 090
25130 |  | A | Removal of wrist lesion | 5.26 | 8.12 | NA | 0.66 | 090
25135 |  | A | Remove & graft wrist lesion | 6.89 | 8.89 | NA | 0.89 | 090
25136 |  | A | Remove & graft wrist lesion | 5.97 | 8.13 | NA | 0.58 | 090
25145 |  | A | Remove forearm bone lesion | 6.37 | 15.22 | NA | 0.82 | 090
25150 |  | A | Partial removal of ulna | 7.09 | 11.83 | NA | 0.96 | 090
25151 |  | A | Partial removal of radius | 7.39 | 15.63 | NA | 0.93 | 090
25170 |  | A | Extensive forearm surgery | 11.09 | 17.44 | NA | 1.52 | 090
25210 |  | A | Removal of wrist bone | 5.95 | 8.47 | NA | 0.73 | 090
25215 |  | A | Removal of wrist bones | 7.89 | 12.05 | NA | 1.02 | 090
25230 |  | A | Partial removal of radius | 5.23 | 7.95 | NA | 0.66 | 090
25240 |  | A | Partial removal of ulna | 5.17 | 10.49 | NA | 0.69 | 090
25246 |  | A | Injection for wrist x-ray | 1.45 | 0.50 | 10.63 | 0.07 | 000
25248 |  | A | Remove forearm foreign body | 5.14 | 10.05 | NA | 0.54 | 090
25250 |  | A | Removal of wrist prosthesis | 6.60 | 8.76 | NA | 0.84 | 090
25251 |  | A | Removal of wrist prosthesis | 9.57 | 12.73 | NA | 1.15 | 090
25259 |  | A | Manipulate wrist w/anesthes | 3.75 | 5.23 | NA | 0.52 | 090
25260 |  | A | Repair forearm tendon/muscle | 7.80 | 16.77 | NA | 0.97 | 090
25263 |  | A | Repair forearm tendon/muscle | 7.82 | 16.43 | NA | 0.94 | 090
25265 |  | A | Repair forearm tendon/muscle | 9.88 | 17.18 | NA | 1.19 | 090
25270 |  | A | Repair forearm tendon/muscle | 6.00 | 15.70 | NA | 0.76 | 090
25272 |  | A | Repair forearm tendon/muscle | 7.04 | 16.21 | NA | 0.89 | 090
25274 |  | A | Repair forearm tendon/muscle | 8.75 | 16.53 | NA | 1.11 | 090
25275 |  | A | Repair forearm tendon sheath | 8.50 | 7.32 | NA | 1.11 | 090
25280 |  | A | Revise wrist/forearm tendon | 7.22 | 15.52 | NA | 0.91 | 090
25290 |  | A | Incise wrist/forearm tendon | 5.29 | 17.77 | NA | 0.66 | 090
25295 |  | A | Release wrist/forearm tendon | 6.55 | 15.16 | NA | 0.84 | 090
25300 |  | A | Fusion of tendons at wrist | 8.80 | 10.05 | NA | 1.07 | 090
25301 |  | A | Fusion of tendons at wrist | 8.40 | 9.74 | NA | 1.08 | 090
25310 |  | A | Transplant forearm tendon | 8.14 | 16.12 | NA | 1.01 | 090
25312 |  | A | Transplant forearm tendon | 9.57 | 17.04 | NA | 1.22 | 090
25315 |  | A | Revise palsy hand tendon(s) | 10.20 | 17.68 | NA | 1.26 | 090
25316 |  | A | Revise palsy hand tendon(s) | 12.33 | 19.36 | NA | 1.74 | 090
25320 |  | A | Repair/revise wrist joint | 10.77 | 11.21 | NA | 1.32 | 090
25332 |  | A | Revise wrist joint | 11.41 | 11.65 | NA | 1.46 | 090
25335 |  | A | Realignment of hand | 12.88 | 14.66 | NA | 1.66 | 090
25337 |  | A | Reconstruct ulna/radioulnar | 10.17 | 13.29 | NA | 1.31 | 090
25350 |  | A | Revision of radius | 8.78 | 16.51 | NA | 1.17 | 090
25355 |  | A | Revision of radius | 10.17 | 17.17 | NA | 1.44 | 090
25360 |  | A | Revision of ulna | 8.43 | 16.47 | NA | 1.17 | 090
25365 |  | A | Revise radius & ulna | 12.40 | 18.00 | NA | 1.67 | 090
25370 |  | A | Revise radius or ulna | 13.36 | 17.37 | NA | 1.88 | 090
25375 |  | A | Revise radius & ulna | 13.04 | 18.01 | NA | 1.84 | 090
25390 |  | A | Shorten radius or ulna | 10.40 | 17.23 | NA | 1.38 | 090
25391 |  | A | Lengthen radius or ulna | 13.65 | 18.62 | NA | 1.73 | 090
25392 |  | A | Shorten radius & ulna | 13.95 | 17.19 | NA | 1.73 | 090
25393 |  | A | Lengthen radius & ulna | 15.87 | 19.88 | NA | 1.87 | 090
25394 |  | A | Repair carpal bone, shorten | 10.40 | 8.24 | NA | 1.15 | 090
25400 |  | A | Repair radius or ulna | 10.92 | 17.53 | NA | 1.50 | 090
25405 |  | A | Repair/graft radius or ulna | 14.38 | 20.00 | NA | 1.95 | 090
25415 |  | A | Repair radius & ulna | 13.35 | 19.08 | NA | 1.87 | 090
25420 |  | A | Repair/graft radius & ulna | 16.33 | 20.93 | NA | 2.20 | 090
25425 |  | A | Repair/graft radius or ulna | 13.21 | 26.13 | NA | 1.61 | 090
25426 |  | A | Repair/graft radius & ulna | 15.82 | 19.87 | NA | 2.23 | 090
25430 |  | A | Vasc graft into carpal bone | 9.25 | 7.60 | NA | 0.56 | 090
25431 |  | A | Repair nonunion carpal bone | 10.44 | 6.28 | NA | 0.56 | 090
25440 |  | A | Repair/graft wrist bone | 10.44 | 10.99 | NA | 1.41 | 090
25441 |  | A | Reconstruct wrist joint | 12.90 | 12.22 | NA | 1.83 | 090
25442 |  | A | Reconstruct wrist joint | 10.85 | 11.22 | NA | 1.24 | 090
25443 |  | A | Reconstruct wrist joint | 10.39 | 13.58 | NA | 1.30 | 090
25444 |  | A | Reconstruct wrist joint | 11.15 | 13.83 | NA | 1.43 | 090
25445 |  | A | Reconstruct wrist joint | 9.69 | 13.12 | NA | 1.26 | 090
25446 |  | A | Wrist replacement | 16.55 | 14.38 | NA | 2.20 | 090
25447 |  | A | Repair wrist joint(s) | 10.37 | 11.02 | NA | 1.34 | 090
25449 |  | A | Remove wrist joint implant | 14.49 | 17.69 | NA | 1.77 | 090
25450 |  | A | Revision of wrist joint | 7.87 | 12.63 | NA | 0.88 | 090
25455 |  | A | Revision of wrist joint | 9.49 | 14.17 | NA | 1.07 | 090
25490 |  | A | Reinforce radius | 9.54 | 16.27 | NA | 1.19 | 090
25491 |  | A | Reinforce ulna | 9.96 | 17.52 | NA | 1.41 | 090
25492 |  | A | Reinforce radius and ulna | 12.33 | 16.91 | NA | 1.62 | 090
25500 |  | A | Treat fracture of radius | 2.45 | 2.82 | 4.14 | 0.28 | 090
25505 |  | A | Treat fracture of radius | 5.21 | 5.50 | 7.55 | 0.69 | 090
25515 |  | A | Treat fracture of radius | 9.18 | 9.59 | NA | 1.22 | 090
25520 |  | A | Treat fracture of radius | 6.26 | 6.12 | 7.72 | 0.85 | 090
25525 |  | A | Treat fracture of radius | 12.24 | 11.46 | NA | 1.68 | 090
25526 |  | A | Treat fracture of radius | 12.98 | 14.97 | NA | 1.80 | 090
25530 |  | A | Treat fracture of ulna | 2.09 | 2.77 | 4.10 | 0.27 | 090
25535 |  | A | Treat fracture of ulna | 5.14 | 5.54 | 7.36 | 0.68 | 090
25545 |  | A | Treat fracture of ulna | 8.90 | 9.70 | NA | 1.23 | 090
25560 |  | A | Treat fracture radius & ulna | 2.44 | 2.81 | 4.15 | 0.27 | 090
25565 |  | A | Treat fracture radius & ulna | 5.63 | 5.71 | 7.77 | 0.76 | 090
25574 |  | A | Treat fracture radius & ulna | 7.01 | 8.63 | NA | 0.96 | 090
25575 |  | A | Treat fracture radius/ulna | 10.45 | 10.51 | NA | 1.46 | 090
25600 |  | A | Treat fracture radius/ulna | 2.63 | 2.98 | 4.41 | 0.34 | 090
25605 |  | A | Treat fracture radius/ulna | 5.81 | 5.94 | 7.97 | 0.81 | 090
25611 |  | A | Treat fracture radius/ulna | 7.77 | 9.77 | NA | 1.08 | 090
25620 |  | A | Treat fracture radius/ulna | 8.55 | 9.47 | NA | 1.17 | 090
25622 |  | A | Treat wrist bone fracture | 2.61 | 2.97 | 4.38 | 0.33 | 090
25624 |  | A | Treat wrist bone fracture | 4.53 | 5.20 | 7.19 | 0.61 | 090
25628 |  | A | Treat wrist bone fracture | 8.43 | 9.54 | NA | 1.14 | 090
25630 |  | A | Treat wrist bone fracture | 2.88 | 3.03 | 4.53 | 0.37 | 090
25635 |  | A | Treat wrist bone fracture | 4.39 | 4.52 | 7.16 | 0.39 | 090
25645 |  | A | Treat wrist bone fracture | 7.25 | 9.13 | NA | 0.93 | 090
25650 |  | A | Treat wrist bone fracture | 3.05 | 3.12 | 4.61 | 0.37 | 090
25651 |  | A | Pin ulnar styloid fracture | 5.36 | 4.32 | NA | 0.73 | 090
25652 |  | A | Treat fracture ulnar styloid | 7.60 | 6.74 | NA | 0.97 | 090
25660 |  | A | Treat wrist dislocation | 4.76 | 5.24 | NA | 0.59 | 090
25670 |  | A | Treat wrist dislocation | 7.92 | 9.34 | NA | 1.07 | 090
25671 |  | A | Pin radioulnar dislocation | 6.00 | 5.89 | NA | 0.75 | 090
25675 |  | A | Treat wrist dislocation | 4.67 | 5.17 | 7.08 | 0.57 | 090
25676 |  | A | Treat wrist dislocation | 8.04 | 9.33 | NA | 1.10 | 090
25680 |  | A | Treat wrist fracture | 5.99 | 6.29 | NA | 0.61 | 090
25685 |  | A | Treat wrist fracture | 9.78 | 10.12 | NA | 1.25 | 090
25690 |  | A | Treat wrist dislocation | 5.50 | 6.77 | NA | 0.78 | 090
25695 |  | A | Treat wrist dislocation | 8.34 | 9.43 | NA | 1.07 | 090
25800 |  | A | Fusion of wrist joint | 9.76 | 10.62 | NA | 1.30 | 090
25805 |  | A | Fusion/graft of wrist joint | 11.28 | 11.48 | NA | 1.51 | 090
25810 |  | A | Fusion/graft of wrist joint | 10.57 | 11.05 | NA | 1.37 | 090
25820 |  | A | Fusion of hand bones | 7.45 | 9.43 | NA | 0.96 | 090
25825 |  | A | Fuse hand bones with graft | 9.27 | 10.37 | NA | 1.20 | 090
25830 |  | A | Fusion, radioulnar jnt/ulna | 10.06 | 16.56 | NA | 1.27 | 090
25900 |  | A | Amputation of forearm | 9.01 | 14.17 | NA | 1.08 | 090
25905 |  | A | Amputation of forearm | 9.12 | 15.42 | NA | 1.06 | 090
25907 |  | A | Amputation follow-up surgery | 7.80 | 14.95 | NA | 1.01 | 090
25909 |  | A | Amputation follow-up surgery | 8.96 | 14.98 | NA | 1.07 | 090
25915 |  | A | Amputation of forearm | 17.08 | 18.26 | NA | 2.41 | 090
25920 |  | A | Amputate hand at wrist | 8.68 | 9.69 | NA | 1.06 | 090
25922 |  | A | Amputate hand at wrist | 7.42 | 8.88 | NA | 0.93 | 090
25924 |  | A | Amputation follow-up surgery | 8.46 | 9.99 | NA | 1.07 | 090
25927 |  | A | Amputation of hand | 8.80 | 13.97 | NA | 1.02 | 090
25929 |  | A | Amputation follow-up surgery | 7.59 | 7.68 | NA | 0.89 | 090
25931 |  | A | Amputation follow-up surgery | 7.81 | 15.33 | NA | 0.88 | 090
25999 |  | C | Forearm or wrist surgery | 0.00 | 0.00 | 0.00 | 0.00 | YYY
26010 |  | A | Drainage of finger abscess | 1.54 | 3.82 | 5.06 | 0.14 | 010
26011 |  | A | Drainage of finger abscess | 2.19 | 6.23 | 7.16 | 0.25 | 010
26020 |  | A | Drain hand tendon sheath | 4.67 | 12.63 | NA | 0.59 | 090
26025 |  | A | Drainage of palm bursa | 4.82 | 12.62 | NA | 0.60 | 090
26030 |  | A | Drainage of palm bursa(s) | 5.93 | 13.31 | NA | 0.72 | 090
26034 |  | A | Treat hand bone lesion | 6.23 | 14.59 | NA | 0.79 | 090
26035 |  | A | Decompress fingers/hand | 9.51 | 15.91 | NA | 1.12 | 090
26037 |  | A | Decompress fingers/hand | 7.25 | 12.45 | NA | 0.87 | 090
26040 |  | A | Release palm contracture | 3.33 | 12.35 | NA | 0.45 | 090
26045 |  | A | Release palm contracture | 5.56 | 13.61 | NA | 0.74 | 090
26055 |  | A | Incise finger tendon sheath | 2.69 | 7.49 | 7.83 | 0.36 | 090
26060 |  | A | Incision of finger tendon | 2.81 | 7.56 | NA | 0.35 | 090
26070 |  | A | Explore/treat hand joint | 3.69 | 10.87 | NA | 0.35 | 090
26075 |  | A | Explore/treat finger joint | 3.79 | 11.81 | NA | 0.40 | 090
26080 |  | A | Explore/treat finger joint | 4.24 | 12.65 | NA | 0.52 | 090
26100 |  | A | Biopsy hand joint lining | 3.67 | 8.19 | NA | 0.45 | 090
26105 |  | A | Biopsy finger joint lining | 3.71 | 12.40 | NA | 0.45 | 090
26110 |  | A | Biopsy finger joint lining | 3.53 | 11.82 | NA | 0.44 | 090
26115 |  | A | Remove hand lesion subcut | 3.86 | 7.53 | 7.53 | 0.48 | 090
26116 |  | A | Remove hand lesion, deep | 5.53 | 13.37 | NA | 0.69 | 090
26117 |  | A | Remove tumor, hand/finger | 8.55 | 15.03 | NA | 1.01 | 090
26121 |  | A | Release palm contracture | 7.54 | 15.37 | NA | 0.94 | 090
26123 |  | A | Release palm contracture | 9.29 | 16.33 | NA | 1.17 | 090
26125 |  | A | Release palm contracture | 4.61 | 2.53 | NA | 0.57 | ZZZ
26130 |  | A | Remove wrist joint lining | 5.42 | 15.51 | NA | 0.65 | 090
26135 |  | A | Revise finger joint, each | 6.96 | 16.70 | NA | 0.87 | 090
26140 |  | A | Revise finger joint, each | 6.17 | 15.80 | NA | 0.76 | 090
26145 |  | A | Tendon excision, palm/finger | 6.32 | 16.06 | NA | 0.77 | 090
26160 |  | A | Remove tendon sheath lesion | 3.15 | 7.62 | 7.63 | 0.39 | 090
26170 |  | A | Removal of palm tendon, each | 4.77 | 8.46 | NA | 0.60 | 090
26180 |  | A | Removal of finger tendon | 5.18 | 8.79 | NA | 0.64 | 090
26185 |  | A | Remove finger bone | 5.25 | 8.79 | NA | 0.67 | 090
26200 |  | A | Remove hand bone lesion | 5.51 | 13.62 | NA | 0.71 | 090
26205 |  | A | Remove/graft bone lesion | 7.70 | 15.10 | NA | 0.95 | 090
26210 |  | A | Removal of finger lesion | 5.15 | 13.97 | NA | 0.64 | 090
26215 |  | A | Remove/graft finger lesion | 7.10 | 14.34 | NA | 0.77 | 090
26230 |  | A | Partial removal of hand bone | 6.33 | 12.72 | NA | 0.84 | 090
26235 |  | A | Partial removal, finger bone | 6.19 | 12.25 | NA | 0.78 | 090
26236 |  | A | Partial removal, finger bone | 5.32 | 12.30 | NA | 0.66 | 090
26250 |  | A | Extensive hand surgery | 7.55 | 16.60 | NA | 0.92 | 090
26255 |  | A | Extensive hand surgery | 12.43 | 19.40 | NA | 1.05 | 090
26260 |  | A | Extensive finger surgery | 7.03 | 16.45 | NA | 0.83 | 090
26261 |  | A | Extensive finger surgery | 9.09 | 12.97 | NA | 0.84 | 090
26262 |  | A | Partial removal of finger | 5.67 | 14.23 | NA | 0.70 | 090
26320 |  | A | Removal of implant from hand | 3.98 | 12.78 | NA | 0.49 | 090
26340 |  | A | Manipulate finger w/anesth | 2.50 | 4.48 | NA | 0.32 | 090
26350 |  | A | Repair finger/hand tendon | 5.99 | 19.56 | NA | 0.73 | 090
26352 |  | A | Repair/graft hand tendon | 7.68 | 19.76 | NA | 0.93 | 090
26356 |  | A | Repair finger/hand tendon | 8.07 | 20.93 | NA | 0.99 | 090
26357 |  | A | Repair finger/hand tendon | 8.58 | 20.73 | NA | 1.02 | 090
26358 |  | A | Repair/graft hand tendon | 9.14 | 20.89 | NA | 1.07 | 090
26370 |  | A | Repair finger/hand tendon | 7.11 | 20.10 | NA | 0.90 | 090
26372 |  | A | Repair/graft hand tendon | 8.76 | 21.36 | NA | 1.06 | 090
26373 |  | A | Repair finger/hand tendon | 8.16 | 21.27 | NA | 0.98 | 090
26390 |  | A | Revise hand/finger tendon | 9.19 | 16.47 | NA | 1.09 | 090
26392 |  | A | Repair/graft hand tendon | 10.26 | 22.37 | NA | 1.26 | 090
26410 |  | A | Repair hand tendon | 4.63 | 15.82 | NA | 0.57 | 090
26412 |  | A | Repair/graft hand tendon | 6.31 | 16.90 | NA | 0.80 | 090
26415 |  | A | Excision, hand/finger tendon | 8.34 | 15.74 | NA | 0.77 | 090
26416 |  | A | Graft hand or finger tendon | 9.37 | 18.18 | NA | 1.20 | 090
26418 |  | A | Repair finger tendon | 4.25 | 15.67 | NA | 0.50 | 090
26420 |  | A | Repair/graft finger tendon | 6.77 | 17.31 | NA | 0.83 | 090
26426 |  | A | Repair finger/hand tendon | 6.15 | 16.47 | NA | 0.77 | 090
26428 |  | A | Repair/graft finger tendon | 7.21 | 17.52 | NA | 0.84 | 090
26432 |  | A | Repair finger tendon | 4.02 | 12.82 | NA | 0.48 | 090
26433 |  | A | Repair finger tendon | 4.56 | 13.74 | NA | 0.56 | 090
26434 |  | A | Repair/graft finger tendon | 6.09 | 14.25 | NA | 0.71 | 090
26437 |  | A | Realignment of tendons | 5.82 | 13.75 | NA | 0.74 | 090
26440 |  | A | Release palm/finger tendon | 5.02 | 17.99 | NA | 0.62 | 090
26442 |  | A | Release palm & finger tendon | 8.16 | 19.45 | NA | 0.94 | 090
26445 |  | A | Release hand/finger tendon | 4.31 | 17.85 | NA | 0.54 | 090
26449 |  | A | Release forearm/hand tendon | 7.00 | 19.18 | NA | 0.84 | 090
26450 |  | A | Incision of palm tendon | 3.67 | 8.30 | NA | 0.46 | 090
26455 |  | A | Incision of finger tendon | 3.64 | 8.16 | NA | 0.47 | 090
26460 |  | A | Incise hand/finger tendon | 3.46 | 7.79 | NA | 0.44 | 090
26471 |  | A | Fusion of finger tendons | 5.73 | 13.37 | NA | 0.73 | 090
26474 |  | A | Fusion of finger tendons | 5.32 | 13.83 | NA | 0.69 | 090
26476 |  | A | Tendon lengthening | 5.18 | 13.19 | NA | 0.62 | 090
26477 |  | A | Tendon shortening | 5.15 | 13.34 | NA | 0.60 | 090
26478 |  | A | Lengthening of hand tendon | 5.80 | 14.10 | NA | 0.77 | 090
26479 |  | A | Shortening of hand tendon | 5.74 | 14.56 | NA | 0.76 | 090
26480 |  | A | Transplant hand tendon | 6.69 | 19.03 | NA | 0.84 | 090
26483 |  | A | Transplant/graft hand tendon | 8.29 | 19.62 | NA | 1.03 | 090
26485 |  | A | Transplant palm tendon | 7.70 | 19.60 | NA | 0.94 | 090
26489 |  | A | Transplant/graft palm tendon | 9.55 | 16.48 | NA | 0.98 | 090
26490 |  | A | Revise thumb tendon | 8.41 | 14.89 | NA | 1.05 | 090
26492 |  | A | Tendon transfer with graft | 9.62 | 15.61 | NA | 1.19 | 090
26494 |  | A | Hand tendon/muscle transfer | 8.47 | 15.87 | NA | 1.13 | 090
26496 |  | A | Revise thumb tendon | 9.59 | 15.10 | NA | 1.17 | 090
26497 |  | A | Finger tendon transfer | 9.57 | 15.87 | NA | 1.17 | 090
26498 |  | A | Finger tendon transfer | 14.00 | 18.34 | NA | 1.74 | 090
26499 |  | A | Revision of finger | 8.98 | 16.54 | NA | 0.94 | 090
26500 |  | A | Hand tendon reconstruction | 5.96 | 14.55 | NA | 0.66 | 090
26502 |  | A | Hand tendon reconstruction | 7.14 | 14.85 | NA | 0.87 | 090
26504 |  | A | Hand tendon reconstruction | 7.47 | 14.56 | NA | 0.84 | 090
26508 |  | A | Release thumb contracture | 6.01 | 14.04 | NA | 0.76 | 090
26510 |  | A | Thumb tendon transfer | 5.43 | 13.79 | NA | 0.71 | 090
26516 |  | A | Fusion of knuckle joint | 7.15 | 14.41 | NA | 0.90 | 090
26517 |  | A | Fusion of knuckle joints | 8.83 | 15.76 | NA | 0.96 | 090
26518 |  | A | Fusion of knuckle joints | 9.02 | 15.46 | NA | 1.13 | 090
26520 |  | A | Release knuckle contracture | 5.30 | 18.02 | NA | 0.65 | 090
26525 |  | A | Release finger contracture | 5.33 | 18.22 | NA | 0.66 | 090
26530 |  | A | Revise knuckle joint | 6.69 | 18.75 | NA | 0.86 | 090
26531 |  | A | Revise knuckle with implant | 7.91 | 19.26 | NA | 1.01 | 090
26535 |  | A | Revise finger joint | 5.24 | 10.66 | NA | 0.66 | 090
26536 |  | A | Revise/implant finger joint | 6.37 | 17.39 | NA | 0.80 | 090
26540 |  | A | Repair hand joint | 6.43 | 14.40 | NA | 0.81 | 090
26541 |  | A | Repair hand joint with graft | 8.62 | 15.99 | NA | 1.12 | 090
26542 |  | A | Repair hand joint with graft | 6.78 | 14.13 | NA | 0.87 | 090
26545 |  | A | Reconstruct finger joint | 6.92 | 15.10 | NA | 0.79 | 090
26546 |  | A | Repair nonunion hand | 8.92 | 15.75 | NA | 1.14 | 090
26548 |  | A | Reconstruct finger joint | 8.03 | 15.67 | NA | 0.98 | 090
26550 |  | A | Construct thumb replacement | 21.24 | 23.51 | NA | 1.80 | 090
26551 |  | A | Great toe-hand transfer | 46.58 | 26.34 | NA | 6.57 | 090
26553 |  | A | Single transfer, toe-hand | 46.27 | 28.71 | NA | 1.99 | 090
26554 |  | A | Double transfer, toe-hand | 54.95 | 33.50 | NA | 7.76 | 090
26555 |  | A | Positional change of finger | 16.63 | 20.49 | NA | 2.13 | 090
26556 |  | A | Toe joint transfer | 47.26 | 29.09 | NA | 6.67 | 090
26560 |  | A | Repair of web finger | 5.38 | 12.75 | NA | 0.60 | 090
26561 |  | A | Repair of web finger | 10.92 | 17.37 | NA | 0.69 | 090
26562 |  | A | Repair of web finger | 15.00 | 19.74 | NA | 0.98 | 090
26565 |  | A | Correct metacarpal flaw | 6.74 | 14.45 | NA | 0.84 | 090
26567 |  | A | Correct finger deformity | 6.82 | 14.29 | NA | 0.84 | 090
26568 |  | A | Lengthen metacarpal/finger | 9.08 | 19.51 | NA | 1.10 | 090
26580 |  | A | Repair hand deformity | 18.18 | 16.16 | NA | 1.46 | 090
26585 |  | D | Repair finger deformity | 14.05 | 12.93 | NA | 1.08 | 090
26587 |  | A | Reconstruct extra finger | 14.05 | NA | 5.98 | 1.08 | 090
26590 |  | A | Repair finger deformity | 17.96 | 16.68 | NA | 1.32 | 090
26591 |  | A | Repair muscles of hand | 3.25 | 13.51 | NA | 0.37 | 090
26593 |  | A | Release muscles of hand | 5.31 | 13.02 | NA | 0.64 | 090
26596 |  | A | Excision constricting tissue | 8.95 | 9.78 | NA | 0.87 | 090
26597 |  | D | Release of scar contracture | 9.82 | 11.29 | NA | 1.20 | 090
26600 |  | A | Treat metacarpal fracture | 1.96 | 2.71 | 4.04 | 0.25 | 090
26605 |  | A | Treat metacarpal fracture | 2.85 | 4.18 | 5.88 | 0.38 | 090
26607 |  | A | Treat metacarpal fracture | 5.36 | 8.18 | NA | 0.70 | 090
26608 |  | A | Treat metacarpal fracture | 5.36 | 8.54 | NA | 0.73 | 090
26615 |  | A | Treat metacarpal fracture | 5.33 | 8.14 | NA | 0.70 | 090
26641 |  | A | Treat thumb dislocation | 3.94 | 4.71 | 6.40 | 0.42 | 090
26645 |  | A | Treat thumb fracture | 4.41 | 5.13 | 7.10 | 0.54 | 090
26650 |  | A | Treat thumb fracture | 5.72 | 8.72 | NA | 0.77 | 090
26665 |  | A | Treat thumb fracture | 7.60 | 9.17 | NA | 0.97 | 090
26670 |  | A | Treat hand dislocation | 3.69 | 4.63 | 6.18 | 0.36 | 090
26675 |  | A | Treat hand dislocation | 4.64 | 4.42 | 6.35 | 0.56 | 090
26676 |  | A | Pin hand dislocation | 5.52 | 8.82 | NA | 0.76 | 090
26685 |  | A | Treat hand dislocation | 6.98 | 8.77 | NA | 0.95 | 090
26686 |  | A | Treat hand dislocation | 7.94 | 9.30 | NA | 1.05 | 090
26700 |  | A | Treat knuckle dislocation | 3.69 | 2.92 | 4.99 | 0.35 | 090
26705 |  | A | Treat knuckle dislocation | 4.19 | 4.26 | 6.20 | 0.50 | 090
26706 |  | A | Pin knuckle dislocation | 5.12 | 5.80 | NA | 0.64 | 090
26715 |  | A | Treat knuckle dislocation | 5.74 | 8.29 | NA | 0.75 | 090
26720 |  | A | Treat finger fracture, each | 1.66 | 1.66 | 2.99 | 0.20 | 090
26725 |  | A | Treat finger fracture, each | 3.33 | 3.17 | 5.14 | 0.43 | 090
26727 |  | A | Treat finger fracture, each | 5.23 | 8.73 | NA | 0.69 | 090
26735 |  | A | Treat finger fracture, each | 5.98 | 8.65 | NA | 0.77 | 090
26740 |  | A | Treat finger fracture, each | 1.94 | 2.55 | 3.74 | 0.24 | 090
26742 |  | A | Treat finger fracture, each | 3.85 | 5.11 | 6.98 | 0.49 | 090
26746 |  | A | Treat finger fracture, each | 5.81 | 8.77 | NA | 0.74 | 090
26750 |  | A | Treat finger fracture, each | 1.70 | 2.36 | 3.56 | 0.19 | 090
26755 |  | A | Treat finger fracture, each | 3.10 | 3.05 | 4.97 | 0.37 | 090
26756 |  | A | Pin finger fracture, each | 4.39 | 8.61 | NA | 0.56 | 090
26765 |  | A | Treat finger fracture, each | 4.17 | 7.78 | NA | 0.51 | 090
26770 |  | A | Treat finger dislocation | 3.02 | 2.68 | 4.74 | 0.27 | 090
26775 |  | A | Treat finger dislocation | 3.71 | 3.94 | 5.90 | 0.43 | 090
26776 |  | A | Pin finger dislocation | 4.80 | 8.58 | NA | 0.63 | 090
26785 |  | A | Treat finger dislocation | 4.21 | 7.62 | NA | 0.54 | 090
26820 |  | A | Thumb fusion with graft | 8.26 | 15.82 | NA | 1.11 | 090
26841 |  | A | Fusion of thumb | 7.13 | 14.94 | NA | 0.97 | 090
26842 |  | A | Thumb fusion with graft | 8.24 | 15.72 | NA | 1.10 | 090
26843 |  | A | Fusion of hand joint | 7.61 | 14.38 | NA | 0.99 | 090
26844 |  | A | Fusion/graft of hand joint | 8.73 | 15.70 | NA | 1.12 | 090
26850 |  | A | Fusion of knuckle | 6.97 | 14.21 | NA | 0.89 | 090
26852 |  | A | Fusion of knuckle with graft | 8.46 | 15.08 | NA | 1.05 | 090
26860 |  | A | Fusion of finger joint | 4.69 | 13.11 | NA | 0.60 | 090
26861 |  | A | Fusion of finger jnt, add-on | 1.74 | 0.96 | NA | 0.22 | ZZZ
26862 |  | A | Fusion/graft of finger joint | 7.37 | 14.75 | NA | 0.92 | 090
26863 |  | A | Fuse/graft added joint | 3.90 | 2.16 | NA | 0.51 | ZZZ
26910 |  | A | Amputate metacarpal bone | 7.60 | 13.76 | NA | 0.90 | 090
26951 |  | A | Amputation of finger/thumb | 4.59 | 12.67 | NA | 0.56 | 090
26952 |  | A | Amputation of finger/thumb | 6.31 | 13.99 | NA | 0.74 | 090
26989 |  | C | Hand/finger surgery | 0.00 | 0.00 | 0.00 | 0.00 | YYY
26990 |  | A | Drainage of pelvis lesion | 7.48 | 15.56 | NA | 0.92 | 090
26991 |  | A | Drainage of pelvis bursa | 6.68 | 9.38 | 11.53 | 0.85 | 090
26992 |  | A | Drainage of bone lesion | 13.02 | 19.43 | NA | 1.75 | 090
27000 |  | A | Incision of hip tendon | 5.62 | 7.33 | NA | 0.76 | 090
27001 |  | A | Incision of hip tendon | 6.94 | 8.22 | NA | 0.95 | 090
27003 |  | A | Incision of hip tendon | 7.34 | 9.11 | NA | 0.93 | 090
27005 |  | A | Incision of hip tendon | 9.66 | 10.42 | NA | 1.36 | 090
27006 |  | A | Incision of hip tendons | 9.68 | 10.43 | NA | 1.33 | 090
27025 |  | A | Incision of hip/thigh fascia | 11.16 | 10.31 | NA | 1.38 | 090
27030 |  | A | Drainage of hip joint | 13.01 | 12.23 | NA | 1.81 | 090
27033 |  | A | Exploration of hip joint | 13.39 | 12.33 | NA | 1.87 | 090
27035 |  | A | Denervation of hip joint | 16.69 | 18.01 | NA | 1.70 | 090
27036 |  | A | Excision of hip joint/muscle | 12.88 | 13.67 | NA | 1.80 | 090
27040 |  | A | Biopsy of soft tissues | 2.87 | 4.01 | 5.90 | 0.21 | 010
27041 |  | A | Biopsy of soft tissues | 9.89 | 8.47 | NA | 1.01 | 090
27047 |  | A | Remove hip/pelvis lesion | 7.45 | 7.01 | 9.27 | 0.79 | 090
27048 |  | A | Remove hip/pelvis lesion | 6.25 | 7.86 | NA | 0.73 | 090
27049 |  | A | Remove tumor, hip/pelvis | 13.66 | 13.36 | NA | 1.60 | 090
27050 |  | A | Biopsy of sacroiliac joint | 4.36 | 6.97 | NA | 0.53 | 090
27052 |  | A | Biopsy of hip joint | 6.23 | 8.29 | NA | 0.85 | 090
27054 |  | A | Removal of hip joint lining | 8.54 | 10.53 | NA | 1.17 | 090
27060 |  | A | Removal of ischial bursa | 5.43 | 7.70 | NA | 0.60 | 090
27062 |  | A | Remove femur lesion/bursa | 5.37 | 7.17 | NA | 0.74 | 090
27065 |  | A | Removal of hip bone lesion | 5.90 | 8.66 | NA | 0.76 | 090
27066 |  | A | Removal of hip bone lesion | 10.33 | 12.36 | NA | 1.42 | 090
27067 |  | A | Remove/graft hip bone lesion | 13.83 | 14.25 | NA | 1.95 | 090
27070 |  | A | Partial removal of hip bone | 10.72 | 17.92 | NA | 1.36 | 090
27071 |  | A | Partial removal of hip bone | 11.46 | 18.86 | NA | 1.51 | 090
27075 |  | A | Extensive hip surgery | 35.00 | 25.41 | NA | 2.22 | 090
27076 |  | A | Extensive hip surgery | 22.12 | 19.90 | NA | 2.86 | 090
27077 |  | A | Extensive hip surgery | 40.00 | 28.73 | NA | 3.18 | 090
27078 |  | A | Extensive hip surgery | 13.44 | 15.54 | NA | 1.67 | 090
27079 |  | A | Extensive hip surgery | 13.75 | 15.04 | NA | 1.86 | 090
27080 |  | A | Removal of tail bone | 6.39 | 7.56 | NA | 0.80 | 090
27086 |  | A | Remove hip foreign body | 1.87 | 3.81 | 5.53 | 0.17 | 010
27087 |  | A | Remove hip foreign body | 8.54 | 8.85 | NA | 1.09 | 090
27090 |  | A | Removal of hip prosthesis | 11.15 | 11.14 | NA | 1.55 | 090
27091 |  | A | Removal of hip prosthesis | 22.14 | 16.20 | NA | 3.11 | 090
27093 |  | A | Injection for hip x-ray | 1.30 | 0.50 | 12.79 | 0.09 | 000
27095 |  | A | Injection for hip x-ray | 1.50 | 0.54 | 11.77 | 0.10 | 000
27096 |  | A | Inject sacroiliac joint | 1.40 | 0.38 | 9.84 | 0.08 | 000
27097 |  | A | Revision of hip tendon | 8.80 | 8.91 | NA | 1.22 | 090
27098 |  | A | Transfer tendon to pelvis | 8.83 | 9.53 | NA | 1.24 | 090
27100 |  | A | Transfer of abdominal muscle | 11.08 | 12.54 | NA | 1.57 | 090
27105 |  | A | Transfer of spinal muscle | 11.77 | 12.21 | NA | 1.66 | 090
27110 |  | A | Transfer of iliopsoas muscle | 13.26 | 13.43 | NA | 1.38 | 090
27111 |  | A | Transfer of iliopsoas muscle | 12.15 | 11.85 | NA | 1.48 | 090
27120 |  | A | Reconstruction of hip socket | 18.01 | 14.46 | NA | 2.45 | 090
27122 |  | A | Reconstruction of hip socket | 14.98 | 14.13 | NA | 2.08 | 090
27125 |  | A | Partial hip replacement | 14.69 | 13.66 | NA | 2.05 | 090
27130 |  | A | Total hip arthroplasty | 20.12 | 16.84 | NA | 2.82 | 090
27132 |  | A | Total hip arthroplasty | 23.30 | 18.59 | NA | 3.26 | 090
27134 |  | A | Revise hip joint replacement | 28.52 | 21.23 | NA | 3.97 | 090
27137 |  | A | Revise hip joint replacement | 21.17 | 17.42 | NA | 2.97 | 090
27138 |  | A | Revise hip joint replacement | 22.17 | 17.87 | NA | 3.11 | 090
27140 |  | A | Transplant femur ridge | 12.24 | 11.79 | NA | 1.67 | 090
27146 |  | A | Incision of hip bone | 17.43 | 16.11 | NA | 2.27 | 090
27147 |  | A | Revision of hip bone | 20.58 | 17.18 | NA | 2.61 | 090
27151 |  | A | Incision of hip bones | 22.51 | 12.41 | NA | 3.12 | 090
27156 |  | A | Revision of hip bones | 24.63 | 19.70 | NA | 3.48 | 090
27158 |  | A | Revision of pelvis | 19.74 | 15.55 | NA | 2.60 | 090
27161 |  | A | Incision of neck of femur | 16.71 | 14.13 | NA | 2.32 | 090
27165 |  | A | Incision/fixation of femur | 17.91 | 14.67 | NA | 2.51 | 090
27170 |  | A | Repair/graft femur head/neck | 16.07 | 13.84 | NA | 2.20 | 090
27175 |  | A | Treat slipped epiphysis | 8.46 | 7.08 | NA | 1.19 | 090
27176 |  | A | Treat slipped epiphysis | 12.05 | 9.88 | NA | 1.68 | 090
27177 |  | A | Treat slipped epiphysis | 15.08 | 11.61 | NA | 2.11 | 090
27178 |  | A | Treat slipped epiphysis | 11.99 | 9.30 | NA | 1.68 | 090
27179 |  | A | Revise head/neck of femur | 12.98 | 10.70 | NA | 1.84 | 090
27181 |  | A | Treat slipped epiphysis | 14.68 | 11.04 | NA | 1.74 | 090
27185 |  | A | Revision of femur epiphysis | 9.18 | 10.34 | NA | 1.29 | 090
27187 |  | A | Reinforce hip bones | 13.54 | 13.30 | NA | 1.89 | 090
27193 |  | A | Treat pelvic ring fracture | 5.56 | 5.22 | 6.95 | 0.77 | 090
27194 |  | A | Treat pelvic ring fracture | 9.65 | 7.48 | 9.00 | 1.32 | 090
27200 |  | A | Treat tail bone fracture | 1.84 | 1.77 | 3.03 | 0.22 | 090
27202 |  | A | Treat tail bone fracture | 7.04 | 19.94 | NA | 0.69 | 090
27215 |  | A | Treat pelvic fracture(s) | 10.05 | 10.20 | NA | 1.37 | 090
27216 |  | A | Treat pelvic ring fracture | 15.19 | 13.55 | NA | 2.15 | 090
27217 |  | A | Treat pelvic ring fracture | 14.11 | 12.60 | NA | 1.95 | 090
27218 |  | A | Treat pelvic ring fracture | 20.15 | 14.13 | NA | 2.85 | 090
27220 |  | A | Treat hip socket fracture | 6.18 | 5.56 | 7.28 | 0.85 | 090
27222 |  | A | Treat hip socket fracture | 12.70 | 10.12 | NA | 1.77 | 090
27226 |  | A | Treat hip wall fracture | 14.91 | 10.60 | NA | 2.07 | 090
27227 |  | A | Treat hip fracture(s) | 23.45 | 17.00 | NA | 3.24 | 090
27228 |  | A | Treat hip fracture(s) | 27.16 | 19.25 | NA | 3.77 | 090
27230 |  | A | Treat thigh fracture | 5.50 | 6.09 | 7.44 | 0.73 | 090
27232 |  | A | Treat thigh fracture | 10.68 | 9.09 | NA | 1.45 | 090
27235 |  | A | Treat thigh fracture | 12.16 | 10.94 | NA | 1.71 | 090
27236 |  | A | Treat thigh fracture | 15.60 | 12.66 | NA | 2.18 | 090
27238 |  | A | Treat thigh fracture | 5.52 | 6.16 | NA | 0.76 | 090
27240 |  | A | Treat thigh fracture | 12.50 | 10.13 | NA | 1.69 | 090
27244 |  | A | Treat thigh fracture | 15.94 | 12.89 | NA | 2.23 | 090
27245 |  | A | Treat thigh fracture | 20.31 | 15.27 | NA | 2.85 | 090
27246 |  | A | Treat thigh fracture | 4.71 | 5.77 | 7.14 | 0.66 | 090
27248 |  | A | Treat thigh fracture | 10.45 | 9.93 | NA | 1.45 | 090
27250 |  | A | Treat hip dislocation | 6.95 | 6.30 | NA | 0.68 | 090
27252 |  | A | Treat hip dislocation | 10.39 | 8.14 | NA | 1.37 | 090
27253 |  | A | Treat hip dislocation | 12.92 | 10.81 | NA | 1.81 | 090
27254 |  | A | Treat hip dislocation | 18.26 | 13.65 | NA | 2.52 | 090
27256 |  | A | Treat hip dislocation | 4.12 | 4.33 | NA | 0.49 | 010
27257 |  | A | Treat hip dislocation | 5.22 | 4.58 | NA | 0.56 | 010
27258 |  | A | Treat hip dislocation | 15.43 | 13.78 | NA | 2.06 | 090
27259 |  | A | Treat hip dislocation | 21.55 | 16.69 | NA | 2.99 | 090
27265 |  | A | Treat hip dislocation | 5.05 | 5.90 | NA | 0.65 | 090
27266 |  | A | Treat hip dislocation | 7.49 | 7.29 | NA | 1.04 | 090
27275 |  | A | Manipulation of hip joint | 2.27 | 3.46 | NA | 0.31 | 010
27280 |  | A | Fusion of sacroiliac joint | 13.39 | 14.04 | NA | 1.98 | 090
27282 |  | A | Fusion of pubic bones | 11.34 | 12.33 | NA | 1.14 | 090
27284 |  | A | Fusion of hip joint | 23.45 | 18.07 | NA | 2.36 | 090
27286 |  | A | Fusion of hip joint | 23.45 | 18.77 | NA | 2.37 | 090
27290 |  | A | Amputation of leg at hip | 23.28 | 16.75 | NA | 2.94 | 090
27295 |  | A | Amputation of leg at hip | 18.65 | 14.23 | NA | 2.35 | 090
27299 |  | C | Pelvis/hip joint surgery | 0.00 | 0.00 | 0.00 | 0.00 | YYY
27301 |  | A | Drain thigh/knee lesion | 6.49 | 13.59 | 15.74 | 0.80 | 090
27303 |  | A | Drainage of bone lesion | 8.28 | 14.64 | NA | 1.14 | 090
27305 |  | A | Incise thigh tendon & fascia | 5.92 | 9.10 | NA | 0.77 | 090
27306 |  | A | Incision of thigh tendon | 4.62 | 7.51 | NA | 0.62 | 090
27307 |  | A | Incision of thigh tendons | 5.80 | 8.12 | NA | 0.78 | 090
27310 |  | A | Exploration of knee joint | 9.27 | 9.97 | NA | 1.29 | 090
27315 |  | A | Partial removal, thigh nerve | 6.97 | 4.45 | NA | 0.79 | 090
27320 |  | A | Partial removal, thigh nerve | 6.30 | 4.57 | NA | 0.78 | 090
27323 |  | A | Biopsy, thigh soft tissues | 2.28 | 3.43 | 5.52 | 0.17 | 010
27324 |  | A | Biopsy, thigh soft tissues | 4.90 | 6.82 | NA | 0.59 | 090
27327 |  | A | Removal of thigh lesion | 4.47 | 6.28 | 8.36 | 0.50 | 090
27328 |  | A | Removal of thigh lesion | 5.57 | 7.01 | NA | 0.66 | 090
27329 |  | A | Remove tumor, thigh/knee | 14.14 | 14.57 | NA | 1.68 | 090
27330 |  | A | Biopsy, knee joint lining | 4.97 | 6.29 | NA | 0.66 | 090
27331 |  | A | Explore/treat knee joint | 5.88 | 7.47 | NA | 0.81 | 090
27332 |  | A | Removal of knee cartilage | 8.27 | 8.63 | NA | 1.15 | 090
27333 |  | A | Removal of knee cartilage | 7.30 | 8.25 | NA | 1.03 | 090
27334 |  | A | Remove knee joint lining | 8.70 | 9.58 | NA | 1.21 | 090
27335 |  | A | Remove knee joint lining | 10.00 | 10.43 | NA | 1.41 | 090
27340 |  | A | Removal of kneecap bursa | 4.18 | 5.87 | NA | 0.58 | 090
27345 |  | A | Removal of knee cyst | 5.92 | 7.38 | NA | 0.81 | 090
27347 |  | A | Remove knee cyst | 5.78 | 2.65 | 2.65 | 0.76 | 090
27350 |  | A | Removal of kneecap | 8.17 | 8.84 | NA | 1.15 | 090
27355 |  | A | Remove femur lesion | 7.65 | 10.26 | NA | 1.07 | 090
27356 |  | A | Remove femur lesion/graft | 9.48 | 11.28 | NA | 1.29 | 090
27357 |  | A | Remove femur lesion/graft | 10.53 | 11.62 | NA | 1.48 | 090
27358 |  | A | Remove femur lesion/fixation | 4.74 | 2.55 | NA | 0.67 | ZZZ
27360 |  | A | Partial removal, leg bone(s) | 10.50 | 18.21 | NA | 1.42 | 090
27365 |  | A | Extensive leg surgery | 16.27 | 14.25 | NA | 2.26 | 090
27370 |  | A | Injection for knee x-ray | 0.96 | 0.33 | 12.13 | 0.06 | 000
27372 |  | A | Removal of foreign body | 5.07 | 6.33 | 8.37 | 0.62 | 090
27380 |  | A | Repair of kneecap tendon | 7.16 | 8.40 | NA | 1.00 | 090
27381 |  | A | Repair/graft kneecap tendon | 10.34 | 10.13 | NA | 1.44 | 090
27385 |  | A | Repair of thigh muscle | 7.76 | 8.76 | NA | 1.09 | 090
27386 |  | A | Repair/graft of thigh muscle | 10.56 | 10.89 | NA | 1.49 | 090
27390 |  | A | Incision of thigh tendon | 5.33 | 7.89 | NA | 0.69 | 090
27391 |  | A | Incision of thigh tendons | 7.20 | 8.88 | NA | 0.99 | 090
27392 |  | A | Incision of thigh tendons | 9.20 | 10.88 | NA | 1.23 | 090
27393 |  | A | Lengthening of thigh tendon | 6.39 | 8.39 | NA | 0.90 | 090
27394 |  | A | Lengthening of thigh tendons | 8.50 | 10.50 | NA | 1.17 | 090
27395 |  | A | Lengthening of thigh tendons | 11.73 | 13.35 | NA | 1.63 | 090
27396 |  | A | Transplant of thigh tendon | 7.86 | 10.33 | NA | 1.11 | 090
27397 |  | A | Transplants of thigh tendons | 11.28 | 11.71 | NA | 1.58 | 090
27400 |  | A | Revise thigh muscles/tendons | 9.02 | 10.75 | NA | 1.18 | 090
27403 |  | A | Repair of knee cartilage | 8.33 | 8.81 | NA | 1.16 | 090
27405 |  | A | Repair of knee ligament | 8.65 | 9.64 | NA | 1.21 | 090
27407 |  | A | Repair of knee ligament | 10.28 | 10.36 | NA | 1.38 | 090
27409 |  | A | Repair of knee ligaments | 12.90 | 11.93 | NA | 1.75 | 090
27418 |  | A | Repair degenerated kneecap | 10.85 | 10.88 | NA | 1.51 | 090
27420 |  | A | Revision of unstable kneecap | 9.83 | 9.73 | NA | 1.38 | 090
27422 |  | A | Revision of unstable kneecap | 9.78 | 9.71 | NA | 1.37 | 090
27424 |  | A | Revision/removal of kneecap | 9.81 | 9.66 | NA | 1.38 | 090
27425 |  | A | Lateral retinacular release | 5.22 | 7.13 | NA | 0.73 | 090
27427 |  | A | Reconstruction, knee | 9.36 | 9.40 | NA | 1.29 | 090
27428 |  | A | Reconstruction, knee | 14.00 | 12.56 | NA | 1.95 | 090
27429 |  | A | Reconstruction, knee | 15.52 | 13.22 | NA | 2.18 | 090
27430 |  | A | Revision of thigh muscles | 9.67 | 9.71 | NA | 1.35 | 090
27435 |  | A | Incision of knee joint | 9.49 | 9.52 | NA | 1.33 | 090
27437 |  | A | Revise kneecap | 8.46 | 9.76 | NA | 1.18 | 090
27438 |  | A | Revise kneecap with implant | 11.23 | 11.14 | NA | 1.56 | 090
27440 |  | A | Revision of knee joint | 10.43 | 9.07 | NA | 1.42 | 090
27441 |  | A | Revision of knee joint | 10.82 | 9.58 | NA | 1.49 | 090
27442 |  | A | Revision of knee joint | 11.89 | 11.59 | NA | 1.68 | 090
27443 |  | A | Revision of knee joint | 10.93 | 11.27 | NA | 1.52 | 090
27445 |  | A | Revision of knee joint | 17.68 | 14.74 | NA | 2.49 | 090
27446 |  | A | Revision of knee joint | 15.84 | 14.06 | NA | 2.22 | 090
27447 |  | A | Total knee arthroplasty | 21.48 | 16.95 | NA | 3.00 | 090
27448 |  | A | Incision of thigh | 11.06 | 11.97 | NA | 1.51 | 090
27450 |  | A | Incision of thigh | 13.98 | 13.71 | NA | 1.96 | 090
27454 |  | A | Realignment of thigh bone | 17.56 | 15.48 | NA | 2.46 | 090
27455 |  | A | Realignment of knee | 12.82 | 12.31 | NA | 1.78 | 090
27457 |  | A | Realignment of knee | 13.45 | 11.51 | NA | 1.88 | 090
27465 |  | A | Shortening of thigh bone | 13.87 | 13.66 | NA | 1.86 | 090
27466 |  | A | Lengthening of thigh bone | 16.33 | 15.70 | NA | 1.92 | 090
27468 |  | A | Shorten/lengthen thighs | 18.97 | 16.21 | NA | 2.68 | 090
27470 |  | A | Repair of thigh | 16.07 | 15.83 | NA | 2.24 | 090
27472 |  | A | Repair/graft of thigh | 17.72 | 16.70 | NA | 2.49 | 090
27475 |  | A | Surgery to stop leg growth | 8.64 | 9.16 | NA | 1.13 | 090
27477 |  | A | Surgery to stop leg growth | 9.85 | 9.76 | NA | 1.31 | 090
27479 |  | A | Surgery to stop leg growth | 12.80 | 12.01 | NA | 1.81 | 090
27485 |  | A | Surgery to stop leg growth | 8.84 | 9.33 | NA | 1.24 | 090
27486 |  | A | Revise/replace knee joint | 19.27 | 15.83 | NA | 2.70 | 090
27487 |  | A | Revise/replace knee joint | 25.27 | 18.94 | NA | 3.54 | 090
27488 |  | A | Removal of knee prosthesis | 15.74 | 14.01 | NA | 2.21 | 090
27495 |  | A | Reinforce thigh | 15.55 | 15.59 | NA | 2.18 | 090
27496 |  | A | Decompression of thigh/knee | 6.11 | 7.83 | NA | 0.77 | 090
27497 |  | A | Decompression of thigh/knee | 7.17 | 8.07 | NA | 0.84 | 090
27498 |  | A | Decompression of thigh/knee | 7.99 | 8.43 | NA | 0.97 | 090
27499 |  | A | Decompression of thigh/knee | 9.00 | 9.03 | NA | 1.18 | 090
27500 |  | A | Treatment of thigh fracture | 5.92 | 7.34 | 9.60 | 0.80 | 090
27501 |  | A | Treatment of thigh fracture | 5.92 | 8.40 | 10.65 | 0.83 | 090
27502 |  | A | Treatment of thigh fracture | 10.58 | 10.93 | NA | 1.49 | 090
27503 |  | A | Treatment of thigh fracture | 10.58 | 10.97 | NA | 1.49 | 090
27506 |  | A | Treatment of thigh fracture | 17.45 | 14.12 | NA | 2.33 | 090
27507 |  | A | Treatment of thigh fracture | 13.99 | 12.32 | NA | 1.95 | 090
27508 |  | A | Treatment of thigh fracture | 5.83 | 5.28 | 6.97 | 0.80 | 090
27509 |  | A | Treatment of thigh fracture | 7.71 | 9.15 | NA | 1.08 | 090
27510 |  | A | Treatment of thigh fracture | 9.13 | 7.15 | NA | 1.26 | 090
27511 |  | A | Treatment of thigh fracture | 13.64 | 13.04 | NA | 1.91 | 090
27513 |  | A | Treatment of thigh fracture | 17.92 | 15.34 | NA | 2.51 | 090
27514 |  | A | Treatment of thigh fracture | 17.30 | 14.48 | NA | 2.41 | 090
27516 |  | A | Treat thigh fx growth plate | 5.37 | 5.68 | 7.67 | 0.74 | 090
27517 |  | A | Treat thigh fx growth plate | 8.78 | 7.64 | 9.37 | 1.22 | 090
27519 |  | A | Treat thigh fx growth plate | 15.02 | 13.50 | NA | 2.09 | 090
27520 |  | A | Treat kneecap fracture | 2.86 | 3.70 | 5.34 | 0.38 | 090
27524 |  | A | Treat kneecap fracture | 10.00 | 8.77 | NA | 1.40 | 090
27530 |  | A | Treat knee fracture | 3.78 | 4.20 | 5.85 | 0.51 | 090
27532 |  | A | Treat knee fracture | 7.30 | 5.68 | 7.41 | 1.02 | 090
27535 |  | A | Treat knee fracture | 11.50 | 11.92 | NA | 1.61 | 090
27536 |  | A | Treat knee fracture | 15.65 | 11.79 | NA | 2.19 | 090
27538 |  | A | Treat knee fracture(s) | 4.87 | 5.41 | 7.43 | 0.67 | 090
27540 |  | A | Treat knee fracture | 13.10 | 10.30 | NA | 1.80 | 090
27550 |  | A | Treat knee dislocation | 5.76 | 5.59 | 7.20 | 0.68 | 090
27552 |  | A | Treat knee dislocation | 7.90 | 7.80 | NA | 1.10 | 090
27556 |  | A | Treat knee dislocation | 14.41 | 14.23 | NA | 2.01 | 090
27557 |  | A | Treat knee dislocation | 16.77 | 15.52 | NA | 2.37 | 090
27558 |  | A | Treat knee dislocation | 17.72 | 15.72 | NA | 2.51 | 090
27560 |  | A | Treat kneecap dislocation | 3.82 | 3.90 | 5.78 | 0.40 | 090
27562 |  | A | Treat kneecap dislocation | 5.79 | 5.60 | NA | 0.69 | 090
27566 |  | A | Treat kneecap dislocation | 12.23 | 9.93 | NA | 1.73 | 090
27570 |  | A | Fixation of knee joint | 1.74 | 3.15 | NA | 0.24 | 010
27580 |  | A | Fusion of knee | 19.37 | 16.29 | NA | 2.70 | 090
27590 |  | A | Amputate leg at thigh | 12.03 | 12.42 | NA | 1.35 | 090
27591 |  | A | Amputate leg at thigh | 12.68 | 14.02 | NA | 1.63 | 090
27592 |  | A | Amputate leg at thigh | 10.02 | 11.95 | NA | 1.17 | 090
27594 |  | A | Amputation follow-up surgery | 6.92 | 8.79 | NA | 0.82 | 090
27596 |  | A | Amputation follow-up surgery | 10.60 | 12.24 | NA | 1.24 | 090
27598 |  | A | Amputate lower leg at knee | 10.53 | 11.25 | NA | 1.24 | 090
27599 |  | C | Leg surgery procedure | 0.00 | 0.00 | 0.00 | 0.00 | YYY
27600 |  | A | Decompression of lower leg | 5.65 | 7.55 | NA | 0.68 | 090
27601 |  | A | Decompression of lower leg | 5.64 | 7.50 | NA | 0.69 | 090
27602 |  | A | Decompression of lower leg | 7.35 | 7.92 | NA | 0.85 | 090
27603 |  | A | Drain lower leg lesion | 4.94 | 10.21 | 15.73 | 0.56 | 090
27604 |  | A | Drain lower leg bursa | 4.47 | 8.19 | 11.59 | 0.54 | 090
27605 |  | A | Incision of achilles tendon | 2.87 | 3.88 | 10.52 | 0.38 | 010
27606 |  | A | Incision of achilles tendon | 4.14 | 5.01 | 12.66 | 0.57 | 010
27607 |  | A | Treat lower leg bone lesion | 7.97 | 13.93 | NA | 1.08 | 090
27610 |  | A | Explore/treat ankle joint | 8.34 | 10.27 | NA | 1.15 | 090
27612 |  | A | Exploration of ankle joint | 7.33 | 8.30 | NA | 1.01 | 090
27613 |  | A | Biopsy lower leg soft tissue | 2.17 | 3.13 | 5.51 | 0.16 | 010
27614 |  | A | Biopsy lower leg soft tissue | 5.66 | 7.13 | 11.19 | 0.62 | 090
27615 |  | A | Remove tumor, lower leg | 12.56 | 17.11 | NA | 1.39 | 090
27618 |  | A | Remove lower leg lesion | 5.09 | 6.66 | 11.52 | 0.54 | 090
27619 |  | A | Remove lower leg lesion | 8.40 | 9.17 | 13.19 | 1.01 | 090
27620 |  | A | Explore/treat ankle joint | 5.98 | 8.06 | NA | 0.83 | 090
27625 |  | A | Remove ankle joint lining | 8.30 | 9.69 | NA | 1.16 | 090
27626 |  | A | Remove ankle joint lining | 8.91 | 10.34 | NA | 1.23 | 090
27630 |  | A | Removal of tendon lesion | 4.80 | 6.85 | 11.35 | 0.60 | 090
27635 |  | A | Remove lower leg bone lesion | 7.78 | 10.87 | NA | 1.06 | 090
27637 |  | A | Remove/graft leg bone lesion | 9.85 | 12.27 | NA | 1.38 | 090
27638 |  | A | Remove/graft leg bone lesion | 10.57 | 12.76 | NA | 1.47 | 090
27640 |  | A | Partial removal of tibia | 11.37 | 18.07 | NA | 1.54 | 090
27641 |  | A | Partial removal of fibula | 9.24 | 16.20 | NA | 1.22 | 090
27645 |  | A | Extensive lower leg surgery | 14.17 | 18.02 | NA | 1.98 | 090
27646 |  | A | Extensive lower leg surgery | 12.66 | 17.14 | NA | 1.55 | 090
27647 |  | A | Extensive ankle/heel surgery | 12.24 | 11.24 | NA | 1.64 | 090
27648 |  | A | Injection for ankle x-ray | 0.96 | 0.34 | 9.99 | 0.05 | 000
27650 |  | A | Repair achilles tendon | 9.69 | 9.45 | NA | 1.35 | 090
27652 |  | A | Repair/graft achilles tendon | 10.33 | 9.61 | NA | 1.45 | 090
27654 |  | A | Repair of achilles tendon | 10.02 | 10.19 | NA | 1.41 | 090
27656 |  | A | Repair leg fascia defect | 4.57 | 6.65 | 12.72 | 0.48 | 090
27658 |  | A | Repair of leg tendon, each | 4.98 | 9.17 | 13.22 | 0.68 | 090
27659 |  | A | Repair of leg tendon, each | 6.81 | 9.84 | 14.06 | 0.96 | 090
27664 |  | A | Repair of leg tendon, each | 4.59 | 9.06 | 14.17 | 0.63 | 090
27665 |  | A | Repair of leg tendon, each | 5.40 | 9.62 | 14.21 | 0.75 | 090
27675 |  | A | Repair lower leg tendons | 7.18 | 8.42 | NA | 1.01 | 090
27676 |  | A | Repair lower leg tendons | 8.42 | 9.31 | NA | 1.15 | 090
27680 |  | A | Release of lower leg tendon | 5.74 | 7.98 | NA | 0.80 | 090
27681 |  | A | Release of lower leg tendons | 6.82 | 8.49 | NA | 0.92 | 090
27685 |  | A | Revision of lower leg tendon | 6.50 | 8.49 | 10.34 | 0.91 | 090
27686 |  | A | Revise lower leg tendons | 7.46 | 9.70 | 12.52 | 1.05 | 090
27687 |  | A | Revision of calf tendon | 6.24 | 8.62 | NA | 0.88 | 090
27690 |  | A | Revise lower leg tendon | 8.71 | 9.45 | NA | 1.22 | 090
27691 |  | A | Revise lower leg tendon | 9.96 | 11.05 | NA | 1.40 | 090
27692 |  | A | Revise additional leg tendon | 1.87 | 0.94 | NA | 0.26 | ZZZ
27695 |  | A | Repair of ankle ligament | 6.51 | 9.07 | NA | 0.90 | 090
27696 |  | A | Repair of ankle ligaments | 8.27 | 9.49 | NA | 1.16 | 090
27698 |  | A | Repair of ankle ligament | 9.36 | 9.44 | NA | 1.31 | 090
27700 |  | A | Revision of ankle joint | 9.29 | 7.85 | NA | 1.24 | 090
27702 |  | A | Reconstruct ankle joint | 13.67 | 12.80 | NA | 1.92 | 090
27703 |  | A | Reconstruction, ankle joint | 15.87 | 13.41 | NA | 2.24 | 090
27704 |  | A | Removal of ankle implant | 7.62 | 8.34 | NA | 0.61 | 090
27705 |  | A | Incision of tibia | 10.38 | 11.46 | NA | 1.44 | 090
27707 |  | A | Incision of fibula | 4.37 | 8.23 | NA | 0.60 | 090
27709 |  | A | Incision of tibia & fibula | 9.95 | 11.41 | NA | 1.39 | 090
27712 |  | A | Realignment of lower leg | 14.25 | 13.50 | NA | 2.00 | 090
27715 |  | A | Revision of lower leg | 14.39 | 14.80 | NA | 2.00 | 090
27720 |  | A | Repair of tibia | 11.79 | 13.47 | NA | 1.66 | 090
27722 |  | A | Repair/graft of tibia | 11.82 | 13.33 | NA | 1.65 | 090
27724 |  | A | Repair/graft of tibia | 18.20 | 16.95 | NA | 2.10 | 090
27725 |  | A | Repair of lower leg | 15.59 | 15.37 | NA | 2.20 | 090
27727 |  | A | Repair of lower leg | 14.01 | 13.92 | NA | 1.84 | 090
27730 |  | A | Repair of tibia epiphysis | 7.41 | 9.84 | 20.38 | 0.75 | 090
27732 |  | A | Repair of fibula epiphysis | 5.32 | 7.92 | 11.30 | 0.63 | 090
27734 |  | A | Repair lower leg epiphyses | 8.48 | 9.68 | NA | 0.85 | 090
27740 |  | A | Repair of leg epiphyses | 9.30 | 10.54 | 21.91 | 1.31 | 090
27742 |  | A | Repair of leg epiphyses | 10.30 | 10.43 | 16.33 | 1.55 | 090
27745 |  | A | Reinforce tibia | 10.07 | 11.54 | NA | 1.38 | 090
27750 |  | A | Treatment of tibia fracture | 3.19 | 3.87 | 5.50 | 0.43 | 090
27752 |  | A | Treatment of tibia fracture | 5.84 | 6.00 | 7.98 | 0.82 | 090
27756 |  | A | Treatment of tibia fracture | 6.78 | 10.70 | NA | 0.94 | 090
27758 |  | A | Treatment of tibia fracture | 11.67 | 11.92 | NA | 1.52 | 090
27759 |  | A | Treatment of tibia fracture | 13.76 | 13.23 | NA | 1.93 | 090
27760 |  | A | Treatment of ankle fracture | 3.01 | 3.73 | 5.29 | 0.39 | 090
27762 |  | A | Treatment of ankle fracture | 5.25 | 5.57 | 7.48 | 0.71 | 090
27766 |  | A | Treatment of ankle fracture | 8.36 | 8.27 | NA | 1.17 | 090
27780 |  | A | Treatment of fibula fracture | 2.65 | 3.54 | 5.24 | 0.33 | 090
27781 |  | A | Treatment of fibula fracture | 4.40 | 4.47 | 6.41 | 0.57 | 090
27784 |  | A | Treatment of fibula fracture | 7.11 | 8.41 | NA | 0.98 | 090
27786 |  | A | Treatment of ankle fracture | 2.84 | 3.65 | 5.25 | 0.37 | 090
27788 |  | A | Treatment of ankle fracture | 4.45 | 4.51 | 6.47 | 0.61 | 090
27792 |  | A | Treatment of ankle fracture | 7.66 | 7.98 | NA | 1.07 | 090
27808 |  | A | Treatment of ankle fracture | 2.83 | 4.34 | 6.28 | 0.38 | 090
27810 |  | A | Treatment of ankle fracture | 5.13 | 5.56 | 7.54 | 0.71 | 090
27814 |  | A | Treatment of ankle fracture | 10.68 | 10.75 | NA | 1.50 | 090
27816 |  | A | Treatment of ankle fracture | 2.89 | 4.38 | 5.81 | 0.37 | 090
27818 |  | A | Treatment of ankle fracture | 5.50 | 5.71 | 7.71 | 0.74 | 090
27822 |  | A | Treatment of ankle fracture | 11.00 | 12.99 | NA | 1.29 | 090
27823 |  | A | Treatment of ankle fracture | 13.00 | 14.09 | NA | 1.65 | 090
27824 |  | A | Treat lower leg fracture | 2.89 | 4.35 | 6.26 | 0.39 | 090
27825 |  | A | Treat lower leg fracture | 6.19 | 6.17 | 8.15 | 0.85 | 090
27826 |  | A | Treat lower leg fracture | 8.54 | 11.67 | NA | 1.19 | 090
27827 |  | A | Treat lower leg fracture | 14.06 | 14.76 | NA | 1.96 | 090
27828 |  | A | Treat lower leg fracture | 16.23 | 15.51 | NA | 2.27 | 090
27829 |  | A | Treat lower leg joint | 5.49 | 8.58 | NA | 0.77 | 090
27830 |  | A | Treat lower leg dislocation | 3.79 | 4.11 | 5.45 | 0.44 | 090
27831 |  | A | Treat lower leg dislocation | 4.56 | 5.21 | NA | 0.61 | 090
27832 |  | A | Treat lower leg dislocation | 6.49 | 8.11 | NA | 0.91 | 090
27840 |  | A | Treat ankle dislocation | 4.58 | 5.88 | NA | 0.47 | 090
27842 |  | A | Treat ankle dislocation | 6.21 | 5.07 | NA | 0.76 | 090
27846 |  | A | Treat ankle dislocation | 9.79 | 10.12 | NA | 1.36 | 090
27848 |  | A | Treat ankle dislocation | 11.20 | 11.52 | NA | 1.55 | 090
27860 |  | A | Fixation of ankle joint | 2.34 | 3.57 | NA | 0.31 | 010
27870 |  | A | Fusion of ankle joint | 13.91 | 13.61 | NA | 1.95 | 090
27871 |  | A | Fusion of tibiofibular joint | 9.17 | 10.91 | NA | 1.29 | 090
27880 |  | A | Amputation of lower leg | 11.85 | 11.68 | NA | 1.38 | 090
27881 |  | A | Amputation of lower leg | 12.34 | 13.13 | NA | 1.59 | 090
27882 |  | A | Amputation of lower leg | 8.94 | 12.63 | NA | 1.03 | 090
27884 |  | A | Amputation follow-up surgery | 8.21 | 10.43 | NA | 0.95 | 090
27886 |  | A | Amputation follow-up surgery | 9.32 | 10.98 | NA | 1.13 | 090
27888 |  | A | Amputation of foot at ankle | 9.67 | 10.81 | NA | 1.26 | 090
27889 |  | A | Amputation of foot at ankle | 9.98 | 10.29 | NA | 1.19 | 090
27892 |  | A | Decompression of leg | 7.39 | 8.09 | NA | 0.86 | 090
27893 |  | A | Decompression of leg | 7.35 | 7.99 | NA | 0.90 | 090
27894 |  | A | Decompression of leg | 10.49 | 9.41 | NA | 1.25 | 090
27899 |  | C | Leg/ankle surgery procedure | 0.00 | 0.00 | 0.00 | 0.00 | YYY
28001 |  | A | Drainage of bursa of foot | 2.73 | 3.13 | 5.59 | 0.31 | 010
28002 |  | A | Treatment of foot infection | 4.62 | 4.21 | 6.85 | 0.56 | 010
28003 |  | A | Treatment of foot infection | 8.41 | 10.51 | 11.23 | 1.03 | 090
28005 |  | A | Treat foot bone lesion | 8.68 | 10.34 | NA | 1.14 | 090
28008 |  | A | Incision of foot fascia | 4.45 | 6.17 | 8.06 | 0.56 | 090
28010 |  | A | Incision of toe tendon | 2.84 | 5.03 | 7.45 | 0.39 | 090
28011 |  | A | Incision of toe tendons | 4.14 | 6.61 | 9.17 | 0.58 | 090
28020 |  | A | Exploration of foot joint | 5.01 | 6.46 | 9.17 | 0.64 | 090
28022 |  | A | Exploration of foot joint | 4.67 | 6.04 | 8.04 | 0.62 | 090
28024 |  | A | Exploration of toe joint | 4.38 | 6.23 | 8.20 | 0.50 | 090
28030 |  | A | Removal of foot nerve | 6.15 | 3.45 | NA | 0.85 | 090
28035 |  | A | Decompression of tibia nerve | 5.09 | 5.33 | 9.17 | 0.71 | 090
28043 |  | A | Excision of foot lesion | 3.54 | 4.98 | 7.44 | 0.45 | 090
28045 |  | A | Excision of foot lesion | 4.72 | 5.71 | 8.07 | 0.62 | 090
28046 |  | A | Resection of tumor, foot | 10.18 | 11.06 | 12.37 | 1.13 | 090
28050 |  | A | Biopsy of foot joint lining | 4.25 | 5.75 | 7.72 | 0.55 | 090
28052 |  | A | Biopsy of foot joint lining | 3.94 | 5.85 | 7.97 | 0.51 | 090
28054 |  | A | Biopsy of toe joint lining | 3.45 | 5.68 | 7.94 | 0.45 | 090
28060 |  | A | Partial removal, foot fascia | 5.23 | 6.44 | 8.70 | 0.69 | 090
28062 |  | A | Removal of foot fascia | 6.52 | 6.45 | 9.54 | 0.85 | 090
28070 |  | A | Removal of foot joint lining | 5.10 | 5.94 | 7.89 | 0.68 | 090
28072 |  | A | Removal of foot joint lining | 4.58 | 6.65 | 8.40 | 0.64 | 090
28080 |  | A | Removal of foot lesion | 3.58 | 5.47 | 7.82 | 0.50 | 090
28086 |  | A | Excise foot tendon sheath | 4.78 | 7.40 | 11.14 | 0.66 | 090
28088 |  | A | Excise foot tendon sheath | 3.86 | 6.55 | 9.36 | 0.52 | 090
28090 |  | A | Removal of foot lesion | 4.41 | 5.53 | 7.99 | 0.57 | 090
28092 |  | A | Removal of toe lesions | 3.64 | 5.85 | 8.37 | 0.46 | 090
28100 |  | A | Removal of ankle/heel lesion | 5.66 | 7.59 | 11.69 | 0.76 | 090
28102 |  | A | Remove/graft foot lesion | 7.73 | 9.10 | NA | 0.97 | 090
28103 |  | A | Remove/graft foot lesion | 6.50 | 7.22 | 9.87 | 0.89 | 090
28104 |  | A | Removal of foot lesion | 5.12 | 6.77 | 8.68 | 0.69 | 090
28106 |  | A | Remove/graft foot lesion | 7.16 | 6.83 | NA | 1.01 | 090
28107 |  | A | Remove/graft foot lesion | 5.56 | 7.10 | 9.51 | 0.74 | 090
28108 |  | A | Removal of toe lesions | 4.16 | 5.25 | 7.37 | 0.52 | 090
28110 |  | A | Part removal of metatarsal | 4.08 | 6.84 | 8.85 | 0.49 | 090
28111 |  | A | Part removal of metatarsal | 5.01 | 7.65 | 10.39 | 0.63 | 090
28112 |  | A | Part removal of metatarsal | 4.49 | 7.38 | 9.53 | 0.60 | 090
28113 |  | A | Part removal of metatarsal | 4.79 | 7.11 | 9.18 | 0.63 | 090
28114 |  | A | Removal of metatarsal heads | 9.79 | 10.84 | 14.02 | 1.36 | 090
28116 |  | A | Revision of foot | 7.75 | 6.71 | 8.84 | 1.03 | 090
28118 |  | A | Removal of heel bone | 5.96 | 7.15 | 9.44 | 0.79 | 090
28119 |  | A | Removal of heel spur | 5.39 | 6.07 | 8.49 | 0.74 | 090
28120 |  | A | Part removal of ankle/heel | 5.40 | 9.66 | 12.50 | 0.69 | 090
28122 |  | A | Partial removal of foot bone | 7.29 | 9.44 | 11.20 | 0.96 | 090
28124 |  | A | Partial removal of toe | 4.81 | 7.62 | 9.47 | 0.65 | 090
28126 |  | A | Partial removal of toe | 3.52 | 6.80 | 8.21 | 0.49 | 090
28130 |  | A | Removal of ankle bone | 8.11 | 8.77 | NA | 1.11 | 090
28140 |  | A | Removal of metatarsal | 6.91 | 7.83 | 10.56 | 0.84 | 090
28150 |  | A | Removal of toe | 4.09 | 7.09 | 8.84 | 0.52 | 090
28153 |  | A | Partial removal of toe | 3.66 | 5.84 | 8.22 | 0.49 | 090
28160 |  | A | Partial removal of toe | 3.74 | 7.14 | 8.49 | 0.51 | 090
28171 |  | A | Extensive foot surgery | 9.60 | 8.39 | NA | 1.13 | 090
28173 |  | A | Extensive foot surgery | 8.80 | 8.69 | 11.02 | 1.04 | 090
28175 |  | A | Extensive foot surgery | 6.05 | 6.80 | 9.51 | 0.75 | 090
28190 |  | A | Removal of foot foreign body | 1.96 | 3.37 | 6.36 | 0.16 | 010
28192 |  | A | Removal of foot foreign body | 4.64 | 5.39 | 8.12 | 0.52 | 090
28193 |  | A | Removal of foot foreign body | 5.73 | 6.52 | 8.72 | 0.63 | 090
28200 |  | A | Repair of foot tendon | 4.60 | 6.34 | 8.35 | 0.59 | 090
28202 |  | A | Repair/graft of foot tendon | 6.84 | 7.29 | 11.70 | 0.86 | 090
28208 |  | A | Repair of foot tendon | 4.37 | 5.95 | 8.09 | 0.59 | 090
28210 |  | A | Repair/graft of foot tendon | 6.35 | 6.53 | 9.53 | 0.77 | 090
28220 |  | A | Release of foot tendon | 4.53 | 6.07 | 7.90 | 0.63 | 090
28222 |  | A | Release of foot tendons | 5.62 | 6.84 | 8.30 | 0.77 | 090
28225 |  | A | Release of foot tendon | 3.66 | 5.60 | 7.66 | 0.50 | 090
28226 |  | A | Release of foot tendons | 4.53 | 6.52 | 7.94 | 0.62 | 090
28230 |  | A | Incision of foot tendon(s) | 4.24 | 6.68 | 8.03 | 0.59 | 090
28232 |  | A | Incision of toe tendon | 3.39 | 6.37 | 8.04 | 0.48 | 090
28234 |  | A | Incision of foot tendon | 3.37 | 5.92 | 8.10 | 0.46 | 090
28238 |  | A | Revision of foot tendon | 7.73 | 7.51 | 10.10 | 1.08 | 090
28240 |  | A | Release of big toe | 4.36 | 6.32 | 7.99 | 0.61 | 090
28250 |  | A | Revision of foot fascia | 5.92 | 6.93 | 9.01 | 0.81 | 090
28260 |  | A | Release of midfoot joint | 7.96 | 7.64 | 9.43 | 1.08 | 090
28261 |  | A | Revision of foot tendon | 11.73 | 9.42 | 10.97 | 1.66 | 090
28262 |  | A | Revision of foot and ankle | 15.83 | 14.95 | 17.10 | 2.22 | 090
28264 |  | A | Release of midfoot joint | 10.35 | 11.27 | 11.27 | 1.46 | 090
28270 |  | A | Release of foot contracture | 4.76 | 7.17 | 8.64 | 0.67 | 090
28272 |  | A | Release of toe joint, each | 3.80 | 5.46 | 7.55 | 0.52 | 090
28280 |  | A | Fusion of toes | 5.19 | 6.77 | 9.14 | 0.72 | 090
28285 |  | A | Repair of hammertoe | 4.59 | 6.65 | 8.70 | 0.64 | 090
28286 |  | A | Repair of hammertoe | 4.56 | 6.56 | 8.55 | 0.64 | 090
28288 |  | A | Partial removal of foot bone | 4.74 | 8.03 | 9.04 | 0.65 | 090
28289 |  | A | Repair hallux rigidus | 7.04 | 9.02 | 10.87 | 0.96 | 090
28290 |  | A | Correction of bunion | 5.66 | 8.73 | 9.77 | 0.79 | 090
28292 |  | A | Correction of bunion | 7.04 | 7.65 | 9.80 | 0.98 | 090
28293 |  | A | Correction of bunion | 9.15 | 7.95 | 10.84 | 1.28 | 090
28294 |  | A | Correction of bunion | 8.56 | 7.87 | 10.52 | 1.16 | 090
28296 |  | A | Correction of bunion | 9.18 | 8.61 | 10.90 | 1.28 | 090
28297 |  | A | Correction of bunion | 9.18 | 10.28 | 11.82 | 1.31 | 090
28298 |  | A | Correction of bunion | 7.94 | 8.23 | 10.02 | 1.12 | 090
28299 |  | A | Correction of bunion | 10.58 | 9.02 | 11.30 | 1.24 | 090
28300 |  | A | Incision of heel bone | 9.54 | 9.38 | 14.91 | 1.31 | 090
28302 |  | A | Incision of ankle bone | 9.55 | 9.22 | 14.29 | 1.15 | 090
28304 |  | A | Incision of midfoot bones | 9.16 | 7.78 | 10.10 | 1.00 | 090
28305 |  | A | Incise/graft midfoot bones | 10.50 | 9.70 | 14.46 | 0.55 | 090
28306 |  | A | Incision of metatarsal | 5.86 | 6.34 | 9.14 | 0.81 | 090
28307 |  | A | Incision of metatarsal | 6.33 | 7.88 | 12.89 | 0.71 | 090
28308 |  | A | Incision of metatarsal | 5.29 | 5.39 | 7.84 | 0.74 | 090
28309 |  | A | Incision of metatarsals | 12.78 | 10.41 | NA | 1.64 | 090
28310 |  | A | Revision of big toe | 5.43 | 6.84 | 9.06 | 0.76 | 090
28312 |  | A | Revision of toe | 4.55 | 7.41 | 8.79 | 0.62 | 090
28313 |  | A | Repair deformity of toe | 5.01 | 9.25 | 9.25 | 0.68 | 090
28315 |  | A | Removal of sesamoid bone | 4.86 | 5.65 | 7.86 | 0.66 | 090
28320 |  | A | Repair of foot bones | 9.18 | 8.93 | NA | 1.27 | 090
28322 |  | A | Repair of metatarsals | 8.34 | 8.40 | 11.64 | 1.17 | 090
28340 |  | A | Resect enlarged toe tissue | 6.98 | 6.74 | 9.37 | 0.98 | 090
28341 |  | A | Resect enlarged toe | 8.41 | 7.05 | 9.46 | 1.18 | 090
28344 |  | A | Repair extra toe(s) | 4.26 | 5.70 | 8.37 | 0.60 | 090
28345 |  | A | Repair webbed toe(s) | 5.92 | 7.31 | 9.24 | 0.84 | 090
28360 |  | A | Reconstruct cleft foot | 13.34 | 13.35 | NA | 1.88 | 090
28400 |  | A | Treatment of heel fracture | 2.16 | 4.56 | 5.66 | 0.29 | 090
28405 |  | A | Treatment of heel fracture | 4.57 | 5.71 | 6.66 | 0.63 | 090
28406 |  | A | Treatment of heel fracture | 6.31 | 8.57 | NA | 0.87 | 090
28415 |  | A | Treat heel fracture | 15.97 | 15.27 | NA | 2.24 | 090
28420 |  | A | Treat/graft heel fracture | 16.64 | 15.62 | NA | 2.29 | 090
28430 |  | A | Treatment of ankle fracture | 2.09 | 4.06 | 5.16 | 0.27 | 090
28435 |  | A | Treatment of ankle fracture | 3.40 | 4.57 | 5.53 | 0.47 | 090
28436 |  | A | Treatment of ankle fracture | 4.71 | 7.60 | NA | 0.66 | 090
28445 |  | A | Treat ankle fracture | 15.62 | 13.65 | NA | 1.29 | 090
28450 |  | A | Treat midfoot fracture, each | 1.90 | 3.95 | 5.14 | 0.25 | 090
28455 |  | A | Treat midfoot fracture, each | 3.09 | 4.72 | 5.21 | 0.43 | 090
28456 |  | A | Treat midfoot fracture | 2.68 | 6.06 | NA | 0.36 | 090
28465 |  | A | Treat midfoot fracture, each | 7.01 | 8.12 | NA | 0.87 | 090
28470 |  | A | Treat metatarsal fracture | 1.99 | 3.28 | 4.42 | 0.26 | 090
28475 |  | A | Treat metatarsal fracture | 2.97 | 4.28 | 5.08 | 0.41 | 090
28476 |  | A | Treat metatarsal fracture | 3.38 | 6.53 | NA | 0.46 | 090
28485 |  | A | Treat metatarsal fracture | 5.71 | 7.87 | NA | 0.80 | 090
28490 |  | A | Treat big toe fracture | 1.09 | 2.12 | 2.69 | 0.13 | 090
28495 |  | A | Treat big toe fracture | 1.58 | 2.20 | 2.85 | 0.19 | 090
28496 |  | A | Treat big toe fracture | 2.33 | 4.94 | 10.18 | 0.32 | 090
28505 |  | A | Treat big toe fracture | 3.81 | 6.67 | 11.30 | 0.50 | 090
28510 |  | A | Treatment of toe fracture | 1.09 | 2.13 | 2.44 | 0.13 | 090
28515 |  | A | Treatment of toe fracture | 1.46 | 2.19 | 2.72 | 0.17 | 090
28525 |  | A | Treat toe fracture | 3.32 | 6.32 | 10.85 | 0.44 | 090
28530 |  | A | Treat sesamoid bone fracture | 1.06 | 2.74 | 2.96 | 0.13 | 090
28531 |  | A | Treat sesamoid bone fracture | 2.35 | 4.29 | 15.26 | 0.33 | 090
28540 |  | A | Treat foot dislocation | 2.04 | 3.70 | 3.70 | 0.24 | 090
28545 |  | A | Treat foot dislocation | 2.45 | 4.05 | 4.05 | 0.33 | 090
28546 |  | A | Treat foot dislocation | 3.20 | 5.81 | 8.92 | 0.46 | 090
28555 |  | A | Repair foot dislocation | 6.30 | 8.57 | 11.82 | 0.88 | 090
28570 |  | A | Treat foot dislocation | 1.66 | 3.71 | 3.98 | 0.22 | 090
28575 |  | A | Treat foot dislocation | 3.31 | 5.27 | 5.60 | 0.45 | 090
28576 |  | A | Treat foot dislocation | 4.17 | 6.43 | 12.02 | 0.56 | 090
28585 |  | A | Repair foot dislocation | 7.99 | 8.40 | 9.66 | 1.13 | 090
28600 |  | A | Treat foot dislocation | 1.89 | 3.84 | 4.31 | 0.24 | 090
28605 |  | A | Treat foot dislocation | 2.71 | 4.79 | 5.05 | 0.35 | 090
28606 |  | A | Treat foot dislocation | 4.90 | 6.95 | 15.78 | 0.68 | 090
28615 |  | A | Repair foot dislocation | 7.77 | 9.38 | NA | 1.09 | 090
28630 |  | A | Treat toe dislocation | 1.70 | 2.35 | 2.35 | 0.17 | 010
28635 |  | A | Treat toe dislocation | 1.91 | 2.54 | 2.54 | 0.24 | 010
28636 |  | A | Treat toe dislocation | 2.77 | 3.11 | 6.26 | 0.39 | 010
28645 |  | A | Repair toe dislocation | 4.22 | 4.32 | 6.66 | 0.58 | 090
28660 |  | A | Treat toe dislocation | 1.23 | 2.43 | 3.08 | 0.11 | 010
28665 |  | A | Treat toe dislocation | 1.92 | 2.59 | 2.59 | 0.24 | 010
28666 |  | A | Treat toe dislocation | 2.66 | 2.85 | 8.07 | 0.38 | 010
28675 |  | A | Repair of toe dislocation | 2.92 | 4.87 | 9.35 | 0.41 | 090
28705 |  | A | Fusion of foot bones | 18.80 | 15.04 | NA | 2.13 | 090
28715 |  | A | Fusion of foot bones | 13.10 | 12.48 | NA | 1.84 | 090
28725 |  | A | Fusion of foot bones | 11.61 | 11.34 | NA | 1.63 | 090
28730 |  | A | Fusion of foot bones | 10.76 | 10.79 | NA | 1.51 | 090
28735 |  | A | Fusion of foot bones | 10.85 | 10.53 | NA | 1.51 | 090
28737 |  | A | Revision of foot bones | 9.64 | 9.44 | NA | 1.36 | 090
28740 |  | A | Fusion of foot bones | 8.02 | 8.98 | 13.37 | 1.13 | 090
28750 |  | A | Fusion of big toe joint | 7.30 | 9.06 | 14.47 | 1.03 | 090
28755 |  | A | Fusion of big toe joint | 4.74 | 6.50 | 9.08 | 0.66 | 090
28760 |  | A | Fusion of big toe joint | 7.75 | 7.72 | 10.11 | 1.07 | 090
28800 |  | A | Amputation of midfoot | 8.21 | 8.97 | NA | 0.98 | 090
28805 |  | A | Amputation thru metatarsal | 8.39 | 8.82 | NA | 0.97 | 090
28810 |  | A | Amputation toe & metatarsal | 6.21 | 7.77 | NA | 0.70 | 090
28820 |  | A | Amputation of toe | 4.41 | 7.02 | 10.96 | 0.51 | 090
28825 |  | A | Partial amputation of toe | 3.59 | 6.88 | 10.36 | 0.43 | 090
28899 |  | C | Foot/toes surgery procedure | 0.00 | 0.00 | 0.00 | 0.00 | YYY
29000 |  | A | Application of body cast | 2.25 | 1.67 | 3.07 | 0.30 | 000
29010 |  | A | Application of body cast | 2.06 | 1.65 | 2.77 | 0.27 | 000
29015 |  | A | Application of body cast | 2.41 | 1.57 | 2.91 | 0.21 | 000
29020 |  | A | Application of body cast | 2.11 | 1.39 | 3.33 | 0.16 | 000
29025 |  | A | Application of body cast | 2.40 | 1.78 | 3.05 | 0.26 | 000
29035 |  | A | Application of body cast | 1.77 | 1.48 | 2.87 | 0.24 | 000
29040 |  | A | Application of body cast | 2.22 | 1.56 | 2.43 | 0.35 | 000
29044 |  | A | Application of body cast | 2.12 | 1.77 | 3.15 | 0.29 | 000
29046 |  | A | Application of body cast | 2.41 | 1.95 | 3.24 | 0.34 | 000
29049 |  | A | Application of figure eight | 0.89 | 0.55 | 1.04 | 0.12 | 000
29055 |  | A | Application of shoulder cast | 1.78 | 1.40 | 2.35 | 0.24 | 000
29058 |  | A | Application of shoulder cast | 1.31 | 0.74 | 1.28 | 0.14 | 000
29065 |  | A | Application of long arm cast | 0.87 | 0.68 | 1.08 | 0.12 | 000
29075 |  | A | Application of forearm cast | 0.77 | 0.62 | 1.02 | 0.11 | 000
29085 |  | A | Apply hand/wrist cast | 0.87 | 0.61 | 1.07 | 0.11 | 000
29086 |  | A | Apply finger cast | 0.62 | 0.43 | 0.77 | 0.07 | 000
29105 |  | A | Apply long arm splint | 0.87 | 0.51 | 1.02 | 0.11 | 000
29125 |  | A | Apply forearm splint | 0.59 | 0.40 | 0.86 | 0.06 | 000
29126 |  | A | Apply forearm splint | 0.77 | 0.47 | 1.10 | 0.06 | 000
29130 |  | A | Application of finger splint | 0.50 | 0.17 | 0.43 | 0.05 | 000
29131 |  | A | Application of finger splint | 0.55 | 0.25 | 0.70 | 0.03 | 000
29200 |  | A | Strapping of chest | 0.65 | 0.36 | 0.78 | 0.04 | 000
29220 |  | A | Strapping of low back | 0.64 | 0.39 | 0.72 | 0.07 | 000
29240 |  | A | Strapping of shoulder | 0.71 | 0.38 | 0.86 | 0.05 | 000
29260 |  | A | Strapping of elbow or wrist | 0.55 | 0.34 | 0.75 | 0.04 | 000
29280 |  | A | Strapping of hand or finger | 0.51 | 0.34 | 0.79 | 0.04 | 000
29305 |  | A | Application of hip cast | 2.03 | 1.59 | 2.71 | 0.29 | 000
29325 |  | A | Application of hip casts | 2.32 | 1.77 | 2.88 | 0.31 | 000
29345 |  | A | Application of long leg cast | 1.40 | 0.99 | 1.47 | 0.19 | 000
29355 |  | A | Application of long leg cast | 1.53 | 1.05 | 1.46 | 0.20 | 000
29358 |  | A | Apply long leg cast brace | 1.43 | 1.02 | 1.69 | 0.19 | 000
29365 |  | A | Application of long leg cast | 1.18 | 0.87 | 1.35 | 0.17 | 000
29405 |  | A | Apply short leg cast | 0.86 | 0.65 | 1.01 | 0.12 | 000
29425 |  | A | Apply short leg cast | 1.01 | 0.68 | 1.04 | 0.14 | 000
29435 |  | A | Apply short leg cast | 1.18 | 0.86 | 1.29 | 0.17 | 000
29440 |  | A | Addition of walker to cast | 0.57 | 0.27 | 0.59 | 0.07 | 000
29445 |  | A | Apply rigid leg cast | 1.78 | 0.94 | 1.57 | 0.24 | 000
29450 |  | A | Application of leg cast | 2.08 | 1.07 | 1.37 | 0.13 | 000
29505 |  | A | Application, long leg splint | 0.69 | 0.47 | 1.02 | 0.06 | 000
29515 |  | A | Application lower leg splint | 0.73 | 0.47 | 0.77 | 0.07 | 000
29520 |  | A | Strapping of hip | 0.54 | 0.43 | 0.88 | 0.02 | 000
29530 |  | A | Strapping of knee | 0.57 | 0.35 | 0.78 | 0.04 | 000
29540 |  | A | Strapping of ankle | 0.51 | 0.32 | 0.39 | 0.04 | 000
29550 |  | A | Strapping of toes | 0.47 | 0.27 | 0.40 | 0.05 | 000
29580 |  | A | Application of paste boot | 0.57 | 0.35 | 0.59 | 0.05 | 000
29590 |  | A | Application of foot splint | 0.76 | 0.30 | 0.48 | 0.06 | 000
29700 |  | A | Removal/revision of cast | 0.57 | 0.28 | 0.77 | 0.07 | 000
29705 |  | A | Removal/revision of cast | 0.76 | 0.39 | 0.70 | 0.10 | 000
29710 |  | A | Removal/revision of cast | 1.34 | 0.71 | 1.36 | 0.17 | 000
29715 |  | A | Removal/revision of cast | 0.94 | 0.41 | 1.04 | 0.08 | 000
29720 |  | A | Repair of body cast | 0.68 | 0.38 | 0.93 | 0.10 | 000
29730 |  | A | Windowing of cast | 0.75 | 0.35 | 0.69 | 0.10 | 000
29740 |  | A | Wedging of cast | 1.12 | 0.49 | 1.00 | 0.15 | 000
29750 |  | A | Wedging of clubfoot cast | 1.26 | 0.59 | 0.97 | 0.16 | 000
29799 |  | C | Casting/strapping procedure | 0.00 | 0.00 | 0.00 | 0.00 | YYY
29800 |  | A | Jaw arthroscopy/surgery | 6.43 | 8.88 | NA | 0.84 | 090
29804 |  | A | Jaw arthroscopy/surgery | 8.14 | 8.65 | NA | 0.66 | 090
29805 |  | A | Shoulder arthroscopy, dx | 5.89 | 3.22 | 3.22 | 0.83 | 090
29806 |  | A | Shoulder arthroscopy/surgery | 14.37 | 10.95 | NA | 2.01 | 090
29807 |  | A | Shoulder arthroscopy/surgery | 13.90 | 10.69 | NA | 2.01 | 090
29815 |  | D | Shoulder arthroscopy | 5.89 | 6.75 | NA | 0.83 | 090
29819 |  | A | Shoulder arthroscopy/surgery | 7.62 | 9.64 | NA | 1.07 | 090
29820 |  | A | Shoulder arthroscopy/surgery | 7.07 | 9.48 | NA | 0.99 | 090
29821 |  | A | Shoulder arthroscopy/surgery | 7.72 | 9.85 | NA | 1.08 | 090
29822 |  | A | Shoulder arthroscopy/surgery | 7.43 | 9.78 | NA | 1.04 | 090
29823 |  | A | Shoulder arthroscopy/surgery | 8.17 | 10.10 | NA | 1.15 | 090
29824 |  | A | Shoulder arthroscopy/surgery | 8.25 | 7.24 | NA | 1.16 | 090
29825 |  | A | Shoulder arthroscopy/surgery | 7.62 | 9.77 | NA | 1.06 | 090
29826 |  | A | Shoulder arthroscopy/surgery | 8.99 | 10.58 | NA | 1.26 | 090
29830 |  | A | Elbow arthroscopy | 5.76 | 6.00 | NA | 0.79 | 090
29834 |  | A | Elbow arthroscopy/surgery | 6.28 | 6.85 | NA | 0.86 | 090
29835 |  | A | Elbow arthroscopy/surgery | 6.48 | 6.87 | NA | 0.88 | 090
29836 |  | A | Elbow arthroscopy/surgery | 7.55 | 7.54 | NA | 1.06 | 090
29837 |  | A | Elbow arthroscopy/surgery | 6.87 | 7.13 | NA | 0.96 | 090
29838 |  | A | Elbow arthroscopy/surgery | 7.71 | 7.58 | NA | 1.07 | 090
29840 |  | A | Wrist arthroscopy | 5.54 | 8.38 | NA | 0.69 | 090
29843 |  | A | Wrist arthroscopy/surgery | 6.01 | 8.56 | NA | 0.82 | 090
29844 |  | A | Wrist arthroscopy/surgery | 6.37 | 8.75 | NA | 0.86 | 090
29845 |  | A | Wrist arthroscopy/surgery | 7.52 | 9.25 | NA | 0.84 | 090
29846 |  | A | Wrist arthroscopy/surgery | 6.75 | 11.39 | NA | 0.89 | 090
29847 |  | A | Wrist arthroscopy/surgery | 7.08 | 11.66 | NA | 0.91 | 090
29848 |  | A | Wrist endoscopy/surgery | 5.44 | 8.27 | NA | 0.72 | 090
29850 |  | A | Knee arthroscopy/surgery | 8.19 | 7.27 | NA | 0.74 | 090
29851 |  | A | Knee arthroscopy/surgery | 13.10 | 11.68 | NA | 1.81 | 090
29855 |  | A | Tibial arthroscopy/surgery | 10.62 | 10.39 | NA | 1.50 | 090
29856 |  | A | Tibial arthroscopy/surgery | 14.14 | 12.37 | NA | 2.00 | 090
29860 |  | A | Hip arthroscopy, dx | 8.05 | 7.83 | NA | 1.14 | 090
29861 |  | A | Hip arthroscopy/surgery | 9.15 | 8.91 | NA | 1.29 | 090
29862 |  | A | Hip arthroscopy/surgery | 9.90 | 9.46 | NA | 1.39 | 090
29863 |  | A | Hip arthroscopy/surgery | 9.90 | 9.95 | NA | 1.40 | 090
29870 |  | A | Knee arthroscopy, dx | 5.07 | 6.13 | NA | 0.67 | 090
29871 |  | A | Knee arthroscopy/drainage | 6.55 | 8.11 | NA | 0.88 | 090
29874 |  | A | Knee arthroscopy/surgery | 7.05 | 7.86 | NA | 0.87 | 090
29875 |  | A | Knee arthroscopy/surgery | 6.31 | 7.51 | NA | 0.88 | 090
29876 |  | A | Knee arthroscopy/surgery | 7.92 | 8.95 | NA | 1.11 | 090
29877 |  | A | Knee arthroscopy/surgery | 7.35 | 8.09 | NA | 1.03 | 090
29879 |  | A | Knee arthroscopy/surgery | 8.04 | 8.46 | NA | 1.13 | 090
29880 |  | A | Knee arthroscopy/surgery | 8.50 | 8.73 | NA | 1.19 | 090
29881 |  | A | Knee arthroscopy/surgery | 7.76 | 8.31 | NA | 1.09 | 090
29882 |  | A | Knee arthroscopy/surgery | 8.65 | 8.63 | NA | 1.09 | 090
29883 |  | A | Knee arthroscopy/surgery | 11.05 | 10.12 | NA | 1.33 | 090
29884 |  | A | Knee arthroscopy/surgery | 7.33 | 8.72 | NA | 1.03 | 090
29885 |  | A | Knee arthroscopy/surgery | 9.09 | 9.69 | NA | 1.27 | 090
29886 |  | A | Knee arthroscopy/surgery | 7.54 | 8.75 | NA | 1.06 | 090
29887 |  | A | Knee arthroscopy/surgery | 9.04 | 9.64 | NA | 1.27 | 090
29888 |  | A | Knee arthroscopy/surgery | 13.90 | 12.28 | NA | 1.95 | 090
29889 |  | A | Knee arthroscopy/surgery | 16.00 | 13.45 | NA | 2.11 | 090
29891 |  | A | Ankle arthroscopy/surgery | 8.40 | 9.02 | NA | 1.17 | 090
29892 |  | A | Ankle arthroscopy/surgery | 9.00 | 9.27 | NA | 1.26 | 090
29893 |  | A | Scope, plantar fasciotomy | 5.22 | 5.64 | NA | 0.74 | 090
29894 |  | A | Ankle arthroscopy/surgery | 7.21 | 8.17 | NA | 1.01 | 090
29895 |  | A | Ankle arthroscopy/surgery | 6.99 | 8.15 | NA | 0.97 | 090
29897 |  | A | Ankle arthroscopy/surgery | 7.18 | 8.74 | NA | 1.01 | 090
29898 |  | A | Ankle arthroscopy/surgery | 8.32 | 8.66 | NA | 1.14 | 090
29900 |  | A | Mcp joint arthroscopy, dx | 5.42 | 5.70 | NA | 0.69 | 090
29901 |  | A | Mcp joint arthroscopy, surg | 6.13 | 6.09 | NA | 0.81 | 090
29902 |  | A | Mcp joint arthroscopy, surg | 6.70 | 6.40 | NA | 0.89 | 090
29909 |  | D | Arthroscopy of joint | 0.00 | 0.00 | 0.00 | 0.00 | YYY
29999 |  | C | Arthroscopy of joint | 0.00 | 0.00 | 0.00 | 0.00 | YYY
30000 |  | A | Drainage of nose lesion | 1.43 | 1.46 | 2.48 | 0.10 | 010
30020 |  | A | Drainage of nose lesion | 1.43 | 1.54 | 2.69 | 0.08 | 010
30100 |  | A | Intranasal biopsy | 0.94 | 0.52 | 1.30 | 0.06 | 000
30110 |  | A | Removal of nose polyp(s) | 1.63 | 0.87 | 2.73 | 0.12 | 010
30115 |  | A | Removal of nose polyp(s) | 4.35 | 4.43 | NA | 0.31 | 090
30117 |  | A | Removal of intranasal lesion | 3.16 | 3.12 | 4.82 | 0.22 | 090
30118 |  | A | Removal of intranasal lesion | 9.69 | 8.10 | NA | 0.66 | 090
30120 |  | A | Revision of nose | 5.27 | 5.81 | 5.81 | 0.41 | 090
30124 |  | A | Removal of nose lesion | 3.10 | 3.26 | NA | 0.20 | 090
30125 |  | A | Removal of nose lesion | 7.16 | 6.43 | NA | 0.54 | 090
30130 |  | A | Removal of turbinate bones | 3.38 | 3.90 | NA | 0.22 | 090
30140 |  | A | Removal of turbinate bones | 3.43 | 4.50 | NA | 0.24 | 090
30150 |  | A | Partial removal of nose | 9.14 | 8.59 | NA | 0.76 | 090
30160 |  | A | Removal of nose | 9.58 | 8.48 | NA | 0.78 | 090
30200 |  | A | Injection treatment of nose | 0.78 | 0.44 | 1.20 | 0.06 | 000
30210 |  | A | Nasal sinus therapy | 1.08 | 0.59 | 2.10 | 0.08 | 010
30220 |  | A | Insert nasal septal button | 1.54 | 0.84 | 2.46 | 0.11 | 010
30300 |  | A | Remove nasal foreign body | 1.04 | 0.38 | 2.57 | 0.07 | 010
30310 |  | A | Remove nasal foreign body | 1.96 | 1.86 | NA | 0.14 | 010
30320 |  | A | Remove nasal foreign body | 4.52 | 5.20 | NA | 0.36 | 090
30400 |  | R | Reconstruction of nose | 9.83 | 8.82 | NA | 0.80 | 090
30410 |  | R | Reconstruction of nose | 12.98 | 10.53 | NA | 1.08 | 090
30420 |  | R | Reconstruction of nose | 15.88 | 12.19 | NA | 1.24 | 090
30430 |  | R | Revision of nose | 7.21 | 7.19 | NA | 0.62 | 090
30435 |  | R | Revision of nose | 11.71 | 10.32 | NA | 1.10 | 090
30450 |  | R | Revision of nose | 18.65 | 13.96 | NA | 1.53 | 090
30460 |  | A | Revision of nose | 9.96 | 9.25 | NA | 0.85 | 090
30462 |  | A | Revision of nose | 19.57 | 14.42 | NA | 1.92 | 090
30465 |  | A | Repair nasal stenosis | 11.64 | 9.33 | NA | 0.97 | 090
30520 |  | A | Repair of nasal septum | 5.70 | 5.78 | NA | 0.41 | 090
30540 |  | A | Repair nasal defect | 7.75 | 6.43 | NA | 0.53 | 090
30545 |  | A | Repair nasal defect | 11.38 | 9.36 | NA | 0.80 | 090
30560 |  | A | Release of nasal adhesions | 1.26 | 1.48 | 2.29 | 0.09 | 010
30580 |  | A | Repair upper jaw fistula | 6.69 | 4.87 | 4.87 | 0.50 | 090
30600 |  | A | Repair mouth/nose fistula | 6.02 | 4.82 | 4.82 | 0.70 | 090
30620 |  | A | Intranasal reconstruction | 5.97 | 6.49 | NA | 0.45 | 090
30630 |  | A | Repair nasal septum defect | 7.12 | 7.02 | NA | 0.51 | 090
30801 |  | A | Cauterization, inner nose | 1.09 | 2.27 | 2.51 | 0.08 | 010
30802 |  | A | Cauterization, inner nose | 2.03 | 2.79 | 3.06 | 0.15 | 010
30901 |  | A | Control of nosebleed | 1.21 | 0.33 | 1.39 | 0.09 | 000
30903 |  | A | Control of nosebleed | 1.54 | 0.51 | 3.14 | 0.12 | 000
30905 |  | A | Control of nosebleed | 1.97 | 0.78 | 3.77 | 0.15 | 000
30906 |  | A | Repeat control of nosebleed | 2.45 | 1.24 | 4.17 | 0.17 | 000
30915 |  | A | Ligation, nasal sinus artery | 7.20 | 6.93 | NA | 0.50 | 090
30920 |  | A | Ligation, upper jaw artery | 9.83 | 8.40 | NA | 0.69 | 090
30930 |  | A | Therapy, fracture of nose | 1.26 | 2.12 | NA | 0.09 | 010
30999 |  | C | Nasal surgery procedure | 0.00 | 0.00 | 0.00 | 0.00 | YYY
31000 |  | A | Irrigation, maxillary sinus | 1.15 | 0.64 | 2.38 | 0.08 | 010
31002 |  | A | Irrigation, sphenoid sinus | 1.91 | 2.06 | NA | 0.14 | 010
31020 |  | A | Exploration, maxillary sinus | 2.94 | 3.60 | 4.22 | 0.20 | 090
31030 |  | A | Exploration, maxillary sinus | 5.92 | 4.57 | 4.69 | 0.42 | 090
31032 |  | A | Explore sinus,remove polyps | 6.57 | 5.99 | NA | 0.47 | 090
31040 |  | A | Exploration behind upper jaw | 9.42 | 6.94 | NA | 0.71 | 090
31050 |  | A | Exploration, sphenoid sinus | 5.28 | 4.98 | NA | 0.39 | 090
31051 |  | A | Sphenoid sinus surgery | 7.11 | 6.42 | NA | 0.55 | 090
31070 |  | A | Exploration of frontal sinus | 4.28 | 4.93 | NA | 0.30 | 090
31075 |  | A | Exploration of frontal sinus | 9.16 | 8.09 | NA | 0.64 | 090
31080 |  | A | Removal of frontal sinus | 11.42 | 8.90 | NA | 0.78 | 090
31081 |  | A | Removal of frontal sinus | 12.75 | 9.57 | NA | 1.84 | 090
31084 |  | A | Removal of frontal sinus | 13.51 | 10.43 | NA | 0.96 | 090
31085 |  | A | Removal of frontal sinus | 14.20 | 10.63 | NA | 1.18 | 090
31086 |  | A | Removal of frontal sinus | 12.86 | 10.30 | NA | 0.90 | 090
31087 |  | A | Removal of frontal sinus | 13.10 | 10.30 | NA | 1.15 | 090
31090 |  | A | Exploration of sinuses | 9.53 | 8.79 | NA | 0.66 | 090
31200 |  | A | Removal of ethmoid sinus | 4.97 | 5.75 | NA | 0.25 | 090
31201 |  | A | Removal of ethmoid sinus | 8.37 | 7.67 | NA | 0.58 | 090
31205 |  | A | Removal of ethmoid sinus | 10.24 | 8.43 | NA | 0.58 | 090
31225 |  | A | Removal of upper jaw | 19.23 | 14.91 | NA | 1.38 | 090
31230 |  | A | Removal of upper jaw | 21.94 | 16.55 | NA | 1.57 | 090
31231 |  | A | Nasal endoscopy, dx | 1.10 | 0.59 | 1.97 | 0.08 | 000
31233 |  | A | Nasal/sinus endoscopy, dx | 2.18 | 1.20 | 2.60 | 0.16 | 000
31235 |  | A | Nasal/sinus endoscopy, dx | 2.64 | 1.45 | 2.86 | 0.18 | 000
31237 |  | A | Nasal/sinus endoscopy, surg | 2.98 | 1.62 | 3.15 | 0.21 | 000
31238 |  | A | Nasal/sinus endoscopy, surg | 3.26 | 1.83 | 3.66 | 0.23 | 000
31239 |  | A | Nasal/sinus endoscopy, surg | 8.70 | 6.58 | NA | 0.46 | 010
31240 |  | A | Nasal/sinus endoscopy, surg | 2.61 | 1.56 | NA | 0.18 | 000
31254 |  | A | Revision of ethmoid sinus | 4.65 | 2.72 | NA | 0.32 | 000
31255 |  | A | Removal of ethmoid sinus | 6.96 | 4.01 | NA | 0.49 | 000
31256 |  | A | Exploration maxillary sinus | 3.29 | 1.95 | NA | 0.23 | 000
31267 |  | A | Endoscopy, maxillary sinus | 5.46 | 3.17 | NA | 0.38 | 000
31276 |  | A | Sinus endoscopy, surgical | 8.85 | 5.06 | NA | 0.62 | 000
31287 |  | A | Nasal/sinus endoscopy, surg | 3.92 | 2.30 | NA | 0.27 | 000
31288 |  | A | Nasal/sinus endoscopy, surg | 4.58 | 2.68 | NA | 0.32 | 000
31290 |  | A | Nasal/sinus endoscopy, surg | 17.24 | 11.55 | NA | 1.20 | 010
31291 |  | A | Nasal/sinus endoscopy, surg | 18.19 | 11.87 | NA | 1.73 | 010
31292 |  | A | Nasal/sinus endoscopy, surg | 14.76 | 10.04 | NA | 0.99 | 010
31293 |  | A | Nasal/sinus endoscopy, surg | 16.21 | 10.77 | NA | 0.97 | 010
31294 |  | A | Nasal/sinus endoscopy, surg | 19.06 | 12.26 | NA | 1.04 | 010
31299 |  | C | Sinus surgery procedure | 0.00 | 0.00 | 0.00 | 0.00 | YYY
31300 |  | A | Removal of larynx lesion | 14.29 | 17.11 | NA | 0.99 | 090
31320 |  | A | Diagnostic incision, larynx | 5.26 | 12.72 | NA | 0.40 | 090
31360 |  | A | Removal of larynx | 17.08 | 18.87 | NA | 1.20 | 090
31365 |  | A | Removal of larynx | 24.16 | 22.60 | NA | 1.72 | 090
31367 |  | A | Partial removal of larynx | 21.86 | 23.52 | NA | 1.57 | 090
31368 |  | A | Partial removal of larynx | 27.09 | 28.09 | NA | 1.90 | 090
31370 |  | A | Partial removal of larynx | 21.38 | 23.01 | NA | 1.51 | 090
31375 |  | A | Partial removal of larynx | 20.21 | 20.67 | NA | 1.43 | 090
31380 |  | A | Partial removal of larynx | 20.21 | 20.83 | NA | 1.40 | 090
31382 |  | A | Partial removal of larynx | 20.52 | 22.68 | NA | 1.44 | 090
31390 |  | A | Removal of larynx & pharynx | 27.53 | 28.31 | NA | 1.95 | 090
31395 |  | A | Reconstruct larynx & pharynx | 31.09 | 33.94 | NA | 2.27 | 090
31400 |  | A | Revision of larynx | 10.31 | 15.45 | NA | 0.72 | 090
31420 |  | A | Removal of epiglottis | 10.22 | 15.10 | NA | 0.71 | 090
31500 |  | A | Insert emergency airway | 2.33 | 0.66 | NA | 0.15 | 000
31502 |  | A | Change of windpipe airway | 0.65 | 0.26 | 1.92 | 0.04 | 000
31505 |  | A | Diagnostic laryngoscopy | 0.61 | 0.34 | 1.80 | 0.04 | 000
31510 |  | A | Laryngoscopy with biopsy | 1.92 | 0.98 | 2.77 | 0.15 | 000
31511 |  | A | Remove foreign body, larynx | 2.16 | 0.75 | 3.06 | 0.16 | 000
31512 |  | A | Removal of larynx lesion | 2.07 | 1.08 | 2.97 | 0.16 | 000
31513 |  | A | Injection into vocal cord | 2.10 | 1.28 | NA | 0.15 | 000
31515 |  | A | Laryngoscopy for aspiration | 1.80 | 0.85 | 2.39 | 0.12 | 000
31520 |  | A | Diagnostic laryngoscopy | 2.56 | 1.39 | NA | 0.17 | 000
31525 |  | A | Diagnostic laryngoscopy | 2.63 | 1.48 | 2.87 | 0.18 | 000
31526 |  | A | Diagnostic laryngoscopy | 2.57 | 1.54 | NA | 0.18 | 000
31527 |  | A | Laryngoscopy for treatment | 3.27 | 1.72 | NA | 0.21 | 000
31528 |  | A | Laryngoscopy and dilation | 2.37 | 1.27 | NA | 0.16 | 000
31529 |  | A | Laryngoscopy and dilation | 2.68 | 1.55 | NA | 0.18 | 000
31530 |  | A | Operative laryngoscopy | 3.39 | 1.76 | NA | 0.24 | 000
31531 |  | A | Operative laryngoscopy | 3.59 | 2.12 | NA | 0.25 | 000
31535 |  | A | Operative laryngoscopy | 3.16 | 1.82 | NA | 0.22 | 000
31536 |  | A | Operative laryngoscopy | 3.56 | 2.10 | NA | 0.25 | 000
31540 |  | A | Operative laryngoscopy | 4.13 | 2.40 | NA | 0.29 | 000
31541 |  | A | Operative laryngoscopy | 4.53 | 2.64 | NA | 0.32 | 000
31560 |  | A | Operative laryngoscopy | 5.46 | 3.06 | NA | 0.38 | 000
31561 |  | A | Operative laryngoscopy | 6.00 | 3.28 | NA | 0.42 | 000
31570 |  | A | Laryngoscopy with injection | 3.87 | 2.23 | 4.13 | 0.24 | 000
31571 |  | A | Laryngoscopy with injection | 4.27 | 2.45 | NA | 0.30 | 000
31575 |  | A | Diagnostic laryngoscopy | 1.10 | 0.57 | 2.04 | 0.08 | 000
31576 |  | A | Laryngoscopy with biopsy | 1.97 | 1.01 | 2.37 | 0.13 | 000
31577 |  | A | Remove foreign body, larynx | 2.47 | 1.26 | 2.83 | 0.17 | 000
31578 |  | A | Removal of larynx lesion | 2.84 | 1.25 | 3.09 | 0.20 | 000
31579 |  | A | Diagnostic laryngoscopy | 2.26 | 1.21 | 2.90 | 0.16 | 000
31580 |  | A | Revision of larynx | 12.38 | 16.15 | NA | 0.87 | 090
31582 |  | A | Revision of larynx | 21.62 | 21.48 | NA | 1.52 | 090
31584 |  | A | Treat larynx fracture | 19.64 | 18.54 | NA | 1.42 | 090
31585 |  | A | Treat larynx fracture | 4.64 | 8.81 | NA | 0.30 | 090
31586 |  | A | Treat larynx fracture | 8.03 | 12.58 | NA | 0.56 | 090
31587 |  | A | Revision of larynx | 11.99 | 14.03 | NA | 0.88 | 090
31588 |  | A | Revision of larynx | 13.11 | 16.92 | NA | 0.92 | 090
31590 |  | A | Reinnervate larynx | 6.97 | 12.31 | NA | 0.50 | 090
31595 |  | A | Larynx nerve surgery | 8.34 | 11.19 | NA | 0.62 | 090
31599 |  | C | Larynx surgery procedure | 0.00 | 0.00 | 0.00 | 0.00 | YYY
31600 |  | A | Incision of windpipe | 7.18 | 3.05 | NA | 0.34 | 000
31601 |  | A | Incision of windpipe | 4.45 | 2.17 | NA | 0.39 | 000
31603 |  | A | Incision of windpipe | 4.15 | 1.76 | NA | 0.35 | 000
31605 |  | A | Incision of windpipe | 3.58 | 1.22 | NA | 0.33 | 000
31610 |  | A | Incision of windpipe | 8.76 | 10.69 | NA | 0.69 | 090
31611 |  | A | Surgery/speech prosthesis | 5.64 | 10.08 | NA | 0.40 | 090
31612 |  | A | Puncture/clear windpipe | 0.91 | 0.42 | 1.49 | 0.06 | 000
31613 |  | A | Repair windpipe opening | 4.59 | 8.74 | NA | 0.37 | 090
31614 |  | A | Repair windpipe opening | 7.12 | 12.11 | NA | 0.51 | 090
31615 |  | A | Visualization of windpipe | 2.09 | 1.17 | 3.67 | 0.14 | 000
31622 |  | A | Dx bronchoscope/wash | 2.78 | 1.16 | 3.37 | 0.14 | 000
31623 |  | A | Dx bronchoscope/brush | 2.88 | 1.16 | 3.21 | 0.14 | 000
31624 |  | A | Dx bronchoscope/lavage | 2.88 | 1.17 | 2.90 | 0.13 | 000
31625 |  | A | Bronchoscopy with biopsy | 3.37 | 1.30 | 2.91 | 0.16 | 000
31628 |  | A | Bronchoscopy with biopsy | 3.81 | 1.41 | 3.33 | 0.14 | 000
31629 |  | A | Bronchoscopy with biopsy | 3.37 | 1.28 | NA | 0.13 | 000
31630 |  | A | Bronchoscopy with repair | 3.82 | 1.95 | NA | 0.30 | 000
31631 |  | A | Bronchoscopy with dilation | 4.37 | 2.00 | NA | 0.31 | 000
31635 |  | A | Remove foreign body, airway | 3.68 | 1.67 | NA | 0.21 | 000
31640 |  | A | Bronchoscopy & remove lesion | 4.94 | 2.33 | NA | 0.37 | 000
31641 |  | A | Bronchoscopy, treat blockage | 5.03 | 2.12 | NA | 0.30 | 000
31643 |  | A | Diag bronchoscope/catheter | 3.50 | 1.22 | 1.22 | 0.15 | 000
31645 |  | A | Bronchoscopy, clear airways | 3.16 | 1.22 | NA | 0.13 | 000
31646 |  | A | Bronchoscopy, reclear airway | 2.72 | 1.09 | NA | 0.12 | 000
31656 |  | A | Bronchoscopy, inj for xray | 2.17 | 0.93 | NA | 0.10 | 000
31700 |  | A | Insertion of airway catheter | 1.34 | 0.68 | 2.38 | 0.07 | 000
31708 |  | A | Instill airway contrast dye | 1.41 | 0.61 | NA | 0.06 | 000
31710 |  | A | Insertion of airway catheter | 1.30 | 0.72 | NA | 0.06 | 000
31715 |  | A | Injection for bronchus x-ray | 1.11 | 0.61 | NA | 0.06 | 000
31717 |  | A | Bronchial brush biopsy | 2.12 | 0.88 | 3.33 | 0.09 | 000
31720 |  | A | Clearance of airways | 1.06 | 0.33 | 1.86 | 0.06 | 000
31725 |  | A | Clearance of airways | 1.96 | 0.61 | NA | 0.10 | 000
31730 |  | A | Intro, windpipe wire/tube | 2.85 | 1.10 | 2.42 | 0.15 | 000
31750 |  | A | Repair of windpipe | 13.02 | 15.78 | NA | 1.02 | 090
31755 |  | A | Repair of windpipe | 15.93 | 18.93 | NA | 1.15 | 090
31760 |  | A | Repair of windpipe | 22.35 | 12.23 | NA | 1.48 | 090
31766 |  | A | Reconstruction of windpipe | 30.43 | 16.01 | NA | 3.16 | 090
31770 |  | A | Repair/graft of bronchus | 22.51 | 14.02 | NA | 2.27 | 090
31775 |  | A | Reconstruct bronchus | 23.54 | 14.88 | NA | 2.91 | 090
31780 |  | A | Reconstruct windpipe | 17.72 | 12.63 | NA | 1.55 | 090
31781 |  | A | Reconstruct windpipe | 23.53 | 14.35 | NA | 2.04 | 090
31785 |  | A | Remove windpipe lesion | 17.23 | 12.58 | NA | 1.36 | 090
31786 |  | A | Remove windpipe lesion | 23.98 | 15.43 | NA | 2.20 | 090
31800 |  | A | Repair of windpipe injury | 7.43 | 6.66 | NA | 0.67 | 090
31805 |  | A | Repair of windpipe injury | 13.13 | 10.42 | NA | 1.45 | 090
31820 |  | A | Closure of windpipe lesion | 4.49 | 7.87 | 8.00 | 0.35 | 090
31825 |  | A | Repair of windpipe defect | 6.81 | 11.11 | 11.11 | 0.50 | 090
31830 |  | A | Revise windpipe scar | 4.50 | 7.91 | 7.91 | 0.36 | 090
31899 |  | C | Airways surgical procedure | 0.00 | 0.00 | 0.00 | 0.00 | YYY
32000 |  | A | Drainage of chest | 1.54 | 0.50 | 3.07 | 0.07 | 000
32002 |  | A | Treatment of collapsed lung | 2.19 | 0.85 | NA | 0.11 | 000
32005 |  | A | Treat lung lining chemically | 2.19 | 0.86 | NA | 0.17 | 000
32020 |  | A | Insertion of chest tube | 3.98 | 1.44 | NA | 0.36 | 000
32035 |  | A | Exploration of chest | 8.67 | 7.73 | NA | 1.02 | 090
32036 |  | A | Exploration of chest | 9.68 | 8.39 | NA | 1.20 | 090
32095 |  | A | Biopsy through chest wall | 8.36 | 7.87 | NA | 0.99 | 090
32100 |  | A | Exploration/biopsy of chest | 15.24 | 10.15 | NA | 1.45 | 090
32110 |  | A | Explore/repair chest | 23.00 | 12.62 | NA | 1.63 | 090
32120 |  | A | Re-exploration of chest | 11.54 | 9.17 | NA | 1.42 | 090
32124 |  | A | Explore chest free adhesions | 12.72 | 9.11 | NA | 1.51 | 090
32140 |  | A | Removal of lung lesion(s) | 13.93 | 9.71 | NA | 1.68 | 090
32141 |  | A | Remove/treat lung lesions | 14.00 | 9.61 | NA | 1.72 | 090
32150 |  | A | Removal of lung lesion(s) | 14.15 | 9.58 | NA | 1.60 | 090
32151 |  | A | Remove lung foreign body | 14.21 | 10.13 | NA | 1.49 | 090
32160 |  | A | Open chest heart massage | 9.30 | 6.18 | NA | 1.01 | 090
32200 |  | A | Drain, open, lung lesion | 15.29 | 9.98 | NA | 1.46 | 090
32201 |  | A | Drain, percut, lung lesion | 4.00 | 5.67 | NA | 0.18 | 000
32215 |  | A | Treat chest lining | 11.33 | 9.13 | NA | 1.34 | 090
32220 |  | A | Release of lung | 24.00 | 13.15 | NA | 2.39 | 090
32225 |  | A | Partial release of lung | 13.96 | 9.87 | NA | 1.70 | 090
32310 |  | A | Removal of chest lining | 13.44 | 9.52 | NA | 1.65 | 090
32320 |  | A | Free/remove chest lining | 24.00 | 12.93 | NA | 2.50 | 090
32400 |  | A | Needle biopsy chest lining | 1.76 | 0.57 | 1.87 | 0.07 | 000
32402 |  | A | Open biopsy chest lining | 7.56 | 7.68 | NA | 0.91 | 090
32405 |  | A | Biopsy, lung or mediastinum | 1.93 | 0.65 | 2.46 | 0.09 | 000
32420 |  | A | Puncture/clear lung | 2.18 | 0.85 | NA | 0.11 | 000
32440 |  | A | Removal of lung | 25.00 | 13.40 | NA | 2.56 | 090
32442 |  | A | Sleeve pneumonectomy | 26.24 | 14.15 | NA | 3.12 | 090
32445 |  | A | Removal of lung | 25.09 | 13.38 | NA | 3.11 | 090
32480 |  | A | Partial removal of lung | 23.75 | 12.61 | NA | 2.24 | 090
32482 |  | A | Bilobectomy | 25.00 | 13.24 | NA | 2.35 | 090
32484 |  | A | Segmentectomy | 20.69 | 11.76 | NA | 2.54 | 090
32486 |  | A | Sleeve lobectomy | 23.92 | 13.13 | NA | 3.00 | 090
32488 |  | A | Completion pneumonectomy | 25.71 | 13.77 | NA | 3.18 | 090
32491 |  | R | Lung volume reduction | 21.25 | 12.46 | NA | 2.66 | 090
32500 |  | A | Partial removal of lung | 22.00 | 12.54 | NA | 1.77 | 090
32501 |  | A | Repair bronchus add-on | 4.69 | 1.55 | NA | 0.56 | ZZZ
32520 |  | A | Remove lung & revise chest | 21.68 | 12.41 | NA | 2.71 | 090
32522 |  | A | Remove lung & revise chest | 24.20 | 13.26 | NA | 2.84 | 090
32525 |  | A | Remove lung & revise chest | 26.50 | 13.90 | NA | 3.25 | 090
32540 |  | A | Removal of lung lesion | 14.64 | 10.01 | NA | 1.84 | 090
32601 |  | A | Thoracoscopy, diagnostic | 5.46 | 3.47 | NA | 0.63 | 000
32602 |  | A | Thoracoscopy, diagnostic | 5.96 | 3.62 | NA | 0.70 | 000
32603 |  | A | Thoracoscopy, diagnostic | 7.81 | 4.13 | NA | 0.76 | 000
32604 |  | A | Thoracoscopy, diagnostic | 8.78 | 4.63 | NA | 0.97 | 000
32605 |  | A | Thoracoscopy, diagnostic | 6.93 | 4.10 | NA | 0.86 | 000
32606 |  | A | Thoracoscopy, diagnostic | 8.40 | 4.44 | NA | 0.99 | 000
32650 |  | A | Thoracoscopy, surgical | 10.75 | 8.30 | NA | 1.25 | 090
32651 |  | A | Thoracoscopy, surgical | 12.91 | 8.69 | NA | 1.50 | 090
32652 |  | A | Thoracoscopy, surgical | 18.66 | 11.00 | NA | 2.30 | 090
32653 |  | A | Thoracoscopy, surgical | 12.87 | 8.91 | NA | 1.55 | 090
32654 |  | A | Thoracoscopy, surgical | 12.44 | 7.35 | NA | 1.51 | 090
32655 |  | A | Thoracoscopy, surgical | 13.10 | 8.71 | NA | 1.53 | 090
32656 |  | A | Thoracoscopy, surgical | 12.91 | 9.22 | NA | 1.61 | 090
32657 |  | A | Thoracoscopy, surgical | 13.65 | 9.20 | NA | 1.64 | 090
32658 |  | A | Thoracoscopy, surgical | 11.63 | 8.98 | NA | 1.47 | 090
32659 |  | A | Thoracoscopy, surgical | 11.59 | 8.80 | NA | 1.39 | 090
32660 |  | A | Thoracoscopy, surgical | 17.43 | 10.93 | NA | 2.09 | 090
32661 |  | A | Thoracoscopy, surgical | 13.25 | 9.44 | NA | 1.66 | 090
32662 |  | A | Thoracoscopy, surgical | 16.44 | 10.34 | NA | 2.01 | 090
32663 |  | A | Thoracoscopy, surgical | 18.47 | 10.92 | NA | 2.28 | 090
32664 |  | A | Thoracoscopy, surgical | 14.20 | 9.07 | NA | 1.70 | 090
32665 |  | A | Thoracoscopy, surgical | 15.54 | 9.09 | NA | 1.79 | 090
32800 |  | A | Repair lung hernia | 13.69 | 9.61 | NA | 1.51 | 090
32810 |  | A | Close chest after drainage | 13.05 | 9.68 | NA | 1.55 | 090
32815 |  | A | Close bronchial fistula | 23.15 | 13.20 | NA | 2.84 | 090
32820 |  | A | Reconstruct injured chest | 21.48 | 13.93 | NA | 2.31 | 090
32850 |  | X | Donor pneumonectomy | 0.00 | 0.00 | 0.00 | 0.00 | XXX
32851 |  | A | Lung transplant, single | 38.63 | 19.63 | NA | 4.90 | 090
32852 |  | A | Lung transplant with bypass | 41.80 | 21.03 | NA | 5.17 | 090
32853 |  | A | Lung transplant, double | 47.81 | 23.01 | NA | 6.13 | 090
32854 |  | A | Lung transplant with bypass | 50.98 | 23.77 | NA | 6.41 | 090
32900 |  | A | Removal of rib(s) | 20.27 | 11.97 | NA | 2.42 | 090
32905 |  | A | Revise & repair chest wall | 20.75 | 12.31 | NA | 2.54 | 090
32906 |  | A | Revise & repair chest wall | 26.77 | 14.33 | NA | 3.30 | 090
32940 |  | A | Revision of lung | 19.43 | 11.50 | NA | 2.47 | 090
32960 |  | A | Therapeutic pneumothorax | 1.84 | 0.57 | 2.03 | 0.12 | 000
32997 |  | A | Total lung lavage | 6.00 | 2.03 | NA | 0.55 | 000
32999 |  | C | Chest surgery procedure | 0.00 | 0.00 | 0.00 | 0.00 | YYY
33010 |  | A | Drainage of heart sac | 2.24 | 0.97 | NA | 0.13 | 000
33011 |  | A | Repeat drainage of heart sac | 2.24 | 1.01 | NA | 0.13 | 000
33015 |  | A | Incision of heart sac | 6.80 | 4.33 | NA | 0.64 | 090
33020 |  | A | Incision of heart sac | 12.61 | 7.84 | NA | 1.50 | 090
33025 |  | A | Incision of heart sac | 12.09 | 7.74 | NA | 1.50 | 090
33030 |  | A | Partial removal of heart sac | 18.71 | 11.91 | NA | 2.40 | 090
33031 |  | A | Partial removal of heart sac | 21.79 | 13.21 | NA | 2.78 | 090
33050 |  | A | Removal of heart sac lesion | 14.36 | 9.99 | NA | 1.73 | 090
33120 |  | A | Removal of heart lesion | 24.56 | 15.54 | NA | 3.06 | 090
33130 |  | A | Removal of heart lesion | 21.39 | 12.49 | NA | 2.51 | 090
33140 |  | A | Heart revascularize (tmr) | 20.00 | 10.40 | NA | 2.27 | 090
33141 |  | A | Heart tmr w/other procedure | 4.84 | 1.62 | NA | 0.55 | ZZZ
33200 |  | A | Insertion of heart pacemaker | 12.48 | 9.22 | NA | 1.17 | 090
33201 |  | A | Insertion of heart pacemaker | 10.18 | 9.14 | NA | 1.21 | 090
33206 |  | A | Insertion of heart pacemaker | 6.67 | 5.34 | NA | 0.50 | 090
33207 |  | A | Insertion of heart pacemaker | 8.04 | 5.87 | NA | 0.57 | 090
33208 |  | A | Insertion of heart pacemaker | 8.13 | 6.04 | NA | 0.54 | 090
33210 |  | A | Insertion of heart electrode | 3.30 | 1.29 | NA | 0.17 | 000
33211 |  | A | Insertion of heart electrode | 3.40 | 1.35 | NA | 0.17 | 000
33212 |  | A | Insertion of pulse generator | 5.52 | 4.34 | NA | 0.44 | 090
33213 |  | A | Insertion of pulse generator | 6.37 | 4.74 | NA | 0.46 | 090
33214 |  | A | Upgrade of pacemaker system | 7.75 | 5.83 | NA | 0.52 | 090
33216 |  | A | Revise eltrd pacing-defib | 5.39 | 4.85 | NA | 0.36 | 090
33217 |  | A | Revise eltrd pacing-defib | 5.75 | 5.17 | NA | 0.36 | 090
33218 |  | A | Revise eltrd pacing-defib | 5.44 | 4.41 | NA | 0.40 | 090
33220 |  | A | Revise eltrd pacing-defib | 5.52 | 4.45 | NA | 0.39 | 090
33222 |  | A | Revise pocket, pacemaker | 4.96 | 3.82 | NA | 0.39 | 090
33223 |  | A | Revise pocket, pacing-defib | 6.46 | 5.03 | NA | 0.44 | 090
33233 |  | A | Removal of pacemaker system | 3.29 | 3.76 | NA | 0.22 | 090
33234 |  | A | Removal of pacemaker system | 7.82 | 5.32 | NA | 0.56 | 090
33235 |  | A | Removal pacemaker electrode | 9.40 | 6.14 | NA | 0.68 | 090
33236 |  | A | Remove electrode/thoracotomy | 12.60 | 8.94 | NA | 1.49 | 090
33237 |  | A | Remove electrode/thoracotomy | 13.71 | 9.35 | NA | 1.57 | 090
33238 |  | A | Remove electrode/thoracotomy | 15.22 | 8.99 | NA | 1.56 | 090
33240 |  | A | Insert pulse generator | 7.60 | 5.42 | NA | 0.53 | 090
33241 |  | A | Remove pulse generator | 3.24 | 3.38 | NA | 0.21 | 090
33243 |  | A | Remove eltrd/thoracotomy | 22.64 | 10.65 | NA | 2.53 | 090
33244 |  | A | Remove eltrd, transven | 13.76 | 8.04 | NA | 1.05 | 090
33245 |  | A | Insert epic eltrd pace-defib | 14.30 | 10.61 | NA | 1.28 | 090
33246 |  | A | Insert epic eltrd/generator | 20.71 | 13.72 | NA | 2.22 | 090
33249 |  | A | Eltrd/insert pace-defib | 14.23 | 8.80 | NA | 0.80 | 090
33250 |  | A | Ablate heart dysrhythm focus | 21.85 | 13.66 | NA | 1.01 | 090
33251 |  | A | Ablate heart dysrhythm focus | 24.88 | 14.23 | NA | 2.41 | 090
33253 |  | A | Reconstruct atria | 31.06 | 16.40 | NA | 3.68 | 090
33261 |  | A | Ablate heart dysrhythm focus | 24.88 | 14.43 | NA | 2.82 | 090
33282 |  | A | Implant pat-active ht record | 4.17 | 4.44 | NA | 0.39 | 090
33284 |  | A | Remove pat-active ht record | 2.50 | 4.02 | NA | 0.23 | 090
33300 |  | A | Repair of heart wound | 17.92 | 11.66 | NA | 1.91 | 090
33305 |  | A | Repair of heart wound | 21.44 | 13.12 | NA | 2.68 | 090
33310 |  | A | Exploratory heart surgery | 18.51 | 11.93 | NA | 2.26 | 090
33315 |  | A | Exploratory heart surgery | 22.37 | 13.31 | NA | 2.90 | 090
33320 |  | A | Repair major blood vessel(s) | 16.79 | 11.00 | NA | 1.66 | 090
33321 |  | A | Repair major vessel | 20.20 | 12.34 | NA | 2.70 | 090
33322 |  | A | Repair major blood vessel(s) | 20.62 | 12.90 | NA | 2.51 | 090
33330 |  | A | Insert major vessel graft | 21.43 | 12.65 | NA | 2.49 | 090
33332 |  | A | Insert major vessel graft | 23.96 | 12.98 | NA | 2.45 | 090
33335 |  | A | Insert major vessel graft | 30.01 | 15.88 | NA | 3.79 | 090
33400 |  | A | Repair of aortic valve | 28.50 | 16.77 | NA | 3.09 | 090
33401 |  | A | Valvuloplasty, open | 23.91 | 15.10 | NA | 2.71 | 090
33403 |  | A | Valvuloplasty, w/cp bypass | 24.89 | 15.68 | NA | 2.48 | 090
33404 |  | A | Prepare heart-aorta conduit | 28.54 | 16.72 | NA | 3.31 | 090
33405 |  | A | Replacement of aortic valve | 35.00 | 17.61 | NA | 3.86 | 090
33406 |  | A | Replacement of aortic valve | 37.50 | 18.36 | NA | 4.07 | 090
33410 |  | A | Replacement of aortic valve | 32.46 | 16.82 | NA | 4.11 | 090
33411 |  | A | Replacement of aortic valve | 36.25 | 18.02 | NA | 4.16 | 090
33412 |  | A | Replacement of aortic valve | 42.00 | 21.33 | NA | 4.66 | 090
33413 |  | A | Replacement of aortic valve | 43.50 | 22.90 | NA | 4.26 | 090
33414 |  | A | Repair of aortic valve | 30.35 | 17.43 | NA | 3.79 | 090
33415 |  | A | Revision, subvalvular tissue | 27.15 | 15.67 | NA | 3.25 | 090
33416 |  | A | Revise ventricle muscle | 30.35 | 16.09 | NA | 3.85 | 090
33417 |  | A | Repair of aortic valve | 28.53 | 16.95 | NA | 3.58 | 090
33420 |  | A | Revision of mitral valve | 22.70 | 11.39 | NA | 1.48 | 090
33422 |  | A | Revision of mitral valve | 25.94 | 14.55 | NA | 3.30 | 090
33425 |  | A | Repair of mitral valve | 27.00 | 14.75 | NA | 3.00 | 090
33426 |  | A | Repair of mitral valve | 33.00 | 17.04 | NA | 3.87 | 090
33427 |  | A | Repair of mitral valve | 40.00 | 19.22 | NA | 4.30 | 090
33430 |  | A | Replacement of mitral valve | 33.50 | 17.14 | NA | 3.95 | 090
33460 |  | A | Revision of tricuspid valve | 23.60 | 13.82 | NA | 3.02 | 090
33463 |  | A | Valvuloplasty, tricuspid | 25.62 | 14.54 | NA | 3.17 | 090
33464 |  | A | Valvuloplasty, tricuspid | 27.33 | 15.17 | NA | 3.47 | 090
33465 |  | A | Replace tricuspid valve | 28.79 | 15.51 | NA | 3.61 | 090
33468 |  | A | Revision of tricuspid valve | 30.12 | 19.16 | NA | 4.00 | 090
33470 |  | A | Revision of pulmonary valve | 20.81 | 13.53 | NA | 2.81 | 090
33471 |  | A | Valvotomy, pulmonary valve | 22.25 | 13.79 | NA | 3.00 | 090
33472 |  | A | Revision of pulmonary valve | 22.25 | 13.74 | NA | 2.92 | 090
33474 |  | A | Revision of pulmonary valve | 23.04 | 13.16 | NA | 2.84 | 090
33475 |  | A | Replacement, pulmonary valve | 33.00 | 18.35 | NA | 2.64 | 090
33476 |  | A | Revision of heart chamber | 25.77 | 13.99 | NA | 2.40 | 090
33478 |  | A | Revision of heart chamber | 26.74 | 14.56 | NA | 3.56 | 090
33496 |  | A | Repair, prosth valve clot | 27.25 | 16.52 | NA | 3.44 | 090
33500 |  | A | Repair heart vessel fistula | 25.55 | 13.59 | NA | 2.80 | 090
33501 |  | A | Repair heart vessel fistula | 17.78 | 10.56 | NA | 2.05 | 090
33502 |  | A | Coronary artery correction | 21.04 | 16.23 | NA | 2.51 | 090
33503 |  | A | Coronary artery graft | 21.78 | 13.58 | NA | 1.42 | 090
33504 |  | A | Coronary artery graft | 24.66 | 16.54 | NA | 3.04 | 090
33505 |  | A | Repair artery w/tunnel | 26.84 | 17.93 | NA | 1.52 | 090
33506 |  | A | Repair artery, translocation | 35.50 | 19.53 | NA | 3.19 | 090
33510 |  | A | CABG, vein, single | 29.00 | 15.59 | NA | 3.13 | 090
33511 |  | A | CABG, vein, two | 30.00 | 15.92 | NA | 3.34 | 090
33512 |  | A | CABG, vein, three | 31.80 | 16.48 | NA | 3.70 | 090
33513 |  | A | CABG, vein, four | 32.00 | 16.63 | NA | 3.99 | 090
33514 |  | A | CABG, vein, five | 32.75 | 16.91 | NA | 4.37 | 090
33516 |  | A | Cabg, vein, six or more | 35.00 | 17.67 | NA | 4.62 | 090
33517 |  | A | CABG, artery-vein, single | 2.57 | 0.85 | NA | 0.32 | ZZZ
33518 |  | A | CABG, artery-vein, two | 4.85 | 1.61 | NA | 0.61 | ZZZ
33519 |  | A | CABG, artery-vein, three | 7.12 | 2.36 | NA | 0.89 | ZZZ
33521 |  | A | CABG, artery-vein, four | 9.40 | 3.12 | NA | 1.18 | ZZZ
33522 |  | A | CABG, artery-vein, five | 11.67 | 3.86 | NA | 1.48 | ZZZ
33523 |  | A | Cabg, art-vein, six or more | 13.95 | 4.59 | NA | 1.78 | ZZZ
33530 |  | A | Coronary artery, bypass/reop | 5.86 | 1.93 | NA | 0.73 | ZZZ
33533 |  | A | CABG, arterial, single | 30.00 | 17.12 | NA | 3.24 | 090
33534 |  | A | CABG, arterial, two | 32.20 | 17.36 | NA | 3.63 | 090
33535 |  | A | CABG, arterial, three | 34.50 | 17.88 | NA | 3.97 | 090
33536 |  | A | Cabg, arterial, four or more | 37.50 | 18.31 | NA | 3.29 | 090
33542 |  | A | Removal of heart lesion | 28.85 | 16.97 | NA | 3.61 | 090
33545 |  | A | Repair of heart damage | 36.78 | 19.54 | NA | 4.40 | 090
33572 |  | A | Open coronary endarterectomy | 4.45 | 1.47 | NA | 0.55 | ZZZ
33600 |  | A | Closure of valve | 29.51 | 16.47 | NA | 2.30 | 090
33602 |  | A | Closure of valve | 28.54 | 15.96 | NA | 2.90 | 090
33606 |  | A | Anastomosis/artery-aorta | 30.74 | 17.95 | NA | 3.59 | 090
33608 |  | A | Repair anomaly w/conduit | 31.09 | 17.05 | NA | 4.17 | 090
33610 |  | A | Repair by enlargement | 30.61 | 18.43 | NA | 4.02 | 090
33611 |  | A | Repair double ventricle | 34.00 | 18.53 | NA | 3.28 | 090
33612 |  | A | Repair double ventricle | 35.00 | 19.36 | NA | 4.44 | 090
33615 |  | A | Repair, modified fontan | 34.00 | 20.22 | NA | 3.15 | 090
33617 |  | A | Repair single ventricle | 37.00 | 21.31 | NA | 4.09 | 090
33619 |  | A | Repair single ventricle | 45.00 | 26.38 | NA | 4.71 | 090
33641 |  | A | Repair heart septum defect | 21.39 | 11.71 | NA | 2.67 | 090
33645 |  | A | Revision of heart veins | 24.82 | 13.89 | NA | 3.27 | 090
33647 |  | A | Repair heart septum defects | 28.73 | 17.04 | NA | 3.37 | 090
33660 |  | A | Repair of heart defects | 30.00 | 17.04 | NA | 2.82 | 090
33665 |  | A | Repair of heart defects | 28.60 | 16.92 | NA | 3.81 | 090
33670 |  | A | Repair of heart chambers | 35.00 | 16.29 | NA | 2.18 | 090
33681 |  | A | Repair heart septum defect | 30.61 | 17.52 | NA | 3.53 | 090
33684 |  | A | Repair heart septum defect | 29.65 | 16.58 | NA | 3.77 | 090
33688 |  | A | Repair heart septum defect | 30.62 | 14.18 | NA | 3.89 | 090
33690 |  | A | Reinforce pulmonary artery | 19.55 | 13.26 | NA | 2.56 | 090
33692 |  | A | Repair of heart defects | 30.75 | 16.77 | NA | 3.77 | 090
33694 |  | A | Repair of heart defects | 34.00 | 18.42 | NA | 4.27 | 090
33697 |  | A | Repair of heart defects | 36.00 | 18.65 | NA | 4.54 | 090
33702 |  | A | Repair of heart defects | 26.54 | 16.25 | NA | 3.45 | 090
33710 |  | A | Repair of heart defects | 29.71 | 17.07 | NA | 3.85 | 090
33720 |  | A | Repair of heart defect | 26.56 | 15.88 | NA | 3.21 | 090
33722 |  | A | Repair of heart defect | 28.41 | 17.22 | NA | 3.80 | 090
33730 |  | A | Repair heart-vein defect(s) | 34.25 | 17.63 | NA | 2.85 | 090
33732 |  | A | Repair heart-vein defect | 28.16 | 16.46 | NA | 2.78 | 090
33735 |  | A | Revision of heart chamber | 21.39 | 12.93 | NA | 1.12 | 090
33736 |  | A | Revision of heart chamber | 23.52 | 15.03 | NA | 2.70 | 090
33737 |  | A | Revision of heart chamber | 21.76 | 13.98 | NA | 2.93 | 090
33750 |  | A | Major vessel shunt | 21.41 | 12.99 | NA | 1.74 | 090
33755 |  | A | Major vessel shunt | 21.79 | 13.29 | NA | 2.93 | 090
33762 |  | A | Major vessel shunt | 21.79 | 12.96 | NA | 1.59 | 090
33764 |  | A | Major vessel shunt & graft | 21.79 | 12.76 | NA | 1.93 | 090
33766 |  | A | Major vessel shunt | 22.76 | 14.68 | NA | 3.04 | 090
33767 |  | A | Major vessel shunt | 24.50 | 14.71 | NA | 3.14 | 090
33770 |  | A | Repair great vessels defect | 37.00 | 18.64 | NA | 4.49 | 090
33771 |  | A | Repair great vessels defect | 34.65 | 17.61 | NA | 4.67 | 090
33774 |  | A | Repair great vessels defect | 30.98 | 16.19 | NA | 4.18 | 090
33775 |  | A | Repair great vessels defect | 32.20 | 16.66 | NA | 4.34 | 090
33776 |  | A | Repair great vessels defect | 34.04 | 17.37 | NA | 4.58 | 090
33777 |  | A | Repair great vessels defect | 33.46 | 17.15 | NA | 4.51 | 090
33778 |  | A | Repair great vessels defect | 40.00 | 19.94 | NA | 4.83 | 090
33779 |  | A | Repair great vessels defect | 36.21 | 18.42 | NA | 2.40 | 090
33780 |  | A | Repair great vessels defect | 41.75 | 22.00 | NA | 5.21 | 090
33781 |  | A | Repair great vessels defect | 36.45 | 18.30 | NA | 4.91 | 090
33786 |  | A | Repair arterial trunk | 39.00 | 19.29 | NA | 4.69 | 090
33788 |  | A | Revision of pulmonary artery | 26.62 | 15.05 | NA | 3.32 | 090
33800 |  | A | Aortic suspension | 16.24 | 12.12 | NA | 1.11 | 090
33802 |  | A | Repair vessel defect | 17.66 | 12.50 | NA | 1.56 | 090
33803 |  | A | Repair vessel defect | 19.60 | 12.94 | NA | 2.63 | 090
33813 |  | A | Repair septal defect | 20.65 | 14.23 | NA | 2.78 | 090
33814 |  | A | Repair septal defect | 25.77 | 15.91 | NA | 2.52 | 090
33820 |  | A | Revise major vessel | 16.29 | 11.02 | NA | 2.10 | 090
33822 |  | A | Revise major vessel | 17.32 | 10.91 | NA | 2.33 | 090
33824 |  | A | Revise major vessel | 19.52 | 12.28 | NA | 2.61 | 090
33840 |  | A | Remove aorta constriction | 20.63 | 13.62 | NA | 2.36 | 090
33845 |  | A | Remove aorta constriction | 22.12 | 14.50 | NA | 2.90 | 090
33851 |  | A | Remove aorta constriction | 21.27 | 14.06 | NA | 2.86 | 090
33852 |  | A | Repair septal defect | 23.71 | 15.22 | NA | 3.19 | 090
33853 |  | A | Repair septal defect | 31.72 | 18.12 | NA | 4.23 | 090
33860 |  | A | Ascending aortic graft | 38.00 | 18.58 | NA | 4.30 | 090
33861 |  | A | Ascending aortic graft | 42.00 | 19.90 | NA | 4.24 | 090
33863 |  | A | Ascending aortic graft | 45.00 | 20.85 | NA | 4.60 | 090
33870 |  | A | Transverse aortic arch graft | 44.00 | 20.48 | NA | 5.09 | 090
33875 |  | A | Thoracic aortic graft | 33.06 | 16.78 | NA | 4.08 | 090
33877 |  | A | Thoracoabdominal graft | 42.60 | 21.40 | NA | 5.07 | 090
33910 |  | A | Remove lung artery emboli | 24.59 | 13.95 | NA | 3.06 | 090
33915 |  | A | Remove lung artery emboli | 21.02 | 12.25 | NA | 1.20 | 090
33916 |  | A | Surgery of great vessel | 25.83 | 14.51 | NA | 3.04 | 090
33917 |  | A | Repair pulmonary artery | 24.50 | 15.30 | NA | 3.17 | 090
33918 |  | A | Repair pulmonary atresia | 26.45 | 15.17 | NA | 3.42 | 090
33919 |  | A | Repair pulmonary atresia | 40.00 | 20.96 | NA | 3.48 | 090
33920 |  | A | Repair pulmonary atresia | 31.95 | 16.64 | NA | 3.61 | 090
33922 |  | A | Transect pulmonary artery | 23.52 | 14.03 | NA | 2.30 | 090
33924 |  | A | Remove pulmonary shunt | 5.50 | 1.86 | NA | 0.74 | ZZZ
33930 |  | X | Removal of donor heart/lung | 0.00 | 0.00 | 0.00 | 0.00 | XXX
33935 |  | R | Transplantation, heart/lung | 60.96 | 27.45 | NA | 8.15 | 090
33940 |  | X | Removal of donor heart | 0.00 | 0.00 | 0.00 | 0.00 | XXX
33945 |  | R | Transplantation of heart | 42.10 | 21.20 | NA | 5.42 | 090
33960 |  | A | External circulation assist | 19.36 | 5.10 | NA | 2.14 | 000
33961 |  | A | External circulation assist | 10.93 | 3.66 | NA | 1.47 | ZZZ
33967 |  | A | Insert ia percut device | 4.85 | 1.90 | 1.90 | 0.27 | 000
33968 |  | A | Remove aortic assist device | 0.64 | 0.23 | NA | 0.07 | 000
33970 |  | A | Aortic circulation assist | 6.75 | 2.30 | NA | 0.70 | 000
33971 |  | A | Aortic circulation assist | 9.69 | 7.71 | NA | 0.97 | 090
33973 |  | A | Insert balloon device | 9.76 | 3.34 | NA | 1.01 | 000
33974 |  | A | Remove intra-aortic balloon | 14.41 | 10.41 | NA | 1.48 | 090
33975 |  | A | Implant ventricular device | 21.00 | 6.40 | NA | 1.72 | XXX
33976 |  | A | Implant ventricular device | 23.00 | 7.60 | NA | 2.82 | XXX
33977 |  | A | Remove ventricular device | 19.29 | 10.25 | NA | 2.44 | 090
33978 |  | A | Remove ventricular device | 21.73 | 11.11 | NA | 2.66 | 090
33979 |  | C | Insert intracorporeal device | 0.00 | 0.00 | 0.00 | 0.00 | XXX
33980 |  | C | Remove intracorporeal device | 0.00 | 0.00 | 0.00 | 0.00 | 090
33999 |  | C | Cardiac surgery procedure | 0.00 | 0.00 | 0.00 | 0.00 | YYY
34001 |  | A | Removal of artery clot | 12.91 | 5.88 | NA | 1.46 | 090
34051 |  | A | Removal of artery clot | 15.21 | 6.83 | NA | 1.90 | 090
34101 |  | A | Removal of artery clot | 10.00 | 4.69 | NA | 1.11 | 090
34111 |  | A | Removal of arm artery clot | 10.00 | 4.78 | NA | 0.85 | 090
34151 |  | A | Removal of artery clot | 25.00 | 10.26 | NA | 1.84 | 090
34201 |  | A | Removal of artery clot | 10.03 | 5.02 | NA | 1.02 | 090
34203 |  | A | Removal of leg artery clot | 16.50 | 7.46 | NA | 1.37 | 090
34401 |  | A | Removal of vein clot | 25.00 | 10.14 | NA | 1.20 | 090
34421 |  | A | Removal of vein clot | 12.00 | 5.88 | NA | 0.95 | 090
34451 |  | A | Removal of vein clot | 27.00 | 10.74 | NA | 1.59 | 090
34471 |  | A | Removal of vein clot | 10.18 | 4.86 | NA | 0.90 | 090
34490 |  | A | Removal of vein clot | 9.86 | 6.04 | NA | 0.73 | 090
34501 |  | A | Repair valve, femoral vein | 16.00 | 9.06 | NA | 1.37 | 090
34502 |  | A | Reconstruct vena cava | 26.95 | 11.01 | NA | 2.99 | 090
34510 |  | A | Transposition of vein valve | 18.95 | 10.02 | NA | 1.60 | 090
34520 |  | A | Cross-over vein graft | 17.95 | 9.30 | NA | 1.41 | 090
34530 |  | A | Leg vein fusion | 16.64 | 8.67 | NA | 2.06 | 090
34800 |  | A | Endovasc abdo repair w/tube | 20.75 | 9.53 | NA | 1.49 | 090
34802 |  | A | Endovasc abdo repr w/device | 23.00 | 10.40 | NA | 1.65 | 090
34804 |  | A | Endovasc abdo repr w/device | 23.00 | 10.40 | NA | 1.65 | 090
34808 |  | A | Endovasc abdo occlud device | 4.13 | 1.60 | NA | 0.29 | ZZZ
34812 |  | A | Xpose for endoprosth, aortic | 6.75 | 2.61 | NA | 0.49 | 000
34813 |  | A | Xpose for endoprosth, femorl | 4.80 | 1.86 | NA | 0.34 | ZZZ
34820 |  | A | Xpose for endoprosth, iliac | 9.75 | 3.77 | NA | 0.70 | 000
34825 |  | A | Endovasc extend prosth, init | 12.00 | 6.15 | NA | 0.86 | 090
34826 |  | A | Endovasc exten prosth, addl | 4.13 | 1.60 | NA | 0.29 | ZZZ
34830 |  | A | Open aortic tube prosth repr | 32.59 | 14.47 | NA | 2.34 | 090
34831 |  | A | Open aortoiliac prosth repr | 35.34 | 15.53 | NA | 2.53 | 090
34832 |  | A | Open aortofemor prosth repr | 35.34 | 15.53 | NA | 2.53 | 090
35001 |  | A | Repair defect of artery | 19.64 | 8.39 | NA | 2.44 | 090
35002 |  | A | Repair artery rupture, neck | 21.00 | 9.08 | NA | 1.82 | 090
35005 |  | A | Repair defect of artery | 18.12 | 7.79 | NA | 1.35 | 090
35011 |  | A | Repair defect of artery | 18.00 | 7.40 | NA | 1.30 | 090
35013 |  | A | Repair artery rupture, arm | 22.00 | 8.71 | NA | 1.91 | 090
35021 |  | A | Repair defect of artery | 19.65 | 8.55 | NA | 1.93 | 090
35022 |  | A | Repair artery rupture, chest | 23.18 | 9.41 | NA | 1.99 | 090
35045 |  | A | Repair defect of arm artery | 17.57 | 8.53 | NA | 1.25 | 090
35081 |  | A | Repair defect of artery | 28.01 | 11.65 | NA | 3.20 | 090
35082 |  | A | Repair artery rupture, aorta | 38.50 | 14.62 | NA | 4.07 | 090
35091 |  | A | Repair defect of artery | 35.40 | 13.95 | NA | 4.09 | 090
35092 |  | A | Repair artery rupture, aorta | 45.00 | 16.95 | NA | 4.31 | 090
35102 |  | A | Repair defect of artery | 30.76 | 12.36 | NA | 3.44 | 090
35103 |  | A | Repair artery rupture, groin | 40.50 | 15.43 | NA | 3.79 | 090
35111 |  | A | Repair defect of artery | 25.00 | 10.21 | NA | 1.81 | 090
35112 |  | A | Repair artery rupture,spleen | 30.00 | 11.66 | NA | 1.95 | 090
35121 |  | A | Repair defect of artery | 30.00 | 12.07 | NA | 2.93 | 090
35122 |  | A | Repair artery rupture, belly | 35.00 | 13.45 | NA | 3.54 | 090
35131 |  | A | Repair defect of artery | 25.00 | 10.39 | NA | 2.11 | 090
35132 |  | A | Repair artery rupture, groin | 30.00 | 11.82 | NA | 2.48 | 090
35141 |  | A | Repair defect of artery | 20.00 | 8.53 | NA | 1.65 | 090
35142 |  | A | Repair artery rupture, thigh | 23.30 | 9.57 | NA | 1.75 | 090
35151 |  | A | Repair defect of artery | 22.64 | 9.56 | NA | 1.93 | 090
35152 |  | A | Repair artery rupture, knee | 25.62 | 10.43 | NA | 1.93 | 090
35161 |  | A | Repair defect of artery | 18.76 | 8.66 | NA | 2.21 | 090
35162 |  | A | Repair artery rupture | 19.78 | 8.82 | NA | 2.21 | 090
35180 |  | A | Repair blood vessel lesion | 13.62 | 6.34 | NA | 1.44 | 090
35182 |  | A | Repair blood vessel lesion | 30.00 | 12.33 | NA | 1.88 | 090
35184 |  | A | Repair blood vessel lesion | 18.00 | 7.81 | NA | 1.34 | 090
35188 |  | A | Repair blood vessel lesion | 14.28 | 6.55 | NA | 1.53 | 090
35189 |  | A | Repair blood vessel lesion | 28.00 | 11.42 | NA | 2.12 | 090
35190 |  | A | Repair blood vessel lesion | 12.75 | 5.87 | NA | 1.33 | 090
35201 |  | A | Repair blood vessel lesion | 16.14 | 6.99 | NA | 1.17 | 090
35206 |  | A | Repair blood vessel lesion | 13.25 | 7.43 | NA | 1.04 | 090
35207 |  | A | Repair blood vessel lesion | 10.15 | 9.69 | NA | 1.15 | 090
35211 |  | A | Repair blood vessel lesion | 22.12 | 13.43 | NA | 2.83 | 090
35216 |  | A | Repair blood vessel lesion | 18.75 | 11.41 | NA | 2.17 | 090
35221 |  | A | Repair blood vessel lesion | 24.39 | 10.09 | NA | 1.79 | 090
35226 |  | A | Repair blood vessel lesion | 14.50 | 8.68 | NA | 0.84 | 090
35231 |  | A | Repair blood vessel lesion | 20.00 | 9.24 | NA | 1.32 | 090
35236 |  | A | Repair blood vessel lesion | 17.11 | 8.85 | NA | 1.19 | 090
35241 |  | A | Repair blood vessel lesion | 23.12 | 14.08 | NA | 2.90 | 090
35246 |  | A | Repair blood vessel lesion | 26.45 | 14.10 | NA | 2.22 | 090
35251 |  | A | Repair blood vessel lesion | 30.20 | 12.03 | NA | 1.87 | 090
35256 |  | A | Repair blood vessel lesion | 18.36 | 9.37 | NA | 1.32 | 090
35261 |  | A | Repair blood vessel lesion | 17.80 | 7.44 | NA | 1.34 | 090
35266 |  | A | Repair blood vessel lesion | 14.91 | 7.88 | NA | 1.16 | 090
35271 |  | A | Repair blood vessel lesion | 22.12 | 13.22 | NA | 2.77 | 090
35276 |  | A | Repair blood vessel lesion | 24.25 | 13.50 | NA | 2.37 | 090
35281 |  | A | Repair blood vessel lesion | 28.00 | 11.42 | NA | 1.82 | 090
35286 |  | A | Repair blood vessel lesion | 16.16 | 8.65 | NA | 1.36 | 090
35301 |  | A | Rechanneling of artery | 18.70 | 8.29 | NA | 2.23 | 090
35311 |  | A | Rechanneling of artery | 27.00 | 10.92 | NA | 2.75 | 090
35321 |  | A | Rechanneling of artery | 16.00 | 6.70 | NA | 1.36 | 090
35331 |  | A | Rechanneling of artery | 26.20 | 10.81 | NA | 2.71 | 090
35341 |  | A | Rechanneling of artery | 25.11 | 10.41 | NA | 2.87 | 090
35351 |  | A | Rechanneling of artery | 23.00 | 9.64 | NA | 2.29 | 090
35355 |  | A | Rechanneling of artery | 18.50 | 8.13 | NA | 1.80 | 090
35361 |  | A | Rechanneling of artery | 28.20 | 11.37 | NA | 2.66 | 090
35363 |  | A | Rechanneling of artery | 30.20 | 12.11 | NA | 2.77 | 090
35371 |  | A | Rechanneling of artery | 14.72 | 6.63 | NA | 1.32 | 090
35372 |  | A | Rechanneling of artery | 18.00 | 7.74 | NA | 1.53 | 090
35381 |  | A | Rechanneling of artery | 15.81 | 7.21 | NA | 1.80 | 090
35390 |  | A | Reoperation, carotid add-on | 3.19 | 1.08 | NA | 0.38 | ZZZ
35400 |  | A | Angioscopy | 3.00 | 1.07 | NA | 0.34 | ZZZ
35450 |  | A | Repair arterial blockage | 10.07 | 4.04 | NA | 0.84 | 000
35452 |  | A | Repair arterial blockage | 6.91 | 3.07 | NA | 0.76 | 000
35454 |  | A | Repair arterial blockage | 6.04 | 2.75 | NA | 0.67 | 000
35456 |  | A | Repair arterial blockage | 7.35 | 3.20 | NA | 0.82 | 000
35458 |  | A | Repair arterial blockage | 9.49 | 3.90 | NA | 1.09 | 000
35459 |  | A | Repair arterial blockage | 8.63 | 3.58 | NA | 0.96 | 000
35460 |  | A | Repair venous blockage | 6.04 | 2.61 | NA | 0.66 | 000
35470 |  | A | Repair arterial blockage | 8.63 | 3.89 | NA | 0.50 | 000
35471 |  | A | Repair arterial blockage | 10.07 | 4.53 | NA | 0.50 | 000
35472 |  | A | Repair arterial blockage | 6.91 | 3.27 | NA | 0.39 | 000
35473 |  | A | Repair arterial blockage | 6.04 | 2.95 | NA | 0.34 | 000
35474 |  | A | Repair arterial blockage | 7.36 | 3.43 | NA | 0.40 | 000
35475 |  | R | Repair arterial blockage | 9.49 | 4.12 | NA | 0.47 | 000
35476 |  | A | Repair venous blockage | 6.04 | 2.89 | NA | 0.27 | 000
35480 |  | A | Atherectomy, open | 11.08 | 4.50 | NA | 1.13 | 000
35481 |  | A | Atherectomy, open | 7.61 | 3.35 | NA | 0.84 | 000
35482 |  | A | Atherectomy, open | 6.65 | 3.01 | NA | 0.75 | 000
35483 |  | A | Atherectomy, open | 8.10 | 3.46 | NA | 0.81 | 000
35484 |  | A | Atherectomy, open | 10.44 | 4.17 | NA | 1.13 | 000
35485 |  | A | Atherectomy, open | 9.49 | 4.00 | NA | 1.06 | 000
35490 |  | A | Atherectomy, percutaneous | 11.08 | 4.80 | NA | 0.55 | 000
35491 |  | A | Atherectomy, percutaneous | 7.61 | 3.34 | NA | 0.49 | 000
35492 |  | A | Atherectomy, percutaneous | 6.65 | 3.18 | NA | 0.43 | 000
35493 |  | A | Atherectomy, percutaneous | 8.10 | 3.83 | NA | 0.47 | 000
35494 |  | A | Atherectomy, percutaneous | 10.44 | 4.47 | NA | 0.48 | 000
35495 |  | A | Atherectomy, percutaneous | 9.49 | 4.43 | NA | 0.51 | 000
35500 |  | A | Harvest vein for bypass | 6.45 | 2.10 | NA | 0.63 | ZZZ
35501 |  | A | Artery bypass graft | 19.19 | 7.40 | NA | 2.33 | 090
35506 |  | A | Artery bypass graft | 19.67 | 8.13 | NA | 2.33 | 090
35507 |  | A | Artery bypass graft | 19.67 | 8.11 | NA | 2.27 | 090
35508 |  | A | Artery bypass graft | 18.65 | 7.79 | NA | 2.34 | 090
35509 |  | A | Artery bypass graft | 18.07 | 7.56 | NA | 2.12 | 090
35511 |  | A | Artery bypass graft | 21.20 | 8.67 | NA | 1.74 | 090
35515 |  | A | Artery bypass graft | 18.65 | 7.91 | NA | 2.26 | 090
35516 |  | A | Artery bypass graft | 16.32 | 5.78 | NA | 1.88 | 090
35518 |  | A | Artery bypass graft | 21.20 | 8.48 | NA | 1.78 | 090
35521 |  | A | Artery bypass graft | 22.20 | 9.34 | NA | 1.82 | 090
35526 |  | A | Artery bypass graft | 29.95 | 11.90 | NA | 2.18 | 090
35531 |  | A | Artery bypass graft | 36.20 | 14.13 | NA | 2.91 | 090
35533 |  | A | Artery bypass graft | 28.00 | 11.41 | NA | 2.35 | 090
35536 |  | A | Artery bypass graft | 31.70 | 12.64 | NA | 2.62 | 090
35541 |  | A | Artery bypass graft | 25.80 | 10.72 | NA | 2.74 | 090
35546 |  | A | Artery bypass graft | 25.54 | 10.49 | NA | 2.84 | 090
35548 |  | A | Artery bypass graft | 21.57 | 9.14 | NA | 2.45 | 090
35549 |  | A | Artery bypass graft | 23.35 | 9.77 | NA | 2.77 | 090
35551 |  | A | Artery bypass graft | 26.67 | 10.92 | NA | 3.19 | 090
35556 |  | A | Artery bypass graft | 21.76 | 9.26 | NA | 2.48 | 090
35558 |  | A | Artery bypass graft | 21.20 | 9.00 | NA | 1.58 | 090
35560 |  | A | Artery bypass graft | 32.00 | 12.82 | NA | 2.73 | 090
35563 |  | A | Artery bypass graft | 24.20 | 10.04 | NA | 1.68 | 090
35565 |  | A | Artery bypass graft | 23.20 | 9.72 | NA | 1.71 | 090
35566 |  | A | Artery bypass graft | 26.92 | 11.71 | NA | 3.02 | 090
35571 |  | A | Artery bypass graft | 24.06 | 11.90 | NA | 2.14 | 090
35582 |  | A | Vein bypass graft | 27.13 | 11.14 | NA | 3.11 | 090
35583 |  | A | Vein bypass graft | 22.37 | 10.46 | NA | 2.53 | 090
35585 |  | A | Vein bypass graft | 28.39 | 14.26 | NA | 3.21 | 090
35587 |  | A | Vein bypass graft | 24.75 | 12.62 | NA | 2.17 | 090
35600 |  | A | Harvest artery for cabg | 4.95 | 1.91 | NA | 0.60 | ZZZ
35601 |  | A | Artery bypass graft | 17.50 | 7.33 | NA | 2.08 | 090
35606 |  | A | Artery bypass graft | 18.71 | 7.77 | NA | 2.17 | 090
35612 |  | A | Artery bypass graft | 15.76 | 6.73 | NA | 1.72 | 090
35616 |  | A | Artery bypass graft | 15.70 | 6.78 | NA | 1.84 | 090
35621 |  | A | Artery bypass graft | 20.00 | 8.66 | NA | 1.68 | 090
35623 |  | A | Bypass graft, not vein | 24.00 | 10.02 | NA | 1.91 | 090
35626 |  | A | Artery bypass graft | 27.75 | 10.95 | NA | 2.89 | 090
35631 |  | A | Artery bypass graft | 34.00 | 13.44 | NA | 2.83 | 090
35636 |  | A | Artery bypass graft | 29.50 | 12.09 | NA | 2.37 | 090
35641 |  | A | Artery bypass graft | 24.57 | 10.29 | NA | 2.83 | 090
35642 |  | A | Artery bypass graft | 17.98 | 7.87 | NA | 1.84 | 090
35645 |  | A | Artery bypass graft | 17.47 | 7.71 | NA | 1.91 | 090
35646 |  | A | Artery bypass graft | 31.00 | 13.01 | NA | 2.98 | 090
35647 |  | A | Artery bypass graft | 28.00 | 11.74 | NA | 2.98 | 090
35650 |  | A | Artery bypass graft | 19.00 | 7.78 | NA | 1.64 | 090
35651 |  | A | Artery bypass graft | 25.04 | 10.47 | NA | 2.53 | 090
35654 |  | A | Artery bypass graft | 25.00 | 10.36 | NA | 2.10 | 090
35656 |  | A | Artery bypass graft | 19.53 | 8.28 | NA | 2.21 | 090
35661 |  | A | Artery bypass graft | 19.00 | 8.10 | NA | 1.50 | 090
35663 |  | A | Artery bypass graft | 22.00 | 9.41 | NA | 1.55 | 090
35665 |  | A | Artery bypass graft | 21.00 | 8.99 | NA | 1.76 | 090
35666 |  | A | Artery bypass graft | 22.19 | 11.74 | NA | 2.19 | 090
35671 |  | A | Artery bypass graft | 19.33 | 10.32 | NA | 1.68 | 090
35681 |  | A | Composite bypass graft | 1.60 | 0.54 | NA | 0.18 | ZZZ
35682 |  | A | Composite bypass graft | 7.20 | 2.45 | NA | 0.83 | ZZZ
35683 |  | A | Composite bypass graft | 8.50 | 2.90 | NA | 0.98 | ZZZ
35685 |  | A | Bypass graft patency/patch | 4.05 | 1.47 | NA | 0.41 | ZZZ
35686 |  | A | Bypass graft/av fist patency | 3.35 | 1.22 | NA | 0.34 | ZZZ
35691 |  | A | Arterial transposition | 18.05 | 7.55 | NA | 2.06 | 090
35693 |  | A | Arterial transposition | 15.36 | 6.55 | NA | 1.80 | 090
35694 |  | A | Arterial transposition | 19.16 | 7.86 | NA | 2.13 | 090
35695 |  | A | Arterial transposition | 19.16 | 7.82 | NA | 2.19 | 090
35700 |  | A | Reoperation, bypass graft | 3.08 | 1.04 | NA | 0.36 | ZZZ
35701 |  | A | Exploration, carotid artery | 8.50 | 4.57 | NA | 0.64 | 090
35721 |  | A | Exploration, femoral artery | 7.18 | 5.04 | NA | 0.59 | 090
35741 |  | A | Exploration popliteal artery | 8.00 | 5.28 | NA | 0.60 | 090
35761 |  | A | Exploration of artery/vein | 5.37 | 4.36 | NA | 0.60 | 090
35800 |  | A | Explore neck vessels | 7.02 | 3.89 | NA | 0.79 | 090
35820 |  | A | Explore chest vessels | 12.88 | 4.26 | NA | 1.61 | 090
35840 |  | A | Explore abdominal vessels | 9.77 | 5.10 | NA | 1.06 | 090
35860 |  | A | Explore limb vessels | 5.55 | 3.53 | NA | 0.63 | 090
35870 |  | A | Repair vessel graft defect | 22.17 | 9.92 | NA | 2.47 | 090
35875 |  | A | Removal of clot in graft | 10.13 | 6.24 | NA | 0.97 | 090
35876 |  | A | Removal of clot in graft | 17.00 | 8.78 | NA | 1.88 | 090
35879 |  | A | Revise graft w/vein | 16.00 | 7.74 | NA | 1.35 | 090
35881 |  | A | Revise graft w/vein | 18.00 | 8.55 | NA | 1.44 | 090
35901 |  | A | Excision, graft, neck | 8.19 | 5.74 | NA | 0.90 | 090
35903 |  | A | Excision, graft, extremity | 9.39 | 8.01 | NA | 1.03 | 090
35905 |  | A | Excision, graft, thorax | 31.25 | 14.95 | NA | 2.15 | 090
35907 |  | A | Excision, graft, abdomen | 35.00 | 14.55 | NA | 2.17 | 090
36000 |  | A | Place needle in vein | 0.18 | 0.05 | 0.64 | 0.01 | XXX
36002 |  | A | Pseudoaneurysm injection trt | 1.96 | 1.01 | 2.91 | 0.08 | 000
36005 |  | A | Injection ext venography | 0.95 | 0.33 | 8.26 | 0.04 | 000
36010 |  | A | Place catheter in vein | 2.43 | 0.81 | NA | 0.16 | XXX
36011 |  | A | Place catheter in vein | 3.14 | 1.06 | NA | 0.17 | XXX
36012 |  | A | Place catheter in vein | 3.52 | 1.19 | NA | 0.17 | XXX
36013 |  | A | Place catheter in artery | 2.52 | 0.67 | NA | 0.17 | XXX
36014 |  | A | Place catheter in artery | 3.02 | 1.03 | NA | 0.14 | XXX
36015 |  | A | Place catheter in artery | 3.52 | 1.20 | NA | 0.16 | XXX
36100 |  | A | Establish access to artery | 3.02 | 1.13 | NA | 0.18 | XXX
36120 |  | A | Establish access to artery | 2.01 | 0.67 | NA | 0.11 | XXX
36140 |  | A | Establish access to artery | 2.01 | 0.66 | NA | 0.12 | XXX
36145 |  | A | Artery to vein shunt | 2.01 | 0.68 | NA | 0.10 | XXX
36160 |  | A | Establish access to aorta | 2.52 | 0.86 | NA | 0.20 | XXX
36200 |  | A | Place catheter in aorta | 3.02 | 1.05 | NA | 0.15 | XXX
36215 |  | A | Place catheter in artery | 4.68 | 1.63 | NA | 0.22 | XXX
36216 |  | A | Place catheter in artery | 5.28 | 1.82 | NA | 0.24 | XXX
36217 |  | A | Place catheter in artery | 6.30 | 2.22 | NA | 0.32 | XXX
36218 |  | A | Place catheter in artery | 1.01 | 0.36 | NA | 0.05 | ZZZ
36245 |  | A | Place catheter in artery | 4.68 | 1.71 | NA | 0.23 | XXX
36246 |  | A | Place catheter in artery | 5.28 | 1.85 | NA | 0.26 | XXX
36247 |  | A | Place catheter in artery | 6.30 | 2.18 | NA | 0.32 | XXX
36248 |  | A | Place catheter in artery | 1.01 | 0.36 | NA | 0.06 | ZZZ
36260 |  | A | Insertion of infusion pump | 9.71 | 5.46 | NA | 1.00 | 090
36261 |  | A | Revision of infusion pump | 5.45 | 3.30 | NA | 0.50 | 090
36262 |  | A | Removal of infusion pump | 4.02 | 2.47 | NA | 0.43 | 090
36299 |  | C | Vessel injection procedure | 0.00 | 0.00 | 0.00 | 0.00 | YYY
36400 |  | A | Drawing blood | 0.38 | 0.10 | 0.72 | 0.01 | XXX
36405 |  | A | Drawing blood | 0.31 | 0.08 | 0.56 | 0.01 | XXX
36406 |  | A | Drawing blood | 0.18 | 0.05 | 0.72 | 0.01 | XXX
36410 |  | A | Drawing blood | 0.18 | 0.05 | 0.49 | 0.01 | XXX
36415 |  | I | Drawing blood | 0.00 | 0.00 | 0.00 | 0.00 | XXX
36420 |  | A | Establish access to vein | 1.01 | 0.30 | NA | 0.09 | XXX
36425 |  | A | Establish access to vein | 0.76 | 0.17 | 3.32 | 0.05 | XXX
36430 |  | A | Blood transfusion service | 0.00 | NA | 1.04 | 0.05 | XXX
36440 |  | A | Blood transfusion service | 1.03 | 0.29 | NA | 0.08 | XXX
36450 |  | A | Exchange transfusion service | 2.23 | 0.72 | NA | 0.16 | XXX
36455 |  | A | Exchange transfusion service | 2.43 | 0.85 | NA | 0.10 | XXX
36460 |  | A | Transfusion service, fetal | 6.59 | 2.28 | NA | 0.56 | XXX
36468 |  | R | Injection(s), spider veins | 0.00 | 0.00 | 0.00 | 0.00 | 000
36469 |  | R | Injection(s), spider veins | 0.00 | 0.00 | 0.00 | 0.00 | 000
36470 |  | A | Injection therapy of vein | 1.09 | 0.39 | 2.28 | 0.10 | 010
36471 |  | A | Injection therapy of veins | 1.57 | 0.55 | 2.62 | 0.15 | 010
36481 |  | A | Insertion of catheter, vein | 6.99 | 2.81 | NA | 0.40 | 000
36488 |  | A | Insertion of catheter, vein | 1.35 | 0.71 | NA | 0.09 | 000
36489 |  | A | Insertion of catheter, vein | 2.50 | 1.03 | 4.09 | 0.08 | 000
36490 |  | A | Insertion of catheter, vein | 1.67 | 0.78 | NA | 0.17 | 000
36491 |  | A | Insertion of catheter, vein | 1.43 | 0.73 | NA | 0.13 | 000
36493 |  | A | Repositioning of cvc | 1.21 | 0.86 | NA | 0.06 | 000
36500 |  | A | Insertion of catheter, vein | 3.52 | 1.27 | NA | 0.14 | 000
36510 |  | A | Insertion of catheter, vein | 1.09 | 0.71 | NA | 0.06 | 000
36520 |  | A | Plasma and/or cell exchange | 1.74 | 1.04 | NA | 0.06 | 000
36521 |  | A | Apheresis w/ adsorp/reinfuse | 1.74 | 1.04 | NA | 0.06 | 000
36522 |  | A | Photopheresis | 1.67 | 1.12 | 6.82 | 0.07 | 000
36530 |  | R | Insertion of infusion pump | 6.20 | 3.71 | NA | 0.56 | 010
36531 |  | R | Revision of infusion pump | 4.87 | 3.21 | NA | 0.44 | 010
36532 |  | R | Removal of infusion pump | 3.30 | 1.51 | NA | 0.34 | 010
36533 |  | A | Insertion of access device | 5.32 | 3.36 | 13.86 | 0.49 | 010
36534 |  | A | Revision of access device | 2.80 | 1.47 | NA | 0.19 | 010
36535 |  | A | Removal of access device | 2.27 | 1.81 | 2.81 | 0.21 | 010
36540 |  | B | Collect blood venous device | 0.00 | 0.00 | 0.00 | 0.00 | XXX
36550 |  | A | Declot vascular device | 0.00 | NA | 0.37 | 0.31 | XXX
36600 |  | A | Withdrawal of arterial blood | 0.32 | 0.09 | 0.41 | 0.02 | XXX
36620 |  | A | Insertion catheter, artery | 1.15 | 0.25 | NA | 0.06 | 000
36625 |  | A | Insertion catheter, artery | 2.11 | 0.54 | NA | 0.16 | 000
36640 |  | A | Insertion catheter, artery | 2.10 | 0.72 | NA | 0.18 | 000
36660 |  | A | Insertion catheter, artery | 1.40 | 0.45 | NA | 0.08 | 000
36680 |  | A | Insert needle, bone cavity | 1.20 | 0.62 | NA | 0.08 | 000
36800 |  | A | Insertion of cannula | 2.43 | 1.54 | NA | 0.17 | 000
36810 |  | A | Insertion of cannula | 3.97 | 2.19 | NA | 0.40 | 000
36815 |  | A | Insertion of cannula | 2.62 | 1.24 | NA | 0.26 | 000
36819 |  | A | Av fusion/uppr arm vein | 14.00 | 6.40 | NA | 1.53 | 090
36820 |  | A | Av fusion/forearm vein | 14.00 | 6.41 | NA | 1.53 | 090
36821 |  | A | Av fusion direct any site | 8.93 | 4.93 | NA | 0.97 | 090
36822 |  | A | Insertion of cannula(s) | 5.42 | 6.73 | NA | 0.63 | 090
36823 |  | A | Insertion of cannula(s) | 21.00 | 10.32 | NA | 2.18 | 090
36825 |  | A | Artery-vein graft | 9.84 | 5.45 | NA | 1.09 | 090
36830 |  | A | Artery-vein graft | 12.00 | 6.02 | NA | 1.32 | 090
36831 |  | A | Open thrombect av fistula | 8.00 | 3.93 | NA | 0.79 | 090
36832 |  | A | Av fistula revision, open | 10.50 | 5.50 | NA | 1.13 | 090
36833 |  | A | Av fistula revision | 11.95 | 6.01 | NA | 1.29 | 090
36834 |  | A | Repair A-V aneurysm | 9.93 | 3.79 | NA | 1.06 | 090
36835 |  | A | Artery to vein shunt | 7.15 | 4.41 | NA | 0.80 | 090
36860 |  | A | External cannula declotting | 2.01 | 1.30 | 2.26 | 0.10 | 000
36861 |  | A | Cannula declotting | 2.52 | 1.47 | NA | 0.14 | 000
36870 |  | A | Percut thrombect av fistula | 5.16 | 2.41 | 42.13 | 0.23 | 090
37140 |  | A | Revision of circulation | 23.60 | 10.40 | NA | 1.21 | 090
37145 |  | A | Revision of circulation | 24.61 | 10.96 | NA | 2.48 | 090
37160 |  | A | Revision of circulation | 21.60 | 9.11 | NA | 2.16 | 090
37180 |  | A | Revision of circulation | 24.61 | 10.29 | NA | 2.63 | 090
37181 |  | A | Splice spleen/kidney veins | 26.68 | 10.86 | NA | 2.67 | 090
37195 |  | A | Thrombolytic therapy, stroke | 0.00 | NA | 8.32 | 0.38 | XXX
37200 |  | A | Transcatheter biopsy | 4.56 | 1.56 | NA | 0.19 | 000
37201 |  | A | Transcatheter therapy infuse | 5.00 | 2.55 | NA | 0.24 | 000
37202 |  | A | Transcatheter therapy infuse | 5.68 | 3.07 | NA | 0.38 | 000
37203 |  | A | Transcatheter retrieval | 5.03 | 2.57 | NA | 0.23 | 000
37204 |  | A | Transcatheter occlusion | 18.14 | 6.15 | NA | 0.85 | 000
37205 |  | A | Transcatheter stent | 8.28 | 3.80 | NA | 0.43 | 000
37206 |  | A | Transcatheter stent add-on | 4.13 | 1.49 | NA | 0.22 | ZZZ
37207 |  | A | Transcatheter stent | 8.28 | 3.52 | NA | 0.89 | 000
37208 |  | A | Transcatheter stent add-on | 4.13 | 1.42 | NA | 0.44 | ZZZ
37209 |  | A | Exchange arterial catheter | 2.27 | 0.77 | NA | 0.11 | 000
37250 |  | A | Iv us first vessel add-on | 2.10 | 0.77 | NA | 0.17 | ZZZ
37251 |  | A | Iv us each add vessel add-on | 1.60 | 0.57 | NA | 0.14 | ZZZ
37565 |  | A | Ligation of neck vein | 10.88 | 5.08 | NA | 0.45 | 090
37600 |  | A | Ligation of neck artery | 11.25 | 6.28 | NA | 0.40 | 090
37605 |  | A | Ligation of neck artery | 13.11 | 6.46 | NA | 0.77 | 090
37606 |  | A | Ligation of neck artery | 6.28 | 3.95 | NA | 0.79 | 090
37607 |  | A | Ligation of a-v fistula | 6.16 | 3.61 | NA | 0.67 | 090
37609 |  | A | Temporal artery procedure | 3.00 | 2.50 | 7.03 | 0.21 | 010
37615 |  | A | Ligation of neck artery | 5.73 | 3.61 | NA | 0.57 | 090
37616 |  | A | Ligation of chest artery | 16.49 | 10.47 | NA | 1.93 | 090
37617 |  | A | Ligation of abdomen artery | 22.06 | 9.45 | NA | 1.69 | 090
37618 |  | A | Ligation of extremity artery | 4.84 | 3.46 | NA | 0.54 | 090
37620 |  | A | Revision of major vein | 10.56 | 5.41 | NA | 0.75 | 090
37650 |  | A | Revision of major vein | 7.80 | 4.57 | NA | 0.56 | 090
37660 |  | A | Revision of major vein | 21.00 | 9.30 | NA | 1.17 | 090
37700 |  | A | Revise leg vein | 3.73 | 3.08 | NA | 0.40 | 090
37720 |  | A | Removal of leg vein | 5.66 | 3.60 | NA | 0.61 | 090
37730 |  | A | Removal of leg veins | 7.33 | 4.44 | NA | 0.77 | 090
37735 |  | A | Removal of leg veins/lesion | 10.53 | 5.77 | NA | 1.17 | 090
37760 |  | A | Revision of leg veins | 10.47 | 5.61 | NA | 1.11 | 090
37780 |  | A | Revision of leg vein | 3.84 | 2.91 | NA | 0.41 | 090
37785 |  | A | Revise secondary varicosity | 3.84 | 2.82 | 6.83 | 0.41 | 090
37788 |  | A | Revascularization, penis | 22.01 | 12.45 | NA | 1.35 | 090
37790 |  | A | Penile venous occlusion | 8.34 | 6.96 | NA | 0.63 | 090
37799 |  | C | Vascular surgery procedure | 0.00 | 0.00 | 0.00 | 0.00 | YYY
38100 |  | A | Removal of spleen, total | 14.50 | 6.57 | NA | 1.30 | 090
38101 |  | A | Removal of spleen, partial | 15.31 | 6.98 | NA | 1.38 | 090
38102 |  | A | Removal of spleen, total | 4.80 | 1.68 | NA | 0.49 | ZZZ
38115 |  | A | Repair of ruptured spleen | 15.82 | 7.04 | NA | 1.40 | 090
38120 |  | A | Laparoscopy, splenectomy | 17.00 | 7.42 | NA | 1.73 | 090
38129 |  | C | Laparoscope proc, spleen | 0.00 | 0.00 | 0.00 | 0.00 | YYY
38200 |  | A | Injection for spleen x-ray | 2.64 | 0.92 | NA | 0.12 | 000
38220 |  | A | Bone marrow aspiration | 1.08 | 0.43 | 4.59 | 0.03 | XXX
38221 |  | A | Bone marrow biopsy | 1.37 | 0.54 | 4.70 | 0.04 | XXX
38230 |  | R | Bone marrow collection | 4.54 | 2.44 | NA | 0.25 | 010
38231 |  | R | Stem cell collection | 1.50 | 0.59 | NA | 0.05 | 000
38240 |  | R | Bone marrow/stem transplant | 2.24 | 0.84 | NA | 0.08 | XXX
38241 |  | R | Bone marrow/stem transplant | 2.24 | 0.84 | NA | 0.08 | XXX
38300 |  | A | Drainage, lymph node lesion | 1.99 | 2.57 | 4.60 | 0.15 | 010
38305 |  | A | Drainage, lymph node lesion | 6.00 | 6.22 | 8.50 | 0.36 | 090
38308 |  | A | Incision of lymph channels | 6.45 | 5.62 | NA | 0.51 | 090
38380 |  | A | Thoracic duct procedure | 7.46 | 7.40 | NA | 0.68 | 090
38381 |  | A | Thoracic duct procedure | 12.88 | 9.51 | NA | 1.58 | 090
38382 |  | A | Thoracic duct procedure | 10.08 | 9.00 | NA | 1.08 | 090
38500 |  | A | Biopsy/removal, lymph nodes | 3.75 | 2.54 | 3.02 | 0.28 | 010
38505 |  | A | Needle biopsy, lymph nodes | 1.14 | 1.11 | 3.15 | 0.09 | 000
38510 |  | A | Biopsy/removal, lymph nodes | 6.43 | 5.36 | NA | 0.38 | 010
38520 |  | A | Biopsy/removal, lymph nodes | 6.67 | 5.44 | NA | 0.52 | 090
38525 |  | A | Biopsy/removal, lymph nodes | 6.07 | 4.38 | NA | 0.48 | 090
38530 |  | A | Biopsy/removal, lymph nodes | 7.98 | 5.82 | NA | 0.63 | 090
38542 |  | A | Explore deep node(s), neck | 5.91 | 5.91 | NA | 0.50 | 090
38550 |  | A | Removal, neck/armpit lesion | 6.92 | 4.76 | NA | 0.69 | 090
38555 |  | A | Removal, neck/armpit lesion | 14.14 | 10.08 | NA | 1.46 | 090
38562 |  | A | Removal, pelvic lymph nodes | 10.49 | 6.59 | NA | 0.97 | 090
38564 |  | A | Removal, abdomen lymph nodes | 10.83 | 6.31 | NA | 1.06 | 090
38570 |  | A | Laparoscopy, lymph node biop | 9.25 | 4.53 | NA | 0.89 | 010
38571 |  | A | Laparoscopy, lymphadenectomy | 14.68 | 6.29 | NA | 0.80 | 010
38572 |  | A | Laparoscopy, lymphadenectomy | 16.59 | 7.39 | NA | 1.32 | 010
38589 |  | C | Laparoscope proc, lymphatic | 0.00 | 0.00 | 0.00 | 0.00 | YYY
38700 |  | A | Removal of lymph nodes, neck | 8.24 | 13.45 | NA | 0.60 | 090
38720 |  | A | Removal of lymph nodes, neck | 13.61 | 16.01 | NA | 1.03 | 090
38724 |  | A | Removal of lymph nodes, neck | 14.54 | 16.49 | NA | 1.10 | 090
38740 |  | A | Remove armpit lymph nodes | 10.03 | 5.80 | NA | 0.69 | 090
38745 |  | A | Remove armpit lymph nodes | 13.10 | 8.29 | NA | 0.90 | 090
38746 |  | A | Remove thoracic lymph nodes | 4.89 | 1.62 | NA | 0.55 | ZZZ
38747 |  | A | Remove abdominal lymph nodes | 4.89 | 1.71 | NA | 0.50 | ZZZ
38760 |  | A | Remove groin lymph nodes | 12.95 | 7.18 | NA | 0.88 | 090
38765 |  | A | Remove groin lymph nodes | 19.98 | 11.40 | NA | 1.50 | 090
38770 |  | A | Remove pelvis lymph nodes | 13.23 | 6.95 | NA | 0.94 | 090
38780 |  | A | Remove abdomen lymph nodes | 16.59 | 9.36 | NA | 1.60 | 090
38790 |  | A | Inject for lymphatic x-ray | 1.29 | 0.45 | 31.71 | 0.09 | 000
38792 |  | A | Identify sentinel node | 0.52 | 0.18 | NA | 0.04 | 000
38794 |  | A | Access thoracic lymph duct | 4.45 | 1.56 | NA | 0.17 | 090
38999 |  | C | Blood/lymph system procedure | 0.00 | 0.00 | 0.00 | 0.00 | YYY
39000 |  | A | Exploration of chest | 6.10 | 7.21 | NA | 0.73 | 090
39010 |  | A | Exploration of chest | 11.79 | 9.38 | NA | 1.46 | 090
39200 |  | A | Removal chest lesion | 13.62 | 9.88 | NA | 1.65 | 090
39220 |  | A | Removal chest lesion | 17.42 | 11.13 | NA | 2.10 | 090
39400 |  | A | Visualization of chest | 5.61 | 6.84 | NA | 0.69 | 010
39499 |  | C | Chest procedure | 0.00 | 0.00 | 0.00 | 0.00 | YYY
39501 |  | A | Repair diaphragm laceration | 13.19 | 7.70 | NA | 1.38 | 090
39502 |  | A | Repair paraesophageal hernia | 16.33 | 8.24 | NA | 1.68 | 090
39503 |  | A | Repair of diaphragm hernia | 95.00 | 34.58 | NA | 3.52 | 090
39520 |  | A | Repair of diaphragm hernia | 16.10 | 9.54 | NA | 1.83 | 090
39530 |  | A | Repair of diaphragm hernia | 15.41 | 8.49 | NA | 1.66 | 090
39531 |  | A | Repair of diaphragm hernia | 16.42 | 8.73 | NA | 1.83 | 090
39540 |  | A | Repair of diaphragm hernia | 13.32 | 7.75 | NA | 1.38 | 090
39541 |  | A | Repair of diaphragm hernia | 14.41 | 7.83 | NA | 1.52 | 090
39545 |  | A | Revision of diaphragm | 13.37 | 8.96 | NA | 1.55 | 090
39560 |  | A | Resect diaphragm, simple | 12.00 | 7.55 | NA | 1.35 | 090
39561 |  | A | Resect diaphragm, complex | 17.50 | 9.58 | NA | 1.97 | 090
39599 |  | C | Diaphragm surgery procedure | 0.00 | 0.00 | 0.00 | 0.00 | YYY
40490 |  | A | Biopsy of lip | 1.22 | 0.61 | 1.59 | 0.06 | 000
40500 |  | A | Partial excision of lip | 4.28 | 5.64 | 5.64 | 0.31 | 090
40510 |  | A | Partial excision of lip | 4.70 | 6.55 | 6.62 | 0.38 | 090
40520 |  | A | Partial excision of lip | 4.67 | 6.99 | 7.74 | 0.42 | 090
40525 |  | A | Reconstruct lip with flap | 7.55 | 8.45 | NA | 0.68 | 090
40527 |  | A | Reconstruct lip with flap | 9.13 | 9.33 | NA | 0.82 | 090
40530 |  | A | Partial removal of lip | 5.40 | 6.30 | 6.53 | 0.47 | 090
40650 |  | A | Repair lip | 3.64 | 4.83 | 5.45 | 0.31 | 090
40652 |  | A | Repair lip | 4.26 | 6.80 | 6.80 | 0.39 | 090
40654 |  | A | Repair lip | 5.31 | 7.67 | 7.67 | 0.48 | 090
40700 |  | A | Repair cleft lip/nasal | 12.79 | 10.40 | NA | 0.93 | 090
40701 |  | A | Repair cleft lip/nasal | 15.85 | 12.85 | NA | 1.36 | 090
40702 |  | A | Repair cleft lip/nasal | 13.04 | 9.44 | NA | 1.01 | 090
40720 |  | A | Repair cleft lip/nasal | 13.55 | 12.14 | NA | 1.31 | 090
40761 |  | A | Repair cleft lip/nasal | 14.72 | 12.51 | NA | 1.41 | 090
40799 |  | C | Lip surgery procedure | 0.00 | 0.00 | 0.00 | 0.00 | YYY
40800 |  | A | Drainage of mouth lesion | 1.17 | 0.46 | 1.93 | 0.09 | 010
40801 |  | A | Drainage of mouth lesion | 2.53 | 1.86 | 2.43 | 0.18 | 010
40804 |  | A | Removal, foreign body, mouth | 1.24 | 2.16 | 2.62 | 0.09 | 010
40805 |  | A | Removal, foreign body, mouth | 2.69 | 2.80 | 3.13 | 0.17 | 010
40806 |  | A | Incision of lip fold | 0.31 | 0.81 | 0.91 | 0.02 | 000
40808 |  | A | Biopsy of mouth lesion | 0.96 | 2.07 | 2.07 | 0.07 | 010
40810 |  | A | Excision of mouth lesion | 1.31 | 2.38 | 2.66 | 0.09 | 010
40812 |  | A | Excise/repair mouth lesion | 2.31 | 2.88 | 2.88 | 0.17 | 010
40814 |  | A | Excise/repair mouth lesion | 3.42 | 4.01 | 4.01 | 0.26 | 090
40816 |  | A | Excision of mouth lesion | 3.67 | 4.31 | 4.31 | 0.27 | 090
40818 |  | A | Excise oral mucosa for graft | 2.41 | 4.04 | 4.04 | 0.14 | 090
40819 |  | A | Excise lip or cheek fold | 2.41 | 3.51 | 3.53 | 0.17 | 090
40820 |  | A | Treatment of mouth lesion | 1.28 | 2.24 | 2.36 | 0.08 | 010
40830 |  | A | Repair mouth laceration | 1.76 | 2.48 | 2.48 | 0.14 | 010
40831 |  | A | Repair mouth laceration | 2.46 | 2.72 | 2.72 | 0.21 | 010
40840 |  | R | Reconstruction of mouth | 8.73 | 6.06 | 6.06 | 0.79 | 090
40842 |  | R | Reconstruction of mouth | 8.73 | 5.95 | 5.95 | 0.65 | 090
40843 |  | R | Reconstruction of mouth | 12.10 | 7.19 | 7.19 | 0.84 | 090
40844 |  | R | Reconstruction of mouth | 16.01 | 8.89 | 8.89 | 1.63 | 090
40845 |  | R | Reconstruction of mouth | 18.58 | 10.81 | 10.81 | 1.47 | 090
40899 |  | C | Mouth surgery procedure | 0.00 | 0.00 | 0.00 | 0.00 | YYY
41000 |  | A | Drainage of mouth lesion | 1.30 | 1.48 | 2.35 | 0.09 | 010
41005 |  | A | Drainage of mouth lesion | 1.26 | 1.45 | 2.20 | 0.09 | 010
41006 |  | A | Drainage of mouth lesion | 3.24 | 3.35 | 3.66 | 0.25 | 090
41007 |  | A | Drainage of mouth lesion | 3.10 | 3.15 | 3.65 | 0.22 | 090
41008 |  | A | Drainage of mouth lesion | 3.37 | 3.25 | 3.49 | 0.24 | 090
41009 |  | A | Drainage of mouth lesion | 3.59 | 3.23 | 3.57 | 0.25 | 090
41010 |  | A | Incision of tongue fold | 1.06 | 3.19 | 3.19 | 0.06 | 010
41015 |  | A | Drainage of mouth lesion | 3.96 | 3.18 | 4.11 | 0.29 | 090
41016 |  | A | Drainage of mouth lesion | 4.07 | 3.34 | 4.06 | 0.28 | 090
41017 |  | A | Drainage of mouth lesion | 4.07 | 3.28 | 4.07 | 0.32 | 090
41018 |  | A | Drainage of mouth lesion | 5.10 | 3.74 | 4.44 | 0.35 | 090
41100 |  | A | Biopsy of tongue | 1.63 | 2.58 | 2.64 | 0.12 | 010
41105 |  | A | Biopsy of tongue | 1.42 | 2.43 | 2.43 | 0.10 | 010
41108 |  | A | Biopsy of floor of mouth | 1.05 | 2.29 | 2.35 | 0.08 | 010
41110 |  | A | Excision of tongue lesion | 1.51 | 2.57 | 3.09 | 0.11 | 010
41112 |  | A | Excision of tongue lesion | 2.73 | 3.49 | 3.49 | 0.20 | 090
41113 |  | A | Excision of tongue lesion | 3.19 | 3.43 | 3.43 | 0.23 | 090
41114 |  | A | Excision of tongue lesion | 8.47 | 6.35 | NA | 0.64 | 090
41115 |  | A | Excision of tongue fold | 1.74 | 2.47 | 2.57 | 0.13 | 010
41116 |  | A | Excision of mouth lesion | 2.44 | 3.35 | 3.35 | 0.17 | 090
41120 |  | A | Partial removal of tongue | 9.77 | 8.78 | NA | 0.70 | 090
41130 |  | A | Partial removal of tongue | 11.15 | 9.57 | NA | 0.81 | 090
41135 |  | A | Tongue and neck surgery | 23.09 | 15.91 | NA | 1.66 | 090
41140 |  | A | Removal of tongue | 25.50 | 17.29 | NA | 1.85 | 090
41145 |  | A | Tongue removal, neck surgery | 30.06 | 21.16 | NA | 2.11 | 090
41150 |  | A | Tongue, mouth, jaw surgery | 23.04 | 17.06 | NA | 1.67 | 090
41153 |  | A | Tongue, mouth, neck surgery | 23.77 | 17.65 | NA | 1.71 | 090
41155 |  | A | Tongue, jaw, & neck surgery | 27.72 | 19.86 | NA | 2.02 | 090
41250 |  | A | Repair tongue laceration | 1.91 | 1.70 | 2.79 | 0.15 | 010
41251 |  | A | Repair tongue laceration | 2.27 | 1.99 | 2.64 | 0.18 | 010
41252 |  | A | Repair tongue laceration | 2.97 | 2.34 | 3.45 | 0.23 | 010
41500 |  | A | Fixation of tongue | 3.71 | 4.27 | NA | 0.26 | 090
41510 |  | A | Tongue to lip surgery | 3.42 | 4.76 | NA | 0.24 | 090
41520 |  | A | Reconstruction, tongue fold | 2.73 | 2.95 | 2.95 | 0.19 | 090
41599 |  | C | Tongue and mouth surgery | 0.00 | 0.00 | 0.00 | 0.00 | YYY
41800 |  | A | Drainage of gum lesion | 1.17 | 1.36 | 1.91 | 0.09 | 010
41805 |  | A | Removal foreign body, gum | 1.24 | 1.88 | 1.88 | 0.09 | 010
41806 |  | A | Removal foreign body,jawbone | 2.69 | 2.44 | 2.50 | 0.22 | 010
41820 |  | R | Excision, gum, each quadrant | 0.00 | 0.00 | 0.00 | 0.00 | 000
41821 |  | R | Excision of gum flap | 0.00 | 0.00 | 0.00 | 0.00 | 000
41822 |  | R | Excision of gum lesion | 2.31 | 0.96 | 2.78 | 0.24 | 010
41823 |  | R | Excision of gum lesion | 3.30 | 2.93 | 3.52 | 0.29 | 090
41825 |  | A | Excision of gum lesion | 1.31 | 2.30 | 2.35 | 0.10 | 010
41826 |  | A | Excision of gum lesion | 2.31 | 2.60 | 2.60 | 0.17 | 010
41827 |  | A | Excision of gum lesion | 3.42 | 3.51 | 3.51 | 0.25 | 090
41828 |  | R | Excision of gum lesion | 3.09 | 2.33 | 2.98 | 0.22 | 010
41830 |  | R | Removal of gum tissue | 3.35 | 2.88 | 3.23 | 0.23 | 010
41850 |  | R | Treatment of gum lesion | 0.00 | 0.00 | 0.00 | 0.00 | 000
41870 |  | R | Gum graft | 0.00 | 0.00 | 0.00 | 0.00 | 000
41872 |  | R | Repair gum | 2.59 | 2.80 | 2.81 | 0.18 | 090
41874 |  | R | Repair tooth socket | 3.09 | 2.34 | 2.82 | 0.23 | 090
41899 |  | C | Dental surgery procedure | 0.00 | 0.00 | 0.00 | 0.00 | YYY
42000 |  | A | Drainage mouth roof lesion | 1.23 | 1.53 | 2.45 | 0.10 | 010
42100 |  | A | Biopsy roof of mouth | 1.31 | 2.43 | 2.43 | 0.10 | 010
42104 |  | A | Excision lesion, mouth roof | 1.64 | 2.49 | 2.49 | 0.12 | 010
42106 |  | A | Excision lesion, mouth roof | 2.10 | 2.60 | 2.60 | 0.16 | 010
42107 |  | A | Excision lesion, mouth roof | 4.44 | 4.04 | 4.04 | 0.32 | 090
42120 |  | A | Remove palate/lesion | 6.17 | 6.03 | NA | 0.44 | 090
42140 |  | A | Excision of uvula | 1.62 | 3.28 | 3.81 | 0.12 | 090
42145 |  | A | Repair palate, pharynx/uvula | 8.05 | 7.41 | NA | 0.56 | 090
42160 |  | A | Treatment mouth roof lesion | 1.80 | 2.64 | 3.15 | 0.13 | 010
42180 |  | A | Repair palate | 2.50 | 2.10 | 2.90 | 0.19 | 010
42182 |  | A | Repair palate | 3.83 | 3.06 | 3.43 | 0.27 | 010
42200 |  | A | Reconstruct cleft palate | 12.00 | 10.14 | NA | 0.97 | 090
42205 |  | A | Reconstruct cleft palate | 13.29 | 9.32 | NA | 0.82 | 090
42210 |  | A | Reconstruct cleft palate | 14.50 | 9.50 | NA | 1.24 | 090
42215 |  | A | Reconstruct cleft palate | 8.82 | 8.81 | NA | 0.96 | 090
42220 |  | A | Reconstruct cleft palate | 7.02 | 6.63 | NA | 0.41 | 090
42225 |  | A | Reconstruct cleft palate | 9.54 | 9.20 | NA | 0.75 | 090
42226 |  | A | Lengthening of palate | 10.01 | 9.49 | NA | 0.73 | 090
42227 |  | A | Lengthening of palate | 9.52 | 8.14 | NA | 0.70 | 090
42235 |  | A | Repair palate | 7.87 | 6.20 | NA | 0.49 | 090
42260 |  | A | Repair nose to lip fistula | 9.80 | 6.94 | 6.94 | 0.85 | 090
42280 |  | A | Preparation, palate mold | 1.54 | 0.75 | 1.40 | 0.12 | 010
42281 |  | A | Insertion, palate prosthesis | 1.93 | 0.96 | 1.78 | 0.14 | 010
42299 |  | C | Palate/uvula surgery | 0.00 | 0.00 | 0.00 | 0.00 | YYY
42300 |  | A | Drainage of salivary gland | 1.93 | 1.87 | 2.61 | 0.15 | 010
42305 |  | A | Drainage of salivary gland | 6.07 | 5.25 | NA | 0.46 | 090
42310 |  | A | Drainage of salivary gland | 1.56 | 1.64 | 2.31 | 0.11 | 010
42320 |  | A | Drainage of salivary gland | 2.35 | 2.11 | 2.73 | 0.17 | 010
42325 |  | A | Create salivary cyst drain | 2.75 | 1.16 | 3.31 | 0.17 | 090
42326 |  | A | Create salivary cyst drain | 3.78 | 1.79 | 3.28 | 0.34 | 090
42330 |  | A | Removal of salivary stone | 2.21 | 1.06 | 2.74 | 0.16 | 010
42335 |  | A | Removal of salivary stone | 3.31 | 3.61 | 3.61 | 0.23 | 090
42340 |  | A | Removal of salivary stone | 4.60 | 4.73 | 4.73 | 0.34 | 090
42400 |  | A | Biopsy of salivary gland | 0.78 | 0.39 | 2.45 | 0.06 | 000
42405 |  | A | Biopsy of salivary gland | 3.29 | 3.31 | 3.38 | 0.24 | 010
42408 |  | A | Excision of salivary cyst | 4.54 | 4.46 | 4.46 | 0.34 | 090
42409 |  | A | Drainage of salivary cyst | 2.81 | 3.35 | 3.35 | 0.20 | 090
42410 |  | A | Excise parotid gland/lesion | 9.34 | 7.83 | NA | 0.77 | 090
42415 |  | A | Excise parotid gland/lesion | 16.89 | 12.41 | NA | 1.26 | 090
42420 |  | A | Excise parotid gland/lesion | 19.59 | 13.97 | NA | 1.45 | 090
42425 |  | A | Excise parotid gland/lesion | 13.02 | 10.38 | NA | 0.98 | 090
42426 |  | A | Excise parotid gland/lesion | 21.26 | 14.76 | NA | 1.57 | 090
42440 |  | A | Excise submaxillary gland | 6.97 | 5.92 | NA | 0.51 | 090
42450 |  | A | Excise sublingual gland | 4.62 | 4.73 | 4.73 | 0.34 | 090
42500 |  | A | Repair salivary duct | 4.30 | 4.80 | 4.80 | 0.30 | 090
42505 |  | A | Repair salivary duct | 6.18 | 5.39 | 5.39 | 0.44 | 090
42507 |  | A | Parotid duct diversion | 6.11 | 5.89 | NA | 0.66 | 090
42508 |  | A | Parotid duct diversion | 9.10 | 7.89 | NA | 0.64 | 090
42509 |  | A | Parotid duct diversion | 11.54 | 9.60 | NA | 1.24 | 090
42510 |  | A | Parotid duct diversion | 8.15 | 6.93 | NA | 0.57 | 090
42550 |  | A | Injection for salivary x-ray | 1.25 | 0.43 | 13.27 | 0.06 | 000
42600 |  | A | Closure of salivary fistula | 4.82 | 5.64 | 6.24 | 0.34 | 090
42650 |  | A | Dilation of salivary duct | 0.77 | 0.40 | 1.08 | 0.06 | 000
42660 |  | A | Dilation of salivary duct | 1.13 | 1.17 | 1.17 | 0.07 | 000
42665 |  | A | Ligation of salivary duct | 2.53 | 3.48 | 3.48 | 0.17 | 090
42699 |  | C | Salivary surgery procedure | 0.00 | 0.00 | 0.00 | 0.00 | YYY
42700 |  | A | Drainage of tonsil abscess | 1.62 | 1.85 | 3.19 | 0.12 | 010
42720 |  | A | Drainage of throat abscess | 5.42 | 4.69 | 4.82 | 0.39 | 010
42725 |  | A | Drainage of throat abscess | 10.72 | 8.42 | NA | 0.80 | 090
42800 |  | A | Biopsy of throat | 1.39 | 2.55 | 3.01 | 0.10 | 010
42802 |  | A | Biopsy of throat | 1.54 | 2.64 | 3.10 | 0.11 | 010
42804 |  | A | Biopsy of upper nose/throat | 1.24 | 2.50 | 2.96 | 0.09 | 010
42806 |  | A | Biopsy of upper nose/throat | 1.58 | 2.69 | 3.43 | 0.12 | 010
42808 |  | A | Excise pharynx lesion | 2.30 | 3.09 | 4.88 | 0.17 | 010
42809 |  | A | Remove pharynx foreign body | 1.81 | 1.73 | 3.42 | 0.13 | 010
42810 |  | A | Excision of neck cyst | 3.25 | 4.44 | 5.46 | 0.25 | 090
42815 |  | A | Excision of neck cyst | 7.07 | 6.50 | NA | 0.53 | 090
42820 |  | A | Remove tonsils and adenoids | 3.91 | 3.24 | NA | 0.28 | 090
42821 |  | A | Remove tonsils and adenoids | 4.29 | 4.17 | NA | 0.30 | 090
42825 |  | A | Removal of tonsils | 3.42 | 3.64 | NA | 0.24 | 090
42826 |  | A | Removal of tonsils | 3.38 | 3.69 | NA | 0.23 | 090
42830 |  | A | Removal of adenoids | 2.57 | 2.39 | NA | 0.18 | 090
42831 |  | A | Removal of adenoids | 2.71 | 2.52 | NA | 0.19 | 090
42835 |  | A | Removal of adenoids | 2.30 | 3.09 | NA | 0.17 | 090
42836 |  | A | Removal of adenoids | 3.18 | 3.62 | NA | 0.22 | 090
42842 |  | A | Extensive surgery of throat | 8.76 | 7.73 | NA | 0.61 | 090
42844 |  | A | Extensive surgery of throat | 14.31 | 11.29 | NA | 1.04 | 090
42845 |  | A | Extensive surgery of throat | 24.29 | 17.33 | NA | 1.76 | 090
42860 |  | A | Excision of tonsil tags | 2.22 | 3.01 | NA | 0.16 | 090
42870 |  | A | Excision of lingual tonsil | 5.40 | 6.00 | NA | 0.38 | 090
42890 |  | A | Partial removal of pharynx | 12.94 | 10.72 | NA | 0.91 | 090
42892 |  | A | Revision of pharyngeal walls | 15.83 | 12.23 | NA | 1.14 | 090
42894 |  | A | Revision of pharyngeal walls | 22.88 | 16.84 | NA | 1.64 | 090
42900 |  | A | Repair throat wound | 5.25 | 3.76 | NA | 0.39 | 010
42950 |  | A | Reconstruction of throat | 8.10 | 7.46 | NA | 0.58 | 090
42953 |  | A | Repair throat, esophagus | 8.96 | 8.98 | NA | 0.73 | 090
42955 |  | A | Surgical opening of throat | 7.39 | 6.44 | NA | 0.63 | 090
42960 |  | A | Control throat bleeding | 2.33 | 2.08 | NA | 0.17 | 010
42961 |  | A | Control throat bleeding | 5.59 | 5.20 | NA | 0.40 | 090
42962 |  | A | Control throat bleeding | 7.14 | 6.13 | NA | 0.51 | 090
42970 |  | A | Control nose/throat bleeding | 5.43 | 3.75 | NA | 0.37 | 090
42971 |  | A | Control nose/throat bleeding | 6.21 | 5.75 | NA | 0.45 | 090
42972 |  | A | Control nose/throat bleeding | 7.20 | 5.48 | NA | 0.54 | 090
42999 |  | C | Throat surgery procedure | 0.00 | 0.00 | 0.00 | 0.00 | YYY
43020 |  | A | Incision of esophagus | 8.09 | 6.34 | NA | 0.70 | 090
43030 |  | A | Throat muscle surgery | 7.69 | 6.85 | NA | 0.60 | 090
43045 |  | A | Incision of esophagus | 20.12 | 10.97 | NA | 2.15 | 090
43100 |  | A | Excision of esophagus lesion | 9.19 | 7.13 | NA | 0.79 | 090
43101 |  | A | Excision of esophagus lesion | 16.24 | 8.58 | NA | 1.81 | 090
43107 |  | A | Removal of esophagus | 40.00 | 18.10 | NA | 3.29 | 090
43108 |  | A | Removal of esophagus | 34.19 | 15.66 | NA | 3.78 | 090
43112 |  | A | Removal of esophagus | 43.50 | 19.60 | NA | 3.67 | 090
43113 |  | A | Removal of esophagus | 35.27 | 16.29 | NA | 4.33 | 090
43116 |  | A | Partial removal of esophagus | 31.22 | 18.69 | NA | 2.62 | 090
43117 |  | A | Partial removal of esophagus | 40.00 | 18.09 | NA | 3.51 | 090
43118 |  | A | Partial removal of esophagus | 33.20 | 15.34 | NA | 3.56 | 090
43121 |  | A | Partial removal of esophagus | 29.19 | 14.61 | NA | 3.44 | 090
43122 |  | A | Parital removal of esophagus | 40.00 | 17.59 | NA | 3.27 | 090
43123 |  | A | Partial removal of esophagus | 33.20 | 15.66 | NA | 3.96 | 090
43124 |  | A | Removal of esophagus | 27.32 | 14.72 | NA | 2.95 | 090
43130 |  | A | Removal of esophagus pouch | 11.75 | 8.78 | NA | 1.06 | 090
43135 |  | A | Removal of esophagus pouch | 16.10 | 9.75 | NA | 1.85 | 090
43200 |  | A | Esophagus endoscopy | 1.59 | 1.17 | 7.54 | 0.11 | 000
43202 |  | A | Esophagus endoscopy, biopsy | 1.89 | 1.12 | 6.10 | 0.12 | 000
43204 |  | A | Esophagus endoscopy & inject | 3.77 | 1.66 | NA | 0.18 | 000
43205 |  | A | Esophagus endoscopy/ligation | 3.79 | 1.67 | NA | 0.17 | 000
43215 |  | A | Esophagus endoscopy | 2.60 | 1.23 | NA | 0.17 | 000
43216 |  | A | Esophagus endoscopy/lesion | 2.40 | 1.17 | NA | 0.15 | 000
43217 |  | A | Esophagus endoscopy | 2.90 | 1.33 | NA | 0.17 | 000
43219 |  | A | Esophagus endoscopy | 2.80 | 1.39 | NA | 0.16 | 000
43220 |  | A | Esoph endoscopy, dilation | 2.10 | 1.10 | NA | 0.12 | 000
43226 |  | A | Esoph endoscopy, dilation | 2.34 | 1.17 | NA | 0.12 | 000
43227 |  | A | Esoph endoscopy, repair | 3.60 | 1.59 | NA | 0.18 | 000
43228 |  | A | Esoph endoscopy, ablation | 3.77 | 1.71 | NA | 0.25 | 000
43231 |  | A | Esoph endoscopy w/us exam | 3.19 | 1.55 | NA | 0.20 | 000
43232 |  | A | Esoph endoscopy w/us fn bx | 4.48 | 2.11 | NA | 0.26 | 000
43234 |  | A | Upper GI endoscopy, exam | 2.01 | 1.03 | 4.21 | 0.13 | 000
43235 |  | A | Uppr gi endoscopy, diagnosis | 2.39 | 1.19 | 5.80 | 0.13 | 000
43239 |  | A | Upper GI endoscopy, biopsy | 2.87 | 1.23 | 6.13 | 0.14 | 000
43240 |  | A | Esoph endoscope w/drain cyst | 6.86 | 2.89 | NA | 0.36 | 000
43241 |  | A | Upper GI endoscopy with tube | 2.59 | 1.23 | NA | 0.14 | 000
43242 |  | A | Uppr gi endoscopy w/us fn bx | 7.31 | 2.58 | 2.58 | 0.29 | 000
43243 |  | A | Upper gi endoscopy & inject | 4.57 | 1.94 | NA | 0.21 | 000
43244 |  | A | Upper GI endoscopy/ligation | 5.05 | 2.12 | NA | 0.21 | 000
43245 |  | A | Operative upper GI endoscopy | 3.39 | 1.51 | NA | 0.18 | 000
43246 |  | A | Place gastrostomy tube | 4.33 | 1.79 | NA | 0.24 | 000
43247 |  | A | Operative upper GI endoscopy | 3.39 | 1.51 | NA | 0.17 | 000
43248 |  | A | Uppr gi endoscopy/guide wire | 3.15 | 1.44 | NA | 0.15 | 000
43249 |  | A | Esoph endoscopy, dilation | 2.90 | 1.35 | NA | 0.15 | 000
43250 |  | A | Upper GI endoscopy/tumor | 3.20 | 1.44 | NA | 0.17 | 000
43251 |  | A | Operative upper GI endoscopy | 3.70 | 1.62 | NA | 0.19 | 000
43255 |  | A | Operative upper GI endoscopy | 4.82 | 1.92 | NA | 0.20 | 000
43256 |  | A | Uppr gi endoscopy w stent | 4.60 | 1.62 | 1.62 | 0.23 | 000
43258 |  | A | Operative upper GI endoscopy | 4.55 | 1.93 | NA | 0.22 | 000
43259 |  | A | Endoscopic ultrasound exam | 4.89 | 2.16 | NA | 0.22 | 000
43260 |  | A | Endo cholangiopancreatograph | 5.96 | 2.43 | NA | 0.27 | 000
43261 |  | A | Endo cholangiopancreatograph | 6.27 | 2.54 | NA | 0.29 | 000
43262 |  | A | Endo cholangiopancreatograph | 7.39 | 2.95 | NA | 0.34 | 000
43263 |  | A | Endo cholangiopancreatograph | 7.29 | 2.92 | NA | 0.28 | 000
43264 |  | A | Endo cholangiopancreatograph | 8.90 | 3.49 | NA | 0.41 | 000
43265 |  | A | Endo cholangiopancreatograph | 10.02 | 3.88 | NA | 0.42 | 000
43267 |  | A | Endo cholangiopancreatograph | 7.39 | 2.95 | NA | 0.34 | 000
43268 |  | A | Endo cholangiopancreatograph | 7.39 | 2.95 | NA | 0.34 | 000
43269 |  | A | Endo cholangiopancreatograph | 8.21 | 3.24 | NA | 0.28 | 000
43271 |  | A | Endo cholangiopancreatograph | 7.39 | 2.94 | NA | 0.34 | 000
43272 |  | A | Endo cholangiopancreatograph | 7.39 | 2.95 | NA | 0.34 | 000
43280 |  | A | Laparoscopy, fundoplasty | 17.25 | 8.29 | NA | 1.76 | 090
43289 |  | C | Laparoscope proc, esoph | 0.00 | 0.00 | 0.00 | 0.00 | YYY
43300 |  | A | Repair of esophagus | 9.14 | 7.19 | NA | 0.85 | 090
43305 |  | A | Repair esophagus and fistula | 17.39 | 12.59 | NA | 1.36 | 090
43310 |  | A | Repair of esophagus | 25.39 | 14.33 | NA | 3.18 | 090
43312 |  | A | Repair esophagus and fistula | 28.42 | 17.71 | NA | 3.38 | 090
43313 |  | A | Esophagoplasty congential | 45.28 | 21.41 | NA | 5.43 | 090
43314 |  | A | Tracheo-esophagoplasty cong | 50.27 | 23.41 | NA | 5.53 | 090
43320 |  | A | Fuse esophagus & stomach | 19.93 | 10.33 | NA | 1.59 | 090
43324 |  | A | Revise esophagus & stomach | 20.57 | 9.51 | NA | 1.72 | 090
43325 |  | A | Revise esophagus & stomach | 20.06 | 9.81 | NA | 1.65 | 090
43326 |  | A | Revise esophagus & stomach | 19.74 | 10.35 | NA | 1.84 | 090
43330 |  | A | Repair of esophagus | 19.77 | 9.60 | NA | 1.52 | 090
43331 |  | A | Repair of esophagus | 20.13 | 10.98 | NA | 1.93 | 090
43340 |  | A | Fuse esophagus & intestine | 19.61 | 10.52 | NA | 1.53 | 090
43341 |  | A | Fuse esophagus & intestine | 20.85 | 11.90 | NA | 2.14 | 090
43350 |  | A | Surgical opening, esophagus | 15.78 | 10.05 | NA | 1.15 | 090
43351 |  | A | Surgical opening, esophagus | 18.35 | 10.38 | NA | 1.51 | 090
43352 |  | A | Surgical opening, esophagus | 15.26 | 9.59 | NA | 1.28 | 090
43360 |  | A | Gastrointestinal repair | 35.70 | 16.40 | NA | 3.00 | 090
43361 |  | A | Gastrointestinal repair | 40.50 | 18.21 | NA | 3.52 | 090
43400 |  | A | Ligate esophagus veins | 21.20 | 10.32 | NA | 0.99 | 090
43401 |  | A | Esophagus surgery for veins | 22.09 | 10.28 | NA | 1.73 | 090
43405 |  | A | Ligate/staple esophagus | 20.01 | 9.44 | NA | 1.63 | 090
43410 |  | A | Repair esophagus wound | 13.47 | 8.78 | NA | 1.15 | 090
43415 |  | A | Repair esophagus wound | 25.00 | 12.19 | NA | 1.92 | 090
43420 |  | A | Repair esophagus opening | 14.35 | 8.85 | NA | 0.86 | 090
43425 |  | A | Repair esophagus opening | 21.03 | 11.04 | NA | 2.03 | 090
43450 |  | A | Dilate esophagus | 1.38 | 0.61 | 1.39 | 0.07 | 000
43453 |  | A | Dilate esophagus | 1.51 | 0.66 | NA | 0.08 | 000
43456 |  | A | Dilate esophagus | 2.57 | 1.04 | NA | 0.14 | 000
43458 |  | A | Dilate esophagus | 3.06 | 1.23 | NA | 0.17 | 000
43460 |  | A | Pressure treatment esophagus | 3.80 | 1.50 | NA | 0.21 | 000
43496 |  | C | Free jejunum flap, microvasc | 0.00 | 0.00 | 0.00 | 0.00 | 090
43499 |  | C | Esophagus surgery procedure | 0.00 | 0.00 | 0.00 | 0.00 | YYY
43500 |  | A | Surgical opening of stomach | 11.05 | 5.08 | NA | 0.84 | 090
43501 |  | A | Surgical repair of stomach | 20.04 | 8.61 | NA | 1.55 | 090
43502 |  | A | Surgical repair of stomach | 23.13 | 9.79 | NA | 1.83 | 090
43510 |  | A | Surgical opening of stomach | 13.08 | 7.50 | NA | 0.90 | 090
43520 |  | A | Incision of pyloric muscle | 9.99 | 5.75 | NA | 0.84 | 090
43600 |  | A | Biopsy of stomach | 1.91 | 1.00 | NA | 0.11 | 000
43605 |  | A | Biopsy of stomach | 11.98 | 5.40 | NA | 0.93 | 090
43610 |  | A | Excision of stomach lesion | 14.60 | 6.71 | NA | 1.14 | 090
43611 |  | A | Excision of stomach lesion | 17.84 | 7.95 | NA | 1.38 | 090
43620 |  | A | Removal of stomach | 30.04 | 12.71 | NA | 2.29 | 090
43621 |  | A | Removal of stomach | 30.73 | 12.88 | NA | 2.36 | 090
43622 |  | A | Removal of stomach | 32.53 | 13.49 | NA | 2.48 | 090
43631 |  | A | Removal of stomach, partial | 22.59 | 9.46 | NA | 1.99 | 090
43632 |  | A | Removal of stomach, partial | 22.59 | 9.48 | NA | 2.00 | 090
43633 |  | A | Removal of stomach, partial | 23.10 | 9.66 | NA | 2.05 | 090
43634 |  | A | Removal of stomach, partial | 25.12 | 10.47 | NA | 2.18 | 090
43635 |  | A | Removal of stomach, partial | 2.06 | 0.72 | NA | 0.21 | ZZZ
43638 |  | A | Removal of stomach, partial | 29.00 | 11.76 | NA | 2.24 | 090
43639 |  | A | Removal of stomach, partial | 29.65 | 12.02 | NA | 2.31 | 090
43640 |  | A | Vagotomy & pylorus repair | 17.02 | 7.54 | NA | 1.51 | 090
43641 |  | A | Vagotomy & pylorus repair | 17.27 | 7.65 | NA | 1.53 | 090
43651 |  | A | Laparoscopy, vagus nerve | 10.15 | 4.58 | NA | 1.03 | 090
43652 |  | A | Laparoscopy, vagus nerve | 12.15 | 5.41 | NA | 1.25 | 090
43653 |  | A | Laparoscopy, gastrostomy | 7.73 | 4.31 | NA | 0.78 | 090
43659 |  | C | Laparoscope proc, stom | 0.00 | 0.00 | 0.00 | 0.00 | YYY
43750 |  | A | Place gastrostomy tube | 4.49 | 2.62 | NA | 0.33 | 010
43752 |  | B | Nasal/orogastric w/stent | 0.00 | 0.00 | 0.00 | 0.00 | XXX
43760 |  | A | Change gastrostomy tube | 1.10 | 0.45 | 1.43 | 0.07 | 000
43761 |  | A | Reposition gastrostomy tube | 2.01 | 0.81 | NA | 0.10 | 000
43800 |  | A | Reconstruction of pylorus | 13.69 | 6.45 | NA | 1.07 | 090
43810 |  | A | Fusion of stomach and bowel | 14.65 | 6.75 | NA | 1.10 | 090
43820 |  | A | Fusion of stomach and bowel | 15.37 | 6.97 | NA | 1.18 | 090
43825 |  | A | Fusion of stomach and bowel | 19.22 | 8.31 | NA | 1.50 | 090
43830 |  | A | Place gastrostomy tube | 9.53 | 4.94 | NA | 0.69 | 090
43831 |  | A | Place gastrostomy tube | 7.84 | 4.28 | NA | 0.81 | 090
43832 |  | A | Place gastrostomy tube | 15.60 | 7.47 | NA | 1.13 | 090
43840 |  | A | Repair of stomach lesion | 15.56 | 7.02 | NA | 1.20 | 090
43842 |  | A | Gastroplasty for obesity | 18.47 | 11.14 | NA | 1.51 | 090
43843 |  | A | Gastroplasty for obesity | 18.65 | 10.77 | NA | 1.53 | 090
43846 |  | A | Gastric bypass for obesity | 24.05 | 13.28 | NA | 1.96 | 090
43847 |  | A | Gastric bypass for obesity | 26.92 | 15.00 | NA | 2.14 | 090
43848 |  | A | Revision gastroplasty | 29.39 | 15.96 | NA | 2.39 | 090
43850 |  | A | Revise stomach-bowel fusion | 24.72 | 10.15 | NA | 1.97 | 090
43855 |  | A | Revise stomach-bowel fusion | 26.16 | 10.77 | NA | 2.01 | 090
43860 |  | A | Revise stomach-bowel fusion | 25.00 | 10.32 | NA | 2.03 | 090
43865 |  | A | Revise stomach-bowel fusion | 26.52 | 10.92 | NA | 2.15 | 090
43870 |  | A | Repair stomach opening | 9.69 | 5.04 | NA | 0.71 | 090
43880 |  | A | Repair stomach-bowel fistula | 24.65 | 10.67 | NA | 1.94 | 090
43999 |  | C | Stomach surgery procedure | 0.00 | 0.00 | 0.00 | 0.00 | YYY
44005 |  | A | Freeing of bowel adhesion | 16.23 | 7.23 | NA | 1.39 | 090
44010 |  | A | Incision of small bowel | 12.52 | 6.32 | NA | 1.05 | 090
44015 |  | A | Insert needle cath bowel | 2.62 | 0.91 | NA | 0.25 | ZZZ
44020 |  | A | Explore small intestine | 13.99 | 6.41 | NA | 1.20 | 090
44021 |  | A | Decompress small bowel | 14.08 | 6.85 | NA | 1.18 | 090
44025 |  | A | Incision of large bowel | 14.28 | 6.51 | NA | 1.21 | 090
44050 |  | A | Reduce bowel obstruction | 14.03 | 6.43 | NA | 1.15 | 090
44055 |  | A | Correct malrotation of bowel | 22.00 | 9.23 | NA | 1.32 | 090
44100 |  | A | Biopsy of bowel | 2.01 | 1.06 | NA | 0.12 | 000
44110 |  | A | Excise intestine lesion(s) | 11.81 | 5.72 | NA | 1.00 | 090
44111 |  | A | Excision of bowel lesion(s) | 14.29 | 7.08 | NA | 1.22 | 090
44120 |  | A | Removal of small intestine | 17.00 | 7.47 | NA | 1.46 | 090
44121 |  | A | Removal of small intestine | 4.45 | 1.56 | NA | 0.45 | ZZZ
44125 |  | A | Removal of small intestine | 17.54 | 7.65 | NA | 1.49 | 090
44126 |  | A | Enterectomy w/taper, cong | 35.50 | 17.56 | NA | 0.36 | 090
44127 |  | A | Enterectomy w/o taper, cong | 41.00 | 20.01 | NA | 0.41 | 090
44128 |  | A | Enterectomy cong, add-on | 4.45 | 1.72 | NA | 0.45 | ZZZ
44130 |  | A | Bowel to bowel fusion | 14.49 | 6.59 | NA | 1.23 | 090
44132 |  | R | Enterectomy, cadaver donor | 0.00 | 0.00 | 0.00 | 0.00 | XXX
44133 |  | R | Enterectomy, live donor | 0.00 | 0.00 | 0.00 | 0.00 | XXX
44135 |  | R | Intestine transplnt, cadaver | 0.00 | 0.00 | 0.00 | 0.00 | XXX
44136 |  | R | Intestine transplant, live | 0.00 | 0.00 | 0.00 | 0.00 | XXX
44139 |  | A | Mobilization of colon | 2.23 | 0.78 | NA | 0.21 | ZZZ
44140 |  | A | Partial removal of colon | 21.00 | 9.32 | NA | 1.83 | 090
44141 |  | A | Partial removal of colon | 19.51 | 11.64 | NA | 1.95 | 090
44143 |  | A | Partial removal of colon | 22.99 | 12.83 | NA | 2.02 | 090
44144 |  | A | Partial removal of colon | 21.53 | 11.48 | NA | 1.89 | 090
44145 |  | A | Partial removal of colon | 26.42 | 11.62 | NA | 2.22 | 090
44146 |  | A | Partial removal of colon | 27.54 | 14.95 | NA | 2.20 | 090
44147 |  | A | Partial removal of colon | 20.71 | 9.94 | NA | 1.74 | 090
44150 |  | A | Removal of colon | 23.95 | 13.76 | NA | 2.05 | 090
44151 |  | A | Removal of colon/ileostomy | 26.88 | 14.99 | NA | 1.97 | 090
44152 |  | A | Removal of colon/ileostomy | 27.83 | 16.51 | NA | 2.36 | 090
44153 |  | A | Removal of colon/ileostomy | 30.59 | 16.36 | NA | 2.33 | 090
44155 |  | A | Removal of colon/ileostomy | 27.86 | 14.99 | NA | 2.26 | 090
44156 |  | A | Removal of colon/ileostomy | 30.79 | 16.97 | NA | 2.19 | 090
44160 |  | A | Removal of colon | 18.62 | 8.45 | NA | 1.55 | 090
44200 |  | A | Laparoscopy, enterolysis | 14.44 | 6.63 | NA | 1.46 | 090
44201 |  | A | Laparoscopy, jejunostomy | 9.78 | 5.11 | NA | 0.97 | 090
44202 |  | A | Lap resect s/intestine singl | 22.04 | 9.63 | NA | 2.16 | 090
44203 |  | A | Lap resect s/intestine, addl | 4.45 | 1.56 | NA | 0.45 | ZZZ
44204 |  | A | Laparo partial colectomy | 25.08 | 10.22 | NA | 1.83 | 090
44205 |  | A | Lap colectomy part w/ileum | 22.23 | 9.08 | NA | 1.55 | 090
44209 |  | C | Laparoscope proc, intestine | 0.00 | 0.00 | 0.00 | 0.00 | YYY
44300 |  | A | Open bowel to skin | 12.11 | 6.59 | NA | 0.88 | 090
44310 |  | A | Ileostomy/jejunostomy | 15.95 | 10.27 | NA | 1.13 | 090
44312 |  | A | Revision of ileostomy | 8.02 | 5.13 | NA | 0.54 | 090
44314 |  | A | Revision of ileostomy | 15.05 | 10.27 | NA | 0.99 | 090
44316 |  | A | Devise bowel pouch | 21.09 | 13.78 | NA | 1.41 | 090
44320 |  | A | Colostomy | 17.64 | 11.82 | NA | 1.28 | 090
44322 |  | A | Colostomy with biopsies | 11.98 | 10.08 | NA | 1.18 | 090
44340 |  | A | Revision of colostomy | 7.72 | 4.70 | NA | 0.56 | 090
44345 |  | A | Revision of colostomy | 15.43 | 8.17 | NA | 1.11 | 090
44346 |  | A | Revision of colostomy | 16.99 | 8.68 | NA | 1.20 | 090
44360 |  | A | Small bowel endoscopy | 2.59 | 1.35 | NA | 0.14 | 000
44361 |  | A | Small bowel endoscopy/biopsy | 2.87 | 1.45 | NA | 0.15 | 000
44363 |  | A | Small bowel endoscopy | 3.50 | 1.63 | NA | 0.19 | 000
44364 |  | A | Small bowel endoscopy | 3.74 | 1.75 | NA | 0.21 | 000
44365 |  | A | Small bowel endoscopy | 3.31 | 1.62 | NA | 0.18 | 000
44366 |  | A | Small bowel endoscopy | 4.41 | 2.00 | NA | 0.22 | 000
44369 |  | A | Small bowel endoscopy | 4.52 | 2.00 | NA | 0.23 | 000
44370 |  | A | Small bowel endoscopy/stent | 4.80 | 1.72 | 1.72 | 0.21 | 000
44372 |  | A | Small bowel endoscopy | 4.41 | 2.00 | NA | 0.27 | 000
44373 |  | A | Small bowel endoscopy | 3.50 | 1.72 | NA | 0.19 | 000
44376 |  | A | Small bowel endoscopy | 5.26 | 2.29 | NA | 0.29 | 000
44377 |  | A | Small bowel endoscopy/biopsy | 5.53 | 2.41 | NA | 0.28 | 000
44378 |  | A | Small bowel endoscopy | 7.13 | 2.98 | NA | 0.37 | 000
44379 |  | A | S bowel endoscope w/stent | 7.47 | 2.63 | 2.63 | 0.38 | 000
44380 |  | A | Small bowel endoscopy | 1.05 | 0.77 | NA | 0.08 | 000
44382 |  | A | Small bowel endoscopy | 1.27 | 0.86 | NA | 0.09 | 000
44383 |  | A | Ileoscopy w/stent | 3.26 | 1.13 | 1.13 | 0.13 | 000
44385 |  | A | Endoscopy of bowel pouch | 1.82 | 0.94 | 4.84 | 0.12 | 000
44386 |  | A | Endoscopy, bowel pouch/biop | 2.12 | 1.08 | 6.12 | 0.15 | 000
44388 |  | A | Colon endoscopy | 2.82 | 1.37 | 6.45 | 0.18 | 000
44389 |  | A | Colonoscopy with biopsy | 3.13 | 1.51 | 7.16 | 0.18 | 000
44390 |  | A | Colonoscopy for foreign body | 3.83 | 1.72 | 6.97 | 0.22 | 000
44391 |  | A | Colonoscopy for bleeding | 4.32 | 1.73 | 5.95 | 0.23 | 000
44392 |  | A | Colonoscopy & polypectomy | 3.82 | 1.73 | 7.43 | 0.23 | 000
44393 |  | A | Colonoscopy, lesion removal | 4.84 | 2.11 | 7.66 | 0.27 | 000
44394 |  | A | Colonoscopy w/snare | 4.43 | 1.97 | 7.90 | 0.26 | 000
44397 |  | A | Colonoscopy w stent | 4.71 | 2.04 | NA | 0.28 | 000
44500 |  | A | Intro, gastrointestinal tube | 0.49 | 0.37 | NA | 0.02 | 000
44602 |  | A | Suture, small intestine | 16.03 | 7.14 | NA | 1.07 | 090
44603 |  | A | Suture, small intestine | 18.66 | 8.05 | NA | 1.39 | 090
44604 |  | A | Suture, large intestine | 16.03 | 7.13 | NA | 1.42 | 090
44605 |  | A | Repair of bowel lesion | 19.53 | 8.75 | NA | 1.54 | 090
44615 |  | A | Intestinal stricturoplasty | 15.93 | 7.13 | NA | 1.39 | 090
44620 |  | A | Repair bowel opening | 12.20 | 5.73 | NA | 1.05 | 090
44625 |  | A | Repair bowel opening | 15.05 | 6.72 | NA | 1.30 | 090
44626 |  | A | Repair bowel opening | 25.36 | 10.29 | NA | 2.19 | 090
44640 |  | A | Repair bowel-skin fistula | 21.65 | 9.46 | NA | 1.46 | 090
44650 |  | A | Repair bowel fistula | 22.57 | 9.77 | NA | 1.49 | 090
44660 |  | A | Repair bowel-bladder fistula | 21.36 | 9.27 | NA | 1.14 | 090
44661 |  | A | Repair bowel-bladder fistula | 24.81 | 10.46 | NA | 1.53 | 090
44680 |  | A | Surgical revision, intestine | 15.40 | 7.29 | NA | 1.37 | 090
44700 |  | A | Suspend bowel w/prosthesis | 16.11 | 7.57 | NA | 1.21 | 090
44799 |  | C | Intestine surgery procedure | 0.00 | 0.00 | 0.00 | 0.00 | YYY
44800 |  | A | Excision of bowel pouch | 11.23 | 5.46 | NA | 1.11 | 090
44820 |  | A | Excision of mesentery lesion | 12.09 | 5.81 | NA | 1.03 | 090
44850 |  | A | Repair of mesentery | 10.74 | 5.37 | NA | 0.99 | 090
44899 |  | C | Bowel surgery procedure | 0.00 | 0.00 | 0.00 | 0.00 | YYY
44900 |  | A | Drain app abscess, open | 10.14 | 5.82 | NA | 0.84 | 090
44901 |  | A | Drain app abscess, percut | 3.38 | 4.43 | NA | 0.17 | 000
44950 |  | A | Appendectomy | 10.00 | 5.19 | NA | 0.88 | 090
44955 |  | A | Appendectomy add-on | 1.53 | 0.55 | NA | 0.16 | ZZZ
44960 |  | A | Appendectomy | 12.34 | 6.34 | NA | 1.09 | 090
44970 |  | A | Laparoscopy, appendectomy | 8.70 | 4.12 | NA | 0.88 | 090
44979 |  | C | Laparoscope proc, app | 0.00 | 0.00 | 0.00 | 0.00 | YYY
45000 |  | A | Drainage of pelvic abscess | 4.52 | 3.84 | NA | 0.37 | 090
45005 |  | A | Drainage of rectal abscess | 1.99 | 1.56 | 4.57 | 0.18 | 010
45020 |  | A | Drainage of rectal abscess | 4.72 | 3.82 | NA | 0.41 | 090
45100 |  | A | Biopsy of rectum | 3.68 | 2.04 | 4.82 | 0.33 | 090
45108 |  | A | Removal of anorectal lesion | 4.76 | 2.96 | 6.23 | 0.46 | 090
45110 |  | A | Removal of rectum | 28.00 | 12.91 | NA | 2.26 | 090
45111 |  | A | Partial removal of rectum | 16.48 | 8.59 | NA | 1.60 | 090
45112 |  | A | Removal of rectum | 30.54 | 13.34 | NA | 2.35 | 090
45113 |  | A | Partial proctectomy | 30.58 | 12.80 | NA | 2.13 | 090
45114 |  | A | Partial removal of rectum | 27.32 | 12.22 | NA | 2.28 | 090
45116 |  | A | Partial removal of rectum | 24.58 | 11.02 | NA | 2.00 | 090
45119 |  | A | Remove rectum w/reservoir | 30.84 | 13.02 | NA | 2.13 | 090
45120 |  | A | Removal of rectum | 24.60 | 11.33 | NA | 2.28 | 090
45121 |  | A | Removal of rectum and colon | 27.04 | 12.49 | NA | 2.66 | 090
45123 |  | A | Partial proctectomy | 16.71 | 7.82 | NA | 1.04 | 090
45126 |  | A | Pelvic exenteration | 45.16 | 19.67 | NA | 3.23 | 090
45130 |  | A | Excision of rectal prolapse | 16.44 | 7.59 | NA | 1.12 | 090
45135 |  | A | Excision of rectal prolapse | 19.28 | 8.98 | NA | 1.52 | 090
45136 |  | A | Excise ileoanal reservoir | 27.30 | 12.34 | NA | 2.19 | 090
45150 |  | A | Excision of rectal stricture | 5.67 | 3.09 | 5.38 | 0.46 | 090
45160 |  | A | Excision of rectal lesion | 15.32 | 7.00 | NA | 1.07 | 090
45170 |  | A | Excision of rectal lesion | 11.49 | 5.74 | NA | 0.89 | 090
45190 |  | A | Destruction, rectal tumor | 9.74 | 5.13 | NA | 0.76 | 090
45300 |  | A | Proctosigmoidoscopy dx | 0.38 | 0.22 | 1.33 | 0.05 | 000
45303 |  | A | Proctosigmoidoscopy dilate | 0.44 | 0.26 | 1.57 | 0.06 | 000
45305 |  | A | Protosigmoidoscopy w/bx | 1.01 | 0.44 | 1.59 | 0.09 | 000
45307 |  | A | Protosigmoidoscopy fb | 0.94 | 0.42 | 2.50 | 0.15 | 000
45308 |  | A | Protosigmoidoscopy removal | 0.83 | 0.38 | 1.55 | 0.13 | 000
45309 |  | A | Protosigmoidoscopy removal | 2.01 | 0.79 | 2.40 | 0.17 | 000
45315 |  | A | Protosigmoidoscopy removal | 1.40 | 0.58 | 2.58 | 0.20 | 000
45317 |  | A | Protosigmoidoscopy bleed | 1.50 | 0.61 | 1.87 | 0.20 | 000
45320 |  | A | Protosigmoidoscopy ablate | 1.58 | 0.65 | 1.82 | 0.20 | 000
45321 |  | A | Protosigmoidoscopy volvul | 1.17 | 0.51 | NA | 0.17 | 000
45327 |  | A | Proctosigmoidoscopy w/stent | 1.65 | 0.87 | NA | 0.10 | 000
45330 |  | A | Diagnostic sigmoidoscopy | 0.96 | 0.51 | 1.82 | 0.05 | 000
45331 |  | A | Sigmoidoscopy and biopsy | 1.15 | 0.52 | 2.23 | 0.07 | 000
45332 |  | A | Sigmoidoscopy w/fb removal | 1.79 | 0.74 | 3.91 | 0.11 | 000
45333 |  | A | Sigmoidoscopy & polypectomy | 1.79 | 0.74 | 3.57 | 0.12 | 000
45334 |  | A | Sigmoidoscopy for bleeding | 2.73 | 1.09 | NA | 0.16 | 000
45337 |  | A | Sigmoidoscopy & decompress | 2.36 | 0.95 | NA | 0.15 | 000
45338 |  | A | Sigmoidoscpy w/tumr remove | 2.34 | 0.94 | 4.29 | 0.15 | 000
45339 |  | A | Sigmoidoscopy w/ablate tumr | 3.14 | 1.23 | 3.34 | 0.17 | 000
45341 |  | A | Sigmoidoscopy w/ultrasound | 2.60 | 1.36 | NA | 0.20 | 000
45342 |  | A | Sigmoidoscopy w/us guide bx | 4.06 | 1.79 | NA | 0.23 | 000
45345 |  | A | Sigmodoscopy w/stent | 2.92 | 1.39 | NA | 0.15 | 000
45355 |  | A | Surgical colonoscopy | 3.52 | 1.24 | NA | 0.26 | 000
45378 |  | A | Diagnostic colonoscopy | 3.70 | 1.71 | 7.97 | 0.20 | 000
45378 | 53 | A | Diagnostic colonoscopy | 0.96 | 0.51 | 1.82 | 0.05 | 000
45379 |  | A | Colonoscopy w/fb removal | 4.69 | 2.07 | 8.18 | 0.25 | 000
45380 |  | A | Colonoscopy and biopsy | 4.44 | 1.99 | 8.40 | 0.21 | 000
45382 |  | A | Colonoscopy/control bleeding | 5.69 | 2.23 | 9.67 | 0.27 | 000
45383 |  | A | Lesion removal colonoscopy | 5.87 | 2.48 | 9.28 | 0.32 | 000
45384 |  | A | Lesion remove colonoscopy | 4.70 | 2.08 | 9.02 | 0.24 | 000
45385 |  | A | Lesion removal colonoscopy | 5.31 | 2.30 | 9.20 | 0.28 | 000
45387 |  | A | Colonoscopy w/stent | 5.91 | 2.50 | NA | 0.33 | 000
45500 |  | A | Repair of rectum | 7.29 | 4.13 | NA | 0.56 | 090
45505 |  | A | Repair of rectum | 7.58 | 3.69 | NA | 0.50 | 090
45520 |  | A | Treatment of rectal prolapse | 0.55 | 0.19 | 0.76 | 0.04 | 000
45540 |  | A | Correct rectal prolapse | 16.27 | 7.91 | NA | 1.17 | 090
45541 |  | A | Correct rectal prolapse | 13.40 | 6.79 | NA | 0.88 | 090
45550 |  | A | Repair rectum/remove sigmoid | 23.00 | 10.17 | NA | 1.58 | 090
45560 |  | A | Repair of rectocele | 10.58 | 5.96 | NA | 0.73 | 090
45562 |  | A | Exploration/repair of rectum | 15.38 | 7.31 | NA | 1.15 | 090
45563 |  | A | Exploration/repair of rectum | 23.47 | 10.99 | NA | 1.84 | 090
45800 |  | A | Repair rect/bladder fistula | 17.77 | 7.98 | NA | 1.14 | 090
45805 |  | A | Repair fistula w/colostomy | 20.78 | 10.00 | NA | 1.47 | 090
45820 |  | A | Repair rectourethral fistula | 18.48 | 8.22 | NA | 1.17 | 090
45825 |  | A | Repair fistula w/colostomy | 21.25 | 10.30 | NA | 0.97 | 090
45900 |  | A | Reduction of rectal prolapse | 2.61 | 1.02 | NA | 0.17 | 010
45905 |  | A | Dilation of anal sphincter | 2.30 | 0.93 | 11.95 | 0.14 | 010
45910 |  | A | Dilation of rectal narrowing | 2.80 | 1.12 | 16.25 | 0.14 | 010
45915 |  | A | Remove rectal obstruction | 3.14 | 1.11 | 4.72 | 0.17 | 010
45999 |  | C | Rectum surgery procedure | 0.00 | 0.00 | 0.00 | 0.00 | YYY
46020 |  | A | Placement of seton | 2.90 | 2.32 | 3.04 | 0.22 | 010
46030 |  | A | Removal of rectal marker | 1.23 | 1.19 | 2.99 | 0.11 | 010
46040 |  | A | Incision of rectal abscess | 4.96 | 3.04 | 5.35 | 0.48 | 090
46045 |  | A | Incision of rectal abscess | 4.32 | 2.76 | NA | 0.40 | 090
46050 |  | A | Incision of anal abscess | 1.19 | 1.32 | 3.55 | 0.11 | 010
46060 |  | A | Incision of rectal abscess | 5.69 | 3.69 | NA | 0.52 | 090
46070 |  | A | Incision of anal septum | 2.71 | 2.36 | NA | 0.27 | 090
46080 |  | A | Incision of anal sphincter | 2.49 | 1.60 | 3.63 | 0.23 | 010
46083 |  | A | Incise external hemorrhoid | 1.40 | 1.52 | 4.66 | 0.12 | 010
46200 |  | A | Removal of anal fissure | 3.42 | 2.33 | 3.91 | 0.30 | 090
46210 |  | A | Removal of anal crypt | 2.67 | 2.16 | 5.04 | 0.26 | 090
46211 |  | A | Removal of anal crypts | 4.25 | 2.84 | 5.24 | 0.37 | 090
46220 |  | A | Removal of anal tab | 1.56 | 0.54 | 1.27 | 0.14 | 010
46221 |  | A | Ligation of hemorrhoid(s) | 2.04 | 1.07 | 1.71 | 0.12 | 010
46230 |  | A | Removal of anal tabs | 2.57 | 1.65 | 4.27 | 0.22 | 010
46250 |  | A | Hemorrhoidectomy | 3.89 | 2.64 | 5.33 | 0.43 | 090
46255 |  | A | Hemorrhoidectomy | 4.60 | 2.85 | 6.01 | 0.51 | 090
46257 |  | A | Remove hemorrhoids & fissure | 5.40 | 3.05 | NA | 0.59 | 090
46258 |  | A | Remove hemorrhoids & fistula | 5.73 | 3.19 | NA | 0.64 | 090
46260 |  | A | Hemorrhoidectomy | 6.37 | 3.90 | NA | 0.68 | 090
46261 |  | A | Remove hemorrhoids & fissure | 7.08 | 4.03 | NA | 0.70 | 090
46262 |  | A | Remove hemorrhoids & fistula | 7.50 | 4.24 | NA | 0.76 | 090
46270 |  | A | Removal of anal fistula | 3.72 | 2.55 | 5.00 | 0.36 | 090
46275 |  | A | Removal of anal fistula | 4.56 | 2.74 | 4.76 | 0.40 | 090
46280 |  | A | Removal of anal fistula | 5.98 | 3.68 | NA | 0.50 | 090
46285 |  | A | Removal of anal fistula | 4.09 | 2.58 | 4.11 | 0.34 | 090
46288 |  | A | Repair anal fistula | 7.13 | 4.16 | NA | 0.60 | 090
46320 |  | A | Removal of hemorrhoid clot | 1.61 | 1.54 | 3.88 | 0.14 | 010
46500 |  | A | Injection into hemorrhoid(s) | 1.61 | 0.57 | 2.79 | 0.12 | 010
46600 |  | A | Diagnostic anoscopy | 0.50 | 0.15 | 0.79 | 0.04 | 000
46604 |  | A | Anoscopy and dilation | 1.31 | 0.46 | 0.96 | 0.09 | 000
46606 |  | A | Anoscopy and biopsy | 0.81 | 0.28 | 0.86 | 0.07 | 000
46608 |  | A | Anoscopy/ remove for body | 1.51 | 0.47 | 1.83 | 0.13 | 000
46610 |  | A | Anoscopy/remove lesion | 1.32 | 0.47 | 1.46 | 0.12 | 000
46611 |  | A | Anoscopy | 1.81 | 0.63 | 1.99 | 0.15 | 000
46612 |  | A | Anoscopy/ remove lesions | 2.34 | 0.83 | 2.46 | 0.18 | 000
46614 |  | A | Anoscopy/control bleeding | 2.01 | 0.69 | 1.81 | 0.14 | 000
46615 |  | A | Anoscopy | 2.68 | 0.94 | 1.73 | 0.23 | 000
46700 |  | A | Repair of anal stricture | 9.13 | 4.63 | NA | 0.56 | 090
46705 |  | A | Repair of anal stricture | 6.90 | 4.17 | NA | 0.73 | 090
46715 |  | A | Repair of anovaginal fistula | 7.20 | 4.28 | NA | 0.76 | 090
46716 |  | A | Repair of anovaginal fistula | 15.07 | 7.34 | NA | 1.30 | 090
46730 |  | A | Construction of absent anus | 26.75 | 11.99 | NA | 2.03 | 090
46735 |  | A | Construction of absent anus | 32.17 | 14.02 | NA | 2.64 | 090
46740 |  | A | Construction of absent anus | 30.00 | 12.84 | NA | 1.99 | 090
46742 |  | A | Repair of imperforated anus | 35.80 | 17.81 | NA | 2.63 | 090
46744 |  | A | Repair of cloacal anomaly | 52.63 | 21.91 | NA | 2.27 | 090
46746 |  | A | Repair of cloacal anomaly | 58.22 | 26.99 | NA | 2.51 | 090
46748 |  | A | Repair of cloacal anomaly | 64.21 | 27.32 | NA | 2.77 | 090
46750 |  | A | Repair of anal sphincter | 10.25 | 5.66 | NA | 0.69 | 090
46751 |  | A | Repair of anal sphincter | 8.77 | 6.01 | NA | 0.78 | 090
46753 |  | A | Reconstruction of anus | 8.29 | 4.00 | NA | 0.58 | 090
46754 |  | A | Removal of suture from anus | 2.20 | 1.36 | 5.33 | 0.12 | 010
46760 |  | A | Repair of anal sphincter | 14.43 | 7.06 | NA | 0.86 | 090
46761 |  | A | Repair of anal sphincter | 13.84 | 6.58 | NA | 0.84 | 090
46762 |  | A | Implant artificial sphincter | 12.71 | 5.77 | NA | 0.71 | 090
46900 |  | A | Destruction, anal lesion(s) | 1.91 | 0.74 | 3.48 | 0.13 | 010
46910 |  | A | Destruction, anal lesion(s) | 1.86 | 1.45 | 3.64 | 0.14 | 010
46916 |  | A | Cryosurgery, anal lesion(s) | 1.86 | 1.58 | 3.28 | 0.09 | 010
46917 |  | A | Laser surgery, anal lesions | 1.86 | 1.53 | 4.72 | 0.16 | 010
46922 |  | A | Excision of anal lesion(s) | 1.86 | 1.43 | 3.86 | 0.17 | 010
46924 |  | A | Destruction, anal lesion(s) | 2.76 | 1.69 | 4.94 | 0.20 | 010
46934 |  | A | Destruction of hemorrhoids | 3.51 | 3.57 | 6.27 | 0.26 | 090
46935 |  | A | Destruction of hemorrhoids | 2.43 | 0.85 | 4.27 | 0.17 | 010
46936 |  | A | Destruction of hemorrhoids | 3.69 | 3.40 | 5.95 | 0.30 | 090
46937 |  | A | Cryotherapy of rectal lesion | 2.69 | 1.76 | 3.99 | 0.12 | 010
46938 |  | A | Cryotherapy of rectal lesion | 4.66 | 3.24 | 4.96 | 0.40 | 090
46940 |  | A | Treatment of anal fissure | 2.32 | 0.80 | 3.21 | 0.17 | 010
46942 |  | A | Treatment of anal fissure | 2.04 | 0.69 | 2.95 | 0.14 | 010
46945 |  | A | Ligation of hemorrhoids | 1.84 | 2.14 | 3.98 | 0.17 | 090
46946 |  | A | Ligation of hemorrhoids | 2.58 | 2.43 | 5.00 | 0.22 | 090
46999 |  | C | Anus surgery procedure | 0.00 | 0.00 | 0.00 | 0.00 | YYY
47000 |  | A | Needle biopsy of liver | 1.90 | 0.65 | 8.60 | 0.09 | 000
47001 |  | A | Needle biopsy, liver add-on | 1.90 | 0.66 | NA | 0.18 | ZZZ
47010 |  | A | Open drainage, liver lesion | 16.01 | 9.66 | NA | 0.65 | 090
47011 |  | A | Percut drain, liver lesion | 3.70 | 4.43 | NA | 0.17 | 000
47015 |  | A | Inject/aspirate liver cyst | 15.11 | 7.94 | NA | 0.86 | 090
47100 |  | A | Wedge biopsy of liver | 11.67 | 6.33 | NA | 0.75 | 090
47120 |  | A | Partial removal of liver | 35.50 | 16.59 | NA | 2.29 | 090
47122 |  | A | Extensive removal of liver | 55.13 | 23.47 | NA | 3.60 | 090
47125 |  | A | Partial removal of liver | 49.19 | 21.48 | NA | 3.18 | 090
47130 |  | A | Partial removal of liver | 53.35 | 22.88 | NA | 3.47 | 090
47133 |  | X | Removal of donor liver | 0.00 | 0.00 | 0.00 | 0.00 | XXX
47134 |  | R | Partial removal, donor liver | 39.15 | 13.56 | NA | 3.98 | XXX
47135 |  | R | Transplantation of liver | 81.52 | 42.51 | NA | 8.13 | 090
47136 |  | R | Transplantation of liver | 68.60 | 45.98 | NA | 6.93 | 090
47300 |  | A | Surgery for liver lesion | 15.08 | 7.59 | NA | 0.97 | 090
47350 |  | A | Repair liver wound | 19.56 | 9.24 | NA | 1.25 | 090
47360 |  | A | Repair liver wound | 26.92 | 12.54 | NA | 1.71 | 090
47361 |  | A | Repair liver wound | 47.12 | 19.12 | NA | 3.11 | 090
47362 |  | A | Repair liver wound | 18.51 | 9.54 | NA | 1.22 | 090
47370 |  | A | Laparo ablate liver tumor rf | 18.00 | 6.96 | 6.96 | 0.85 | 090
47371 |  | A | Laparo ablate liver cryosug | 16.94 | 6.55 | 6.55 | 0.85 | 090
47379 |  | C | Laparoscope procedure, liver | 0.00 | 0.00 | 0.00 | 0.00 | YYY
47380 |  | A | Open ablate liver tumor rf | 21.25 | 8.21 | 8.21 | 0.85 | 090
47381 |  | A | Open ablate liver tumor cryo | 21.00 | 8.12 | 8.12 | 0.85 | 090
47382 |  | A | Percut ablate liver rf | 12.00 | 5.22 | NA | 0.85 | 010
47399 |  | C | Liver surgery procedure | 0.00 | 0.00 | 0.00 | 0.00 | YYY
47400 |  | A | Incision of liver duct | 32.49 | 14.60 | NA | 1.82 | 090
47420 |  | A | Incision of bile duct | 19.88 | 9.18 | NA | 1.70 | 090
47425 |  | A | Incision of bile duct | 19.83 | 9.25 | NA | 1.60 | 090
47460 |  | A | Incise bile duct sphincter | 18.04 | 8.99 | NA | 1.24 | 090
47480 |  | A | Incision of gallbladder | 10.82 | 6.60 | NA | 0.85 | 090
47490 |  | A | Incision of gallbladder | 7.23 | 7.67 | NA | 0.33 | 090
47500 |  | A | Injection for liver x-rays | 1.96 | 0.66 | NA | 0.09 | 000
47505 |  | A | Injection for liver x-rays | 0.76 | 0.26 | 2.68 | 0.03 | 000
47510 |  | A | Insert catheter, bile duct | 7.83 | 9.40 | NA | 0.36 | 090
47511 |  | A | Insert bile duct drain | 10.50 | 10.55 | NA | 0.47 | 090
47525 |  | A | Change bile duct catheter | 5.55 | 3.31 | NA | 0.24 | 010
47530 |  | A | Revise/reinsert bile tube | 5.85 | 5.00 | NA | 0.29 | 090
47550 |  | A | Bile duct endoscopy add-on | 3.02 | 1.05 | NA | 0.30 | ZZZ
47552 |  | A | Biliary endoscopy thru skin | 6.04 | 2.45 | NA | 0.42 | 000
47553 |  | A | Biliary endoscopy thru skin | 6.35 | 2.65 | NA | 0.30 | 000
47554 |  | A | Biliary endoscopy thru skin | 9.06 | 3.45 | NA | 0.74 | 000
47555 |  | A | Biliary endoscopy thru skin | 7.56 | 3.08 | NA | 0.35 | 000
47556 |  | A | Biliary endoscopy thru skin | 8.56 | 3.42 | NA | 0.38 | 000
47560 |  | A | Laparoscopy w/cholangio | 4.89 | 1.83 | NA | 0.49 | 000
47561 |  | A | Laparo w/cholangio/biopsy | 5.18 | 2.15 | NA | 0.49 | 000
47562 |  | A | Laparoscopic cholecystectomy | 11.09 | 5.03 | NA | 1.13 | 090
47563 |  | A | Laparo cholecystectomy/graph | 11.94 | 5.32 | NA | 1.21 | 090
47564 |  | A | Laparo cholecystectomy/explr | 14.23 | 6.11 | NA | 1.44 | 090
47570 |  | A | Laparo cholecystoenterostomy | 12.58 | 5.56 | NA | 1.28 | 090
47579 |  | C | Laparoscope proc, biliary | 0.00 | 0.00 | 0.00 | 0.00 | YYY
47600 |  | A | Removal of gallbladder | 13.58 | 6.70 | NA | 1.16 | 090
47605 |  | A | Removal of gallbladder | 14.69 | 7.06 | NA | 1.25 | 090
47610 |  | A | Removal of gallbladder | 18.82 | 8.61 | NA | 1.61 | 090
47612 |  | A | Removal of gallbladder | 18.78 | 8.49 | NA | 1.60 | 090
47620 |  | A | Removal of gallbladder | 20.64 | 9.15 | NA | 1.77 | 090
47630 |  | A | Remove bile duct stone | 9.11 | 3.10 | NA | 0.46 | 090
47700 |  | A | Exploration of bile ducts | 15.62 | 8.50 | NA | 1.40 | 090
47701 |  | A | Bile duct revision | 27.81 | 12.93 | NA | 3.00 | 090
47711 |  | A | Excision of bile duct tumor | 23.03 | 11.02 | NA | 1.98 | 090
47712 |  | A | Excision of bile duct tumor | 30.24 | 13.68 | NA | 2.67 | 090
47715 |  | A | Excision of bile duct cyst | 18.80 | 8.90 | NA | 1.59 | 090
47716 |  | A | Fusion of bile duct cyst | 16.44 | 8.01 | NA | 1.41 | 090
47720 |  | A | Fuse gallbladder & bowel | 15.91 | 8.51 | NA | 1.37 | 090
47721 |  | A | Fuse upper gi structures | 19.12 | 9.66 | NA | 1.63 | 090
47740 |  | A | Fuse gallbladder & bowel | 18.48 | 9.44 | NA | 1.59 | 090
47741 |  | A | Fuse gallbladder & bowel | 21.34 | 10.43 | NA | 1.82 | 090
47760 |  | A | Fuse bile ducts and bowel | 25.85 | 11.95 | NA | 2.21 | 090
47765 |  | A | Fuse liver ducts & bowel | 24.88 | 12.51 | NA | 2.18 | 090
47780 |  | A | Fuse bile ducts and bowel | 26.50 | 12.20 | NA | 2.27 | 090
47785 |  | A | Fuse bile ducts and bowel | 31.18 | 14.52 | NA | 2.69 | 090
47800 |  | A | Reconstruction of bile ducts | 23.30 | 11.13 | NA | 1.95 | 090
47801 |  | A | Placement, bile duct support | 15.17 | 10.14 | NA | 0.69 | 090
47802 |  | A | Fuse liver duct & intestine | 21.55 | 11.18 | NA | 1.84 | 090
47900 |  | A | Suture bile duct injury | 19.90 | 9.97 | NA | 1.65 | 090
47999 |  | C | Bile tract surgery procedure | 0.00 | 0.00 | 0.00 | 0.00 | YYY
48000 |  | A | Drainage of abdomen | 28.07 | 12.48 | NA | 1.32 | 090
48001 |  | A | Placement of drain, pancreas | 35.45 | 14.75 | NA | 1.90 | 090
48005 |  | A | Resect/debride pancreas | 42.17 | 17.00 | NA | 2.26 | 090
48020 |  | A | Removal of pancreatic stone | 15.70 | 7.43 | NA | 1.36 | 090
48100 |  | A | Biopsy of pancreas, open | 12.23 | 6.85 | NA | 1.08 | 090
48102 |  | A | Needle biopsy, pancreas | 4.68 | 2.42 | 9.14 | 0.20 | 010
48120 |  | A | Removal of pancreas lesion | 15.85 | 7.39 | NA | 1.35 | 090
48140 |  | A | Partial removal of pancreas | 22.94 | 10.51 | NA | 2.12 | 090
48145 |  | A | Partial removal of pancreas | 24.02 | 11.23 | NA | 2.25 | 090
48146 |  | A | Pancreatectomy | 26.40 | 13.36 | NA | 2.43 | 090
48148 |  | A | Removal of pancreatic duct | 17.34 | 9.00 | NA | 1.61 | 090
48150 |  | A | Partial removal of pancreas | 48.00 | 21.41 | NA | 4.43 | 090
48152 |  | A | Pancreatectomy | 43.75 | 20.45 | NA | 4.07 | 090
48153 |  | A | Pancreatectomy | 47.89 | 21.63 | NA | 4.40 | 090
48154 |  | A | Pancreatectomy | 44.10 | 20.38 | NA | 4.10 | 090
48155 |  | A | Removal of pancreas | 24.64 | 13.60 | NA | 2.30 | 090
48160 |  | N | Pancreas removal/transplant | 0.00 | 0.00 | 0.00 | 0.00 | XXX
48180 |  | A | Fuse pancreas and bowel | 24.72 | 10.89 | NA | 2.24 | 090
48400 |  | A | Injection, intraop add-on | 1.95 | 0.67 | NA | 0.10 | ZZZ
48500 |  | A | Surgery of pancreatic cyst | 15.28 | 7.28 | NA | 1.35 | 090
48510 |  | A | Drain pancreatic pseudocyst | 14.31 | 7.49 | NA | 1.07 | 090
48511 |  | A | Drain pancreatic pseudocyst | 4.00 | 3.71 | NA | 0.17 | 000
48520 |  | A | Fuse pancreas cyst and bowel | 15.59 | 7.23 | NA | 1.41 | 090
48540 |  | A | Fuse pancreas cyst and bowel | 19.72 | 8.63 | NA | 1.82 | 090
48545 |  | A | Pancreatorrhaphy | 18.18 | 8.71 | NA | 1.61 | 090
48547 |  | A | Duodenal exclusion | 25.83 | 10.77 | NA | 2.30 | 090
48550 |  | X | Donor pancreatectomy | 0.00 | 0.00 | 0.00 | 0.00 | XXX
48554 |  | R | Transpl allograft pancreas | 34.17 | 11.94 | NA | 3.30 | 090
48556 |  | A | Removal, allograft pancreas | 15.71 | 8.46 | NA | 1.52 | 090
48999 |  | C | Pancreas surgery procedure | 0.00 | 0.00 | 0.00 | 0.00 | YYY
49000 |  | A | Exploration of abdomen | 11.68 | 6.07 | NA | 1.17 | 090
49002 |  | A | Reopening of abdomen | 10.49 | 5.96 | NA | 1.06 | 090
49010 |  | A | Exploration behind abdomen | 12.28 | 6.93 | NA | 1.22 | 090
49020 |  | A | Drain abdominal abscess | 22.84 | 11.43 | NA | 1.31 | 090
49021 |  | A | Drain abdominal abscess | 3.38 | 5.31 | NA | 0.16 | 000
49040 |  | A | Drain, open, abdom abscess | 13.52 | 8.15 | NA | 0.84 | 090
49041 |  | A | Drain, percut, abdom abscess | 4.00 | 5.59 | NA | 0.18 | 000
49060 |  | A | Drain, open, retrop abscess | 15.86 | 9.57 | NA | 0.77 | 090
49061 |  | A | Drain, percut, retroper absc | 3.70 | 5.64 | NA | 0.17 | 000
49062 |  | A | Drain to peritoneal cavity | 11.36 | 7.04 | NA | 1.08 | 090
49080 |  | A | Puncture, peritoneal cavity | 1.35 | 0.47 | 4.45 | 0.07 | 000
49081 |  | A | Removal of abdominal fluid | 1.26 | 0.58 | 3.10 | 0.06 | 000
49085 |  | A | Remove abdomen foreign body | 12.14 | 6.44 | NA | 0.88 | 090
49180 |  | A | Biopsy, abdominal mass | 1.73 | 0.59 | 8.56 | 0.08 | 000
49200 |  | A | Removal of abdominal lesion | 10.25 | 6.32 | NA | 0.89 | 090
49201 |  | A | Removal of abdominal lesion | 14.84 | 8.63 | NA | 1.44 | 090
49215 |  | A | Excise sacral spine tumor | 33.50 | 14.71 | NA | 2.48 | 090
49220 |  | A | Multiple surgery, abdomen | 14.88 | 7.65 | NA | 1.51 | 090
49250 |  | A | Excision of umbilicus | 8.35 | 5.09 | NA | 0.84 | 090
49255 |  | A | Removal of omentum | 11.14 | 6.50 | NA | 1.12 | 090
49320 |  | A | Diag laparo separate proc | 5.10 | 3.00 | NA | 0.50 | 010
49321 |  | A | Laparoscopy, biopsy | 5.40 | 3.03 | NA | 0.53 | 010
49322 |  | A | Laparoscopy, aspiration | 5.70 | 3.46 | NA | 0.57 | 010
49323 |  | A | Laparo drain lymphocele | 9.48 | 4.15 | NA | 0.88 | 090
49329 |  | C | Laparo proc, abdm/per/oment | 0.00 | 0.00 | 0.00 | 0.00 | YYY
49400 |  | A | Air injection into abdomen | 1.88 | 0.80 | NA | 0.11 | 000
49420 |  | A | Insert abdominal drain | 2.22 | 0.96 | NA | 0.13 | 000
49421 |  | A | Insert abdominal drain | 5.54 | 3.96 | NA | 0.55 | 090
49422 |  | A | Remove perm cannula/catheter | 6.25 | 2.91 | NA | 0.63 | 010
49423 |  | A | Exchange drainage catheter | 1.46 | 0.68 | NA | 0.07 | 000
49424 |  | A | Assess cyst, contrast inject | 0.76 | 0.45 | NA | 0.03 | 000
49425 |  | A | Insert abdomen-venous drain | 11.37 | 6.62 | NA | 1.21 | 090
49426 |  | A | Revise abdomen-venous shunt | 9.63 | 5.86 | NA | 0.93 | 090
49427 |  | A | Injection, abdominal shunt | 0.89 | 0.49 | NA | 0.05 | 000
49428 |  | A | Ligation of shunt | 6.06 | 3.14 | NA | 0.31 | 010
49429 |  | A | Removal of shunt | 7.40 | 3.43 | NA | 0.81 | 010
49491 |  | A | Repairing hern premie reduc | 11.13 | 5.44 | NA | 1.00 | 090
49492 |  | A | Rpr ing hern premie, blocked | 14.03 | 6.38 | NA | 1.42 | 090
49495 |  | A | Rpr ing hernia baby, reduc | 5.89 | 3.56 | NA | 0.55 | 090
49496 |  | A | Rpr ing hernia baby, blocked | 8.79 | 6.15 | NA | 0.89 | 090
49500 |  | A | Rpr ing hernia, init, reduce | 5.48 | 3.36 | NA | 0.46 | 090
49501 |  | A | Rpr ing hernia, init blocked | 8.88 | 4.47 | NA | 0.76 | 090
49505 |  | A | Rpr i/hern init reduc>5 yr | 7.60 | 4.03 | 4.50 | 0.65 | 090
49507 |  | A | Rpr i/hern init block>5 yr | 9.57 | 6.03 | NA | 0.83 | 090
49520 |  | A | Rerepair ing hernia, reduce | 9.63 | 5.37 | NA | 0.84 | 090
49521 |  | A | Rerepair ing hernia, blocked | 11.97 | 5.70 | NA | 1.04 | 090
49525 |  | A | Repair ing hernia, sliding | 8.57 | 4.85 | NA | 0.74 | 090
49540 |  | A | Repair lumbar hernia | 10.39 | 5.56 | NA | 0.90 | 090
49550 |  | A | Rpr fem hernia, init, reduce | 8.63 | 4.43 | NA | 0.75 | 090
49553 |  | A | Rpr fem hernia, init blocked | 9.44 | 4.85 | NA | 0.83 | 090
49555 |  | A | Rerepair fem hernia, reduce | 9.03 | 5.18 | NA | 0.79 | 090
49557 |  | A | Rerepair fem hernia, blocked | 11.15 | 5.43 | NA | 0.97 | 090
49560 |  | A | Rpr ventral hern init, reduc | 11.57 | 5.98 | NA | 1.00 | 090
49561 |  | A | Rpr ventral hern init, block | 14.25 | 6.55 | NA | 1.23 | 090
49565 |  | A | Rerepair ventrl hern, reduce | 11.57 | 6.14 | NA | 1.00 | 090
49566 |  | A | Rerepair ventrl hern, block | 14.40 | 6.62 | NA | 1.24 | 090
49568 |  | A | Hernia repair w/mesh | 4.89 | 1.71 | NA | 0.50 | ZZZ
49570 |  | A | Rpr epigastric hern, reduce | 5.69 | 3.45 | NA | 0.50 | 090
49572 |  | A | Rpr epigastric hern, blocked | 6.73 | 3.93 | NA | 0.58 | 090
49580 |  | A | Rpr umbil hern, reduc <5 yr | 4.11 | 2.98 | NA | 0.34 | 090
49582 |  | A | Rpr umbil hern, block < 5 yr | 6.65 | 4.85 | NA | 0.57 | 090
49585 |  | A | Rpr umbil hern, reduc > 5 yr | 6.23 | 4.06 | NA | 0.53 | 090
49587 |  | A | Rpr umbil hern, block > 5 yr | 7.56 | 4.17 | NA | 0.65 | 090
49590 |  | A | Repair spigelian hernia | 8.54 | 4.87 | NA | 0.74 | 090
49600 |  | A | Repair umbilical lesion | 10.96 | 6.09 | NA | 1.13 | 090
49605 |  | A | Repair umbilical lesion | 76.00 | 29.96 | NA | 2.57 | 090
49606 |  | A | Repair umbilical lesion | 18.60 | 9.06 | NA | 2.22 | 090
49610 |  | A | Repair umbilical lesion | 10.50 | 6.85 | NA | 0.77 | 090
49611 |  | A | Repair umbilical lesion | 8.92 | 6.43 | NA | 0.65 | 090
49650 |  | A | Laparo hernia repair initial | 6.27 | 3.26 | NA | 0.64 | 090
49651 |  | A | Laparo hernia repair recur | 8.24 | 4.32 | NA | 0.84 | 090
49659 |  | C | Laparo proc, hernia repair | 0.00 | 0.00 | 0.00 | 0.00 | YYY
49900 |  | A | Repair of abdominal wall | 12.28 | 6.64 | NA | 1.23 | 090
49905 |  | A | Omental flap | 6.55 | 2.35 | NA | 0.61 | ZZZ
49906 |  | C | Free omental flap, microvasc | 0.00 | 0.00 | 0.00 | 0.00 | 090
49999 |  | C | Abdomen surgery procedure | 0.00 | 0.00 | 0.00 | 0.00 | YYY
50010 |  | A | Exploration of kidney | 10.98 | 6.94 | NA | 0.79 | 090
50020 |  | A | Renal abscess, open drain | 14.66 | 13.99 | NA | 0.80 | 090
50021 |  | A | Renal abscess, percut drain | 3.38 | 10.10 | NA | 0.15 | 000
50040 |  | A | Drainage of kidney | 14.94 | 11.72 | NA | 0.82 | 090
50045 |  | A | Exploration of kidney | 15.46 | 8.34 | NA | 1.06 | 090
50060 |  | A | Removal of kidney stone | 19.30 | 9.74 | NA | 1.14 | 090
50065 |  | A | Incision of kidney | 20.79 | 7.87 | NA | 1.13 | 090
50070 |  | A | Incision of kidney | 20.32 | 10.14 | NA | 1.20 | 090
50075 |  | A | Removal of kidney stone | 25.34 | 12.28 | NA | 1.51 | 90
50080 |  | A | Removal of kidney stone | 14.71 | 10.81 | NA | 0.86 | 90
50081 |  | A | Removal of kidney stone | 21.80 | 12.93 | NA | 1.30 | 90
50100 |  | A | Revise kidney blood vessels | 16.09 | 9.79 | NA | 1.64 | 90
50120 |  | A | Exploration of kidney | 15.91 | 8.66 | NA | 1.04 | 90
50125 |  | A | Explore and drain kidney | 16.52 | 8.76 | NA | 1.07 | 90
50130 |  | A | Removal of kidney stone | 17.29 | 9.00 | NA | 1.04 | 90
50135 |  | A | Exploration of kidney | 19.18 | 9.65 | NA | 1.18 | 90
50200 |  | A | Biopsy of kidney | 2.63 | 0.93 | NA | 0.12 | 000
50205 |  | A | Biopsy of kidney | 11.31 | 6.41 | NA | 0.94 | 090
50220 |  | A | Remove kidney, open | 17.15 | 9.07 | NA | 1.16 | 090
50225 |  | A | Removal kidney open, complex | 20.23 | 10.03 | NA | 1.26 | 090
50230 |  | A | Removal kidney open, radical | 22.07 | 10.63 | NA | 1.35 | 090
50234 |  | A | Removal of kidney & ureter | 22.40 | 10.73 | NA | 1.37 | 090
50236 |  | A | Removal of kidney & ureter | 24.86 | 13.88 | NA | 1.50 | 090
50240 |  | A | Partial removal of kidney | 22.00 | 13.00 | NA | 1.36 | 090
50280 |  | A | Removal of kidney lesion | 15.67 | 8.51 | NA | 0.99 | 090
50290 |  | A | Removal of kidney lesion | 14.73 | 8.12 | NA | 1.11 | 090
50300 |  | X | Removal of donor kidney | 0.00 | 0.00 | 0.00 | 0.00 | XXX
50320 |  | A | Removal of donor kidney | 22.21 | 10.50 | NA | 1.78 | 090
50340 |  | A | Removal of kidney | 12.15 | 9.21 | NA | 1.15 | 090
50360 |  | A | Transplantation of kidney | 31.53 | 17.47 | NA | 2.97 | 090
50365 |  | A | Transplantation of kidney | 36.81 | 20.98 | NA | 3.51 | 090
50370 |  | A | Remove transplanted kidney | 13.72 | 9.73 | NA | 1.26 | 090
50380 |  | A | Reimplantation of kidney | 20.76 | 13.71 | NA | 1.80 | 090
50390 |  | A | Drainage of kidney lesion | 1.96 | 0.66 | NA | 0.09 | 000
50392 |  | A | Insert kidney drain | 3.38 | 1.14 | NA | 0.15 | 000
50393 |  | A | Insert ureteral tube | 4.16 | 1.40 | NA | 0.18 | 000
50394 |  | A | Injection for kidney x-ray | 0.76 | 0.26 | 2.56 | 0.04 | 000
50395 |  | A | Create passage to kidney | 3.38 | 1.14 | NA | 0.16 | 000
50396 |  | A | Measure kidney pressure | 2.09 | 0.88 | NA | 0.10 | 000
50398 |  | A | Change kidney tube | 1.46 | 0.49 | 1.16 | 0.07 | 000
50400 |  | A | Revision of kidney/ureter | 19.50 | 9.78 | NA | 1.21 | 090
50405 |  | A | Revision of kidney/ureter | 23.93 | 12.43 | NA | 1.45 | 090
50500 |  | A | Repair of kidney wound | 19.57 | 11.28 | NA | 1.45 | 090
50520 |  | A | Close kidney-skin fistula | 17.23 | 10.89 | NA | 1.26 | 090
50525 |  | A | Repair renal-abdomen fistula | 22.27 | 12.57 | NA | 1.51 | 090
50526 |  | A | Repair renal-abdomen fistula | 24.02 | 13.52 | NA | 1.62 | 090
50540 |  | A | Revision of horseshoe kidney | 19.93 | 10.21 | NA | 1.28 | 090
50541 |  | A | Laparo ablate renal cyst | 16.00 | 6.62 | NA | 0.99 | 090
50544 |  | A | Laparoscopy, pyeloplasty | 22.40 | 8.78 | NA | 1.41 | 090
50545 |  | A | Laparo radical nephrectomy | 24.00 | 9.38 | NA | 1.53 | 090
50546 |  | A | Laparoscopic nephrectomy | 20.48 | 8.20 | NA | 1.37 | 090
50547 |  | A | Laparo removal donor kidney | 25.50 | 10.89 | NA | 2.04 | 090
50548 |  | A | Laparo remove k/ureter | 24.40 | 9.43 | NA | 1.49 | 090
50549 |  | C | Laparoscope proc, renal | 0.00 | 0.00 | 0.00 | 0.00 | YYY
50551 |  | A | Kidney endoscopy | 5.60 | 1.84 | 4.78 | 0.33 | 000
50553 |  | A | Kidney endoscopy | 5.99 | 2.01 | 18.21 | 0.35 | 000
50555 |  | A | Kidney endoscopy & biopsy | 6.53 | 2.17 | 18.94 | 0.38 | 000
50557 |  | A | Kidney endoscopy & treatment | 6.62 | 2.18 | 19.70 | 0.39 | 000
50559 |  | A | Renal endoscopy/radiotracer | 6.78 | 2.39 | NA | 0.27 | 000
50561 |  | A | Kidney endoscopy & treatment | 7.59 | 2.51 | 17.36 | 0.44 | 000
50570 |  | A | Kidney endoscopy | 9.54 | 3.14 | NA | 0.56 | 000
50572 |  | A | Kidney endoscopy | 10.35 | 3.43 | NA | 0.64 | 000
50574 |  | A | Kidney endoscopy & biopsy | 11.02 | 3.66 | NA | 0.65 | 000
50575 |  | A | Kidney endoscopy | 13.98 | 4.60 | NA | 0.84 | 000
50576 |  | A | Kidney endoscopy & treatment | 10.99 | 3.61 | NA | 0.66 | 000
50578 |  | A | Renal endoscopy/radiotracer | 11.35 | 3.80 | NA | 0.67 | 000
50580 |  | A | Kidney endoscopy & treatment | 11.86 | 3.91 | NA | 0.70 | 000
50590 |  | A | Fragmenting of kidney stone | 9.09 | 5.18 | 10.34 | 0.54 | 090
50600 |  | A | Exploration of ureter | 15.84 | 8.68 | NA | 0.99 | 090
50605 |  | A | Insert ureteral support | 15.46 | 8.69 | NA | 1.13 | 090
50610 |  | A | Removal of ureter stone | 15.92 | 8.92 | NA | 1.08 | 090
50620 |  | A | Removal of ureter stone | 15.16 | 8.28 | NA | 0.91 | 090
50630 |  | A | Removal of ureter stone | 14.94 | 8.23 | NA | 0.90 | 090
50650 |  | A | Removal of ureter | 17.41 | 9.44 | NA | 1.07 | 090
50660 |  | A | Removal of ureter | 19.55 | 10.16 | NA | 1.19 | 090
50684 |  | A | Injection for ureter x-ray | 0.76 | 0.25 | 14.87 | 0.04 | 000
50686 |  | A | Measure ureter pressure | 1.51 | 0.67 | 5.02 | 0.09 | 000
50688 |  | A | Change of ureter tube | 1.17 | 1.75 | NA | 0.06 | 010
50690 |  | A | Injection for ureter x-ray | 1.16 | 0.39 | 15.23 | 0.06 | 000
50700 |  | A | Revision of ureter | 15.21 | 9.16 | NA | 0.86 | 090
50715 |  | A | Release of ureter | 18.90 | 12.01 | NA | 1.68 | 090
50722 |  | A | Release of ureter | 16.35 | 9.79 | NA | 1.41 | 090
50725 |  | A | Release/revise ureter | 18.49 | 10.35 | NA | 1.44 | 090
50727 |  | A | Revise ureter | 8.18 | 6.48 | NA | 0.51 | 090
50728 |  | A | Revise ureter | 12.02 | 8.04 | NA | 0.88 | 090
50740 |  | A | Fusion of ureter & kidney | 18.42 | 9.43 | NA | 1.49 | 090
50750 |  | A | Fusion of ureter & kidney | 19.51 | 10.22 | NA | 1.24 | 090
50760 |  | A | Fusion of ureters | 18.42 | 9.85 | NA | 1.25 | 090
50770 |  | A | Splicing of ureters | 19.51 | 10.15 | NA | 1.25 | 090
50780 |  | A | Reimplant ureter in bladder | 18.36 | 9.76 | NA | 1.20 | 090
50782 |  | A | Reimplant ureter in bladder | 19.54 | 11.19 | NA | 1.13 | 090
50783 |  | A | Reimplant ureter in bladder | 20.55 | 10.83 | NA | 1.35 | 090
50785 |  | A | Reimplant ureter in bladder | 20.52 | 10.53 | NA | 1.30 | 090
50800 |  | A | Implant ureter in bowel | 14.52 | 9.66 | NA | 0.92 | 090
50810 |  | A | Fusion of ureter & bowel | 20.05 | 12.42 | NA | 1.78 | 090
50815 |  | A | Urine shunt to intestine | 19.93 | 11.56 | NA | 1.31 | 090
50820 |  | A | Construct bowel bladder | 21.89 | 11.84 | NA | 1.38 | 090
50825 |  | A | Construct bowel bladder | 28.18 | 14.82 | NA | 1.81 | 090
50830 |  | A | Revise urine flow | 31.28 | 15.47 | NA | 2.20 | 090
50840 |  | A | Replace ureter by bowel | 20.00 | 11.61 | NA | 1.26 | 090
50845 |  | A | Appendico-vesicostomy | 20.89 | 9.92 | NA | 1.26 | 090
50860 |  | A | Transplant ureter to skin | 15.36 | 8.75 | NA | 1.01 | 090
50900 |  | A | Repair of ureter | 13.62 | 7.82 | NA | 0.98 | 090
50920 |  | A | Closure ureter/skin fistula | 14.33 | 8.38 | NA | 0.84 | 090
50930 |  | A | Closure ureter/bowel fistula | 18.72 | 9.84 | NA | 1.57 | 090
50940 |  | A | Release of ureter | 14.51 | 8.26 | NA | 1.04 | 090
50945 |  | A | Laparoscopy ureterolithotomy | 17.00 | 7.27 | NA | 1.15 | 090
50947 |  | A | Laparo new ureter/bladder | 24.50 | 11.42 | NA | 1.99 | 090
50948 |  | A | Laparo new ureter/bladder | 22.50 | 10.32 | NA | 1.83 | 090
50949 |  | C | Laparoscope proc, ureter | 0.00 | 0.00 | 0.00 | 0.00 | YYY
50951 |  | A | Endoscopy of ureter | 5.84 | 1.92 | 5.17 | 0.35 | 000
50953 |  | A | Endoscopy of ureter | 6.24 | 2.06 | 18.11 | 0.37 | 000
50955 |  | A | Ureter endoscopy & biopsy | 6.75 | 2.26 | 19.81 | 0.38 | 000
50957 |  | A | Ureter endoscopy & treatment | 6.79 | 2.24 | 17.80 | 0.40 | 000
50959 |  | A | Ureter endoscopy & tracer | 4.40 | 1.51 | NA | 0.18 | 000
50961 |  | A | Ureter endoscopy & treatment | 6.05 | 1.99 | 23.56 | 0.35 | 000
50970 |  | A | Ureter endoscopy | 7.14 | 2.36 | NA | 0.43 | 000
50972 |  | A | Ureter endoscopy & catheter | 6.89 | 2.33 | NA | 0.39 | 000
50974 |  | A | Ureter endoscopy & biopsy | 9.17 | 3.02 | NA | 0.53 | 000
50976 |  | A | Ureter endoscopy & treatment | 9.04 | 2.99 | NA | 0.53 | 000
50978 |  | A | Ureter endoscopy & tracer | 5.10 | 1.74 | NA | 0.30 | 000
50980 |  | A | Ureter endoscopy & treatment | 6.85 | 2.24 | NA | 0.41 | 000
51000 |  | A | Drainage of bladder | 0.78 | 0.25 | 2.02 | 0.05 | 000
51005 |  | A | Drainage of bladder | 1.02 | 0.35 | 3.30 | 0.08 | 000
51010 |  | A | Drainage of bladder | 3.53 | 2.31 | 4.29 | 0.23 | 010
51020 |  | A | Incise & treat bladder | 6.71 | 5.63 | NA | 0.42 | 090
51030 |  | A | Incise & treat bladder | 6.77 | 5.75 | NA | 0.42 | 090
51040 |  | A | Incise & drain bladder | 4.40 | 4.35 | NA | 0.27 | 090
51045 |  | A | Incise bladder/drain ureter | 6.77 | 5.83 | NA | 0.47 | 090
51050 |  | A | Removal of bladder stone | 6.92 | 5.14 | NA | 0.42 | 090
51060 |  | A | Removal of ureter stone | 8.85 | 6.25 | NA | 0.54 | 090
51065 |  | A | Remove ureter calculus | 8.85 | 6.10 | NA | 0.53 | 090
51080 |  | A | Drainage of bladder abscess | 5.96 | 5.61 | NA | 0.35 | 090
51500 |  | A | Removal of bladder cyst | 10.14 | 6.02 | NA | 0.88 | 090
51520 |  | A | Removal of bladder lesion | 9.29 | 6.46 | NA | 0.58 | 090
51525 |  | A | Removal of bladder lesion | 13.97 | 7.90 | NA | 0.85 | 090
51530 |  | A | Removal of bladder lesion | 12.38 | 7.53 | NA | 0.82 | 090
51535 |  | A | Repair of ureter lesion | 12.57 | 8.02 | NA | 0.90 | 090
51550 |  | A | Partial removal of bladder | 15.66 | 8.47 | NA | 1.05 | 090
51555 |  | A | Partial removal of bladder | 21.23 | 10.71 | NA | 1.37 | 090
51565 |  | A | Revise bladder & ureter(s) | 21.62 | 11.27 | NA | 1.40 | 090
51570 |  | A | Removal of bladder | 24.24 | 12.37 | NA | 1.59 | 090
51575 |  | A | Removal of bladder & nodes | 30.45 | 15.00 | NA | 1.88 | 090
51580 |  | A | Remove bladder/revise tract | 31.08 | 15.60 | NA | 1.94 | 090
51585 |  | A | Removal of bladder & nodes | 35.23 | 16.88 | NA | 2.18 | 090
51590 |  | A | Remove bladder/revise tract | 32.66 | 15.61 | NA | 2.01 | 090
51595 |  | A | Remove bladder/revise tract | 37.14 | 17.08 | NA | 2.23 | 090
51596 |  | A | Remove bladder/create pouch | 39.52 | 18.38 | NA | 2.39 | 090
51597 |  | A | Removal of pelvic structures | 38.35 | 17.94 | NA | 2.49 | 090
51600 |  | A | Injection for bladder x-ray | 0.88 | 0.30 | 5.44 | 0.04 | 000
51605 |  | A | Preparation for bladder xray | 0.64 | 0.22 | 16.06 | 0.04 | 000
51610 |  | A | Injection for bladder x-ray | 1.05 | 0.35 | 15.78 | 0.05 | 000
51700 |  | A | Irrigation of bladder | 0.88 | 0.29 | 1.29 | 0.05 | 000
51705 |  | A | Change of bladder tube | 1.02 | 0.64 | 2.10 | 0.06 | 010
51710 |  | A | Change of bladder tube | 1.49 | 1.44 | 4.97 | 0.09 | 010
51715 |  | A | Endoscopic injection/implant | 3.74 | 1.25 | 4.34 | 0.24 | 000
51720 |  | A | Treatment of bladder lesion | 1.96 | 0.72 | 1.64 | 0.12 | 000
51725 |  | A | Simple cystometrogram | 1.51 | NA | 5.76 | 0.13 | 000
51725 | 26 | A | Simple cystometrogram | 1.51 | 0.51 | 0.51 | 0.10 | 000
51725 | TC | A | Simple cystometrogram | 0.00 | NA | 5.25 | 0.03 | 000
51726 |  | A | Complex cystometrogram | 1.71 | NA | 4.54 | 0.15 | 000
51726 | 26 | A | Complex cystometrogram | 1.71 | 0.57 | 0.57 | 0.11 | 000
51726 | TC | A | Complex cystometrogram | 0.00 | NA | 3.96 | 0.04 | 000
51736 |  | A | Urine flow measurement | 0.61 | NA | 1.09 | 0.05 | 000
51736 | 26 | A | Urine flow measurement | 0.61 | 0.20 | 0.20 | 0.04 | 000
51736 | TC | A | Urine flow measurement | 0.00 | NA | 0.88 | 0.01 | 000
51741 |  | A | Electro-uroflowmetry, first | 1.14 | NA | 1.88 | 0.09 | 000
51741 | 26 | A | Electro-uroflowmetry, first | 1.14 | 0.38 | 0.38 | 0.07 | 000
51741 | TC | A | Electro-uroflowmetry, first | 0.00 | NA | 1.50 | 0.02 | 000
51772 |  | A | Urethra pressure profile | 1.61 | NA | 4.69 | 0.16 | 000
51772 | 26 | A | Urethra pressure profile | 1.61 | 0.57 | 0.57 | 0.12 | 000
51772 | TC | A | Urethra pressure profile | 0.00 | NA | 4.12 | 0.04 | 000
51784 |  | A | Anal/urinary muscle study | 1.53 | NA | 3.47 | 0.13 | 000
51784 | 26 | A | Anal/urinary muscle study | 1.53 | 0.52 | 0.52 | 0.10 | 000
51784 | TC | A | Anal/urinary muscle study | 0.00 | NA | 2.95 | 0.03 | 000
51785 |  | A | Anal/urinary muscle study | 1.53 | NA | 3.38 | 0.12 | 000
51785 | 26 | A | Anal/urinary muscle study | 1.53 | 0.52 | 0.52 | 0.09 | 000
51785 | TC | A | Anal/urinary muscle study | 0.00 | NA | 2.86 | 0.03 | 000
51792 |  | A | Urinary reflex study | 1.10 | NA | 3.32 | 0.20 | 000
51792 | 26 | A | Urinary reflex study | 1.10 | 0.43 | 0.43 | 0.09 | 000
51792 | TC | A | Urinary reflex study | 0.00 | NA | 2.89 | 0.11 | 000
51795 |  | A | Urine voiding pressure study | 1.53 | NA | 4.67 | 0.18 | 000
51795 | 26 | A | Urine voiding pressure study | 1.53 | 0.52 | 0.52 | 0.10 | 000
51795 | TC | A | Urine voiding pressure study | 0.00 | NA | 4.15 | 0.08 | 000
51797 |  | A | Intraabdominal pressure test | 1.60 | NA | 4.74 | 0.14 | 000
51797 | 26 | A | Intraabdominal pressure test | 1.60 | 0.54 | 0.54 | 0.10 | 000
51797 | TC | A | Intraabdominal pressure test | 0.00 | NA | 4.20 | 0.04 | 000
51800 |  | A | Revision of bladder/urethra | 17.42 | 9.33 | NA | 1.17 | 090
51820 |  | A | Revision of urinary tract | 17.89 | 10.80 | NA | 1.45 | 090
51840 |  | A | Attach bladder/urethra | 10.71 | 6.69 | NA | 0.87 | 090
51841 |  | A | Attach bladder/urethra | 13.03 | 8.36 | NA | 1.04 | 090
51845 |  | A | Repair bladder neck | 9.73 | 6.71 | NA | 0.62 | 090
51860 |  | A | Repair of bladder wound | 12.02 | 7.73 | NA | 0.89 | 090
51865 |  | A | Repair of bladder wound | 15.04 | 8.69 | NA | 1.01 | 090
51880 |  | A | Repair of bladder opening | 7.66 | 5.68 | NA | 0.54 | 090
51900 |  | A | Repair bladder/vagina lesion | 12.97 | 8.12 | NA | 0.87 | 090
51920 |  | A | Close bladder-uterus fistula | 11.81 | 7.28 | NA | 0.86 | 090
51925 |  | A | Hysterectomy/bladder repair | 15.58 | 9.47 | NA | 1.48 | 090
51940 |  | A | Correction of bladder defect | 28.43 | 16.03 | NA | 1.97 | 090
51960 |  | A | Revision of bladder & bowel | 23.01 | 12.95 | NA | 1.41 | 090
51980 |  | A | Construct bladder opening | 11.36 | 7.17 | NA | 0.74 | 090
51990 |  | A | Laparo urethral suspension | 12.50 | 6.51 | NA | 1.02 | 090
51992 |  | A | Laparo sling operation | 14.01 | 6.58 | NA | 0.93 | 090
52000 |  | A | Cystoscopy | 2.01 | 0.67 | 3.35 | 0.12 | 000
52001 |  | A | Cystoscopy, removal of clots | 2.37 | 0.95 | NA | 0.32 | 000
52005 |  | A | Cystoscopy & ureter catheter | 2.37 | 0.88 | 13.07 | 0.15 | 000
52007 |  | A | Cystoscopy and biopsy | 3.02 | 1.00 | NA | 0.18 | 000
52010 |  | A | Cystoscopy & duct catheter | 3.02 | 1.00 | 5.55 | 0.18 | 000
52204 |  | A | Cystoscopy | 2.37 | 0.78 | 6.00 | 0.15 | 000
52214 |  | A | Cystoscopy and treatment | 3.71 | 1.22 | 6.34 | 0.22 | 000
52224 |  | A | Cystoscopy and treatment | 3.14 | 1.04 | 6.22 | 0.18 | 000
52234 |  | A | Cystoscopy and treatment | 4.63 | 1.63 | NA | 0.27 | 000
52235 |  | A | Cystoscopy and treatment | 5.45 | 1.91 | NA | 0.32 | 000
52240 |  | A | Cystoscopy and treatment | 9.72 | 3.34 | NA | 0.58 | 000
52250 |  | A | Cystoscopy and radiotracer | 4.50 | 1.48 | NA | 0.27 | 000
52260 |  | A | Cystoscopy and treatment | 3.92 | 1.29 | NA | 0.23 | 000
52265 |  | A | Cystoscopy and treatment | 2.94 | 0.97 | 3.67 | 0.18 | 000
52270 |  | A | Cystoscopy & revise urethra | 3.37 | 1.11 | 6.70 | 0.20 | 000
52275 |  | A | Cystoscopy & revise urethra | 4.70 | 1.55 | 7.22 | 0.28 | 000
52276 |  | A | Cystoscopy and treatment | 5.00 | 1.65 | 7.33 | 0.30 | 000
52277 |  | A | Cystoscopy and treatment | 6.17 | 2.05 | NA | 0.38 | 000
52281 |  | A | Cystoscopy and treatment | 2.80 | 1.04 | 14.17 | 0.17 | 000
52282 |  | A | Cystoscopy, implant stent | 6.40 | 2.11 | 15.05 | 0.38 | 000
52283 |  | A | Cystoscopy and treatment | 3.74 | 1.24 | 6.62 | 0.22 | 000
52285 |  | A | Cystoscopy and treatment | 3.61 | 1.19 | 6.87 | 0.22 | 000
52290 |  | A | Cystoscopy and treatment | 4.59 | 1.51 | NA | 0.27 | 000
52300 |  | A | Cystoscopy and treatment | 5.31 | 1.75 | NA | 0.32 | 000
52301 |  | A | Cystoscopy and treatment | 5.51 | 1.76 | NA | 0.39 | 000
52305 |  | A | Cystoscopy and treatment | 5.31 | 1.75 | NA | 0.31 | 000
52310 |  | A | Cystoscopy and treatment | 2.81 | 0.99 | 3.74 | 0.17 | 000
52315 |  | A | Cystoscopy and treatment | 5.21 | 1.72 | 16.02 | 0.31 | 000
52317 |  | A | Remove bladder stone | 6.72 | 2.21 | 24.56 | 0.40 | 000
52318 |  | A | Remove bladder stone | 9.19 | 3.03 | NA | 0.54 | 000
52320 |  | A | Cystoscopy and treatment | 4.70 | 1.54 | NA | 0.28 | 000
52325 |  | A | Cystoscopy, stone removal | 6.16 | 2.02 | NA | 0.37 | 000
52327 |  | A | Cystoscopy, inject material | 5.19 | 1.73 | NA | 0.32 | 000
52330 |  | A | Cystoscopy and treatment | 5.04 | 1.66 | 20.27 | 0.30 | 000
52332 |  | A | Cystoscopy and treatment | 2.83 | 1.04 | 18.45 | 0.17 | 000
52334 |  | A | Create passage to kidney | 4.83 | 1.59 | NA | 0.28 | 000
52341 |  | A | Cysto w/ureter stricture tx | 6.00 | 2.32 | NA | 0.37 | 000
52342 |  | A | Cysto w/up stricture tx | 6.50 | 2.51 | NA | 0.40 | 000
52343 |  | A | Cysto w/renal stricture tx | 7.20 | 2.78 | NA | 0.44 | 000
52344 |  | A | Cysto/uretero, stone remove | 7.70 | 2.98 | NA | 0.47 | 000
52345 |  | A | Cysto/uretero w/up stricture | 8.20 | 3.17 | NA | 0.50 | 000
52346 |  | A | Cystouretero w/renal strict | 9.23 | 3.57 | NA | 0.57 | 000
52347 |  | A | Cystoscopy, resect ducts | 5.28 | 2.08 | NA | 0.33 | 000
52351 |  | A | Cystouretro & or pyeloscope | 5.86 | 1.93 | NA | 0.36 | 000
52352 |  | A | Cystouretro w/stone remove | 6.88 | 2.26 | NA | 0.42 | 000
52353 |  | A | Cystouretero w/lithotripsy | 7.97 | 2.61 | NA | 0.49 | 000
52354 |  | A | Cystouretero w/biopsy | 7.34 | 2.42 | NA | 0.45 | 000
52355 |  | A | Cystouretero w/excise tumor | 8.82 | 2.90 | NA | 0.55 | 000
52400 |  | A | Cystouretero w/congen repr | 9.68 | 5.60 | NA | 0.60 | 090
52450 |  | A | Incision of prostate | 7.64 | 5.01 | NA | 0.46 | 090
52500 |  | A | Revision of bladder neck | 8.47 | 5.26 | NA | 0.50 | 090
52510 |  | A | Dilation prostatic urethra | 6.72 | 4.30 | NA | 0.40 | 090
52601 |  | A | Prostatectomy (TURP) | 12.37 | 6.55 | NA | 0.74 | 090
52606 |  | A | Control postop bleeding | 8.13 | 4.69 | NA | 0.49 | 090
52612 |  | A | Prostatectomy, first stage | 7.98 | 5.14 | NA | 0.48 | 090
52614 |  | A | Prostatectomy, second stage | 6.84 | 4.73 | NA | 0.41 | 090
52620 |  | A | Remove residual prostate | 6.61 | 4.66 | NA | 0.39 | 090
52630 |  | A | Remove prostate regrowth | 7.26 | 4.88 | NA | 0.43 | 090
52640 |  | A | Relieve bladder contracture | 6.62 | 4.19 | NA | 0.39 | 090
52647 |  | A | Laser surgery of prostate | 10.36 | 4.72 | 57.64 | 0.61 | 090
52648 |  | A | Laser surgery of prostate | 11.21 | 6.16 | NA | 0.66 | 090
52700 |  | A | Drainage of prostate abscess | 6.80 | 4.78 | NA | 0.41 | 090
53000 |  | A | Incision of urethra | 2.28 | 2.57 | 7.30 | 0.13 | 010
53010 |  | A | Incision of urethra | 3.64 | 4.11 | NA | 0.20 | 090
53020 |  | A | Incision of urethra | 1.77 | 0.65 | 4.24 | 0.11 | 000
53025 |  | A | Incision of urethra | 1.13 | 0.44 | 4.67 | 0.07 | 000
53040 |  | A | Drainage of urethra abscess | 6.40 | 8.16 | 13.49 | 0.41 | 090
53060 |  | A | Drainage of urethra abscess | 2.63 | 2.81 | 6.41 | 0.23 | 010
53080 |  | A | Drainage of urinary leakage | 6.29 | 8.42 | NA | 0.42 | 090
53085 |  | A | Drainage of urinary leakage | 10.27 | 9.71 | NA | 0.67 | 090
53200 |  | A | Biopsy of urethra | 2.59 | 0.94 | 5.53 | 0.17 | 000
53210 |  | A | Removal of urethra | 12.57 | 7.96 | NA | 0.81 | 090
53215 |  | A | Removal of urethra | 15.58 | 8.59 | NA | 0.93 | 090
53220 |  | A | Treatment of urethra lesion | 7.00 | 5.50 | NA | 0.44 | 090
53230 |  | A | Removal of urethra lesion | 9.58 | 6.27 | NA | 0.60 | 090
53235 |  | A | Removal of urethra lesion | 10.14 | 6.41 | NA | 0.60 | 090
53240 |  | A | Surgery for urethra pouch | 6.45 | 5.22 | NA | 0.42 | 090
53250 |  | A | Removal of urethra gland | 5.89 | 4.52 | NA | 0.35 | 090
53260 |  | A | Treatment of urethra lesion | 2.98 | 2.38 | 6.16 | 0.23 | 010
53265 |  | A | Treatment of urethra lesion | 3.12 | 2.35 | 6.51 | 0.20 | 010
53270 |  | A | Removal of urethra gland | 3.09 | 2.57 | 6.50 | 0.21 | 010
53275 |  | A | Repair of urethra defect | 4.53 | 3.32 | NA | 0.28 | 010
53400 |  | A | Revise urethra, stage 1 | 12.77 | 7.88 | NA | 0.85 | 090
53405 |  | A | Revise urethra, stage 2 | 14.48 | 8.18 | NA | 0.91 | 090
53410 |  | A | Reconstruction of urethra | 16.44 | 8.95 | NA | 0.99 | 090
53415 |  | A | Reconstruction of urethra | 19.41 | 9.29 | NA | 1.16 | 090
53420 |  | A | Reconstruct urethra, stage 1 | 14.08 | 8.69 | NA | 0.90 | 090
53425 |  | A | Reconstruct urethra, stage 2 | 15.98 | 9.02 | NA | 0.97 | 090
53430 |  | A | Reconstruction of urethra | 16.34 | 9.09 | NA | 1.01 | 090
53431 |  | A | Reconstruct urethra/bladder | 19.89 | 6.77 | 6.77 | 1.25 | 090
53440 |  | A | Correct bladder function | 12.34 | 7.99 | NA | 0.73 | 090
53442 |  | A | Remove perineal prosthesis | 8.27 | 5.96 | NA | 0.55 | 090
53443 |  | D | Reconstruction of urethra | 19.89 | 11.28 | NA | 1.25 | 090
53444 |  | A | Insert tandem cuff | 13.40 | 6.47 | NA | 0.79 | 090
53445 |  | A | Insert uro/ves nck sphincter | 14.06 | 8.52 | NA | 0.84 | 090
53446 |  | A | Remove uro sphincter | 10.23 | 8.33 | NA | 0.61 | 090
53447 |  | A | Remove/replace ur sphincter | 13.49 | 7.71 | NA | 0.79 | 090
53448 |  | A | Remov/replc ur sphinctr comp | 21.15 | 12.09 | NA | 1.27 | 090
53449 |  | A | Repair uro sphincter | 9.70 | 6.55 | NA | 0.57 | 090
53450 |  | A | Revision of urethra | 6.14 | 4.99 | NA | 0.37 | 090
53460 |  | A | Revision of urethra | 7.12 | 5.35 | NA | 0.43 | 090
53502 |  | A | Repair of urethra injury | 7.63 | 5.72 | NA | 0.50 | 090
53505 |  | A | Repair of urethra injury | 7.63 | 5.48 | NA | 0.46 | 090
53510 |  | A | Repair of urethra injury | 10.11 | 6.72 | NA | 0.60 | 090
53515 |  | A | Repair of urethra injury | 13.31 | 7.44 | NA | 0.83 | 090
53520 |  | A | Repair of urethra defect | 8.68 | 5.95 | NA | 0.53 | 090
53600 |  | A | Dilate urethra stricture | 1.21 | 0.44 | 1.15 | 0.07 | 000
53601 |  | A | Dilate urethra stricture | 0.98 | 0.39 | 1.28 | 0.06 | 000
53605 |  | A | Dilate urethra stricture | 1.28 | 0.42 | NA | 0.08 | 000
53620 |  | A | Dilate urethra stricture | 1.62 | 0.61 | 1.86 | 0.10 | 000
53621 |  | A | Dilate urethra stricture | 1.35 | 0.51 | 1.94 | 0.08 | 000
53660 |  | A | Dilation of urethra | 0.71 | 0.32 | 1.19 | 0.04 | 000
53661 |  | A | Dilation of urethra | 0.72 | 0.30 | 1.18 | 0.04 | 000
53665 |  | A | Dilation of urethra | 0.76 | 0.26 | NA | 0.05 | 000
53670 |  | A | Insert urinary catheter | 0.50 | 0.17 | 1.71 | 0.03 | 000
53675 |  | A | Insert urinary catheter | 1.47 | 0.56 | 2.57 | 0.09 | 000
53850 |  | A | Prostatic microwave thermotx | 9.45 | 4.35 | 80.16 | 0.56 | 090
53852 |  | A | Prostatic rf thermotx | 9.88 | 4.52 | 71.41 | 0.58 | 090
53853 |  | A | Prostatic water thermother | 4.14 | 3.02 | 52.92 | 0.38 | 090
53899 |  | C | Urology surgery procedure | 0.00 | 0.00 | 0.00 | 0.00 | YYY
54000 |  | A | Slitting of prepuce | 1.54 | 1.47 | 5.71 | 0.10 | 010
54001 |  | A | Slitting of prepuce | 2.19 | 2.09 | 6.34 | 0.14 | 010
54015 |  | A | Drain penis lesion | 5.32 | 3.15 | 7.41 | 0.33 | 010
54050 |  | A | Destruction, penis lesion(s) | 1.24 | 0.49 | 2.66 | 0.07 | 010
54055 |  | A | Destruction, penis lesion(s) | 1.22 | 1.41 | 6.46 | 0.07 | 010
54056 |  | A | Cryosurgery, penis lesion(s) | 1.24 | 0.54 | 2.88 | 0.06 | 010
54057 |  | A | Laser surg, penis lesion(s) | 1.24 | 1.37 | 2.94 | 0.08 | 010
54060 |  | A | Excision of penis lesion(s) | 1.93 | 1.61 | 5.47 | 0.12 | 010
54065 |  | A | Destruction, penis lesion(s) | 2.42 | 2.16 | 5.35 | 0.13 | 010
54100 |  | A | Biopsy of penis | 1.90 | 0.74 | 3.54 | 0.10 | 000
54105 |  | A | Biopsy of penis | 3.50 | 2.13 | 6.53 | 0.21 | 010
54110 |  | A | Treatment of penis lesion | 10.13 | 7.97 | NA | 0.60 | 090
54111 |  | A | Treat penis lesion, graft | 13.57 | 9.09 | NA | 0.79 | 090
54112 |  | A | Treat penis lesion, graft | 15.86 | 9.98 | NA | 0.94 | 090
54115 |  | A | Treatment of penis lesion | 6.15 | 6.70 | 11.15 | 0.39 | 090
54120 |  | A | Partial removal of penis | 9.97 | 7.93 | NA | 0.60 | 090
54125 |  | A | Removal of penis | 13.53 | 9.12 | NA | 0.81 | 090
54130 |  | A | Remove penis & nodes | 20.14 | 11.59 | NA | 1.19 | 090
54135 |  | A | Remove penis & nodes | 26.36 | 13.71 | NA | 1.58 | 090
54150 |  | A | Circumcision | 1.81 | 1.91 | 6.79 | 0.17 | 010
54152 |  | A | Circumcision | 2.31 | 1.73 | NA | 0.16 | 010
54160 |  | A | Circumcision | 2.48 | 1.80 | 5.76 | 0.16 | 010
54161 |  | A | Circumcision | 3.27 | 2.04 | NA | 0.20 | 010
54162 |  | A | Lysis penil circumcis lesion | 3.00 | 2.86 | NA | 0.18 | 010
54163 |  | A | Repair of circumcision | 3.00 | 2.48 | NA | 0.18 | 010
54164 |  | A | Frenulotomy of penis | 2.50 | 2.31 | NA | 0.15 | 010
54200 |  | A | Treatment of penis lesion | 1.06 | 0.37 | 2.79 | 0.06 | 010
54205 |  | A | Treatment of penis lesion | 7.93 | 7.15 | NA | 0.47 | 090
54220 |  | A | Treatment of penis lesion | 2.42 | 1.00 | 2.04 | 0.15 | 000
54230 |  | A | Prepare penis study | 1.34 | 0.44 | NA | 0.08 | 000
54231 |  | A | Dynamic cavernosometry | 2.04 | 0.81 | 2.22 | 0.14 | 000
54235 |  | A | Penile injection | 1.19 | 0.40 | 1.18 | 0.07 | 000
54240 |  | A | Penis study | 1.31 | NA | 1.81 | 0.13 | 000
54240 | 26 | A | Penis study | 1.31 | 0.44 | 0.44 | 0.08 | 000
54240 | TC | A | Penis study | 0.00 | NA | 1.37 | 0.05 | 000
54250 |  | A | Penis study | 2.22 | NA | 2.98 | 0.16 | 000
54250 | 26 | A | Penis study | 2.22 | 0.73 | 0.73 | 0.14 | 000
54250 | TC | A | Penis study | 0.00 | NA | 2.25 | 0.02 | 000
54300 |  | A | Revision of penis | 10.41 | 8.80 | NA | 0.64 | 090
54304 |  | A | Revision of penis | 12.49 | 9.94 | NA | 0.74 | 090
54308 |  | A | Reconstruction of urethra | 11.83 | 9.73 | NA | 0.70 | 090
54312 |  | A | Reconstruction of urethra | 13.57 | 10.21 | NA | 0.81 | 090
54316 |  | A | Reconstruction of urethra | 16.82 | 11.88 | NA | 1.00 | 090
54318 |  | A | Reconstruction of urethra | 11.25 | 9.24 | NA | 1.15 | 090
54322 |  | A | Reconstruction of urethra | 13.01 | 9.22 | NA | 0.77 | 090
54324 |  | A | Reconstruction of urethra | 16.31 | 11.70 | NA | 1.03 | 090
54326 |  | A | Reconstruction of urethra | 15.72 | 11.09 | NA | 0.93 | 090
54328 |  | A | Revise penis/urethra | 15.65 | 11.10 | NA | 0.92 | 090
54332 |  | A | Revise penis/urethra | 17.08 | 11.23 | NA | 1.01 | 090
54336 |  | A | Revise penis/urethra | 20.04 | 14.98 | NA | 1.90 | 090
54340 |  | A | Secondary urethral surgery | 8.91 | 8.11 | NA | 0.72 | 090
54344 |  | A | Secondary urethral surgery | 15.94 | 10.79 | NA | 1.10 | 090
54348 |  | A | Secondary urethral surgery | 17.15 | 12.23 | NA | 1.02 | 090
54352 |  | A | Reconstruct urethra/penis | 24.74 | 15.37 | NA | 1.62 | 090
54360 |  | A | Penis plastic surgery | 11.93 | 8.57 | NA | 0.72 | 090
54380 |  | A | Repair penis | 13.18 | 10.08 | NA | 1.16 | 090
54385 |  | A | Repair penis | 15.39 | 12.00 | NA | 0.71 | 090
54390 |  | A | Repair penis and bladder | 21.61 | 14.40 | NA | 1.28 | 090
54400 |  | A | Insert semi-rigid prosthesis | 8.99 | 6.37 | NA | 0.53 | 090
54401 |  | A | Insert self-contd prosthesis | 10.28 | 7.18 | NA | 0.61 | 090
54402 |  | D | Remove penis prosthesis | 9.21 | 7.43 | NA | 0.55 | 090
54405 |  | A | Insert multi-comp penis pros | 13.43 | 8.27 | NA | 0.80 | 090
54406 |  | A | Remove multi-comp penis pros | 12.10 | 6.02 | NA | 0.80 | 090
54407 |  | D | Remove multi-comp prosthesis | 13.34 | 9.03 | NA | 0.80 | 090
54408 |  | A | Repair multi-comp penis pros | 12.75 | 6.37 | NA | 0.80 | 090
54409 |  | D | Revise penis prosthesis | 12.20 | 8.59 | NA | 0.73 | 090
54410 |  | A | Remove/replace penis prosth | 15.50 | 7.27 | NA | 0.80 | 090
54411 |  | A | Remv/replc penis pros, comp | 16.00 | 8.77 | NA | 0.80 | 090
54415 |  | A | Remove self-contd penis pros | 8.20 | 5.24 | NA | 0.55 | 090
54416 |  | A | Remv/repl penis contain pros | 10.87 | 6.79 | NA | 0.55 | 090
54417 |  | A | Remv/replc penis pros, compl | 14.19 | 7.71 | NA | 0.55 | 090
54420 |  | A | Revision of penis | 11.42 | 8.47 | NA | 0.72 | 090
54430 |  | A | Revision of penis | 10.15 | 7.94 | NA | 0.60 | 090
54435 |  | A | Revision of penis | 6.12 | 6.09 | NA | 0.36 | 090
54440 |  | C | Repair of penis | 0.00 | 0.00 | 0.00 | 0.00 | 090
54450 |  | A | Preputial stretching | 1.12 | 0.47 | 1.06 | 0.07 | 000
54500 |  | A | Biopsy of testis | 1.31 | 0.44 | 6.32 | 0.08 | 000
54505 |  | A | Biopsy of testis | 3.46 | 2.66 | NA | 0.21 | 010
54510 |  | D | Removal of testis lesion | 5.45 | 3.90 | NA | 0.35 | 090
54512 |  | A | Excise lesion testis | 8.58 | 5.01 | NA | 0.56 | 090
54520 |  | A | Removal of testis | 5.23 | 3.64 | NA | 0.33 | 090
54522 |  | A | Orchiectomy, partial | 9.50 | 6.00 | NA | 0.62 | 090
54530 |  | A | Removal of testis | 8.58 | 5.30 | NA | 0.53 | 090
54535 |  | A | Extensive testis surgery | 12.16 | 7.26 | NA | 0.83 | 090
54550 |  | A | Exploration for testis | 7.78 | 4.77 | NA | 0.49 | 090
54560 |  | A | Exploration for testis | 11.13 | 6.79 | NA | 0.79 | 090
54600 |  | A | Reduce testis torsion | 7.01 | 4.26 | NA | 0.45 | 090
54620 |  | A | Suspension of testis | 4.90 | 3.17 | NA | 0.31 | 010
54640 |  | A | Suspension of testis | 6.90 | 4.26 | NA | 0.49 | 090
54650 |  | A | Orchiopexy (Fowler-Stephens) | 11.45 | 7.08 | NA | 0.81 | 090
54660 |  | A | Revision of testis | 5.11 | 3.51 | NA | 0.35 | 090
54670 |  | A | Repair testis injury | 6.41 | 4.19 | NA | 0.41 | 090
54680 |  | A | Relocation of testis(es) | 12.65 | 7.40 | NA | 0.94 | 090
54690 |  | A | Laparoscopy, orchiectomy | 10.96 | 6.76 | NA | 0.99 | 090
54692 |  | A | Laparoscopy, orchiopexy | 12.88 | 5.66 | NA | 0.87 | 090
54699 |  | C | Laparoscope proc, testis | 0.00 | 0.00 | 0.00 | 0.00 | YYY
54700 |  | A | Drainage of scrotum | 3.43 | 3.42 | 8.49 | 0.23 | 010
54800 |  | A | Biopsy of epididymis | 2.33 | 0.79 | 6.02 | 0.14 | 000
54820 |  | A | Exploration of epididymis | 5.14 | 3.61 | NA | 0.33 | 090
54830 |  | A | Remove epididymis lesion | 5.38 | 3.73 | NA | 0.34 | 090
54840 |  | A | Remove epididymis lesion | 5.20 | 3.67 | NA | 0.31 | 090
54860 |  | A | Removal of epididymis | 6.32 | 4.27 | NA | 0.38 | 090
54861 |  | A | Removal of epididymis | 8.90 | 5.12 | NA | 0.52 | 090
54900 |  | A | Fusion of spermatic ducts | 13.20 | 6.63 | NA | 1.34 | 090
54901 |  | A | Fusion of spermatic ducts | 17.94 | 8.70 | NA | 1.83 | 090
55000 |  | A | Drainage of hydrocele | 1.43 | 0.48 | 2.18 | 0.10 | 000
55040 |  | A | Removal of hydrocele | 5.36 | 3.45 | NA | 0.35 | 090
55041 |  | A | Removal of hydroceles | 7.74 | 4.50 | NA | 0.50 | 090
55060 |  | A | Repair of hydrocele | 5.52 | 3.51 | NA | 0.37 | 090
55100 |  | A | Drainage of scrotum abscess | 2.13 | 3.68 | 9.84 | 0.15 | 010
55110 |  | A | Explore scrotum | 5.70 | 3.61 | NA | 0.36 | 090
55120 |  | A | Removal of scrotum lesion | 5.09 | 3.41 | NA | 0.33 | 090
55150 |  | A | Removal of scrotum | 7.22 | 4.62 | NA | 0.47 | 090
55175 |  | A | Revision of scrotum | 5.24 | 3.73 | NA | 0.33 | 090
55180 |  | A | Revision of scrotum | 10.72 | 6.41 | NA | 0.72 | 090
55200 |  | A | Incision of sperm duct | 4.24 | 3.15 | NA | 0.25 | 090
55250 |  | A | Removal of sperm duct(s) | 3.29 | 3.13 | 9.45 | 0.21 | 090
55300 |  | A | Prepare, sperm duct x-ray | 3.51 | 1.54 | NA | 0.20 | 000
55400 |  | A | Repair of sperm duct | 8.49 | 5.30 | NA | 0.50 | 090
55450 |  | A | Ligation of sperm duct | 4.12 | 2.50 | 7.33 | 0.24 | 010
55500 |  | A | Removal of hydrocele | 5.59 | 3.67 | NA | 0.43 | 090
55520 |  | A | Removal of sperm cord lesion | 6.03 | 3.70 | NA | 0.56 | 090
55530 |  | A | Revise spermatic cord veins | 5.66 | 3.81 | NA | 0.36 | 090
55535 |  | A | Revise spermatic cord veins | 6.56 | 4.16 | NA | 0.42 | 090
55540 |  | A | Revise hernia & sperm veins | 7.67 | 4.26 | NA | 0.74 | 090
55550 |  | A | Laparo ligate spermatic vein | 6.57 | 3.42 | NA | 0.47 | 090
55559 |  | C | Laparo proc, spermatic cord | 0.00 | 0.00 | 0.00 | 0.00 | YYY
55600 |  | A | Incise sperm duct pouch | 6.38 | 4.30 | NA | 0.38 | 090
55605 |  | A | Incise sperm duct pouch | 7.96 | 5.20 | NA | 0.54 | 090
55650 |  | A | Remove sperm duct pouch | 11.80 | 6.27 | NA | 0.72 | 090
55680 |  | A | Remove sperm pouch lesion | 5.19 | 3.89 | NA | 0.31 | 090
55700 |  | A | Biopsy of prostate | 1.57 | 0.72 | 4.56 | 0.10 | 000
55705 |  | A | Biopsy of prostate | 4.57 | 3.84 | NA | 0.26 | 010
55720 |  | A | Drainage of prostate abscess | 7.64 | 5.95 | NA | 0.44 | 090
55725 |  | A | Drainage of prostate abscess | 8.68 | 6.39 | NA | 0.51 | 090
55801 |  | A | Removal of prostate | 17.80 | 9.51 | NA | 1.08 | 090
55810 |  | A | Extensive prostate surgery | 22.58 | 11.51 | NA | 1.35 | 090
55812 |  | A | Extensive prostate surgery | 27.51 | 13.67 | NA | 1.69 | 090
55815 |  | A | Extensive prostate surgery | 30.46 | 14.64 | NA | 1.84 | 090
55821 |  | A | Removal of prostate | 14.25 | 7.99 | NA | 0.85 | 090
55831 |  | A | Removal of prostate | 15.62 | 8.46 | NA | 0.94 | 090
55840 |  | A | Extensive prostate surgery | 22.69 | 12.05 | NA | 1.37 | 090
55842 |  | A | Extensive prostate surgery | 24.38 | 12.69 | NA | 1.48 | 090
55845 |  | A | Extensive prostate surgery | 28.55 | 13.91 | NA | 1.71 | 090
55859 |  | A | Percut/needle insert, pros | 12.52 | 7.54 | NA | 0.74 | 090
55860 |  | A | Surgical exposure, prostate | 14.45 | 8.27 | NA | 0.82 | 090
55862 |  | A | Extensive prostate surgery | 18.39 | 9.58 | NA | 1.14 | 090
55865 |  | A | Extensive prostate surgery | 22.87 | 11.14 | NA | 1.37 | 090
55870 |  | A | Electroejaculation | 2.58 | 1.02 | 1.97 | 0.14 | 000
55873 |  | A | Cryoablate prostate | 19.47 | 10.37 | NA | 1.02 | 090
55899 |  | C | Genital surgery procedure | 0.00 | 0.00 | 0.00 | 0.00 | YYY
55970 |  | N | Sex transformation, M to F | 0.00 | 0.00 | 0.00 | 0.00 | XXX
55980 |  | N | Sex transformation, F to M | 0.00 | 0.00 | 0.00 | 0.00 | XXX
56405 |  | A | I & D of vulva/perineum | 1.44 | 1.30 | 2.48 | 0.14 | 010
56420 |  | A | Drainage of gland abscess | 1.39 | 1.29 | 2.46 | 0.13 | 010
56440 |  | A | Surgery for vulva lesion | 2.84 | 2.36 | 3.75 | 0.28 | 010
56441 |  | A | Lysis of labial lesion(s) | 1.97 | 2.09 | 2.68 | 0.17 | 010
56501 |  | A | Destroy, vulva lesions, simp | 1.53 | 1.40 | 2.42 | 0.15 | 010
56515 |  | A | Destroy vulva lesion/s compl | 2.76 | 2.38 | 3.20 | 0.18 | 010
56605 |  | A | Biopsy of vulva/perineum | 1.10 | 0.49 | 1.89 | 0.11 | 000
56606 |  | A | Biopsy of vulva/perineum | 0.55 | 0.22 | 1.67 | 0.06 | ZZZ
56620 |  | A | Partial removal of vulva | 7.47 | 5.00 | NA | 0.76 | 090
56625 |  | A | Complete removal of vulva | 8.40 | 5.95 | NA | 0.84 | 090
56630 |  | A | Extensive vulva surgery | 12.36 | 7.75 | NA | 1.23 | 090
56631 |  | A | Extensive vulva surgery | 16.20 | 10.49 | NA | 1.63 | 090
56632 |  | A | Extensive vulva surgery | 20.29 | 10.33 | NA | 2.03 | 090
56633 |  | A | Extensive vulva surgery | 16.47 | 9.42 | NA | 1.66 | 090
56634 |  | A | Extensive vulva surgery | 17.88 | 11.17 | NA | 1.78 | 090
56637 |  | A | Extensive vulva surgery | 21.97 | 12.85 | NA | 2.18 | 090
56640 |  | A | Extensive vulva surgery | 22.17 | 12.38 | NA | 2.26 | 090
56700 |  | A | Partial removal of hymen | 2.52 | 2.13 | 3.10 | 0.24 | 010
56720 |  | A | Incision of hymen | 0.68 | 0.57 | 1.81 | 0.07 | 000
56740 |  | A | Remove vagina gland lesion | 4.57 | 2.96 | 3.92 | 0.37 | 010
56800 |  | A | Repair of vagina | 3.89 | 2.80 | NA | 0.37 | 010
56805 |  | A | Repair clitoris | 18.86 | 9.36 | NA | 1.82 | 090
56810 |  | A | Repair of perineum | 4.13 | 2.86 | NA | 0.41 | 010
57000 |  | A | Exploration of vagina | 2.97 | 2.42 | NA | 0.28 | 010
57010 |  | A | Drainage of pelvic abscess | 6.03 | 3.92 | NA | 0.57 | 090
57020 |  | A | Drainage of pelvic fluid | 1.50 | 0.63 | 1.63 | 0.15 | 000
57022 |  | A | I & d vaginal hematoma, pp | 2.56 | 2.13 | NA | 0.24 | 010
57023 |  | A | I & d vag hematoma, non-ob | 4.75 | 2.98 | NA | 0.24 | 010
57061 |  | A | Destroy vag lesions, simple | 1.25 | 1.30 | 2.36 | 0.13 | 010
57065 |  | A | Destroy vag lesions, complex | 2.61 | 2.36 | 3.06 | 0.26 | 010
57100 |  | A | Biopsy of vagina | 1.20 | 0.51 | 1.61 | 0.10 | 000
57105 |  | A | Biopsy of vagina | 1.69 | 2.30 | 2.33 | 0.17 | 010
57106 |  | A | Remove vagina wall, partial | 6.36 | 2.52 | 2.52 | 0.58 | 090
57107 |  | A | Remove vagina tissue, part | 23.00 | 10.53 | NA | 2.17 | 090
57109 |  | A | Vaginectomy partial w/nodes | 27.00 | 12.03 | NA | 1.97 | 090
57110 |  | A | Remove vagina wall, complete | 14.29 | 7.39 | NA | 1.43 | 090
57111 |  | A | Remove vagina tissue, compl | 27.00 | 12.47 | NA | 2.71 | 090
57112 |  | A | Vaginectomy w/nodes, compl | 29.00 | 12.71 | NA | 2.19 | 090
57120 |  | A | Closure of vagina | 7.41 | 4.77 | NA | 0.75 | 090
57130 |  | A | Remove vagina lesion | 2.43 | 2.18 | NA | 0.23 | 010
57135 |  | A | Remove vagina lesion | 2.67 | 2.29 | 3.05 | 0.26 | 010
57150 |  | A | Treat vagina infection | 0.55 | 0.22 | 1.05 | 0.06 | 000
57155 |  | A | Insert uteri tandems/ovoids | 6.27 | 3.67 | NA | 0.63 | 090
57160 |  | A | Insert pessary/other device | 0.89 | 0.40 | 1.13 | 0.09 | 000
57170 |  | A | Fitting of diaphragm/cap | 0.91 | 0.34 | 1.46 | 0.09 | 000
57180 |  | A | Treat vaginal bleeding | 1.58 | 1.51 | 2.37 | 0.16 | 010
57200 |  | A | Repair of vagina | 3.94 | 3.08 | NA | 0.38 | 090
57210 |  | A | Repair vagina/perineum | 5.17 | 3.60 | NA | 0.50 | 090
57220 |  | A | Revision of urethra | 4.31 | 3.48 | NA | 0.42 | 090
57230 |  | A | Repair of urethral lesion | 5.64 | 4.33 | NA | 0.50 | 090
57240 |  | A | Repair bladder & vagina | 6.07 | 4.55 | NA | 0.53 | 090
57250 |  | A | Repair rectum & vagina | 5.53 | 3.95 | NA | 0.54 | 090
57260 |  | A | Repair of vagina | 8.27 | 5.07 | NA | 0.83 | 090
57265 |  | A | Extensive repair of vagina | 11.34 | 7.09 | NA | 1.14 | 090
57268 |  | A | Repair of bowel bulge | 6.76 | 4.43 | NA | 0.66 | 090
57270 |  | A | Repair of bowel pouch | 12.11 | 6.41 | NA | 1.17 | 090
57280 |  | A | Suspension of vagina | 15.04 | 7.56 | NA | 1.44 | 090
57282 |  | A | Repair of vaginal prolapse | 8.86 | 5.32 | NA | 0.86 | 090
57284 |  | A | Repair paravaginal defect | 12.70 | 7.28 | NA | 1.17 | 090
57287 |  | A | Revise/remove sling repair | 10.71 | 7.29 | NA | 0.74 | 090
57288 |  | A | Repair bladder defect | 13.02 | 7.03 | NA | 0.86 | 090
57289 |  | A | Repair bladder & vagina | 11.58 | 6.87 | NA | 0.95 | 090
57291 |  | A | Construction of vagina | 7.95 | 5.82 | NA | 0.78 | 090
57292 |  | A | Construct vagina with graft | 13.09 | 7.23 | NA | 1.29 | 090
57300 |  | A | Repair rectum-vagina fistula | 7.61 | 4.73 | NA | 0.70 | 090
57305 |  | A | Repair rectum-vagina fistula | 13.77 | 6.83 | NA | 1.33 | 090
57307 |  | A | Fistula repair & colostomy | 15.93 | 7.56 | NA | 1.59 | 090
57308 |  | A | Fistula repair, transperine | 9.94 | 5.94 | NA | 0.91 | 090
57310 |  | A | Repair urethrovaginal lesion | 6.78 | 4.82 | NA | 0.45 | 090
57311 |  | A | Repair urethrovaginal lesion | 7.98 | 5.44 | NA | 0.51 | 090
57320 |  | A | Repair bladder-vagina lesion | 8.01 | 5.44 | NA | 0.60 | 090
57330 |  | A | Repair bladder-vagina lesion | 12.35 | 6.89 | NA | 0.86 | 090
57335 |  | A | Repair vagina | 18.73 | 9.30 | NA | 1.66 | 090
57400 |  | A | Dilation of vagina | 2.27 | 1.15 | NA | 0.22 | 000
57410 |  | A | Pelvic examination | 1.75 | 1.09 | 2.67 | 0.14 | 000
57415 |  | A | Remove vaginal foreign body | 2.17 | 2.13 | 3.64 | 0.19 | 010
57452 |  | A | Examination of vagina | 0.99 | 0.45 | 1.68 | 0.10 | 000
57454 |  | A | Vagina examination & biopsy | 1.27 | 0.60 | 1.87 | 0.13 | 000
57460 |  | A | Cervix excision | 2.83 | 1.16 | 2.14 | 0.28 | 000
57500 |  | A | Biopsy of cervix | 0.97 | 0.48 | 2.27 | 0.10 | 000
57505 |  | A | Endocervical curettage | 1.14 | 1.33 | 2.04 | 0.12 | 010
57510 |  | A | Cauterization of cervix | 1.90 | 1.61 | 3.26 | 0.18 | 010
57511 |  | A | Cryocautery of cervix | 1.90 | 0.75 | 2.52 | 0.18 | 010
57513 |  | A | Laser surgery of cervix | 1.90 | 1.62 | 2.73 | 0.19 | 010
57520 |  | A | Conization of cervix | 4.04 | 2.90 | 4.43 | 0.41 | 090
57522 |  | A | Conization of cervix | 3.36 | 2.63 | 3.98 | 0.34 | 090
57530 |  | A | Removal of cervix | 4.79 | 3.69 | NA | 0.48 | 090
57531 |  | A | Removal of cervix, radical | 28.00 | 13.79 | NA | 2.46 | 090
57540 |  | A | Removal of residual cervix | 12.22 | 6.28 | NA | 1.21 | 090
57545 |  | A | Remove cervix/repair pelvis | 13.03 | 6.76 | NA | 1.30 | 090
57550 |  | A | Removal of residual cervix | 5.53 | 3.95 | NA | 0.55 | 090
57555 |  | A | Remove cervix/repair vagina | 8.95 | 5.76 | NA | 0.89 | 090
57556 |  | A | Remove cervix, repair bowel | 8.37 | 5.03 | NA | 0.80 | 090
57700 |  | A | Revision of cervix | 3.55 | 2.64 | NA | 0.33 | 090
57720 |  | A | Revision of cervix | 4.13 | 3.39 | NA | 0.41 | 090
57800 |  | A | Dilation of cervical canal | 0.77 | 0.35 | 1.22 | 0.08 | 000
57820 |  | A | D & c of residual cervix | 1.67 | 2.34 | 2.70 | 0.17 | 010
58100 |  | A | Biopsy of uterus lining | 1.53 | 0.74 | 1.55 | 0.07 | 000
58120 |  | A | Dilation and curettage | 3.27 | 2.50 | 3.99 | 0.33 | 010
58140 |  | A | Removal of uterus lesion | 14.60 | 7.13 | NA | 1.46 | 090
58145 |  | A | Removal of uterus lesion | 8.04 | 5.02 | NA | 0.80 | 090
58150 |  | A | Total hysterectomy | 15.24 | 7.69 | NA | 1.53 | 090
58152 |  | A | Total hysterectomy | 20.60 | 9.88 | NA | 1.52 | 090
58180 |  | A | Partial hysterectomy | 15.29 | 7.64 | NA | 1.54 | 090
58200 |  | A | Extensive hysterectomy | 21.59 | 11.32 | NA | 2.15 | 090
58210 |  | A | Extensive hysterectomy | 28.85 | 14.24 | NA | 2.91 | 090
58240 |  | A | Removal of pelvis contents | 38.39 | 19.04 | NA | 3.76 | 090
58260 |  | A | Vaginal hysterectomy | 12.98 | 6.73 | NA | 1.23 | 090
58262 |  | A | Vaginal hysterectomy | 14.77 | 7.48 | NA | 1.42 | 090
58263 |  | A | Vaginal hysterectomy | 16.06 | 8.00 | NA | 1.55 | 090
58267 |  | A | Hysterectomy & vagina repair | 17.04 | 8.59 | NA | 1.51 | 090
58270 |  | A | Hysterectomy & vagina repair | 14.26 | 7.25 | NA | 1.37 | 090
58275 |  | A | Hysterectomy/revise vagina | 15.76 | 7.76 | NA | 1.51 | 090
58280 |  | A | Hysterectomy/revise vagina | 17.01 | 8.26 | NA | 1.54 | 090
58285 |  | A | Extensive hysterectomy | 22.26 | 10.93 | NA | 1.88 | 090
58300 |  | N | Insert intrauterine device | 1.01 | 0.39 | 1.41 | 0.10 | XXX
58301 |  | A | Remove intrauterine device | 1.27 | 0.50 | 1.61 | 0.13 | 000
58321 |  | A | Artificial insemination | 0.92 | 0.36 | 0.99 | 0.10 | 000
58322 |  | A | Artificial insemination | 1.10 | 0.43 | 1.05 | 0.11 | 000
58323 |  | A | Sperm washing | 0.23 | 0.10 | 0.55 | 0.02 | 000
58340 |  | A | Catheter for hysterography | 0.88 | 0.33 | 12.82 | 0.08 | 000
58345 |  | A | Reopen fallopian tube | 4.66 | 1.74 | NA | 0.36 | 010
58346 |  | A | Insert heyman uteri capsule | 6.75 | 3.85 | NA | 0.68 | 090
58350 |  | A | Reopen fallopian tube | 1.01 | 1.17 | 2.11 | 0.10 | 010
58353 |  | A | Endometr ablate, thermal | 3.56 | 2.25 | NA | 0.37 | 010
58400 |  | A | Suspension of uterus | 6.36 | 4.11 | NA | 0.62 | 090
58410 |  | A | Suspension of uterus | 12.73 | 6.68 | NA | 1.09 | 090
58520 |  | A | Repair of ruptured uterus | 11.92 | 6.01 | NA | 1.17 | 090
58540 |  | A | Revision of uterus | 14.64 | 7.06 | NA | 1.28 | 090
58550 |  | A | Laparo-asst vag hysterectomy | 14.19 | 6.91 | NA | 1.44 | 010
58551 |  | A | Laparoscopy, remove myoma | 14.21 | 6.81 | NA | 1.45 | 010
58555 |  | A | Hysteroscopy, dx, sep proc | 3.33 | 1.47 | 2.93 | 0.34 | 000
58558 |  | A | Hysteroscopy, biopsy | 4.75 | 2.07 | 3.52 | 0.49 | 000
58559 |  | A | Hysteroscopy, lysis | 6.17 | 2.52 | 2.52 | 0.62 | 000
58560 |  | A | Hysteroscopy, resect septum | 7.00 | 2.92 | 2.92 | 0.71 | 000
58561 |  | A | Hysteroscopy, remove myoma | 10.00 | 4.02 | 4.02 | 1.02 | 000
58562 |  | A | Hysteroscopy, remove fb | 5.21 | 2.23 | NA | 0.52 | 000
58563 |  | A | Hysteroscopy, ablation | 6.17 | 2.54 | 2.54 | 0.62 | 000
58578 |  | C | Laparo proc, uterus | 0.00 | 0.00 | 0.00 | 0.00 | YYY
58579 |  | C | Hysteroscope procedure | 0.00 | 0.00 | 0.00 | 0.00 | YYY
58600 |  | A | Division of fallopian tube | 5.60 | 3.43 | NA | 0.39 | 090
58605 |  | A | Division of fallopian tube | 5.00 | 3.24 | NA | 0.33 | 090
58611 |  | A | Ligate oviduct(s) add-on | 1.45 | 0.59 | NA | 0.07 | ZZZ
58615 |  | A | Occlude fallopian tube(s) | 3.90 | 3.17 | NA | 0.40 | 010
58660 |  | A | Laparoscopy, lysis | 11.29 | 5.37 | NA | 1.14 | 090
58661 |  | A | Laparoscopy, remove adnexa | 11.05 | 5.32 | NA | 1.12 | 010
58662 |  | A | Laparoscopy, excise lesions | 11.79 | 5.44 | NA | 1.18 | 090
58670 |  | A | Laparoscopy, tubal cautery | 5.60 | 3.66 | NA | 0.55 | 090
58671 |  | A | Laparoscopy, tubal block | 5.60 | 3.69 | NA | 0.56 | 090
58672 |  | A | Laparoscopy, fimbrioplasty | 12.88 | 6.36 | NA | 1.22 | 090
58673 |  | A | Laparoscopy, salpingostomy | 13.74 | 6.94 | NA | 1.40 | 090
58679 |  | C | Laparo proc, oviduct-ovary | 0.00 | 0.00 | 0.00 | 0.00 | YYY
58700 |  | A | Removal of fallopian tube | 12.05 | 5.90 | NA | 0.64 | 090
58720 |  | A | Removal of ovary/tube(s) | 11.36 | 5.87 | NA | 1.14 | 090
58740 |  | A | Revise fallopian tube(s) | 14.00 | 7.14 | NA | 0.59 | 090
58750 |  | A | Repair oviduct | 14.84 | 7.50 | NA | 1.52 | 090
58752 |  | A | Revise ovarian tube(s) | 14.84 | 7.15 | NA | 1.51 | 090
58760 |  | A | Remove tubal obstruction | 13.13 | 6.88 | NA | 1.34 | 090
58770 |  | A | Create new tubal opening | 13.97 | 7.11 | NA | 1.42 | 090
58800 |  | A | Drainage of ovarian cyst(s) | 4.14 | 4.49 | 4.49 | 0.36 | 090
58805 |  | A | Drainage of ovarian cyst(s) | 5.88 | 3.54 | NA | 0.56 | 090
58820 |  | A | Drain ovary abscess, open | 4.22 | 3.43 | NA | 0.29 | 090
58822 |  | A | Drain ovary abscess, percut | 10.13 | 5.10 | NA | 0.92 | 090
58823 |  | A | Drain pelvic abscess, percut | 3.38 | 2.35 | NA | 0.18 | 000
58825 |  | A | Transposition, ovary(s) | 10.98 | 5.87 | NA | 0.62 | 090
58900 |  | A | Biopsy of ovary(s) | 5.99 | 3.63 | NA | 0.56 | 090
58920 |  | A | Partial removal of ovary(s) | 11.36 | 5.67 | NA | 0.68 | 090
58925 |  | A | Removal of ovarian cyst(s) | 11.36 | 5.63 | NA | 1.14 | 090
58940 |  | A | Removal of ovary(s) | 7.29 | 4.03 | NA | 0.73 | 090
58943 |  | A | Removal of ovary(s) | 18.43 | 9.59 | NA | 1.86 | 090
58950 |  | A | Resect ovarian malignancy | 16.93 | 9.15 | NA | 1.55 | 090
58951 |  | A | Resect ovarian malignancy | 22.38 | 11.49 | NA | 2.20 | 090
58952 |  | A | Resect ovarian malignancy | 25.01 | 12.59 | NA | 2.50 | 090
58953 |  | A | Tah, rad dissect for debulk | 32.00 | 15.15 | NA | 3.20 | 090
58954 |  | A | Tah rad debulk/lymph remove | 35.00 | 16.23 | NA | 3.50 | 090
58960 |  | A | Exploration of abdomen | 14.65 | 8.27 | NA | 1.47 | 090
58970 |  | A | Retrieval of oocyte | 3.53 | 1.66 | 8.70 | 0.36 | 000
58974 |  | C | Transfer of embryo | 0.00 | 0.00 | 0.00 | 0.00 | 000
58976 |  | A | Transfer of embryo | 3.83 | 1.48 | 2.25 | 0.39 | 000
58999 |  | C | Genital surgery procedure | 0.00 | 0.00 | 0.00 | 0.00 | YYY
59000 |  | A | Amniocentesis, diagnostic | 1.30 | 0.70 | 2.05 | 0.23 | 000
59001 |  | A | Amniocentesis, therapeutic | 3.00 | 1.33 | NA | 0.23 | 000
59012 |  | A | Fetal cord puncture,prenatal | 3.45 | 1.59 | NA | 0.62 | 000
59015 |  | A | Chorion biopsy | 2.20 | 1.09 | 1.61 | 0.40 | 000
59020 |  | A | Fetal contract stress test | 0.66 | NA | 0.81 | 0.20 | 000
59020 | 26 | A | Fetal contract stress test | 0.66 | 0.27 | 0.27 | 0.12 | 000
59020 | TC | A | Fetal contract stress test | 0.00 | NA | 0.54 | 0.08 | 000
59025 |  | A | Fetal non-stress test | 0.53 | NA | 0.46 | 0.12 | 000
59025 | 26 | A | Fetal non-stress test | 0.53 | 0.22 | 0.22 | 0.10 | 000
59025 | TC | A | Fetal non-stress test | 0.00 | NA | 0.24 | 0.02 | 000
59030 |  | A | Fetal scalp blood sample | 1.99 | 1.07 | NA | 0.36 | 000
59050 |  | A | Fetal monitor w/report | 0.89 | 0.36 | NA | 0.16 | XXX
59051 |  | A | Fetal monitor/interpret only | 0.74 | 0.30 | NA | 0.14 | XXX
59100 |  | A | Remove uterus lesion | 12.35 | 6.42 | NA | 2.21 | 090
59120 |  | A | Treat ectopic pregnancy | 11.49 | 6.23 | NA | 2.06 | 090
59121 |  | A | Treat ectopic pregnancy | 11.67 | 6.35 | NA | 2.09 | 090
59130 |  | A | Treat ectopic pregnancy | 14.22 | 6.99 | NA | 2.54 | 090
59135 |  | A | Treat ectopic pregnancy | 13.88 | 7.10 | NA | 2.49 | 090
59136 |  | A | Treat ectopic pregnancy | 13.18 | 6.70 | NA | 2.36 | 090
59140 |  | A | Treat ectopic pregnancy | 5.46 | 3.46 | NA | 0.98 | 090
59150 |  | A | Treat ectopic pregnancy | 11.67 | 6.48 | NA | 1.23 | 090
59151 |  | A | Treat ectopic pregnancy | 11.49 | 5.94 | NA | 1.41 | 090
59160 |  | A | D & c after delivery | 2.71 | 2.29 | 3.73 | 0.49 | 010
59200 |  | A | Insert cervical dilator | 0.79 | 0.31 | 1.41 | 0.15 | 000
59300 |  | A | Episiotomy or vaginal repair | 2.41 | 0.98 | 2.00 | 0.43 | 000
59320 |  | A | Revision of cervix | 2.48 | 1.30 | NA | 0.45 | 000
59325 |  | A | Revision of cervix | 4.07 | 1.96 | NA | 0.73 | 000
59350 |  | A | Repair of uterus | 4.95 | 1.99 | NA | 0.88 | 000
59400 |  | A | Obstetrical care | 23.06 | 15.17 | NA | 4.14 | MMM
59409 |  | A | Obstetrical care | 13.50 | 5.41 | NA | 2.42 | MMM
59410 |  | A | Obstetrical care | 14.78 | 6.25 | NA | 2.65 | MMM
59412 |  | A | Antepartum manipulation | 1.71 | 0.70 | 1.34 | 0.31 | MMM
59414 |  | A | Deliver placenta | 1.61 | 1.32 | NA | 0.29 | MMM
59425 |  | A | Antepartum care only | 4.81 | 5.34 | 5.34 | 0.86 | MMM
59426 |  | A | Antepartum care only | 8.28 | 9.11 | 9.11 | 1.49 | MMM
59430 |  | A | Care after delivery | 2.13 | 1.26 | 1.26 | 0.38 | MMM
59510 |  | A | Cesarean delivery | 26.22 | 17.35 | NA | 4.70 | MMM
59514 |  | A | Cesarean delivery only | 15.97 | 6.33 | NA | 2.86 | MMM
59515 |  | A | Cesarean delivery | 17.37 | 8.23 | NA | 3.12 | MMM
59525 |  | A | Remove uterus after cesarean | 8.54 | 3.34 | NA | 1.53 | ZZZ
59610 |  | A | Vbac delivery | 24.62 | 15.89 | NA | 4.41 | MMM
59612 |  | A | Vbac delivery only | 15.06 | 6.18 | NA | 2.70 | MMM
59614 |  | A | Vbac care after delivery | 16.34 | 7.52 | NA | 2.93 | MMM
59618 |  | A | Attempted vbac delivery | 27.78 | 18.22 | NA | 4.98 | MMM
59620 |  | A | Attempted vbac delivery only | 17.53 | 6.89 | NA | 3.15 | MMM
59622 |  | A | Attempted vbac after care | 18.93 | 8.80 | NA | 3.39 | MMM
59812 |  | A | Treatment of miscarriage | 4.01 | 2.63 | 3.71 | 0.58 | 090
59820 |  | A | Care of miscarriage | 4.01 | 2.79 | 3.75 | 0.72 | 090
59821 |  | A | Treatment of miscarriage | 4.47 | 2.98 | 3.74 | 0.80 | 090
59830 |  | A | Treat uterus infection | 6.11 | 4.05 | NA | 1.10 | 090
59840 |  | R | Abortion | 3.01 | 2.37 | 4.07 | 0.54 | 010
59841 |  | R | Abortion | 5.24 | 3.71 | 5.71 | 0.94 | 010
59850 |  | R | Abortion | 5.91 | 2.79 | NA | 1.06 | 090
59851 |  | R | Abortion | 5.93 | 3.18 | NA | 1.06 | 090
59852 |  | R | Abortion | 8.24 | 4.65 | NA | 1.48 | 090
59855 |  | R | Abortion | 6.12 | 3.34 | NA | 1.10 | 090
59856 |  | R | Abortion | 7.48 | 3.65 | NA | 1.34 | 090
59857 |  | R | Abortion | 9.29 | 4.35 | NA | 1.66 | 090
59866 |  | R | Abortion (mpr) | 4.00 | 1.55 | NA | 0.72 | 000
59870 |  | A | Evacuate mole of uterus | 6.01 | 3.85 | NA | 0.77 | 090
59871 |  | A | Remove cerclage suture | 2.13 | 0.89 | 2.12 | 0.38 | 000
59898 |  | C | Laparo proc, ob care/deliver | 0.00 | 0.00 | 0.00 | 0.00 | YYY
59899 |  | C | Maternity care procedure | 0.00 | 0.00 | 0.00 | 0.00 | YYY
60000 |  | A | Drain thyroid/tongue cyst | 1.76 | 2.12 | 2.33 | 0.14 | 010
60001 |  | A | Aspirate/inject thyriod cyst | 0.97 | 0.35 | 1.64 | 0.06 | 000
60100 |  | A | Biopsy of thyroid | 1.56 | 0.55 | 2.61 | 0.05 | 000
60200 |  | A | Remove thyroid lesion | 9.55 | 6.53 | NA | 0.84 | 090
60210 |  | A | Partial thyroid excision | 10.88 | 6.43 | NA | 1.01 | 090
60212 |  | A | Parital thyroid excision | 16.03 | 8.24 | NA | 1.51 | 090
60220 |  | A | Partial removal of thyroid | 11.90 | 6.99 | NA | 0.97 | 090
60225 |  | A | Partial removal of thyroid | 14.19 | 7.82 | NA | 1.31 | 090
60240 |  | A | Removal of thyroid | 16.06 | 9.18 | NA | 1.50 | 090
60252 |  | A | Removal of thyroid | 20.57 | 11.38 | NA | 1.63 | 090
60254 |  | A | Extensive thyroid surgery | 26.99 | 15.76 | NA | 1.96 | 090
60260 |  | A | Repeat thyroid surgery | 17.47 | 10.27 | NA | 1.39 | 090
60270 |  | A | Removal of thyroid | 20.27 | 11.40 | NA | 1.78 | 090
60271 |  | A | Removal of thyroid | 16.83 | 9.77 | NA | 1.35 | 090
60280 |  | A | Remove thyroid duct lesion | 5.87 | 5.11 | NA | 0.45 | 090
60281 |  | A | Remove thyroid duct lesion | 8.53 | 6.32 | NA | 0.67 | 090
60500 |  | A | Explore parathyroid glands | 16.23 | 7.77 | NA | 1.61 | 090
60502 |  | A | Re-explore parathyroids | 20.35 | 9.58 | NA | 2.00 | 090
60505 |  | A | Explore parathyroid glands | 21.49 | 11.33 | NA | 2.14 | 090
60512 |  | A | Autotransplant parathyroid | 4.45 | 1.66 | NA | 0.44 | ZZZ
60520 |  | A | Removal of thymus gland | 16.81 | 9.71 | NA | 1.84 | 090
60521 |  | A | Removal of thymus gland | 18.87 | 11.48 | NA | 2.34 | 090
60522 |  | A | Removal of thymus gland | 23.09 | 12.76 | NA | 2.83 | 090
60540 |  | A | Explore adrenal gland | 17.03 | 7.84 | NA | 1.42 | 090
60545 |  | A | Explore adrenal gland | 19.88 | 9.48 | NA | 1.75 | 090
60600 |  | A | Remove carotid body lesion | 17.93 | 13.29 | NA | 1.87 | 090
60605 |  | A | Remove carotid body lesion | 20.24 | 18.29 | NA | 2.28 | 090
60650 |  | A | Laparoscopy adrenalectomy | 20.00 | 8.11 | NA | 1.98 | 090
60659 |  | C | Laparo proc, endocrine | 0.00 | 0.00 | 0.00 | 0.00 | YYY
60699 |  | C | Endocrine surgery procedure | 0.00 | 0.00 | 0.00 | 0.00 | YYY
61000 |  | A | Remove cranial cavity fluid | 1.58 | 1.49 | 1.73 | 0.13 | 000
61001 |  | A | Remove cranial cavity fluid | 1.49 | 1.41 | 1.91 | 0.15 | 000
61020 |  | A | Remove brain cavity fluid | 1.51 | 1.48 | 2.35 | 0.26 | 000
61026 |  | A | Injection into brain canal | 1.69 | 1.67 | 2.28 | 0.21 | 000
61050 |  | A | Remove brain canal fluid | 1.51 | 1.52 | NA | 0.13 | 000
61055 |  | A | Injection into brain canal | 2.10 | 1.70 | NA | 0.13 | 000
61070 |  | A | Brain canal shunt procedure | 0.89 | 1.18 | 6.86 | 0.09 | 000
61105 |  | A | Twist drill hole | 5.14 | 3.60 | NA | 1.05 | 090
61107 |  | A | Drill skull for implantation | 5.00 | 3.06 | NA | 1.02 | 000
61108 |  | A | Drill skull for drainage | 10.19 | 6.94 | NA | 2.04 | 090
61120 |  | A | Burr hole for puncture | 8.76 | 5.77 | NA | 1.81 | 090
61140 |  | A | Pierce skull for biopsy | 15.90 | 9.73 | NA | 3.15 | 090
61150 |  | A | Pierce skull for drainage | 17.57 | 10.52 | NA | 3.52 | 090
61151 |  | A | Pierce skull for drainage | 12.42 | 8.07 | NA | 2.45 | 090
61154 |  | A | Pierce skull & remove clot | 14.99 | 9.33 | NA | 3.05 | 090
61156 |  | A | Pierce skull for drainage | 16.32 | 10.12 | NA | 3.42 | 090
61210 |  | A | Pierce skull, implant device | 5.84 | 3.46 | NA | 1.16 | 000
61215 |  | A | Insert brain-fluid device | 4.89 | 4.16 | NA | 0.99 | 090
61250 |  | A | Pierce skull & explore | 10.42 | 6.64 | NA | 2.02 | 090
61253 |  | A | Pierce skull & explore | 12.36 | 7.48 | NA | 2.26 | 090
61304 |  | A | Open skull for exploration | 21.96 | 12.40 | NA | 4.33 | 090
61305 |  | A | Open skull for exploration | 26.61 | 14.78 | NA | 5.25 | 090
61312 |  | A | Open skull for drainage | 24.57 | 14.18 | NA | 4.99 | 090
61313 |  | A | Open skull for drainage | 24.93 | 14.37 | NA | 5.07 | 090
61314 |  | A | Open skull for drainage | 24.23 | 12.82 | NA | 4.00 | 090
61315 |  | A | Open skull for drainage | 27.68 | 15.79 | NA | 5.62 | 090
61320 |  | A | Open skull for drainage | 25.62 | 14.72 | NA | 5.20 | 090
61321 |  | A | Open skull for drainage | 28.50 | 15.83 | NA | 5.35 | 090
61330 |  | A | Decompress eye socket | 23.32 | 18.10 | NA | 2.58 | 090
61332 |  | A | Explore/biopsy eye socket | 27.28 | 19.79 | NA | 4.15 | 090
61333 |  | A | Explore orbit/remove lesion | 27.95 | 16.19 | NA | 2.24 | 090
61334 |  | A | Explore orbit/remove object | 18.27 | 11.00 | NA | 3.02 | 090
61340 |  | A | Relieve cranial pressure | 18.66 | 11.41 | NA | 3.66 | 090
61343 |  | A | Incise skull (press relief) | 29.77 | 17.51 | NA | 6.04 | 090
61345 |  | A | Relieve cranial pressure | 27.20 | 16.07 | NA | 5.23 | 090
61440 |  | A | Incise skull for surgery | 26.63 | 15.30 | NA | 5.57 | 090
61450 |  | A | Incise skull for surgery | 25.95 | 14.46 | NA | 5.11 | 090
61458 |  | A | Incise skull for brain wound | 27.29 | 15.54 | NA | 5.28 | 090
61460 |  | A | Incise skull for surgery | 28.39 | 16.54 | NA | 5.13 | 090
61470 |  | A | Incise skull for surgery | 26.06 | 14.26 | NA | 4.65 | 090
61480 |  | A | Incise skull for surgery | 26.49 | 12.00 | NA | 5.54 | 090
61490 |  | A | Incise skull for surgery | 25.66 | 14.57 | NA | 5.37 | 090
61500 |  | A | Removal of skull lesion | 17.92 | 10.82 | NA | 3.26 | 090
61501 |  | A | Remove infected skull bone | 14.84 | 9.23 | NA | 2.63 | 090
61510 |  | A | Removal of brain lesion | 28.45 | 16.15 | NA | 5.77 | 090
61512 |  | A | Remove brain lining lesion | 35.09 | 19.64 | NA | 7.14 | 090
61514 |  | A | Removal of brain abscess | 25.26 | 14.48 | NA | 5.12 | 090
61516 |  | A | Removal of brain lesion | 24.61 | 14.55 | NA | 4.94 | 090
61518 |  | A | Removal of brain lesion | 37.32 | 21.68 | NA | 7.53 | 090
61519 |  | A | Remove brain lining lesion | 41.39 | 23.67 | NA | 8.15 | 090
61520 |  | A | Removal of brain lesion | 54.84 | 31.29 | NA | 10.10 | 090
61521 |  | A | Removal of brain lesion | 44.48 | 25.20 | NA | 8.85 | 090
61522 |  | A | Removal of brain abscess | 29.45 | 17.12 | NA | 5.30 | 090
61524 |  | A | Removal of brain lesion | 27.86 | 16.38 | NA | 5.01 | 090
61526 |  | A | Removal of brain lesion | 52.17 | 30.55 | NA | 6.72 | 090
61530 |  | A | Removal of brain lesion | 43.86 | 26.68 | NA | 6.17 | 090
61531 |  | A | Implant brain electrodes | 14.63 | 9.36 | NA | 2.84 | 090
61533 |  | A | Implant brain electrodes | 19.71 | 12.01 | NA | 3.80 | 090
61534 |  | A | Removal of brain lesion | 20.97 | 12.74 | NA | 4.15 | 090
61535 |  | A | Remove brain electrodes | 11.63 | 7.81 | NA | 2.29 | 090
61536 |  | A | Removal of brain lesion | 35.52 | 20.56 | NA | 6.68 | 090
61538 |  | A | Removal of brain tissue | 26.81 | 15.92 | NA | 5.38 | 090
61539 |  | A | Removal of brain tissue | 32.08 | 18.48 | NA | 6.62 | 090
61541 |  | A | Incision of brain tissue | 28.85 | 16.57 | NA | 5.50 | 090
61542 |  | A | Removal of brain tissue | 31.02 | 18.39 | NA | 6.49 | 090
61543 |  | A | Removal of brain tissue | 29.22 | 16.98 | NA | 6.11 | 090
61544 |  | A | Remove & treat brain lesion | 25.50 | 14.30 | NA | 4.91 | 090
61545 |  | A | Excision of brain tumor | 43.80 | 24.37 | NA | 8.88 | 090
61546 |  | A | Removal of pituitary gland | 31.30 | 18.25 | NA | 6.06 | 090
61548 |  | A | Removal of pituitary gland | 21.53 | 13.40 | NA | 3.63 | 090
61550 |  | A | Release of skull seams | 14.65 | 7.19 | NA | 1.14 | 090
61552 |  | A | Release of skull seams | 19.56 | 9.61 | NA | 0.88 | 090
61556 |  | A | Incise skull/sutures | 22.26 | 11.83 | NA | 3.57 | 090
61557 |  | A | Incise skull/sutures | 22.38 | 13.43 | NA | 4.68 | 090
61558 |  | A | Excision of skull/sutures | 25.58 | 12.33 | NA | 2.61 | 090
61559 |  | A | Excision of skull/sutures | 32.79 | 19.31 | NA | 6.86 | 090
61563 |  | A | Excision of skull tumor | 26.83 | 15.82 | NA | 4.46 | 090
61564 |  | A | Excision of skull tumor | 33.83 | 18.61 | NA | 7.08 | 090
61570 |  | A | Remove foreign body, brain | 24.60 | 13.44 | NA | 4.60 | 090
61571 |  | A | Incise skull for brain wound | 26.39 | 14.67 | NA | 5.23 | 090
61575 |  | A | Skull base/brainstem surgery | 34.36 | 20.90 | NA | 5.02 | 090
61576 |  | A | Skull base/brainstem surgery | 52.43 | 30.54 | NA | 4.68 | 090
61580 |  | A | Craniofacial approach, skull | 30.35 | 19.03 | NA | 2.75 | 090
61581 |  | A | Craniofacial approach, skull | 34.60 | 15.21 | NA | 3.37 | 090
61582 |  | A | Craniofacial approach, skull | 31.66 | 18.86 | NA | 6.30 | 090
61583 |  | A | Craniofacial approach, skull | 36.21 | 22.08 | NA | 6.94 | 090
61584 |  | A | Orbitocranial approach/skull | 34.65 | 20.47 | NA | 6.53 | 090
61585 |  | A | Orbitocranial approach/skull | 38.61 | 22.17 | NA | 6.19 | 090
61586 |  | A | Resect nasopharynx, skull | 25.10 | 15.93 | NA | 3.52 | 090
61590 |  | A | Infratemporal approach/skull | 41.78 | 25.32 | NA | 4.28 | 090
61591 |  | A | Infratemporal approach/skull | 43.68 | 26.00 | NA | 5.26 | 090
61592 |  | A | Orbitocranial approach/skull | 39.64 | 23.16 | NA | 7.55 | 090
61595 |  | A | Transtemporal approach/skull | 29.57 | 19.15 | NA | 3.05 | 090
61596 |  | A | Transcochlear approach/skull | 35.63 | 21.87 | NA | 4.25 | 090
61597 |  | A | Transcondylar approach/skull | 37.96 | 20.80 | NA | 6.65 | 090
61598 |  | A | Transpetrosal approach/skull | 33.41 | 20.38 | NA | 4.60 | 090
61600 |  | A | Resect/excise cranial lesion | 25.85 | 15.77 | NA | 3.12 | 090
61601 |  | A | Resect/excise cranial lesion | 27.89 | 16.92 | NA | 5.29 | 090
61605 |  | A | Resect/excise cranial lesion | 29.33 | 18.37 | NA | 2.51 | 090
61606 |  | A | Resect/excise cranial lesion | 38.83 | 22.93 | NA | 6.81 | 090
61607 |  | A | Resect/excise cranial lesion | 36.27 | 21.66 | NA | 5.69 | 090
61608 |  | A | Resect/excise cranial lesion | 42.10 | 24.23 | NA | 8.31 | 090
61609 |  | A | Transect artery, sinus | 9.89 | 4.91 | NA | 2.07 | ZZZ
61610 |  | A | Transect artery, sinus | 29.67 | 13.53 | NA | 3.52 | ZZZ
61611 |  | A | Transect artery, sinus | 7.42 | 2.87 | NA | 1.55 | ZZZ
61612 |  | A | Transect artery, sinus | 27.88 | 13.72 | NA | 3.55 | ZZZ
61613 |  | A | Remove aneurysm, sinus | 40.86 | 23.57 | NA | 8.32 | 090
61615 |  | A | Resect/excise lesion, skull | 32.07 | 20.27 | NA | 4.64 | 090
61616 |  | A | Resect/excise lesion, skull | 43.33 | 26.44 | NA | 7.02 | 090
61618 |  | A | Repair dura | 16.99 | 11.17 | NA | 2.92 | 090
61619 |  | A | Repair dura | 20.71 | 13.11 | NA | 3.42 | 090
61624 |  | A | Occlusion/embolization cath | 20.15 | 7.18 | NA | 1.15 | 000
61626 |  | A | Occlusion/embolization cath | 16.62 | 5.74 | NA | 0.84 | 000
61680 |  | A | Intracranial vessel surgery | 30.71 | 17.96 | NA | 6.04 | 090
61682 |  | A | Intracranial vessel surgery | 61.57 | 33.42 | NA | 12.69 | 090
61684 |  | A | Intracranial vessel surgery | 39.81 | 22.49 | NA | 7.87 | 090
61686 |  | A | Intracranial vessel surgery | 64.49 | 35.40 | NA | 13.20 | 090
61690 |  | A | Intracranial vessel surgery | 29.31 | 17.26 | NA | 5.51 | 090
61692 |  | A | Intracranial vessel surgery | 51.87 | 28.35 | NA | 10.17 | 090
61697 |  | A | Brain aneurysm repr, complx | 50.52 | 27.58 | NA | 10.31 | 090
61698 |  | A | Brain aneurysm repr, complx | 48.41 | 26.60 | NA | 9.99 | 090
61700 |  | A | Brain aneurysm repr , simple | 50.52 | 27.58 | NA | 10.18 | 090
61702 |  | A | Inner skull vessel surgery | 48.41 | 26.60 | NA | 9.75 | 090
61703 |  | A | Clamp neck artery | 17.47 | 10.91 | NA | 3.62 | 090
61705 |  | A | Revise circulation to head | 36.20 | 19.80 | NA | 6.67 | 090
61708 |  | A | Revise circulation to head | 35.30 | 15.99 | NA | 2.18 | 090
61710 |  | A | Revise circulation to head | 29.67 | 14.51 | NA | 2.42 | 090
61711 |  | A | Fusion of skull arteries | 36.33 | 20.32 | NA | 7.39 | 090
61720 |  | A | Incise skull/brain surgery | 16.77 | 10.59 | NA | 3.51 | 090
61735 |  | A | Incise skull/brain surgery | 20.43 | 12.62 | NA | 4.16 | 090
61750 |  | A | Incise skull/brain biopsy | 18.20 | 10.86 | NA | 3.71 | 090
61751 |  | A | Brain biopsy w/ ct/mr guide | 17.62 | 10.67 | NA | 3.57 | 090
61760 |  | A | Implant brain electrodes | 22.27 | 8.87 | NA | 4.59 | 090
61770 |  | A | Incise skull for treatment | 21.44 | 12.92 | NA | 4.09 | 090
61790 |  | A | Treat trigeminal nerve | 10.86 | 5.86 | NA | 1.82 | 090
61791 |  | A | Treat trigeminal tract | 14.61 | 9.18 | NA | 3.03 | 090
61793 |  | A | Focus radiation beam | 17.24 | 10.80 | NA | 3.51 | 090
61795 |  | A | Brain surgery using computer | 4.04 | 2.09 | NA | 0.81 | ZZZ
61850 |  | A | Implant neuroelectrodes | 12.39 | 7.95 | NA | 2.23 | 090
61860 |  | A | Implant neuroelectrodes | 20.87 | 12.73 | NA | 4.04 | 090
61862 |  | A | Implant neurostimul, subcort | 19.34 | 11.90 | NA | 3.97 | 090
61870 |  | A | Implant neuroelectrodes | 14.94 | 10.48 | NA | 1.70 | 090
61875 |  | A | Implant neuroelectrodes | 15.06 | 9.02 | NA | 2.42 | 090
61880 |  | A | Revise/remove neuroelectrode | 6.29 | 5.19 | NA | 1.31 | 090
61885 |  | A | Implant neurostim one array | 5.85 | 4.27 | NA | 1.22 | 090
61886 |  | A | Implant neurostim arrays | 8.00 | 6.03 | NA | 1.64 | 090
61888 |  | A | Revise/remove neuroreceiver | 5.07 | 3.85 | NA | 1.04 | 010
62000 |  | A | Treat skull fracture | 12.53 | 5.52 | NA | 0.87 | 090
62005 |  | A | Treat skull fracture | 16.17 | 8.93 | NA | 2.33 | 090
62010 |  | A | Treatment of head injury | 19.81 | 11.53 | NA | 4.05 | 090
62100 |  | A | Repair brain fluid leakage | 22.03 | 13.66 | NA | 4.07 | 090
62115 |  | A | Reduction of skull defect | 21.66 | 11.72 | NA | 4.53 | 090
62116 |  | A | Reduction of skull defect | 23.59 | 13.67 | NA | 4.85 | 090
62117 |  | A | Reduction of skull defect | 26.60 | 15.32 | NA | 5.56 | 090
62120 |  | A | Repair skull cavity lesion | 23.35 | 14.28 | NA | 3.07 | 090
62121 |  | A | Incise skull repair | 21.58 | 13.43 | NA | 2.47 | 090
62140 |  | A | Repair of skull defect | 13.51 | 8.50 | NA | 2.60 | 090
62141 |  | A | Repair of skull defect | 14.91 | 9.64 | NA | 2.85 | 090
62142 |  | A | Remove skull plate/flap | 10.79 | 7.17 | NA | 2.10 | 090
62143 |  | A | Replace skull plate/flap | 13.05 | 8.61 | NA | 2.55 | 090
62145 |  | A | Repair of skull & brain | 18.82 | 11.50 | NA | 3.81 | 090
62146 |  | A | Repair of skull with graft | 16.12 | 10.29 | NA | 2.94 | 090
62147 |  | A | Repair of skull with graft | 19.34 | 12.03 | NA | 3.64 | 090
62180 |  | A | Establish brain cavity shunt | 21.06 | 12.65 | NA | 4.32 | 090
62190 |  | A | Establish brain cavity shunt | 11.07 | 7.60 | NA | 2.18 | 090
62192 |  | A | Establish brain cavity shunt | 12.25 | 8.13 | NA | 2.46 | 090
62194 |  | A | Replace/irrigate catheter | 5.03 | 2.18 | NA | 0.50 | 010
62200 |  | A | Establish brain cavity shunt | 18.32 | 11.44 | NA | 3.70 | 090
62201 |  | A | Establish brain cavity shunt | 14.86 | 9.45 | NA | 2.52 | 090
62220 |  | A | Establish brain cavity shunt | 13.00 | 8.50 | NA | 2.53 | 090
62223 |  | A | Establish brain cavity shunt | 12.87 | 8.37 | NA | 2.58 | 090
62225 |  | A | Replace/irrigate catheter | 5.41 | 4.04 | NA | 1.09 | 090
62230 |  | A | Replace/revise brain shunt | 10.54 | 6.50 | NA | 2.10 | 090
62252 |  | A | Csf shunt reprogram | 0.74 | NA | 1.43 | 0.18 | XXX
62252 | 26 | A | Csf shunt reprogram | 0.74 | 0.29 | 0.29 | 0.16 | XXX
62252 | TC | A | Csf shunt reprogram | 0.00 | NA | 1.14 | 0.02 | XXX
62256 |  | A | Remove brain cavity shunt | 6.60 | 5.31 | NA | 1.34 | 90
62258 |  | A | Replace brain cavity shunt | 14.54 | 8.59 | NA | 2.91 | 090
62263 |  | A | Lysis epidural adhesions | 6.14 | 2.12 | 5.52 | 0.42 | 010
62268 |  | A | Drain spinal cord cyst | 4.74 | 2.71 | NA | 0.29 | 000
62269 |  | A | Needle biopsy, spinal cord | 5.02 | 2.39 | NA | 0.29 | 000
62270 |  | A | Spinal fluid tap, diagnostic | 1.13 | 0.47 | 4.00 | 0.06 | 000
62272 |  | A | Drain cerebro spinal fluid | 1.35 | 0.62 | 3.38 | 0.13 | 000
62273 |  | A | Treat epidural spine lesion | 2.15 | 1.20 | 1.46 | 0.14 | 000
62280 |  | A | Treat spinal cord lesion | 2.63 | 0.68 | 4.29 | 0.17 | 010
62281 |  | A | Treat spinal cord lesion | 2.66 | 0.59 | 4.00 | 0.16 | 010
62282 |  | A | Treat spinal canal lesion | 2.33 | 0.59 | 5.80 | 0.14 | 010
62284 |  | A | Injection for myelogram | 1.54 | 0.50 | 6.09 | 0.10 | 000
62287 |  | A | Percutaneous diskectomy | 8.08 | 5.00 | NA | 0.66 | 090
62290 |  | A | Inject for spine disk x-ray | 3.00 | 1.29 | 5.67 | 0.20 | 000
62291 |  | A | Inject for spine disk x-ray | 2.91 | 1.15 | 5.87 | 0.17 | 000
62292 |  | A | Injection into disk lesion | 7.86 | 4.87 | NA | 0.65 | 090
62294 |  | A | Injection into spinal artery | 11.83 | 6.66 | NA | 0.85 | 090
62310 |  | A | Inject spine c/t | 1.91 | 0.42 | 3.71 | 0.11 | 000
62311 |  | A | Inject spine l/s (cd) | 1.54 | 0.35 | 4.18 | 0.09 | 000
62318 |  | A | Inject spine w/cath, c/t | 2.04 | 0.44 | 3.85 | 0.12 | 000
62319 |  | A | Inject spine w/cath l/s (cd) | 1.87 | 0.39 | 3.43 | 0.11 | 000
62350 |  | A | Implant spinal canal cath | 6.87 | 3.62 | NA | 0.64 | 090
62351 |  | A | Implant spinal canal cath | 10.00 | 6.65 | NA | 1.79 | 090
62355 |  | A | Remove spinal canal catheter | 5.45 | 2.83 | NA | 0.47 | 090
62360 |  | A | Insert spine infusion device | 2.62 | 2.24 | NA | 0.21 | 090
62361 |  | A | Implant spine infusion pump | 5.42 | 3.47 | NA | 0.50 | 090
62362 |  | A | Implant spine infusion pump | 7.04 | 4.02 | NA | 0.86 | 090
62365 |  | A | Remove spine infusion device | 5.42 | 3.88 | NA | 0.58 | 090
62367 |  | C | Analyze spine infusion pump | 0.00 | 0.00 | 0.00 | 0.00 | XXX
62367 | 26 | A | Analyze spine infusion pump | 0.48 | 0.13 | 0.13 | 0.03 | XXX
62367 | TC | C | Analyze spine infusion pump | 0.00 | 0.00 | 0.00 | 0.00 | XXX
62368 |  | C | Analyze spine infusion pump | 0.00 | 0.00 | 0.00 | 0.00 | XXX
62368 | 26 | A | Analyze spine infusion pump | 0.75 | 0.20 | 0.20 | 0.05 | XXX
62368 | TC | C | Analyze spine infusion pump | 0.00 | 0.00 | 0.00 | 0.00 | XXX
63001 |  | A | Removal of spinal lamina | 15.82 | 11.41 | NA | 3.03 | 090
63003 |  | A | Removal of spinal lamina | 15.95 | 11.72 | NA | 2.98 | 090
63005 |  | A | Removal of spinal lamina | 14.92 | 11.28 | NA | 2.62 | 090
63011 |  | A | Removal of spinal lamina | 14.52 | 9.87 | NA | 1.43 | 090
63012 |  | A | Removal of spinal lamina | 15.40 | 10.09 | NA | 2.71 | 090
63015 |  | A | Removal of spinal lamina | 19.35 | 13.38 | NA | 3.84 | 090
63016 |  | A | Removal of spinal lamina | 19.20 | 13.41 | NA | 3.62 | 090
63017 |  | A | Removal of spinal lamina | 15.94 | 11.75 | NA | 2.91 | 090
63020 |  | A | Neck spine disk surgery | 14.81 | 11.11 | NA | 2.89 | 090
63030 |  | A | Low back disk surgery | 12.00 | 9.79 | NA | 2.21 | 090
63035 |  | A | Spinal disk surgery add-on | 3.15 | 1.60 | NA | 0.57 | ZZZ
63040 |  | A | Laminotomy, single cervical | 18.81 | 13.09 | NA | 3.36 | 090
63042 |  | A | Laminotomy, single lumbar | 17.47 | 12.67 | NA | 3.11 | 090
63043 |  | C | Laminotomy, addl cervical | 0.00 | 0.00 | 0.00 | 0.00 | ZZZ
63044 |  | C | Laminotomy, addl lumbar | 0.00 | 0.00 | 0.00 | 0.00 | ZZZ
63045 |  | A | Removal of spinal lamina | 16.50 | 11.98 | NA | 3.19 | 090
63046 |  | A | Removal of spinal lamina | 15.80 | 11.74 | NA | 2.89 | 090
63047 |  | A | Removal of spinal lamina | 14.61 | 11.20 | NA | 2.61 | 090
63048 |  | A | Remove spinal lamina add-on | 3.26 | 1.68 | NA | 0.58 | ZZZ
63055 |  | A | Decompress spinal cord | 21.99 | 14.81 | NA | 4.09 | 090
63056 |  | A | Decompress spinal cord | 20.36 | 14.14 | NA | 3.34 | 090
63057 |  | A | Decompress spine cord add-on | 5.26 | 2.66 | NA | 0.81 | ZZZ
63064 |  | A | Decompress spinal cord | 24.61 | 16.61 | NA | 4.72 | 090
63066 |  | A | Decompress spine cord add-on | 3.26 | 1.69 | NA | 0.63 | ZZZ
63075 |  | A | Neck spine disk surgery | 19.41 | 13.53 | NA | 3.73 | 090
63076 |  | A | Neck spine disk surgery | 4.05 | 2.07 | NA | 0.78 | ZZZ
63077 |  | A | Spine disk surgery, thorax | 21.44 | 15.02 | NA | 3.44 | 090
63078 |  | A | Spine disk surgery, thorax | 3.28 | 1.68 | NA | 0.50 | ZZZ
63081 |  | A | Removal of vertebral body | 23.73 | 16.32 | NA | 4.46 | 090
63082 |  | A | Remove vertebral body add-on | 4.37 | 2.26 | NA | 0.82 | ZZZ
63085 |  | A | Removal of vertebral body | 26.92 | 17.77 | NA | 4.70 | 090
63086 |  | A | Remove vertebral body add-on | 3.19 | 1.62 | NA | 0.55 | ZZZ
63087 |  | A | Removal of vertebral body | 35.57 | 21.55 | NA | 5.87 | 090
63088 |  | A | Remove vertebral body add-on | 4.33 | 2.23 | NA | 0.77 | ZZZ
63090 |  | A | Removal of vertebral body | 28.16 | 17.98 | NA | 4.27 | 090
63091 |  | A | Remove vertebral body add-on | 3.03 | 1.49 | NA | 0.45 | ZZZ
63170 |  | A | Incise spinal cord tract(s) | 19.83 | 13.67 | NA | 3.89 | 090
63172 |  | A | Drainage of spinal cyst | 17.66 | 13.13 | NA | 3.46 | 090
63173 |  | A | Drainage of spinal cyst | 21.99 | 15.14 | NA | 4.14 | 090
63180 |  | A | Revise spinal cord ligaments | 18.27 | 13.46 | NA | 3.83 | 090
63182 |  | A | Revise spinal cord ligaments | 20.50 | 12.98 | NA | 3.48 | 090
63185 |  | A | Incise spinal column/nerves | 15.04 | 9.94 | NA | 2.08 | 090
63190 |  | A | Incise spinal column/nerves | 17.45 | 12.03 | NA | 2.88 | 090
63191 |  | A | Incise spinal column/nerves | 17.54 | 11.93 | NA | 3.50 | 090
63194 |  | A | Incise spinal column & cord | 19.19 | 13.30 | NA | 4.01 | 090
63195 |  | A | Incise spinal column & cord | 18.84 | 12.99 | NA | 3.44 | 090
63196 |  | A | Incise spinal column & cord | 22.30 | 13.73 | NA | 4.66 | 090
63197 |  | A | Incise spinal column & cord | 21.11 | 13.89 | NA | 4.42 | 090
63198 |  | A | Incise spinal column & cord | 25.38 | 11.10 | NA | 5.31 | 090
63199 |  | A | Incise spinal column & cord | 26.89 | 16.61 | NA | 5.62 | 090
63200 |  | A | Release of spinal cord | 19.18 | 13.04 | NA | 3.61 | 090
63250 |  | A | Revise spinal cord vessels | 40.76 | 20.63 | NA | 7.65 | 090
63251 |  | A | Revise spinal cord vessels | 41.20 | 22.94 | NA | 7.98 | 090
63252 |  | A | Revise spinal cord vessels | 41.19 | 22.46 | NA | 7.75 | 090
63265 |  | A | Excise intraspinal lesion | 21.56 | 12.96 | NA | 4.29 | 090
63266 |  | A | Excise intraspinal lesion | 22.30 | 13.40 | NA | 4.47 | 090
63267 |  | A | Excise intraspinal lesion | 17.95 | 11.21 | NA | 3.50 | 090
63268 |  | A | Excise intraspinal lesion | 18.52 | 10.62 | NA | 3.18 | 090
63270 |  | A | Excise intraspinal lesion | 26.80 | 15.75 | NA | 5.41 | 090
63271 |  | A | Excise intraspinal lesion | 26.92 | 15.82 | NA | 5.56 | 090
63272 |  | A | Excise intraspinal lesion | 25.32 | 14.93 | NA | 5.07 | 090
63273 |  | A | Excise intraspinal lesion | 24.29 | 14.57 | NA | 5.08 | 090
63275 |  | A | Biopsy/excise spinal tumor | 23.68 | 14.01 | NA | 4.68 | 090
63276 |  | A | Biopsy/excise spinal tumor | 23.45 | 13.90 | NA | 4.63 | 090
63277 |  | A | Biopsy/excise spinal tumor | 20.83 | 12.68 | NA | 4.03 | 090
63278 |  | A | Biopsy/excise spinal tumor | 20.56 | 12.55 | NA | 4.02 | 090
63280 |  | A | Biopsy/excise spinal tumor | 28.35 | 16.43 | NA | 5.80 | 090
63281 |  | A | Biopsy/excise spinal tumor | 28.05 | 16.28 | NA | 5.67 | 090
63282 |  | A | Biopsy/excise spinal tumor | 26.39 | 15.38 | NA | 5.33 | 090
63283 |  | A | Biopsy/excise spinal tumor | 25.00 | 14.75 | NA | 5.12 | 090
63285 |  | A | Biopsy/excise spinal tumor | 36.00 | 20.14 | NA | 7.31 | 090
63286 |  | A | Biopsy/excise spinal tumor | 35.63 | 20.04 | NA | 7.07 | 090
63287 |  | A | Biopsy/excise spinal tumor | 36.70 | 20.64 | NA | 7.48 | 090
63290 |  | A | Biopsy/excise spinal tumor | 37.38 | 20.84 | NA | 7.65 | 090
63300 |  | A | Removal of vertebral body | 24.43 | 14.50 | NA | 4.78 | 090
63301 |  | A | Removal of vertebral body | 27.60 | 15.58 | NA | 5.03 | 090
63302 |  | A | Removal of vertebral body | 27.81 | 15.82 | NA | 5.25 | 090
63303 |  | A | Removal of vertebral body | 30.50 | 17.19 | NA | 5.21 | 090
63304 |  | A | Removal of vertebral body | 30.33 | 17.50 | NA | 4.72 | 090
63305 |  | A | Removal of vertebral body | 32.03 | 17.96 | NA | 5.39 | 090
63306 |  | A | Removal of vertebral body | 32.22 | 17.54 | NA | 2.39 | 090
63307 |  | A | Removal of vertebral body | 31.63 | 17.15 | NA | 4.23 | 090
63308 |  | A | Remove vertebral body add-on | 5.25 | 2.66 | NA | 1.01 | ZZZ
63600 |  | A | Remove spinal cord lesion | 14.02 | 6.14 | NA | 1.22 | 090
63610 |  | A | Stimulation of spinal cord | 8.73 | 4.12 | NA | 0.43 | 000
63615 |  | A | Remove lesion of spinal cord | 16.28 | 10.20 | NA | 2.85 | 090
63650 |  | A | Implant neuroelectrodes | 6.74 | 2.98 | NA | 0.48 | 090
63655 |  | A | Implant neuroelectrodes | 10.29 | 7.12 | NA | 1.85 | 090
63660 |  | A | Revise/remove neuroelectrode | 6.16 | 3.71 | NA | 0.65 | 090
63685 |  | A | Implant neuroreceiver | 7.04 | 4.27 | NA | 0.96 | 090
63688 |  | A | Revise/remove neuroreceiver | 5.39 | 3.63 | NA | 0.70 | 090
63700 |  | A | Repair of spinal herniation | 16.53 | 10.33 | NA | 2.69 | 090
63702 |  | A | Repair of spinal herniation | 18.48 | 10.98 | NA | 1.36 | 090
63704 |  | A | Repair of spinal herniation | 21.18 | 12.54 | NA | 3.84 | 090
63706 |  | A | Repair of spinal herniation | 24.11 | 13.63 | NA | 4.73 | 090
63707 |  | A | Repair spinal fluid leakage | 11.26 | 7.88 | NA | 1.96 | 090
63709 |  | A | Repair spinal fluid leakage | 14.32 | 9.56 | NA | 2.49 | 090
63710 |  | A | Graft repair of spine defect | 14.07 | 9.28 | NA | 2.61 | 090
63740 |  | A | Install spinal shunt | 11.36 | 7.62 | NA | 2.15 | 090
63741 |  | A | Install spinal shunt | 8.25 | 4.85 | NA | 1.05 | 090
63744 |  | A | Revision of spinal shunt | 8.10 | 5.53 | NA | 1.51 | 090
63746 |  | A | Removal of spinal shunt | 6.43 | 4.01 | NA | 1.15 | 090
64400 |  | A | Injection for nerve block | 1.11 | 0.27 | 2.46 | 0.06 | 000
64402 |  | A | Injection for nerve block | 1.25 | 0.44 | 4.37 | 0.07 | 000
64405 |  | A | Injection for nerve block | 1.32 | 0.35 | 1.30 | 0.08 | 000
64408 |  | A | Injection for nerve block | 1.41 | 0.57 | 2.81 | 0.09 | 000
64410 |  | A | Injection for nerve block | 1.43 | 0.31 | 2.77 | 0.08 | 000
64412 |  | A | Injection for nerve block | 1.18 | 0.27 | 2.71 | 0.08 | 000
64413 |  | A | Injection for nerve block | 1.40 | 0.35 | 2.82 | 0.09 | 000
64415 |  | A | Injection for nerve block | 1.48 | 0.31 | 2.80 | 0.08 | 000
64417 |  | A | Injection for nerve block | 1.44 | 0.34 | 2.78 | 0.09 | 000
64418 |  | A | Injection for nerve block | 1.32 | 0.28 | 2.44 | 0.07 | 000
64420 |  | A | Injection for nerve block | 1.18 | 0.26 | 2.37 | 0.07 | 000
64421 |  | A | Injection for nerve block | 1.68 | 0.37 | 2.78 | 0.10 | 000
64425 |  | A | Injection for nerve block | 1.75 | 0.39 | 2.30 | 0.11 | 000
64430 |  | A | Injection for nerve block | 1.46 | 0.43 | 2.85 | 0.11 | 000
64435 |  | A | Injection for nerve block | 1.45 | 0.56 | 3.07 | 0.15 | 000
64445 |  | A | Injection for nerve block | 1.48 | 0.39 | 2.48 | 0.08 | 000
64450 |  | A | Injection for nerve block | 1.27 | 0.32 | 1.78 | 0.08 | 000
64470 |  | A | Inj paravertebral c/t | 1.85 | 0.48 | 4.03 | 0.12 | 000
64472 |  | A | Inj paravertebral c/t add-on | 1.29 | 0.33 | 3.86 | 0.09 | ZZZ
64475 |  | A | Inj paravertebral l/s | 1.41 | 0.38 | 3.92 | 0.09 | 000
64476 |  | A | Inj paravertebral l/s add-on | 0.98 | 0.25 | 4.09 | 0.06 | ZZZ
64479 |  | A | Inj foramen epidural c/t | 2.20 | 0.62 | 4.25 | 0.14 | 000
64480 |  | A | Inj foramen epidural add-on | 1.54 | 0.42 | 4.17 | 0.09 | ZZZ
64483 |  | A | Inj foramen epidural l/s | 1.90 | 0.54 | 4.12 | 0.12 | 000
64484 |  | A | Inj foramen epidural add-on | 1.33 | 0.36 | 4.10 | 0.08 | ZZZ
64505 |  | A | Injection for nerve block | 1.36 | 0.35 | 2.34 | 0.08 | 000
64508 |  | A | Injection for nerve block | 1.12 | 0.34 | 2.44 | 0.06 | 000
64510 |  | A | Injection for nerve block | 1.22 | 0.25 | 2.52 | 0.07 | 000
64520 |  | A | Injection for nerve block | 1.35 | 0.29 | 3.65 | 0.08 | 000
64530 |  | A | Injection for nerve block | 1.58 | 0.35 | 3.45 | 0.09 | 000
64550 |  | A | Apply neurostimulator | 0.18 | 0.06 | 0.54 | 0.01 | 000
64553 |  | A | Implant neuroelectrodes | 2.31 | 1.27 | 1.74 | 0.17 | 010
64555 |  | A | Implant neuroelectrodes | 2.27 | 0.65 | 2.39 | 0.11 | 010
64560 |  | A | Implant neuroelectrodes | 2.36 | 0.72 | 2.42 | 0.17 | 010
64561 |  | A | Implant neuroelectrodes | 6.74 | 3.74 | 15.36 | 0.11 | 010
64565 |  | A | Implant neuroelectrodes | 1.76 | 0.66 | 3.16 | 0.08 | 010
64573 |  | A | Implant neuroelectrodes | 7.50 | 5.33 | NA | 1.48 | 090
64575 |  | A | Implant neuroelectrodes | 4.35 | 3.16 | NA | 0.37 | 090
64577 |  | A | Implant neuroelectrodes | 4.62 | 3.63 | NA | 0.50 | 090
64580 |  | A | Implant neuroelectrodes | 4.12 | 3.91 | NA | 0.21 | 090
64581 |  | A | Implant neuroelectrodes | 13.50 | 6.55 | NA | 0.37 | 090
64585 |  | A | Revise/remove neuroelectrode | 2.06 | 2.13 | 3.18 | 0.29 | 010
64590 |  | A | Implant neuroreceiver | 2.40 | 2.31 | NA | 0.40 | 010
64595 |  | A | Revise/remove neuroreceiver | 1.73 | 1.94 | NA | 0.22 | 010
64600 |  | A | Injection treatment of nerve | 3.45 | 2.01 | 3.10 | 0.28 | 010
64605 |  | A | Injection treatment of nerve | 5.61 | 2.51 | 3.64 | 0.53 | 010
64610 |  | A | Injection treatment of nerve | 7.16 | 4.05 | NA | 1.12 | 010
64612 |  | A | Destroy nerve, face muscle | 1.96 | 1.60 | 2.98 | 0.09 | 010
64613 |  | A | Destroy nerve, spine muscle | 1.96 | 1.44 | 1.76 | 0.10 | 010
64614 |  | A | Destroy nerve, extrem musc | 2.20 | 0.76 | 3.48 | 0.09 | 010
64620 |  | A | Injection treatment of nerve | 2.84 | 0.65 | 2.98 | 0.17 | 010
64622 |  | A | Destr paravertebrl nerve l/s | 3.00 | 0.72 | 4.59 | 0.17 | 010
64623 |  | A | Destr paravertebral n add-on | 0.99 | 0.23 | 3.59 | 0.06 | ZZZ
64626 |  | A | Destr paravertebrl nerve c/t | 3.28 | 0.79 | 4.32 | 0.22 | 010
64627 |  | A | Destr paravertebral n add-on | 1.16 | 0.29 | 3.64 | 0.08 | ZZZ
64630 |  | A | Injection treatment of nerve | 3.00 | 0.77 | 3.50 | 0.16 | 010
64640 |  | A | Injection treatment of nerve | 2.76 | 1.62 | 5.04 | 0.11 | 010
64680 |  | A | Injection treatment of nerve | 2.62 | 0.68 | 2.98 | 0.15 | 010
64702 |  | A | Revise finger/toe nerve | 4.23 | 3.90 | NA | 0.51 | 090
64704 |  | A | Revise hand/foot nerve | 4.57 | 3.19 | NA | 0.59 | 090
64708 |  | A | Revise arm/leg nerve | 6.12 | 5.01 | NA | 0.82 | 090
64712 |  | A | Revision of sciatic nerve | 7.75 | 5.14 | NA | 0.54 | 090
64713 |  | A | Revision of arm nerve(s) | 11.00 | 5.68 | NA | 1.01 | 090
64714 |  | A | Revise low back nerve(s) | 10.33 | 4.11 | NA | 0.64 | 090
64716 |  | A | Revision of cranial nerve | 6.31 | 4.92 | NA | 0.59 | 090
64718 |  | A | Revise ulnar nerve at elbow | 5.99 | 5.14 | NA | 0.87 | 090
64719 |  | A | Revise ulnar nerve at wrist | 4.85 | 4.64 | NA | 0.63 | 090
64721 |  | A | Carpal tunnel surgery | 4.29 | 5.96 | 6.32 | 0.59 | 090
64722 |  | A | Relieve pressure on nerve(s) | 4.70 | 3.22 | NA | 0.32 | 090
64726 |  | A | Release foot/toe nerve | 4.18 | 3.02 | NA | 0.57 | 090
64727 |  | A | Internal nerve revision | 3.10 | 1.55 | NA | 0.40 | ZZZ
64732 |  | A | Incision of brow nerve | 4.41 | 3.51 | NA | 0.77 | 090
64734 |  | A | Incision of cheek nerve | 4.92 | 3.55 | NA | 0.83 | 090
64736 |  | A | Incision of chin nerve | 4.60 | 2.88 | NA | 0.71 | 090
64738 |  | A | Incision of jaw nerve | 5.73 | 3.58 | NA | 0.84 | 090
64740 |  | A | Incision of tongue nerve | 5.59 | 3.78 | NA | 0.43 | 090
64742 |  | A | Incision of facial nerve | 6.22 | 4.71 | NA | 0.69 | 090
64744 |  | A | Incise nerve, back of head | 5.24 | 3.83 | NA | 0.98 | 090
64746 |  | A | Incise diaphragm nerve | 5.93 | 4.41 | NA | 0.75 | 090
64752 |  | A | Incision of vagus nerve | 7.06 | 4.67 | NA | 0.83 | 090
64755 |  | A | Incision of stomach nerves | 13.52 | 6.23 | NA | 1.16 | 090
64760 |  | A | Incision of vagus nerve | 6.96 | 4.03 | NA | 0.51 | 090
64761 |  | A | Incision of pelvis nerve | 6.41 | 3.56 | NA | 0.26 | 090
64763 |  | A | Incise hip/thigh nerve | 6.93 | 6.12 | NA | 0.77 | 090
64766 |  | A | Incise hip/thigh nerve | 8.67 | 5.65 | NA | 0.99 | 090
64771 |  | A | Sever cranial nerve | 7.35 | 5.51 | NA | 1.32 | 090
64772 |  | A | Incision of spinal nerve | 7.21 | 4.79 | NA | 1.20 | 090
64774 |  | A | Remove skin nerve lesion | 5.17 | 3.73 | NA | 0.60 | 090
64776 |  | A | Remove digit nerve lesion | 5.12 | 3.80 | NA | 0.63 | 090
64778 |  | A | Digit nerve surgery add-on | 3.11 | 1.55 | NA | 0.38 | ZZZ
64782 |  | A | Remove limb nerve lesion | 6.23 | 3.70 | NA | 0.79 | 090
64783 |  | A | Limb nerve surgery add-on | 3.72 | 1.90 | NA | 0.48 | ZZZ
64784 |  | A | Remove nerve lesion | 9.82 | 6.60 | NA | 1.17 | 090
64786 |  | A | Remove sciatic nerve lesion | 15.46 | 10.09 | NA | 2.22 | 090
64787 |  | A | Implant nerve end | 4.30 | 2.19 | NA | 0.56 | ZZZ
64788 |  | A | Remove skin nerve lesion | 4.61 | 3.46 | NA | 0.54 | 090
64790 |  | A | Removal of nerve lesion | 11.31 | 7.18 | NA | 1.68 | 090
64792 |  | A | Removal of nerve lesion | 14.92 | 8.77 | NA | 1.88 | 090
64795 |  | A | Biopsy of nerve | 3.01 | 1.76 | NA | 0.40 | 000
64802 |  | A | Remove sympathetic nerves | 9.15 | 5.31 | NA | 0.87 | 090
64804 |  | A | Remove sympathetic nerves | 14.64 | 7.26 | NA | 1.79 | 090
64809 |  | A | Remove sympathetic nerves | 13.67 | 6.23 | NA | 0.96 | 090
64818 |  | A | Remove sympathetic nerves | 10.30 | 5.72 | NA | 1.08 | 090
64820 |  | A | Remove sympathetic nerves | 10.37 | 7.35 | NA | 1.17 | 090
64821 |  | A | Remove sympathetic nerves | 8.75 | 6.60 | NA | 0.99 | 090
64822 |  | A | Remove sympathetic nerves | 8.75 | 6.60 | NA | 0.99 | 090
64823 |  | A | Remove sympathetic nerves | 10.37 | 7.35 | NA | 1.17 | 090
64831 |  | A | Repair of digit nerve | 9.44 | 7.20 | NA | 1.14 | 090
64832 |  | A | Repair nerve add-on | 5.66 | 3.03 | NA | 0.68 | ZZZ
64834 |  | A | Repair of hand or foot nerve | 10.19 | 7.16 | NA | 1.23 | 090
64835 |  | A | Repair of hand or foot nerve | 10.94 | 7.81 | NA | 1.36 | 090
64836 |  | A | Repair of hand or foot nerve | 10.94 | 7.79 | NA | 1.32 | 090
64837 |  | A | Repair nerve add-on | 6.26 | 3.34 | NA | 0.80 | ZZZ
64840 |  | A | Repair of leg nerve | 13.02 | 8.44 | NA | 0.86 | 090
64856 |  | A | Repair/transpose nerve | 13.80 | 9.36 | NA | 1.71 | 090
64857 |  | A | Repair arm/leg nerve | 14.49 | 9.83 | NA | 1.76 | 090
64858 |  | A | Repair sciatic nerve | 16.49 | 10.69 | NA | 2.78 | 090
64859 |  | A | Nerve surgery | 4.26 | 2.23 | NA | 0.50 | ZZZ
64861 |  | A | Repair of arm nerves | 19.24 | 12.60 | NA | 2.45 | 090
64862 |  | A | Repair of low back nerves | 19.44 | 12.10 | NA | 2.47 | 090
64864 |  | A | Repair of facial nerve | 12.55 | 8.55 | NA | 1.13 | 090
64865 |  | A | Repair of facial nerve | 15.24 | 10.03 | NA | 1.37 | 090
64866 |  | A | Fusion of facial/other nerve | 15.74 | 9.94 | NA | 1.06 | 090
64868 |  | A | Fusion of facial/other nerve | 14.04 | 9.26 | NA | 1.40 | 090
64870 |  | A | Fusion of facial/other nerve | 15.99 | 10.24 | NA | 1.08 | 090
64872 |  | A | Subsequent repair of nerve | 1.99 | 1.08 | NA | 0.24 | ZZZ
64874 |  | A | Repair & revise nerve add-on | 2.98 | 1.54 | NA | 0.34 | ZZZ
64876 |  | A | Repair nerve/shorten bone | 3.38 | 1.31 | NA | 0.39 | ZZZ
64885 |  | A | Nerve graft, head or neck | 17.53 | 11.12 | NA | 1.51 | 090
64886 |  | A | Nerve graft, head or neck | 20.75 | 13.08 | NA | 1.73 | 090
64890 |  | A | Nerve graft, hand or foot | 15.15 | 10.21 | NA | 1.74 | 090
64891 |  | A | Nerve graft, hand or foot | 16.14 | 7.62 | NA | 1.38 | 090
64892 |  | A | Nerve graft, arm or leg | 14.65 | 8.95 | NA | 1.65 | 090
64893 |  | A | Nerve graft, arm or leg | 15.60 | 9.94 | NA | 1.77 | 090
64895 |  | A | Nerve graft, hand or foot | 19.25 | 9.74 | NA | 2.04 | 090
64896 |  | A | Nerve graft, hand or foot | 20.49 | 11.17 | NA | 1.85 | 090
64897 |  | A | Nerve graft, arm or leg | 18.24 | 10.85 | NA | 2.64 | 090
64898 |  | A | Nerve graft, arm or leg | 19.50 | 11.80 | NA | 2.71 | 090
64901 |  | A | Nerve graft add-on | 10.22 | 5.41 | NA | 0.99 | ZZZ
64902 |  | A | Nerve graft add-on | 11.83 | 6.05 | NA | 1.10 | ZZZ
64905 |  | A | Nerve pedicle transfer | 14.02 | 9.10 | NA | 1.52 | 090
64907 |  | A | Nerve pedicle transfer | 18.83 | 12.43 | NA | 1.79 | 090
64999 |  | C | Nervous system surgery | 0.00 | 0.00 | 0.00 | 0.00 | YYY
65091 |  | A | Revise eye | 6.46 | 11.88 | NA | 0.26 | 090
65093 |  | A | Revise eye with implant | 6.87 | 11.93 | NA | 0.28 | 090
65101 |  | A | Removal of eye | 7.03 | 12.17 | NA | 0.28 | 090
65103 |  | A | Remove eye/insert implant | 7.57 | 12.36 | NA | 0.30 | 090
65105 |  | A | Remove eye/attach implant | 8.49 | 12.86 | NA | 0.34 | 090
65110 |  | A | Removal of eye | 13.95 | 15.87 | NA | 0.68 | 090
65112 |  | A | Remove eye/revise socket | 16.38 | 18.08 | NA | 0.96 | 090
65114 |  | A | Remove eye/revise socket | 17.53 | 18.13 | NA | 0.94 | 090
65125 |  | A | Revise ocular implant | 3.12 | 1.46 | 6.31 | 0.15 | 090
65130 |  | A | Insert ocular implant | 7.15 | 11.79 | NA | 0.28 | 090
65135 |  | A | Insert ocular implant | 7.33 | 12.01 | NA | 0.29 | 090
65140 |  | A | Attach ocular implant | 8.02 | 12.27 | NA | 0.31 | 090
65150 |  | A | Revise ocular implant | 6.26 | 11.22 | NA | 0.25 | 090
65155 |  | A | Reinsert ocular implant | 8.66 | 13.17 | NA | 0.40 | 090
65175 |  | A | Removal of ocular implant | 6.28 | 11.37 | NA | 0.26 | 090
65205 |  | A | Remove foreign body from eye | 0.71 | 0.20 | 0.62 | 0.03 | 000
65210 |  | A | Remove foreign body from eye | 0.84 | 0.30 | 0.78 | 0.03 | 000
65220 |  | A | Remove foreign body from eye | 0.71 | 0.19 | 0.62 | 0.05 | 000
65222 |  | A | Remove foreign body from eye | 0.93 | 0.28 | 0.79 | 0.04 | 000
65235 |  | A | Remove foreign body from eye | 7.57 | 6.99 | NA | 0.30 | 090
65260 |  | A | Remove foreign body from eye | 10.96 | 12.76 | NA | 0.43 | 090
65265 |  | A | Remove foreign body from eye | 12.59 | 14.32 | NA | 0.50 | 090
65270 |  | A | Repair of eye wound | 1.90 | 2.41 | 4.10 | 0.08 | 010
65272 |  | A | Repair of eye wound | 3.82 | 4.85 | 5.82 | 0.16 | 090
65273 |  | A | Repair of eye wound | 4.36 | 5.19 | NA | 0.17 | 090
65275 |  | A | Repair of eye wound | 5.34 | 5.24 | 5.74 | 0.27 | 090
65280 |  | A | Repair of eye wound | 7.66 | 7.88 | NA | 0.30 | 090
65285 |  | A | Repair of eye wound | 12.90 | 13.88 | NA | 0.51 | 090
65286 |  | A | Repair of eye wound | 5.51 | 7.94 | 9.20 | 0.21 | 090
65290 |  | A | Repair of eye socket wound | 5.41 | 6.47 | NA | 0.26 | 090
65400 |  | A | Removal of eye lesion | 6.06 | 7.15 | 8.69 | 0.24 | 090
65410 |  | A | Biopsy of cornea | 1.47 | 0.67 | 1.76 | 0.06 | 000
65420 |  | A | Removal of eye lesion | 4.17 | 7.31 | 8.47 | 0.17 | 090
65426 |  | A | Removal of eye lesion | 5.25 | 6.78 | 8.10 | 0.20 | 090
65430 |  | A | Corneal smear | 1.47 | 0.68 | 9.01 | 0.06 | 000
65435 |  | A | Curette/treat cornea | 0.92 | 0.40 | 1.38 | 0.04 | 000
65436 |  | A | Curette/treat cornea | 4.19 | 5.06 | 6.06 | 0.17 | 090
65450 |  | A | Treatment of corneal lesion | 3.27 | 6.90 | 8.19 | 0.13 | 090
65600 |  | A | Revision of cornea | 3.40 | 1.44 | 5.65 | 0.14 | 090
65710 |  | A | Corneal transplant | 12.35 | 13.14 | NA | 0.49 | 090
65730 |  | A | Corneal transplant | 14.25 | 12.01 | NA | 0.56 | 090
65750 |  | A | Corneal transplant | 15.00 | 14.53 | NA | 0.59 | 090
65755 |  | A | Corneal transplant | 14.89 | 14.44 | NA | 0.58 | 090
65760 |  | N | Revision of cornea | 0.00 | 0.00 | 0.00 | 0.00 | XXX
65765 |  | N | Revision of cornea | 0.00 | 0.00 | 0.00 | 0.00 | XXX
65767 |  | N | Corneal tissue transplant | 0.00 | 0.00 | 0.00 | 0.00 | XXX
65770 |  | A | Revise cornea with implant | 17.56 | 15.44 | NA | 0.69 | 090
65771 |  | N | Radial keratotomy | 0.00 | 0.00 | 0.00 | 0.00 | XXX
65772 |  | A | Correction of astigmatism | 4.29 | 6.56 | 7.61 | 0.17 | 090
65775 |  | A | Correction of astigmatism | 5.79 | 8.66 | NA | 0.22 | 090
65800 |  | A | Drainage of eye | 1.91 | 1.44 | 2.33 | 0.08 | 000
65805 |  | A | Drainage of eye | 1.91 | 1.44 | 2.33 | 0.08 | 000
65810 |  | A | Drainage of eye | 4.87 | 9.09 | NA | 0.19 | 090
65815 |  | A | Drainage of eye | 5.05 | 8.24 | 9.49 | 0.20 | 090
65820 |  | A | Relieve inner eye pressure | 8.13 | 11.15 | NA | 0.32 | 090
65850 |  | A | Incision of eye | 10.52 | 10.30 | NA | 0.41 | 090
65855 |  | A | Laser surgery of eye | 3.85 | 3.61 | 5.13 | 0.17 | 010
65860 |  | A | Incise inner eye adhesions | 3.55 | 3.15 | 4.15 | 0.14 | 090
65865 |  | A | Incise inner eye adhesions | 5.60 | 6.93 | NA | 0.22 | 090
65870 |  | A | Incise inner eye adhesions | 6.27 | 7.26 | NA | 0.24 | 090
65875 |  | A | Incise inner eye adhesions | 6.54 | 7.38 | NA | 0.25 | 090
65880 |  | A | Incise inner eye adhesions | 7.09 | 7.63 | NA | 0.28 | 090
65900 |  | A | Remove eye lesion | 10.93 | 12.87 | NA | 0.46 | 090
65920 |  | A | Remove implant of eye | 8.40 | 8.24 | NA | 0.33 | 090
65930 |  | A | Remove blood clot from eye | 7.44 | 8.85 | NA | 0.29 | 090
66020 |  | A | Injection treatment of eye | 1.59 | 1.56 | 2.44 | 0.07 | 010
66030 |  | A | Injection treatment of eye | 1.25 | 1.39 | 2.27 | 0.05 | 010
66130 |  | A | Remove eye lesion | 7.69 | 6.71 | 7.65 | 0.31 | 090
66150 |  | A | Glaucoma surgery | 8.30 | 10.90 | NA | 0.33 | 090
66155 |  | A | Glaucoma surgery | 8.29 | 10.83 | NA | 0.32 | 090
66160 |  | A | Glaucoma surgery | 10.17 | 11.71 | NA | 0.41 | 090
66165 |  | A | Glaucoma surgery | 8.01 | 10.70 | NA | 0.31 | 090
66170 |  | A | Glaucoma surgery | 12.16 | 17.20 | NA | 0.48 | 090
66172 |  | A | Incision of eye | 15.04 | 15.44 | NA | 0.59 | 090
66180 |  | A | Implant eye shunt | 14.55 | 12.30 | NA | 0.57 | 090
66185 |  | A | Revise eye shunt | 8.14 | 8.45 | NA | 0.32 | 090
66220 |  | A | Repair eye lesion | 7.77 | 10.10 | NA | 0.32 | 090
66225 |  | A | Repair/graft eye lesion | 11.05 | 9.53 | NA | 0.44 | 090
66250 |  | A | Follow-up surgery of eye | 5.98 | 6.50 | 8.04 | 0.23 | 090
66500 |  | A | Incision of iris | 3.71 | 4.87 | NA | 0.15 | 090
66505 |  | A | Incision of iris | 4.08 | 5.00 | NA | 0.17 | 090
66600 |  | A | Remove iris and lesion | 8.68 | 8.90 | NA | 0.34 | 090
66605 |  | A | Removal of iris | 12.79 | 12.47 | NA | 0.61 | 090
66625 |  | A | Removal of iris | 5.13 | 6.83 | 7.91 | 0.20 | 090
66630 |  | A | Removal of iris | 6.16 | 7.80 | NA | 0.24 | 090
66635 |  | A | Removal of iris | 6.25 | 6.65 | NA | 0.24 | 090
66680 |  | A | Repair iris & ciliary body | 5.44 | 6.25 | NA | 0.21 | 090
66682 |  | A | Repair iris & ciliary body | 6.21 | 7.81 | NA | 0.24 | 090
66700 |  | A | Destruction, ciliary body | 4.78 | 7.16 | 7.16 | 0.19 | 090
66710 |  | A | Destruction, ciliary body | 4.78 | 7.61 | 9.06 | 0.18 | 090
66720 |  | A | Destruction, ciliary body | 4.78 | 7.58 | 8.62 | 0.19 | 090
66740 |  | A | Destruction, ciliary body | 4.78 | 6.56 | NA | 0.18 | 090
66761 |  | A | Revision of iris | 4.07 | 4.34 | 5.64 | 0.16 | 090
66762 |  | A | Revision of iris | 4.58 | 4.40 | 5.60 | 0.18 | 090
66770 |  | A | Removal of inner eye lesion | 5.18 | 4.65 | 5.87 | 0.20 | 090
66820 |  | A | Incision, secondary cataract | 3.89 | 8.62 | NA | 0.16 | 090
66821 |  | A | After cataract laser surgery | 2.35 | 3.44 | 3.89 | 0.10 | 090
66825 |  | A | Reposition intraocular lens | 8.23 | 10.65 | NA | 0.32 | 090
66830 |  | A | Removal of lens lesion | 8.20 | 6.98 | NA | 0.32 | 090
66840 |  | A | Removal of lens material | 7.91 | 6.87 | NA | 0.31 | 090
66850 |  | A | Removal of lens material | 9.11 | 7.41 | NA | 0.36 | 090
66852 |  | A | Removal of lens material | 9.97 | 7.87 | NA | 0.39 | 090
66920 |  | A | Extraction of lens | 8.86 | 7.34 | NA | 0.35 | 090
66930 |  | A | Extraction of lens | 10.18 | 8.86 | NA | 0.41 | 090
66940 |  | A | Extraction of lens | 8.93 | 8.28 | NA | 0.35 | 090
66982 |  | A | Cataract surgery, complex | 13.50 | 9.17 | NA | 0.56 | 090
66983 |  | A | Cataract surg w/iol, 1 stage | 8.99 | 6.02 | NA | 0.37 | 090
66984 |  | A | Cataract surg w/iol, i stage | 10.23 | 7.74 | NA | 0.41 | 090
66985 |  | A | Insert lens prosthesis | 8.39 | 6.96 | NA | 0.33 | 090
66986 |  | A | Exchange lens prosthesis | 12.28 | 8.71 | NA | 0.49 | 090
66999 |  | C | Eye surgery procedure | 0.00 | 0.00 | 0.00 | 0.00 | YYY
67005 |  | A | Partial removal of eye fluid | 5.70 | 2.66 | NA | 0.22 | 090
67010 |  | A | Partial removal of eye fluid | 6.87 | 3.23 | NA | 0.27 | 090
67015 |  | A | Release of eye fluid | 6.92 | 8.37 | NA | 0.27 | 090
67025 |  | A | Replace eye fluid | 6.84 | 7.70 | 17.77 | 0.27 | 090
67027 |  | A | Implant eye drug system | 10.85 | 8.94 | 14.73 | 0.46 | 090
67028 |  | A | Injection eye drug | 2.52 | 1.17 | 11.22 | 0.11 | 000
67030 |  | A | Incise inner eye strands | 4.84 | 6.97 | NA | 0.19 | 090
67031 |  | A | Laser surgery, eye strands | 3.67 | 3.21 | 4.22 | 0.15 | 090
67036 |  | A | Removal of inner eye fluid | 11.89 | 9.17 | NA | 0.47 | 090
67038 |  | A | Strip retinal membrane | 21.24 | 15.78 | NA | 0.84 | 090
67039 |  | A | Laser treatment of retina | 14.52 | 12.62 | NA | 0.57 | 090
67040 |  | A | Laser treatment of retina | 17.23 | 13.91 | NA | 0.68 | 090
67101 |  | A | Repair detached retina | 7.53 | 9.12 | 11.28 | 0.29 | 090
67105 |  | A | Repair detached retina | 7.41 | 5.64 | 7.79 | 0.29 | 090
67107 |  | A | Repair detached retina | 14.84 | 13.51 | NA | 0.58 | 090
67108 |  | A | Repair detached retina | 20.82 | 18.17 | NA | 0.82 | 090
67110 |  | A | Repair detached retina | 8.81 | 10.57 | 21.28 | 0.35 | 090
67112 |  | A | Rerepair detached retina | 16.86 | 16.13 | NA | 0.66 | 090
67115 |  | A | Release encircling material | 4.99 | 7.05 | NA | 0.19 | 090
67120 |  | A | Remove eye implant material | 5.98 | 7.34 | 17.00 | 0.23 | 090
67121 |  | A | Remove eye implant material | 10.67 | 12.48 | NA | 0.42 | 090
67141 |  | A | Treatment of retina | 5.20 | 7.18 | 8.31 | 0.20 | 090
67145 |  | A | Treatment of retina | 5.37 | 4.23 | 5.42 | 0.21 | 090
67208 |  | A | Treatment of retinal lesion | 6.70 | 7.35 | 8.64 | 0.26 | 090
67210 |  | A | Treatment of retinal lesion | 8.82 | 5.83 | 7.45 | 0.35 | 090
67218 |  | A | Treatment of retinal lesion | 18.53 | 16.22 | NA | 0.53 | 090
67220 |  | A | Treatment of choroid lesion | 13.13 | 9.82 | 11.06 | 0.51 | 090
67221 |  | A | Ocular photodynamic ther | 4.01 | 1.89 | 4.80 | 0.16 | 000
67225 |  | A | Eye photodynamic ther add-on | 0.47 | 0.18 | 0.24 | 0.50 | ZZZ
67227 |  | A | Treatment of retinal lesion | 6.58 | 7.39 | 9.32 | 0.26 | 090
67228 |  | A | Treatment of retinal lesion | 12.74 | 7.30 | 10.07 | 0.50 | 090
67250 |  | A | Reinforce eye wall | 8.66 | 12.35 | NA | 0.36 | 090
67255 |  | A | Reinforce/graft eye wall | 8.90 | 12.40 | NA | 0.35 | 090
67299 |  | C | Eye surgery procedure | 0.00 | 0.00 | 0.00 | 0.00 | YYY
67311 |  | A | Revise eye muscle | 6.65 | 6.29 | NA | 0.27 | 090
67312 |  | A | Revise two eye muscles | 8.54 | 7.36 | NA | 0.35 | 090
67314 |  | A | Revise eye muscle | 7.52 | 6.87 | NA | 0.30 | 090
67316 |  | A | Revise two eye muscles | 9.66 | 7.86 | NA | 0.40 | 090
67318 |  | A | Revise eye muscle(s) | 7.85 | 7.26 | NA | 0.31 | 090
67320 |  | A | Revise eye muscle(s) add-on | 4.33 | 2.02 | NA | 0.17 | ZZZ
67331 |  | A | Eye surgery follow-up add-on | 4.06 | 1.95 | NA | 0.17 | ZZZ
67332 |  | A | Rerevise eye muscles add-on | 4.49 | 2.09 | NA | 0.18 | ZZZ
67334 |  | A | Revise eye muscle w/suture | 3.98 | 1.86 | NA | 0.16 | ZZZ
67335 |  | A | Eye suture during surgery | 2.49 | 1.16 | NA | 0.10 | ZZZ
67340 |  | A | Revise eye muscle add-on | 4.93 | 2.29 | NA | 0.19 | ZZZ
67343 |  | A | Release eye tissue | 7.35 | 7.17 | NA | 0.30 | 090
67345 |  | A | Destroy nerve of eye muscle | 2.96 | 1.35 | 4.34 | 0.13 | 010
67350 |  | A | Biopsy eye muscle | 2.87 | 1.94 | NA | 0.13 | 000
67399 |  | C | Eye muscle surgery procedure | 0.00 | 0.00 | 0.00 | 0.00 | YYY
67400 |  | A | Explore/biopsy eye socket | 9.76 | 14.03 | NA | 0.43 | 090
67405 |  | A | Explore/drain eye socket | 7.93 | 12.74 | NA | 0.36 | 090
67412 |  | A | Explore/treat eye socket | 9.50 | 16.27 | NA | 0.41 | 090
67413 |  | A | Explore/treat eye socket | 10.00 | 13.96 | NA | 0.43 | 090
67414 |  | A | Explr/decompress eye socket | 11.13 | 17.10 | NA | 0.48 | 090
67415 |  | A | Aspiration, orbital contents | 1.76 | 0.79 | NA | 0.09 | 000
67420 |  | A | Explore/treat eye socket | 20.06 | 20.88 | NA | 0.84 | 090
67430 |  | A | Explore/treat eye socket | 13.39 | 17.96 | NA | 0.97 | 090
67440 |  | A | Explore/drain eye socket | 13.09 | 17.25 | NA | 0.58 | 090
67445 |  | A | Explr/decompress eye socket | 14.42 | 18.42 | NA | 0.63 | 090
67450 |  | A | Explore/biopsy eye socket | 13.51 | 17.42 | NA | 0.56 | 090
67500 |  | A | Inject/treat eye socket | 0.79 | 0.17 | 0.83 | 0.04 | 000
67505 |  | A | Inject/treat eye socket | 0.82 | 0.21 | 0.95 | 0.04 | 000
67515 |  | A | Inject/treat eye socket | 0.61 | 0.29 | 0.86 | 0.02 | 000
67550 |  | A | Insert eye socket implant | 10.19 | 13.66 | NA | 0.50 | 090
67560 |  | A | Revise eye socket implant | 10.60 | 13.56 | NA | 0.47 | 090
67570 |  | A | Decompress optic nerve | 13.58 | 17.87 | NA | 0.69 | 090
67599 |  | C | Orbit surgery procedure | 0.00 | 0.00 | 0.00 | 0.00 | YYY
67700 |  | A | Drainage of eyelid abscess | 1.35 | 0.58 | 8.03 | 0.06 | 010
67710 |  | A | Incision of eyelid | 1.02 | 0.48 | 8.19 | 0.04 | 010
67715 |  | A | Incision of eyelid fold | 1.22 | 0.58 | NA | 0.05 | 010
67800 |  | A | Remove eyelid lesion | 1.38 | 0.64 | 2.70 | 0.06 | 010
67801 |  | A | Remove eyelid lesions | 1.88 | 0.88 | 8.52 | 0.08 | 010
67805 |  | A | Remove eyelid lesions | 2.22 | 1.04 | 8.68 | 0.09 | 010
67808 |  | A | Remove eyelid lesion(s) | 3.80 | 4.31 | NA | 0.17 | 090
67810 |  | A | Biopsy of eyelid | 1.48 | 0.70 | 5.42 | 0.06 | 000
67820 |  | A | Revise eyelashes | 0.89 | 0.38 | 1.16 | 0.04 | 000
67825 |  | A | Revise eyelashes | 1.38 | 1.04 | 1.64 | 0.06 | 010
67830 |  | A | Revise eyelashes | 1.70 | 2.20 | 11.86 | 0.07 | 010
67835 |  | A | Revise eyelashes | 5.56 | 4.77 | NA | 0.22 | 090
67840 |  | A | Remove eyelid lesion | 2.04 | 0.96 | 8.42 | 0.08 | 010
67850 |  | A | Treat eyelid lesion | 1.69 | 2.14 | 9.21 | 0.07 | 010
67875 |  | A | Closure of eyelid by suture | 1.35 | 2.17 | 12.03 | 0.06 | 000
67880 |  | A | Revision of eyelid | 3.80 | 3.24 | 13.10 | 0.16 | 090
67882 |  | A | Revision of eyelid | 5.07 | 4.76 | 14.99 | 0.21 | 090
67900 |  | A | Repair brow defect | 6.14 | 6.66 | 11.42 | 0.30 | 090
67901 |  | A | Repair eyelid defect | 6.97 | 7.00 | NA | 0.32 | 090
67902 |  | A | Repair eyelid defect | 7.03 | 7.07 | NA | 0.34 | 090
67903 |  | A | Repair eyelid defect | 6.37 | 7.47 | 12.96 | 0.39 | 090
67904 |  | A | Repair eyelid defect | 6.26 | 8.43 | 15.13 | 0.26 | 090
67906 |  | A | Repair eyelid defect | 6.79 | 6.55 | 9.99 | 0.42 | 090
67908 |  | A | Repair eyelid defect | 5.13 | 6.30 | 9.76 | 0.20 | 090
67909 |  | A | Revise eyelid defect | 5.40 | 6.81 | 10.41 | 0.25 | 090
67911 |  | A | Revise eyelid defect | 5.27 | 6.89 | NA | 0.23 | 090
67914 |  | A | Repair eyelid defect | 3.68 | 3.69 | 13.57 | 0.16 | 090
67915 |  | A | Repair eyelid defect | 3.18 | 1.49 | 12.06 | 0.13 | 090
67916 |  | A | Repair eyelid defect | 5.31 | 5.51 | 16.81 | 0.22 | 090
67917 |  | A | Repair eyelid defect | 6.02 | 6.81 | 10.73 | 0.25 | 090
67921 |  | A | Repair eyelid defect | 3.40 | 3.46 | 13.32 | 0.14 | 090
67922 |  | A | Repair eyelid defect | 3.06 | 3.29 | 12.03 | 0.13 | 090
67923 |  | A | Repair eyelid defect | 5.88 | 5.59 | 15.84 | 0.24 | 090
67924 |  | A | Repair eyelid defect | 5.79 | 6.15 | 10.03 | 0.23 | 090
67930 |  | A | Repair eyelid wound | 3.61 | 3.15 | 12.94 | 0.17 | 010
67935 |  | A | Repair eyelid wound | 6.22 | 5.59 | 15.85 | 0.29 | 090
67938 |  | A | Remove eyelid foreign body | 1.33 | 0.52 | 10.18 | 0.06 | 010
67950 |  | A | Revision of eyelid | 5.82 | 7.53 | 9.15 | 0.30 | 090
67961 |  | A | Revision of eyelid | 5.69 | 5.94 | 9.50 | 0.26 | 090
67966 |  | A | Revision of eyelid | 6.57 | 6.07 | 9.17 | 0.33 | 090
67971 |  | A | Reconstruction of eyelid | 9.79 | 7.66 | NA | 0.42 | 090
67973 |  | A | Reconstruction of eyelid | 12.87 | 9.73 | NA | 0.59 | 090
67974 |  | A | Reconstruction of eyelid | 12.84 | 9.64 | NA | 0.54 | 090
67975 |  | A | Reconstruction of eyelid | 9.13 | 7.32 | NA | 0.38 | 090
67999 |  | C | Revision of eyelid | 0.00 | 0.00 | 0.00 | 0.00 | YYY
68020 |  | A | Incise/drain eyelid lining | 1.37 | 0.63 | 8.12 | 0.06 | 010
68040 |  | A | Treatment of eyelid lesions | 0.85 | 0.39 | 7.99 | 0.03 | 000
68100 |  | A | Biopsy of eyelid lining | 1.35 | 0.62 | 8.20 | 0.06 | 000
68110 |  | A | Remove eyelid lining lesion | 1.77 | 1.38 | 9.27 | 0.07 | 010
68115 |  | A | Remove eyelid lining lesion | 2.36 | 1.10 | 8.75 | 0.10 | 010
68130 |  | A | Remove eyelid lining lesion | 4.93 | 2.31 | NA | 0.19 | 090
68135 |  | A | Remove eyelid lining lesion | 1.84 | 0.86 | 8.50 | 0.07 | 010
68200 |  | A | Treat eyelid by injection | 0.49 | 0.23 | 0.76 | 0.02 | 000
68320 |  | A | Revise/graft eyelid lining | 5.37 | 5.25 | 5.75 | 0.21 | 090
68325 |  | A | Revise/graft eyelid lining | 7.36 | 6.28 | NA | 0.30 | 090
68326 |  | A | Revise/graft eyelid lining | 7.15 | 6.15 | NA | 0.30 | 090
68328 |  | A | Revise/graft eyelid lining | 8.18 | 6.96 | NA | 0.40 | 090
68330 |  | A | Revise eyelid lining | 4.83 | 5.75 | 7.35 | 0.19 | 090
68335 |  | A | Revise/graft eyelid lining | 7.19 | 5.63 | NA | 0.29 | 090
68340 |  | A | Separate eyelid adhesions | 4.17 | 4.31 | 15.52 | 0.17 | 090
68360 |  | A | Revise eyelid lining | 4.37 | 5.44 | 6.84 | 0.17 | 090
68362 |  | A | Revise eyelid lining | 7.34 | 8.05 | NA | 0.29 | 090
68399 |  | C | Eyelid lining surgery | 0.00 | 0.00 | 0.00 | 0.00 | YYY
68400 |  | A | Incise/drain tear gland | 1.69 | 2.22 | 11.99 | 0.07 | 010
68420 |  | A | Incise/drain tear sac | 2.30 | 2.53 | 12.33 | 0.10 | 010
68440 |  | A | Incise tear duct opening | 0.94 | 0.44 | 8.12 | 0.04 | 010
68500 |  | A | Removal of tear gland | 11.02 | 9.89 | NA | 0.60 | 090
68505 |  | A | Partial removal, tear gland | 10.94 | 11.12 | NA | 0.57 | 090
68510 |  | A | Biopsy of tear gland | 4.61 | 2.16 | 13.13 | 0.19 | 000
68520 |  | A | Removal of tear sac | 7.51 | 7.41 | NA | 0.33 | 090
68525 |  | A | Biopsy of tear sac | 4.43 | 2.08 | NA | 0.18 | 000
68530 |  | A | Clearance of tear duct | 3.66 | 3.09 | 14.74 | 0.16 | 010
68540 |  | A | Remove tear gland lesion | 10.60 | 9.42 | NA | 0.46 | 090
68550 |  | A | Remove tear gland lesion | 13.26 | 11.32 | NA | 0.66 | 090
68700 |  | A | Repair tear ducts | 6.60 | 6.88 | NA | 0.27 | 090
68705 |  | A | Revise tear duct opening | 2.06 | 0.97 | 8.67 | 0.08 | 010
68720 |  | A | Create tear sac drain | 8.96 | 8.01 | NA | 0.38 | 090
68745 |  | A | Create tear duct drain | 8.63 | 7.83 | NA | 0.38 | 090
68750 |  | A | Create tear duct drain | 8.66 | 8.45 | NA | 0.37 | 090
68760 |  | A | Close tear duct opening | 1.73 | 1.21 | 6.98 | 0.07 | 010
68761 |  | A | Close tear duct opening | 1.36 | 0.96 | 3.21 | 0.06 | 010
68770 |  | A | Close tear system fistula | 7.02 | 6.13 | 17.23 | 0.28 | 090
68801 |  | A | Dilate tear duct opening | 0.94 | 0.56 | 0.86 | 0.04 | 010
68810 |  | A | Probe nasolacrimal duct | 1.90 | 0.88 | 2.47 | 0.08 | 010
68811 |  | A | Probe nasolacrimal duct | 2.35 | 2.49 | NA | 0.10 | 010
68815 |  | A | Probe nasolacrimal duct | 3.20 | 2.92 | 13.26 | 0.14 | 010
68840 |  | A | Explore/irrigate tear ducts | 1.25 | 0.93 | 1.59 | 0.05 | 010
68850 |  | A | Injection for tear sac x-ray | 0.80 | 0.31 | 15.79 | 0.03 | 000
68899 |  | C | Tear duct system surgery | 0.00 | 0.00 | 0.00 | 0.00 | YYY
69000 |  | A | Drain external ear lesion | 1.45 | 0.55 | 2.06 | 0.10 | 010
69005 |  | A | Drain external ear lesion | 2.11 | 1.99 | 2.50 | 0.16 | 010
69020 |  | A | Drain outer ear canal lesion | 1.48 | 0.71 | 2.18 | 0.11 | 010
69090 |  | N | Pierce earlobes | 0.00 | 0.00 | 0.00 | 0.00 | XXX
69100 |  | A | Biopsy of external ear | 0.81 | 0.40 | 1.41 | 0.04 | 000
69105 |  | A | Biopsy of external ear canal | 0.85 | 0.99 | 1.47 | 0.06 | 000
69110 |  | A | Remove external ear, partial | 3.44 | 2.79 | 3.42 | 0.24 | 090
69120 |  | A | Removal of external ear | 4.05 | 4.45 | NA | 0.31 | 090
69140 |  | A | Remove ear canal lesion(s) | 7.97 | 7.95 | NA | 0.56 | 090
69145 |  | A | Remove ear canal lesion(s) | 2.62 | 2.47 | 3.33 | 0.18 | 090
69150 |  | A | Extensive ear canal surgery | 13.43 | 11.15 | NA | 1.07 | 090
69155 |  | A | Extensive ear/neck surgery | 20.80 | 15.23 | NA | 1.51 | 090
69200 |  | A | Clear outer ear canal | 0.77 | 0.74 | 1.41 | 0.05 | 000
69205 |  | A | Clear outer ear canal | 1.20 | 1.52 | NA | 0.09 | 010
69210 |  | A | Remove impacted ear wax | 0.61 | 0.24 | 0.57 | 0.04 | 000
69220 |  | A | Clean out mastoid cavity | 0.83 | 0.43 | 1.49 | 0.06 | 000
69222 |  | A | Clean out mastoid cavity | 1.40 | 1.67 | 2.18 | 0.10 | 010
69300 |  | R | Revise external ear | 6.36 | 4.37 | NA | 0.43 | YYY
69310 |  | A | Rebuild outer ear canal | 10.79 | 9.61 | NA | 0.77 | 090
69320 |  | A | Rebuild outer ear canal | 16.96 | 13.66 | NA | 1.17 | 090
69399 |  | C | Outer ear surgery procedure | 0.00 | 0.00 | 0.00 | 0.00 | YYY
69400 |  | A | Inflate middle ear canal | 0.83 | 0.40 | 1.48 | 0.06 | 000
69401 |  | A | Inflate middle ear canal | 0.63 | 0.35 | 1.38 | 0.04 | 000
69405 |  | A | Catheterize middle ear canal | 2.63 | 1.46 | 3.03 | 0.18 | 010
69410 |  | A | Inset middle ear (baffle) | 0.33 | 0.16 | 1.38 | 0.02 | 000
69420 |  | A | Incision of eardrum | 1.33 | 0.71 | 2.30 | 0.10 | 010
69421 |  | A | Incision of eardrum | 1.73 | 1.86 | 2.52 | 0.13 | 010
69424 |  | A | Remove ventilating tube | 0.85 | 0.87 | 1.65 | 0.06 | 000
69433 |  | A | Create eardrum opening | 1.52 | 0.85 | 2.26 | 0.11 | 010
69436 |  | A | Create eardrum opening | 1.96 | 1.99 | NA | 0.14 | 010
69440 |  | A | Exploration of middle ear | 7.57 | 7.20 | NA | 0.53 | 090
69450 |  | A | Eardrum revision | 5.57 | 6.00 | NA | 0.39 | 090
69501 |  | A | Mastoidectomy | 9.07 | 7.98 | NA | 0.65 | 090
69502 |  | A | Mastoidectomy | 12.38 | 10.52 | NA | 0.86 | 090
69505 |  | A | Remove mastoid structures | 12.99 | 10.77 | NA | 0.92 | 090
69511 |  | A | Extensive mastoid surgery | 13.52 | 11.12 | NA | 0.96 | 090
69530 |  | A | Extensive mastoid surgery | 19.19 | 14.64 | NA | 1.32 | 090
69535 |  | A | Remove part of temporal bone | 36.14 | 24.07 | NA | 2.59 | 090
69540 |  | A | Remove ear lesion | 1.20 | 1.55 | 2.21 | 0.09 | 010
69550 |  | A | Remove ear lesion | 10.99 | 9.63 | NA | 0.80 | 090
69552 |  | A | Remove ear lesion | 19.46 | 14.21 | NA | 1.36 | 090
69554 |  | A | Remove ear lesion | 33.16 | 21.75 | NA | 2.32 | 090
69601 |  | A | Mastoid surgery revision | 13.24 | 11.69 | NA | 0.92 | 090
69602 |  | A | Mastoid surgery revision | 13.58 | 11.25 | NA | 0.94 | 090
69603 |  | A | Mastoid surgery revision | 14.02 | 11.46 | NA | 1.00 | 090
69604 |  | A | Mastoid surgery revision | 14.02 | 11.38 | NA | 0.98 | 090
69605 |  | A | Mastoid surgery revision | 18.49 | 14.28 | NA | 1.29 | 090
69610 |  | A | Repair of eardrum | 4.43 | 3.37 | 4.15 | 0.31 | 010
69620 |  | A | Repair of eardrum | 5.89 | 3.20 | 6.73 | 0.40 | 090
69631 |  | A | Repair eardrum structures | 9.86 | 9.07 | NA | 0.69 | 090
69632 |  | A | Rebuild eardrum structures | 12.75 | 11.40 | NA | 0.89 | 090
69633 |  | A | Rebuild eardrum structures | 12.10 | 11.05 | NA | 0.84 | 090
69635 |  | A | Repair eardrum structures | 13.33 | 10.61 | NA | 0.87 | 090
69636 |  | A | Rebuild eardrum structures | 15.22 | 12.87 | NA | 1.07 | 090
69637 |  | A | Rebuild eardrum structures | 15.11 | 12.79 | NA | 1.06 | 090
69641 |  | A | Revise middle ear & mastoid | 12.71 | 10.75 | NA | 0.89 | 090
69642 |  | A | Revise middle ear & mastoid | 16.84 | 13.73 | NA | 1.18 | 090
69643 |  | A | Revise middle ear & mastoid | 15.32 | 12.87 | NA | 1.08 | 090
69644 |  | A | Revise middle ear & mastoid | 16.97 | 13.81 | NA | 1.19 | 090
69645 |  | A | Revise middle ear & mastoid | 16.38 | 13.44 | NA | 1.16 | 090
69646 |  | A | Revise middle ear & mastoid | 17.99 | 14.39 | NA | 1.26 | 090
69650 |  | A | Release middle ear bone | 9.66 | 8.34 | NA | 0.68 | 090
69660 |  | A | Revise middle ear bone | 11.90 | 9.56 | NA | 0.84 | 090
69661 |  | A | Revise middle ear bone | 15.74 | 12.33 | NA | 1.10 | 090
69662 |  | A | Revise middle ear bone | 15.44 | 12.20 | NA | 1.08 | 090
69666 |  | A | Repair middle ear structures | 9.75 | 8.42 | NA | 0.68 | 090
69667 |  | A | Repair middle ear structures | 9.76 | 8.40 | NA | 0.72 | 090
69670 |  | A | Remove mastoid air cells | 11.51 | 9.99 | NA | 0.78 | 090
69676 |  | A | Remove middle ear nerve | 9.52 | 8.88 | NA | 0.69 | 090
69700 |  | A | Close mastoid fistula | 8.23 | 5.52 | NA | 0.55 | 090
69710 |  | N | Implant/replace hearing aid | 0.00 | 0.00 | 0.00 | 0.00 | XXX
69711 |  | A | Remove/repair hearing aid | 10.44 | 9.26 | NA | 0.62 | 090
69714 |  | A | Implant temple bone w/stimul | 14.00 | 11.18 | NA | 1.01 | 090
69715 |  | A | Temple bne implnt w/stimulat | 18.25 | 13.64 | NA | 1.32 | 090
69717 |  | A | Temple bone implant revision | 14.98 | 11.13 | NA | 1.08 | 090
69718 |  | A | Revise temple bone implant | 18.50 | 13.78 | NA | 1.34 | 090
69720 |  | A | Release facial nerve | 14.38 | 12.31 | NA | 1.03 | 090
69725 |  | A | Release facial nerve | 25.38 | 17.77 | NA | 1.78 | 090
69740 |  | A | Repair facial nerve | 15.96 | 11.20 | NA | 1.13 | 090
69745 |  | A | Repair facial nerve | 16.69 | 12.61 | NA | 1.00 | 090
69799 |  | C | Middle ear surgery procedure | 0.00 | 0.00 | 0.00 | 0.00 | YYY
69801 |  | A | Incise inner ear | 8.56 | 7.75 | NA | 0.60 | 090
69802 |  | A | Incise inner ear | 13.10 | 11.01 | NA | 0.91 | 090
69805 |  | A | Explore inner ear | 13.82 | 10.69 | NA | 0.97 | 090
69806 |  | A | Explore inner ear | 12.35 | 10.57 | NA | 0.86 | 090
69820 |  | A | Establish inner ear window | 10.34 | 8.95 | NA | 0.66 | 090
69840 |  | A | Revise inner ear window | 10.26 | 9.13 | NA | 0.64 | 090
69905 |  | A | Remove inner ear | 11.10 | 9.61 | NA | 0.77 | 090
69910 |  | A | Remove inner ear & mastoid | 13.63 | 11.08 | NA | 0.94 | 090
69915 |  | A | Incise inner ear nerve | 21.23 | 15.52 | NA | 1.54 | 090
69930 |  | A | Implant cochlear device | 16.81 | 12.61 | NA | 1.19 | 090
69949 |  | C | Inner ear surgery procedure | 0.00 | 0.00 | 0.00 | 0.00 | YYY
69950 |  | A | Incise inner ear nerve | 25.64 | 16.38 | NA | 2.90 | 090
69955 |  | A | Release facial nerve | 27.04 | 18.41 | NA | 1.89 | 090
69960 |  | A | Release inner ear canal | 27.04 | 18.02 | NA | 2.43 | 090
69970 |  | A | Remove inner ear lesion | 30.04 | 18.86 | NA | 2.34 | 090
69979 |  | C | Temporal bone surgery | 0.00 | 0.00 | 0.00 | 0.00 | YYY
69990 |  | R | Microsurgery add-on | 3.47 | 1.82 | NA | 0.56 | ZZZ
70010 |  | A | Contrast x-ray of brain | 1.19 | NA | 4.89 | 0.24 | XXX
70010 | 26 | A | Contrast x-ray of brain | 1.19 | 0.41 | 0.41 | 0.06 | XXX
70010 | TC | A | Contrast x-ray of brain | 0.00 | NA | 4.48 | 0.18 | XXX
70015 |  | A | Contrast x-ray of brain | 1.19 | NA | 1.81 | 0.12 | XXX
70015 | 26 | A | Contrast x-ray of brain | 1.19 | 0.41 | 0.41 | 0.05 | XXX
70015 | TC | A | Contrast x-ray of brain | 0.00 | NA | 1.40 | 0.07 | XXX
70030 |  | A | X-ray eye for foreign body | 0.17 | NA | 0.49 | 0.03 | XXX
70030 | 26 | A | X-ray eye for foreign body | 0.17 | 0.06 | 0.06 | 0.01 | XXX
70030 | TC | A | X-ray eye for foreign body | 0.00 | NA | 0.43 | 0.02 | XXX
70100 |  | A | X-ray exam of jaw | 0.18 | NA | 0.60 | 0.03 | XXX
70100 | 26 | A | X-ray exam of jaw | 0.18 | 0.06 | 0.06 | 0.01 | XXX
70100 | TC | A | X-ray exam of jaw | 0.00 | NA | 0.54 | 0.02 | XXX
70110 |  | A | X-ray exam of jaw | 0.25 | NA | 0.72 | 0.04 | XXX
70110 | 26 | A | X-ray exam of jaw | 0.25 | 0.09 | 0.09 | 0.01 | XXX
70110 | TC | A | X-ray exam of jaw | 0.00 | NA | 0.64 | 0.03 | XXX
70120 |  | A | X-ray exam of mastoids | 0.18 | NA | 0.70 | 0.04 | XXX
70120 | 26 | A | X-ray exam of mastoids | 0.18 | 0.06 | 0.06 | 0.01 | XXX
70120 | TC | A | X-ray exam of mastoids | 0.00 | NA | 0.64 | 0.03 | XXX
70130 |  | A | X-ray exam of mastoids | 0.34 | NA | 0.93 | 0.05 | XXX
70130 | 26 | A | X-ray exam of mastoids | 0.34 | 0.12 | 0.12 | 0.01 | XXX
70130 | TC | A | X-ray exam of mastoids | 0.00 | NA | 0.81 | 0.04 | XXX
70134 |  | A | X-ray exam of middle ear | 0.34 | NA | 0.88 | 0.05 | XXX
70134 | 26 | A | X-ray exam of middle ear | 0.34 | 0.12 | 0.12 | 0.01 | XXX
70134 | TC | A | X-ray exam of middle ear | 0.00 | NA | 0.76 | 0.04 | XXX
70140 |  | A | X-ray exam of facial bones | 0.19 | NA | 0.70 | 0.04 | XXX
70140 | 26 | A | X-ray exam of facial bones | 0.19 | 0.06 | 0.06 | 0.01 | XXX
70140 | TC | A | X-ray exam of facial bones | 0.00 | NA | 0.64 | 0.03 | XXX
70150 |  | A | X-ray exam of facial bones | 0.26 | NA | 0.90 | 0.05 | XXX
70150 | 26 | A | X-ray exam of facial bones | 0.26 | 0.09 | 0.09 | 0.01 | XXX
70150 | TC | A | X-ray exam of facial bones | 0.00 | NA | 0.81 | 0.04 | XXX
70160 |  | A | X-ray exam of nasal bones | 0.17 | NA | 0.60 | 0.03 | XXX
70160 | 26 | A | X-ray exam of nasal bones | 0.17 | 0.06 | 0.06 | 0.01 | XXX
70160 | TC | A | X-ray exam of nasal bones | 0.00 | NA | 0.54 | 0.02 | XXX
70170 |  | A | X-ray exam of tear duct | 0.30 | NA | 1.08 | 0.06 | XXX
70170 | 26 | A | X-ray exam of tear duct | 0.30 | 0.10 | 0.10 | 0.01 | XXX
70170 | TC | A | X-ray exam of tear duct | 0.00 | NA | 0.98 | 0.05 | XXX
70190 |  | A | X-ray exam of eye sockets | 0.21 | NA | 0.71 | 0.04 | XXX
70190 | 26 | A | X-ray exam of eye sockets | 0.21 | 0.07 | 0.07 | 0.01 | XXX
70190 | TC | A | X-ray exam of eye sockets | 0.00 | NA | 0.64 | 0.03 | XXX
70200 |  | A | X-ray exam of eye sockets | 0.28 | NA | 0.90 | 0.05 | XXX
70200 | 26 | A | X-ray exam of eye sockets | 0.28 | 0.10 | 0.10 | 0.01 | XXX
70200 | TC | A | X-ray exam of eye sockets | 0.00 | NA | 0.81 | 0.04 | XXX
70210 |  | A | X-ray exam of sinuses | 0.17 | NA | 0.70 | 0.04 | XXX
70210 | 26 | A | X-ray exam of sinuses | 0.17 | 0.06 | 0.06 | 0.01 | XXX
70210 | TC | A | X-ray exam of sinuses | 0.00 | NA | 0.64 | 0.03 | XXX
70220 |  | A | X-ray exam of sinuses | 0.25 | NA | 0.89 | 0.05 | XXX
70220 | 26 | A | X-ray exam of sinuses | 0.25 | 0.09 | 0.09 | 0.01 | XXX
70220 | TC | A | X-ray exam of sinuses | 0.00 | NA | 0.81 | 0.04 | XXX
70240 |  | A | X-ray exam, pituitary saddle | 0.19 | NA | 0.49 | 0.03 | XXX
70240 | 26 | A | X-ray exam, pituitary saddle | 0.19 | 0.07 | 0.07 | 0.01 | XXX
70240 | TC | A | X-ray exam, pituitary saddle | 0.00 | NA | 0.43 | 0.02 | XXX
70250 |  | A | X-ray exam of skull | 0.24 | NA | 0.72 | 0.04 | XXX
70250 | 26 | A | X-ray exam of skull | 0.24 | 0.08 | 0.08 | 0.01 | XXX
70250 | TC | A | X-ray exam of skull | 0.00 | NA | 0.64 | 0.03 | XXX
70260 |  | A | X-ray exam of skull | 0.34 | NA | 1.04 | 0.06 | XXX
70260 | 26 | A | X-ray exam of skull | 0.34 | 0.12 | 0.12 | 0.01 | XXX
70260 | TC | A | X-ray exam of skull | 0.00 | NA | 0.92 | 0.05 | XXX
70300 |  | A | X-ray exam of teeth | 0.10 | NA | 0.31 | 0.03 | XXX
70300 | 26 | A | X-ray exam of teeth | 0.10 | 0.04 | 0.04 | 0.01 | XXX
70300 | TC | A | X-ray exam of teeth | 0.00 | NA | 0.27 | 0.02 | XXX
70310 |  | A | X-ray exam of teeth | 0.16 | NA | 0.49 | 0.03 | XXX
70310 | 26 | A | X-ray exam of teeth | 0.16 | 0.06 | 0.06 | 0.01 | XXX
70310 | TC | A | X-ray exam of teeth | 0.00 | NA | 0.43 | 0.02 | XXX
70320 |  | A | Full mouth x-ray of teeth | 0.22 | NA | 0.89 | 0.05 | XXX
70320 | 26 | A | Full mouth x-ray of teeth | 0.22 | 0.08 | 0.08 | 0.01 | XXX
70320 | TC | A | Full mouth x-ray of teeth | 0.00 | NA | 0.81 | 0.04 | XXX
70328 |  | A | X-ray exam of jaw joint | 0.18 | NA | 0.57 | 0.03 | XXX
70328 | 26 | A | X-ray exam of jaw joint | 0.18 | 0.06 | 0.06 | 0.01 | XXX
70328 | TC | A | X-ray exam of jaw joint | 0.00 | NA | 0.51 | 0.02 | XXX
70330 |  | A | X-ray exam of jaw joints | 0.24 | NA | 0.95 | 0.05 | XXX
70330 | 26 | A | X-ray exam of jaw joints | 0.24 | 0.08 | 0.08 | 0.01 | XXX
70330 | TC | A | X-ray exam of jaw joints | 0.00 | NA | 0.87 | 0.04 | XXX
70332 |  | A | X-ray exam of jaw joint | 0.54 | NA | 2.36 | 0.12 | XXX
70332 | 26 | A | X-ray exam of jaw joint | 0.54 | 0.19 | 0.19 | 0.02 | XXX
70332 | TC | A | X-ray exam of jaw joint | 0.00 | NA | 2.17 | 0.10 | XXX
70336 |  | A | Magnetic image, jaw joint | 1.48 | NA | 12.09 | 0.56 | XXX
70336 | 26 | A | Magnetic image, jaw joint | 1.48 | 0.51 | 0.51 | 0.07 | XXX
70336 | TC | A | Magnetic image, jaw joint | 0.00 | NA | 11.58 | 0.49 | XXX
70350 |  | A | X-ray head for orthodontia | 0.17 | NA | 0.45 | 0.03 | XXX
70350 | 26 | A | X-ray head for orthodontia | 0.17 | 0.06 | 0.06 | 0.01 | XXX
70350 | TC | A | X-ray head for orthodontia | 0.00 | NA | 0.39 | 0.02 | XXX
70355 |  | A | Panoramic x-ray of jaws | 0.20 | NA | 0.66 | 0.04 | XXX
70355 | 26 | A | Panoramic x-ray of jaws | 0.20 | 0.07 | 0.07 | 0.01 | XXX
70355 | TC | A | Panoramic x-ray of jaws | 0.00 | NA | 0.59 | 0.03 | XXX
70360 |  | A | X-ray exam of neck | 0.17 | NA | 0.49 | 0.03 | XXX
70360 | 26 | A | X-ray exam of neck | 0.17 | 0.06 | 0.06 | 0.01 | XXX
70360 | TC | A | X-ray exam of neck | 0.00 | NA | 0.43 | 0.02 | XXX
70370 |  | A | Throat x-ray & fluoroscopy | 0.32 | NA | 1.46 | 0.07 | XXX
70370 | 26 | A | Throat x-ray & fluoroscopy | 0.32 | 0.11 | 0.11 | 0.01 | XXX
70370 | TC | A | Throat x-ray & fluoroscopy | 0.00 | NA | 1.35 | 0.06 | XXX
70371 |  | A | Speech evaluation, complex | 0.84 | NA | 2.46 | 0.14 | XXX
70371 | 26 | A | Speech evaluation, complex | 0.84 | 0.29 | 0.29 | 0.04 | XXX
70371 | TC | A | Speech evaluation, complex | 0.00 | NA | 2.17 | 0.10 | XXX
70373 |  | A | Contrast x-ray of larynx | 0.44 | NA | 1.99 | 0.11 | XXX
70373 | 26 | A | Contrast x-ray of larynx | 0.44 | 0.15 | 0.15 | 0.02 | XXX
70373 | TC | A | Contrast x-ray of larynx | 0.00 | NA | 1.84 | 0.09 | XXX
70380 |  | A | X-ray exam of salivary gland | 0.17 | NA | 0.75 | 0.04 | XXX
70380 | 26 | A | X-ray exam of salivary gland | 0.17 | 0.06 | 0.06 | 0.01 | XXX
70380 | TC | A | X-ray exam of salivary gland | 0.00 | NA | 0.69 | 0.03 | XXX
70390 |  | A | X-ray exam of salivary duct | 0.38 | NA | 1.97 | 0.11 | XXX
70390 | 26 | A | X-ray exam of salivary duct | 0.38 | 0.13 | 0.13 | 0.02 | XXX
70390 | TC | A | X-ray exam of salivary duct | 0.00 | NA | 1.84 | 0.09 | XXX
70450 |  | A | Ct head/brain w/o dye | 0.85 | NA | 5.17 | 0.25 | XXX
70450 | 26 | A | Ct head/brain w/o dye | 0.85 | 0.29 | 0.29 | 0.04 | XXX
70450 | TC | A | Ct head/brain w/o dye | 0.00 | NA | 4.88 | 0.21 | XXX
70460 |  | A | Ct head/brain w/dye | 1.13 | NA | 6.23 | 0.30 | XXX
70460 | 26 | A | Ct head/brain w/dye | 1.13 | 0.39 | 0.39 | 0.05 | XXX
70460 | TC | A | Ct head/brain w/dye | 0.00 | NA | 5.85 | 0.25 | XXX
70470 |  | A | Ct head/brain w/o&w dye | 1.27 | NA | 7.74 | 0.37 | XXX
70470 | 26 | A | Ct head/brain w/o&w dye | 1.27 | 0.43 | 0.43 | 0.06 | XXX
70470 | TC | A | Ct head/brain w/o&w dye | 0.00 | NA | 7.30 | 0.31 | XXX
70480 |  | A | Ct orbit/ear/fossa w/o dye | 1.28 | NA | 5.31 | 0.27 | XXX
70480 | 26 | A | Ct orbit/ear/fossa w/o dye | 1.28 | 0.44 | 0.44 | 0.06 | XXX
70480 | TC | A | Ct orbit/ear/fossa w/o dye | 0.00 | NA | 4.88 | 0.21 | XXX
70481 |  | A | Ct orbit/ear/fossa w/dye | 1.38 | NA | 6.32 | 0.31 | XXX
70481 | 26 | A | Ct orbit/ear/fossa w/dye | 1.38 | 0.47 | 0.47 | 0.06 | XXX
70481 | TC | A | Ct orbit/ear/fossa w/dye | 0.00 | NA | 5.85 | 0.25 | XXX
70482 |  | A | Ct orbit/ear/fossa w/o&w dye | 1.45 | NA | 7.80 | 0.37 | XXX
70482 | 26 | A | Ct orbit/ear/fossa w/o&w dye | 1.45 | 0.50 | 0.50 | 0.06 | XXX
70482 | TC | A | Ct orbit/ear/fossa w/o&w dye | 0.00 | NA | 7.30 | 0.31 | XXX
70486 |  | A | Ct maxillofacial w/o dye | 1.14 | NA | 5.27 | 0.26 | XXX
70486 | 26 | A | Ct maxillofacial w/o dye | 1.14 | 0.39 | 0.39 | 0.05 | XXX
70486 | TC | A | Ct maxillofacial w/o dye | 0.00 | NA | 4.88 | 0.21 | XXX
70487 |  | A | Ct maxillofacial w/dye | 1.30 | NA | 6.29 | 0.31 | XXX
70487 | 26 | A | Ct maxillofacial w/dye | 1.30 | 0.44 | 0.44 | 0.06 | XXX
70487 | TC | A | Ct maxillofacial w/dye | 0.00 | NA | 5.85 | 0.25 | XXX
70488 |  | A | Ct maxillofacial w/o&w dye | 1.42 | NA | 7.79 | 0.37 | XXX
70488 | 26 | A | Ct maxillofacial w/o&w dye | 1.42 | 0.48 | 0.48 | 0.06 | XXX
70488 | TC | A | Ct maxillofacial w/o&w dye | 0.00 | NA | 7.30 | 0.31 | XXX
70490 |  | A | Ct soft tissue neck w/o dye | 1.28 | NA | 5.31 | 0.27 | XXX
70490 | 26 | A | Ct soft tissue neck w/o dye | 1.28 | 0.44 | 0.44 | 0.06 | XXX
70490 | TC | A | Ct soft tissue neck w/o dye | 0.00 | NA | 4.88 | 0.21 | XXX
70491 |  | A | Ct soft tissue neck w/dye | 1.38 | NA | 6.32 | 0.31 | XXX
70491 | 26 | A | Ct soft tissue neck w/dye | 1.38 | 0.47 | 0.47 | 0.06 | XXX
70491 | TC | A | Ct soft tissue neck w/dye | 0.00 | NA | 5.85 | 0.25 | XXX
70492 |  | A | Ct sft tsue nck w/o & w/dye | 1.45 | NA | 7.80 | 0.37 | XXX
70492 | 26 | A | Ct sft tsue nck w/o & w/dye | 1.45 | 0.50 | 0.50 | 0.06 | XXX
70492 | TC | A | Ct sft tsue nck w/o & w/dye | 0.00 | NA | 7.30 | 0.31 | XXX
70496 |  | A | Ct angiography, head | 1.75 | NA | 7.98 | 0.56 | XXX
70496 | 26 | A | Ct angiography, head | 1.75 | 0.68 | 0.68 | 0.08 | XXX
70496 | TC | A | Ct angiography, head | 0.00 | NA | 7.30 | 0.48 | XXX
70498 |  | A | Ct angiography, neck | 1.75 | NA | 7.98 | 0.56 | XXX
70498 | 26 | A | Ct angiography, neck | 1.75 | 0.68 | 0.68 | 0.08 | XXX
70498 | TC | A | Ct angiography, neck | 0.00 | NA | 7.30 | 0.48 | XXX
70540 |  | A | Mri orbit/face/neck w/o dye | 1.35 | NA | 12.04 | 0.36 | XXX
70540 | 26 | A | Mri orbit/face/neck w/o dye | 1.35 | 0.46 | 0.46 | 0.04 | XXX
70540 | TC | A | Mri orbit/face/neck w/o dye | 0.00 | NA | 11.58 | 0.32 | XXX
70542 |  | A | Mri orbit/face/neck w/dye | 1.62 | NA | 14.44 | 0.44 | XXX
70542 | 26 | A | Mri orbit/face/neck w/dye | 1.62 | 0.55 | 0.55 | 0.05 | XXX
70542 | TC | A | Mri orbit/face/neck w/dye | 0.00 | NA | 13.89 | 0.39 | XXX
70543 |  | A | Mri orbt/fac/nck w/o&w dye | 2.15 | NA | 26.46 | 0.77 | XXX
70543 | 26 | A | Mri orbt/fac/nck w/o&w dye | 2.15 | 0.74 | 0.74 | 0.07 | XXX
70543 | TC | A | Mri orbt/fac/nck w/o&w dye | 0.00 | NA | 25.72 | 0.70 | XXX
70544 |  | A | Mr angiography head w/o dye | 1.20 | NA | 11.99 | 0.54 | XXX
70544 | 26 | A | Mr angiography head w/o dye | 1.20 | 0.41 | 0.41 | 0.05 | XXX
70544 | TC | A | Mr angiography head w/o dye | 0.00 | NA | 11.58 | 0.49 | XXX
70545 |  | A | Mr angiography head w/dye | 1.20 | NA | 11.99 | 0.54 | XXX
70545 | 26 | A | Mr angiography head w/dye | 1.20 | 0.41 | 0.41 | 0.05 | XXX
70545 | TC | A | Mr angiography head w/dye | 0.00 | NA | 11.58 | 0.49 | XXX
70546 |  | A | Mr angiograph head w/o&w dye | 1.80 | NA | 23.78 | 0.57 | XXX
70546 | 26 | A | Mr angiograph head w/o&w dye | 1.80 | 0.62 | 0.62 | 0.08 | XXX
70546 | TC | A | Mr angiograph head w/o&w dye | 0.00 | NA | 23.16 | 0.49 | XXX
70547 |  | A | Mr angiography neck w/o dye | 1.20 | NA | 11.99 | 0.54 | XXX
70547 | 26 | A | Mr angiography neck w/o dye | 1.20 | 0.41 | 0.41 | 0.05 | XXX
70547 | TC | A | Mr angiography neck w/o dye | 0.00 | NA | 11.58 | 0.49 | XXX
70548 |  | A | Mr angiography neck w/dye | 1.20 | NA | 11.99 | 0.54 | XXX
70548 | 26 | A | Mr angiography neck w/dye | 1.20 | 0.41 | 0.41 | 0.05 | XXX
70548 | TC | A | Mr angiography neck w/dye | 0.00 | NA | 11.58 | 0.49 | XXX
70549 |  | A | Mr angiograph neck w/o&w dye | 1.80 | NA | 23.78 | 0.57 | XXX
70549 | 26 | A | Mr angiograph neck w/o&w dye | 1.80 | 0.62 | 0.62 | 0.08 | XXX
70549 | TC | A | Mr angiograph neck w/o&w dye | 0.00 | NA | 23.16 | 0.49 | XXX
70551 |  | A | Mri brain w/o dye | 1.48 | NA | 12.09 | 0.56 | XXX
70551 | 26 | A | Mri brain w/o dye | 1.48 | 0.51 | 0.51 | 0.07 | XXX
70551 | TC | A | Mri brain w/o dye | 0.00 | NA | 11.58 | 0.49 | XXX
70552 |  | A | Mri brain w/dye | 1.78 | NA | 14.51 | 0.66 | XXX
70552 | 26 | A | Mri brain w/dye | 1.78 | 0.62 | 0.62 | 0.08 | XXX
70552 | TC | A | Mri brain w/dye | 0.00 | NA | 13.89 | 0.58 | XXX
70553 |  | A | Mri brain w/o&w dye | 2.36 | NA | 26.53 | 1.19 | XXX
70553 | 26 | A | Mri brain w/o&w dye | 2.36 | 0.81 | 0.81 | 0.10 | XXX
70553 | TC | A | Mri brain w/o&w dye | 0.00 | NA | 25.72 | 1.09 | XXX
71010 |  | A | Chest x-ray | 0.18 | NA | 0.55 | 0.03 | XXX
71010 | 26 | A | Chest x-ray | 0.18 | 0.06 | 0.06 | 0.01 | XXX
71010 | TC | A | Chest x-ray | 0.00 | NA | 0.49 | 0.02 | XXX
71015 |  | A | Chest x-ray | 0.21 | NA | 0.61 | 0.03 | XXX
71015 | 26 | A | Chest x-ray | 0.21 | 0.07 | 0.07 | 0.01 | XXX
71015 | TC | A | Chest x-ray | 0.00 | NA | 0.54 | 0.02 | XXX
71020 |  | A | Chest x-ray | 0.22 | NA | 0.71 | 0.04 | XXX
71020 | 26 | A | Chest x-ray | 0.22 | 0.07 | 0.07 | 0.01 | XXX
71020 | TC | A | Chest x-ray | 0.00 | NA | 0.64 | 0.03 | XXX
71021 |  | A | Chest x-ray | 0.27 | NA | 0.85 | 0.05 | XXX
71021 | 26 | A | Chest x-ray | 0.27 | 0.09 | 0.09 | 0.01 | XXX
71021 | TC | A | Chest x-ray | 0.00 | NA | 0.76 | 0.04 | XXX
71022 |  | A | Chest x-ray | 0.31 | NA | 0.87 | 0.06 | XXX
71022 | 26 | A | Chest x-ray | 0.31 | 0.11 | 0.11 | 0.02 | XXX
71022 | TC | A | Chest x-ray | 0.00 | NA | 0.76 | 0.04 | XXX
71023 |  | A | Chest x-ray and fluoroscopy | 0.38 | NA | 0.95 | 0.06 | XXX
71023 | 26 | A | Chest x-ray and fluoroscopy | 0.38 | 0.14 | 0.14 | 0.02 | XXX
71023 | TC | A | Chest x-ray and fluoroscopy | 0.00 | NA | 0.81 | 0.04 | XXX
71030 |  | A | Chest x-ray | 0.31 | NA | 0.91 | 0.05 | XXX
71030 | 26 | A | Chest x-ray | 0.31 | 0.11 | 0.11 | 0.01 | XXX
71030 | TC | A | Chest x-ray | 0.00 | NA | 0.81 | 0.04 | XXX
71034 |  | A | Chest x-ray and fluoroscopy | 0.46 | NA | 1.66 | 0.09 | XXX
71034 | 26 | A | Chest x-ray and fluoroscopy | 0.46 | 0.17 | 0.17 | 0.02 | XXX
71034 | TC | A | Chest x-ray and fluoroscopy | 0.00 | NA | 1.49 | 0.07 | XXX
71035 |  | A | Chest x-ray | 0.18 | NA | 0.60 | 0.03 | XXX
71035 | 26 | A | Chest x-ray | 0.18 | 0.06 | 0.06 | 0.01 | XXX
71035 | TC | A | Chest x-ray | 0.00 | NA | 0.54 | 0.02 | XXX
71040 |  | A | Contrast x-ray of bronchi | 0.58 | NA | 1.71 | 0.10 | XXX
71040 | 26 | A | Contrast x-ray of bronchi | 0.58 | 0.20 | 0.20 | 0.03 | XXX
71040 | TC | A | Contrast x-ray of bronchi | 0.00 | NA | 1.51 | 0.07 | XXX
71060 |  | A | Contrast x-ray of bronchi | 0.74 | NA | 2.53 | 0.14 | XXX
71060 | 26 | A | Contrast x-ray of bronchi | 0.74 | 0.25 | 0.25 | 0.03 | XXX
71060 | TC | A | Contrast x-ray of bronchi | 0.00 | NA | 2.28 | 0.11 | XXX
71090 |  | A | X-ray & pacemaker insertion | 0.54 | NA | 1.95 | 0.11 | XXX
71090 | 26 | A | X-ray & pacemaker insertion | 0.54 | 0.21 | 0.21 | 0.02 | XXX
71090 | TC | A | X-ray & pacemaker insertion | 0.00 | NA | 1.74 | 0.09 | XXX
71100 |  | A | X-ray exam of ribs | 0.22 | NA | 0.66 | 0.04 | XXX
71100 | 26 | A | X-ray exam of ribs | 0.22 | 0.07 | 0.07 | 0.01 | XXX
71100 | TC | A | X-ray exam of ribs | 0.00 | NA | 0.59 | 0.03 | XXX
71101 |  | A | X-ray exam of ribs/chest | 0.27 | NA | 0.78 | 0.04 | XXX
71101 | 26 | A | X-ray exam of ribs/chest | 0.27 | 0.09 | 0.09 | 0.01 | XXX
71101 | TC | A | X-ray exam of ribs/chest | 0.00 | NA | 0.69 | 0.03 | XXX
71110 |  | A | X-ray exam of ribs | 0.27 | NA | 0.90 | 0.05 | XXX
71110 | 26 | A | X-ray exam of ribs | 0.27 | 0.09 | 0.09 | 0.01 | XXX
71110 | TC | A | X-ray exam of ribs | 0.00 | NA | 0.81 | 0.04 | XXX
71111 |  | A | X-ray exam of ribs/ chest | 0.32 | NA | 1.03 | 0.06 | XXX
71111 | 26 | A | X-ray exam of ribs/ chest | 0.32 | 0.11 | 0.11 | 0.01 | XXX
71111 | TC | A | X-ray exam of ribs/ chest | 0.00 | NA | 0.92 | 0.05 | XXX
71120 |  | A | X-ray exam of breastbone | 0.20 | NA | 0.74 | 0.04 | XXX
71120 | 26 | A | X-ray exam of breastbone | 0.20 | 0.07 | 0.07 | 0.01 | XXX
71120 | TC | A | X-ray exam of breastbone | 0.00 | NA | 0.67 | 0.03 | XXX
71130 |  | A | X-ray exam of breastbone | 0.22 | NA | 0.80 | 0.04 | XXX
71130 | 26 | A | X-ray exam of breastbone | 0.22 | 0.08 | 0.08 | 0.01 | XXX
71130 | TC | A | X-ray exam of breastbone | 0.00 | NA | 0.73 | 0.03 | XXX
71250 |  | A | Ct thorax w/o dye | 1.16 | NA | 6.50 | 0.31 | XXX
71250 | 26 | A | Ct thorax w/o dye | 1.16 | 0.40 | 0.40 | 0.05 | XXX
71250 | TC | A | Ct thorax w/o dye | 0.00 | NA | 6.11 | 0.26 | XXX
71260 |  | A | Ct thorax w/dye | 1.24 | NA | 7.73 | 0.36 | XXX
71260 | 26 | A | Ct thorax w/dye | 1.24 | 0.42 | 0.42 | 0.05 | XXX
71260 | TC | A | Ct thorax w/dye | 0.00 | NA | 7.30 | 0.31 | XXX
71270 |  | A | Ct thorax w/o&w dye | 1.38 | NA | 9.61 | 0.44 | XXX
71270 | 26 | A | Ct thorax w/o&w dye | 1.38 | 0.47 | 0.47 | 0.06 | XXX
71270 | TC | A | Ct thorax w/o&w dye | 0.00 | NA | 9.14 | 0.38 | XXX
71275 |  | A | Ct angiography, chest | 1.92 | NA | 9.88 | 0.38 | XXX
71275 | 26 | A | Ct angiography, chest | 1.92 | 0.74 | 0.74 | 0.06 | XXX
71275 | TC | A | Ct angiography, chest | 0.00 | NA | 9.14 | 0.32 | XXX
71550 |  | A | Mri chest w/o dye | 1.46 | NA | 12.08 | 0.41 | XXX
71550 | 26 | A | Mri chest w/o dye | 1.46 | 0.50 | 0.50 | 0.04 | XXX
71550 | TC | A | Mri chest w/o dye | 0.00 | NA | 11.58 | 0.37 | XXX
71551 |  | A | Mri chest w/dye | 1.73 | NA | 14.48 | 0.49 | XXX
71551 | 26 | A | Mri chest w/dye | 1.73 | 0.59 | 0.59 | 0.06 | XXX
71551 | TC | A | Mri chest w/dye | 0.00 | NA | 13.89 | 0.43 | XXX
71552 |  | A | Mri chest w/o&w dye | 2.26 | NA | 26.49 | 0.64 | XXX
71552 | 26 | A | Mri chest w/o&w dye | 2.26 | 0.77 | 0.77 | 0.08 | XXX
71552 | TC | A | Mri chest w/o&w dye | 0.00 | NA | 25.72 | 0.56 | XXX
71555 |  | R | Mri angio chest w or w/o dye | 1.81 | NA | 12.20 | 0.57 | XXX
71555 | 26 | R | Mri angio chest w or w/o dye | 1.81 | 0.62 | 0.62 | 0.08 | XXX
71555 | TC | R | Mri angio chest w or w/o dye | 0.00 | NA | 11.58 | 0.49 | XXX
72010 |  | A | X-ray exam of spine | 0.45 | NA | 1.21 | 0.08 | XXX
72010 | 26 | A | X-ray exam of spine | 0.45 | 0.15 | 0.15 | 0.03 | XXX
72010 | TC | A | X-ray exam of spine | 0.00 | NA | 1.06 | 0.05 | XXX
72020 |  | A | X-ray exam of spine | 0.15 | NA | 0.48 | 0.03 | XXX
72020 | 26 | A | X-ray exam of spine | 0.15 | 0.05 | 0.05 | 0.01 | XXX
72020 | TC | A | X-ray exam of spine | 0.00 | NA | 0.43 | 0.02 | XXX
72040 |  | A | X-ray exam of neck spine | 0.22 | NA | 0.69 | 0.04 | XXX
72040 | 26 | A | X-ray exam of neck spine | 0.22 | 0.08 | 0.08 | 0.01 | XXX
72040 | TC | A | X-ray exam of neck spine | 0.00 | NA | 0.62 | 0.03 | XXX
72050 |  | A | X-ray exam of neck spine | 0.31 | NA | 1.03 | 0.07 | XXX
72050 | 26 | A | X-ray exam of neck spine | 0.31 | 0.11 | 0.11 | 0.02 | XXX
72050 | TC | A | X-ray exam of neck spine | 0.00 | NA | 0.92 | 0.05 | XXX
72052 |  | A | X-ray exam of neck spine | 0.36 | NA | 1.29 | 0.07 | XXX
72052 | 26 | A | X-ray exam of neck spine | 0.36 | 0.12 | 0.12 | 0.02 | XXX
72052 | TC | A | X-ray exam of neck spine | 0.00 | NA | 1.17 | 0.05 | XXX
72069 |  | A | X-ray exam of trunk spine | 0.22 | NA | 0.59 | 0.04 | XXX
72069 | 26 | A | X-ray exam of trunk spine | 0.22 | 0.08 | 0.08 | 0.02 | XXX
72069 | TC | A | X-ray exam of trunk spine | 0.00 | NA | 0.51 | 0.02 | XXX
72070 |  | A | X-ray exam of thoracic spine | 0.22 | NA | 0.74 | 0.04 | XXX
72070 | 26 | A | X-ray exam of thoracic spine | 0.22 | 0.08 | 0.08 | 0.01 | XXX
72070 | TC | A | X-ray exam of thoracic spine | 0.00 | NA | 0.67 | 0.03 | XXX
72072 |  | A | X-ray exam of thoracic spine | 0.22 | NA | 0.83 | 0.05 | XXX
72072 | 26 | A | X-ray exam of thoracic spine | 0.22 | 0.08 | 0.08 | 0.01 | XXX
72072 | TC | A | X-ray exam of thoracic spine | 0.00 | NA | 0.76 | 0.04 | XXX
72074 |  | A | X-ray exam of thoracic spine | 0.22 | NA | 1.01 | 0.06 | XXX
72074 | 26 | A | X-ray exam of thoracic spine | 0.22 | 0.08 | 0.08 | 0.01 | XXX
72074 | TC | A | X-ray exam of thoracic spine | 0.00 | NA | 0.94 | 0.05 | XXX
72080 |  | A | X-ray exam of trunk spine | 0.22 | NA | 0.77 | 0.05 | XXX
72080 | 26 | A | X-ray exam of trunk spine | 0.22 | 0.08 | 0.08 | 0.02 | XXX
72080 | TC | A | X-ray exam of trunk spine | 0.00 | NA | 0.69 | 0.03 | XXX
72090 |  | A | X-ray exam of trunk spine | 0.28 | NA | 0.79 | 0.05 | XXX
72090 | 26 | A | X-ray exam of trunk spine | 0.28 | 0.10 | 0.10 | 0.02 | XXX
72090 | TC | A | X-ray exam of trunk spine | 0.00 | NA | 0.69 | 0.03 | XXX
72100 |  | A | X-ray exam of lower spine | 0.22 | NA | 0.77 | 0.05 | XXX
72100 | 26 | A | X-ray exam of lower spine | 0.22 | 0.08 | 0.08 | 0.02 | XXX
72100 | TC | A | X-ray exam of lower spine | 0.00 | NA | 0.69 | 0.03 | XXX
72110 |  | A | X-ray exam of lower spine | 0.31 | NA | 1.05 | 0.07 | XXX
72110 | 26 | A | X-ray exam of lower spine | 0.31 | 0.11 | 0.11 | 0.02 | XXX
72110 | TC | A | X-ray exam of lower spine | 0.00 | NA | 0.94 | 0.05 | XXX
72114 |  | A | X-ray exam of lower spine | 0.36 | NA | 1.35 | 0.08 | XXX
72114 | 26 | A | X-ray exam of lower spine | 0.36 | 0.12 | 0.12 | 0.03 | XXX
72114 | TC | A | X-ray exam of lower spine | 0.00 | NA | 1.23 | 0.05 | XXX
72120 |  | A | X-ray exam of lower spine | 0.22 | NA | 0.99 | 0.07 | XXX
72120 | 26 | A | X-ray exam of lower spine | 0.22 | 0.08 | 0.08 | 0.02 | XXX
72120 | TC | A | X-ray exam of lower spine | 0.00 | NA | 0.92 | 0.05 | XXX
72125 |  | A | Ct neck spine w/o dye | 1.16 | NA | 6.50 | 0.31 | XXX
72125 | 26 | A | Ct neck spine w/o dye | 1.16 | 0.40 | 0.40 | 0.05 | XXX
72125 | TC | A | Ct neck spine w/o dye | 0.00 | NA | 6.11 | 0.26 | XXX
72126 |  | A | Ct neck spine w/dye | 1.22 | NA | 7.72 | 0.36 | XXX
72126 | 26 | A | Ct neck spine w/dye | 1.22 | 0.42 | 0.42 | 0.05 | XXX
72126 | TC | A | Ct neck spine w/dye | 0.00 | NA | 7.30 | 0.31 | XXX
72127 |  | A | Ct neck spine w/o&w dye | 1.27 | NA | 9.58 | 0.44 | XXX
72127 | 26 | A | Ct neck spine w/o&w dye | 1.27 | 0.43 | 0.43 | 0.06 | XXX
72127 | TC | A | Ct neck spine w/o&w dye | 0.00 | NA | 9.14 | 0.38 | XXX
72128 |  | A | Ct chest spine w/o dye | 1.16 | NA | 6.50 | 0.31 | XXX
72128 | 26 | A | Ct chest spine w/o dye | 1.16 | 0.40 | 0.40 | 0.05 | XXX
72128 | TC | A | Ct chest spine w/o dye | 0.00 | NA | 6.11 | 0.26 | XXX
72129 |  | A | Ct chest spine w/dye | 1.22 | NA | 7.72 | 0.36 | XXX
72129 | 26 | A | Ct chest spine w/dye | 1.22 | 0.42 | 0.42 | 0.05 | XXX
72129 | TC | A | Ct chest spine w/dye | 0.00 | NA | 7.30 | 0.31 | XXX
72130 |  | A | Ct chest spine w/o&w dye | 1.27 | NA | 9.58 | 0.44 | XXX
72130 | 26 | A | Ct chest spine w/o&w dye | 1.27 | 0.43 | 0.43 | 0.06 | XXX
72130 | TC | A | Ct chest spine w/o&w dye | 0.00 | NA | 9.14 | 0.38 | XXX
72131 |  | A | Ct lumbar spine w/o dye | 1.16 | NA | 6.50 | 0.31 | XXX
72131 | 26 | A | Ct lumbar spine w/o dye | 1.16 | 0.40 | 0.40 | 0.05 | XXX
72131 | TC | A | Ct lumbar spine w/o dye | 0.00 | NA | 6.11 | 0.26 | XXX
72132 |  | A | Ct lumbar spine w/dye | 1.22 | NA | 7.72 | 0.37 | XXX
72132 | 26 | A | Ct lumbar spine w/dye | 1.22 | 0.42 | 0.42 | 0.06 | XXX
72132 | TC | A | Ct lumbar spine w/dye | 0.00 | NA | 7.30 | 0.31 | XXX
72133 |  | A | Ct lumbar spine w/o&w dye | 1.27 | NA | 9.58 | 0.44 | XXX
2133 | 26 | A | Ct lumbar spine w/o&w dye | 1.27 | 0.44 | 0.44 | 0.06 | XXX
72133 | TC | A | Ct lumbar spine w/o&w dye | 0.00 | NA | 9.14 | 0.38 | XXX
72141 |  | A | Mri neck spine w/o dye | 1.60 | NA | 12.13 | 0.56 | XXX
72141 | 26 | A | Mri neck spine w/o dye | 1.60 | 0.55 | 0.55 | 0.07 | XXX
72141 | TC | A | Mri neck spine w/o dye | 0.00 | NA | 11.58 | 0.49 | XXX
72142 |  | A | Mri neck spine w/dye | 1.92 | NA | 14.56 | 0.67 | XXX
72142 | 26 | A | Mri neck spine w/dye | 1.92 | 0.67 | 0.67 | 0.09 | XXX
72142 | TC | A | Mri neck spine w/dye | 0.00 | NA | 13.89 | 0.58 | XXX
72146 |  | A | Mri chest spine w/o dye | 1.60 | NA | 13.41 | 0.60 | XXX
72146 | 26 | A | Mri chest spine w/o dye | 1.60 | 0.55 | 0.55 | 0.07 | XXX
72146 | TC | A | Mri chest spine w/o dye | 0.00 | NA | 12.86 | 0.53 | XXX
72147 |  | A | Mri chest spine w/dye | 1.92 | NA | 14.55 | 0.67 | XXX
72147 | 26 | A | Mri chest spine w/dye | 1.92 | 0.66 | 0.66 | 0.09 | XXX
72147 | TC | A | Mri chest spine w/dye | 0.00 | NA | 13.89 | 0.58 | XXX
72148 |  | A | Mri lumbar spine w/o dye | 1.48 | NA | 13.37 | 0.60 | XXX
72148 | 26 | A | Mri lumbar spine w/o dye | 1.48 | 0.51 | 0.51 | 0.07 | XXX
72148 | TC | A | Mri lumbar spine w/o dye | 0.00 | NA | 12.86 | 0.53 | XXX
72149 |  | A | Mri lumbar spine w/dye | 1.78 | NA | 14.51 | 0.67 | XXX
72149 | 26 | A | Mri lumbar spine w/dye | 1.78 | 0.62 | 0.62 | 0.09 | XXX
72149 | TC | A | Mri lumbar spine w/dye | 0.00 | NA | 13.89 | 0.58 | XXX
72156 |  | A | Mri neck spine w/o&w dye | 2.57 | NA | 26.60 | 1.20 | XXX
72156 | 26 | A | Mri neck spine w/o&w dye | 2.57 | 0.88 | 0.88 | 0.11 | XXX
72156 | TC | A | Mri neck spine w/o&w dye | 0.00 | NA | 25.72 | 1.09 | XXX
72157 |  | A | Mri chest spine w/o&w dye | 2.57 | NA | 26.60 | 1.20 | XXX
72157 | 26 | A | Mri chest spine w/o&w dye | 2.57 | 0.88 | 0.88 | 0.11 | XXX
72157 | TC | A | Mri chest spine w/o&w dye | 0.00 | NA | 25.72 | 1.09 | XXX
72158 |  | A | Mri lumbar spine w/o&w dye | 2.36 | NA | 26.53 | 1.20 | XXX
72158 | 26 | A | Mri lumbar spine w/o&w dye | 2.36 | 0.81 | 0.81 | 0.11 | XXX
72158 | TC | A | Mri lumbar spine w/o&w dye | 0.00 | NA | 25.72 | 1.09 | XXX
72159 |  | N | Mr angio spine w/o&w dye | 1.80 | NA | 13.56 | 0.61 | XXX
72159 | 26 | N | Mr angio spine w/o&w dye | 1.80 | 0.70 | 0.70 | 0.08 | XXX
72159 | TC | N | Mr angio spine w/o&w dye | 0.00 | NA | 12.86 | 0.53 | XXX
72170 |  | A | X-ray exam of pelvis | 0.17 | NA | 0.60 | 0.03 | XXX
72170 | 26 | A | X-ray exam of pelvis | 0.17 | 0.06 | 0.06 | 0.01 | XXX
72170 | TC | A | X-ray exam of pelvis | 0.00 | NA | 0.54 | 0.02 | XXX
72190 |  | A | X-ray exam of pelvis | 0.21 | NA | 0.76 | 0.04 | XXX
72190 | 26 | A | X-ray exam of pelvis | 0.21 | 0.07 | 0.07 | 0.01 | XXX
72190 | TC | A | X-ray exam of pelvis | 0.00 | NA | 0.69 | 0.03 | XXX
72191 |  | A | Ct angiograph pelv w/o&w dye | 1.81 | NA | 9.47 | 0.38 | XXX
72191 | 26 | A | Ct angiograph pelv w/o&w dye | 1.81 | 0.70 | 0.70 | 0.06 | XXX
72191 | TC | A | Ct angiograph pelv w/o&w dye | 0.00 | NA | 8.77 | 0.32 | XXX
72192 |  | A | Ct pelvis w/o dye | 1.09 | NA | 6.48 | 0.31 | XXX
72192 | 26 | A | Ct pelvis w/o dye | 1.09 | 0.37 | 0.37 | 0.05 | XXX
72192 | TC | A | Ct pelvis w/o dye | 0.00 | NA | 6.11 | 0.26 | XXX
72193 |  | A | Ct pelvis w/dye | 1.16 | NA | 7.47 | 0.35 | XXX
72193 | 26 | A | Ct pelvis w/dye | 1.16 | 0.40 | 0.40 | 0.05 | XXX
72193 | TC | A | Ct pelvis w/dye | 0.00 | NA | 7.07 | 0.30 | XXX
72194 |  | A | Ct pelvis w/o&w dye | 1.22 | NA | 9.19 | 0.41 | XXX
72194 | 26 | A | Ct pelvis w/o&w dye | 1.22 | 0.42 | 0.42 | 0.05 | XXX
72194 | TC | A | Ct pelvis w/o&w dye | 0.00 | NA | 8.77 | 0.36 | XXX
72195 |  | A | Mri pelvis w/o dye | 1.46 | NA | 12.08 | 0.42 | XXX
72195 | 26 | A | Mri pelvis w/o dye | 1.46 | 0.50 | 0.50 | 0.05 | XXX
72195 | TC | A | Mri pelvis w/o dye | 0.00 | NA | 11.58 | 0.37 | XXX
72196 |  | A | Mri pelvis w/dye | 1.73 | NA | 14.48 | 0.48 | XXX
72196 | 26 | A | Mri pelvis w/dye | 1.73 | 0.59 | 0.59 | 0.05 | XXX
72196 | TC | A | Mri pelvis w/dye | 0.00 | NA | 13.89 | 0.43 | XXX
72197 |  | A | Mri pelvis w/o & w dye | 2.26 | NA | 26.49 | 0.84 | XXX
72197 | 26 | A | Mri pelvis w/o & w dye | 2.26 | 0.77 | 0.77 | 0.08 | XXX
72197 | TC | A | Mri pelvis w/o & w dye | 0.00 | NA | 25.72 | 0.76 | XXX
72198 |  | N | Mr angio pelvis w/o&w dye | 1.80 | NA | 12.28 | 0.57 | XXX
72198 | 26 | N | Mr angio pelvis w/o&w dye | 1.80 | 0.70 | 0.70 | 0.08 | XXX
72198 | TC | N | Mr angio pelvis w/o&w dye | 0.00 | NA | 11.58 | 0.49 | XXX
72200 |  | A | X-ray exam sacroiliac joints | 0.17 | NA | 0.60 | 0.03 | XXX
72200 | 26 | A | X-ray exam sacroiliac joints | 0.17 | 0.06 | 0.06 | 0.01 | XXX
72200 | TC | A | X-ray exam sacroiliac joints | 0.00 | NA | 0.54 | 0.02 | XXX
72202 |  | A | X-ray exam sacroiliac joints | 0.19 | NA | 0.70 | 0.04 | XXX
72202 | 26 | A | X-ray exam sacroiliac joints | 0.19 | 0.06 | 0.06 | 0.01 | XXX
72202 | TC | A | X-ray exam sacroiliac joints | 0.00 | NA | 0.64 | 0.03 | XXX
72220 |  | A | X-ray exam of tailbone | 0.17 | NA | 0.65 | 0.04 | XXX
72220 | 26 | A | X-ray exam of tailbone | 0.17 | 0.06 | 0.06 | 0.01 | XXX
72220 | TC | A | X-ray exam of tailbone | 0.00 | NA | 0.59 | 0.03 | XXX
72240 |  | A | Contrast x-ray of neck spine | 0.91 | NA | 5.21 | 0.25 | XXX
72240 | 26 | A | Contrast x-ray of neck spine | 0.91 | 0.30 | 0.30 | 0.04 | XXX
72240 | TC | A | Contrast x-ray of neck spine | 0.00 | NA | 4.91 | 0.21 | XXX
72255 |  | A | Contrast x-ray, thorax spine | 0.91 | NA | 4.76 | 0.22 | XXX
72255 | 26 | A | Contrast x-ray, thorax spine | 0.91 | 0.28 | 0.28 | 0.04 | XXX
72255 | TC | A | Contrast x-ray, thorax spine | 0.00 | NA | 4.48 | 0.18 | XXX
72265 |  | A | Contrast x-ray, lower spine | 0.83 | NA | 4.47 | 0.22 | XXX
72265 | 26 | A | Contrast x-ray, lower spine | 0.83 | 0.26 | 0.26 | 0.04 | XXX
72265 | TC | A | Contrast x-ray, lower spine | 0.00 | NA | 4.21 | 0.18 | XXX
72270 |  | A | Contrast x-ray of spine | 1.33 | NA | 6.74 | 0.34 | XXX
72270 | 26 | A | Contrast x-ray of spine | 1.33 | 0.44 | 0.44 | 0.07 | XXX
72270 | TC | A | Contrast x-ray of spine | 0.00 | NA | 6.31 | 0.27 | XXX
72275 |  | A | Epidurography | 0.76 | NA | 2.38 | 0.21 | XXX
72275 | 26 | A | Epidurography | 0.76 | 0.21 | 0.21 | 0.03 | XXX
72275 | TC | A | Epidurography | 0.00 | NA | 2.17 | 0.18 | XXX
72285 |  | A | X-ray c/t spine disk | 1.16 | NA | 9.03 | 0.42 | XXX
72285 | 26 | A | X-ray c/t spine disk | 1.16 | 0.37 | 0.37 | 0.06 | XXX
72285 | TC | A | X-ray c/t spine disk | 0.00 | NA | 8.66 | 0.36 | XXX
72295 |  | A | X-ray of lower spine disk | 0.83 | NA | 8.40 | 0.37 | XXX
72295 | 26 | A | X-ray of lower spine disk | 0.83 | 0.28 | 0.28 | 0.04 | XXX
72295 | TC | A | X-ray of lower spine disk | 0.00 | NA | 8.12 | 0.33 | XXX
73000 |  | A | X-ray exam of collar bone | 0.16 | NA | 0.59 | 0.03 | XXX
73000 | 26 | A | X-ray exam of collar bone | 0.16 | 0.06 | 0.06 | 0.01 | XXX
73000 | TC | A | X-ray exam of collar bone | 0.00 | NA | 0.54 | 0.02 | XXX
73010 |  | A | X-ray exam of shoulder blade | 0.17 | NA | 0.60 | 0.03 | XXX
73010 | 26 | A | X-ray exam of shoulder blade | 0.17 | 0.06 | 0.06 | 0.01 | XXX
73010 | TC | A | X-ray exam of shoulder blade | 0.00 | NA | 0.54 | 0.02 | XXX
73020 |  | A | X-ray exam of shoulder | 0.15 | NA | 0.54 | 0.03 | XXX
73020 | 26 | A | X-ray exam of shoulder | 0.15 | 0.05 | 0.05 | 0.01 | XXX
73020 | TC | A | X-ray exam of shoulder | 0.00 | NA | 0.49 | 0.02 | XXX
73030 |  | A | X-ray exam of shoulder | 0.18 | NA | 0.65 | 0.04 | XXX
73030 | 26 | A | X-ray exam of shoulder | 0.18 | 0.06 | 0.06 | 0.01 | XXX
73030 | TC | A | X-ray exam of shoulder | 0.00 | NA | 0.59 | 0.03 | XXX
73040 |  | A | Contrast x-ray of shoulder | 0.54 | NA | 2.35 | 0.13 | XXX
73040 | 26 | A | Contrast x-ray of shoulder | 0.54 | 0.18 | 0.18 | 0.03 | XXX
73040 | TC | A | Contrast x-ray of shoulder | 0.00 | NA | 2.17 | 0.10 | XXX
73050 |  | A | X-ray exam of shoulders | 0.20 | NA | 0.76 | 0.05 | XXX
73050 | 26 | A | X-ray exam of shoulders | 0.20 | 0.07 | 0.07 | 0.02 | XXX
73050 | TC | A | X-ray exam of shoulders | 0.00 | NA | 0.69 | 0.03 | XXX
73060 |  | A | X-ray exam of humerus | 0.17 | NA | 0.65 | 0.04 | XXX
73060 | 26 | A | X-ray exam of humerus | 0.17 | 0.06 | 0.06 | 0.01 | XXX
73060 | TC | A | X-ray exam of humerus | 0.00 | NA | 0.59 | 0.03 | XXX
73070 |  | A | X-ray exam of elbow | 0.15 | NA | 0.59 | 0.03 | XXX
73070 | 26 | A | X-ray exam of elbow | 0.15 | 0.05 | 0.05 | 0.01 | XXX
73070 | TC | A | X-ray exam of elbow | 0.00 | NA | 0.54 | 0.02 | XXX
73080 |  | A | X-ray exam of elbow | 0.17 | NA | 0.65 | 0.04 | XXX
73080 | 26 | A | X-ray exam of elbow | 0.17 | 0.06 | 0.06 | 0.01 | XXX
73080 | TC | A | X-ray exam of elbow | 0.00 | NA | 0.59 | 0.03 | XXX
73085 |  | A | Contrast x-ray of elbow | 0.54 | NA | 2.36 | 0.13 | XXX
73085 | 26 | A | Contrast x-ray of elbow | 0.54 | 0.19 | 0.19 | 0.03 | XXX
73085 | TC | A | Contrast x-ray of elbow | 0.00 | NA | 2.17 | 0.10 | XXX
73090 |  | A | X-ray exam of forearm | 0.16 | NA | 0.59 | 0.03 | XXX
73090 | 26 | A | X-ray exam of forearm | 0.16 | 0.05 | 0.05 | 0.01 | XXX
73090 | TC | A | X-ray exam of forearm | 0.00 | NA | 0.54 | 0.02 | XXX
73092 |  | A | X-ray exam of arm, infant | 0.16 | NA | 0.56 | 0.03 | XXX
73092 | 26 | A | X-ray exam of arm, infant | 0.16 | 0.05 | 0.05 | 0.01 | XXX
73092 | TC | A | X-ray exam of arm, infant | 0.00 | NA | 0.51 | 0.02 | XXX
73100 |  | A | X-ray exam of wrist | 0.16 | NA | 0.57 | 0.04 | XXX
73100 | 26 | A | X-ray exam of wrist | 0.16 | 0.06 | 0.06 | 0.02 | XXX
73100 | TC | A | X-ray exam of wrist | 0.00 | NA | 0.51 | 0.02 | XXX
73110 |  | A | X-ray exam of wrist | 0.17 | NA | 0.61 | 0.03 | XXX
73110 | 26 | A | X-ray exam of wrist | 0.17 | 0.06 | 0.06 | 0.01 | XXX
73110 | TC | A | X-ray exam of wrist | 0.00 | NA | 0.55 | 0.02 | XXX
73115 |  | A | Contrast x-ray of wrist | 0.54 | NA | 1.82 | 0.11 | XXX
73115 | 26 | A | Contrast x-ray of wrist | 0.54 | 0.19 | 0.19 | 0.03 | XXX
73115 | TC | A | Contrast x-ray of wrist | 0.00 | NA | 1.63 | 0.08 | XXX
73120 |  | A | X-ray exam of hand | 0.16 | NA | 0.57 | 0.03 | XXX
73120 | 26 | A | X-ray exam of hand | 0.16 | 0.06 | 0.06 | 0.01 | XXX
73120 | TC | A | X-ray exam of hand | 0.00 | NA | 0.51 | 0.02 | XXX
73130 |  | A | X-ray exam of hand | 0.17 | NA | 0.61 | 0.03 | XXX
73130 | 26 | A | X-ray exam of hand | 0.17 | 0.06 | 0.06 | 0.01 | XXX
73130 | TC | A | X-ray exam of hand | 0.00 | NA | 0.55 | 0.02 | XXX
73140 |  | A | X-ray exam of finger(s) | 0.13 | NA | 0.47 | 0.03 | XXX
73140 | 26 | A | X-ray exam of finger(s) | 0.13 | 0.04 | 0.04 | 0.01 | XXX
73140 | TC | A | X-ray exam of finger(s) | 0.00 | NA | 0.43 | 0.02 | XXX
73200 |  | A | Ct upper extremity w/o dye | 1.09 | NA | 5.50 | 0.26 | XXX
73200 | 26 | A | Ct upper extremity w/o dye | 1.09 | 0.37 | 0.37 | 0.05 | XXX
73200 | TC | A | Ct upper extremity w/o dye | 0.00 | NA | 5.13 | 0.21 | XXX
73201 |  | A | Ct upper extremity w/dye | 1.16 | NA | 6.50 | 0.31 | XXX
73201 | 26 | A | Ct upper extremity w/dye | 1.16 | 0.40 | 0.40 | 0.05 | XXX
73201 | TC | A | Ct upper extremity w/dye | 0.00 | NA | 6.11 | 0.26 | XXX
73202 |  | A | Ct uppr extremity w/o&w dye | 1.22 | NA | 8.09 | 0.38 | XXX
73202 | 26 | A | Ct uppr extremity w/o&w dye | 1.22 | 0.42 | 0.42 | 0.06 | XXX
73202 | TC | A | Ct uppr extremity w/o&w dye | 0.00 | NA | 7.67 | 0.32 | XXX
73206 |  | A | Ct angio upr extrm w/o&w dye | 1.81 | NA | 8.37 | 0.38 | XXX
73206 | 26 | A | Ct angio upr extrm w/o&w dye | 1.81 | 0.70 | 0.70 | 0.06 | XXX
73206 | TC | A | Ct angio upr extrm w/o&w dye | 0.00 | NA | 7.67 | 0.32 | XXX
73218 |  | A | Mri upper extremity w/o dye | 1.35 | NA | 12.05 | 0.36 | XXX
73218 | 26 | A | Mri upper extremity w/o dye | 1.35 | 0.46 | 0.46 | 0.04 | XXX
73218 | TC | A | Mri upper extremity w/o dye | 0.00 | NA | 11.58 | 0.32 | XXX
73219 |  | A | Mri upper extremity w/dye | 1.62 | NA | 14.45 | 0.44 | XXX
73219 | 26 | A | Mri upper extremity w/dye | 1.62 | 0.56 | 0.56 | 0.05 | XXX
73219 | TC | A | Mri upper extremity w/dye | 0.00 | NA | 13.89 | 0.39 | XXX
73220 |  | A | Mri uppr extremity w/o&w dye | 2.15 | NA | 26.46 | 0.78 | XXX
73220 | 26 | A | Mri uppr extremity w/o&w dye | 2.15 | 0.74 | 0.74 | 0.08 | XXX
73220 | TC | A | Mri uppr extremity w/o&w dye | 0.00 | NA | 25.72 | 0.70 | XXX
73221 |  | A | Mri joint upr extrem w/o dye | 1.35 | NA | 12.04 | 0.36 | XXX
73221 | 26 | A | Mri joint upr extrem w/o dye | 1.35 | 0.46 | 0.46 | 0.04 | XXX
73221 | TC | A | Mri joint upr extrem w/o dye | 0.00 | NA | 11.58 | 0.32 | XXX
73222 |  | A | Mri joint upr extrem w/ dye | 1.62 | NA | 14.45 | 0.44 | XXX
73222 | 26 | A | Mri joint upr extrem w/ dye | 1.62 | 0.56 | 0.56 | 0.05 | XXX
73222 | TC | A | Mri joint upr extrem w/ dye | 0.00 | NA | 13.89 | 0.39 | XXX
73223 |  | A | Mri joint upr extr w/o&w dye | 2.15 | NA | 26.46 | 0.77 | XXX
73223 | 26 | A | Mri joint upr extr w/o&w dye | 2.15 | 0.74 | 0.74 | 0.07 | XXX
73223 | TC | A | Mri joint upr extr w/o&w dye | 0.00 | NA | 25.72 | 0.70 | XXX
73225 |  | N | Mr angio upr extr w/o&w dye | 1.73 | NA | 12.25 | 0.57 | XXX
73225 | 26 | N | Mr angio upr extr w/o&w dye | 1.73 | 0.67 | 0.67 | 0.08 | XXX
73225 | TC | N | Mr angio upr extr w/o&w dye | 0.00 | NA | 11.58 | 0.49 | XXX
73500 |  | A | X-ray exam of hip | 0.17 | NA | 0.55 | 0.03 | XXX
73500 | 26 | A | X-ray exam of hip | 0.17 | 0.06 | 0.06 | 0.01 | XXX
73500 | TC | A | X-ray exam of hip | 0.00 | NA | 0.49 | 0.02 | XXX
73510 |  | A | X-ray exam of hip | 0.21 | NA | 0.66 | 0.05 | XXX
73510 | 26 | A | X-ray exam of hip | 0.21 | 0.07 | 0.07 | 0.02 | XXX
73510 | TC | A | X-ray exam of hip | 0.00 | NA | 0.59 | 0.03 | XXX
73520 |  | A | X-ray exam of hips | 0.26 | NA | 0.78 | 0.05 | XXX
73520 | 26 | A | X-ray exam of hips | 0.26 | 0.09 | 0.09 | 0.02 | XXX
73520 | TC | A | X-ray exam of hips | 0.00 | NA | 0.69 | 0.03 | XXX
73525 |  | A | Contrast x-ray of hip | 0.54 | NA | 2.35 | 0.13 | XXX
73525 | 26 | A | Contrast x-ray of hip | 0.54 | 0.19 | 0.19 | 0.03 | XXX
73525 | TC | A | Contrast x-ray of hip | 0.00 | NA | 2.17 | 0.10 | XXX
73530 |  | A | X-ray exam of hip | 0.29 | NA | 0.64 | 0.03 | XXX
73530 | 26 | A | X-ray exam of hip | 0.29 | 0.10 | 0.10 | 0.01 | XXX
73530 | TC | A | X-ray exam of hip | 0.00 | NA | 0.54 | 0.02 | XXX
73540 |  | A | X-ray exam of pelvis & hips | 0.20 | NA | 0.66 | 0.05 | XXX
73540 | 26 | A | X-ray exam of pelvis & hips | 0.20 | 0.07 | 0.07 | 0.02 | XXX
73540 | TC | A | X-ray exam of pelvis & hips | 0.00 | NA | 0.59 | 0.03 | XXX
73542 |  | A | X-ray exam, sacroiliac joint | 0.59 | NA | 2.35 | 0.13 | XXX
73542 | 26 | A | X-ray exam, sacroiliac joint | 0.59 | 0.18 | 0.18 | 0.03 | XXX
73542 | TC | A | X-ray exam, sacroiliac joint | 0.00 | NA | 2.17 | 0.10 | XXX
73550 |  | A | X-ray exam of thigh | 0.17 | NA | 0.65 | 0.04 | XXX
73550 | 26 | A | X-ray exam of thigh | 0.17 | 0.06 | 0.06 | 0.01 | XXX
73550 | TC | A | X-ray exam of thigh | 0.00 | NA | 0.59 | 0.03 | XXX
73560 |  | A | X-ray exam of knee, 1 or 2 | 0.17 | NA | 0.60 | 0.04 | XXX
73560 | 26 | A | X-ray exam of knee, 1 or 2 | 0.17 | 0.06 | 0.06 | 0.02 | XXX
73560 | TC | A | X-ray exam of knee, 1 or 2 | 0.00 | NA | 0.54 | 0.02 | XXX
73562 |  | A | X-ray exam of knee, 3 | 0.18 | NA | 0.65 | 0.05 | XXX
73562 | 26 | A | X-ray exam of knee, 3 | 0.18 | 0.06 | 0.06 | 0.02 | XXX
73562 | TC | A | X-ray exam of knee, 3 | 0.00 | NA | 0.59 | 0.03 | XXX
73564 |  | A | X-ray exam, knee, 4 or more | 0.22 | NA | 0.72 | 0.05 | XXX
73564 | 26 | A | X-ray exam, knee, 4 or more | 0.22 | 0.08 | 0.08 | 0.02 | XXX
73564 | TC | A | X-ray exam, knee, 4 or more | 0.00 | NA | 0.64 | 0.03 | XXX
73565 |  | A | X-ray exam of knees | 0.17 | NA | 0.57 | 0.04 | XXX
73565 | 26 | A | X-ray exam of knees | 0.17 | 0.06 | 0.06 | 0.02 | XXX
73565 | TC | A | X-ray exam of knees | 0.00 | NA | 0.51 | 0.02 | XXX
73580 |  | A | Contrast x-ray of knee joint | 0.54 | NA | 2.89 | 0.15 | XXX
73580 | 26 | A | Contrast x-ray of knee joint | 0.54 | 0.18 | 0.18 | 0.03 | XXX
73580 | TC | A | Contrast x-ray of knee joint | 0.00 | NA | 2.71 | 0.12 | XXX
73590 |  | A | X-ray exam of lower leg | 0.17 | NA | 0.60 | 0.03 | XXX
73590 | 26 | A | X-ray exam of lower leg | 0.17 | 0.06 | 0.06 | 0.01 | XXX
73590 | TC | A | X-ray exam of lower leg | 0.00 | NA | 0.54 | 0.02 | XXX
73592 |  | A | X-ray exam of leg, infant | 0.16 | NA | 0.57 | 0.03 | XXX
73592 | 26 | A | X-ray exam of leg, infant | 0.16 | 0.06 | 0.06 | 0.01 | XXX
73592 | TC | A | X-ray exam of leg, infant | 0.00 | NA | 0.51 | 0.02 | XXX
73600 |  | A | X-ray exam of ankle | 0.16 | NA | 0.57 | 0.03 | XXX
73600 | 26 | A | X-ray exam of ankle | 0.16 | 0.06 | 0.06 | 0.01 | XXX
73600 | TC | A | X-ray exam of ankle | 0.00 | NA | 0.51 | 0.02 | XXX
73610 |  | A | X-ray exam of ankle | 0.17 | NA | 0.61 | 0.03 | XXX
73610 | 26 | A | X-ray exam of ankle | 0.17 | 0.06 | 0.06 | 0.01 | XXX
73610 | TC | A | X-ray exam of ankle | 0.00 | NA | 0.55 | 0.02 | XXX
73615 |  | A | Contrast x-ray of ankle | 0.54 | NA | 2.36 | 0.13 | XXX
73615 | 26 | A | Contrast x-ray of ankle | 0.54 | 0.19 | 0.19 | 0.03 | XXX
73615 | TC | A | Contrast x-ray of ankle | 0.00 | NA | 2.17 | 0.10 | XXX
73620 |  | A | X-ray exam of foot | 0.16 | NA | 0.57 | 0.03 | XXX
73620 | 26 | A | X-ray exam of foot | 0.16 | 0.06 | 0.06 | 0.01 | XXX
73620 | TC | A | X-ray exam of foot | 0.00 | NA | 0.51 | 0.02 | XXX
73630 |  | A | X-ray exam of foot | 0.17 | NA | 0.61 | 0.03 | XXX
73630 | 26 | A | X-ray exam of foot | 0.17 | 0.06 | 0.06 | 0.01 | XXX
73630 | TC | A | X-ray exam of foot | 0.00 | NA | 0.55 | 0.02 | XXX
73650 |  | A | X-ray exam of heel | 0.16 | NA | 0.55 | 0.03 | XXX
73650 | 26 | A | X-ray exam of heel | 0.16 | 0.06 | 0.06 | 0.01 | XXX
73650 | TC | A | X-ray exam of heel | 0.00 | NA | 0.49 | 0.02 | XXX
73660 |  | A | X-ray exam of toe(s) | 0.13 | NA | 0.47 | 0.03 | XXX
73660 | 26 | A | X-ray exam of toe(s) | 0.13 | 0.04 | 0.04 | 0.01 | XXX
73660 | TC | A | X-ray exam of toe(s) | 0.00 | NA | 0.43 | 0.02 | XXX
73700 |  | A | Ct lower extremity w/o dye | 1.09 | NA | 5.50 | 0.26 | XXX
73700 | 26 | A | Ct lower extremity w/o dye | 1.09 | 0.37 | 0.37 | 0.05 | XXX
73700 | TC | A | Ct lower extremity w/o dye | 0.00 | NA | 5.13 | 0.21 | XXX
73701 |  | A | Ct lower extremity w/dye | 1.16 | NA | 6.50 | 0.31 | XXX
73701 | 26 | A | Ct lower extremity w/dye | 1.16 | 0.40 | 0.40 | 0.05 | XXX
73701 | TC | A | Ct lower extremity w/dye | 0.00 | NA | 6.11 | 0.26 | XXX
73702 |  | A | Ct lwr extremity w/o&w dye | 1.22 | NA | 8.09 | 0.37 | XXX
73702 | 26 | A | Ct lwr extremity w/o&w dye | 1.22 | 0.42 | 0.42 | 0.05 | XXX
73702 | TC | A | Ct lwr extremity w/o&w dye | 0.00 | NA | 7.67 | 0.32 | XXX
73706 |  | A | Ct angio lwr extr w/o&w dye | 1.90 | NA | 8.41 | 0.38 | XXX
73706 | 26 | A | Ct angio lwr extr w/o&w dye | 1.90 | 0.73 | 0.73 | 0.06 | XXX
73706 | TC | A | Ct angio lwr extr w/o&w dye | 0.00 | NA | 7.67 | 0.32 | XXX
73718 |  | A | Mri lower extremity w/o dye | 1.35 | NA | 12.04 | 0.36 | XXX
73718 | 26 | A | Mri lower extremity w/o dye | 1.35 | 0.46 | 0.46 | 0.04 | XXX
73718 | TC | A | Mri lower extremity w/o dye | 0.00 | NA | 11.58 | 0.32 | XXX
73719 |  | A | Mri lower extremity w/dye | 1.62 | NA | 14.44 | 0.44 | XXX
73719 | 26 | A | Mri lower extremity w/dye | 1.62 | 0.55 | 0.55 | 0.05 | XXX
73719 | TC | A | Mri lower extremity w/dye | 0.00 | NA | 13.89 | 0.39 | XXX
73720 |  | A | Mri lwr extremity w/o&w dye | 2.15 | NA | 26.45 | 0.78 | XXX
73720 | 26 | A | Mri lwr extremity w/o&w dye | 2.15 | 0.74 | 0.74 | 0.08 | XXX
73720 | TC | A | Mri lwr extremity w/o&w dye | 0.00 | NA | 25.72 | 0.70 | XXX
73721 |  | A | Mri joint of lwr extre w/o d | 1.35 | NA | 12.05 | 0.36 | XXX
73721 | 26 | A | Mri joint of lwr extre w/o d | 1.35 | 0.46 | 0.46 | 0.04 | XXX
73721 | TC | A | Mri joint of lwr extre w/o d | 0.00 | NA | 11.58 | 0.32 | XXX
73722 |  | A | Mri joint of lwr extr w/dye | 1.62 | NA | 14.45 | 0.45 | XXX
73722 | 26 | A | Mri joint of lwr extr w/dye | 1.62 | 0.56 | 0.56 | 0.06 | XXX
73722 | TC | A | Mri joint of lwr extr w/dye | 0.00 | NA | 13.89 | 0.39 | XXX
73723 |  | A | Mri joint lwr extr w/o&w dye | 2.15 | NA | 26.46 | 0.77 | XXX
73723 | 26 | A | Mri joint lwr extr w/o&w dye | 2.15 | 0.74 | 0.74 | 0.07 | XXX
73723 | TC | A | Mri joint lwr extr w/o&w dye | 0.00 | NA | 25.72 | 0.70 | XXX
73725 |  | R | Mr ang lwr ext w or w/o dye | 1.82 | NA | 12.20 | 0.57 | XXX
73725 | 26 | R | Mr ang lwr ext w or w/o dye | 1.82 | 0.62 | 0.62 | 0.08 | XXX
73725 | TC | R | Mr ang lwr ext w or w/o dye | 0.00 | NA | 11.58 | 0.49 | XXX
74000 |  | A | X-ray exam of abdomen | 0.18 | NA | 0.60 | 0.03 | XXX
74000 | 26 | A | X-ray exam of abdomen | 0.18 | 0.06 | 0.06 | 0.01 | XXX
74000 | TC | A | X-ray exam of abdomen | 0.00 | NA | 0.54 | 0.02 | XXX
74010 |  | A | X-ray exam of abdomen | 0.23 | NA | 0.67 | 0.04 | XXX
74010 | 26 | A | X-ray exam of abdomen | 0.23 | 0.08 | 0.08 | 0.01 | XXX
74010 | TC | A | X-ray exam of abdomen | 0.00 | NA | 0.59 | 0.03 | XXX
74020 |  | A | X-ray exam of abdomen | 0.27 | NA | 0.73 | 0.04 | XXX
74020 | 26 | A | X-ray exam of abdomen | 0.27 | 0.09 | 0.09 | 0.01 | XXX
74020 | TC | A | X-ray exam of abdomen | 0.00 | NA | 0.64 | 0.03 | XXX
74022 |  | A | X-ray exam series, abdomen | 0.32 | NA | 0.87 | 0.05 | XXX
74022 | 26 | A | X-ray exam series, abdomen | 0.32 | 0.11 | 0.11 | 0.01 | XXX
74022 | TC | A | X-ray exam series, abdomen | 0.00 | NA | 0.76 | 0.04 | XXX
74150 |  | A | Ct abdomen w/o dye | 1.19 | NA | 6.25 | 0.30 | XXX
74150 | 26 | A | Ct abdomen w/o dye | 1.19 | 0.41 | 0.41 | 0.05 | XXX
74150 | TC | A | Ct abdomen w/o dye | 0.00 | NA | 5.85 | 0.25 | XXX
74160 |  | A | Ct abdomen w/dye | 1.27 | NA | 7.51 | 0.36 | XXX
74160 | 26 | A | Ct abdomen w/dye | 1.27 | 0.43 | 0.43 | 0.06 | XXX
74160 | TC | A | Ct abdomen w/dye | 0.00 | NA | 7.07 | 0.30 | XXX
74170 |  | A | Ct abdomen w/o&w dye | 1.40 | NA | 9.25 | 0.42 | XXX
74170 | 26 | A | Ct abdomen w/o&w dye | 1.40 | 0.48 | 0.48 | 0.06 | XXX
74170 | TC | A | Ct abdomen w/o&w dye | 0.00 | NA | 8.77 | 0.36 | XXX
74175 |  | A | Ct angio abdom w/o&w dye | 1.90 | NA | 9.51 | 0.38 | XXX
74175 | 26 | A | Ct angio abdom w/o&w dye | 1.90 | 0.73 | 0.73 | 0.06 | XXX
74175 | TC | A | Ct angio abdom w/o&w dye | 0.00 | NA | 8.77 | 0.32 | XXX
74181 |  | A | Mri abdomen w/o dye | 1.46 | NA | 12.08 | 0.41 | XXX
74181 | 26 | A | Mri abdomen w/o dye | 1.46 | 0.50 | 0.50 | 0.04 | XXX
74181 | TC | A | Mri abdomen w/o dye | 0.00 | NA | 11.58 | 0.37 | XXX
74182 |  | A | Mri abdomen w/dye | 1.73 | NA | 14.48 | 0.49 | XXX
74182 | 26 | A | Mri abdomen w/dye | 1.73 | 0.59 | 0.59 | 0.06 | XXX
74182 | TC | A | Mri abdomen w/dye | 0.00 | NA | 13.89 | 0.43 | XXX
74183 |  | A | Mri abdomen w/o&w dye | 2.26 | NA | 26.49 | 0.84 | XXX
74183 | 26 | A | Mri abdomen w/o&w dye | 2.26 | 0.77 | 0.77 | 0.08 | XXX
74183 | TC | A | Mri abdomen w/o&w dye | 0.00 | NA | 25.72 | 0.76 | XXX
74185 |  | R | Mri angio, abdom w or w/o dy | 1.80 | NA | 12.20 | 0.57 | XXX
74185 | 26 | R | Mri angio, abdom w or w/o dy | 1.80 | 0.62 | 0.62 | 0.08 | XXX
74185 | TC | R | Mri angio, abdom w or w/o dy | 0.00 | NA | 11.58 | 0.49 | XXX
74190 |  | A | X-ray exam of peritoneum | 0.48 | NA | 1.51 | 0.08 | XXX
74190 | 26 | A | X-ray exam of peritoneum | 0.48 | 0.16 | 0.16 | 0.02 | XXX
74190 | TC | A | X-ray exam of peritoneum | 0.00 | NA | 1.35 | 0.06 | XXX
74210 |  | A | Contrst x-ray exam of throat | 0.36 | NA | 1.35 | 0.07 | XXX
74210 | 26 | A | Contrst x-ray exam of throat | 0.36 | 0.12 | 0.12 | 0.02 | XXX
74210 | TC | A | Contrst x-ray exam of throat | 0.00 | NA | 1.23 | 0.05 | XXX
74220 |  | A | Contrast x-ray, esophagus | 0.46 | NA | 1.39 | 0.07 | XXX
74220 | 26 | A | Contrast x-ray, esophagus | 0.46 | 0.16 | 0.16 | 0.02 | XXX
74220 | TC | A | Contrast x-ray, esophagus | 0.00 | NA | 1.23 | 0.05 | XXX
74230 |  | A | Cine/video x-ray, throat/eso | 0.53 | NA | 1.53 | 0.08 | XXX
74230 | 26 | A | Cine/video x-ray, throat/eso | 0.53 | 0.18 | 0.18 | 0.02 | XXX
74230 | TC | A | Cine/video x-ray, throat/eso | 0.00 | NA | 1.35 | 0.06 | XXX
74235 |  | A | Remove esophagus obstruction | 1.19 | NA | 3.11 | 0.17 | XXX
74235 | 26 | A | Remove esophagus obstruction | 1.19 | 0.41 | 0.41 | 0.05 | XXX
74235 | TC | A | Remove esophagus obstruction | 0.00 | NA | 2.71 | 0.12 | XXX
74240 |  | A | X-ray exam, upper gi tract | 0.69 | NA | 1.74 | 0.10 | XXX
74240 | 26 | A | X-ray exam, upper gi tract | 0.69 | 0.24 | 0.24 | 0.03 | XXX
74240 | TC | A | X-ray exam, upper gi tract | 0.00 | NA | 1.51 | 0.07 | XXX
74241 |  | A | X-ray exam, upper gi tract | 0.69 | NA | 1.77 | 0.10 | XXX
74241 | 26 | A | X-ray exam, upper gi tract | 0.69 | 0.23 | 0.23 | 0.03 | XXX
74241 | TC | A | X-ray exam, upper gi tract | 0.00 | NA | 1.54 | 0.07 | XXX
74245 |  | A | X-ray exam, upper gi tract | 0.91 | NA | 2.77 | 0.15 | XXX
74245 | 26 | A | X-ray exam, upper gi tract | 0.91 | 0.31 | 0.31 | 0.04 | XXX
74245 | TC | A | X-ray exam, upper gi tract | 0.00 | NA | 2.46 | 0.11 | XXX
74246 |  | A | Contrst x-ray uppr gi tract | 0.69 | NA | 1.93 | 0.11 | XXX
74246 | 26 | A | Contrst x-ray uppr gi tract | 0.69 | 0.24 | 0.24 | 0.03 | XXX
74246 | TC | A | Contrst x-ray uppr gi tract | 0.00 | NA | 1.70 | 0.08 | XXX
74247 |  | A | Contrst x-ray uppr gi tract | 0.69 | NA | 1.97 | 0.12 | XXX
74247 | 26 | A | Contrst x-ray uppr gi tract | 0.69 | 0.24 | 0.24 | 0.03 | XXX
74247 | TC | A | Contrst x-ray uppr gi tract | 0.00 | NA | 1.74 | 0.09 | XXX
74249 |  | A | Contrst x-ray uppr gi tract | 0.91 | NA | 2.97 | 0.16 | XXX
74249 | 26 | A | Contrst x-ray uppr gi tract | 0.91 | 0.31 | 0.31 | 0.04 | XXX
74249 | TC | A | Contrst x-ray uppr gi tract | 0.00 | NA | 2.66 | 0.12 | XXX
74250 |  | A | X-ray exam of small bowel | 0.47 | NA | 1.51 | 0.08 | XXX
74250 | 26 | A | X-ray exam of small bowel | 0.47 | 0.16 | 0.16 | 0.02 | XXX
74250 | TC | A | X-ray exam of small bowel | 0.00 | NA | 1.35 | 0.06 | XXX
74251 |  | A | X-ray exam of small bowel | 0.69 | NA | 1.58 | 0.09 | XXX
74251 | 26 | A | X-ray exam of small bowel | 0.69 | 0.24 | 0.24 | 0.03 | XXX
74251 | TC | A | X-ray exam of small bowel | 0.00 | NA | 1.35 | 0.06 | XXX
74260 |  | A | X-ray exam of small bowel | 0.50 | NA | 1.71 | 0.09 | XXX
74260 | 26 | A | X-ray exam of small bowel | 0.50 | 0.17 | 0.17 | 0.02 | XXX
74260 | TC | A | X-ray exam of small bowel | 0.00 | NA | 1.54 | 0.07 | XXX
74270 |  | A | Contrast x-ray exam of colon | 0.69 | NA | 1.99 | 0.12 | XXX
74270 | 26 | A | Contrast x-ray exam of colon | 0.69 | 0.24 | 0.24 | 0.03 | XXX
74270 | TC | A | Contrast x-ray exam of colon | 0.00 | NA | 1.76 | 0.09 | XXX
74280 |  | A | Contrast x-ray exam of colon | 0.99 | NA | 2.65 | 0.15 | XXX
74280 | 26 | A | Contrast x-ray exam of colon | 0.99 | 0.34 | 0.34 | 0.04 | XXX
74280 | TC | A | Contrast x-ray exam of colon | 0.00 | NA | 2.31 | 0.11 | XXX
74283 |  | A | Contrast x-ray exam of colon | 2.02 | NA | 3.34 | 0.21 | XXX
74283 | 26 | A | Contrast x-ray exam of colon | 2.02 | 0.69 | 0.69 | 0.09 | XXX
74283 | TC | A | Contrast x-ray exam of colon | 0.00 | NA | 2.65 | 0.12 | XXX
74290 |  | A | Contrast x-ray, gallbladder | 0.32 | NA | 0.87 | 0.05 | XXX
74290 | 26 | A | Contrast x-ray, gallbladder | 0.32 | 0.11 | 0.11 | 0.01 | XXX
74290 | TC | A | Contrast x-ray, gallbladder | 0.00 | NA | 0.76 | 0.04 | XXX
74291 |  | A | Contrast x-rays, gallbladder | 0.20 | NA | 0.50 | 0.03 | XXX
74291 | 26 | A | Contrast x-rays, gallbladder | 0.20 | 0.07 | 0.07 | 0.01 | XXX
74291 | TC | A | Contrast x-rays, gallbladder | 0.00 | NA | 0.43 | 0.02 | XXX
74300 |  | C | X-ray bile ducts/pancreas | 0.00 | 0.00 | 0.00 | 0.00 | XXX
74300 | 26 | A | X-ray bile ducts/pancreas | 0.36 | 0.12 | 0.12 | 0.02 | XXX
74300 | TC | C | X-ray bile ducts/pancreas | 0.00 | 0.00 | 0.00 | 0.00 | XXX
74301 |  | C | X-rays at surgery add-on | 0.00 | 0.00 | 0.00 | 0.00 | ZZZ
74301 | 26 | A | X-rays at surgery add-on | 0.21 | 0.07 | 0.07 | 0.01 | ZZZ
74301 | TC | C | X-rays at surgery add-on | 0.00 | 0.00 | 0.00 | 0.00 | ZZZ
74305 |  | A | X-ray bile ducts/pancreas | 0.42 | NA | 0.95 | 0.06 | XXX
74305 | 26 | A | X-ray bile ducts/pancreas | 0.42 | 0.14 | 0.14 | 0.02 | XXX
74305 | TC | A | X-ray bile ducts/pancreas | 0.00 | NA | 0.81 | 0.04 | XXX
74320 |  | A | Contrast x-ray of bile ducts | 0.54 | NA | 3.44 | 0.16 | XXX
74320 | 26 | A | Contrast x-ray of bile ducts | 0.54 | 0.18 | 0.18 | 0.02 | XXX
74320 | TC | A | Contrast x-ray of bile ducts | 0.00 | NA | 3.26 | 0.14 | XXX
74327 |  | A | X-ray bile stone removal | 0.70 | NA | 2.06 | 0.12 | XXX
74327 | 26 | A | X-ray bile stone removal | 0.70 | 0.24 | 0.24 | 0.03 | XXX
74327 | TC | A | X-ray bile stone removal | 0.00 | NA | 1.82 | 0.09 | XXX
74328 |  | A | Xray bile duct endoscopy | 0.70 | NA | 3.50 | 0.17 | XXX
74328 | 26 | A | Xray bile duct endoscopy | 0.70 | 0.24 | 0.24 | 0.03 | XXX
74328 | TC | A | Xray bile duct endoscopy | 0.00 | NA | 3.26 | 0.14 | XXX
74329 |  | A | X-ray for pancreas endoscopy | 0.70 | NA | 3.50 | 0.17 | XXX
74329 | 26 | A | X-ray for pancreas endoscopy | 0.70 | 0.24 | 0.24 | 0.03 | XXX
74329 | TC | A | X-ray for pancreas endoscopy | 0.00 | NA | 3.26 | 0.14 | XXX
74330 |  | A | X-ray bile/panc endoscopy | 0.90 | NA | 3.56 | 0.18 | XXX
74330 | 26 | A | X-ray bile/panc endoscopy | 0.90 | 0.31 | 0.31 | 0.04 | XXX
74330 | TC | A | X-ray bile/panc endoscopy | 0.00 | NA | 3.26 | 0.14 | XXX
74340 |  | A | X-ray guide for GI tube | 0.54 | NA | 2.89 | 0.14 | XXX
74340 | 26 | A | X-ray guide for GI tube | 0.54 | 0.18 | 0.18 | 0.02 | XXX
74340 | TC | A | X-ray guide for GI tube | 0.00 | NA | 2.71 | 0.12 | XXX
74350 |  | A | X-ray guide, stomach tube | 0.76 | NA | 3.52 | 0.17 | XXX
74350 | 26 | A | X-ray guide, stomach tube | 0.76 | 0.26 | 0.26 | 0.03 | XXX
74350 | TC | A | X-ray guide, stomach tube | 0.00 | NA | 3.26 | 0.14 | XXX
74355 |  | A | X-ray guide, intestinal tube | 0.76 | NA | 2.96 | 0.15 | XXX
74355 | 26 | A | X-ray guide, intestinal tube | 0.76 | 0.26 | 0.26 | 0.03 | XXX
74355 | TC | A | X-ray guide, intestinal tube | 0.00 | NA | 2.71 | 0.12 | XXX
74360 |  | A | X-ray guide, GI dilation | 0.54 | NA | 3.45 | 0.16 | XXX
74360 | 26 | A | X-ray guide, GI dilation | 0.54 | 0.19 | 0.19 | 0.02 | XXX
74360 | TC | A | X-ray guide, GI dilation | 0.00 | NA | 3.26 | 0.14 | XXX
74363 |  | A | X-ray, bile duct dilation | 0.88 | NA | 6.60 | 0.31 | XXX
74363 | 26 | A | X-ray, bile duct dilation | 0.88 | 0.30 | 0.30 | 0.04 | XXX
74363 | TC | A | X-ray, bile duct dilation | 0.00 | NA | 6.31 | 0.27 | XXX
74400 |  | A | Contrst x-ray, urinary tract | 0.49 | NA | 1.91 | 0.11 | XXX
74400 | 26 | A | Contrst x-ray, urinary tract | 0.49 | 0.17 | 0.17 | 0.02 | XXX
74400 | TC | A | Contrst x-ray, urinary tract | 0.00 | NA | 1.74 | 0.09 | XXX
74410 |  | A | Contrst x-ray, urinary tract | 0.49 | NA | 2.19 | 0.11 | XXX
74410 | 26 | A | Contrst x-ray, urinary tract | 0.49 | 0.17 | 0.17 | 0.02 | XXX
74410 | TC | A | Contrst x-ray, urinary tract | 0.00 | NA | 2.02 | 0.09 | XXX
74415 |  | A | Contrst x-ray, urinary tract | 0.49 | NA | 2.36 | 0.12 | XXX
74415 | 26 | A | Contrst x-ray, urinary tract | 0.49 | 0.17 | 0.17 | 0.02 | XXX
74415 | TC | A | Contrst x-ray, urinary tract | 0.00 | NA | 2.19 | 0.10 | XXX
74420 |  | A | Contrst x-ray, urinary tract | 0.36 | NA | 2.83 | 0.14 | XXX
74420 | 26 | A | Contrst x-ray, urinary tract | 0.36 | 0.12 | 0.12 | 0.02 | XXX
74420 | TC | A | Contrst x-ray, urinary tract | 0.00 | NA | 2.71 | 0.12 | XXX
74425 |  | A | Contrst x-ray, urinary tract | 0.36 | NA | 1.47 | 0.08 | XXX
74425 | 26 | A | Contrst x-ray, urinary tract | 0.36 | 0.12 | 0.12 | 0.02 | XXX
74425 | TC | A | Contrst x-ray, urinary tract | 0.00 | NA | 1.35 | 0.06 | XXX
74430 |  | A | Contrast x-ray, bladder | 0.32 | NA | 1.20 | 0.07 | XXX
74430 | 26 | A | Contrast x-ray, bladder | 0.32 | 0.11 | 0.11 | 0.02 | XXX
74430 | TC | A | Contrast x-ray, bladder | 0.00 | NA | 1.09 | 0.05 | XXX
74440 |  | A | X-ray, male genital tract | 0.38 | NA | 1.30 | 0.07 | XXX
74440 | 26 | A | X-ray, male genital tract | 0.38 | 0.13 | 0.13 | 0.02 | XXX
74440 | TC | A | X-ray, male genital tract | 0.00 | NA | 1.17 | 0.05 | XXX
74445 |  | A | X-ray exam of penis | 1.14 | NA | 1.55 | 0.10 | XXX
74445 | 26 | A | X-ray exam of penis | 1.14 | 0.38 | 0.38 | 0.05 | XXX
74445 | TC | A | X-ray exam of penis | 0.00 | NA | 1.17 | 0.05 | XXX
74450 |  | A | X-ray, urethra/bladder | 0.33 | NA | 1.62 | 0.09 | XXX
74450 | 26 | A | X-ray, urethra/bladder | 0.33 | 0.11 | 0.11 | 0.02 | XXX
74450 | TC | A | X-ray, urethra/bladder | 0.00 | NA | 1.51 | 0.07 | XXX
74455 |  | A | X-ray, urethra/bladder | 0.33 | NA | 1.74 | 0.10 | XXX
74455 | 26 | A | X-ray, urethra/bladder | 0.33 | 0.11 | 0.11 | 0.02 | XXX
74455 | TC | A | X-ray, urethra/bladder | 0.00 | NA | 1.63 | 0.08 | XXX
74470 |  | A | X-ray exam of kidney lesion | 0.54 | NA | 1.47 | 0.08 | XXX
74470 | 26 | A | X-ray exam of kidney lesion | 0.54 | 0.18 | 0.18 | 0.02 | XXX
74470 | TC | A | X-ray exam of kidney lesion | 0.00 | NA | 1.29 | 0.06 | XXX
74475 |  | A | X-ray control, cath insert | 0.54 | NA | 4.39 | 0.20 | XXX
74475 | 26 | A | X-ray control, cath insert | 0.54 | 0.18 | 0.18 | 0.02 | XXX
74475 | TC | A | X-ray control, cath insert | 0.00 | NA | 4.21 | 0.18 | XXX
74480 |  | A | X-ray control, cath insert | 0.54 | NA | 4.39 | 0.20 | XXX
74480 | 26 | A | X-ray control, cath insert | 0.54 | 0.18 | 0.18 | 0.02 | XXX
74480 | TC | A | X-ray control, cath insert | 0.00 | NA | 4.21 | 0.18 | XXX
74485 |  | A | X-ray guide, GU dilation | 0.54 | NA | 3.44 | 0.17 | XXX
74485 | 26 | A | X-ray guide, GU dilation | 0.54 | 0.18 | 0.18 | 0.03 | XXX
74485 | TC | A | X-ray guide, GU dilation | 0.00 | NA | 3.26 | 0.14 | XXX
74710 |  | A | X-ray measurement of pelvis | 0.34 | NA | 1.21 | 0.07 | XXX
74710 | 26 | A | X-ray measurement of pelvis | 0.34 | 0.12 | 0.12 | 0.02 | XXX
74710 | TC | A | X-ray measurement of pelvis | 0.00 | NA | 1.09 | 0.05 | XXX
74740 |  | A | X-ray, female genital tract | 0.38 | NA | 1.48 | 0.08 | XXX
74740 | 26 | A | X-ray, female genital tract | 0.38 | 0.13 | 0.13 | 0.02 | XXX
74740 | TC | A | X-ray, female genital tract | 0.00 | NA | 1.35 | 0.06 | XXX
74742 |  | A | X-ray, fallopian tube | 0.61 | NA | 3.47 | 0.16 | XXX
74742 | 26 | A | X-ray, fallopian tube | 0.61 | 0.21 | 0.21 | 0.02 | XXX
74742 | TC | A | X-ray, fallopian tube | 0.00 | NA | 3.26 | 0.14 | XXX
74775 |  | A | X-ray exam of perineum | 0.62 | NA | 1.72 | 0.10 | XXX
74775 | 26 | A | X-ray exam of perineum | 0.62 | 0.22 | 0.22 | 0.03 | XXX
74775 | TC | A | X-ray exam of perineum | 0.00 | NA | 1.51 | 0.07 | XXX
75552 |  | A | Heart mri for morph w/o dye | 1.60 | NA | 12.13 | 0.56 | XXX
75552 | 26 | A | Heart mri for morph w/o dye | 1.60 | 0.55 | 0.55 | 0.07 | XXX
75552 | TC | A | Heart mri for morph w/o dye | 0.00 | NA | 11.58 | 0.49 | XXX
75553 |  | A | Heart mri for morph w/dye | 2.00 | NA | 12.26 | 0.58 | XXX
75553 | 26 | A | Heart mri for morph w/dye | 2.00 | 0.68 | 0.68 | 0.09 | XXX
75553 | TC | A | Heart mri for morph w/dye | 0.00 | NA | 11.58 | 0.49 | XXX
75554 |  | A | Cardiac MRI/function | 1.83 | NA | 12.25 | 0.56 | XXX
75554 | 26 | A | Cardiac MRI/function | 1.83 | 0.67 | 0.67 | 0.07 | XXX
75554 | TC | A | Cardiac MRI/function | 0.00 | NA | 11.58 | 0.49 | XXX
75555 |  | A | Cardiac MRI/limited study | 1.74 | NA | 12.24 | 0.56 | XXX
75555 | 26 | A | Cardiac MRI/limited study | 1.74 | 0.66 | 0.66 | 0.07 | XXX
75555 | TC | A | Cardiac MRI/limited study | 0.00 | NA | 11.58 | 0.49 | XXX
75556 |  | N | Cardiac MRI/flow mapping | 0.00 | 0.00 | 0.00 | 0.00 | XXX
75600 |  | A | Contrast x-ray exam of aorta | 0.49 | NA | 13.21 | 0.56 | XXX
75600 | 26 | A | Contrast x-ray exam of aorta | 0.49 | 0.19 | 0.19 | 0.02 | XXX
75600 | TC | A | Contrast x-ray exam of aorta | 0.00 | NA | 13.02 | 0.54 | XXX
75605 |  | A | Contrast x-ray exam of aorta | 1.14 | NA | 13.43 | 0.59 | XXX
75605 | 26 | A | Contrast x-ray exam of aorta | 1.14 | 0.41 | 0.41 | 0.05 | XXX
75605 | TC | A | Contrast x-ray exam of aorta | 0.00 | NA | 13.02 | 0.54 | XXX
75625 |  | A | Contrast x-ray exam of aorta | 1.14 | NA | 13.41 | 0.59 | XXX
75625 | 26 | A | Contrast x-ray exam of aorta | 1.14 | 0.39 | 0.39 | 0.05 | XXX
75625 | TC | A | Contrast x-ray exam of aorta | 0.00 | NA | 13.02 | 0.54 | XXX
75630 |  | A | X-ray aorta, leg arteries | 1.79 | NA | 14.21 | 0.65 | XXX
75630 | 26 | A | X-ray aorta, leg arteries | 1.79 | 0.64 | 0.64 | 0.08 | XXX
75630 | TC | A | X-ray aorta, leg arteries | 0.00 | NA | 13.57 | 0.57 | XXX
75635 |  | A | Ct angio abdominal arteries | 2.40 | NA | 9.70 | 0.41 | XXX
75635 | 26 | A | Ct angio abdominal arteries | 2.40 | 0.93 | 0.93 | 0.09 | XXX
75635 | TC | A | Ct angio abdominal arteries | 0.00 | NA | 8.77 | 0.32 | XXX
75650 |  | A | Artery x-rays, head & neck | 1.49 | NA | 13.53 | 0.61 | XXX
75650 | 26 | A | Artery x-rays, head & neck | 1.49 | 0.51 | 0.51 | 0.07 | XXX
75650 | TC | A | Artery x-rays, head & neck | 0.00 | NA | 13.02 | 0.54 | XXX
75658 |  | A | Artery x-rays, arm | 1.31 | NA | 13.51 | 0.60 | XXX
75658 | 26 | A | Artery x-rays, arm | 1.31 | 0.49 | 0.49 | 0.06 | XXX
75658 | TC | A | Artery x-rays, arm | 0.00 | NA | 13.02 | 0.54 | XXX
75660 |  | A | Artery x-rays, head & neck | 1.31 | NA | 13.48 | 0.60 | XXX
75660 | 26 | A | Artery x-rays, head & neck | 1.31 | 0.46 | 0.46 | 0.06 | XXX
75660 | TC | A | Artery x-rays, head & neck | 0.00 | NA | 13.02 | 0.54 | XXX
75662 |  | A | Artery x-rays, head & neck | 1.66 | NA | 13.63 | 0.62 | XXX
75662 | 26 | A | Artery x-rays, head & neck | 1.66 | 0.61 | 0.61 | 0.08 | XXX
75662 | TC | A | Artery x-rays, head & neck | 0.00 | NA | 13.02 | 0.54 | XXX
75665 |  | A | Artery x-rays, head & neck | 1.31 | NA | 13.47 | 0.61 | XXX
75665 | 26 | A | Artery x-rays, head & neck | 1.31 | 0.46 | 0.46 | 0.07 | XXX
75665 | TC | A | Artery x-rays, head & neck | 0.00 | NA | 13.02 | 0.54 | XXX
75671 |  | A | Artery x-rays, head & neck | 1.66 | NA | 13.59 | 0.62 | XXX
75671 | 26 | A | Artery x-rays, head & neck | 1.66 | 0.57 | 0.57 | 0.08 | XXX
75671 | TC | A | Artery x-rays, head & neck | 0.00 | NA | 13.02 | 0.54 | XXX
75676 |  | A | Artery x-rays, neck | 1.31 | NA | 13.48 | 0.61 | XXX
75676 | 26 | A | Artery x-rays, neck | 1.31 | 0.46 | 0.46 | 0.07 | XXX
75676 | TC | A | Artery x-rays, neck | 0.00 | NA | 13.02 | 0.54 | XXX
75680 |  | A | Artery x-rays, neck | 1.66 | NA | 13.59 | 0.62 | XXX
75680 | 26 | A | Artery x-rays, neck | 1.66 | 0.57 | 0.57 | 0.08 | XXX
75680 | TC | A | Artery x-rays, neck | 0.00 | NA | 13.02 | 0.54 | XXX
75685 |  | A | Artery x-rays, spine | 1.31 | NA | 13.47 | 0.60 | XXX
75685 | 26 | A | Artery x-rays, spine | 1.31 | 0.45 | 0.45 | 0.06 | XXX
75685 | TC | A | Artery x-rays, spine | 0.00 | NA | 13.02 | 0.54 | XXX
75705 |  | A | Artery x-rays, spine | 2.18 | NA | 13.78 | 0.65 | XXX
75705 | 26 | A | Artery x-rays, spine | 2.18 | 0.76 | 0.76 | 0.11 | XXX
75705 | TC | A | Artery x-rays, spine | 0.00 | NA | 13.02 | 0.54 | XXX
75710 |  | A | Artery x-rays, arm/leg | 1.14 | NA | 13.42 | 0.60 | XXX
75710 | 26 | A | Artery x-rays, arm/leg | 1.14 | 0.40 | 0.40 | 0.06 | XXX
75710 | TC | A | Artery x-rays, arm/leg | 0.00 | NA | 13.02 | 0.54 | XXX
75716 |  | A | Artery x-rays, arms/legs | 1.31 | NA | 13.47 | 0.60 | XXX
75716 | 26 | A | Artery x-rays, arms/legs | 1.31 | 0.45 | 0.45 | 0.06 | XXX
75716 | TC | A | Artery x-rays, arms/legs | 0.00 | NA | 13.02 | 0.54 | XXX
75722 |  | A | Artery x-rays, kidney | 1.14 | NA | 13.43 | 0.59 | XXX
75722 | 26 | A | Artery x-rays, kidney | 1.14 | 0.41 | 0.41 | 0.05 | XXX
75722 | TC | A | Artery x-rays, kidney | 0.00 | NA | 13.02 | 0.54 | XXX
75724 |  | A | Artery x-rays, kidneys | 1.49 | NA | 13.60 | 0.59 | XXX
75724 | 26 | A | Artery x-rays, kidneys | 1.49 | 0.58 | 0.58 | 0.05 | XXX
75724 | TC | A | Artery x-rays, kidneys | 0.00 | NA | 13.02 | 0.54 | XXX
75726 |  | A | Artery x-rays, abdomen | 1.14 | NA | 13.41 | 0.59 | XXX
75726 | 26 | A | Artery x-rays, abdomen | 1.14 | 0.39 | 0.39 | 0.05 | XXX
75726 | TC | A | Artery x-rays, abdomen | 0.00 | NA | 13.02 | 0.54 | XXX
75731 |  | A | Artery x-rays, adrenal gland | 1.14 | NA | 13.41 | 0.59 | XXX
75731 | 26 | A | Artery x-rays, adrenal gland | 1.14 | 0.39 | 0.39 | 0.05 | XXX
75731 | TC | A | Artery x-rays, adrenal gland | 0.00 | NA | 13.02 | 0.54 | XXX
75733 |  | A | Artery x-rays, adrenals | 1.31 | NA | 13.48 | 0.60 | XXX
75733 | 26 | A | Artery x-rays, adrenals | 1.31 | 0.46 | 0.46 | 0.06 | XXX
75733 | TC | A | Artery x-rays, adrenals | 0.00 | NA | 13.02 | 0.54 | XXX
75736 |  | A | Artery x-rays, pelvis | 1.14 | NA | 13.41 | 0.59 | XXX
75736 | 26 | A | Artery x-rays, pelvis | 1.14 | 0.39 | 0.39 | 0.05 | XXX
75736 | TC | A | Artery x-rays, pelvis | 0.00 | NA | 13.02 | 0.54 | XXX
75741 |  | A | Artery x-rays, lung | 1.31 | NA | 13.47 | 0.60 | XXX
75741 | 26 | A | Artery x-rays, lung | 1.31 | 0.45 | 0.45 | 0.06 | XXX
75741 | TC | A | Artery x-rays, lung | 0.00 | NA | 13.02 | 0.54 | XXX
75743 |  | A | Artery x-rays, lungs | 1.66 | NA | 13.58 | 0.61 | XXX
75743 | 26 | A | Artery x-rays, lungs | 1.66 | 0.57 | 0.57 | 0.07 | XXX
75743 | TC | A | Artery x-rays, lungs | 0.00 | NA | 13.02 | 0.54 | XXX
75746 |  | A | Artery x-rays, lung | 1.14 | NA | 13.41 | 0.59 | XXX
75746 | 26 | A | Artery x-rays, lung | 1.14 | 0.39 | 0.39 | 0.05 | XXX
75746 | TC | A | Artery x-rays, lung | 0.00 | NA | 13.02 | 0.54 | XXX
75756 |  | A | Artery x-rays, chest | 1.14 | NA | 13.48 | 0.58 | XXX
75756 | 26 | A | Artery x-rays, chest | 1.14 | 0.46 | 0.46 | 0.04 | XXX
75756 | TC | A | Artery x-rays, chest | 0.00 | NA | 13.02 | 0.54 | XXX
75774 |  | A | Artery x-ray, each vessel | 0.36 | NA | 13.15 | 0.56 | ZZZ
75774 | 26 | A | Artery x-ray, each vessel | 0.36 | 0.13 | 0.13 | 0.02 | ZZZ
75774 | TC | A | Artery x-ray, each vessel | 0.00 | NA | 13.02 | 0.54 | ZZZ
75790 |  | A | Visualize A-V shunt | 1.84 | NA | 2.02 | 0.16 | XXX
75790 | 26 | A | Visualize A-V shunt | 1.84 | 0.63 | 0.63 | 0.09 | XXX
75790 | TC | A | Visualize A-V shunt | 0.00 | NA | 1.40 | 0.07 | XXX
75801 |  | A | Lymph vessel x-ray, arm/leg | 0.81 | NA | 5.87 | 0.29 | XXX
75801 | 26 | A | Lymph vessel x-ray, arm/leg | 0.81 | 0.28 | 0.28 | 0.05 | XXX
75801 | TC | A | Lymph vessel x-ray, arm/leg | 0.00 | NA | 5.60 | 0.24 | XXX
75803 |  | A | Lymph vessel x-ray, arms/legs | 1.17 | NA | 5.99 | 0.29 | XXX
75803 | 26 | A | Lymph vessel x-ray, arms/legs | 1.17 | 0.40 | 0.40 | 0.05 | XXX
75803 | TC | A | Lymph vessel x-ray, arms/legs | 0.00 | NA | 5.60 | 0.24 | XXX
75805 |  | A | Lymph vessel x-ray, trunk | 0.81 | NA | 6.58 | 0.31 | XXX
75805 | 26 | A | Lymph vessel x-ray, trunk | 0.81 | 0.28 | 0.28 | 0.04 | XXX
75805 | TC | A | Lymph vessel x-ray, trunk | 0.00 | NA | 6.31 | 0.27 | XXX
75807 |  | A | Lymph vessel x-ray, trunk | 1.17 | NA | 6.70 | 0.32 | XXX
75807 | 26 | A | Lymph vessel x-ray, trunk | 1.17 | 0.40 | 0.40 | 0.05 | XXX
75807 | TC | A | Lymph vessel x-ray, trunk | 0.00 | NA | 6.31 | 0.27 | XXX
75809 |  | A | Nonvascular shunt, x-ray | 0.47 | NA | 0.97 | 0.06 | XXX
75809 | 26 | A | Nonvascular shunt, x-ray | 0.47 | 0.16 | 0.16 | 0.02 | XXX
75809 | TC | A | Nonvascular shunt, x-ray | 0.00 | NA | 0.81 | 0.04 | XXX
75810 |  | A | Vein x-ray, spleen/liver | 1.14 | NA | 13.41 | 0.60 | XXX
75810 | 26 | A | Vein x-ray, spleen/liver | 1.14 | 0.39 | 0.39 | 0.06 | XXX
75810 | TC | A | Vein x-ray, spleen/liver | 0.00 | NA | 13.02 | 0.54 | XXX
75820 |  | A | Vein x-ray, arm/leg | 0.70 | NA | 1.22 | 0.08 | XXX
75820 | 26 | A | Vein x-ray, arm/leg | 0.70 | 0.24 | 0.24 | 0.03 | XXX
75820 | TC | A | Vein x-ray, arm/leg | 0.00 | NA | 0.98 | 0.05 | XXX
75822 |  | A | Vein x-ray, arms/legs | 1.06 | NA | 1.89 | 0.12 | XXX
75822 | 26 | A | Vein x-ray, arms/legs | 1.06 | 0.36 | 0.36 | 0.05 | XXX
75822 | TC | A | Vein x-ray, arms/legs | 0.00 | NA | 1.53 | 0.07 | XXX
75825 |  | A | Vein x-ray, trunk | 1.14 | NA | 13.41 | 0.60 | XXX
75825 | 26 | A | Vein x-ray, trunk | 1.14 | 0.39 | 0.39 | 0.06 | XXX
75825 | TC | A | Vein x-ray, trunk | 0.00 | NA | 13.02 | 0.54 | XXX
75827 |  | A | Vein x-ray, chest | 1.14 | NA | 13.41 | 0.59 | XXX
75827 | 26 | A | Vein x-ray, chest | 1.14 | 0.39 | 0.39 | 0.05 | XXX
75827 | TC | A | Vein x-ray, chest | 0.00 | NA | 13.02 | 0.54 | XXX
75831 |  | A | Vein x-ray, kidney | 1.14 | NA | 13.40 | 0.59 | XXX
75831 | 26 | A | Vein x-ray, kidney | 1.14 | 0.38 | 0.38 | 0.05 | XXX
75831 | TC | A | Vein x-ray, kidney | 0.00 | NA | 13.02 | 0.54 | XXX
75833 |  | A | Vein x-ray, kidneys | 1.49 | NA | 13.53 | 0.61 | XXX
75833 | 26 | A | Vein x-ray, kidneys | 1.49 | 0.51 | 0.51 | 0.07 | XXX
75833 | TC | A | Vein x-ray, kidneys | 0.00 | NA | 13.02 | 0.54 | XXX
75840 |  | A | Vein x-ray, adrenal gland | 1.14 | NA | 13.41 | 0.61 | XXX
75840 | 26 | A | Vein x-ray, adrenal gland | 1.14 | 0.39 | 0.39 | 0.07 | XXX
75840 | TC | A | Vein x-ray, adrenal gland | 0.00 | NA | 13.02 | 0.54 | XXX
75842 |  | A | Vein x-ray, adrenal glands | 1.49 | NA | 13.52 | 0.61 | XXX
75842 | 26 | A | Vein x-ray, adrenal glands | 1.49 | 0.50 | 0.50 | 0.07 | XXX
75842 | TC | A | Vein x-ray, adrenal glands | 0.00 | NA | 13.02 | 0.54 | XXX
75860 |  | A | Vein x-ray, neck | 1.14 | NA | 13.42 | 0.60 | XXX
75860 | 26 | A | Vein x-ray, neck | 1.14 | 0.40 | 0.40 | 0.06 | XXX
75860 | TC | A | Vein x-ray, neck | 0.00 | NA | 13.02 | 0.54 | XXX
75870 |  | A | Vein x-ray, skull | 1.14 | NA | 13.42 | 0.60 | XXX
75870 | 26 | A | Vein x-ray, skull | 1.14 | 0.40 | 0.40 | 0.06 | XXX
75870 | TC | A | Vein x-ray, skull | 0.00 | NA | 13.02 | 0.54 | XXX
75872 |  | A | Vein x-ray, skull | 1.14 | NA | 13.41 | 0.59 | XXX
75872 | 26 | A | Vein x-ray, skull | 1.14 | 0.39 | 0.39 | 0.05 | XXX
75872 | TC | A | Vein x-ray, skull | 0.00 | NA | 13.02 | 0.54 | XXX
75880 |  | A | Vein x-ray, eye socket | 0.70 | NA | 1.22 | 0.08 | XXX
75880 | 26 | A | Vein x-ray, eye socket | 0.70 | 0.24 | 0.24 | 0.03 | XXX
75880 | TC | A | Vein x-ray, eye socket | 0.00 | NA | 0.98 | 0.05 | XXX
75885 |  | A | Vein x-ray, liver | 1.44 | NA | 13.51 | 0.60 | XXX
75885 | 26 | A | Vein x-ray, liver | 1.44 | 0.49 | 0.49 | 0.06 | XXX
75885 | TC | A | Vein x-ray, liver | 0.00 | NA | 13.02 | 0.54 | XXX
75887 |  | A | Vein x-ray, liver | 1.44 | NA | 13.51 | 0.60 | XXX
75887 | 26 | A | Vein x-ray, liver | 1.44 | 0.49 | 0.49 | 0.06 | XXX
75887 | TC | A | Vein x-ray, liver | 0.00 | NA | 13.02 | 0.54 | XXX
75889 |  | A | Vein x-ray, liver | 1.14 | NA | 13.41 | 0.59 | XXX
75889 | 26 | A | Vein x-ray, liver | 1.14 | 0.39 | 0.39 | 0.05 | XXX
75889 | TC | A | Vein x-ray, liver | 0.00 | NA | 13.02 | 0.54 | XXX
75891 |  | A | Vein x-ray, liver | 1.14 | NA | 13.41 | 0.59 | XXX
75891 | 26 | A | Vein x-ray, liver | 1.14 | 0.39 | 0.39 | 0.05 | XXX
75891 | TC | A | Vein x-ray, liver | 0.00 | NA | 13.02 | 0.54 | XXX
75893 |  | A | Venous sampling by catheter | 0.54 | NA | 13.21 | 0.56 | XXX
75893 | 26 | A | Venous sampling by catheter | 0.54 | 0.19 | 0.19 | 0.02 | XXX
75893 | TC | A | Venous sampling by catheter | 0.00 | NA | 13.02 | 0.54 | XXX
75894 |  | A | X-rays, transcath therapy | 1.31 | NA | 25.39 | 1.12 | XXX
75894 | 26 | A | X-rays, transcath therapy | 1.31 | 0.45 | 0.45 | 0.07 | XXX
75894 | TC | A | X-rays, transcath therapy | 0.00 | NA | 24.94 | 1.05 | XXX
75896 |  | A | X-rays, transcath therapy | 1.31 | NA | 22.16 | 0.97 | XXX
75896 | 26 | A | X-rays, transcath therapy | 1.31 | 0.47 | 0.47 | 0.06 | XXX
75896 | TC | A | X-rays, transcath therapy | 0.00 | NA | 21.69 | 0.91 | XXX
75898 |  | A | Follow-up angiography | 1.65 | NA | 1.66 | 0.12 | XXX
75898 | 26 | A | Follow-up angiography | 1.65 | 0.57 | 0.57 | 0.07 | XXX
75898 | TC | A | Follow-up angiography | 0.00 | NA | 1.09 | 0.05 | XXX
75900 |  | A | Arterial catheter exchange | 0.49 | NA | 21.84 | 0.94 | XXX
75900 | 26 | A | Arterial catheter exchange | 0.49 | 0.17 | 0.17 | 0.02 | XXX
75900 | TC | A | Arterial catheter exchange | 0.00 | NA | 21.67 | 0.92 | XXX
75940 |  | A | X-ray placement, vein filter | 0.54 | NA | 13.20 | 0.57 | XXX
75940 | 26 | A | X-ray placement, vein filter | 0.54 | 0.18 | 0.18 | 0.03 | XXX
75940 | TC | A | X-ray placement, vein filter | 0.00 | NA | 13.02 | 0.54 | XXX
75945 |  | A | Intravascular us | 0.40 | NA | 4.86 | 0.23 | XXX
75945 | 26 | A | Intravascular us | 0.40 | 0.15 | 0.15 | 0.03 | XXX
75945 | TC | A | Intravascular us | 0.00 | NA | 4.72 | 0.20 | XXX
75946 |  | A | Intravascular us add-on | 0.40 | NA | 2.51 | 0.14 | ZZZ
75946 | 26 | A | Intravascular us add-on | 0.40 | 0.14 | 0.14 | 0.03 | ZZZ
75946 | TC | A | Intravascular us add-on | 0.00 | NA | 2.37 | 0.11 | ZZZ
75952 |  | C | Endovasc repair abdom aorta | 0.00 | 0.00 | 0.00 | 0.00 | XXX
75952 | 26 | A | Endovasc repair abdom aorta | 4.50 | 1.74 | 1.74 | 0.68 | XXX
75952 | TC | C | Endovasc repair abdom aorta | 0.00 | 0.00 | 0.00 | 0.00 | XXX
75953 |  | C | Abdom aneurysm endovas rpr | 0.00 | 0.00 | 0.00 | 0.00 | XXX
75953 | 26 | A | Abdom aneurysm endovas rpr | 1.36 | 0.53 | 0.53 | 0.68 | XXX
75953 | TC | C | Abdom aneurysm endovas rpr | 0.00 | 0.00 | 0.00 | 0.00 | XXX
75960 |  | A | Transcatheter intro, stent | 0.82 | NA | 15.69 | 0.68 | XXX
75960 | 26 | A | Transcatheter intro, stent | 0.82 | 0.29 | 0.29 | 0.04 | XXX
75960 | TC | A | Transcatheter intro, stent | 0.00 | NA | 15.40 | 0.64 | XXX
75961 |  | A | Retrieval, broken catheter | 4.25 | NA | 12.30 | 0.64 | XXX
75961 | 26 | A | Retrieval, broken catheter | 4.25 | 1.45 | 1.45 | 0.18 | XXX
75961 | TC | A | Retrieval, broken catheter | 0.00 | NA | 10.85 | 0.46 | XXX
75962 |  | A | Repair arterial blockage | 0.54 | NA | 16.46 | 0.72 | XXX
75962 | 26 | A | Repair arterial blockage | 0.54 | 0.19 | 0.19 | 0.03 | XXX
75962 | TC | A | Repair arterial blockage | 0.00 | NA | 16.27 | 0.69 | XXX
75964 |  | A | Repair artery blockage, each | 0.36 | NA | 8.80 | 0.38 | ZZZ
75964 | 26 | A | Repair artery blockage, each | 0.36 | 0.13 | 0.13 | 0.02 | ZZZ
75964 | TC | A | Repair artery blockage, each | 0.00 | NA | 8.67 | 0.36 | ZZZ
75966 |  | A | Repair arterial blockage | 1.31 | NA | 16.75 | 0.75 | XXX
75966 | 26 | A | Repair arterial blockage | 1.31 | 0.48 | 0.48 | 0.06 | XXX
75966 | TC | A | Repair arterial blockage | 0.00 | NA | 16.27 | 0.69 | XXX
75968 |  | A | Repair artery blockage, each | 0.36 | NA | 8.81 | 0.37 | ZZZ
75968 | 26 | A | Repair artery blockage, each | 0.36 | 0.13 | 0.13 | 0.01 | ZZZ
75968 | TC | A | Repair artery blockage, each | 0.00 | NA | 8.67 | 0.36 | ZZZ
75970 |  | A | Vascular biopsy | 0.83 | NA | 12.22 | 0.54 | XXX
75970 | 26 | A | Vascular biopsy | 0.83 | 0.29 | 0.29 | 0.04 | XXX
75970 | TC | A | Vascular biopsy | 0.00 | NA | 11.93 | 0.50 | XXX
75978 |  | A | Repair venous blockage | 0.54 | NA | 16.45 | 0.71 | XXX
75978 | 26 | A | Repair venous blockage | 0.54 | 0.18 | 0.18 | 0.02 | XXX
75978 | TC | A | Repair venous blockage | 0.00 | NA | 16.27 | 0.69 | XXX
75980 |  | A | Contrast xray exam bile duct | 1.44 | NA | 6.08 | 0.30 | XXX
75980 | 26 | A | Contrast xray exam bile duct | 1.44 | 0.49 | 0.49 | 0.06 | XXX
75980 | TC | A | Contrast xray exam bile duct | 0.00 | NA | 5.60 | 0.24 | XXX
75982 |  | A | Contrast xray exam bile duct | 1.44 | NA | 6.79 | 0.33 | XXX
75982 | 26 | A | Contrast xray exam bile duct | 1.44 | 0.49 | 0.49 | 0.06 | XXX
75982 | TC | A | Contrast xray exam bile duct | 0.00 | NA | 6.31 | 0.27 | XXX
75984 |  | A | Xray control catheter change | 0.72 | NA | 2.26 | 0.12 | XXX
75984 | 26 | A | Xray control catheter change | 0.72 | 0.24 | 0.24 | 0.03 | XXX
75984 | TC | A | Xray control catheter change | 0.00 | NA | 2.02 | 0.09 | XXX
75989 |  | A | Abscess drainage under x-ray | 1.19 | NA | 3.66 | 0.19 | XXX
75989 | 26 | A | Abscess drainage under x-ray | 1.19 | 0.40 | 0.40 | 0.05 | XXX
75989 | TC | A | Abscess drainage under x-ray | 0.00 | NA | 3.26 | 0.14 | XXX
75992 |  | A | Atherectomy, x-ray exam | 0.54 | NA | 16.46 | 0.71 | XXX
75992 | 26 | A | Atherectomy, x-ray exam | 0.54 | 0.20 | 0.20 | 0.02 | XXX
75992 | TC | A | Atherectomy, x-ray exam | 0.00 | NA | 16.27 | 0.69 | XXX
75993 |  | A | Atherectomy, x-ray exam | 0.36 | NA | 8.81 | 0.37 | ZZZ
75993 | 26 | A | Atherectomy, x-ray exam | 0.36 | 0.14 | 0.14 | 0.01 | ZZZ
75993 | TC | A | Atherectomy, x-ray exam | 0.00 | NA | 8.67 | 0.36 | ZZZ
75994 |  | A | Atherectomy, x-ray exam | 1.31 | NA | 16.75 | 0.75 | XXX
75994 | 26 | A | Atherectomy, x-ray exam | 1.31 | 0.48 | 0.48 | 0.06 | XXX
75994 | TC | A | Atherectomy, x-ray exam | 0.00 | NA | 16.27 | 0.69 | XXX
75995 |  | A | Atherectomy, x-ray exam | 1.31 | NA | 16.75 | 0.75 | XXX
75995 | 26 | A | Atherectomy, x-ray exam | 1.31 | 0.49 | 0.49 | 0.06 | XXX
75995 | TC | A | Atherectomy, x-ray exam | 0.00 | NA | 16.27 | 0.69 | XXX
75996 |  | A | Atherectomy, x-ray exam | 0.36 | NA | 8.80 | 0.37 | ZZZ
75996 | 26 | A | Atherectomy, x-ray exam | 0.36 | 0.12 | 0.12 | 0.01 | ZZZ
75996 | TC | A | Atherectomy, x-ray exam | 0.00 | NA | 8.67 | 0.36 | ZZZ
76000 |  | A | Fluoroscope examination | 0.17 | NA | 1.40 | 0.07 | XXX
76000 | 26 | A | Fluoroscope examination | 0.17 | 0.05 | 0.05 | 0.01 | XXX
76000 | TC | A | Fluoroscope examination | 0.00 | NA | 1.35 | 0.06 | XXX
76001 |  | A | Fluoroscope exam, extensive | 0.67 | NA | 2.94 | 0.15 | XXX
76001 | 26 | A | Fluoroscope exam, extensive | 0.67 | 0.23 | 0.23 | 0.03 | XXX
76001 | TC | A | Fluoroscope exam, extensive | 0.00 | NA | 2.71 | 0.12 | XXX
76003 |  | A | Needle localization by x-ray | 0.54 | NA | 1.53 | 0.09 | XXX
76003 | 26 | A | Needle localization by x-ray | 0.54 | 0.18 | 0.18 | 0.03 | XXX
76003 | TC | A | Needle localization by x-ray | 0.00 | NA | 1.35 | 0.06 | XXX
76005 |  | A | Fluoroguide for spine inject | 0.60 | NA | 1.52 | 0.09 | XXX
76005 | 26 | A | Fluoroguide for spine inject | 0.60 | 0.17 | 0.17 | 0.03 | XXX
76005 | TC | A | Fluoroguide for spine inject | 0.00 | NA | 1.35 | 0.06 | XXX
76006 |  | A | X-ray stress view | 0.41 | 0.18 | 0.18 | 0.04 | XXX
76010 |  | A | X-ray, nose to rectum | 0.18 | NA | 0.60 | 0.03 | XXX
76010 | 26 | A | X-ray, nose to rectum | 0.18 | 0.06 | 0.06 | 0.01 | XXX
76010 | TC | A | X-ray, nose to rectum | 0.00 | NA | 0.54 | 0.02 | XXX
76012 |  | C | Percut vertebroplasty fluor | 0.00 | 0.00 | 0.00 | 0.00 | XXX
76012 | 26 | A | Percut vertebroplasty fluor | 1.31 | 0.51 | 0.51 | 0.23 | XXX
76012 | TC | C | Percut vertebroplasty fluor | 0.00 | 0.00 | 0.00 | 0.00 | XXX
76013 |  | C | Percut vertebroplasty, ct | 0.00 | 0.00 | 0.00 | 0.00 | XXX
76013 | 26 | A | Percut vertebroplasty, ct | 1.38 | 0.53 | 0.53 | 0.48 | XXX
76013 | TC | C | Percut vertebroplasty, ct | 0.00 | 0.00 | 0.00 | 0.00 | XXX
76020 |  | A | X-rays for bone age | 0.19 | NA | 0.60 | 0.03 | XXX
76020 | 26 | A | X-rays for bone age | 0.19 | 0.07 | 0.07 | 0.01 | XXX
76020 | TC | A | X-rays for bone age | 0.00 | NA | 0.54 | 0.02 | XXX
76040 |  | A | X-rays, bone evaluation | 0.27 | NA | 0.90 | 0.07 | XXX
76040 | 26 | A | X-rays, bone evaluation | 0.27 | 0.09 | 0.09 | 0.03 | XXX
76040 | TC | A | X-rays, bone evaluation | 0.00 | NA | 0.81 | 0.04 | XXX
76061 |  | A | X-rays, bone survey | 0.45 | NA | 1.18 | 0.07 | XXX
76061 | 26 | A | X-rays, bone survey | 0.45 | 0.15 | 0.15 | 0.02 | XXX
76061 | TC | A | X-rays, bone survey | 0.00 | NA | 1.03 | 0.05 | XXX
76062 |  | A | X-rays, bone survey | 0.54 | NA | 1.67 | 0.09 | XXX
76062 | 26 | A | X-rays, bone survey | 0.54 | 0.18 | 0.18 | 0.02 | XXX
76062 | TC | A | X-rays, bone survey | 0.00 | NA | 1.49 | 0.07 | XXX
76065 |  | A | X-rays, bone evaluation | 0.70 | NA | 1.00 | 0.05 | XXX
76065 | 26 | A | X-rays, bone evaluation | 0.70 | 0.24 | 0.24 | 0.01 | XXX
76065 | TC | A | X-rays, bone evaluation | 0.00 | NA | 0.76 | 0.04 | XXX
76066 |  | A | Joint survey, single view | 0.31 | NA | 1.26 | 0.07 | XXX
76066 | 26 | A | Joint survey, single view | 0.31 | 0.11 | 0.11 | 0.02 | XXX
76066 | TC | A | Joint survey, single view | 0.00 | NA | 1.15 | 0.05 | XXX
76070 |  | I | CT scan, bone density study | 0.25 | NA | 3.14 | 0.14 | XXX
76070 | 26 | I | CT scan, bone density study | 0.25 | 0.10 | 0.10 | 0.01 | XXX
76070 | TC | I | CT scan, bone density study | 0.00 | NA | 3.05 | 0.13 | XXX
76075 |  | A | Us exam, abdom, limited | 0.30 | NA | 3.30 | 0.15 | XXX
76075 | 26 | A | Us exam, abdom, limited | 0.30 | 0.11 | 0.11 | 0.01 | XXX
76075 | TC | A | Us exam, abdom, limited | 0.00 | NA | 3.20 | 0.14 | XXX
76076 |  | A | Dual energy x-ray study | 0.22 | NA | 0.86 | 0.05 | XXX
76076 | 26 | A | Dual energy x-ray study | 0.22 | 0.08 | 0.08 | 0.01 | XXX
76076 | TC | A | Dual energy x-ray study | 0.00 | NA | 0.78 | 0.04 | XXX
76078 |  | A | Radiographic absorptiometry | 0.20 | NA | 0.86 | 0.05 | XXX
76078 | 26 | A | Radiographic absorptiometry | 0.20 | 0.08 | 0.08 | 0.01 | XXX
76078 | TC | A | Radiographic absorptiometry | 0.00 | NA | 0.78 | 0.04 | XXX
76080 |  | A | X-ray exam of fistula | 0.54 | NA | 1.27 | 0.07 | XXX
76080 | 26 | A | X-ray exam of fistula | 0.54 | 0.18 | 0.18 | 0.02 | XXX
76080 | TC | A | X-ray exam of fistula | 0.00 | NA | 1.09 | 0.05 | XXX
76085 |  | A | Computer mammogram add-on | 0.06 | NA | 0.45 | 0.02 | ZZZ
76085 | 26 | A | Computer mammogram add-on | 0.06 | 0.02 | 0.02 | 0.01 | ZZZ
76085 | TC | A | Computer mammogram add-on | 0.00 | NA | 0.43 | 0.01 | ZZZ
76086 |  | A | X-ray of mammary duct | 0.36 | NA | 2.83 | 0.14 | XXX
76086 | 26 | A | X-ray of mammary duct | 0.36 | 0.12 | 0.12 | 0.02 | XXX
76086 | TC | A | X-ray of mammary duct | 0.00 | NA | 2.71 | 0.12 | XXX
76088 |  | A | X-ray of mammary ducts | 0.45 | NA | 3.94 | 0.18 | XXX
76088 | 26 | A | X-ray of mammary ducts | 0.45 | 0.15 | 0.15 | 0.02 | XXX
76088 | TC | A | X-ray of mammary ducts | 0.00 | NA | 3.79 | 0.16 | XXX
76090 |  | A | Mammogram, one breast | 0.70 | NA | 1.33 | 0.08 | XXX
76090 | 26 | A | Mammogram, one breast | 0.70 | 0.24 | 0.24 | 0.03 | XXX
76090 | TC | A | Mammogram, one breast | 0.00 | NA | 1.09 | 0.05 | XXX
76091 |  | A | Mammogram, both breasts | 0.87 | NA | 1.65 | 0.09 | XXX
76091 | 26 | A | Mammogram, both breasts | 0.87 | 0.30 | 0.30 | 0.03 | XXX
76091 | TC | A | Mammogram, both breasts | 0.00 | NA | 1.35 | 0.06 | XXX
76092 |  | A | Mammogram, screening | 0.70 | NA | 1.47 | 0.09 | XXX
76092 | 26 | A | Mammogram, screening | 0.70 | 0.25 | 0.25 | 0.03 | XXX
76092 | TC | A | Mammogram, screening | 0.00 | NA | 1.22 | 0.06 | XXX
76093 |  | A | Magnetic image, breast | 1.63 | NA | 18.77 | 0.83 | XXX
76093 | 26 | A | Magnetic image, breast | 1.63 | 0.56 | 0.56 | 0.07 | XXX
76093 | TC | A | Magnetic image, breast | 0.00 | NA | 18.22 | 0.76 | XXX
76094 |  | A | Magnetic image, both breasts | 1.63 | NA | 25.27 | 1.10 | XXX
76094 | 26 | A | Magnetic image, both breasts | 1.63 | 0.56 | 0.56 | 0.07 | XXX
76094 | TC | A | Magnetic image, both breasts | 0.00 | NA | 24.71 | 1.03 | XXX
76095 |  | A | Stereotactic breast biopsy | 1.59 | NA | 7.95 | 0.40 | XXX
76095 | 26 | A | Stereotactic breast biopsy | 1.59 | 0.54 | 0.54 | 0.09 | XXX
76095 | TC | A | Stereotactic breast biopsy | 0.00 | NA | 7.40 | 0.31 | XXX
76096 |  | A | X-ray of needle wire, breast | 0.56 | NA | 1.54 | 0.09 | XXX
76096 | 26 | A | X-ray of needle wire, breast | 0.56 | 0.19 | 0.19 | 0.03 | XXX
76096 | TC | A | X-ray of needle wire, breast | 0.00 | NA | 1.35 | 0.06 | XXX
76098 |  | A | X-ray exam, breast specimen | 0.16 | NA | 0.49 | 0.03 | XXX
76098 | 26 | A | X-ray exam, breast specimen | 0.16 | 0.06 | 0.06 | 0.01 | XXX
76098 | TC | A | X-ray exam, breast specimen | 0.00 | NA | 0.43 | 0.02 | XXX
76100 |  | A | X-ray exam of body section | 0.58 | NA | 1.49 | 0.09 | XXX
76100 | 26 | A | X-ray exam of body section | 0.58 | 0.20 | 0.20 | 0.03 | XXX
76100 | TC | A | X-ray exam of body section | 0.00 | NA | 1.29 | 0.06 | XXX
76101 |  | A | Complex body section x-ray | 0.58 | NA | 1.67 | 0.10 | XXX
76101 | 26 | A | Complex body section x-ray | 0.58 | 0.20 | 0.20 | 0.03 | XXX
76101 | TC | A | Complex body section x-ray | 0.00 | NA | 1.47 | 0.07 | XXX
76102 |  | A | Complex body section x-rays | 0.58 | NA | 1.99 | 0.12 | XXX
76102 | 26 | A | Complex body section x-rays | 0.58 | 0.20 | 0.20 | 0.03 | XXX
76102 | TC | A | Complex body section x-rays | 0.00 | NA | 1.79 | 0.09 | XXX
76120 |  | A | Cine/video x-rays | 0.38 | NA | 1.22 | 0.07 | XXX
76120 | 26 | A | Cine/video x-rays | 0.38 | 0.13 | 0.13 | 0.02 | XXX
76120 | TC | A | Cine/video x-rays | 0.00 | NA | 1.09 | 0.05 | XXX
76125 |  | A | Cine/video x-rays add-on | 0.27 | NA | 0.91 | 0.05 | ZZZ
76125 | 26 | A | Cine/video x-rays add-on | 0.27 | 0.10 | 0.10 | 0.01 | ZZZ
76125 | TC | A | Cine/video x-rays add-on | 0.00 | NA | 0.81 | 0.04 | ZZZ
76140 |  | I | X-ray consultation | 0.00 | 0.00 | 0.00 | 0.00 | XXX
76150 |  | A | X-ray exam, dry process | 0.00 | NA | 0.43 | 0.02 | XXX
76350 |  | C | Special x-ray contrast study | 0.00 | 0.00 | 0.00 | 0.00 | XXX
76355 |  | A | CAT scan for localization | 1.21 | NA | 8.95 | 0.41 | XXX
76355 | 26 | A | CAT scan for localization | 1.21 | 0.42 | 0.42 | 0.06 | XXX
76355 | TC | A | CAT scan for localization | 0.00 | NA | 8.53 | 0.35 | XXX
76360 |  | A | CAT scan for needle biopsy | 1.16 | NA | 8.93 | 0.40 | XXX
76360 | 26 | A | CAT scan for needle biopsy | 1.16 | 0.39 | 0.39 | 0.05 | XXX
76360 | TC | A | CAT scan for needle biopsy | 0.00 | NA | 8.53 | 0.35 | XXX
76362 |  | A | Cat scan for tissue ablation | 4.00 | NA | 9.89 | 1.38 | XXX
76362 | 26 | A | Cat scan for tissue ablation | 4.00 | 1.36 | 1.36 | 0.17 | XXX
76362 | TC | A | Cat scan for tissue ablation | 0.00 | NA | 8.53 | 1.21 | XXX
76370 |  | A | CAT scan for therapy guide | 0.85 | NA | 3.34 | 0.17 | XXX
76370 | 26 | A | CAT scan for therapy guide | 0.85 | 0.29 | 0.29 | 0.04 | XXX
76370 | TC | A | CAT scan for therapy guide | 0.00 | NA | 3.05 | 0.13 | XXX
76375 |  | A | 3d/holograph reconstr add-on | 0.16 | NA | 3.71 | 0.16 | XXX
76375 | 26 | A | 3d/holograph reconstr add-on | 0.16 | 0.05 | 0.05 | 0.01 | XXX
76375 | TC | A | 3d/holograph reconstr add-on | 0.00 | NA | 3.66 | 0.15 | XXX
76380 |  | A | CAT scan follow-up study | 0.98 | NA | 3.95 | 0.19 | XXX
76380 | 26 | A | CAT scan follow-up study | 0.98 | 0.33 | 0.33 | 0.04 | XXX
76380 | TC | A | CAT scan follow-up study | 0.00 | NA | 3.62 | 0.15 | XXX
76390 |  | N | Mr spectroscopy | 1.40 | NA | 12.06 | 0.55 | XXX
76390 | 26 | N | Mr spectroscopy | 1.40 | 0.48 | 0.48 | 0.06 | XXX
76390 | TC | N | Mr spectroscopy | 0.00 | NA | 11.58 | 0.49 | XXX
76393 |  | A | Mr guidance for needle place | 1.50 | NA | 12.09 | 0.53 | XXX
76393 | 26 | A | Mr guidance for needle place | 1.50 | 0.51 | 0.51 | 0.07 | XXX
76393 | TC | A | Mr guidance for needle place | 0.00 | NA | 11.58 | 0.46 | XXX
76394 |  | A | Mri for tissue ablation | 4.25 | NA | 13.03 | 1.43 | XXX
76394 | 26 | A | Mri for tissue ablation | 4.25 | 1.45 | 1.45 | 0.14 | XXX
76394 | TC | A | Mri for tissue ablation | 0.00 | NA | 11.58 | 1.29 | XXX
76400 |  | A | Magnetic image, bone marrow | 1.60 | NA | 12.13 | 0.56 | XXX
76400 | 26 | A | Magnetic image, bone marrow | 1.60 | 0.55 | 0.55 | 0.07 | XXX
76400 | TC | A | Magnetic image, bone marrow | 0.00 | NA | 11.58 | 0.49 | XXX
76490 |  | A | Us for tissue ablation | 2.00 | NA | 2.24 | 0.36 | XXX
76490 | 26 | A | Us for tissue ablation | 2.00 | 0.68 | 0.68 | 0.12 | XXX
76490 | TC | A | Us for tissue ablation | 0.00 | NA | 1.57 | 0.24 | XXX
76499 |  | C | Radiographic procedure | 0.00 | 0.00 | 0.00 | 0.00 | XXX
76499 | 26 | C | Radiographic procedure | 0.00 | 0.00 | 0.00 | 0.00 | XXX
76499 | TC | C | Radiographic procedure | 0.00 | 0.00 | 0.00 | 0.00 | XXX
76506 |  | A | Echo exam of head | 0.63 | NA | 1.72 | 0.10 | XXX
76506 | 26 | A | Echo exam of head | 0.63 | 0.25 | 0.25 | 0.03 | XXX
76506 | TC | A | Echo exam of head | 0.00 | NA | 1.47 | 0.07 | XXX
76511 |  | A | Echo exam of eye | 0.94 | NA | 2.75 | 0.08 | XXX
76511 | 26 | A | Echo exam of eye | 0.94 | 0.41 | 0.41 | 0.02 | XXX
76511 | TC | A | Echo exam of eye | 0.00 | NA | 2.33 | 0.06 | XXX
76512 |  | A | Echo exam of eye | 0.66 | NA | 2.71 | 0.09 | XXX
76512 | 26 | A | Echo exam of eye | 0.66 | 0.30 | 0.30 | 0.01 | XXX
76512 | TC | A | Echo exam of eye | 0.00 | NA | 2.41 | 0.08 | XXX
76513 |  | A | Echo exam of eye, water bath | 0.66 | NA | 2.96 | 0.09 | XXX
76513 | 26 | A | Echo exam of eye, water bath | 0.66 | 0.30 | 0.30 | 0.01 | XXX
76513 | TC | A | Echo exam of eye, water bath | 0.00 | NA | 2.66 | 0.08 | XXX
76516 |  | A | Echo exam of eye | 0.54 | NA | 2.27 | 0.07 | XXX
76516 | 26 | A | Echo exam of eye | 0.54 | 0.25 | 0.25 | 0.01 | XXX
76516 | TC | A | Echo exam of eye | 0.00 | NA | 2.02 | 0.06 | XXX
76519 |  | A | Echo exam of eye | 0.54 | NA | 1.98 | 0.07 | XXX
76519 | 26 | A | Echo exam of eye | 0.54 | 0.25 | 0.25 | 0.01 | XXX
76519 | TC | A | Echo exam of eye | 0.00 | NA | 1.73 | 0.06 | XXX
76529 |  | A | Echo exam of eye | 0.57 | NA | 2.57 | 0.08 | XXX
76529 | 26 | A | Echo exam of eye | 0.57 | 0.25 | 0.25 | 0.01 | XXX
76529 | TC | A | Echo exam of eye | 0.00 | NA | 2.31 | 0.07 | XXX
76536 |  | A | Us exam of head and neck | 0.56 | NA | 1.66 | 0.09 | XXX
76536 | 26 | A | Us exam of head and neck | 0.56 | 0.19 | 0.19 | 0.02 | XXX
76536 | TC | A | Us exam of head and neck | 0.00 | NA | 1.47 | 0.07 | XXX
76604 |  | A | Us exam, chest, b-scan | 0.55 | NA | 1.54 | 0.08 | XXX
76604 | 26 | A | Us exam, chest, b-scan | 0.55 | 0.19 | 0.19 | 0.02 | XXX
76604 | TC | A | Us exam, chest, b-scan | 0.00 | NA | 1.35 | 0.06 | XXX
76645 |  | A | Us exam, breast(s) | 0.54 | NA | 1.27 | 0.08 | XXX
76645 | 26 | A | Us exam, breast(s) | 0.54 | 0.18 | 0.18 | 0.03 | XXX
76645 | TC | A | Us exam, breast(s) | 0.00 | NA | 1.09 | 0.05 | XXX
76700 |  | A | Us exam, abdom, complete | 0.81 | NA | 2.31 | 0.13 | XXX
76700 | 26 | A | Us exam, abdom, complete | 0.81 | 0.28 | 0.28 | 0.04 | XXX
76700 | TC | A | Us exam, abdom, complete | 0.00 | NA | 2.04 | 0.09 | XXX
76705 |  | A | Us exam, abdom, limited | 0.59 | NA | 1.67 | 0.10 | XXX
76705 | 26 | A | Us exam, abdom, limited | 0.59 | 0.20 | 0.20 | 0.03 | XXX
76705 | TC | A | Us exam, abdom, limited | 0.00 | NA | 1.47 | 0.07 | XXX
76770 |  | A | Us exam abdo back wall, comp | 0.74 | NA | 2.29 | 0.12 | XXX
76770 | 26 | A | Us exam abdo back wall, comp | 0.74 | 0.25 | 0.25 | 0.03 | XXX
76770 | TC | A | Us exam abdo back wall, comp | 0.00 | NA | 2.04 | 0.09 | XXX
76775 |  | A | Us exam abdo back wall, lim | 0.58 | NA | 1.67 | 0.10 | XXX
76775 | 26 | A | Us exam abdo back wall, lim | 0.58 | 0.20 | 0.20 | 0.03 | XXX
76775 | TC | A | Us exam abdo back wall, lim | 0.00 | NA | 1.47 | 0.07 | XXX
76778 |  | A | Us exam kidney transplant | 0.74 | NA | 2.29 | 0.12 | XXX
76778 | 26 | A | Us exam kidney transplant | 0.74 | 0.25 | 0.25 | 0.03 | XXX
76778 | TC | A | Us exam kidney transplant | 0.00 | NA | 2.04 | 0.09 | XXX
76800 |  | A | Us exam, spinal canal | 1.13 | NA | 1.82 | 0.11 | XXX
76800 | 26 | A | Us exam, spinal canal | 1.13 | 0.35 | 0.35 | 0.04 | XXX
76800 | TC | A | Us exam, spinal canal | 0.00 | NA | 1.47 | 0.07 | XXX
76805 |  | A | Us exam, pg uterus, compl | 0.99 | NA | 2.52 | 0.14 | XXX
76805 | 26 | A | Us exam, pg uterus, compl | 0.99 | 0.35 | 0.35 | 0.04 | XXX
76805 | TC | A | Us exam, pg uterus, compl | 0.00 | NA | 2.17 | 0.10 | XXX
76810 |  | A | Us exam, pg uterus, mult | 1.97 | NA | 5.05 | 0.25 | XXX
76810 | 26 | A | Us exam, pg uterus, mult | 1.97 | 0.72 | 0.72 | 0.07 | XXX
76810 | TC | A | Us exam, pg uterus, mult | 0.00 | NA | 4.34 | 0.18 | XXX
76815 |  | A | Us exam, pg uterus limit | 0.65 | NA | 1.71 | 0.09 | XXX
76815 | 26 | A | Us exam, pg uterus limit | 0.65 | 0.24 | 0.24 | 0.02 | XXX
76815 | TC | A | Us exam, pg uterus limit | 0.00 | NA | 1.47 | 0.07 | XXX
76816 |  | A | Us exam pg uterus repeat | 0.57 | NA | 1.37 | 0.07 | XXX
76816 | 26 | A | Us exam pg uterus repeat | 0.57 | 0.22 | 0.22 | 0.02 | XXX
76816 | TC | A | Us exam pg uterus repeat | 0.00 | NA | 1.15 | 0.05 | XXX
76818 |  | A | Fetal biophy profile w/nst | 1.05 | NA | 2.07 | 0.12 | XXX
76818 | 26 | A | Fetal biophy profile w/nst | 1.05 | 0.40 | 0.40 | 0.04 | XXX
76818 | TC | A | Fetal biophy profile w/nst | 0.00 | NA | 1.67 | 0.08 | XXX
76819 |  | A | Fetal biophys profil w/o nst | 0.77 | NA | 1.96 | 0.10 | XXX
76819 | 26 | A | Fetal biophys profil w/o nst | 0.77 | 0.29 | 0.29 | 0.02 | XXX
76819 | TC | A | Fetal biophys profil w/o nst | 0.00 | NA | 1.67 | 0.08 | XXX
76825 |  | A | Echo exam of fetal heart | 1.67 | NA | 2.66 | 0.15 | XXX
76825 | 26 | A | Echo exam of fetal heart | 1.67 | 0.62 | 0.62 | 0.06 | XXX
76825 | TC | A | Echo exam of fetal heart | 0.00 | NA | 2.04 | 0.09 | XXX
76826 |  | A | Echo exam of fetal heart | 0.83 | NA | 1.03 | 0.07 | XXX
76826 | 26 | A | Echo exam of fetal heart | 0.83 | 0.30 | 0.30 | 0.03 | XXX
76826 | TC | A | Echo exam of fetal heart | 0.00 | NA | 0.73 | 0.04 | XXX
76827 |  | A | Echo exam of fetal heart | 0.58 | NA | 2.00 | 0.12 | XXX
76827 | 26 | A | Echo exam of fetal heart | 0.58 | 0.22 | 0.22 | 0.02 | XXX
76827 | TC | A | Echo exam of fetal heart | 0.00 | NA | 1.78 | 0.10 | XXX
76828 |  | A | Echo exam of fetal heart | 0.56 | NA | 1.37 | 0.09 | XXX
76828 | 26 | A | Echo exam of fetal heart | 0.56 | 0.22 | 0.22 | 0.02 | XXX
76828 | TC | A | Echo exam of fetal heart | 0.00 | NA | 1.15 | 0.07 | XXX
76830 |  | A | Us exam, transvaginal | 0.69 | NA | 1.81 | 0.11 | XXX
76830 | 26 | A | Us exam, transvaginal | 0.69 | 0.24 | 0.24 | 0.03 | XXX
76830 | TC | A | Us exam, transvaginal | 0.00 | NA | 1.57 | 0.08 | XXX
76831 |  | A | Echo exam, uterus | 0.72 | NA | 1.83 | 0.10 | XXX
76831 | 26 | A | Echo exam, uterus | 0.72 | 0.26 | 0.26 | 0.02 | XXX
76831 | TC | A | Echo exam, uterus | 0.00 | NA | 1.57 | 0.08 | XXX
76856 |  | A | Us exam, pelvic, complete | 0.69 | NA | 1.81 | 0.11 | XXX
76856 | 26 | A | Us exam, pelvic, complete | 0.69 | 0.24 | 0.24 | 0.03 | XXX
76856 | TC | A | Us exam, pelvic, complete | 0.00 | NA | 1.57 | 0.08 | XXX
76857 |  | A | Us exam, pelvic, limited | 0.38 | NA | 1.22 | 0.07 | XXX
76857 | 26 | A | Us exam, pelvic, limited | 0.38 | 0.13 | 0.13 | 0.02 | XXX
76857 | TC | A | Us exam, pelvic, limited | 0.00 | NA | 1.09 | 0.05 | XXX
76870 |  | A | Us exam, scrotum | 0.64 | NA | 1.79 | 0.11 | XXX
76870 | 26 | A | Us exam, scrotum | 0.64 | 0.22 | 0.22 | 0.03 | XXX
76870 | TC | A | Us exam, scrotum | 0.00 | NA | 1.57 | 0.08 | XXX
76872 |  | A | Echo exam, transrectal | 0.69 | NA | 1.80 | 0.12 | XXX
76872 | 26 | A | Echo exam, transrectal | 0.69 | 0.23 | 0.23 | 0.04 | XXX
76872 | TC | A | Echo exam, transrectal | 0.00 | NA | 1.57 | 0.08 | XXX
76873 |  | A | Echograp trans r, pros study | 1.55 | NA | 2.69 | 0.21 | XXX
76873 | 26 | A | Echograp trans r, pros study | 1.55 | 0.53 | 0.53 | 0.08 | XXX
76873 | TC | A | Echograp trans r, pros study | 0.00 | NA | 2.17 | 0.13 | XXX
76880 |  | A | Us exam, extremity | 0.59 | NA | 1.67 | 0.10 | XXX
76880 | 26 | A | Us exam, extremity | 0.59 | 0.20 | 0.20 | 0.03 | XXX
76880 | TC | A | Us exam, extremity | 0.00 | NA | 1.47 | 0.07 | XXX
76885 |  | A | Us exam infant hips, dynamic | 0.74 | NA | 1.82 | 0.11 | XXX
76885 | 26 | A | Us exam infant hips, dynamic | 0.74 | 0.25 | 0.25 | 0.03 | XXX
76885 | TC | A | Us exam infant hips, dynamic | 0.00 | NA | 1.57 | 0.08 | XXX
76886 |  | A | Us exam infant hips, static | 0.62 | NA | 1.68 | 0.10 | XXX
76886 | 26 | A | Us exam infant hips, static | 0.62 | 0.21 | 0.21 | 0.03 | XXX
76886 | TC | A | Us exam infant hips, static | 0.00 | NA | 1.47 | 0.07 | XXX
76930 |  | A | Echo guide, cardiocentesis | 0.67 | NA | 1.83 | 0.10 | XXX
76930 | 26 | A | Echo guide, cardiocentesis | 0.67 | 0.26 | 0.26 | 0.02 | XXX
76930 | TC | A | Echo guide, cardiocentesis | 0.00 | NA | 1.57 | 0.08 | XXX
76932 |  | A | Echo guide for heart biopsy | 0.67 | NA | 1.83 | 0.10 | XXX
76932 | 26 | A | Echo guide for heart biopsy | 0.67 | 0.26 | 0.26 | 0.02 | XXX
76932 | TC | A | Echo guide for heart biopsy | 0.00 | NA | 1.57 | 0.08 | XXX
76936 |  | A | Echo guide for artery repair | 1.99 | NA | 7.19 | 0.39 | XXX
76936 | 26 | A | Echo guide for artery repair | 1.99 | 0.69 | 0.69 | 0.11 | XXX
76936 | TC | A | Echo guide for artery repair | 0.00 | NA | 6.50 | 0.28 | XXX
76941 |  | A | Echo guide for transfusion | 1.34 | NA | 2.07 | 0.13 | XXX
76941 | 26 | A | Echo guide for transfusion | 1.34 | 0.50 | 0.50 | 0.06 | XXX
76941 | TC | A | Echo guide for transfusion | 0.00 | NA | 1.58 | 0.07 | XXX
76942 |  | A | Echo guide for biopsy | 0.67 | NA | 1.80 | 0.12 | XXX
76942 | 26 | A | Echo guide for biopsy | 0.67 | 0.23 | 0.23 | 0.04 | XXX
76942 | TC | A | Echo guide for biopsy | 0.00 | NA | 1.57 | 0.08 | XXX
76945 |  | A | Echo guide, villus sampling | 0.67 | NA | 1.81 | 0.10 | XXX
76945 | 26 | A | Echo guide, villus sampling | 0.67 | 0.23 | 0.23 | 0.03 | XXX
76945 | TC | A | Echo guide, villus sampling | 0.00 | NA | 1.58 | 0.07 | XXX
76946 |  | A | Echo guide for amniocentesis | 0.38 | NA | 1.71 | 0.09 | XXX
76946 | 26 | A | Echo guide for amniocentesis | 0.38 | 0.14 | 0.14 | 0.01 | XXX
76946 | TC | A | Echo guide for amniocentesis | 0.00 | NA | 1.57 | 0.08 | XXX
76948 |  | A | Echo guide, ova aspiration | 0.38 | NA | 1.70 | 0.10 | XXX
76948 | 26 | A | Echo guide, ova aspiration | 0.38 | 0.13 | 0.13 | 0.02 | XXX
76948 | TC | A | Echo guide, ova aspiration | 0.00 | NA | 1.57 | 0.08 | XXX
76950 |  | A | Echo guidance radiotherapy | 0.58 | NA | 1.55 | 0.09 | XXX
76950 | 26 | A | Echo guidance radiotherapy | 0.58 | 0.20 | 0.20 | 0.03 | XXX
76950 | TC | A | Echo guidance radiotherapy | 0.00 | NA | 1.35 | 0.06 | XXX
76965 |  | A | Echo guidance radiotherapy | 1.34 | NA | 6.21 | 0.31 | XXX
76965 | 26 | A | Echo guidance radiotherapy | 1.34 | 0.45 | 0.45 | 0.07 | XXX
76965 | TC | A | Echo guidance radiotherapy | 0.00 | NA | 5.76 | 0.24 | XXX
76970 |  | A | Ultrasound exam follow-up | 0.40 | NA | 1.23 | 0.07 | XXX
76970 | 26 | A | Ultrasound exam follow-up | 0.40 | 0.14 | 0.14 | 0.02 | XXX
76970 | TC | A | Ultrasound exam follow-up | 0.00 | NA | 1.09 | 0.05 | XXX
76975 |  | A | GI endoscopic ultrasound | 0.81 | NA | 1.85 | 0.11 | XXX
76975 | 26 | A | GI endoscopic ultrasound | 0.81 | 0.29 | 0.29 | 0.03 | XXX
76975 | TC | A | GI endoscopic ultrasound | 0.00 | NA | 1.57 | 0.08 | XXX
76977 |  | A | Us bone density measure | 0.05 | NA | 0.87 | 0.05 | XXX
76977 | 26 | A | Us bone density measure | 0.05 | 0.02 | 0.02 | 0.01 | XXX
76977 | TC | A | Us bone density measure | 0.00 | NA | 0.85 | 0.04 | XXX
76986 |  | A | Ultrasound guide intraoper | 1.20 | NA | 3.12 | 0.19 | XXX
76986 | 26 | A | Ultrasound guide intraoper | 1.20 | 0.41 | 0.41 | 0.07 | XXX
76986 | TC | A | Ultrasound guide intraoper | 0.00 | NA | 2.71 | 0.12 | XXX
76999 |  | C | Echo examination procedure | 0.00 | 0.00 | 0.00 | 0.00 | XXX
76999 | 26 | C | Echo examination procedure | 0.00 | 0.00 | 0.00 | 0.00 | XXX
76999 | TC | C | Echo examination procedure | 0.00 | 0.00 | 0.00 | 0.00 | XXX
77261 |  | A | Radiation therapy planning | 1.39 | 0.56 | 0.56 | 0.06 | XXX
77262 |  | A | Radiation therapy planning | 2.11 | 0.83 | 0.83 | 0.09 | XXX
77263 |  | A | Radiation therapy planning | 3.14 | 1.23 | 1.23 | 0.13 | XXX
77280 |  | A | Set radiation therapy field | 0.70 | NA | 3.83 | 0.18 | XXX
77280 | 26 | A | Set radiation therapy field | 0.70 | 0.25 | 0.25 | 0.03 | XXX
77280 | TC | A | Set radiation therapy field | 0.00 | NA | 3.59 | 0.15 | XXX
77285 |  | A | Set radiation therapy field | 1.05 | NA | 6.12 | 0.29 | XXX
77285 | 26 | A | Set radiation therapy field | 1.05 | 0.37 | 0.37 | 0.04 | XXX
77285 | TC | A | Set radiation therapy field | 0.00 | NA | 5.76 | 0.25 | XXX
77290 |  | A | Set radiation therapy field | 1.56 | NA | 7.27 | 0.35 | XXX
77290 | 26 | A | Set radiation therapy field | 1.56 | 0.55 | 0.55 | 0.06 | XXX
77290 | TC | A | Set radiation therapy field | 0.00 | NA | 6.72 | 0.29 | XXX
77295 |  | A | Set radiation therapy field | 4.57 | NA | 30.48 | 1.41 | XXX
77295 | 26 | A | Set radiation therapy field | 4.57 | 1.61 | 1.61 | 0.18 | XXX
77295 | TC | A | Set radiation therapy field | 0.00 | NA | 28.87 | 1.23 | XXX
77299 |  | C | Radiation therapy planning | 0.00 | 0.00 | 0.00 | 0.00 | XXX
77299 | 26 | C | Radiation therapy planning | 0.00 | 0.00 | 0.00 | 0.00 | XXX
77299 | TC | C | Radiation therapy planning | 0.00 | 0.00 | 0.00 | 0.00 | XXX
77300 |  | A | Radiation therapy dose plan | 0.62 | NA | 1.61 | 0.09 | XXX
77300 | 26 | A | Radiation therapy dose plan | 0.62 | 0.22 | 0.22 | 0.03 | XXX
77300 | TC | A | Radiation therapy dose plan | 0.00 | NA | 1.39 | 0.06 | XXX
77301 |  | A | Radioltherapy dos plan, imrt | 8.00 | NA | 31.96 | 1.41 | XXX
77301 | 26 | A | Radioltherapy dos plan, imrt | 8.00 | 3.09 | 3.09 | 0.18 | XXX
77301 | TC | A | Radioltherapy dos plan, imrt | 0.00 | NA | 28.87 | 1.23 | XXX
77305 |  | A | Radiation therapy dose plan | 0.70 | NA | 2.17 | 0.12 | XXX
77305 | 26 | A | Radiation therapy dose plan | 0.70 | 0.25 | 0.25 | 0.03 | XXX
77305 | TC | A | Radiation therapy dose plan | 0.00 | NA | 1.92 | 0.09 | XXX
77310 |  | A | Radiation therapy dose plan | 1.05 | NA | 2.78 | 0.15 | XXX
77310 | 26 | A | Radiation therapy dose plan | 1.05 | 0.37 | 0.37 | 0.04 | XXX
77310 | TC | A | Radiation therapy dose plan | 0.00 | NA | 2.41 | 0.11 | XXX
77315 |  | A | Radiation therapy dose plan | 1.56 | NA | 3.30 | 0.18 | XXX
77315 | 26 | A | Radiation therapy dose plan | 1.56 | 0.55 | 0.55 | 0.06 | XXX
77315 | TC | A | Radiation therapy dose plan | 0.00 | NA | 2.75 | 0.12 | XXX
77321 |  | A | Radiation therapy port plan | 0.95 | NA | 4.51 | 0.21 | XXX
77321 | 26 | A | Radiation therapy port plan | 0.95 | 0.33 | 0.33 | 0.04 | XXX
77321 | TC | A | Radiation therapy port plan | 0.00 | NA | 4.18 | 0.17 | XXX
77326 |  | A | Radiation therapy dose plan | 0.93 | NA | 2.76 | 0.15 | XXX
77326 | 26 | A | Radiation therapy dose plan | 0.93 | 0.33 | 0.33 | 0.04 | XXX
77326 | TC | A | Radiation therapy dose plan | 0.00 | NA | 2.44 | 0.11 | XXX
77327 |  | A | Radiation therapy dose plan | 1.39 | NA | 4.08 | 0.21 | XXX
77327 | 26 | A | Radiation therapy dose plan | 1.39 | 0.49 | 0.49 | 0.06 | XXX
77327 | TC | A | Radiation therapy dose plan | 0.00 | NA | 3.59 | 0.15 | XXX
77328 |  | A | Radiation therapy dose plan | 2.09 | NA | 5.86 | 0.30 | XXX
77328 | 26 | A | Radiation therapy dose plan | 2.09 | 0.73 | 0.73 | 0.09 | XXX
77328 | TC | A | Radiation therapy dose plan | 0.00 | NA | 5.13 | 0.21 | XXX
77331 |  | A | Special radiation dosimetry | 0.87 | NA | 0.83 | 0.06 | XXX
77331 | 26 | A | Special radiation dosimetry | 0.87 | 0.31 | 0.31 | 0.04 | XXX
77331 | TC | A | Special radiation dosimetry | 0.00 | NA | 0.52 | 0.02 | XXX
77332 |  | A | Radiation treatment aid(s) | 0.54 | NA | 1.58 | 0.08 | XXX
77332 | 26 | A | Radiation treatment aid(s) | 0.54 | 0.19 | 0.19 | 0.02 | XXX
77332 | TC | A | Radiation treatment aid(s) | 0.00 | NA | 1.39 | 0.06 | XXX
77333 |  | A | Radiation treatment aid(s) | 0.84 | NA | 2.25 | 0.13 | XXX
77333 | 26 | A | Radiation treatment aid(s) | 0.84 | 0.30 | 0.30 | 0.04 | XXX
77333 | TC | A | Radiation treatment aid(s) | 0.00 | NA | 1.96 | 0.09 | XXX
77334 |  | A | Radiation treatment aid(s) | 1.24 | NA | 3.79 | 0.19 | XXX
77334 | 26 | A | Radiation treatment aid(s) | 1.24 | 0.44 | 0.44 | 0.05 | XXX
77334 | TC | A | Radiation treatment aid(s) | 0.00 | NA | 3.36 | 0.14 | XXX
77336 |  | A | Radiation physics consult | 0.00 | NA | 3.08 | 0.13 | XXX
77370 |  | A | Radiation physics consult | 0.00 | NA | 3.61 | 0.15 | XXX
77399 |  | C | External radiation dosimetry | 0.00 | 0.00 | 0.00 | 0.00 | XXX
77399 | 26 | C | External radiation dosimetry | 0.00 | 0.00 | 0.00 | 0.00 | XXX
77399 | TC | C | External radiation dosimetry | 0.00 | 0.00 | 0.00 | 0.00 | XXX
77401 |  | A | Radiation treatment delivery | 0.00 | NA | 1.83 | 0.09 | XXX
77402 |  | A | Radiation treatment delivery | 0.00 | NA | 1.83 | 0.09 | XXX
77403 |  | A | Radiation treatment delivery | 0.00 | NA | 1.83 | 0.09 | XXX
77404 |  | A | Radiation treatment delivery | 0.00 | NA | 1.83 | 0.09 | XXX
77406 |  | A | Radiation treatment delivery | 0.00 | NA | 1.83 | 0.09 | XXX
77407 |  | A | Radiation treatment delivery | 0.00 | NA | 2.16 | 0.10 | XXX
77408 |  | A | Radiation treatment delivery | 0.00 | NA | 2.16 | 0.10 | XXX
77409 |  | A | Radiation treatment delivery | 0.00 | NA | 2.16 | 0.10 | XXX
77411 |  | A | Radiation treatment delivery | 0.00 | NA | 2.16 | 0.10 | XXX
77412 |  | A | Radiation treatment delivery | 0.00 | NA | 2.41 | 0.11 | XXX
77413 |  | A | Radiation treatment delivery | 0.00 | NA | 2.41 | 0.11 | XXX
77414 |  | A | Radiation treatment delivery | 0.00 | NA | 2.41 | 0.11 | XXX
77416 |  | A | Radiation treatment delivery | 0.00 | NA | 2.41 | 0.11 | XXX
77417 |  | A | Radiology port film(s) | 0.00 | NA | 0.61 | 0.03 | XXX
77418 |  | A | Radiation tx delivery, imrt | 0.00 | NA | 17.15 | 0.11 | XXX
77427 |  | A | Radiation tx management, x5 | 3.31 | 1.17 | 1.17 | 0.14 | XXX
77431 |  | A | Radiation therapy management | 1.81 | 0.74 | 0.74 | 0.07 | XXX
77432 |  | A | Stereotactic radiation trmt | 7.93 | 3.20 | 3.20 | 0.33 | XXX
77470 |  | A | Special radiation treatment | 2.09 | NA | 12.26 | 0.58 | XXX
77470 | 26 | A | Special radiation treatment | 2.09 | 0.74 | 0.74 | 0.09 | XXX
77470 | TC | A | Special radiation treatment | 0.00 | NA | 11.52 | 0.49 | XXX
77499 |  | C | Radiation therapy management | 0.00 | 0.00 | 0.00 | 0.00 | XXX
77499 | 26 | C | Radiation therapy management | 0.00 | 0.00 | 0.00 | 0.00 | XXX
77499 | TC | C | Radiation therapy management | 0.00 | 0.00 | 0.00 | 0.00 | XXX
77520 |  | C | Proton trmt, simple w/o comp | 0.00 | 0.00 | 0.00 | 0.00 | XXX
77522 |  | C | Proton trmt, simple w/comp | 0.00 | 0.00 | 0.00 | 0.00 | XXX
77523 |  | C | Proton trmt, intermediate | 0.00 | 0.00 | 0.00 | 0.00 | XXX
77525 |  | C | Proton treatment, complex | 0.00 | 0.00 | 0.00 | 0.00 | XXX
77600 |  | R | Hyperthermia treatment | 1.56 | NA | 3.69 | 0.21 | XXX
77600 | 26 | R | Hyperthermia treatment | 1.56 | 0.54 | 0.54 | 0.08 | XXX
77600 | TC | R | Hyperthermia treatment | 0.00 | NA | 3.15 | 0.13 | XXX
77605 |  | R | Hyperthermia treatment | 2.09 | NA | 4.94 | 0.31 | XXX
77605 | 26 | R | Hyperthermia treatment | 2.09 | 0.74 | 0.74 | 0.13 | XXX
77605 | TC | R | Hyperthermia treatment | 0.00 | NA | 4.20 | 0.18 | XXX
77610 |  | R | Hyperthermia treatment | 1.56 | NA | 3.69 | 0.20 | XXX
77610 | 26 | R | Hyperthermia treatment | 1.56 | 0.55 | 0.55 | 0.07 | XXX
77610 | TC | R | Hyperthermia treatment | 0.00 | NA | 3.15 | 0.13 | XXX
77615 |  | R | Hyperthermia treatment | 2.09 | NA | 4.93 | 0.27 | XXX
77615 | 26 | R | Hyperthermia treatment | 2.09 | 0.73 | 0.73 | 0.09 | XXX
77615 | TC | R | Hyperthermia treatment | 0.00 | NA | 4.20 | 0.18 | XXX
77620 |  | R | Hyperthermia treatment | 1.56 | NA | 3.70 | 0.19 | XXX
77620 | 26 | R | Hyperthermia treatment | 1.56 | 0.55 | 0.55 | 0.06 | XXX
77620 | TC | R | Hyperthermia treatment | 0.00 | NA | 3.15 | 0.13 | XXX
77750 |  | A | Infuse radioactive materials | 4.91 | NA | 3.11 | 0.23 | 090
77750 | 26 | A | Infuse radioactive materials | 4.91 | 1.73 | 1.73 | 0.17 | 090
77750 | TC | A | Infuse radioactive materials | 0.00 | NA | 1.38 | 0.06 | 090
77761 |  | A | Apply intrcav radiat simple | 3.81 | NA | 3.76 | 0.28 | 090
77761 | 26 | A | Apply intrcav radiat simple | 3.81 | 1.17 | 1.17 | 0.16 | 090
77761 | TC | A | Apply intrcav radiat simple | 0.00 | NA | 2.59 | 0.12 | 090
77762 |  | A | Apply intrcav radiat interm | 5.72 | NA | 5.71 | 0.38 | 090
77762 | 26 | A | Apply intrcav radiat interm | 5.72 | 1.98 | 1.98 | 0.22 | 090
77762 | TC | A | Apply intrcav radiat interm | 0.00 | NA | 3.73 | 0.16 | 090
77763 |  | A | Apply intrcav radiat compl | 8.57 | NA | 7.61 | 0.53 | 090
77763 | 26 | A | Apply intrcav radiat compl | 8.57 | 2.97 | 2.97 | 0.34 | 090
77763 | TC | A | Apply intrcav radiat compl | 0.00 | NA | 4.64 | 0.19 | 090
77776 |  | A | Apply interstit radiat simpl | 4.66 | NA | 3.22 | 0.35 | 090
77776 | 26 | A | Apply interstit radiat simpl | 4.66 | 0.97 | 0.97 | 0.24 | 090
77776 | TC | A | Apply interstit radiat simpl | 0.00 | NA | 2.25 | 0.11 | 090
77777 |  | A | Apply interstit radiat inter | 7.48 | NA | 6.93 | 0.50 | 090
77777 | 26 | A | Apply interstit radiat inter | 7.48 | 2.55 | 2.55 | 0.32 | 090
77777 | TC | A | Apply interstit radiat inter | 0.00 | NA | 4.38 | 0.18 | 090
77778 |  | A | Apply iterstit radiat compl | 11.19 | NA | 9.22 | 0.69 | 090
77778 | 26 | A | Apply iterstit radiat compl | 11.19 | 3.92 | 3.92 | 0.47 | 090
77778 | TC | A | Apply iterstit radiat compl | 0.00 | NA | 5.31 | 0.22 | 090
77781 |  | A | High intensity brachytherapy | 1.66 | NA | 21.57 | 0.95 | 090
77781 | 26 | A | High intensity brachytherapy | 1.66 | 0.59 | 0.59 | 0.07 | 090
77781 | TC | A | High intensity brachytherapy | 0.00 | NA | 20.98 | 0.88 | 090
77782 |  | A | High intensity brachytherapy | 2.49 | NA | 21.86 | 0.98 | 090
77782 | 26 | A | High intensity brachytherapy | 2.49 | 0.88 | 0.88 | 0.10 | 090
77782 | TC | A | High intensity brachytherapy | 0.00 | NA | 20.98 | 0.88 | 090
77783 |  | A | High intensity brachytherapy | 3.73 | NA | 22.30 | 1.03 | 090
77783 | 26 | A | High intensity brachytherapy | 3.73 | 1.31 | 1.31 | 0.15 | 090
77783 | TC | A | High intensity brachytherapy | 0.00 | NA | 20.98 | 0.88 | 090
77784 |  | A | High intensity brachytherapy | 5.61 | NA | 22.96 | 1.10 | 090
77784 | 26 | A | High intensity brachytherapy | 5.61 | 1.98 | 1.98 | 0.22 | 090
77784 | TC | A | High intensity brachytherapy | 0.00 | NA | 20.98 | 0.88 | 090
77789 |  | A | Apply surface radiation | 1.12 | NA | 0.87 | 0.05 | 000
77789 | 26 | A | Apply surface radiation | 1.12 | 0.40 | 0.40 | 0.03 | 000
77789 | TC | A | Apply surface radiation | 0.00 | NA | 0.47 | 0.02 | 000
77790 |  | A | Radiation handling | 1.05 | NA | 0.89 | 0.06 | XXX
77790 | 26 | A | Radiation handling | 1.05 | 0.37 | 0.37 | 0.04 | XXX
77790 | TC | A | Radiation handling | 0.00 | NA | 0.52 | 0.02 | XXX
77799 |  | C | Radium/radioisotope therapy | 0.00 | 0.00 | 0.00 | 0.00 | XXX
77799 | 26 | C | Radium/radioisotope therapy | 0.00 | 0.00 | 0.00 | 0.00 | XXX
77799 | TC | C | Radium/radioisotope therapy | 0.00 | 0.00 | 0.00 | 0.00 | XXX
78000 |  | A | Thyroid, single uptake | 0.19 | NA | 1.07 | 0.06 | XXX
78000 | 26 | A | Thyroid, single uptake | 0.19 | 0.07 | 0.07 | 0.01 | XXX
78000 | TC | A | Thyroid, single uptake | 0.00 | NA | 1.00 | 0.05 | XXX
78001 |  | A | Thyroid, multiple uptakes | 0.26 | NA | 1.44 | 0.07 | XXX
78001 | 26 | A | Thyroid, multiple uptakes | 0.26 | 0.09 | 0.09 | 0.01 | XXX
78001 | TC | A | Thyroid, multiple uptakes | 0.00 | NA | 1.35 | 0.06 | XXX
78003 |  | A | Thyroid suppress/stimul | 0.33 | NA | 1.11 | 0.06 | XXX
78003 | 26 | A | Thyroid suppress/stimul | 0.33 | 0.11 | 0.11 | 0.01 | XXX
78003 | TC | A | Thyroid suppress/stimul | 0.00 | NA | 1.00 | 0.05 | XXX
78006 |  | A | Thyroid imaging with uptake | 0.49 | NA | 2.63 | 0.13 | XXX
78006 | 26 | A | Thyroid imaging with uptake | 0.49 | 0.17 | 0.17 | 0.02 | XXX
78006 | TC | A | Thyroid imaging with uptake | 0.00 | NA | 2.46 | 0.11 | XXX
78007 |  | A | Thyroid image, mult uptakes | 0.50 | NA | 2.83 | 0.14 | XXX
78007 | 26 | A | Thyroid image, mult uptakes | 0.50 | 0.17 | 0.17 | 0.02 | XXX
78007 | TC | A | Thyroid image, mult uptakes | 0.00 | NA | 2.66 | 0.12 | XXX
78010 |  | A | Thyroid imaging | 0.39 | NA | 2.01 | 0.11 | XXX
78010 | 26 | A | Thyroid imaging | 0.39 | 0.14 | 0.14 | 0.02 | XXX
78010 | TC | A | Thyroid imaging | 0.00 | NA | 1.88 | 0.09 | XXX
78011 |  | A | Thyroid imaging with flow | 0.45 | NA | 2.65 | 0.13 | XXX
78011 | 26 | A | Thyroid imaging with flow | 0.45 | 0.16 | 0.16 | 0.02 | XXX
78011 | TC | A | Thyroid imaging with flow | 0.00 | NA | 2.49 | 0.11 | XXX
78015 |  | A | Thyroid met imaging | 0.67 | NA | 2.89 | 0.15 | XXX
78015 | 26 | A | Thyroid met imaging | 0.67 | 0.23 | 0.23 | 0.03 | XXX
78015 | TC | A | Thyroid met imaging | 0.00 | NA | 2.66 | 0.12 | XXX
78016 |  | A | Thyroid met imaging/studies | 0.82 | NA | 3.89 | 0.18 | XXX
78016 | 26 | A | Thyroid met imaging/studies | 0.82 | 0.30 | 0.30 | 0.03 | XXX
78016 | TC | A | Thyroid met imaging/studies | 0.00 | NA | 3.60 | 0.15 | XXX
78018 |  | A | Thyroid met imaging, body | 0.86 | NA | 5.91 | 0.27 | XXX
78018 | 26 | A | Thyroid met imaging, body | 0.86 | 0.31 | 0.31 | 0.03 | XXX
78018 | TC | A | Thyroid met imaging, body | 0.00 | NA | 5.61 | 0.24 | XXX
78020 |  | A | Thyroid met uptake | 0.60 | NA | 1.57 | 0.14 | ZZZ
78020 | 26 | A | Thyroid met uptake | 0.60 | 0.22 | 0.22 | 0.02 | ZZZ
78020 | TC | A | Thyroid met uptake | 0.00 | NA | 1.35 | 0.12 | ZZZ
78070 |  | A | Parathyroid nuclear imaging | 0.82 | NA | 2.17 | 0.12 | XXX
78070 | 26 | A | Parathyroid nuclear imaging | 0.82 | 0.29 | 0.29 | 0.03 | XXX
78070 | TC | A | Parathyroid nuclear imaging | 0.00 | NA | 1.88 | 0.09 | XXX
78075 |  | A | Adrenal nuclear imaging | 0.74 | NA | 5.88 | 0.27 | XXX
78075 | 26 | A | Adrenal nuclear imaging | 0.74 | 0.27 | 0.27 | 0.03 | XXX
78075 | TC | A | Adrenal nuclear imaging | 0.00 | NA | 5.61 | 0.24 | XXX
78099 |  | C | Endocrine nuclear procedure | 0.00 | 0.00 | 0.00 | 0.00 | XXX
78099 | 26 | C | Endocrine nuclear procedure | 0.00 | 0.00 | 0.00 | 0.00 | XXX
78099 | TC | C | Endocrine nuclear procedure | 0.00 | 0.00 | 0.00 | 0.00 | XXX
78102 |  | A | Bone marrow imaging, ltd | 0.55 | NA | 2.31 | 0.12 | XXX
78102 | 26 | A | Bone marrow imaging, ltd | 0.55 | 0.20 | 0.20 | 0.02 | XXX
78102 | TC | A | Bone marrow imaging, ltd | 0.00 | NA | 2.11 | 0.10 | XXX
78103 |  | A | Bone marrow imaging, mult | 0.75 | NA | 3.54 | 0.17 | XXX
78103 | 26 | A | Bone marrow imaging, mult | 0.75 | 0.27 | 0.27 | 0.03 | XXX
78103 | TC | A | Bone marrow imaging, mult | 0.00 | NA | 3.28 | 0.14 | XXX
78104 |  | A | Bone marrow imaging, body | 0.80 | NA | 4.49 | 0.21 | XXX
78104 | 26 | A | Bone marrow imaging, body | 0.80 | 0.28 | 0.28 | 0.03 | XXX
78104 | TC | A | Bone marrow imaging, body | 0.00 | NA | 4.21 | 0.18 | XXX
78110 |  | A | Plasma volume, single | 0.19 | NA | 1.05 | 0.06 | XXX
78110 | 26 | A | Plasma volume, single | 0.19 | 0.07 | 0.07 | 0.01 | XXX
78110 | TC | A | Plasma volume, single | 0.00 | NA | 0.98 | 0.05 | XXX
78111 |  | A | Plasma volume, multiple | 0.22 | NA | 2.74 | 0.13 | XXX
78111 | 26 | A | Plasma volume, multiple | 0.22 | 0.08 | 0.08 | 0.01 | XXX
78111 | TC | A | Plasma volume, multiple | 0.00 | NA | 2.66 | 0.12 | XXX
78120 |  | A | Red cell mass, single | 0.23 | NA | 1.87 | 0.10 | XXX
78120 | 26 | A | Red cell mass, single | 0.23 | 0.08 | 0.08 | 0.01 | XXX
78120 | TC | A | Red cell mass, single | 0.00 | NA | 1.79 | 0.09 | XXX
78121 |  | A | Red cell mass, multiple | 0.32 | NA | 3.12 | 0.13 | XXX
78121 | 26 | A | Red cell mass, multiple | 0.32 | 0.12 | 0.12 | 0.01 | XXX
78121 | TC | A | Red cell mass, multiple | 0.00 | NA | 3.01 | 0.12 | XXX
78122 |  | A | Blood volume | 0.45 | NA | 4.92 | 0.22 | XXX
78122 | 26 | A | Blood volume | 0.45 | 0.16 | 0.16 | 0.02 | XXX
78122 | TC | A | Blood volume | 0.00 | NA | 4.76 | 0.20 | XXX
78130 |  | A | Red cell survival study | 0.61 | NA | 3.17 | 0.15 | XXX
78130 | 26 | A | Red cell survival study | 0.61 | 0.22 | 0.22 | 0.03 | XXX
78130 | TC | A | Red cell survival study | 0.00 | NA | 2.95 | 0.12 | XXX
78135 |  | A | Red cell survival kinetics | 0.64 | NA | 5.26 | 0.24 | XXX
78135 | 26 | A | Red cell survival kinetics | 0.64 | 0.23 | 0.23 | 0.03 | XXX
78135 | TC | A | Red cell survival kinetics | 0.00 | NA | 5.04 | 0.21 | XXX
78140 |  | A | Red cell sequestration | 0.61 | NA | 4.28 | 0.20 | XXX
78140 | 26 | A | Red cell sequestration | 0.61 | 0.21 | 0.21 | 0.03 | XXX
78140 | TC | A | Red cell sequestration | 0.00 | NA | 4.07 | 0.17 | XXX
78160 |  | A | Plasma iron turnover | 0.33 | NA | 3.91 | 0.19 | XXX
78160 | 26 | A | Plasma iron turnover | 0.33 | 0.12 | 0.12 | 0.03 | XXX
78160 | TC | A | Plasma iron turnover | 0.00 | NA | 3.79 | 0.16 | XXX
78162 |  | A | Iron absorption exam | 0.45 | NA | 3.48 | 0.15 | XXX
78162 | 26 | A | Iron absorption exam | 0.45 | 0.17 | 0.17 | 0.01 | XXX
78162 | TC | A | Iron absorption exam | 0.00 | NA | 3.31 | 0.14 | XXX
78170 |  | A | Red cell iron utilization | 0.41 | NA | 5.63 | 0.27 | XXX
78170 | 26 | A | Red cell iron utilization | 0.41 | 0.14 | 0.14 | 0.04 | XXX
78170 | TC | A | Red cell iron utilization | 0.00 | NA | 5.49 | 0.23 | XXX
78172 |  | C | Total body iron estimation | 0.00 | 0.00 | 0.00 | 0.00 | XXX
78172 | 26 | A | Total body iron estimation | 0.53 | 0.18 | 0.18 | 0.02 | XXX
78172 | TC | C | Total body iron estimation | 0.00 | 0.00 | 0.00 | 0.00 | XXX
78185 |  | A | Spleen imaging | 0.40 | NA | 2.58 | 0.13 | XXX
78185 | 26 | A | Spleen imaging | 0.40 | 0.14 | 0.14 | 0.02 | XXX
78185 | TC | A | Spleen imaging | 0.00 | NA | 2.44 | 0.11 | XXX
78190 |  | A | Platelet survival, kinetics | 1.09 | NA | 6.30 | 0.31 | XXX
78190 | 26 | A | Platelet survival, kinetics | 1.09 | 0.40 | 0.40 | 0.06 | XXX
78190 | TC | A | Platelet survival, kinetics | 0.00 | NA | 5.91 | 0.25 | XXX
78191 |  | A | Platelet survival | 0.61 | NA | 7.80 | 0.34 | XXX
78191 | 26 | A | Platelet survival | 0.61 | 0.21 | 0.21 | 0.03 | XXX
78191 | TC | A | Platelet survival | 0.00 | NA | 7.58 | 0.31 | XXX
78195 |  | A | Lymph system imaging | 1.20 | NA | 4.64 | 0.23 | XXX
78195 | 26 | A | Lymph system imaging | 1.20 | 0.43 | 0.43 | 0.05 | XXX
78195 | TC | A | Lymph system imaging | 0.00 | NA | 4.21 | 0.18 | XXX
78199 |  | C | Blood/lymph nuclear exam | 0.00 | 0.00 | 0.00 | 0.00 | XXX
78199 | 26 | C | Blood/lymph nuclear exam | 0.00 | 0.00 | 0.00 | 0.00 | XXX
78199 | TC | C | Blood/lymph nuclear exam | 0.00 | 0.00 | 0.00 | 0.00 | XXX
78201 |  | A | Liver imaging | 0.44 | NA | 2.59 | 0.13 | XXX
78201 | 26 | A | Liver imaging | 0.44 | 0.15 | 0.15 | 0.02 | XXX
78201 | TC | A | Liver imaging | 0.00 | NA | 2.44 | 0.11 | XXX
78202 |  | A | Liver imaging with flow | 0.51 | NA | 3.16 | 0.14 | XXX
78202 | 26 | A | Liver imaging with flow | 0.51 | 0.18 | 0.18 | 0.02 | XXX
78202 | TC | A | Liver imaging with flow | 0.00 | NA | 2.98 | 0.12 | XXX
78205 |  | A | Liver imaging (3D) | 0.71 | NA | 6.36 | 0.29 | XXX
78205 | 26 | A | Liver imaging (3D) | 0.71 | 0.25 | 0.25 | 0.03 | XXX
78205 | TC | A | Liver imaging (3D) | 0.00 | NA | 6.11 | 0.26 | XXX
78206 |  | A | Liver image (3d) w/flow | 0.96 | NA | 6.45 | 0.13 | XXX
78206 | 26 | A | Liver image (3d) w/flow | 0.96 | 0.34 | 0.34 | 0.04 | XXX
78206 | TC | A | Liver image (3d) w/flow | 0.00 | NA | 6.11 | 0.09 | XXX
78215 |  | A | Liver and spleen imaging | 0.49 | NA | 3.21 | 0.14 | XXX
78215 | 26 | A | Liver and spleen imaging | 0.49 | 0.17 | 0.17 | 0.02 | XXX
78215 | TC | A | Liver and spleen imaging | 0.00 | NA | 3.04 | 0.12 | XXX
78216 |  | A | Liver & spleen image/flow | 0.57 | NA | 3.80 | 0.17 | XXX
78216 | 26 | A | Liver & spleen image/flow | 0.57 | 0.20 | 0.20 | 0.02 | XXX
78216 | TC | A | Liver & spleen image/flow | 0.00 | NA | 3.60 | 0.15 | XXX
78220 |  | A | Liver function study | 0.49 | NA | 4.02 | 0.18 | XXX
78220 | 26 | A | Liver function study | 0.49 | 0.17 | 0.17 | 0.02 | XXX
78220 | TC | A | Liver function study | 0.00 | NA | 3.85 | 0.16 | XXX
78223 |  | A | Hepatobiliary imaging | 0.84 | NA | 4.08 | 0.20 | XXX
78223 | 26 | A | Hepatobiliary imaging | 0.84 | 0.29 | 0.29 | 0.04 | XXX
78223 | TC | A | Hepatobiliary imaging | 0.00 | NA | 3.79 | 0.16 | XXX
78230 |  | A | Salivary gland imaging | 0.45 | NA | 2.40 | 0.13 | XXX
78230 | 26 | A | Salivary gland imaging | 0.45 | 0.15 | 0.15 | 0.02 | XXX
78230 | TC | A | Salivary gland imaging | 0.00 | NA | 2.25 | 0.11 | XXX
78231 |  | A | Serial salivary imaging | 0.52 | NA | 3.47 | 0.16 | XXX
78231 | 26 | A | Serial salivary imaging | 0.52 | 0.19 | 0.19 | 0.02 | XXX
78231 | TC | A | Serial salivary imaging | 0.00 | NA | 3.28 | 0.14 | XXX
78232 |  | A | Salivary gland function exam | 0.47 | NA | 3.83 | 0.16 | XXX
78232 | 26 | A | Salivary gland function exam | 0.47 | 0.17 | 0.17 | 0.01 | XXX
78232 | TC | A | Salivary gland function exam | 0.00 | NA | 3.66 | 0.15 | XXX
78258 |  | A | Esophageal motility study | 0.74 | NA | 3.24 | 0.15 | XXX
78258 | 26 | A | Esophageal motility study | 0.74 | 0.26 | 0.26 | 0.03 | XXX
78258 | TC | A | Esophageal motility study | 0.00 | NA | 2.98 | 0.12 | XXX
78261 |  | A | Gastric mucosa imaging | 0.69 | NA | 4.49 | 0.21 | XXX
78261 | 26 | A | Gastric mucosa imaging | 0.69 | 0.25 | 0.25 | 0.03 | XXX
78261 | TC | A | Gastric mucosa imaging | 0.00 | NA | 4.24 | 0.18 | XXX
78262 |  | A | Gastroesophageal reflux exam | 0.68 | NA | 4.64 | 0.21 | XXX
78262 | 26 | A | Gastroesophageal reflux exam | 0.68 | 0.24 | 0.24 | 0.03 | XXX
78262 | TC | A | Gastroesophageal reflux exam | 0.00 | NA | 4.40 | 0.18 | XXX
78264 |  | A | Gastric emptying study | 0.78 | NA | 4.54 | 0.21 | XXX
78264 | 26 | A | Gastric emptying study | 0.78 | 0.27 | 0.27 | 0.03 | XXX
78264 | TC | A | Gastric emptying study | 0.00 | NA | 4.27 | 0.18 | XXX
78267 |  | X | Breath tst attain/anal c-14 | 0.00 | 0.00 | 0.00 | 0.00 | XXX
78268 |  | X | Breath test analysis, c-14 | 0.00 | 0.00 | 0.00 | 0.00 | XXX
78270 |  | A | Vit B-12 absorption exam | 0.20 | NA | 1.67 | 0.09 | XXX
78270 | 26 | A | Vit B-12 absorption exam | 0.20 | 0.07 | 0.07 | 0.01 | XXX
78270 | TC | A | Vit B-12 absorption exam | 0.00 | NA | 1.60 | 0.08 | XXX
78271 |  | A | Vit B-12 absorp exam, IF | 0.20 | NA | 1.77 | 0.09 | XXX
78271 | 26 | A | Vit B-12 absorp exam, IF | 0.20 | 0.07 | 0.07 | 0.01 | XXX
78271 | TC | A | Vit B-12 absorp exam, IF | 0.00 | NA | 1.70 | 0.08 | XXX
78272 |  | A | Vit B-12 absorp, combined | 0.27 | NA | 2.50 | 0.12 | XXX
78272 | 26 | A | Vit B-12 absorp, combined | 0.27 | 0.10 | 0.10 | 0.01 | XXX
78272 | TC | A | Vit B-12 absorp, combined | 0.00 | NA | 2.40 | 0.11 | XXX
78278 |  | A | Acute GI blood loss imaging | 0.99 | NA | 5.38 | 0.25 | XXX
78278 | 26 | A | Acute GI blood loss imaging | 0.99 | 0.34 | 0.34 | 0.04 | XXX
78278 | TC | A | Acute GI blood loss imaging | 0.00 | NA | 5.04 | 0.21 | XXX
78282 |  | C | GI protein loss exam | 0.00 | 0.00 | 0.00 | 0.00 | XXX
78282 | 26 | A | GI protein loss exam | 0.38 | 0.14 | 0.14 | 0.02 | XXX
78282 | TC | C | GI protein loss exam | 0.00 | 0.00 | 0.00 | 0.00 | XXX
78290 |  | A | Meckel's divert exam | 0.68 | NA | 3.38 | 0.16 | XXX
78290 | 26 | A | Meckel's divert exam | 0.68 | 0.24 | 0.24 | 0.03 | XXX
78290 | TC | A | Meckel's divert exam | 0.00 | NA | 3.15 | 0.13 | XXX
78291 |  | A | Leveen/shunt patency exam | 0.88 | NA | 3.48 | 0.17 | XXX
78291 | 26 | A | Leveen/shunt patency exam | 0.88 | 0.31 | 0.31 | 0.04 | XXX
78291 | TC | A | Leveen/shunt patency exam | 0.00 | NA | 3.17 | 0.13 | XXX
78299 |  | C | GI nuclear procedure | 0.00 | 0.00 | 0.00 | 0.00 | XXX
78299 | 26 | C | GI nuclear procedure | 0.00 | 0.00 | 0.00 | 0.00 | XXX
78299 | TC | C | GI nuclear procedure | 0.00 | 0.00 | 0.00 | 0.00 | XXX
78300 |  | A | Bone imaging, limited area | 0.62 | NA | 2.78 | 0.15 | XXX
78300 | 26 | A | Bone imaging, limited area | 0.62 | 0.21 | 0.21 | 0.03 | XXX
78300 | TC | A | Bone imaging, limited area | 0.00 | NA | 2.57 | 0.12 | XXX
78305 |  | A | Bone imaging, multiple areas | 0.83 | NA | 4.08 | 0.19 | XXX
78305 | 26 | A | Bone imaging, multiple areas | 0.83 | 0.29 | 0.29 | 0.03 | XXX
78305 | TC | A | Bone imaging, multiple areas | 0.00 | NA | 3.79 | 0.16 | XXX
78306 |  | A | Bone imaging, whole body | 0.86 | NA | 4.72 | 0.22 | XXX
78306 | 26 | A | Bone imaging, whole body | 0.86 | 0.30 | 0.30 | 0.04 | XXX
78306 | TC | A | Bone imaging, whole body | 0.00 | NA | 4.42 | 0.18 | XXX
78315 |  | A | Bone imaging, 3 phase | 1.02 | NA | 5.29 | 0.25 | XXX
78315 | 26 | A | Bone imaging, 3 phase | 1.02 | 0.36 | 0.36 | 0.04 | XXX
78315 | TC | A | Bone imaging, 3 phase | 0.00 | NA | 4.94 | 0.21 | XXX
78320 |  | A | Bone imaging (3D) | 1.04 | NA | 6.48 | 0.30 | XXX
78320 | 26 | A | Bone imaging (3D) | 1.04 | 0.37 | 0.37 | 0.04 | XXX
78320 | TC | A | Bone imaging (3D) | 0.00 | NA | 6.11 | 0.26 | XXX
78350 |  | A | Bone mineral, single photon | 0.22 | NA | 0.86 | 0.05 | XXX
78350 | 26 | A | Bone mineral, single photon | 0.22 | 0.08 | 0.08 | 0.01 | XXX
78350 | TC | A | Bone mineral, single photon | 0.00 | NA | 0.78 | 0.04 | XXX
78351 |  | N | Bone mineral, dual photon | 0.30 | 0.12 | 1.67 | 0.01 | XXX
78399 |  | C | Musculoskeletal nuclear exam | 0.00 | 0.00 | 0.00 | 0.00 | XXX
78399 | 26 | C | Musculoskeletal nuclear exam | 0.00 | 0.00 | 0.00 | 0.00 | XXX
78399 | TC | C | Musculoskeletal nuclear exam | 0.00 | 0.00 | 0.00 | 0.00 | XXX
78414 |  | C | Non-imaging heart function | 0.00 | 0.00 | 0.00 | 0.00 | XXX
78414 | 26 | A | Non-imaging heart function | 0.45 | 0.16 | 0.16 | 0.02 | XXX
78414 | TC | C | Non-imaging heart function | 0.00 | 0.00 | 0.00 | 0.00 | XXX
78428 |  | A | Cardiac shunt imaging | 0.78 | NA | 2.63 | 0.14 | XXX
78428 | 26 | A | Cardiac shunt imaging | 0.78 | 0.30 | 0.30 | 0.03 | XXX
78428 | TC | A | Cardiac shunt imaging | 0.00 | NA | 2.33 | 0.11 | XXX
78445 |  | A | Vascular flow imaging | 0.49 | NA | 2.09 | 0.11 | XXX
78445 | 26 | A | Vascular flow imaging | 0.49 | 0.18 | 0.18 | 0.02 | XXX
78445 | TC | A | Vascular flow imaging | 0.00 | NA | 1.92 | 0.09 | XXX
78455 |  | A | Venous thrombosis study | 0.73 | NA | 4.37 | 0.20 | XXX
78455 | 26 | A | Venous thrombosis study | 0.73 | 0.26 | 0.26 | 0.03 | XXX
78455 | TC | A | Venous thrombosis study | 0.00 | NA | 4.12 | 0.17 | XXX
78456 |  | A | Acute venous thrombus image | 1.00 | NA | 4.48 | 0.28 | XXX
78456 | 26 | A | Acute venous thrombus image | 1.00 | 0.36 | 0.36 | 0.04 | XXX
78456 | TC | A | Acute venous thrombus image | 0.00 | NA | 4.12 | 0.24 | XXX
78457 |  | A | Venous thrombosis imaging | 0.77 | NA | 3.02 | 0.15 | XXX
78457 | 26 | A | Venous thrombosis imaging | 0.77 | 0.27 | 0.27 | 0.03 | XXX
78457 | TC | A | Venous thrombosis imaging | 0.00 | NA | 2.75 | 0.12 | XXX
78458 |  | A | Ven thrombosis images, bilat | 0.90 | NA | 4.49 | 0.20 | XXX
78458 | 26 | A | Ven thrombosis images, bilat | 0.90 | 0.33 | 0.33 | 0.03 | XXX
78458 | TC | A | Ven thrombosis images, bilat | 0.00 | NA | 4.16 | 0.17 | XXX
78459 |  | I | Heart muscle imaging (PET) | 0.00 | 0.00 | 0.00 | 0.00 | XXX
78459 | 26 | I | Heart muscle imaging (PET) | 1.88 | 0.73 | 0.73 | 0.08 | XXX
78459 | TC | I | Heart muscle imaging (PET) | 0.00 | 0.00 | 0.00 | 0.00 | XXX
78460 |  | A | Heart muscle blood, single | 0.86 | NA | 2.74 | 0.14 | XXX
78460 | 26 | A | Heart muscle blood, single | 0.86 | 0.30 | 0.30 | 0.03 | XXX
78460 | TC | A | Heart muscle blood, single | 0.00 | NA | 2.44 | 0.11 | XXX
78461 |  | A | Heart muscle blood, multiple | 1.23 | NA | 5.33 | 0.26 | XXX
78461 | 26 | A | Heart muscle blood, multiple | 1.23 | 0.45 | 0.45 | 0.05 | XXX
78461 | TC | A | Heart muscle blood, multiple | 0.00 | NA | 4.88 | 0.21 | XXX
78464 |  | A | Heart image (3d), single | 1.09 | NA | 7.70 | 0.35 | XXX
78464 | 26 | A | Heart image (3d), single | 1.09 | 0.40 | 0.40 | 0.04 | XXX
78464 | TC | A | Heart image (3d), single | 0.00 | NA | 7.30 | 0.31 | XXX
78465 |  | A | Heart image (3d), multiple | 1.46 | NA | 12.73 | 0.56 | XXX
78465 | 26 | A | Heart image (3d), multiple | 1.46 | 0.54 | 0.54 | 0.05 | XXX
78465 | TC | A | Heart image (3d), multiple | 0.00 | NA | 12.19 | 0.51 | XXX
78466 |  | A | Heart infarct image | 0.69 | NA | 2.96 | 0.15 | XXX
78466 | 26 | A | Heart infarct image | 0.69 | 0.25 | 0.25 | 0.03 | XXX
78466 | TC | A | Heart infarct image | 0.00 | NA | 2.71 | 0.12 | XXX
78468 |  | A | Heart infarct image (ef) | 0.80 | NA | 4.07 | 0.19 | XXX
78468 | 26 | A | Heart infarct image (ef) | 0.80 | 0.29 | 0.29 | 0.03 | XXX
78468 | TC | A | Heart infarct image (ef) | 0.00 | NA | 3.79 | 0.16 | XXX
78469 |  | A | Heart infarct image (3D) | 0.92 | NA | 5.72 | 0.26 | XXX
78469 | 26 | A | Heart infarct image (3D) | 0.92 | 0.32 | 0.32 | 0.03 | XXX
78469 | TC | A | Heart infarct image (3D) | 0.00 | NA | 5.40 | 0.23 | XXX
78472 |  | A | Gated heart, planar, single | 0.98 | NA | 6.05 | 0.29 | XXX
78472 | 26 | A | Gated heart, planar, single | 0.98 | 0.36 | 0.36 | 0.04 | XXX
78472 | TC | A | Gated heart, planar, single | 0.00 | NA | 5.70 | 0.25 | XXX
78473 |  | A | Gated heart, multiple | 1.47 | NA | 9.07 | 0.40 | XXX
78473 | 26 | A | Gated heart, multiple | 1.47 | 0.53 | 0.53 | 0.05 | XXX
78473 | TC | A | Gated heart, multiple | 0.00 | NA | 8.53 | 0.35 | XXX
78478 |  | A | Heart wall motion add-on | 0.62 | NA | 1.84 | 0.10 | ZZZ
78478 | 26 | A | Heart wall motion add-on | 0.62 | 0.23 | 0.23 | 0.02 | ZZZ
78478 | TC | A | Heart wall motion add-on | 0.00 | NA | 1.61 | 0.08 | ZZZ
78480 |  | A | Heart function add-on | 0.62 | NA | 1.84 | 0.10 | ZZZ
78480 | 26 | A | Heart function add-on | 0.62 | 0.23 | 0.23 | 0.02 | ZZZ
78480 | TC | A | Heart function add-on | 0.00 | NA | 1.61 | 0.08 | ZZZ
78481 |  | A | Heart first pass, single | 0.98 | NA | 5.77 | 0.26 | XXX
78481 | 26 | A | Heart first pass, single | 0.98 | 0.37 | 0.37 | 0.03 | XXX
78481 | TC | A | Heart first pass, single | 0.00 | NA | 5.40 | 0.23 | XXX
78483 |  | A | Heart first pass, multiple | 1.47 | NA | 8.69 | 0.39 | XXX
78483 | 26 | A | Heart first pass, multiple | 1.47 | 0.56 | 0.56 | 0.05 | XXX
78483 | TC | A | Heart first pass, multiple | 0.00 | NA | 8.13 | 0.34 | XXX
78491 |  | I | Heart image (pet), single | 0.00 | 0.00 | 0.00 | 0.00 | XXX
78491 | 26 | I | Heart image (pet), single | 1.50 | 0.58 | 0.58 | 0.05 | XXX
78491 | TC | I | Heart image (pet), single | 0.00 | 0.00 | 0.00 | 0.00 | XXX
78492 |  | I | Heart image (pet), multiple | 0.00 | 0.00 | 0.00 | 0.00 | XXX
78492 | 26 | I | Heart image (pet), multiple | 1.87 | 0.72 | 0.72 | 0.06 | XXX
78492 | TC | I | Heart image (pet), multiple | 0.00 | 0.00 | 0.00 | 0.00 | XXX
78494 |  | A | Heart image, spect | 1.19 | NA | 7.74 | 0.29 | XXX
78494 | 26 | A | Heart image, spect | 1.19 | 0.43 | 0.43 | 0.04 | XXX
78494 | TC | A | Heart image, spect | 0.00 | NA | 7.30 | 0.25 | XXX
78496 |  | A | Heart first pass add-on | 0.50 | NA | 7.49 | 0.27 | ZZZ
78496 | 26 | A | Heart first pass add-on | 0.50 | 0.19 | 0.19 | 0.02 | ZZZ
78496 | TC | A | Heart first pass add-on | 0.00 | NA | 7.30 | 0.25 | ZZZ
78499 |  | C | Cardiovascular nuclear exam | 0.00 | 0.00 | 0.00 | 0.00 | XXX
78499 | 26 | C | Cardiovascular nuclear exam | 0.00 | 0.00 | 0.00 | 0.00 | XXX
78499 | TC | C | Cardiovascular nuclear exam | 0.00 | 0.00 | 0.00 | 0.00 | XXX
78580 |  | A | Lung perfusion imaging | 0.74 | NA | 3.81 | 0.18 | XXX
78580 | 26 | A | Lung perfusion imaging | 0.74 | 0.26 | 0.26 | 0.03 | XXX
78580 | TC | A | Lung perfusion imaging | 0.00 | NA | 3.55 | 0.15 | XXX
78584 |  | A | Lung V/Q image single breath | 0.99 | NA | 3.65 | 0.18 | XXX
78584 | 26 | A | Lung V/Q image single breath | 0.99 | 0.34 | 0.34 | 0.04 | XXX
78584 | TC | A | Lung V/Q image single breath | 0.00 | NA | 3.31 | 0.14 | XXX
78585 |  | A | Lung V/Q imaging | 1.09 | NA | 6.20 | 0.30 | XXX
78585 | 26 | A | Lung V/Q imaging | 1.09 | 0.38 | 0.38 | 0.05 | XXX
78585 | TC | A | Lung V/Q imaging | 0.00 | NA | 5.83 | 0.25 | XXX
78586 |  | A | Aerosol lung image, single | 0.40 | NA | 2.82 | 0.14 | XXX
78586 | 26 | A | Aerosol lung image, single | 0.40 | 0.14 | 0.14 | 0.02 | XXX
78586 | TC | A | Aerosol lung image, single | 0.00 | NA | 2.68 | 0.12 | XXX
78587 |  | A | Aerosol lung image, multiple | 0.49 | NA | 3.07 | 0.14 | XXX
78587 | 26 | A | Aerosol lung image, multiple | 0.49 | 0.17 | 0.17 | 0.02 | XXX
78587 | TC | A | Aerosol lung image, multiple | 0.00 | NA | 2.90 | 0.12 | XXX
78588 |  | A | Perfusion lung image | 1.09 | NA | 3.69 | 0.20 | XXX
78588 | 26 | A | Perfusion lung image | 1.09 | 0.38 | 0.38 | 0.05 | XXX
78588 | TC | A | Perfusion lung image | 0.00 | NA | 3.31 | 0.15 | XXX
78591 |  | A | Vent image, 1 breath, 1 proj | 0.40 | NA | 3.09 | 0.14 | XXX
78591 | 26 | A | Vent image, 1 breath, 1 proj | 0.40 | 0.14 | 0.14 | 0.02 | XXX
78591 | TC | A | Vent image, 1 breath, 1 proj | 0.00 | NA | 2.95 | 0.12 | XXX
78593 |  | A | Vent image, 1 proj, gas | 0.49 | NA | 3.74 | 0.17 | XXX
78593 | 26 | A | Vent image, 1 proj, gas | 0.49 | 0.17 | 0.17 | 0.02 | XXX
78593 | TC | A | Vent image, 1 proj, gas | 0.00 | NA | 3.57 | 0.15 | XXX
78594 |  | A | Vent image, mult proj, gas | 0.53 | NA | 5.33 | 0.23 | XXX
78594 | 26 | A | Vent image, mult proj, gas | 0.53 | 0.19 | 0.19 | 0.02 | XXX
78594 | TC | A | Vent image, mult proj, gas | 0.00 | NA | 5.15 | 0.21 | XXX
78596 |  | A | Lung differential function | 1.27 | NA | 7.75 | 0.36 | XXX
78596 | 26 | A | Lung differential function | 1.27 | 0.44 | 0.44 | 0.05 | XXX
78596 | TC | A | Lung differential function | 0.00 | NA | 7.30 | 0.31 | XXX
78599 |  | C | Respiratory nuclear exam | 0.00 | 0.00 | 0.00 | 0.00 | XXX
78599 | 26 | C | Respiratory nuclear exam | 0.00 | 0.00 | 0.00 | 0.00 | XXX
78599 | TC | C | Respiratory nuclear exam | 0.00 | 0.00 | 0.00 | 0.00 | XXX
78600 |  | A | Brain imaging, ltd static | 0.44 | NA | 3.14 | 0.14 | XXX
78600 | 26 | A | Brain imaging, ltd static | 0.44 | 0.16 | 0.16 | 0.02 | XXX
78600 | TC | A | Brain imaging, ltd static | 0.00 | NA | 2.98 | 0.12 | XXX
78601 |  | A | Brain imaging, ltd w/ flow | 0.51 | NA | 3.70 | 0.17 | XXX
78601 | 26 | A | Brain imaging, ltd w/ flow | 0.51 | 0.18 | 0.18 | 0.02 | XXX
78601 | TC | A | Brain imaging, ltd w/ flow | 0.00 | NA | 3.52 | 0.15 | XXX
78605 |  | A | Brain imaging, complete | 0.53 | NA | 3.71 | 0.17 | XXX
78605 | 26 | A | Brain imaging, complete | 0.53 | 0.19 | 0.19 | 0.02 | XXX
78605 | TC | A | Brain imaging, complete | 0.00 | NA | 3.52 | 0.15 | XXX
78606 |  | A | Brain imaging, compl w/flow | 0.64 | NA | 4.22 | 0.20 | XXX
78606 | 26 | A | Brain imaging, compl w/flow | 0.64 | 0.22 | 0.22 | 0.03 | XXX
78606 | TC | A | Brain imaging, compl w/flow | 0.00 | NA | 4.00 | 0.17 | XXX
78607 |  | A | Brain imaging (3D) | 1.23 | NA | 7.22 | 0.34 | XXX
78607 | 26 | A | Brain imaging (3D) | 1.23 | 0.45 | 0.45 | 0.05 | XXX
78607 | TC | A | Brain imaging (3D) | 0.00 | NA | 6.77 | 0.29 | XXX
78608 |  | N | Brain imaging (PET) | 0.00 | 0.00 | 0.00 | 0.00 | XXX
78609 |  | N | Brain imaging (PET) | 0.00 | 0.00 | 0.00 | 0.00 | XXX
78610 |  | A | Brain flow imaging only | 0.30 | NA | 1.74 | 0.09 | XXX
78610 | 26 | A | Brain flow imaging only | 0.30 | 0.11 | 0.11 | 0.01 | XXX
78610 | TC | A | Brain flow imaging only | 0.00 | NA | 1.63 | 0.08 | XXX
78615 |  | A | Cerebral vascular flow image | 0.42 | NA | 4.14 | 0.19 | XXX
78615 | 26 | A | Cerebral vascular flow image | 0.42 | 0.16 | 0.16 | 0.02 | XXX
78615 | TC | A | Cerebral vascular flow image | 0.00 | NA | 3.98 | 0.17 | XXX
78630 |  | A | Cerebrospinal fluid scan | 0.68 | NA | 5.44 | 0.25 | XXX
78630 | 26 | A | Cerebrospinal fluid scan | 0.68 | 0.24 | 0.24 | 0.03 | XXX
78630 | TC | A | Cerebrospinal fluid scan | 0.00 | NA | 5.21 | 0.22 | XXX
78635 |  | A | CSF ventriculography | 0.61 | NA | 2.87 | 0.14 | XXX
78635 | 26 | A | CSF ventriculography | 0.61 | 0.24 | 0.24 | 0.02 | XXX
78635 | TC | A | CSF ventriculography | 0.00 | NA | 2.63 | 0.12 | XXX
78645 |  | A | CSF shunt evaluation | 0.57 | NA | 3.75 | 0.17 | XXX
78645 | 26 | A | CSF shunt evaluation | 0.57 | 0.20 | 0.20 | 0.02 | XXX
78645 | TC | A | CSF shunt evaluation | 0.00 | NA | 3.55 | 0.15 | XXX
78647 |  | A | Cerebrospinal fluid scan | 0.90 | NA | 6.43 | 0.29 | XXX
78647 | 26 | A | Cerebrospinal fluid scan | 0.90 | 0.33 | 0.33 | 0.03 | XXX
78647 | TC | A | Cerebrospinal fluid scan | 0.00 | NA | 6.11 | 0.26 | XXX
78650 |  | A | CSF leakage imaging | 0.61 | NA | 5.01 | 0.22 | XXX
78650 | 26 | A | CSF leakage imaging | 0.61 | 0.22 | 0.22 | 0.02 | XXX
78650 | TC | A | CSF leakage imaging | 0.00 | NA | 4.80 | 0.20 | XXX
78660 |  | A | Nuclear exam of tear flow | 0.53 | NA | 2.37 | 0.12 | XXX
78660 | 26 | A | Nuclear exam of tear flow | 0.53 | 0.19 | 0.19 | 0.02 | XXX
78660 | TC | A | Nuclear exam of tear flow | 0.00 | NA | 2.19 | 0.10 | XXX
78699 |  | C | Nervous system nuclear exam | 0.00 | 0.00 | 0.00 | 0.00 | XXX
78699 | 26 | C | Nervous system nuclear exam | 0.00 | 0.00 | 0.00 | 0.00 | XXX
78699 | TC | C | Nervous system nuclear exam | 0.00 | 0.00 | 0.00 | 0.00 | XXX
78700 |  | A | Kidney imaging, static | 0.45 | NA | 3.30 | 0.15 | XXX
78700 | 26 | A | Kidney imaging, static | 0.45 | 0.16 | 0.16 | 0.02 | XXX
78700 | TC | A | Kidney imaging, static | 0.00 | NA | 3.15 | 0.13 | XXX
78701 |  | A | Kidney imaging with flow | 0.49 | NA | 3.85 | 0.17 | XXX
78701 | 26 | A | Kidney imaging with flow | 0.49 | 0.17 | 0.17 | 0.02 | XXX
78701 | TC | A | Kidney imaging with flow | 0.00 | NA | 3.68 | 0.15 | XXX
78704 |  | A | Imaging renogram | 0.74 | NA | 4.35 | 0.20 | XXX
78704 | 26 | A | Imaging renogram | 0.74 | 0.26 | 0.26 | 0.03 | XXX
78704 | TC | A | Imaging renogram | 0.00 | NA | 4.09 | 0.17 | XXX
78707 |  | A | Kidney flow/function image | 0.96 | NA | 4.95 | 0.23 | XXX
78707 | 26 | A | Kidney flow/function image | 0.96 | 0.34 | 0.34 | 0.04 | XXX
78707 | TC | A | Kidney flow/function image | 0.00 | NA | 4.62 | 0.19 | XXX
78708 |  | A | Kidney flow/function image | 1.21 | NA | 5.04 | 0.24 | XXX
78708 | 26 | A | Kidney flow/function image | 1.21 | 0.43 | 0.43 | 0.05 | XXX
78708 | TC | A | Kidney flow/function image | 0.00 | NA | 4.62 | 0.19 | XXX
78709 |  | A | Kidney flow/function image | 1.41 | NA | 5.11 | 0.25 | XXX
78709 | 26 | A | Kidney flow/function image | 1.41 | 0.49 | 0.49 | 0.06 | XXX
78709 | TC | A | Kidney flow/function image | 0.00 | NA | 4.62 | 0.19 | XXX
78710 |  | A | Kidney imaging (3D) | 0.66 | NA | 6.34 | 0.29 | XXX
78710 | 26 | A | Kidney imaging (3D) | 0.66 | 0.23 | 0.23 | 0.03 | XXX
78710 | TC | A | Kidney imaging (3D) | 0.00 | NA | 6.11 | 0.26 | XXX
78715 |  | A | Renal vascular flow exam | 0.30 | NA | 1.74 | 0.09 | XXX
78715 | 26 | A | Renal vascular flow exam | 0.30 | 0.11 | 0.11 | 0.01 | XXX
78715 | TC | A | Renal vascular flow exam | 0.00 | NA | 1.63 | 0.08 | XXX
78725 |  | A | Kidney function study | 0.38 | NA | 1.97 | 0.10 | XXX
78725 | 26 | A | Kidney function study | 0.38 | 0.13 | 0.13 | 0.01 | XXX
78725 | TC | A | Kidney function study | 0.00 | NA | 1.84 | 0.09 | XXX
78730 |  | A | Urinary bladder retention | 0.36 | NA | 1.64 | 0.09 | XXX
78730 | 26 | A | Urinary bladder retention | 0.36 | 0.13 | 0.13 | 0.02 | XXX
78730 | TC | A | Urinary bladder retention | 0.00 | NA | 1.51 | 0.07 | XXX
78740 |  | A | Ureteral reflux study | 0.57 | NA | 2.38 | 0.12 | XXX
78740 | 26 | A | Ureteral reflux study | 0.57 | 0.20 | 0.20 | 0.02 | XXX
78740 | TC | A | Ureteral reflux study | 0.00 | NA | 2.19 | 0.10 | XXX
78760 |  | A | Testicular imaging | 0.66 | NA | 2.99 | 0.15 | XXX
78760 | 26 | A | Testicular imaging | 0.66 | 0.23 | 0.23 | 0.03 | XXX
78760 | TC | A | Testicular imaging | 0.00 | NA | 2.77 | 0.12 | XXX
78761 |  | A | Testicular imaging/flow | 0.71 | NA | 3.56 | 0.17 | XXX
78761 | 26 | A | Testicular imaging/flow | 0.71 | 0.25 | 0.25 | 0.03 | XXX
78761 | TC | A | Testicular imaging/flow | 0.00 | NA | 3.31 | 0.14 | XXX
78799 |  | C | Genitourinary nuclear exam | 0.00 | 0.00 | 0.00 | 0.00 | XXX
78799 | 26 | C | Genitourinary nuclear exam | 0.00 | 0.00 | 0.00 | 0.00 | XXX
78799 | TC | C | Genitourinary nuclear exam | 0.00 | 0.00 | 0.00 | 0.00 | XXX
78800 |  | A | Tumor imaging, limited area | 0.66 | NA | 3.75 | 0.18 | XXX
78800 | 26 | A | Tumor imaging, limited area | 0.66 | 0.23 | 0.23 | 0.03 | XXX
78800 | TC | A | Tumor imaging, limited area | 0.00 | NA | 3.52 | 0.15 | XXX
78801 |  | A | Tumor imaging, mult areas | 0.79 | NA | 4.64 | 0.21 | XXX
78801 | 26 | A | Tumor imaging, mult areas | 0.79 | 0.28 | 0.28 | 0.03 | XXX
78801 | TC | A | Tumor imaging, mult areas | 0.00 | NA | 4.37 | 0.18 | XXX
78802 |  | A | Tumor imaging, whole body | 0.86 | NA | 6.02 | 0.28 | XXX
78802 | 26 | A | Tumor imaging, whole body | 0.86 | 0.31 | 0.31 | 0.03 | XXX
78802 | TC | A | Tumor imaging, whole body | 0.00 | NA | 5.72 | 0.25 | XXX
78803 |  | A | Tumor imaging (3D) | 1.09 | NA | 7.17 | 0.33 | XXX
78803 | 26 | A | Tumor imaging (3D) | 1.09 | 0.40 | 0.40 | 0.04 | XXX
78803 | TC | A | Tumor imaging (3D) | 0.00 | NA | 6.77 | 0.29 | XXX
78805 |  | A | Abscess imaging, ltd area | 0.73 | NA | 3.78 | 0.18 | XXX
78805 | 26 | A | Abscess imaging, ltd area | 0.73 | 0.26 | 0.26 | 0.03 | XXX
78805 | TC | A | Abscess imaging, ltd area | 0.00 | NA | 3.52 | 0.15 | XXX
78806 |  | A | Abscess imaging, whole body | 0.86 | NA | 6.95 | 0.32 | XXX
78806 | 26 | A | Abscess imaging, whole body | 0.86 | 0.31 | 0.31 | 0.03 | XXX
78806 | TC | A | Abscess imaging, whole body | 0.00 | NA | 6.64 | 0.29 | XXX
78807 |  | A | Nuclear localization/abscess | 1.09 | NA | 7.18 | 0.33 | XXX
78807 | 26 | A | Nuclear localization/abscess | 1.09 | 0.41 | 0.41 | 0.04 | XXX
78807 | TC | A | Nuclear localization/abscess | 0.00 | NA | 6.77 | 0.29 | XXX
78810 |  | N | Tumor imaging (PET) | 0.00 | 0.00 | 0.00 | 0.00 | XXX
78810 | 26 | N | Tumor imaging (PET) | 1.93 | 0.75 | 0.75 | 0.09 | XXX
78810 | TC | N | Tumor imaging (PET) | 0.00 | 0.00 | 0.00 | 0.00 | XXX
78890 |  | B | Nuclear medicine data proc | 0.05 | NA | 1.37 | 0.06 | XXX
78890 | 26 | B | Nuclear medicine data proc | 0.05 | 0.02 | 0.02 | 0.01 | XXX
78890 | TC | B | Nuclear medicine data proc | 0.00 | NA | 1.35 | 0.05 | XXX
78891 |  | B | Nuclear med data proc | 0.10 | NA | 2.75 | 0.12 | XXX
78891 | 26 | B | Nuclear med data proc | 0.10 | 0.04 | 0.04 | 0.01 | XXX
78891 | TC | B | Nuclear med data proc | 0.00 | NA | 2.71 | 0.11 | XXX
78990 |  | I | Provide diag radionuclide(s) | 0.00 | 0.00 | 0.00 | 0.00 | XXX
78999 |  | C | Nuclear diagnostic exam | 0.00 | 0.00 | 0.00 | 0.00 | XXX
78999 | 26 | C | Nuclear diagnostic exam | 0.00 | 0.00 | 0.00 | 0.00 | XXX
78999 | TC | C | Nuclear diagnostic exam | 0.00 | 0.00 | 0.00 | 0.00 | XXX
79000 |  | A | Init hyperthyroid therapy | 1.80 | NA | 3.34 | 0.19 | XXX
79000 | 26 | A | Init hyperthyroid therapy | 1.80 | 0.63 | 0.63 | 0.07 | XXX
79000 | TC | A | Init hyperthyroid therapy | 0.00 | NA | 2.71 | 0.12 | XXX
79001 |  | A | Repeat hyperthyroid therapy | 1.05 | NA | 1.72 | 0.10 | XXX
79001 | 26 | A | Repeat hyperthyroid therapy | 1.05 | 0.37 | 0.37 | 0.04 | XXX
79001 | TC | A | Repeat hyperthyroid therapy | 0.00 | NA | 1.35 | 0.06 | XXX
79020 |  | A | Thyroid ablation | 1.81 | NA | 3.33 | 0.19 | XXX
79020 | 26 | A | Thyroid ablation | 1.81 | 0.62 | 0.62 | 0.07 | XXX
79020 | TC | A | Thyroid ablation | 0.00 | NA | 2.71 | 0.12 | XXX
79030 |  | A | Thyroid ablation, carcinoma | 2.10 | NA | 3.45 | 0.20 | XXX
79030 | 26 | A | Thyroid ablation, carcinoma | 2.10 | 0.74 | 0.74 | 0.08 | XXX
79030 | TC | A | Thyroid ablation, carcinoma | 0.00 | NA | 2.71 | 0.12 | XXX
79035 |  | A | Thyroid metastatic therapy | 2.52 | NA | 3.62 | 0.21 | XXX
79035 | 26 | A | Thyroid metastatic therapy | 2.52 | 0.91 | 0.91 | 0.09 | XXX
79035 | TC | A | Thyroid metastatic therapy | 0.00 | NA | 2.71 | 0.12 | XXX
79100 |  | A | Hematopoetic nuclear therapy | 1.32 | NA | 3.19 | 0.17 | XXX
79100 | 26 | A | Hematopoetic nuclear therapy | 1.32 | 0.48 | 0.48 | 0.05 | XXX
79100 | TC | A | Hematopoetic nuclear therapy | 0.00 | NA | 2.71 | 0.12 | XXX
79200 |  | A | Intracavitary nuclear trmt | 1.99 | NA | 3.43 | 0.19 | XXX
79200 | 26 | A | Intracavitary nuclear trmt | 1.99 | 0.72 | 0.72 | 0.07 | XXX
79200 | TC | A | Intracavitary nuclear trmt | 0.00 | NA | 2.71 | 0.12 | XXX
79300 |  | C | Interstitial nuclear therapy | 0.00 | 0.00 | 0.00 | 0.00 | XXX
79300 | 26 | A | Interstitial nuclear therapy | 1.60 | 0.59 | 0.59 | 0.07 | XXX
79300 | TC | C | Interstitial nuclear therapy | 0.00 | 0.00 | 0.00 | 0.00 | XXX
79400 |  | A | Nonhemato nuclear therapy | 1.96 | NA | 3.41 | 0.20 | XXX
79400 | 26 | A | Nonhemato nuclear therapy | 1.96 | 0.70 | 0.70 | 0.08 | XXX
79400 | TC | A | Nonhemato nuclear therapy | 0.00 | NA | 2.71 | 0.12 | XXX
79420 |  | C | Intravascular nuclear ther | 0.00 | 0.00 | 0.00 | 0.00 | XXX
79420 | 26 | A | Intravascular nuclear ther | 1.51 | 0.53 | 0.53 | 0.06 | XXX
79420 | TC | C | Intravascular nuclear ther | 0.00 | 0.00 | 0.00 | 0.00 | XXX
79440 |  | A | Nuclear joint therapy | 1.99 | NA | 3.46 | 0.20 | XXX
79440 | 26 | A | Nuclear joint therapy | 1.99 | 0.75 | 0.75 | 0.08 | XXX
79440 | TC | A | Nuclear joint therapy | 0.00 | NA | 2.71 | 0.12 | XXX
79900 |  | C | Provide ther radiopharm(s) | 0.00 | 0.00 | 0.00 | 0.00 | XXX
79999 |  | C | Nuclear medicine therapy | 0.00 | 0.00 | 0.00 | 0.00 | XXX
79999 | 26 | C | Nuclear medicine therapy | 0.00 | 0.00 | 0.00 | 0.00 | XXX
79999 | TC | C | Nuclear medicine therapy | 0.00 | 0.00 | 0.00 | 0.00 | XXX
80500 |  | A | Lab pathology consultation | 0.37 | 0.17 | 0.22 | 0.01 | XXX
80502 |  | A | Lab pathology consultation | 1.33 | 0.60 | 0.64 | 0.05 | XXX
83020 | 26 | A | Hemoglobin electrophoresis | 0.37 | 0.16 | 0.16 | 0.01 | XXX
83912 | 26 | A | Genetic examination | 0.37 | 0.15 | 0.15 | 0.01 | XXX
84165 | 26 | A | Assay of serum proteins | 0.37 | 0.16 | 0.16 | 0.01 | XXX
84181 | 26 | A | Western blot test | 0.37 | 0.16 | 0.16 | 0.01 | XXX
84182 | 26 | A | Protein, western blot test | 0.37 | 0.14 | 0.14 | 0.01 | XXX
85060 |  | A | Blood smear interpretation | 0.45 | 0.19 | 0.19 | 0.02 | XXX
85097 |  | A | Bone marrow interpretation | 0.94 | 0.41 | 1.85 | 0.03 | XXX
85390 | 26 | A | Fibrinolysins screen | 0.37 | 0.13 | 0.13 | 0.01 | XXX
85576 | 26 | A | Blood platelet aggregation | 0.37 | 0.16 | 0.16 | 0.01 | XXX
86077 |  | A | Physician blood bank service | 0.94 | 0.42 | 0.47 | 0.03 | XXX
86078 |  | A | Physician blood bank service | 0.94 | 0.42 | 0.51 | 0.03 | XXX
86079 |  | A | Physician blood bank service | 0.94 | 0.42 | 0.51 | 0.03 | XXX
86255 | 26 | A | Fluorescent antibody, screen | 0.37 | 0.17 | 0.17 | 0.01 | XXX
86256 | 26 | A | Fluorescent antibody, titer | 0.37 | 0.16 | 0.16 | 0.01 | XXX
86320 | 26 | A | Serum immunoelectrophoresis | 0.37 | 0.16 | 0.17 | 0.01 | XXX
86325 | 26 | A | Other immunoelectrophoresis | 0.37 | 0.16 | 0.16 | 0.01 | XXX
86327 | 26 | A | Immunoelectrophoresis assay | 0.42 | 0.19 | 0.19 | 0.01 | XXX
86334 | 26 | A | Immunofixation procedure | 0.37 | 0.16 | 0.16 | 0.01 | XXX
86485 |  | C | Skin test, candida | 0.00 | 0.00 | 0.00 | 0.00 | XXX
86490 |  | A | Coccidioidomycosis skin test | 0.00 | NA | 0.30 | 0.02 | XXX
86510 |  | A | Histoplasmosis skin test | 0.00 | NA | 0.33 | 0.02 | XXX
86580 |  | A | TB intradermal test | 0.00 | NA | 0.26 | 0.02 | XXX
86585 |  | A | TB tine test | 0.00 | NA | 0.21 | 0.01 | XXX
86586 |  | C | Skin test, unlisted | 0.00 | 0.00 | 0.00 | 0.00 | XXX
87164 | 26 | A | Dark field examination | 0.37 | 0.12 | 0.12 | 0.01 | XXX
87207 | 26 | A | Smear, special stain | 0.37 | 0.17 | 0.17 | 0.01 | XXX
88104 |  | A | Cytopathology, fluids | 0.56 | NA | 0.69 | 0.04 | XXX
88104 | 26 | A | Cytopathology, fluids | 0.56 | 0.25 | 0.25 | 0.02 | XXX
88104 | TC | A | Cytopathology, fluids | 0.00 | NA | 0.44 | 0.02 | XXX
88106 |  | A | Cytopathology, fluids | 0.56 | NA | 1.09 | 0.04 | XXX
88106 | 26 | A | Cytopathology, fluids | 0.56 | 0.25 | 0.25 | 0.02 | XXX
88106 | TC | A | Cytopathology, fluids | 0.00 | NA | 0.84 | 0.02 | XXX
88107 |  | A | Cytopathology, fluids | 0.76 | NA | 1.20 | 0.05 | XXX
88107 | 26 | A | Cytopathology, fluids | 0.76 | 0.34 | 0.34 | 0.03 | XXX
88107 | TC | A | Cytopathology, fluids | 0.00 | NA | 0.85 | 0.02 | XXX
88108 |  | A | Cytopath, concentrate tech | 0.56 | NA | 0.98 | 0.04 | XXX
88108 | 26 | A | Cytopath, concentrate tech | 0.56 | 0.25 | 0.25 | 0.02 | XXX
88108 | TC | A | Cytopath, concentrate tech | 0.00 | NA | 0.73 | 0.02 | XXX
88125 |  | A | Forensic cytopathology | 0.26 | NA | 0.28 | 0.02 | XXX
88125 | 26 | A | Forensic cytopathology | 0.26 | 0.12 | 0.12 | 0.01 | XXX
88125 | TC | A | Forensic cytopathology | 0.00 | NA | 0.16 | 0.01 | XXX
88141 |  | A | Cytopath, c/v, interpret | 0.42 | 0.19 | 0.19 | 0.01 | XXX
88160 |  | A | Cytopath smear, other source | 0.50 | NA | 0.73 | 0.04 | XXX
88160 | 26 | A | Cytopath smear, other source | 0.50 | 0.22 | 0.22 | 0.02 | XXX
88160 | TC | A | Cytopath smear, other source | 0.00 | NA | 0.50 | 0.02 | XXX
88161 |  | A | Cytopath smear, other source | 0.50 | NA | 0.82 | 0.04 | XXX
88161 | 26 | A | Cytopath smear, other source | 0.50 | 0.22 | 0.22 | 0.02 | XXX
88161 | TC | A | Cytopath smear, other source | 0.00 | NA | 0.60 | 0.02 | XXX
88162 |  | A | Cytopath smear, other source | 0.76 | NA | 0.61 | 0.05 | XXX
88162 | 26 | A | Cytopath smear, other source | 0.76 | 0.34 | 0.34 | 0.03 | XXX
88162 | TC | A | Cytopath smear, other source | 0.00 | NA | 0.27 | 0.02 | XXX
88172 |  | A | Cytopathology eval of fna | 0.60 | NA | 0.73 | 0.04 | XXX
88172 | 26 | A | Cytopathology eval of fna | 0.60 | 0.27 | 0.27 | 0.02 | XXX
88172 | TC | A | Cytopathology eval of fna | 0.00 | NA | 0.46 | 0.02 | XXX
88173 |  | A | Cytopath eval, fna, report | 1.39 | NA | 1.98 | 0.07 | XXX
88173 | 26 | A | Cytopath eval, fna, report | 1.39 | 0.62 | 0.62 | 0.05 | XXX
88173 | TC | A | Cytopath eval, fna, report | 0.00 | NA | 1.36 | 0.02 | XXX
88180 |  | A | Cell marker study | 0.36 | NA | 0.39 | 0.03 | XXX
88180 | 26 | A | Cell marker study | 0.36 | 0.16 | 0.16 | 0.01 | XXX
88180 | TC | A | Cell marker study | 0.00 | NA | 0.23 | 0.02 | XXX
88182 |  | A | Cell marker study | 0.77 | NA | 0.84 | 0.06 | XXX
88182 | 26 | A | Cell marker study | 0.77 | 0.35 | 0.35 | 0.03 | XXX
88182 | TC | A | Cell marker study | 0.00 | NA | 0.49 | 0.03 | XXX
88199 |  | C | Cytopathology procedure | 0.00 | 0.00 | 0.00 | 0.00 | XXX
88199 | 26 | C | Cytopathology procedure | 0.00 | 0.00 | 0.00 | 0.00 | XXX
88199 | TC | C | Cytopathology procedure | 0.00 | 0.00 | 0.00 | 0.00 | XXX
88291 |  | A | Cyto/molecular report | 0.52 | 0.23 | 0.23 | 0.02 | XXX
88299 |  | C | Cytogenetic study | 0.00 | 0.00 | 0.00 | 0.00 | XXX
88300 |  | A | Surgical path, gross | 0.08 | NA | 0.36 | 0.02 | XXX
88300 | 26 | A | Surgical path, gross | 0.08 | 0.04 | 0.04 | 0.01 | XXX
88300 | TC | A | Surgical path, gross | 0.00 | NA | 0.32 | 0.01 | XXX
88302 |  | A | Tissue exam by pathologist | 0.13 | NA | 0.83 | 0.03 | XXX
88302 | 26 | A | Tissue exam by pathologist | 0.13 | 0.06 | 0.06 | 0.01 | XXX
88302 | TC | A | Tissue exam by pathologist | 0.00 | NA | 0.77 | 0.02 | XXX
88304 |  | A | Tissue exam by pathologist | 0.22 | NA | 1.05 | 0.03 | XXX
88304 | 26 | A | Tissue exam by pathologist | 0.22 | 0.10 | 0.10 | 0.01 | XXX
88304 | TC | A | Tissue exam by pathologist | 0.00 | NA | 0.95 | 0.02 | XXX
88305 |  | A | Tissue exam by pathologist | 0.75 | NA | 1.60 | 0.05 | XXX
88305 | 26 | A | Tissue exam by pathologist | 0.75 | 0.34 | 0.34 | 0.02 | XXX
88305 | TC | A | Tissue exam by pathologist | 0.00 | NA | 1.26 | 0.03 | XXX
88307 |  | A | Tissue exam by pathologist | 1.59 | NA | 2.81 | 0.11 | XXX
88307 | 26 | A | Tissue exam by pathologist | 1.59 | 0.71 | 0.71 | 0.06 | XXX
88307 | TC | A | Tissue exam by pathologist | 0.00 | NA | 2.09 | 0.05 | XXX
88309 |  | A | Tissue exam by pathologist | 2.28 | NA | 3.92 | 0.13 | XXX
88309 | 26 | A | Tissue exam by pathologist | 2.28 | 1.02 | 1.02 | 0.08 | XXX
88309 | TC | A | Tissue exam by pathologist | 0.00 | NA | 2.90 | 0.05 | XXX
88311 |  | A | Decalcify tissue | 0.24 | NA | 0.21 | 0.02 | XXX
88311 | 26 | A | Decalcify tissue | 0.24 | 0.11 | 0.11 | 0.01 | XXX
88311 | TC | A | Decalcify tissue | 0.00 | NA | 0.11 | 0.01 | XXX
88312 |  | A | Special stains | 0.54 | NA | 1.56 | 0.03 | XXX
88312 | 26 | A | Special stains | 0.54 | 0.24 | 0.24 | 0.02 | XXX
88312 | TC | A | Special stains | 0.00 | NA | 1.32 | 0.01 | XXX
88313 |  | A | Special stains | 0.24 | NA | 0.97 | 0.02 | XXX
88313 | 26 | A | Special stains | 0.24 | 0.11 | 0.11 | 0.01 | XXX
88313 | TC | A | Special stains | 0.00 | NA | 0.86 | 0.01 | XXX
88314 |  | A | Histochemical stain | 0.45 | NA | 1.74 | 0.04 | XXX
88314 | 26 | A | Histochemical stain | 0.45 | 0.20 | 0.20 | 0.02 | XXX
88314 | TC | A | Histochemical stain | 0.00 | NA | 1.54 | 0.02 | XXX
88318 |  | A | Chemical histochemistry | 0.42 | NA | 0.87 | 0.02 | XXX
88318 | 26 | A | Chemical histochemistry | 0.42 | 0.19 | 0.19 | 0.01 | XXX
88318 | TC | A | Chemical histochemistry | 0.00 | NA | 0.68 | 0.01 | XXX
88319 |  | A | Enzyme histochemistry | 0.53 | NA | 4.03 | 0.04 | XXX
88319 | 26 | A | Enzyme histochemistry | 0.53 | 0.24 | 0.24 | 0.02 | XXX
88319 | TC | A | Enzyme histochemistry | 0.00 | NA | 3.80 | 0.02 | XXX
88321 |  | A | Microslide consultation | 1.30 | 0.58 | 0.61 | 0.04 | XXX
88323 |  | A | Microslide consultation | 1.35 | NA | 1.62 | 0.07 | XXX
88323 | 26 | A | Microslide consultation | 1.35 | 0.61 | 0.61 | 0.05 | XXX
88323 | TC | A | Microslide consultation | 0.00 | NA | 1.01 | 0.02 | XXX
88325 |  | A | Comprehensive review of data | 2.22 | 0.95 | 0.95 | 0.08 | XXX
88329 |  | A | Path consult introp | 0.67 | 0.30 | 0.39 | 0.02 | XXX
88331 |  | A | Path consult intraop, 1 bloc | 1.19 | NA | 0.91 | 0.07 | XXX
88331 | 26 | A | Path consult intraop, 1 bloc | 1.19 | 0.54 | 0.54 | 0.04 | XXX
88331 | TC | A | Path consult intraop, 1 bloc | 0.00 | NA | 0.38 | 0.03 | XXX
88332 |  | A | Path consult intraop, addl | 0.59 | NA | 0.43 | 0.04 | XXX
88332 | 26 | A | Path consult intraop, addl | 0.59 | 0.27 | 0.27 | 0.02 | XXX
88332 | TC | A | Path consult intraop, addl | 0.00 | NA | 0.17 | 0.02 | XXX
88342 |  | A | Immunocytochemistry | 0.85 | NA | 1.12 | 0.05 | XXX
88342 | 26 | A | Immunocytochemistry | 0.85 | 0.38 | 0.38 | 0.03 | XXX
88342 | TC | A | Immunocytochemistry | 0.00 | NA | 0.74 | 0.02 | XXX
88346 |  | A | Immunofluorescent study | 0.86 | NA | 1.44 | 0.05 | XXX
88346 | 26 | A | Immunofluorescent study | 0.86 | 0.38 | 0.38 | 0.03 | XXX
88346 | TC | A | Immunofluorescent study | 0.00 | NA | 1.05 | 0.02 | XXX
88347 |  | A | Immunofluorescent study | 0.86 | NA | 1.22 | 0.05 | XXX
88347 | 26 | A | Immunofluorescent study | 0.86 | 0.36 | 0.36 | 0.03 | XXX
88347 | TC | A | Immunofluorescent study | 0.00 | NA | 0.86 | 0.02 | XXX
88348 |  | A | Electron microscopy | 1.51 | NA | 4.62 | 0.11 | XXX
88348 | 26 | A | Electron microscopy | 1.51 | 0.67 | 0.67 | 0.05 | XXX
88348 | TC | A | Electron microscopy | 0.00 | NA | 3.94 | 0.06 | XXX
88349 |  | A | Scanning electron microscopy | 0.76 | NA | 2.27 | 0.08 | XXX
88349 | 26 | A | Scanning electron microscopy | 0.76 | 0.34 | 0.34 | 0.03 | XXX
88349 | TC | A | Scanning electron microscopy | 0.00 | NA | 1.93 | 0.05 | XXX
88355 |  | A | Analysis, skeletal muscle | 1.85 | NA | 8.03 | 0.12 | XXX
88355 | 26 | A | Analysis, skeletal muscle | 1.85 | 0.83 | 0.83 | 0.07 | XXX
88355 | TC | A | Analysis, skeletal muscle | 0.00 | NA | 7.21 | 0.05 | XXX
88356 |  | A | Analysis, nerve | 3.02 | NA | 4.07 | 0.16 | XXX
88356 | 26 | A | Analysis, nerve | 3.02 | 1.31 | 1.31 | 0.10 | XXX
88356 | TC | A | Analysis, nerve | 0.00 | NA | 2.76 | 0.06 | XXX
88358 |  | A | Analysis, tumor | 2.82 | NA | 1.78 | 0.16 | XXX
88358 | 26 | A | Analysis, tumor | 2.82 | 1.27 | 1.27 | 0.10 | XXX
88358 | TC | A | Analysis, tumor | 0.00 | NA | 0.52 | 0.06 | XXX
88362 |  | A | Nerve teasing preparations | 2.17 | NA | 4.18 | 0.12 | XXX
88362 | 26 | A | Nerve teasing preparations | 2.17 | 0.95 | 0.95 | 0.07 | XXX
88362 | TC | A | Nerve teasing preparations | 0.00 | NA | 3.23 | 0.05 | XXX
88365 |  | A | Tissue hybridization | 0.93 | NA | 1.73 | 0.05 | XXX
88365 | 26 | A | Tissue hybridization | 0.93 | 0.41 | 0.41 | 0.03 | XXX
88365 | TC | A | Tissue hybridization | 0.00 | NA | 1.32 | 0.02 | XXX
88371 | 26 | A | Protein, western blot tissue | 0.37 | 0.14 | 0.14 | 0.01 | XXX
88372 | 26 | A | Protein analysis w/probe | 0.37 | 0.17 | 0.17 | 0.01 | XXX
88380 |  | C | Microdissection | 0.00 | 0.00 | 0.00 | 0.00 | XXX
88380 | 26 | C | Microdissection | 0.00 | 0.00 | 0.00 | 0.00 | XXX
88380 | TC | C | Microdissection | 0.00 | 0.00 | 0.00 | 0.00 | XXX
88399 |  | C | Surgical pathology procedure | 0.00 | 0.00 | 0.00 | 0.00 | XXX
88399 | 26 | C | Surgical pathology procedure | 0.00 | 0.00 | 0.00 | 0.00 | XXX
88399 | TC | C | Surgical pathology procedure | 0.00 | 0.00 | 0.00 | 0.00 | XXX
89060 | 26 | A | Exam synovial fluid crystals | 0.37 | 0.17 | 0.17 | 0.01 | XXX
89100 |  | A | Sample intestinal contents | 0.60 | 0.22 | 1.75 | 0.02 | XXX
89105 |  | A | Sample intestinal contents | 0.50 | 0.17 | 2.33 | 0.02 | XXX
89130 |  | A | Sample stomach contents | 0.45 | 0.13 | 1.99 | 0.02 | XXX
89132 |  | A | Sample stomach contents | 0.19 | 0.06 | 1.76 | 0.01 | XXX
89135 |  | A | Sample stomach contents | 0.79 | 0.26 | 1.78 | 0.03 | XXX
89136 |  | A | Sample stomach contents | 0.21 | 0.08 | 1.72 | 0.01 | XXX
89140 |  | A | Sample stomach contents | 0.94 | 0.28 | 2.22 | 0.03 | XXX
89141 |  | A | Sample stomach contents | 0.85 | 0.35 | 2.84 | 0.03 | XXX
89350 |  | A | Sputum specimen collection | 0.00 | NA | 0.42 | 0.02 | XXX
89360 |  | A | Collect sweat for test | 0.00 | NA | 0.47 | 0.02 | XXX
89399 |  | C | Pathology lab procedure | 0.00 | 0.00 | 0.00 | 0.00 | XXX
89399 | 26 | C | Pathology lab procedure | 0.00 | 0.00 | 0.00 | 0.00 | XXX
89399 | TC | C | Pathology lab procedure | 0.00 | 0.00 | 0.00 | 0.00 | XXX
90281 |  | I | Human ig, im | 0.00 | 0.00 | 0.00 | 0.00 | XXX
90283 |  | I | Human ig, iv | 0.00 | 0.00 | 0.00 | 0.00 | XXX
90287 |  | I | Botulinum antitoxin | 0.00 | 0.00 | 0.00 | 0.00 | XXX
90288 |  | I | Botulism ig, iv | 0.00 | 0.00 | 0.00 | 0.00 | XXX
90291 |  | I | Cmv ig, iv | 0.00 | 0.00 | 0.00 | 0.00 | XXX
90296 |  | E | Diphtheria antitoxin | 0.00 | 0.00 | 0.00 | 0.00 | XXX
90371 |  | E | Hep b ig, im | 0.00 | 0.00 | 0.00 | 0.00 | XXX
90375 |  | E | Rabies ig, im/sc | 0.00 | 0.00 | 0.00 | 0.00 | XXX
90376 |  | E | Rabies ig, heat treated | 0.00 | 0.00 | 0.00 | 0.00 | XXX
90378 |  | X | Rsv ig, im, 50mg | 0.00 | 0.00 | 0.00 | 0.00 | XXX
90379 |  | I | Rsv ig, iv | 0.00 | 0.00 | 0.00 | 0.00 | XXX
90384 |  | I | Rh ig, full-dose, im | 0.00 | 0.00 | 0.00 | 0.00 | XXX
90385 |  | E | Rh ig, minidose, im | 0.00 | 0.00 | 0.00 | 0.00 | XXX
90386 |  | I | Rh ig, iv | 0.00 | 0.00 | 0.00 | 0.00 | XXX
90389 |  | I | Tetanus ig, im | 0.00 | 0.00 | 0.00 | 0.00 | XXX
90393 |  | E | Vaccina ig, im | 0.00 | 0.00 | 0.00 | 0.00 | XXX
90396 |  | E | Varicella-zoster ig, im | 0.00 | 0.00 | 0.00 | 0.00 | XXX
90399 |  | I | Immune globulin | 0.00 | 0.00 | 0.00 | 0.00 | XXX
90471 |  | A | Immunization admin | 0.00 | NA | 0.22 | 0.01 | XXX
90472 |  | A | Immunization admin, each add | 0.00 | NA | 0.09 | 0.01 | ZZZ
90473 |  | N | Immune admin oral/nasal | 0.00 | 0.00 | 0.00 | 0.00 | XXX
90474 |  | N | Immune admin oral/nasal addl | 0.00 | 0.00 | 0.00 | 0.00 | ZZZ
90476 |  | E | Adenovirus vaccine, type 4 | 0.00 | 0.00 | 0.00 | 0.00 | XXX
90477 |  | E | Adenovirus vaccine, type 7 | 0.00 | 0.00 | 0.00 | 0.00 | XXX
90581 |  | E | Anthrax vaccine, sc | 0.00 | 0.00 | 0.00 | 0.00 | XXX
90585 |  | E | Bcg vaccine, percut | 0.00 | 0.00 | 0.00 | 0.00 | XXX
90586 |  | E | Bcg vaccine, intravesical | 0.00 | 0.00 | 0.00 | 0.00 | XXX
90632 |  | E | Hep a vaccine, adult im | 0.00 | 0.00 | 0.00 | 0.00 | XXX
90633 |  | E | Hep a vacc, ped/adol, 2 dose | 0.00 | 0.00 | 0.00 | 0.00 | XXX
90634 |  | E | Hep a vacc, ped/adol, 3 dose | 0.00 | 0.00 | 0.00 | 0.00 | XXX
90636 |  | E | Hep a/hep b vacc, adult im | 0.00 | 0.00 | 0.00 | 0.00 | XXX
90645 |  | E | Hib vaccine, hboc, im | 0.00 | 0.00 | 0.00 | 0.00 | XXX
90646 |  | E | Hib vaccine, prp-d, im | 0.00 | 0.00 | 0.00 | 0.00 | XXX
90647 |  | E | Hib vaccine, prp-omp, im | 0.00 | 0.00 | 0.00 | 0.00 | XXX
90648 |  | E | Hib vaccine, prp-t, im | 0.00 | 0.00 | 0.00 | 0.00 | XXX
90657 |  | X | Flu vaccine, 6-35 mo, im | 0.00 | 0.00 | 0.00 | 0.00 | XXX
90658 |  | X | Flu vaccine, 3 yrs, im | 0.00 | 0.00 | 0.00 | 0.00 | XXX
90659 |  | X | Flu vaccine, whole, im | 0.00 | 0.00 | 0.00 | 0.00 | XXX
90660 |  | X | Flu vaccine, nasal | 0.00 | 0.00 | 0.00 | 0.00 | XXX
90665 |  | E | Lyme disease vaccine, im | 0.00 | 0.00 | 0.00 | 0.00 | XXX
90669 |  | N | Pneumococcal vacc, ped<5 | 0.00 | 0.00 | 0.00 | 0.00 | XXX
90675 |  | E | Rabies vaccine, im | 0.00 | 0.00 | 0.00 | 0.00 | XXX
90676 |  | E | Rabies vaccine, id | 0.00 | 0.00 | 0.00 | 0.00 | XXX
90680 |  | E | Rotovirus vaccine, oral | 0.00 | 0.00 | 0.00 | 0.00 | XXX
90690 |  | E | Typhoid vaccine, oral | 0.00 | 0.00 | 0.00 | 0.00 | XXX
90691 |  | E | Typhoid vaccine, im | 0.00 | 0.00 | 0.00 | 0.00 | XXX
90692 |  | E | Typhoid vaccine, h-p, sc/id | 0.00 | 0.00 | 0.00 | 0.00 | XXX
90693 |  | E | Typhoid vaccine, akd, sc | 0.00 | 0.00 | 0.00 | 0.00 | XXX
90700 |  | E | Dtap vaccine, im | 0.00 | 0.00 | 0.00 | 0.00 | XXX
90701 |  | E | Dtp vaccine, im | 0.00 | 0.00 | 0.00 | 0.00 | XXX
90702 |  | E | Dt vaccine < 7, im | 0.00 | 0.00 | 0.00 | 0.00 | XXX
90703 |  | E | Tetanus vaccine, im | 0.00 | 0.00 | 0.00 | 0.00 | XXX
90704 |  | E | Mumps vaccine, sc | 0.00 | 0.00 | 0.00 | 0.00 | XXX
90705 |  | E | Measles vaccine, sc | 0.00 | 0.00 | 0.00 | 0.00 | XXX
90706 |  | E | Rubella vaccine, sc | 0.00 | 0.00 | 0.00 | 0.00 | XXX
90707 |  | E | Mmr vaccine, sc | 0.00 | 0.00 | 0.00 | 0.00 | XXX
90708 |  | E | Measles-rubella vaccine, sc | 0.00 | 0.00 | 0.00 | 0.00 | XXX
90709 |  | E | Rubella & mumps vaccine, sc | 0.00 | 0.00 | 0.00 | 0.00 | XXX
90710 |  | E | Mmrv vaccine, sc | 0.00 | 0.00 | 0.00 | 0.00 | XXX
90712 |  | E | Oral poliovirus vaccine | 0.00 | 0.00 | 0.00 | 0.00 | XXX
90713 |  | E | Poliovirus, ipv, sc | 0.00 | 0.00 | 0.00 | 0.00 | XXX
90716 |  | E | Chicken pox vaccine, sc | 0.00 | 0.00 | 0.00 | 0.00 | XXX
90717 |  | E | Yellow fever vaccine, sc | 0.00 | 0.00 | 0.00 | 0.00 | XXX
90718 |  | E | Td vaccine > 7, im | 0.00 | 0.00 | 0.00 | 0.00 | XXX
90719 |  | E | Diphtheria vaccine, im | 0.00 | 0.00 | 0.00 | 0.00 | XXX
90720 |  | E | Dtp/hib vaccine, im | 0.00 | 0.00 | 0.00 | 0.00 | XXX
90721 |  | E | Dtap/hib vaccine, im | 0.00 | 0.00 | 0.00 | 0.00 | XXX
90723 |  | X | Dtap-hep b-ipv vaccine, im | 0.00 | 0.00 | 0.00 | 0.00 | XXX
90725 |  | E | Cholera vaccine, injectable | 0.00 | 0.00 | 0.00 | 0.00 | XXX
90727 |  | E | Plague vaccine, im | 0.00 | 0.00 | 0.00 | 0.00 | XXX
90732 |  | X | Pneumococcal vaccine | 0.00 | 0.00 | 0.00 | 0.00 | XXX
90733 |  | E | Meningococcal vaccine, sc | 0.00 | 0.00 | 0.00 | 0.00 | XXX
90735 |  | E | Encephalitis vaccine, sc | 0.00 | 0.00 | 0.00 | 0.00 | XXX
90740 |  | X | Hepb vacc, ill pat 3 dose im | 0.00 | 0.00 | 0.00 | 0.00 | XXX
90743 |  | X | Hep b vacc, adol, 2 dose, im | 0.00 | 0.00 | 0.00 | 0.00 | XXX
90744 |  | X | Hepb vacc ped/adol 3 dose im | 0.00 | 0.00 | 0.00 | 0.00 | XXX
90746 |  | X | Hep b vaccine, adult, im | 0.00 | 0.00 | 0.00 | 0.00 | XXX
90747 |  | X | Hepb vacc, ill pat 4 dose im | 0.00 | 0.00 | 0.00 | 0.00 | XXX
90748 |  | E | Hep b/hib vaccine, im | 0.00 | 0.00 | 0.00 | 0.00 | XXX
90749 |  | E | Vaccine toxoid | 0.00 | 0.00 | 0.00 | 0.00 | XXX
90780 |  | A | IV infusion therapy, 1 hour | 0.00 | NA | 1.15 | 0.06 | XXX
90781 |  | A | IV infusion, additional hour | 0.00 | NA | 0.58 | 0.03 | ZZZ
90782 |  | T | Injection, sc/im | 0.00 | NA | 0.11 | 0.01 | XXX
90783 |  | T | Injection, ia | 0.00 | NA | 0.42 | 0.02 | XXX
90784 |  | T | Injection, iv | 0.00 | NA | 0.49 | 0.03 | XXX
90788 |  | T | Injection of antibiotic | 0.00 | NA | 0.12 | 0.01 | XXX
90799 |  | C | Ther/prophylactic/dx inject | 0.00 | 0.00 | 0.00 | 0.00 | XXX
90801 |  | A | Psy dx interview | 2.80 | 0.92 | 1.13 | 0.06 | XXX
90802 |  | A | Intac psy dx interview | 3.01 | 0.98 | 1.19 | 0.07 | XXX
90804 |  | A | Psytx, office, 20-30 min | 1.21 | 0.40 | 0.52 | 0.03 | XXX
90805 |  | A | Psytx, off, 20-30 min w/e&m | 1.37 | 0.44 | 0.58 | 0.03 | XXX
90806 |  | A | Psytx, off, 45-50 min | 1.86 | 0.63 | 0.76 | 0.04 | XXX
90807 |  | A | Psytx, off, 45-50 min w/e&m | 2.02 | 0.65 | 0.77 | 0.05 | XXX
90808 |  | A | Psytx, office, 75-80 min | 2.79 | 0.94 | 1.09 | 0.07 | XXX
90809 |  | A | Psytx, off, 75-80, w/e&m | 2.95 | 0.95 | 1.10 | 0.07 | XXX
90810 |  | A | Intac psytx, off, 20-30 min | 1.32 | 0.44 | 0.55 | 0.03 | XXX
90811 |  | A | Intac psytx, 20-30, w/e&m | 1.48 | 0.47 | 0.60 | 0.03 | XXX
90812 |  | A | Intac psytx, off, 45-50 min | 1.97 | 0.66 | 0.81 | 0.05 | XXX
90813 |  | A | Intac psytx, 45-50 min w/e&m | 2.13 | 0.68 | 0.84 | 0.05 | XXX
90814 |  | A | Intac psytx, off, 75-80 min | 2.90 | 1.01 | 1.16 | 0.07 | XXX
90815 |  | A | Intac psytx, 75-80 w/e&m | 3.06 | 0.98 | 1.19 | 0.07 | XXX
90816 |  | A | Psytx, hosp, 20-30 min | 1.25 | 0.43 | 0.57 | 0.03 | XXX
90817 |  | A | Psytx, hosp, 20-30 min w/e&m | 1.41 | 0.45 | 0.61 | 0.03 | XXX
90818 |  | A | Psytx, hosp, 45-50 min | 1.89 | 0.65 | 0.80 | 0.04 | XXX
90819 |  | A | Psytx, hosp, 45-50 min w/e&m | 2.05 | 0.65 | 0.82 | 0.05 | XXX
90821 |  | A | Psytx, hosp, 75-80 min | 2.83 | 0.96 | 1.12 | 0.06 | XXX
90822 |  | A | Psytx, hosp, 75-80 min w/e&m | 2.99 | 0.95 | 1.14 | 0.07 | XXX
90823 |  | A | Intac psytx, hosp, 20-30 min | 1.36 | 0.45 | 0.65 | 0.03 | XXX
90824 |  | A | Intac psytx, hsp 20-30 w/e&m | 1.52 | 0.48 | 0.68 | 0.03 | XXX
90826 |  | A | Intac psytx, hosp, 45-50 min | 2.01 | 0.68 | 0.89 | 0.04 | XXX
90827 |  | A | Intac psytx, hsp 45-50 w/e&m | 2.16 | 0.68 | 0.89 | 0.05 | XXX
90828 |  | A | Intac psytx, hosp, 75-80 min | 2.94 | 0.99 | 1.25 | 0.07 | XXX
90829 |  | A | Intac psytx, hsp 75-80 w/e&m | 3.10 | 0.98 | 1.20 | 0.07 | XXX
90845 |  | A | Psychoanalysis | 1.79 | 0.57 | 0.69 | 0.04 | XXX
90846 |  | R | Family psytx w/o patient | 1.83 | 0.62 | 0.75 | 0.04 | XXX
90847 |  | R | Family psytx w/patient | 2.21 | 0.74 | 0.86 | 0.05 | XXX
90849 |  | R | Multiple family group psytx | 0.59 | 0.20 | 0.33 | 0.01 | XXX
90853 |  | A | Group psychotherapy | 0.59 | 0.20 | 0.34 | 0.01 | XXX
90857 |  | A | Intac group psytx | 0.63 | 0.22 | 0.36 | 0.02 | XXX
90862 |  | A | Medication management | 0.95 | 0.30 | 0.43 | 0.02 | XXX
90865 |  | A | Narcosynthesis | 2.84 | 0.88 | 1.57 | 0.07 | XXX
90870 |  | A | Electroconvulsive therapy | 1.88 | 0.71 | 0.71 | 0.04 | 000
90871 |  | A | Electroconvulsive therapy | 2.72 | 0.99 | NA | 0.06 | 000
90875 |  | N | Psychophysiological therapy | 1.20 | 0.46 | 0.88 | 0.03 | XXX
90876 |  | N | Psychophysiological therapy | 1.90 | 0.73 | 1.16 | 0.04 | XXX
90880 |  | A | Hypnotherapy | 2.19 | 0.70 | 0.88 | 0.05 | XXX
90882 |  | N | Environmental manipulation | 0.00 | 0.00 | 0.00 | 0.00 | XXX
90885 |  | B | Psy evaluation of records | 0.97 | 0.37 | 0.37 | 0.02 | XXX
90887 |  | B | Consultation with family | 1.48 | 0.57 | 0.81 | 0.03 | XXX
90889 |  | B | Preparation of report | 0.00 | 0.00 | 0.00 | 0.00 | XXX
90899 |  | C | Psychiatric service/therapy | 0.00 | 0.00 | 0.00 | 0.00 | XXX
90901 |  | A | Biofeedback train, any meth | 0.41 | 0.19 | 0.82 | 0.02 | 000
90911 |  | A | Biofeedback peri/uro/rectal | 0.89 | 0.39 | 0.88 | 0.04 | 000
90918 |  | A | ESRD related services, month | 11.18 | 5.52 | 5.52 | 0.30 | XXX
90919 |  | A | ESRD related services, month | 8.54 | 4.48 | 4.48 | 0.24 | XXX
90920 |  | A | ESRD related services, month | 7.27 | 3.94 | 3.94 | 0.19 | XXX
90921 |  | A | ESRD related services, month | 4.47 | 2.87 | 2.87 | 0.12 | XXX
90922 |  | A | ESRD related services, day | 0.37 | 0.17 | 0.17 | 0.01 | XXX
90923 |  | A | Esrd related services, day | 0.28 | 0.14 | 0.14 | 0.01 | XXX
90924 |  | A | Esrd related services, day | 0.24 | 0.13 | 0.13 | 0.01 | XXX
90925 |  | A | Esrd related services, day | 0.15 | 0.10 | 0.10 | 0.01 | XXX
90935 |  | A | Hemodialysis, one evaluation | 1.22 | 0.83 | NA | 0.03 | 000
90937 |  | A | Hemodialysis, repeated eval | 2.11 | 1.16 | NA | 0.06 | 000
90939 |  | X | Hemodialysis study, transcut | 0.00 | 0.00 | 0.00 | 0.00 | XXX
90940 |  | X | Hemodialysis access study | 0.00 | 0.00 | 0.00 | 0.00 | XXX
90945 |  | A | Dialysis, one evaluation | 1.28 | 0.86 | NA | 0.04 | 000
90947 |  | A | Dialysis, repeated eval | 2.16 | 1.19 | NA | 0.06 | 000
90989 |  | X | Dialysis training, complete | 0.00 | 0.00 | 0.00 | 0.00 | XXX
90993 |  | X | Dialysis training, incompl | 0.00 | 0.00 | 0.00 | 0.00 | XXX
90997 |  | A | Hemoperfusion | 1.84 | 1.09 | NA | 0.05 | 000
90999 |  | C | Dialysis procedure | 0.00 | 0.00 | 0.00 | 0.00 | XXX
91000 |  | A | Esophageal intubation | 0.73 | NA | 0.33 | 0.04 | 000
91000 | 26 | A | Esophageal intubation | 0.73 | 0.25 | 0.25 | 0.03 | 000
91000 | TC | A | Esophageal intubation | 0.00 | NA | 0.08 | 0.01 | 000
91010 |  | A | Esophagus motility study | 1.25 | NA | 2.75 | 0.10 | 000
91010 | 26 | A | Esophagus motility study | 1.25 | 0.45 | 0.45 | 0.05 | 000
91010 | TC | A | Esophagus motility study | 0.00 | NA | 2.30 | 0.05 | 000
91011 |  | A | Esophagus motility study | 1.50 | NA | 3.20 | 0.10 | 000
91011 | 26 | A | Esophagus motility study | 1.50 | 0.54 | 0.54 | 0.05 | 000
91011 | TC | A | Esophagus motility study | 0.00 | NA | 2.66 | 0.05 | 000
91012 |  | A | Esophagus motility study | 1.46 | NA | 3.28 | 0.12 | 000
91012 | 26 | A | Esophagus motility study | 1.46 | 0.52 | 0.52 | 0.06 | 000
91012 | TC | A | Esophagus motility study | 0.00 | NA | 2.75 | 0.06 | 000
91020 |  | A | Gastric motility | 1.44 | NA | 2.97 | 0.11 | 000
91020 | 26 | A | Gastric motility | 1.44 | 0.50 | 0.50 | 0.06 | 000
91020 | TC | A | Gastric motility | 0.00 | NA | 2.48 | 0.05 | 000
91030 |  | A | Acid perfusion of esophagus | 0.91 | NA | 2.60 | 0.05 | 000
91030 | 26 | A | Acid perfusion of esophagus | 0.91 | 0.33 | 0.33 | 0.03 | 000
91030 | TC | A | Acid perfusion of esophagus | 0.00 | NA | 2.27 | 0.02 | 000
91032 |  | A | Esophagus, acid reflux test | 1.21 | NA | 2.42 | 0.10 | 000
91032 | 26 | A | Esophagus, acid reflux test | 1.21 | 0.43 | 0.43 | 0.05 | 000
91032 | TC | A | Esophagus, acid reflux test | 0.00 | NA | 1.99 | 0.05 | 000
91033 |  | A | Prolonged acid reflux test | 1.30 | NA | 2.64 | 0.14 | 000
91033 | 26 | A | Prolonged acid reflux test | 1.30 | 0.47 | 0.47 | 0.05 | 000
91033 | TC | A | Prolonged acid reflux test | 0.00 | NA | 2.17 | 0.09 | 000
91052 |  | A | Gastric analysis test | 0.79 | NA | 2.41 | 0.05 | 000
91052 | 26 | A | Gastric analysis test | 0.79 | 0.28 | 0.28 | 0.03 | 000
91052 | TC | A | Gastric analysis test | 0.00 | NA | 2.12 | 0.02 | 000
91055 |  | A | Gastric intubation for smear | 0.94 | NA | 2.45 | 0.06 | 000
91055 | 26 | A | Gastric intubation for smear | 0.94 | 0.28 | 0.28 | 0.04 | 000
91055 | TC | A | Gastric intubation for smear | 0.00 | NA | 2.17 | 0.02 | 000
91060 |  | A | Gastric saline load test | 0.45 | NA | 0.30 | 0.04 | 000
91060 | 26 | A | Gastric saline load test | 0.45 | 0.15 | 0.15 | 0.02 | 000
91060 | TC | A | Gastric saline load test | 0.00 | NA | 0.15 | 0.02 | 000
91065 |  | A | Breath hydrogen test | 0.20 | NA | 3.94 | 0.03 | 000
91065 | 26 | A | Breath hydrogen test | 0.20 | 0.07 | 0.07 | 0.01 | 000
91065 | TC | A | Breath hydrogen test | 0.00 | NA | 3.87 | 0.02 | 000
91100 |  | A | Pass intestine bleeding tube | 1.08 | 0.45 | NA | 0.06 | 000
91105 |  | A | Gastric intubation treatment | 0.37 | 0.20 | NA | 0.02 | 000
91122 |  | A | Anal pressure record | 1.77 | NA | 5.63 | 0.17 | 000
91122 | 26 | A | Anal pressure record | 1.77 | 0.62 | 0.62 | 0.10 | 000
91122 | TC | A | Anal pressure record | 0.00 | NA | 5.01 | 0.07 | 000
91123 |  | B | Irrigate fecal impaction | 0.00 | 0.00 | 0.00 | 0.00 | XXX
91132 |  | C | Electrogastrography | 0.00 | 0.00 | 0.00 | 0.00 | XXX
91132 | 26 | A | Electrogastrography | 0.52 | NA | 0.20 | 0.03 | XXX
91132 | TC | C | Electrogastrography | 0.00 | 0.00 | 0.00 | 0.00 | XXX
1133 |  | C | Electrogastrography w/test | 0.00 | 0.00 | 0.00 | 0.00 | XXX
91133 | 26 | A | Electrogastrography w/test | 0.66 | NA | 0.26 | 0.03 | XXX
91133 | TC | C | Electrogastrography w/test | 0.00 | 0.00 | 0.00 | 0.00 | XXX
91299 |  | C | Gastroenterology procedure | 0.00 | 0.00 | 0.00 | 0.00 | XXX
91299 | 26 | C | Gastroenterology procedure | 0.00 | 0.00 | 0.00 | 0.00 | XXX
91299 | TC | C | Gastroenterology procedure | 0.00 | 0.00 | 0.00 | 0.00 | XXX
92002 |  | A | Eye exam, new patient | 0.88 | 0.35 | 0.97 | 0.02 | XXX
92004 |  | A | Eye exam, new patient | 1.67 | 0.70 | 1.70 | 0.03 | XXX
92012 |  | A | Eye exam established pat | 0.67 | 0.30 | 1.01 | 0.01 | XXX
92014 |  | A | Eye exam & treatment | 1.10 | 0.48 | 1.39 | 0.02 | XXX
92015 |  | N | Refraction | 0.38 | 0.15 | 1.53 | 0.01 | XXX
92018 |  | A | New eye exam & treatment | 2.50 | 1.12 | NA | 0.03 | XXX
92019 |  | A | Eye exam & treatment | 1.31 | 0.58 | NA | 0.03 | XXX
92020 |  | A | Special eye evaluation | 0.37 | 0.17 | 0.98 | 0.01 | XXX
92060 |  | A | Special eye evaluation | 0.69 | NA | 0.75 | 0.02 | XXX
92060 | 26 | A | Special eye evaluation | 0.69 | 0.30 | 0.30 | 0.01 | XXX
92060 | TC | A | Special eye evaluation | 0.00 | NA | 0.45 | 0.01 | XXX
92065 |  | A | Orthoptic/pleoptic training | 0.37 | NA | 1.38 | 0.02 | XXX
92065 | 26 | A | Orthoptic/pleoptic training | 0.37 | 0.16 | 0.16 | 0.01 | XXX
92065 | TC | A | Orthoptic/pleoptic training | 0.00 | NA | 1.22 | 0.01 | XXX
92070 |  | A | Fitting of contact lens | 0.70 | 0.33 | 1.15 | 0.01 | XXX
92081 |  | A | Visual field examination(s) | 0.36 | NA | 0.67 | 0.02 | XXX
92081 | 26 | A | Visual field examination(s) | 0.36 | 0.16 | 0.16 | 0.01 | XXX
92081 | TC | A | Visual field examination(s) | 0.00 | NA | 0.51 | 0.01 | XXX
92082 |  | A | Visual field examination(s) | 0.44 | NA | 1.04 | 0.02 | XXX
92082 | 26 | A | Visual field examination(s) | 0.44 | 0.19 | 0.19 | 0.01 | XXX
92082 | TC | A | Visual field examination(s) | 0.00 | NA | 0.85 | 0.01 | XXX
92083 |  | A | Visual field examination(s) | 0.50 | NA | 1.14 | 0.02 | XXX
92083 | 26 | A | Visual field examination(s) | 0.50 | 0.23 | 0.23 | 0.01 | XXX
92083 | TC | A | Visual field examination(s) | 0.00 | NA | 0.92 | 0.01 | XXX
92100 |  | A | Serial tonometry exam(s) | 0.92 | 0.35 | 0.74 | 0.02 | XXX
92120 |  | A | Tonography & eye evaluation | 0.81 | 0.33 | 0.82 | 0.02 | XXX
92130 |  | A | Water provocation tonography | 0.81 | 0.38 | 0.93 | 0.02 | XXX
92135 |  | A | Opthalmic dx imaging | 0.35 | NA | 1.09 | 0.02 | XXX
92135 | 26 | A | Opthalmic dx imaging | 0.35 | 0.16 | 0.16 | 0.01 | XXX
92135 | TC | A | Opthalmic dx imaging | 0.00 | NA | 0.93 | 0.01 | XXX
92136 |  | A | Ophthalmic biometry | 0.54 | NA | 2.00 | 0.07 | XXX
92136 | 26 | A | Ophthalmic biometry | 0.54 | 0.25 | 0.25 | 0.01 | XXX
92136 | TC | A | Ophthalmic biometry | 0.00 | NA | 1.75 | 0.06 | XXX
92140 |  | A | Glaucoma provocative tests | 0.50 | 0.22 | 1.02 | 0.01 | XXX
92225 |  | A | Special eye exam, initial | 0.38 | 0.16 | 0.22 | 0.01 | XXX
92226 |  | A | Special eye exam, subsequent | 0.33 | 0.15 | 0.21 | 0.01 | XXX
92230 |  | A | Eye exam with photos | 0.60 | 0.20 | 1.79 | 0.02 | XXX
92235 |  | A | Eye exam with photos | 0.81 | NA | 2.75 | 0.07 | XXX
92235 | 26 | A | Eye exam with photos | 0.81 | 0.38 | 0.38 | 0.02 | XXX
92235 | TC | A | Eye exam with photos | 0.00 | NA | 2.37 | 0.05 | XXX
92240 |  | A | Icg angiography | 1.10 | NA | 5.44 | 0.07 | XXX
92240 | 26 | A | Icg angiography | 1.10 | 0.51 | 0.51 | 0.02 | XXX
92240 | TC | A | Icg angiography | 0.00 | NA | 4.93 | 0.05 | XXX
92250 |  | A | Eye exam with photos | 0.44 | NA | 1.58 | 0.02 | XXX
92250 | 26 | A | Eye exam with photos | 0.44 | 0.20 | 0.20 | 0.01 | XXX
92250 | TC | A | Eye exam with photos | 0.00 | NA | 1.38 | 0.01 | XXX
92260 |  | A | Ophthalmoscopy/dynamometry | 0.20 | 0.09 | 0.25 | 0.01 | XXX
92265 |  | A | Eye muscle evaluation | 0.81 | NA | 1.83 | 0.04 | XXX
92265 | 26 | A | Eye muscle evaluation | 0.81 | 0.29 | 0.29 | 0.02 | XXX
92265 | TC | A | Eye muscle evaluation | 0.00 | NA | 1.54 | 0.02 | XXX
92270 |  | A | Electro-oculography | 0.81 | NA | 1.70 | 0.05 | XXX
92270 | 26 | A | Electro-oculography | 0.81 | 0.35 | 0.35 | 0.03 | XXX
92270 | TC | A | Electro-oculography | 0.00 | NA | 1.35 | 0.02 | XXX
92275 |  | A | Electroretinography | 1.01 | NA | 2.01 | 0.04 | XXX
92275 | 26 | A | Electroretinography | 1.01 | 0.44 | 0.44 | 0.02 | XXX
92275 | TC | A | Electroretinography | 0.00 | NA | 1.57 | 0.02 | XXX
92283 |  | A | Color vision examination | 0.17 | NA | 0.95 | 0.02 | XXX
92283 | 26 | A | Color vision examination | 0.17 | 0.07 | 0.07 | 0.01 | XXX
92283 | TC | A | Color vision examination | 0.00 | NA | 0.88 | 0.01 | XXX
92284 |  | A | Dark adaptation eye exam | 0.24 | NA | 2.38 | 0.02 | XXX
92284 | 26 | A | Dark adaptation eye exam | 0.24 | 0.09 | 0.09 | 0.01 | XXX
92284 | TC | A | Dark adaptation eye exam | 0.00 | NA | 2.29 | 0.01 | XXX
92285 |  | A | Eye photography | 0.20 | NA | 0.90 | 0.02 | XXX
92285 | 26 | A | Eye photography | 0.20 | 0.09 | 0.09 | 0.01 | XXX
92285 | TC | A | Eye photography | 0.00 | NA | 0.81 | 0.01 | XXX
92286 |  | A | Internal eye photography | 0.66 | NA | 3.07 | 0.03 | XXX
92286 | 26 | A | Internal eye photography | 0.66 | 0.30 | 0.30 | 0.01 | XXX
92286 | TC | A | Internal eye photography | 0.00 | NA | 2.76 | 0.02 | XXX
92287 |  | A | Internal eye photography | 0.81 | 0.32 | 2.87 | 0.02 | XXX
92310 |  | N | Contact lens fitting | 1.17 | 0.45 | 1.10 | 0.03 | XXX
92311 |  | A | Contact lens fitting | 1.08 | 0.36 | 1.20 | 0.03 | XXX
92312 |  | A | Contact lens fitting | 1.26 | 0.51 | 1.18 | 0.03 | XXX
92313 |  | A | Contact lens fitting | 0.92 | 0.29 | 1.17 | 0.02 | XXX
92314 |  | N | Prescription of contact lens | 0.69 | 0.27 | 0.92 | 0.01 | XXX
92315 |  | A | Prescription of contact lens | 0.45 | 0.17 | 0.93 | 0.01 | XXX
92316 |  | A | Prescription of contact lens | 0.68 | 0.30 | 1.00 | 0.01 | XXX
92317 |  | A | Prescription of contact lens | 0.45 | 0.17 | 1.03 | 0.01 | XXX
92325 |  | A | Modification of contact lens | 0.00 | NA | 0.41 | 0.01 | XXX
92326 |  | A | Replacement of contact lens | 0.00 | NA | 1.69 | 0.05 | XXX
92330 |  | A | Fitting of artificial eye | 1.08 | 0.33 | 1.06 | 0.04 | XXX
92335 |  | A | Fitting of artificial eye | 0.45 | 0.17 | 0.99 | 0.01 | XXX
92340 |  | N | Fitting of spectacles | 0.37 | 0.14 | 0.69 | 0.01 | XXX
92341 |  | N | Fitting of spectacles | 0.47 | 0.18 | 0.72 | 0.01 | XXX
92342 |  | N | Fitting of spectacles | 0.53 | 0.20 | 0.75 | 0.01 | XXX
92352 |  | B | Special spectacles fitting | 0.37 | 0.14 | 0.69 | 0.01 | XXX
92353 |  | B | Special spectacles fitting | 0.50 | 0.19 | 0.74 | 0.02 | XXX
92354 |  | B | Special spectacles fitting | 0.00 | NA | 9.15 | 0.08 | XXX
92355 |  | B | Special spectacles fitting | 0.00 | NA | 4.48 | 0.01 | XXX
92358 |  | B | Eye prosthesis service | 0.00 | NA | 1.00 | 0.04 | XXX
92370 |  | N | Repair & adjust spectacles | 0.32 | 0.12 | 0.54 | 0.02 | XXX
92371 |  | B | Repair & adjust spectacles | 0.00 | NA | 0.64 | 0.02 | XXX
92390 |  | N | Supply of spectacles | 0.00 | 0.00 | 0.00 | 0.00 | XXX
92391 |  | N | Supply of contact lenses | 0.00 | 0.00 | 0.00 | 0.00 | XXX
92392 |  | I | Supply of low vision aids | 0.00 | NA | 4.18 | 0.02 | XXX
92393 |  | I | Supply of artificial eye | 0.00 | NA | 12.97 | 0.47 | XXX
92395 |  | I | Supply of spectacles | 0.00 | NA | 1.42 | 0.08 | XXX
92396 |  | I | Supply of contact lenses | 0.00 | NA | 2.38 | 0.06 | XXX
92499 |  | C | Eye service or procedure | 0.00 | 0.00 | 0.00 | 0.00 | XXX
92499 | 26 | C | Eye service or procedure | 0.00 | 0.00 | 0.00 | 0.00 | XXX
92499 | TC | C | Eye service or procedure | 0.00 | 0.00 | 0.00 | 0.00 | XXX
92502 |  | A | Ear and throat examination | 1.51 | 1.24 | NA | 0.06 | 000
92504 |  | A | Ear microscopy examination | 0.18 | 0.09 | 1.08 | 0.01 | XXX
92506 |  | A | Speech/hearing evaluation | 0.86 | 0.41 | 1.60 | 0.04 | XXX
92507 |  | A | Speech/hearing therapy | 0.52 | 0.24 | 1.50 | 0.02 | XXX
92508 |  | A | Speech/hearing therapy | 0.26 | 0.13 | 1.39 | 0.01 | XXX
92510 |  | A | Rehab for ear implant | 1.50 | 0.76 | 2.03 | 0.06 | XXX
92511 |  | A | Nasopharyngoscopy | 0.84 | 0.42 | 1.33 | 0.03 | 000
92512 |  | A | Nasal function studies | 0.55 | 0.18 | 1.09 | 0.02 | XXX
92516 |  | A | Facial nerve function test | 0.43 | 0.22 | 0.93 | 0.02 | XXX
92520 |  | A | Laryngeal function studies | 0.76 | 0.40 | 0.55 | 0.03 | XXX
92525 |  | I | Oral function evaluation | 1.50 | 0.58 | 1.66 | 0.07 | XXX
92526 |  | A | Oral function therapy | 0.55 | 0.21 | 1.68 | 0.02 | XXX
92531 |  | B | Spontaneous nystagmus study | 0.00 | 0.00 | 0.00 | 0.00 | XXX
92532 |  | B | Positional nystagmus test | 0.00 | 0.00 | 0.00 | 0.00 | XXX
92533 |  | B | Caloric vestibular test | 0.00 | 0.00 | 0.00 | 0.00 | XXX
92534 |  | B | Optokinetic nystagmus test | 0.00 | 0.00 | 0.00 | 0.00 | XXX
92541 |  | A | Spontaneous nystagmus test | 0.40 | NA | 1.54 | 0.04 | XXX
92541 | 26 | A | Spontaneous nystagmus test | 0.40 | 0.20 | 0.20 | 0.02 | XXX
92541 | TC | A | Spontaneous nystagmus test | 0.00 | NA | 1.35 | 0.02 | XXX
92542 |  | A | Positional nystagmus test | 0.33 | NA | 1.50 | 0.03 | XXX
92542 | 26 | A | Positional nystagmus test | 0.33 | 0.16 | 0.16 | 0.01 | XXX
92542 | TC | A | Positional nystagmus test | 0.00 | NA | 1.34 | 0.02 | XXX
92543 |  | A | Caloric vestibular test | 0.10 | NA | 0.40 | 0.02 | XXX
92543 | 26 | A | Caloric vestibular test | 0.10 | 0.05 | 0.05 | 0.01 | XXX
92543 | TC | A | Caloric vestibular test | 0.00 | NA | 0.36 | 0.01 | XXX
92544 |  | A | Optokinetic nystagmus test | 0.26 | NA | 1.44 | 0.03 | XXX
92544 | 26 | A | Optokinetic nystagmus test | 0.26 | 0.13 | 0.13 | 0.01 | XXX
92544 | TC | A | Optokinetic nystagmus test | 0.00 | NA | 1.32 | 0.02 | XXX
92545 |  | A | Oscillating tracking test | 0.23 | NA | 1.43 | 0.03 | XXX
92545 | 26 | A | Oscillating tracking test | 0.23 | 0.11 | 0.11 | 0.01 | XXX
92545 | TC | A | Oscillating tracking test | 0.00 | NA | 1.32 | 0.02 | XXX
92546 |  | A | Sinusoidal rotational test | 0.29 | NA | 2.71 | 0.03 | XXX
92546 | 26 | A | Sinusoidal rotational test | 0.29 | 0.14 | 0.14 | 0.01 | XXX
92546 | TC | A | Sinusoidal rotational test | 0.00 | NA | 2.57 | 0.02 | XXX
92547 |  | A | Supplemental electrical test | 0.00 | NA | 1.27 | 0.05 | ZZZ
92548 |  | A | Posturography | 0.50 | NA | 3.70 | 0.13 | XXX
92548 | 26 | A | Posturography | 0.50 | 0.27 | 0.27 | 0.02 | XXX
92548 | TC | A | Posturography | 0.00 | NA | 3.43 | 0.11 | XXX
92551 |  | N | Pure tone hearing test, air | 0.00 | 0.00 | 0.00 | 0.00 | XXX
92552 |  | A | Pure tone audiometry, air | 0.00 | NA | 0.46 | 0.03 | XXX
92553 |  | A | Audiometry, air & bone | 0.00 | NA | 0.68 | 0.05 | XXX
92555 |  | A | Speech threshold audiometry | 0.00 | NA | 0.39 | 0.03 | XXX
92556 |  | A | Speech audiometry, complete | 0.00 | NA | 0.59 | 0.05 | XXX
92557 |  | A | Comprehensive hearing test | 0.00 | NA | 1.23 | 0.10 | XXX
92559 |  | N | Group audiometric testing | 0.00 | 0.00 | 0.00 | 0.00 | XXX
92560 |  | N | Bekesy audiometry, screen | 0.00 | 0.00 | 0.00 | 0.00 | XXX
92561 |  | A | Bekesy audiometry, diagnosis | 0.00 | NA | 0.74 | 0.05 | XXX
92562 |  | A | Loudness balance test | 0.00 | NA | 0.42 | 0.03 | XXX
92563 |  | A | Tone decay hearing test | 0.00 | NA | 0.39 | 0.03 | XXX
92564 |  | A | Sisi hearing test | 0.00 | NA | 0.49 | 0.04 | XXX
92565 |  | A | Stenger test, pure tone | 0.00 | NA | 0.41 | 0.03 | XXX
92567 |  | A | Tympanometry | 0.00 | NA | 0.54 | 0.05 | XXX
92568 |  | A | Acoustic reflex testing | 0.00 | NA | 0.39 | 0.03 | XXX
92569 |  | A | Acoustic reflex decay test | 0.00 | NA | 0.42 | 0.03 | XXX
92571 |  | A | Filtered speech hearing test | 0.00 | NA | 0.40 | 0.03 | XXX
92572 |  | A | Staggered spondaic word test | 0.00 | NA | 0.09 | 0.01 | XXX
92573 |  | A | Lombard test | 0.00 | NA | 0.36 | 0.03 | XXX
92575 |  | A | Sensorineural acuity test | 0.00 | NA | 0.31 | 0.02 | XXX
92576 |  | A | Synthetic sentence test | 0.00 | NA | 0.46 | 0.04 | XXX
92577 |  | A | Stenger test, speech | 0.00 | NA | 0.74 | 0.06 | XXX
92579 |  | A | Visual audiometry (vra) | 0.00 | NA | 0.75 | 0.05 | XXX
92582 |  | A | Conditioning play audiometry | 0.00 | NA | 0.75 | 0.05 | XXX
92583 |  | A | Select picture audiometry | 0.00 | NA | 0.92 | 0.07 | XXX
92584 |  | A | Electrocochleography | 0.00 | NA | 2.56 | 0.17 | XXX
92585 |  | A | Auditor evoke potent, compre | 0.50 | NA | 2.13 | 0.14 | XXX
92585 | 26 | A | Auditor evoke potent, compre | 0.50 | 0.22 | 0.22 | 0.02 | XXX
92585 | TC | A | Auditor evoke potent, compre | 0.00 | NA | 1.91 | 0.12 | XXX
92586 |  | A | Auditor evoke potent, limit | 0.00 | NA | 1.91 | 0.12 | XXX
92587 |  | A | Evoked auditory test | 0.13 | NA | 1.42 | 0.10 | XXX
92587 | 26 | A | Evoked auditory test | 0.13 | 0.07 | 0.07 | 0.01 | XXX
92587 | TC | A | Evoked auditory test | 0.00 | NA | 1.35 | 0.09 | XXX
92588 |  | A | Evoked auditory test | 0.36 | NA | 1.69 | 0.12 | XXX
92588 | 26 | A | Evoked auditory test | 0.36 | 0.17 | 0.17 | 0.01 | XXX
92588 | TC | A | Evoked auditory test | 0.00 | NA | 1.52 | 0.11 | XXX
92589 |  | A | Auditory function test(s) | 0.00 | NA | 0.55 | 0.05 | XXX
92590 |  | N | Hearing aid exam, one ear | 0.00 | 0.00 | 0.00 | 0.00 | XXX
92591 |  | N | Hearing aid exam, both ears | 0.00 | 0.00 | 0.00 | 0.00 | XXX
92592 |  | N | Hearing aid check, one ear | 0.00 | 0.00 | 0.00 | 0.00 | XXX
92593 |  | N | Hearing aid check, both ears | 0.00 | 0.00 | 0.00 | 0.00 | XXX
92594 |  | N | Electro hearng aid test, one | 0.00 | 0.00 | 0.00 | 0.00 | XXX
92595 |  | N | Electro hearng aid tst, both | 0.00 | 0.00 | 0.00 | 0.00 | XXX
92596 |  | A | Ear protector evaluation | 0.00 | NA | 0.61 | 0.05 | XXX
92597 |  | I | Oral speech device eval | 1.35 | 0.52 | 1.61 | 0.05 | XXX
92598 |  | I | Modify oral speech device | 0.99 | 0.38 | 0.80 | 0.04 | XXX
92599 |  | C | ENT procedure/service | 0.00 | 0.00 | 0.00 | 0.00 | XXX
92599 | 26 | C | ENT procedure/service | 0.00 | 0.00 | 0.00 | 0.00 | XXX
92599 | TC | C | ENT procedure/service | 0.00 | 0.00 | 0.00 | 0.00 | XXX
92950 |  | A | Heart/lung resuscitation cpr | 3.80 | 1.16 | 1.44 | 0.21 | 000
92953 |  | A | Temporary external pacing | 0.23 | 0.23 | NA | 0.01 | 000
92960 |  | A | Cardioversion electric, ext | 2.25 | 0.86 | 2.18 | 0.08 | 000
92961 |  | A | Cardioversion, electric, int | 4.60 | 1.78 | NA | 0.17 | 000
92970 |  | A | Cardioassist, internal | 3.52 | 1.10 | NA | 0.17 | 000
92971 |  | A | Cardioassist, external | 1.77 | 0.86 | NA | 0.06 | 000
92973 |  | A | Percut coronary thrombectomy | 3.28 | 1.31 | NA | 0.17 | ZZZ
92974 |  | A | Cath place, cardio brachytx | 3.00 | 1.21 | NA | 1.18 | ZZZ
92975 |  | A | Dissolve clot, heart vessel | 7.25 | 2.90 | NA | 0.22 | 000
92977 |  | A | Dissolve clot, heart vessel | 0.00 | NA | 8.32 | 0.38 | XXX
92978 |  | A | Intravasc us, heart add-on | 1.80 | NA | 5.45 | 0.26 | ZZZ
92978 | 26 | A | Intravasc us, heart add-on | 1.80 | 0.73 | 0.73 | 0.06 | ZZZ
92978 | TC | A | Intravasc us, heart add-on | 0.00 | NA | 4.72 | 0.20 | ZZZ
92979 |  | A | Intravasc us, heart add-on | 1.44 | NA | 2.95 | 0.15 | ZZZ
92979 | 26 | A | Intravasc us, heart add-on | 1.44 | 0.58 | 0.58 | 0.04 | ZZZ
92979 | TC | A | Intravasc us, heart add-on | 0.00 | NA | 2.37 | 0.11 | ZZZ
92980 |  | A | Insert intracoronary stent | 14.84 | 6.00 | NA | 0.78 | 000
92981 |  | A | Insert intracoronary stent | 4.17 | 1.69 | NA | 0.21 | ZZZ
92982 |  | A | Coronary artery dilation | 10.98 | 4.43 | NA | 0.57 | 000
92984 |  | A | Coronary artery dilation | 2.97 | 1.20 | NA | 0.16 | ZZZ
92986 |  | A | Revision of aortic valve | 21.80 | 10.19 | NA | 1.14 | 090
92987 |  | A | Revision of mitral valve | 22.70 | 10.57 | NA | 1.18 | 090
92990 |  | A | Revision of pulmonary valve | 17.34 | 8.15 | NA | 0.90 | 090
92992 |  | C | Revision of heart chamber | 0.00 | 0.00 | 0.00 | 0.00 | 090
92993 |  | C | Revision of heart chamber | 0.00 | 0.00 | 0.00 | 0.00 | 090
92995 |  | A | Coronary atherectomy | 12.09 | 4.88 | NA | 0.63 | 000
92996 |  | A | Coronary atherectomy add-on | 3.26 | 1.31 | NA | 0.17 | ZZZ
92997 |  | A | Pul art balloon repr, percut | 12.00 | 4.73 | NA | 0.63 | 000
92998 |  | A | Pul art balloon repr, percut | 6.00 | 2.26 | NA | 0.31 | ZZZ
93000 |  | A | Electrocardiogram, complete | 0.17 | NA | 0.53 | 0.03 | XXX
93005 |  | A | Electrocardiogram, tracing | 0.00 | NA | 0.47 | 0.02 | XXX
93010 |  | A | Electrocardiogram report | 0.17 | 0.06 | 0.06 | 0.01 | XXX
93012 |  | A | Transmission of ecg | 0.00 | NA | 2.44 | 0.15 | XXX
93014 |  | A | Report on transmitted ecg | 0.52 | 0.19 | 0.19 | 0.02 | XXX
93015 |  | A | Cardiovascular stress test | 0.75 | NA | 2.03 | 0.11 | XXX
93016 |  | A | Cardiovascular stress test | 0.45 | 0.18 | 0.18 | 0.01 | XXX
93017 |  | A | Cardiovascular stress test | 0.00 | NA | 1.74 | 0.09 | XXX
93018 |  | A | Cardiovascular stress test | 0.30 | 0.12 | 0.12 | 0.01 | XXX
93024 |  | A | Cardiac drug stress test | 1.17 | NA | 1.62 | 0.11 | XXX
93024 | 26 | A | Cardiac drug stress test | 1.17 | 0.46 | 0.46 | 0.04 | XXX
93024 | TC | A | Cardiac drug stress test | 0.00 | NA | 1.16 | 0.07 | XXX
93025 |  | A | Microvolt t-wave assess | 0.75 | NA | 7.71 | 0.11 | XXX
93025 | 26 | A | Microvolt t-wave assess | 0.75 | NA | 0.31 | 0.02 | XXX
93025 | TC | A | Microvolt t-wave assess | 0.00 | NA | 7.40 | 0.09 | XXX
93040 |  | A | Rhythm ECG with report | 0.16 | NA | 0.38 | 0.02 | XXX
93041 |  | A | Rhythm ECG, tracing | 0.00 | NA | 0.15 | 0.01 | XXX
93042 |  | A | Rhythm ECG, report | 0.16 | 0.05 | 0.05 | 0.01 | XXX
93224 |  | A | ECG monitor/report, 24 hrs | 0.52 | NA | 3.74 | 0.21 | XXX
93225 |  | A | ECG monitor/record, 24 hrs | 0.00 | NA | 1.28 | 0.07 | XXX
93226 |  | A | ECG monitor/report, 24 hrs | 0.00 | NA | 2.26 | 0.12 | XXX
93227 |  | A | ECG monitor/review, 24 hrs | 0.52 | 0.20 | 0.20 | 0.02 | XXX
93230 |  | A | ECG monitor/report, 24 hrs | 0.52 | NA | 4.02 | 0.22 | XXX
93231 |  | A | Ecg monitor/record, 24 hrs | 0.00 | NA | 1.57 | 0.09 | XXX
93232 |  | A | ECG monitor/report, 24 hrs | 0.00 | NA | 2.25 | 0.11 | XXX
93233 |  | A | ECG monitor/review, 24 hrs | 0.52 | 0.20 | 0.20 | 0.02 | XXX
93235 |  | A | ECG monitor/report, 24 hrs | 0.45 | NA | 2.88 | 0.13 | XXX
93236 |  | A | ECG monitor/report, 24 hrs | 0.00 | NA | 2.71 | 0.12 | XXX
93237 |  | A | ECG monitor/review, 24 hrs | 0.45 | 0.17 | 0.17 | 0.01 | XXX
93268 |  | A | ECG record/review | 0.52 | NA | 3.91 | 0.24 | XXX
93270 |  | A | ECG recording | 0.00 | NA | 1.28 | 0.07 | XXX
93271 |  | A | Ecg/monitoring and analysis | 0.00 | NA | 2.44 | 0.15 | XXX
93272 |  | A | Ecg/review, interpret only | 0.52 | 0.19 | 0.19 | 0.02 | XXX
93278 |  | A | ECG/signal-averaged | 0.25 | NA | 1.29 | 0.10 | XXX
93278 | 26 | A | ECG/signal-averaged | 0.25 | 0.10 | 0.10 | 0.01 | XXX
93278 | TC | A | ECG/signal-averaged | 0.00 | NA | 1.19 | 0.09 | XXX
93303 |  | A | Echo transthoracic | 1.30 | NA | 4.48 | 0.23 | XXX
93303 | 26 | A | Echo transthoracic | 1.30 | 0.49 | 0.49 | 0.04 | XXX
93303 | TC | A | Echo transthoracic | 0.00 | NA | 3.99 | 0.19 | XXX
93304 |  | A | Echo transthoracic | 0.75 | NA | 2.30 | 0.13 | XXX
93304 | 26 | A | Echo transthoracic | 0.75 | 0.29 | 0.29 | 0.02 | XXX
93304 | TC | A | Echo transthoracic | 0.00 | NA | 2.01 | 0.11 | XXX
93307 |  | A | Echo exam of heart | 0.92 | NA | 4.35 | 0.22 | XXX
93307 | 26 | A | Echo exam of heart | 0.92 | 0.36 | 0.36 | 0.03 | XXX
93307 | TC | A | Echo exam of heart | 0.00 | NA | 3.99 | 0.19 | XXX
93308 |  | A | Echo exam of heart | 0.53 | NA | 2.22 | 0.13 | XXX
93308 | 26 | A | Echo exam of heart | 0.53 | 0.21 | 0.21 | 0.02 | XXX
93308 | TC | A | Echo exam of heart | 0.00 | NA | 2.01 | 0.11 | XXX
93312 |  | A | Echo transesophageal | 2.20 | NA | 4.72 | 0.32 | XXX
93312 | 26 | A | Echo transesophageal | 2.20 | 0.81 | 0.81 | 0.08 | XXX
93312 | TC | A | Echo transesophageal | 0.00 | NA | 3.91 | 0.24 | XXX
93313 |  | A | Echo transesophageal | 0.95 | 0.22 | 5.00 | 0.05 | XXX
93314 |  | A | Echo transesophageal | 1.25 | NA | 4.39 | 0.28 | XXX
93314 | 26 | A | Echo transesophageal | 1.25 | 0.48 | 0.48 | 0.04 | XXX
93314 | TC | A | Echo transesophageal | 0.00 | NA | 3.91 | 0.24 | XXX
93315 |  | A | Echo transesophageal | 2.78 | NA | 4.95 | 0.34 | XXX
93315 | 26 | A | Echo transesophageal | 2.78 | 1.04 | 1.04 | 0.10 | XXX
93315 | TC | A | Echo transesophageal | 0.00 | NA | 3.91 | 0.24 | XXX
93316 |  | A | Echo transesophageal | 0.95 | 0.24 | 5.51 | 0.05 | XXX
93317 |  | A | Echo transesophageal | 1.83 | NA | 4.59 | 0.30 | XXX
93317 | 26 | A | Echo transesophageal | 1.83 | 0.69 | 0.69 | 0.06 | XXX
93317 | TC | A | Echo transesophageal | 0.00 | NA | 3.91 | 0.24 | XXX
93318 |  | C | Echo transesophageal intraop | 0.00 | 0.00 | 0.00 | 0.00 | XXX
93318 | 26 | A | Echo transesophageal intraop | 2.20 | NA | 0.85 | 0.06 | XXX
93318 | TC | C | Echo transesophageal intraop | 0.00 | 0.00 | 0.00 | 0.00 | XXX
93320 |  | A | Doppler echo exam, heart | 0.38 | NA | 1.92 | 0.11 | ZZZ
93320 | 26 | A | Doppler echo exam, heart | 0.38 | 0.15 | 0.15 | 0.01 | ZZZ
93320 | TC | A | Doppler echo exam, heart | 0.00 | NA | 1.77 | 0.10 | ZZZ
93321 |  | A | Doppler echo exam, heart | 0.15 | NA | 1.21 | 0.08 | ZZZ
93321 | 26 | A | Doppler echo exam, heart | 0.15 | 0.06 | 0.06 | 0.01 | ZZZ
93321 | TC | A | Doppler echo exam, heart | 0.00 | NA | 1.15 | 0.07 | ZZZ
93325 |  | A | Doppler color flow add-on | 0.07 | NA | 3.03 | 0.18 | ZZZ
93325 | 26 | A | Doppler color flow add-on | 0.07 | 0.03 | 0.03 | 0.01 | ZZZ
93325 | TC | A | Doppler color flow add-on | 0.00 | NA | 3.00 | 0.17 | ZZZ
93350 |  | A | Echo transthoracic | 1.48 | NA | 2.40 | 0.13 | XXX
93350 | 26 | A | Echo transthoracic | 1.48 | 0.59 | 0.59 | 0.02 | XXX
93350 | TC | A | Echo transthoracic | 0.00 | NA | 1.82 | 0.11 | XXX
93501 |  | A | Right heart catheterization | 3.02 | NA | 16.72 | 1.03 | 000
93501 | 26 | A | Right heart catheterization | 3.02 | 1.19 | 1.19 | 0.16 | 000
93501 | TC | A | Right heart catheterization | 0.00 | NA | 15.53 | 0.87 | 000
93503 |  | A | Insert/place heart catheter | 2.91 | 0.71 | NA | 0.16 | 000
93505 |  | A | Biopsy of heart lining | 4.38 | NA | 3.55 | 0.36 | 000
93505 | 26 | A | Biopsy of heart lining | 4.38 | 1.73 | 1.73 | 0.23 | 000
93505 | TC | A | Biopsy of heart lining | 0.00 | NA | 1.82 | 0.13 | 000
93508 |  | A | Cath placement, angiography | 4.10 | NA | 13.24 | 0.75 | 000
93508 | 26 | A | Cath placement, angiography | 4.10 | 1.65 | 1.65 | 0.21 | 000
93508 | TC | A | Cath placement, angiography | 0.00 | NA | 11.59 | 0.54 | 000
93510 |  | A | Left heart catheterization | 4.33 | NA | 35.70 | 2.13 | 000
93510 | 26 | A | Left heart catheterization | 4.33 | 1.75 | 1.75 | 0.22 | 000
93510 | TC | A | Left heart catheterization | 0.00 | NA | 33.95 | 1.91 | 000
93511 |  | A | Left heart catheterization | 5.03 | NA | 35.08 | 2.11 | 000
93511 | 26 | A | Left heart catheterization | 5.03 | 2.03 | 2.03 | 0.26 | 000
93511 | TC | A | Left heart catheterization | 0.00 | NA | 33.05 | 1.85 | 000
93514 |  | A | Left heart catheterization | 7.05 | NA | 35.82 | 2.22 | 000
93514 | 26 | A | Left heart catheterization | 7.05 | 2.77 | 2.77 | 0.37 | 000
93514 | TC | A | Left heart catheterization | 0.00 | NA | 33.05 | 1.85 | 000
93524 |  | A | Left heart catheterization | 6.95 | NA | 45.98 | 2.79 | 000
93524 | 26 | A | Left heart catheterization | 6.95 | 2.79 | 2.79 | 0.36 | 000
93524 | TC | A | Left heart catheterization | 0.00 | NA | 43.19 | 2.43 | 000
93526 |  | A | Rt & Lt heart catheters | 5.99 | NA | 46.79 | 2.81 | 000
93526 | 26 | A | Rt & Lt heart catheters | 5.99 | 2.41 | 2.41 | 0.31 | 000
93526 | TC | A | Rt & Lt heart catheters | 0.00 | NA | 44.37 | 2.50 | 000
93527 |  | A | Rt & Lt heart catheters | 7.28 | NA | 46.12 | 2.81 | 000
93527 | 26 | A | Rt & Lt heart catheters | 7.28 | 2.93 | 2.93 | 0.38 | 000
93527 | TC | A | Rt & Lt heart catheters | 0.00 | NA | 43.19 | 2.43 | 000
93528 |  | A | Rt & Lt heart catheters | 9.00 | NA | 46.85 | 2.90 | 000
93528 | 26 | A | Rt & Lt heart catheters | 9.00 | 3.66 | 3.66 | 0.47 | 000
93528 | TC | A | Rt & Lt heart catheters | 0.00 | NA | 43.19 | 2.43 | 000
93529 |  | A | Rt&lt heart catheterization | 4.80 | NA | 45.08 | 2.68 | 000
93529 | 26 | A | Rt&lt heart catheterization | 4.80 | 1.89 | 1.89 | 0.25 | 000
93529 | TC | A | Rt&lt heart catheterization | 0.00 | NA | 43.19 | 2.43 | 000
93530 |  | A | Rt heart cath, congenital | 4.23 | NA | 17.10 | 1.11 | 000
93530 | 26 | A | Rt heart cath, congenital | 4.23 | 1.56 | 1.56 | 0.24 | 000
93530 | TC | A | Rt heart cath, congenital | 0.00 | NA | 15.53 | 0.87 | 000
93531 |  | A | R & l heart cath, congenital | 8.35 | NA | 47.64 | 2.96 | 000
93531 | 26 | A | R & l heart cath, congenital | 8.35 | 3.27 | 3.27 | 0.46 | 000
93531 | TC | A | R & l heart cath, congenital | 0.00 | NA | 44.37 | 2.50 | 000
93532 |  | A | R & l heart cath, congenital | 10.00 | NA | 47.11 | 2.95 | 000
93532 | 26 | A | R & l heart cath, congenital | 10.00 | 3.92 | 3.92 | 0.52 | 000
93532 | TC | A | R & l heart cath, congenital | 0.00 | NA | 43.19 | 2.43 | 000
93533 |  | A | R & l heart cath, congenital | 6.70 | NA | 45.65 | 2.86 | 000
93533 | 26 | A | R & l heart cath, congenital | 6.70 | 2.46 | 2.46 | 0.43 | 000
93533 | TC | A | R & l heart cath, congenital | 0.00 | NA | 43.19 | 2.43 | 000
93536 |  | D | Insert circulation assi | 4.85 | 1.87 | NA | 0.27 | 000
93539 |  | A | Injection, cardiac cath | 0.40 | 0.16 | 0.84 | 0.01 | 000
93540 |  | A | Injection, cardiac cath | 0.43 | 0.17 | 0.85 | 0.01 | 000
93541 |  | A | Injection for lung angiogram | 0.29 | 0.12 | NA | 0.01 | 000
93542 |  | A | Injection for heart x-rays | 0.29 | 0.12 | NA | 0.01 | 000
93543 |  | A | Injection for heart x-rays | 0.29 | 0.12 | 0.54 | 0.01 | 000
93544 |  | A | Injection for aortography | 0.25 | 0.10 | 0.53 | 0.01 | 000
93545 |  | A | Inject for coronary x-rays | 0.40 | 0.16 | 0.84 | 0.01 | 000
93555 |  | A | Imaging, cardiac cath | 0.81 | NA | 6.09 | 0.31 | XXX
93555 | 26 | A | Imaging, cardiac cath | 0.81 | 0.33 | 0.33 | 0.03 | XXX
93555 | TC | A | Imaging, cardiac cath | 0.00 | NA | 5.76 | 0.28 | XXX
93556 |  | A | Imaging, cardiac cath | 0.83 | NA | 9.43 | 0.45 | XXX
93556 | 26 | A | Imaging, cardiac cath | 0.83 | 0.33 | 0.33 | 0.03 | XXX
93556 | TC | A | Imaging, cardiac cath | 0.00 | NA | 9.09 | 0.42 | XXX
93561 |  | A | Cardiac output measurement | 0.50 | NA | 0.66 | 0.07 | 000
93561 | 26 | A | Cardiac output measurement | 0.50 | 0.16 | 0.16 | 0.02 | 000
93561 | TC | A | Cardiac output measurement | 0.00 | NA | 0.50 | 0.05 | 000
93562 |  | A | Cardiac output measurement | 0.16 | NA | 0.33 | 0.04 | 000
93562 | 26 | A | Cardiac output measurement | 0.16 | 0.05 | 0.05 | 0.01 | 000
93562 | TC | A | Cardiac output measurement | 0.00 | NA | 0.28 | 0.03 | 000
93571 |  | A | Heart flow reserve measure | 1.80 | NA | 5.42 | 0.31 | ZZZ
93571 | 26 | A | Heart flow reserve measure | 1.80 | 0.70 | 0.70 | 0.11 | ZZZ
93571 | TC | A | Heart flow reserve measure | 0.00 | NA | 4.72 | 0.20 | ZZZ
93572 |  | A | Heart flow reserve measure | 1.44 | NA | 2.87 | 0.28 | ZZZ
93572 | 26 | A | Heart flow reserve measure | 1.44 | 0.50 | 0.50 | 0.17 | ZZZ
93572 | TC | A | Heart flow reserve measure | 0.00 | NA | 2.37 | 0.11 | ZZZ
93600 |  | A | Bundle of His recording | 2.12 | NA | 2.87 | 0.22 | 000
93600 | 26 | A | Bundle of His recording | 2.12 | 0.86 | 0.86 | 0.11 | 000
93600 | TC | A | Bundle of His recording | 0.00 | NA | 2.02 | 0.11 | 000
93602 |  | A | Intra-atrial recording | 2.12 | NA | 1.99 | 0.18 | 000
93602 | 26 | A | Intra-atrial recording | 2.12 | 0.85 | 0.85 | 0.12 | 000
93602 | TC | A | Intra-atrial recording | 0.00 | NA | 1.15 | 0.06 | 000
93603 |  | A | Right ventricular recording | 2.12 | NA | 2.57 | 0.20 | 000
93603 | 26 | A | Right ventricular recording | 2.12 | 0.84 | 0.84 | 0.11 | 000
93603 | TC | A | Right ventricular recording | 0.00 | NA | 1.74 | 0.09 | 000
93607 |  | D | Left ventricular recording | 3.26 | NA | 1.32 | 0.26 | 000
93607 | 26 | D | Left ventricular recording | 3.26 | 1.32 | 1.32 | 0.17 | 000
93607 | TC | D | Left ventricular recording | 0.00 | NA | NA | 0.09 | 000
93609 |  | A | Map tachycardia, add-on | 4.81 | NA | 4.74 | 0.66 | ZZZ
93609 | 26 | A | Map tachycardia, add-on | 4.81 | 1.93 | 1.93 | 0.52 | ZZZ
93609 | TC | A | Map tachycardia, add-on | 0.00 | NA | 2.81 | 0.14 | ZZZ
93610 |  | A | Intra-atrial pacing | 3.02 | NA | 2.59 | 0.25 | 000
93610 | 26 | A | Intra-atrial pacing | 3.02 | 1.19 | 1.19 | 0.17 | 000
93610 | TC | A | Intra-atrial pacing | 0.00 | NA | 1.40 | 0.08 | 000
93612 |  | A | Intraventricular pacing | 3.02 | NA | 2.86 | 0.26 | 000
93612 | 26 | A | Intraventricular pacing | 3.02 | 1.19 | 1.19 | 0.17 | 000
93612 | TC | A | Intraventricular pacing | 0.00 | NA | 1.67 | 0.09 | 000
93613 |  | C | Electrophys map, 3d, add-on | 0.00 | 0.00 | 0.00 | 0.00 | ZZZ
93615 |  | A | Esophageal recording | 0.99 | NA | 0.61 | 0.05 | 000
93615 | 26 | A | Esophageal recording | 0.99 | 0.28 | 0.28 | 0.03 | 000
93615 | TC | A | Esophageal recording | 0.00 | NA | 0.33 | 0.02 | 000
93616 |  | A | Esophageal recording | 1.49 | NA | 0.77 | 0.08 | 000
93616 | 26 | A | Esophageal recording | 1.49 | 0.44 | 0.44 | 0.06 | 000
93616 | TC | A | Esophageal recording | 0.00 | NA | 0.33 | 0.02 | 000
93618 |  | A | Heart rhythm pacing | 4.26 | NA | 5.82 | 0.42 | 000
93618 | 26 | A | Heart rhythm pacing | 4.26 | 1.72 | 1.72 | 0.22 | 000
93618 | TC | A | Heart rhythm pacing | 0.00 | NA | 4.10 | 0.20 | 000
93619 |  | A | Electrophysiology evaluation | 7.32 | NA | 10.90 | 0.77 | 000
93619 | 26 | A | Electrophysiology evaluation | 7.32 | 2.93 | 2.93 | 0.38 | 000
93619 | TC | A | Electrophysiology evaluation | 0.00 | NA | 7.96 | 0.39 | 000
93620 |  | A | Electrophysiology evaluation | 11.59 | NA | 13.91 | 1.04 | 000
93620 | 26 | A | Electrophysiology evaluation | 11.59 | 4.65 | 4.65 | 0.60 | 000
93620 | TC | A | Electrophysiology evaluation | 0.00 | NA | 9.26 | 0.44 | 000
93621 |  | C | Electrophysiology evaluation | 0.00 | 0.00 | 0.00 | 0.00 | ZZZ
93621 | 26 | A | Electrophysiology evaluation | 2.10 | 0.84 | 0.84 | 0.15 | ZZZ
93621 | TC | C | Electrophysiology evaluation | 0.00 | 0.00 | 0.00 | 0.00 | ZZZ
93622 |  | C | Electrophysiology evaluation | 0.00 | 0.00 | 0.00 | 0.00 | ZZZ
93622 | 26 | A | Electrophysiology evaluation | 3.10 | 1.24 | 1.24 | 0.67 | ZZZ
93622 | TC | C | Electrophysiology evaluation | 0.00 | 0.00 | 0.00 | 0.00 | ZZZ
93623 |  | C | Stimulation, pacing heart | 0.00 | 0.00 | 0.00 | 0.00 | ZZZ
93623 | 26 | A | Stimulation, pacing heart | 2.85 | 1.14 | 1.14 | 0.15 | ZZZ
93623 | TC | C | Stimulation, pacing heart | 0.00 | 0.00 | 0.00 | 0.00 | ZZZ
93624 |  | A | Electrophysiologic study | 4.81 | NA | 3.97 | 0.36 | 000
93624 | 26 | A | Electrophysiologic study | 4.81 | 1.92 | 1.92 | 0.25 | 000
93624 | TC | A | Electrophysiologic study | 0.00 | NA | 2.05 | 0.11 | 000
93631 |  | A | Heart pacing, mapping | 7.60 | NA | 9.18 | 1.17 | 000
93631 | 26 | A | Heart pacing, mapping | 7.60 | 2.82 | 2.82 | 0.66 | 000
93631 | TC | A | Heart pacing, mapping | 0.00 | NA | 6.35 | 0.51 | 000
93640 |  | A | Evaluation heart device | 3.52 | NA | 8.82 | 0.53 | 000
93640 | 26 | A | Evaluation heart device | 3.52 | 1.41 | 1.41 | 0.18 | 000
93640 | TC | A | Evaluation heart device | 0.00 | NA | 7.41 | 0.35 | 000
93641 |  | A | Electrophysiology evaluation | 5.93 | NA | 9.80 | 0.66 | 000
93641 | 26 | A | Electrophysiology evaluation | 5.93 | 2.38 | 2.38 | 0.31 | 000
93641 | TC | A | Electrophysiology evaluation | 0.00 | NA | 7.41 | 0.35 | 000
93642 |  | A | Electrophysiology evaluation | 4.89 | NA | 9.36 | 0.51 | 000
93642 | 26 | A | Electrophysiology evaluation | 4.89 | 1.94 | 1.94 | 0.16 | 000
93642 | TC | A | Electrophysiology evaluation | 0.00 | NA | 7.41 | 0.35 | 000
93650 |  | A | Ablate heart dysrhythm focus | 10.51 | 4.22 | NA | 0.55 | 000
93651 |  | A | Ablate heart dysrhythm focus | 16.25 | 6.53 | NA | 0.85 | 000
93652 |  | A | Ablate heart dysrhythm focus | 17.68 | 7.10 | NA | 0.92 | 000
93660 |  | A | Tilt table evaluation | 1.89 | NA | 2.50 | 0.08 | 000
93660 | 26 | A | Tilt table evaluation | 1.89 | 0.76 | 0.76 | 0.06 | 000
93660 | TC | A | Tilt table evaluation | 0.00 | NA | 1.74 | 0.02 | 000
93662 |  | C | Intracardiac ecg (ice) | 0.00 | 0.00 | 0.00 | 0.00 | ZZZ
93662 | 26 | A | Intracardiac ecg (ice) | 2.80 | 1.14 | 1.14 | 0.41 | ZZZ
93662 | TC | C | Intracardiac ecg (ice) | 0.00 | 0.00 | 0.00 | 0.00 | ZZZ
93668 |  | N | Peripheral vascular rehab | 0.00 | 0.00 | 0.00 | 0.00 | XXX
93701 |  | A | Bioimpedance, thoracic | 0.17 | NA | 0.79 | 0.02 | XXX
93701 | 26 | A | Bioimpedance, thoracic | 0.17 | 0.06 | 0.06 | 0.01 | XXX
93701 | TC | A | Bioimpedance, thoracic | 0.00 | NA | 0.73 | 0.01 | XXX
93720 |  | A | Total body plethysmography | 0.17 | NA | 1.09 | 0.06 | XXX
93721 |  | A | Plethysmography tracing | 0.00 | NA | 0.73 | 0.05 | XXX
93722 |  | A | Plethysmography report | 0.17 | 0.05 | 0.05 | 0.01 | XXX
93724 |  | A | Analyze pacemaker system | 4.89 | NA | 6.07 | 0.38 | 000
93724 | 26 | A | Analyze pacemaker system | 4.89 | 1.97 | 1.97 | 0.18 | 000
93724 | TC | A | Analyze pacemaker system | 0.00 | NA | 4.10 | 0.20 | 000
93727 |  | A | Analyze ilr system | 0.52 | 0.19 | 0.19 | 0.05 | XXX
93731 |  | A | Analyze pacemaker system | 0.45 | NA | 0.69 | 0.05 | XXX
93731 | 26 | A | Analyze pacemaker system | 0.45 | 0.18 | 0.18 | 0.02 | XXX
93731 | TC | A | Analyze pacemaker system | 0.00 | NA | 0.51 | 0.03 | XXX
93732 |  | A | Analyze pacemaker system | 0.92 | NA | 0.89 | 0.06 | XXX
93732 | 26 | A | Analyze pacemaker system | 0.92 | 0.36 | 0.36 | 0.03 | XXX
93732 | TC | A | Analyze pacemaker system | 0.00 | NA | 0.53 | 0.03 | XXX
93733 |  | A | Telephone analy, pacemaker | 0.17 | NA | 0.82 | 0.06 | XXX
93733 | 26 | A | Telephone analy, pacemaker | 0.17 | 0.07 | 0.07 | 0.01 | XXX
93733 | TC | A | Telephone analy, pacemaker | 0.00 | NA | 0.75 | 0.05 | XXX
93734 |  | A | Analyze pacemaker system | 0.38 | NA | 0.51 | 0.03 | XXX
93734 | 26 | A | Analyze pacemaker system | 0.38 | 0.15 | 0.15 | 0.01 | XXX
93734 | TC | A | Analyze pacemaker system | 0.00 | NA | 0.36 | 0.02 | XXX
93735 |  | A | Analyze pacemaker system | 0.74 | NA | 0.75 | 0.06 | XXX
93735 | 26 | A | Analyze pacemaker system | 0.74 | 0.29 | 0.29 | 0.03 | XXX
93735 | TC | A | Analyze pacemaker system | 0.00 | NA | 0.46 | 0.03 | XXX
93736 |  | A | Telephone analy, pacemaker | 0.15 | NA | 0.71 | 0.06 | XXX
93736 | 26 | A | Telephone analy, pacemaker | 0.15 | 0.06 | 0.06 | 0.01 | XXX
93736 | TC | A | Telephone analy, pacemaker | 0.00 | NA | 0.65 | 0.05 | XXX
93737 |  | D | Analyze cardio/defibrillator | 0.45 | NA | 0.71 | 0.04 | XXX
93737 | 26 | D | Analyze cardio/defibrillator | 0.45 | 0.17 | 0.17 | 0.01 | XXX
93737 | TC | D | Analyze cardio/defibrillator | 0.00 | NA | 0.54 | 0.03 | XXX
93738 |  | D | Analyze cardio/defibrillator | 0.92 | NA | 0.96 | 0.06 | XXX
93738 | 26 | D | Analyze cardio/defibrillator | 0.92 | 0.36 | 0.36 | 0.03 | XXX
93738 | TC | D | Analyze cardio/defibrillator | 0.00 | NA | 0.60 | 0.03 | XXX
93740 |  | B | Temperature gradient studies | 0.16 | NA | 0.22 | 0.02 | XXX
93740 | 26 | B | Temperature gradient studies | 0.16 | 0.06 | 0.06 | 0.01 | XXX
93740 | TC | B | Temperature gradient studies | 0.00 | NA | 0.16 | 0.01 | XXX
93741 |  | A | Analyze ht pace device sngl | 0.80 | NA | 1.01 | 0.05 | XXX
93741 | 26 | A | Analyze ht pace device sngl | 0.80 | 0.32 | 0.32 | 0.02 | XXX
93741 | TC | A | Analyze ht pace device sngl | 0.00 | NA | 0.69 | 0.03 | XXX
93742 |  | A | Analyze ht pace device sngl | 0.91 | NA | 1.06 | 0.05 | XXX
93742 | 26 | A | Analyze ht pace device sngl | 0.91 | 0.37 | 0.37 | 0.02 | XXX
93742 | TC | A | Analyze ht pace device sngl | 0.00 | NA | 0.69 | 0.03 | XXX
93743 |  | A | Analyze ht pace device dual | 1.03 | NA | 1.17 | 0.06 | XXX
93743 | 26 | A | Analyze ht pace device dual | 1.03 | 0.41 | 0.41 | 0.03 | XXX
93743 | TC | A | Analyze ht pace device dual | 0.00 | NA | 0.76 | 0.03 | XXX
93744 |  | A | Analyze ht pace device dual | 1.18 | NA | 1.16 | 0.06 | XXX
93744 | 26 | A | Analyze ht pace device dual | 1.18 | 0.47 | 0.47 | 0.03 | XXX
93744 | TC | A | Analyze ht pace device dual | 0.00 | NA | 0.69 | 0.03 | XXX
93760 |  | N | Cephalic thermogram | 0.00 | 0.00 | 0.00 | 0.00 | XXX
93762 |  | N | Peripheral thermogram | 0.00 | 0.00 | 0.00 | 0.00 | XXX
93770 |  | B | Measure venous pressure | 0.16 | NA | 0.09 | 0.02 | XXX
93770 | 26 | B | Measure venous pressure | 0.16 | 0.06 | 0.06 | 0.01 | XXX
93770 | TC | B | Measure venous pressure | 0.00 | NA | 0.03 | 0.01 | XXX
93784 |  | A | Ambulatory BP monitoring | 0.17 | NA | 1.06 | 0.02 | XXX
93786 |  | A | Ambulatory BP recording | 0.00 | NA | 1.00 | 0.01 | XXX
93788 |  | N | Ambulatory BP analysis | 0.00 | 0.00 | 0.00 | 0.00 | XXX
93790 |  | A | Review/report BP recording | 0.17 | 0.06 | 0.06 | 0.01 | XXX
93797 |  | A | Cardiac rehab | 0.18 | 0.07 | 0.34 | 0.01 | 000
93798 |  | A | Cardiac rehab/monitor | 0.28 | 0.11 | 0.44 | 0.01 | 000
93799 |  | C | Cardiovascular procedure | 0.00 | 0.00 | 0.00 | 0.00 | XXX
93799 | 26 | C | Cardiovascular procedure | 0.00 | 0.00 | 0.00 | 0.00 | XXX
93799 | TC | C | Cardiovascular procedure | 0.00 | 0.00 | 0.00 | 0.00 | XXX
93875 |  | A | Extracranial study | 0.22 | NA | 1.71 | 0.10 | XXX
93875 | 26 | A | Extracranial study | 0.22 | 0.08 | 0.08 | 0.01 | XXX
93875 | TC | A | Extracranial study | 0.00 | NA | 1.63 | 0.09 | XXX
93880 |  | A | Extracranial study | 0.60 | NA | 4.60 | 0.33 | XXX
93880 | 26 | A | Extracranial study | 0.60 | 0.21 | 0.21 | 0.04 | XXX
93880 | TC | A | Extracranial study | 0.00 | NA | 4.39 | 0.29 | XXX
93882 |  | A | Extracranial study | 0.40 | NA | 3.24 | 0.22 | XXX
93882 | 26 | A | Extracranial study | 0.40 | 0.14 | 0.14 | 0.04 | XXX
93882 | TC | A | Extracranial study | 0.00 | NA | 3.10 | 0.18 | XXX
93886 |  | A | Intracranial study | 0.94 | NA | 5.01 | 0.37 | XXX
93886 | 26 | A | Intracranial study | 0.94 | 0.38 | 0.38 | 0.05 | XXX
93886 | TC | A | Intracranial study | 0.00 | NA | 4.63 | 0.32 | XXX
93888 |  | A | Intracranial study | 0.62 | NA | 3.44 | 0.26 | XXX
93888 | 26 | A | Intracranial study | 0.62 | 0.23 | 0.23 | 0.04 | XXX
93888 | TC | A | Intracranial study | 0.00 | NA | 3.21 | 0.22 | XXX
93922 |  | A | Extremity study | 0.25 | NA | 2.38 | 0.13 | XXX
93922 | 26 | A | Extremity study | 0.25 | 0.09 | 0.09 | 0.02 | XXX
93922 | TC | A | Extremity study | 0.00 | NA | 2.29 | 0.11 | XXX
93923 |  | A | Extremity study | 0.45 | NA | 2.89 | 0.22 | XXX
93923 | 26 | A | Extremity study | 0.45 | 0.16 | 0.16 | 0.04 | XXX
93923 | TC | A | Extremity study | 0.00 | NA | 2.74 | 0.18 | XXX
93924 |  | A | Extremity study | 0.50 | NA | 4.07 | 0.26 | XXX
93924 | 26 | A | Extremity study | 0.50 | 0.17 | 0.17 | 0.05 | XXX
93924 | TC | A | Extremity study | 0.00 | NA | 3.90 | 0.21 | XXX
93925 |  | A | Lower extremity study | 0.58 | NA | 4.53 | 0.33 | XXX
93925 | 26 | A | Lower extremity study | 0.58 | 0.20 | 0.20 | 0.04 | XXX
93925 | TC | A | Lower extremity study | 0.00 | NA | 4.33 | 0.29 | XXX
93926 |  | A | Lower extremity study | 0.39 | NA | 3.36 | 0.22 | XXX
93926 | 26 | A | Lower extremity study | 0.39 | 0.13 | 0.13 | 0.03 | XXX
93926 | TC | A | Lower extremity study | 0.00 | NA | 3.22 | 0.19 | XXX
93930 |  | A | Upper extremity study | 0.46 | NA | 4.50 | 0.34 | XXX
93930 | 26 | A | Upper extremity study | 0.46 | 0.16 | 0.16 | 0.03 | XXX
93930 | TC | A | Upper extremity study | 0.00 | NA | 4.34 | 0.31 | XXX
93931 |  | A | Upper extremity study | 0.31 | NA | 3.29 | 0.22 | XXX
93931 | 26 | A | Upper extremity study | 0.31 | 0.11 | 0.11 | 0.02 | XXX
93931 | TC | A | Upper extremity study | 0.00 | NA | 3.18 | 0.20 | XXX
93965 |  | A | Extremity study | 0.35 | NA | 1.99 | 0.12 | XXX
93965 | 26 | A | Extremity study | 0.35 | 0.12 | 0.12 | 0.02 | XXX
93965 | TC | A | Extremity study | 0.00 | NA | 1.86 | 0.10 | XXX
93970 |  | A | Extremity study | 0.68 | NA | 4.69 | 0.38 | XXX
93970 | 26 | A | Extremity study | 0.68 | 0.24 | 0.24 | 0.05 | XXX
93970 | TC | A | Extremity study | 0.00 | NA | 4.45 | 0.33 | XXX
93971 |  | A | Extremity study | 0.45 | NA | 3.74 | 0.25 | XXX
93971 | 26 | A | Extremity study | 0.45 | 0.15 | 0.15 | 0.03 | XXX
93971 | TC | A | Extremity study | 0.00 | NA | 3.59 | 0.22 | XXX
93975 |  | A | Vascular study | 1.80 | NA | 6.37 | 0.47 | XXX
93975 | 26 | A | Vascular study | 1.80 | 0.62 | 0.62 | 0.11 | XXX
93975 | TC | A | Vascular study | 0.00 | NA | 5.75 | 0.36 | XXX
93976 |  | A | Vascular study | 1.21 | NA | 4.67 | 0.31 | XXX
93976 | 26 | A | Vascular study | 1.21 | 0.41 | 0.41 | 0.06 | XXX
93976 | TC | A | Vascular study | 0.00 | NA | 4.26 | 0.25 | XXX
93978 |  | A | Vascular study | 0.65 | NA | 4.39 | 0.36 | XXX
93978 | 26 | A | Vascular study | 0.65 | 0.23 | 0.23 | 0.05 | XXX
93978 | TC | A | Vascular study | 0.00 | NA | 4.17 | 0.31 | XXX
93979 |  | A | Vascular study | 0.44 | NA | 3.15 | 0.24 | XXX
93979 | 26 | A | Vascular study | 0.44 | 0.16 | 0.16 | 0.04 | XXX
93979 | TC | A | Vascular study | 0.00 | NA | 2.99 | 0.20 | XXX
93980 |  | A | Penile vascular study | 1.25 | NA | 4.76 | 0.35 | XXX
93980 | 26 | A | Penile vascular study | 1.25 | 0.42 | 0.42 | 0.07 | XXX
93980 | TC | A | Penile vascular study | 0.00 | NA | 4.34 | 0.28 | XXX
93981 |  | A | Penile vascular study | 0.44 | NA | 4.69 | 0.28 | XXX
93981 | 26 | A | Penile vascular study | 0.44 | 0.15 | 0.15 | 0.02 | XXX
93981 | TC | A | Penile vascular study | 0.00 | NA | 4.54 | 0.26 | XXX
93990 |  | A | Doppler flow testing | 0.25 | NA | 3.18 | 0.21 | XXX
93990 | 26 | A | Doppler flow testing | 0.25 | 0.09 | 0.09 | 0.02 | XXX
93990 | TC | A | Doppler flow testing | 0.00 | NA | 3.09 | 0.19 | XXX
94010 |  | A | Breathing capacity test | 0.17 | NA | 0.85 | 0.03 | XXX
94010 | 26 | A | Breathing capacity test | 0.17 | 0.05 | 0.05 | 0.01 | XXX
94010 | TC | A | Breathing capacity test | 0.00 | NA | 0.79 | 0.02 | XXX
94014 |  | A | Patient recorded spirometry | 0.52 | NA | 0.17 | 0.03 | XXX
94015 |  | A | Patient recorded spirometry | 0.00 | NA | 0.00 | 0.01 | XXX
94016 |  | A | Review patient spirometry | 0.52 | 0.17 | 0.17 | 0.02 | XXX
94060 |  | A | Evaluation of wheezing | 0.31 | NA | 1.47 | 0.06 | XXX
94060 | 26 | A | Evaluation of wheezing | 0.31 | 0.10 | 0.10 | 0.01 | XXX
94060 | TC | A | Evaluation of wheezing | 0.00 | NA | 1.37 | 0.05 | XXX
94070 |  | A | Evaluation of wheezing | 0.60 | NA | 4.10 | 0.10 | XXX
94070 | 26 | A | Evaluation of wheezing | 0.60 | 0.19 | 0.19 | 0.02 | XXX
94070 | TC | A | Evaluation of wheezing | 0.00 | NA | 3.92 | 0.08 | XXX
94150 |  | B | Vital capacity test | 0.07 | NA | 0.64 | 0.02 | XXX
94150 | 26 | B | Vital capacity test | 0.07 | 0.03 | 0.03 | 0.01 | XXX
94150 | TC | B | Vital capacity test | 0.00 | NA | 0.61 | 0.01 | XXX
94200 |  | A | Lung function test (MBC/MVV) | 0.11 | NA | 0.61 | 0.03 | XXX
94200 | 26 | A | Lung function test (MBC/MVV) | 0.11 | 0.03 | 0.03 | 0.01 | XXX
94200 | TC | A | Lung function test (MBC/MVV) | 0.00 | NA | 0.58 | 0.02 | XXX
94240 |  | A | Residual lung capacity | 0.26 | NA | 1.83 | 0.05 | XXX
94240 | 26 | A | Residual lung capacity | 0.26 | 0.08 | 0.08 | 0.01 | XXX
94240 | TC | A | Residual lung capacity | 0.00 | NA | 1.75 | 0.04 | XXX
94250 |  | A | Expired gas collection | 0.11 | NA | 0.66 | 0.02 | XXX
94250 | 26 | A | Expired gas collection | 0.11 | 0.03 | 0.03 | 0.01 | XXX
94250 | TC | A | Expired gas collection | 0.00 | NA | 0.63 | 0.01 | XXX
94260 |  | A | Thoracic gas volume | 0.13 | NA | 0.53 | 0.04 | XXX
94260 | 26 | A | Thoracic gas volume | 0.13 | 0.04 | 0.04 | 0.01 | XXX
94260 | TC | A | Thoracic gas volume | 0.00 | NA | 0.49 | 0.03 | XXX
94350 |  | A | Lung nitrogen washout curve | 0.26 | NA | 1.90 | 0.04 | XXX
94350 | 26 | A | Lung nitrogen washout curve | 0.26 | 0.08 | 0.08 | 0.01 | XXX
94350 | TC | A | Lung nitrogen washout curve | 0.00 | NA | 1.81 | 0.03 | XXX
94360 |  | A | Measure airflow resistance | 0.26 | NA | 0.55 | 0.06 | XXX
94360 | 26 | A | Measure airflow resistance | 0.26 | 0.08 | 0.08 | 0.01 | XXX
94360 | TC | A | Measure airflow resistance | 0.00 | NA | 0.46 | 0.05 | XXX
94370 |  | A | Breath airway closing volume | 0.26 | NA | 1.92 | 0.03 | XXX
94370 | 26 | A | Breath airway closing volume | 0.26 | 0.08 | 0.08 | 0.01 | XXX
94370 | TC | A | Breath airway closing volume | 0.00 | NA | 1.84 | 0.02 | XXX
94375 |  | A | Respiratory flow volume loop | 0.31 | NA | 0.64 | 0.03 | XXX
94375 | 26 | A | Respiratory flow volume loop | 0.31 | 0.10 | 0.10 | 0.01 | XXX
94375 | TC | A | Respiratory flow volume loop | 0.00 | NA | 0.54 | 0.02 | XXX
94400 |  | A | CO2 breathing response curve | 0.40 | NA | 0.87 | 0.06 | XXX
94400 | 26 | A | CO2 breathing response curve | 0.40 | 0.13 | 0.13 | 0.01 | XXX
94400 | TC | A | CO2 breathing response curve | 0.00 | NA | 0.74 | 0.05 | XXX
94450 |  | A | Hypoxia response curve | 0.40 | NA | 0.67 | 0.04 | XXX
94450 | 26 | A | Hypoxia response curve | 0.40 | 0.12 | 0.12 | 0.02 | XXX
94450 | TC | A | Hypoxia response curve | 0.00 | NA | 0.55 | 0.02 | XXX
94620 |  | A | Pulmonary stress test/simple | 0.64 | NA | 2.23 | 0.10 | XXX
94620 | 26 | A | Pulmonary stress test/simple | 0.64 | 0.20 | 0.20 | 0.02 | XXX
94620 | TC | A | Pulmonary stress test/simple | 0.00 | NA | 2.03 | 0.08 | XXX
94621 |  | A | Pulm stress test/complex | 1.42 | NA | 2.14 | 0.13 | XXX
94621 | 26 | A | Pulm stress test/complex | 1.42 | 0.45 | 0.45 | 0.05 | XXX
94621 | TC | A | Pulm stress test/complex | 0.00 | NA | 1.69 | 0.08 | XXX
94640 |  | A | Airway inhalation treatment | 0.00 | NA | 0.69 | 0.02 | XXX
94642 |  | C | Aerosol inhalation treatment | 0.00 | 0.00 | 0.00 | 0.00 | XXX
94650 |  | A | Pressure breathing (IPPB) | 0.00 | NA | 0.65 | 0.02 | XXX
94651 |  | A | Pressure breathing (IPPB) | 0.00 | NA | 0.60 | 0.02 | XXX
94652 |  | A | Pressure breathing (IPPB) | 0.00 | NA | 0.83 | 0.06 | XXX
94656 |  | A | Initial ventilator mgmt | 1.22 | 0.33 | NA | 0.06 | XXX
94657 |  | A | Continued ventilator mgmt | 0.83 | 0.26 | NA | 0.03 | XXX
94660 |  | A | Pos airway pressure, CPAP | 0.76 | 0.24 | 0.66 | 0.03 | XXX
94662 |  | A | Neg press ventilation, cnp | 0.76 | 0.24 | NA | 0.02 | XXX
94664 |  | A | Aerosol or vapor inhalations | 0.00 | NA | 0.51 | 0.03 | XXX
94665 |  | A | Aerosol or vapor inhalations | 0.00 | NA | 0.52 | 0.04 | XXX
94667 |  | A | Chest wall manipulation | 0.00 | NA | 0.80 | 0.04 | XXX
94668 |  | A | Chest wall manipulation | 0.00 | NA | 0.70 | 0.02 | XXX
94680 |  | A | Exhaled air analysis, o2 | 0.26 | NA | 1.84 | 0.06 | XXX
94680 | 26 | A | Exhaled air analysis, o2 | 0.26 | 0.09 | 0.09 | 0.01 | XXX
94680 | TC | A | Exhaled air analysis, o2 | 0.00 | NA | 1.76 | 0.05 | XXX
94681 |  | A | Exhaled air analysis, o2/co2 | 0.20 | NA | 2.45 | 0.11 | XXX
94681 | 26 | A | Exhaled air analysis, o2/co2 | 0.20 | 0.07 | 0.07 | 0.01 | XXX
94681 | TC | A | Exhaled air analysis, o2/co2 | 0.00 | NA | 2.38 | 0.10 | XXX
94690 |  | A | Exhaled air analysis | 0.07 | NA | 2.06 | 0.04 | XXX
94690 | 26 | A | Exhaled air analysis | 0.07 | 0.02 | 0.02 | 0.01 | XXX
94690 | TC | A | Exhaled air analysis | 0.00 | NA | 2.04 | 0.03 | XXX
94720 |  | A | Monoxide diffusing capacity | 0.26 | NA | 1.50 | 0.06 | XXX
94720 | 26 | A | Monoxide diffusing capacity | 0.26 | 0.08 | 0.08 | 0.01 | XXX
94720 | TC | A | Monoxide diffusing capacity | 0.00 | NA | 1.42 | 0.05 | XXX
94725 |  | A | Membrane diffusion capacity | 0.26 | NA | 2.51 | 0.11 | XXX
94725 | 26 | A | Membrane diffusion capacity | 0.26 | 0.08 | 0.08 | 0.01 | XXX
94725 | TC | A | Membrane diffusion capacity | 0.00 | NA | 2.42 | 0.10 | XXX
94750 |  | A | Pulmonary compliance study | 0.23 | NA | 2.04 | 0.04 | XXX
94750 | 26 | A | Pulmonary compliance study | 0.23 | 0.07 | 0.07 | 0.01 | XXX
94750 | TC | A | Pulmonary compliance study | 0.00 | NA | 1.97 | 0.03 | XXX
94760 |  | T | Measure blood oxygen level | 0.00 | NA | 0.09 | 0.02 | XXX
94761 |  | T | Measure blood oxygen level | 0.00 | NA | 0.16 | 0.05 | XXX
94762 |  | A | Measure blood oxygen level | 0.00 | NA | 0.71 | 0.08 | XXX
94770 |  | A | Exhaled carbon dioxide test | 0.15 | NA | 1.64 | 0.07 | XXX
94770 | 26 | A | Exhaled carbon dioxide test | 0.15 | 0.04 | 0.04 | 0.01 | XXX
94770 | TC | A | Exhaled carbon dioxide test | 0.00 | NA | 1.60 | 0.06 | XXX
94772 |  | C | Breath recording, infant | 0.00 | 0.00 | 0.00 | 0.00 | XXX
94772 | 26 | C | Breath recording, infant | 0.00 | 0.00 | 0.00 | 0.00 | XXX
94772 | TC | C | Breath recording, infant | 0.00 | 0.00 | 0.00 | 0.00 | XXX
94799 |  | C | Pulmonary service/procedure | 0.00 | 0.00 | 0.00 | 0.00 | XXX
94799 | 26 | C | Pulmonary service/procedure | 0.00 | 0.00 | 0.00 | 0.00 | XXX
94799 | TC | C | Pulmonary service/procedure | 0.00 | 0.00 | 0.00 | 0.00 | XXX
95004 |  | A | Allergy skin tests | 0.00 | NA | 0.10 | 0.01 | XXX
95010 |  | A | Sensitivity skin tests | 0.15 | 0.06 | 0.44 | 0.01 | XXX
95015 |  | A | Sensitivity skin tests | 0.15 | 0.06 | 0.38 | 0.01 | XXX
95024 |  | A | Allergy skin tests | 0.00 | NA | 0.15 | 0.01 | XXX
95027 |  | A | Skin end point titration | 0.00 | NA | 0.15 | 0.01 | XXX
95028 |  | A | Allergy skin tests | 0.00 | NA | 0.24 | 0.01 | XXX
95044 |  | A | Allergy patch tests | 0.00 | NA | 0.21 | 0.01 | XXX
95052 |  | A | Photo patch test | 0.00 | NA | 0.26 | 0.01 | XXX
95056 |  | A | Photosensitivity tests | 0.00 | NA | 0.18 | 0.01 | XXX
95060 |  | A | Eye allergy tests | 0.00 | NA | 0.36 | 0.02 | XXX
95065 |  | A | Nose allergy test | 0.00 | NA | 0.21 | 0.01 | XXX
95070 |  | A | Bronchial allergy tests | 0.00 | NA | 2.36 | 0.02 | XXX
95071 |  | A | Bronchial allergy tests | 0.00 | NA | 3.02 | 0.02 | XXX
95075 |  | A | Ingestion challenge test | 0.95 | 0.40 | 0.83 | 0.03 | XXX
95078 |  | A | Provocative testing | 0.00 | NA | 0.26 | 0.02 | XXX
95115 |  | A | Immunotherapy, one injection | 0.00 | NA | 0.40 | 0.02 | 000
95117 |  | A | Immunotherapy injections | 0.00 | NA | 0.52 | 0.02 | 000
95120 |  | I | Immunotherapy, one injection | 0.00 | 0.00 | 0.00 | 0.00 | XXX
95125 |  | I | Immunotherapy, many antigens | 0.00 | 0.00 | 0.00 | 0.00 | XXX
95130 |  | I | Immunotherapy, insect venom | 0.00 | 0.00 | 0.00 | 0.00 | XXX
95131 |  | I | Immunotherapy, insect venoms | 0.00 | 0.00 | 0.00 | 0.00 | XXX
95132 |  | I | Immunotherapy, insect venoms | 0.00 | 0.00 | 0.00 | 0.00 | XXX
95133 |  | I | Immunotherapy, insect venoms | 0.00 | 0.00 | 0.00 | 0.00 | XXX
95134 |  | I | Immunotherapy, insect venoms | 0.00 | 0.00 | 0.00 | 0.00 | XXX
95144 |  | A | Antigen therapy services | 0.06 | 0.02 | 0.25 | 0.01 | 000
95145 |  | A | Antigen therapy services | 0.06 | 0.02 | 0.48 | 0.01 | 000
95146 |  | A | Antigen therapy services | 0.06 | 0.03 | 0.60 | 0.01 | 000
95147 |  | A | Antigen therapy services | 0.06 | 0.02 | 0.83 | 0.01 | 000
95148 |  | A | Antigen therapy services | 0.06 | 0.03 | 0.81 | 0.01 | 000
95149 |  | A | Antigen therapy services | 0.06 | 0.03 | 1.01 | 0.01 | 000
95165 |  | A | Antigen therapy services | 0.06 | 0.02 | 0.20 | 0.01 | 000
95170 |  | A | Antigen therapy services | 0.06 | 0.02 | 0.26 | 0.01 | 000
95180 |  | A | Rapid desensitization | 2.01 | 0.84 | 1.61 | 0.04 | 000
95199 |  | C | Allergy immunology services | 0.00 | 0.00 | 0.00 | 0.00 | 000
95250 |  | A | Glucose monitoring, cont | 0.00 | NA | 3.12 | 0.01 | XXX
95805 |  | A | Multiple sleep latency test | 1.88 | NA | 13.89 | 0.34 | XXX
95805 | 26 | A | Multiple sleep latency test | 1.88 | 0.68 | 0.68 | 0.06 | XXX
95805 | TC | A | Multiple sleep latency test | 0.00 | NA | 13.21 | 0.28 | XXX
95806 |  | A | Sleep study, unattended | 1.66 | NA | 3.87 | 0.32 | XXX
95806 | 26 | A | Sleep study, unattended | 1.66 | 0.55 | 0.55 | 0.06 | XXX
95806 | TC | A | Sleep study, unattended | 0.00 | NA | 3.32 | 0.26 | XXX
95807 |  | A | Sleep study, attended | 1.66 | NA | 26.10 | 0.40 | XXX
95807 | 26 | A | Sleep study, attended | 1.66 | 0.54 | 0.54 | 0.05 | XXX
95807 | TC | A | Sleep study, attended | 0.00 | NA | 25.56 | 0.35 | XXX
95808 |  | A | Polysomnography, 1-3 | 2.65 | NA | 19.70 | 0.44 | XXX
95808 | 26 | A | Polysomnography, 1-3 | 2.65 | 0.95 | 0.95 | 0.09 | XXX
95808 | TC | A | Polysomnography, 1-3 | 0.00 | NA | 18.75 | 0.35 | XXX
95810 |  | A | Polysomnography, 4 or more | 3.53 | NA | 28.48 | 0.47 | XXX
95810 | 26 | A | Polysomnography, 4 or more | 3.53 | 1.22 | 1.22 | 0.12 | XXX
95810 | TC | A | Polysomnography, 4 or more | 0.00 | NA | 27.26 | 0.35 | XXX
95811 |  | A | Polysomnography w/cpap | 3.80 | NA | 28.83 | 0.49 | XXX
95811 | 26 | A | Polysomnography w/cpap | 3.80 | 1.31 | 1.31 | 0.13 | XXX
95811 | TC | A | Polysomnography w/cpap | 0.00 | NA | 27.52 | 0.36 | XXX
95812 |  | A | Electroencephalogram (EEG) | 1.08 | NA | 4.62 | 0.13 | XXX
95812 | 26 | A | Electroencephalogram (EEG) | 1.08 | 0.46 | 0.46 | 0.04 | XXX
95812 | TC | A | Electroencephalogram (EEG) | 0.00 | NA | 4.16 | 0.09 | XXX
95813 |  | A | Electroencephalogram (EEG) | 1.73 | NA | 5.75 | 0.15 | XXX
95813 | 26 | A | Electroencephalogram (EEG) | 1.73 | 0.72 | 0.72 | 0.06 | XXX
95813 | TC | A | Electroencephalogram (EEG) | 0.00 | NA | 5.03 | 0.09 | XXX
95816 |  | A | Electroencephalogram (EEG) | 1.08 | NA | 3.58 | 0.12 | XXX
95816 | 26 | A | Electroencephalogram (EEG) | 1.08 | 0.47 | 0.47 | 0.04 | XXX
95816 | TC | A | Electroencephalogram (EEG) | 0.00 | NA | 3.11 | 0.08 | XXX
95819 |  | A | Electroencephalogram (EEG) | 1.08 | NA | 4.16 | 0.12 | XXX
95819 | 26 | A | Electroencephalogram (EEG) | 1.08 | 0.47 | 0.47 | 0.04 | XXX
95819 | TC | A | Electroencephalogram (EEG) | 0.00 | NA | 3.69 | 0.08 | XXX
95822 |  | A | Sleep electroencephalogram | 1.08 | NA | 4.96 | 0.15 | XXX
95822 | 26 | A | Sleep electroencephalogram | 1.08 | 0.47 | 0.47 | 0.04 | XXX
95822 | TC | A | Sleep electroencephalogram | 0.00 | NA | 4.49 | 0.11 | XXX
95824 |  | C | Electroencephalography | 0.00 | 0.00 | 0.00 | 0.00 | XXX
95824 | 26 | A | Electroencephalography | 0.74 | 0.29 | 0.29 | 0.05 | XXX
95824 | TC | C | Electroencephalography | 0.00 | 0.00 | 0.00 | 0.00 | XXX
95827 |  | A | Night electroencephalogram | 1.08 | NA | 2.79 | 0.15 | XXX
95827 | 26 | A | Night electroencephalogram | 1.08 | 0.42 | 0.42 | 0.03 | XXX
95827 | TC | A | Night electroencephalogram | 0.00 | NA | 2.37 | 0.12 | XXX
95829 |  | A | Surgery electrocorticogram | 6.21 | NA | 39.60 | 0.33 | XXX
95829 | 26 | A | Surgery electrocorticogram | 6.21 | 2.41 | 2.41 | 0.31 | XXX
95829 | TC | A | Surgery electrocorticogram | 0.00 | NA | 37.19 | 0.02 | XXX
95830 |  | A | Insert electrodes for EEG | 1.70 | 0.75 | 3.51 | 0.07 | XXX
95831 |  | A | Limb muscle testing, manual | 0.28 | 0.13 | 0.52 | 0.01 | XXX
95832 |  | A | Hand muscle testing, manual | 0.29 | 0.12 | 0.43 | 0.01 | XXX
95833 |  | A | Body muscle testing, manual | 0.47 | 0.23 | 0.59 | 0.01 | XXX
95834 |  | A | Body muscle testing, manual | 0.60 | 0.29 | 0.57 | 0.02 | XXX
95851 |  | A | Range of motion measurements | 0.16 | 0.08 | 0.57 | 0.01 | XXX
95852 |  | A | Range of motion measurements | 0.11 | 0.05 | 0.47 | 0.01 | XXX
95857 |  | A | Tensilon test | 0.53 | 0.23 | 0.64 | 0.02 | XXX
95858 |  | A | Tensilon test & myogram | 1.56 | NA | 1.10 | 0.07 | XXX
95858 | 26 | A | Tensilon test & myogram | 1.56 | 0.69 | 0.69 | 0.04 | XXX
95858 | TC | A | Tensilon test & myogram | 0.00 | NA | 0.41 | 0.03 | XXX
95860 |  | A | Muscle test, one limb | 0.96 | NA | 1.61 | 0.05 | XXX
95860 | 26 | A | Muscle test, one limb | 0.96 | 0.43 | 0.43 | 0.03 | XXX
95860 | TC | A | Muscle test, one limb | 0.00 | NA | 1.18 | 0.02 | XXX
95861 |  | A | Muscle test, two limbs | 1.54 | NA | 1.46 | 0.10 | XXX
95861 | 26 | A | Muscle test, two limbs | 1.54 | 0.70 | 0.70 | 0.05 | XXX
95861 | TC | A | Muscle test, two limbs | 0.00 | NA | 0.76 | 0.05 | XXX
95863 |  | A | Muscle test, 3 limbs | 1.87 | NA | 1.80 | 0.11 | XXX
95863 | 26 | A | Muscle test, 3 limbs | 1.87 | 0.83 | 0.83 | 0.06 | XXX
95863 | TC | A | Muscle test, 3 limbs | 0.00 | NA | 0.97 | 0.05 | XXX
95864 |  | A | Muscle test, 4 limbs | 1.99 | NA | 2.73 | 0.16 | XXX
95864 | 26 | A | Muscle test, 4 limbs | 1.99 | 0.90 | 0.90 | 0.06 | XXX
95864 | TC | A | Muscle test, 4 limbs | 0.00 | NA | 1.84 | 0.10 | XXX
95867 |  | A | Muscle test, head or neck | 0.79 | NA | 0.96 | 0.06 | XXX
95867 | 26 | A | Muscle test, head or neck | 0.79 | 0.36 | 0.36 | 0.03 | XXX
95867 | TC | A | Muscle test, head or neck | 0.00 | NA | 0.60 | 0.03 | XXX
95868 |  | A | Muscle test, head or neck | 1.18 | NA | 1.25 | 0.08 | XXX
95868 | 26 | A | Muscle test, head or neck | 1.18 | 0.53 | 0.53 | 0.04 | XXX
95868 | TC | A | Muscle test, head or neck | 0.00 | NA | 0.72 | 0.04 | XXX
95869 |  | A | Muscle test, thor paraspinal | 0.37 | NA | 0.39 | 0.03 | XXX
95869 | 26 | A | Muscle test, thor paraspinal | 0.37 | 0.17 | 0.17 | 0.01 | XXX
95869 | TC | A | Muscle test, thor paraspinal | 0.00 | NA | 0.22 | 0.02 | XXX
95870 |  | A | Muscle test, nonparaspinal | 0.37 | NA | 0.38 | 0.03 | XXX
95870 | 26 | A | Muscle test, nonparaspinal | 0.37 | 0.16 | 0.16 | 0.01 | XXX
95870 | TC | A | Muscle test, nonparaspinal | 0.00 | NA | 0.22 | 0.02 | XXX
95872 |  | A | Muscle test, one fiber | 1.50 | NA | 1.27 | 0.08 | XXX
95872 | 26 | A | Muscle test, one fiber | 1.50 | 0.65 | 0.65 | 0.04 | XXX
95872 | TC | A | Muscle test, one fiber | 0.00 | NA | 0.62 | 0.04 | XXX
95875 |  | A | Limb exercise test | 1.10 | NA | 1.70 | 0.09 | XXX
95875 | 26 | A | Limb exercise test | 1.10 | 0.48 | 0.48 | 0.04 | XXX
95875 | TC | A | Limb exercise test | 0.00 | NA | 1.22 | 0.05 | XXX
95900 |  | A | Motor nerve conduction test | 0.42 | NA | 1.11 | 0.03 | XXX
95900 | 26 | A | Motor nerve conduction test | 0.42 | 0.19 | 0.19 | 0.01 | XXX
95900 | TC | A | Motor nerve conduction test | 0.00 | NA | 0.92 | 0.02 | XXX
95903 |  | A | Motor nerve conduction test | 0.60 | NA | 1.03 | 0.04 | XXX
95903 | 26 | A | Motor nerve conduction test | 0.60 | 0.27 | 0.27 | 0.02 | XXX
95903 | TC | A | Motor nerve conduction test | 0.00 | NA | 0.77 | 0.02 | XXX
95904 |  | A | Sense nerve conduction test | 0.34 | NA | 0.93 | 0.03 | XXX
95904 | 26 | A | Sense nerve conduction test | 0.34 | 0.15 | 0.15 | 0.01 | XXX
95904 | TC | A | Sense nerve conduction test | 0.00 | NA | 0.78 | 0.02 | XXX
95920 |  | A | Intraop nerve test add-on | 2.11 | NA | 2.31 | 0.20 | ZZZ
95920 | 26 | A | Intraop nerve test add-on | 2.11 | 0.96 | 0.96 | 0.14 | ZZZ
95920 | TC | A | Intraop nerve test add-on | 0.00 | NA | 1.35 | 0.06 | ZZZ
95921 |  | A | Autonomic nerv function test | 0.90 | NA | 0.73 | 0.05 | XXX
95921 | 26 | A | Autonomic nerv function test | 0.90 | 0.34 | 0.34 | 0.03 | XXX
95921 | TC | A | Autonomic nerv function test | 0.00 | NA | 0.39 | 0.02 | XXX
95922 |  | A | Autonomic nerv function test | 0.96 | NA | 0.80 | 0.05 | XXX
95922 | 26 | A | Autonomic nerv function test | 0.96 | 0.41 | 0.41 | 0.03 | XXX
95922 | TC | A | Autonomic nerv function test | 0.00 | NA | 0.39 | 0.02 | XXX
95923 |  | A | Autonomic nerv function test | 0.90 | NA | 2.95 | 0.05 | XXX
95923 | 26 | A | Autonomic nerv function test | 0.90 | 0.39 | 0.39 | 0.03 | XXX
95923 | TC | A | Autonomic nerv function test | 0.00 | NA | 2.56 | 0.02 | XXX
95925 |  | A | Somatosensory testing | 0.54 | NA | 1.17 | 0.07 | XXX
95925 | 26 | A | Somatosensory testing | 0.54 | 0.23 | 0.23 | 0.02 | XXX
95925 | TC | A | Somatosensory testing | 0.00 | NA | 0.94 | 0.05 | XXX
95926 |  | A | Somatosensory testing | 0.54 | NA | 1.18 | 0.07 | XXX
95926 | 26 | A | Somatosensory testing | 0.54 | 0.24 | 0.24 | 0.02 | XXX
95926 | TC | A | Somatosensory testing | 0.00 | NA | 0.94 | 0.05 | XXX
95927 |  | A | Somatosensory testing | 0.54 | NA | 1.20 | 0.08 | XXX
95927 | 26 | A | Somatosensory testing | 0.54 | 0.26 | 0.26 | 0.03 | XXX
95927 | TC | A | Somatosensory testing | 0.00 | NA | 0.94 | 0.05 | XXX
95930 |  | A | Visual evoked potential test | 0.35 | NA | 1.17 | 0.02 | XXX
95930 | 26 | A | Visual evoked potential test | 0.35 | 0.15 | 0.15 | 0.01 | XXX
95930 | TC | A | Visual evoked potential test | 0.00 | NA | 1.02 | 0.01 | XXX
95933 |  | A | Blink reflex test | 0.59 | NA | 1.06 | 0.07 | XXX
95933 | 26 | A | Blink reflex test | 0.59 | 0.25 | 0.25 | 0.02 | XXX
95933 | TC | A | Blink reflex test | 0.00 | NA | 0.81 | 0.05 | XXX
95934 |  | A | H-reflex test | 0.51 | NA | 0.45 | 0.04 | XXX
95934 | 26 | A | H-reflex test | 0.51 | 0.23 | 0.23 | 0.02 | XXX
95934 | TC | A | H-reflex test | 0.00 | NA | 0.22 | 0.02 | XXX
95936 |  | A | H-reflex test | 0.55 | NA | 0.47 | 0.04 | XXX
95936 | 26 | A | H-reflex test | 0.55 | 0.25 | 0.25 | 0.02 | XXX
95936 | TC | A | H-reflex test | 0.00 | NA | 0.22 | 0.02 | XXX
95937 |  | A | Neuromuscular junction test | 0.65 | NA | 0.63 | 0.04 | XXX
95937 | 26 | A | Neuromuscular junction test | 0.65 | 0.28 | 0.28 | 0.02 | XXX
95937 | TC | A | Neuromuscular junction test | 0.00 | NA | 0.35 | 0.02 | XXX
95950 |  | A | Ambulatory eeg monitoring | 1.51 | NA | 6.54 | 0.44 | XXX
95950 | 26 | A | Ambulatory eeg monitoring | 1.51 | 0.65 | 0.65 | 0.08 | XXX
95950 | TC | A | Ambulatory eeg monitoring | 0.00 | NA | 5.88 | 0.36 | XXX
95951 |  | A | EEG monitoring/videorecord | 6.00 | NA | 39.02 | 0.58 | XXX
95951 | 26 | A | EEG monitoring/videorecord | 6.00 | 2.63 | 2.63 | 0.20 | XXX
95951 | TC | A | EEG monitoring/videorecord | 0.00 | NA | 36.39 | 0.38 | XXX
95953 |  | A | EEG monitoring/computer | 3.08 | NA | 7.88 | 0.46 | XXX
95953 | 26 | A | EEG monitoring/computer | 3.08 | 1.33 | 1.33 | 0.10 | XXX
95953 | TC | A | EEG monitoring/computer | 0.00 | NA | 6.54 | 0.36 | XXX
95954 |  | A | EEG monitoring/giving drugs | 2.45 | NA | 4.79 | 0.15 | XXX
95954 | 26 | A | EEG monitoring/giving drugs | 2.45 | 1.08 | 1.08 | 0.10 | XXX
95954 | TC | A | EEG monitoring/giving drugs | 0.00 | NA | 3.71 | 0.05 | XXX
95955 |  | A | EEG during surgery | 1.01 | NA | 2.40 | 0.19 | XXX
95955 | 26 | A | EEG during surgery | 1.01 | 0.37 | 0.37 | 0.05 | XXX
95955 | TC | A | EEG during surgery | 0.00 | NA | 2.03 | 0.14 | XXX
95956 |  | A | Eeg monitoring, cable/radio | 3.08 | NA | 14.49 | 0.47 | XXX
95956 | 26 | A | Eeg monitoring, cable/radio | 3.08 | 1.34 | 1.34 | 0.11 | XXX
95956 | TC | A | Eeg monitoring, cable/radio | 0.00 | NA | 13.14 | 0.36 | XXX
95957 |  | A | EEG digital analysis | 1.98 | NA | 2.63 | 0.17 | XXX
95957 | 26 | A | EEG digital analysis | 1.98 | 0.87 | 0.87 | 0.07 | XXX
95957 | TC | A | EEG digital analysis | 0.00 | NA | 1.76 | 0.10 | XXX
95958 |  | A | EEG monitoring/function test | 4.25 | NA | 3.59 | 0.29 | XXX
95958 | 26 | A | EEG monitoring/function test | 4.25 | 1.79 | 1.79 | 0.18 | XXX
95958 | TC | A | EEG monitoring/function test | 0.00 | NA | 1.80 | 0.11 | XXX
95961 |  | A | Electrode stimulation, brain | 2.97 | NA | 2.71 | 0.24 | XXX
95961 | 26 | A | Electrode stimulation, brain | 2.97 | 1.36 | 1.36 | 0.18 | XXX
95961 | TC | A | Electrode stimulation, brain | 0.00 | NA | 1.35 | 0.06 | XXX
95962 |  | A | Electrode stim, brain add-on | 3.21 | NA | 2.78 | 0.23 | ZZZ
95962 | 26 | A | Electrode stim, brain add-on | 3.21 | 1.43 | 1.43 | 0.17 | ZZZ
95962 | TC | A | Electrode stim, brain add-on | 0.00 | NA | 1.35 | 0.06 | ZZZ
95965 |  | C | Meg, spontaneous | 0.00 | 0.00 | 0.00 | 0.00 | XXX
95965 | 26 | A | Meg, spontaneous | 8.00 | 3.09 | 3.09 | 0.20 | XXX
95965 | TC | C | Meg, spontaneous | 0.00 | 0.00 | 0.00 | 0.00 | XXX
95966 |  | C | Meg, evoked, single | 0.00 | 0.00 | 0.00 | 0.00 | XXX
95966 | 26 | A | Meg, evoked, single | 4.00 | 1.55 | 1.55 | 0.18 | XXX
95966 | TC | C | Meg, evoked, single | 0.00 | 0.00 | 0.00 | 0.00 | XXX
95967 |  | C | Meg, evoked, each addl | 0.00 | 0.00 | 0.00 | 0.00 | ZZZ
95967 | 26 | A | Meg, evoked, each addl | 3.50 | 1.35 | 1.35 | 0.17 | ZZZ
95967 | TC | C | Meg, evoked, each addl | 0.00 | 0.00 | 0.00 | 0.00 | ZZZ
95970 |  | A | Analyze neurostim, no prog | 0.45 | 0.14 | 0.17 | 0.03 | XXX
95971 |  | A | Analyze neurostim, simple | 0.78 | 0.22 | 0.27 | 0.06 | XXX
95972 |  | A | Analyze neurostim, complex | 1.50 | 0.50 | 0.60 | 0.17 | XXX
95973 |  | A | Analyze neurostim, complex | 0.92 | 0.31 | 0.38 | 0.07 | ZZZ
95974 |  | A | Cranial neurostim, complex | 3.00 | 1.30 | 1.31 | 0.15 | XXX
95975 |  | A | Cranial neurostim, complex | 1.70 | 0.66 | 0.69 | 0.07 | ZZZ
95999 |  | C | Neurological procedure | 0.00 | 0.00 | 0.00 | 0.00 | XXX
96000 |  | A | Motion analysis, video/3d | 1.80 | 0.70 | NA | 0.02 | XXX
96001 |  | A | Motion test w/ft press meas | 2.15 | 0.83 | NA | 0.02 | XXX
96002 |  | A | Dynamic surface emg | 0.41 | 0.16 | NA | 0.02 | XXX
96003 |  | A | Dynamic fine wire emg | 0.37 | 0.14 | NA | 0.03 | XXX
96004 |  | A | Phys review of motion tests | 1.80 | 0.70 | 0.70 | 0.08 | XXX
96100 |  | A | Psychological testing | 0.00 | NA | 1.82 | 0.15 | XXX
96105 |  | A | Assessment of aphasia | 0.00 | NA | 1.82 | 0.15 | XXX
96110 |  | C | Developmental test, lim | 0.00 | 0.00 | 0.00 | 0.00 | XXX
96111 |  | A | Developmental test, extend | 0.00 | NA | 1.82 | 0.15 | XXX
96115 |  | A | Neurobehavior status exam | 0.00 | NA | 1.82 | 0.15 | XXX
96117 |  | A | Neuropsych test battery | 0.00 | NA | 1.82 | 0.15 | XXX
96150 |  | A | Assess hlth/behave, init | 0.50 | 0.19 | 0.21 | 0.02 | XXX
96151 |  | A | Assess hlth/behave, subseq | 0.48 | 0.19 | 0.20 | 0.02 | XXX
96152 |  | A | Intervene hlth/behave, indiv | 0.46 | 0.18 | 0.19 | 0.02 | XXX
96153 |  | A | Intervene hlth/behave, group | 0.10 | 0.04 | 0.04 | 0.01 | XXX
96154 |  | A | Interv hlth/behav, fam w/pt | 0.45 | 0.17 | 0.19 | 0.02 | XXX
96155 |  | A | Interv hlth/behav fam no pt | 0.44 | 0.17 | 0.18 | 0.02 | XXX
96400 |  | A | Chemotherapy, sc/im | 0.00 | NA | 0.14 | 0.01 | XXX
96405 |  | A | Intralesional chemo admin | 0.52 | 0.23 | 1.86 | 0.02 | 000
96406 |  | A | Intralesional chemo admin | 0.80 | 0.30 | 2.48 | 0.02 | 000
96408 |  | A | Chemotherapy, push technique | 0.00 | NA | 1.00 | 0.05 | XXX
96410 |  | A | Chemotherapy infusion method | 0.00 | NA | 1.60 | 0.07 | XXX
96412 |  | A | Chemo, infuse method add-on | 0.00 | NA | 1.19 | 0.06 | ZZZ
96414 |  | A | Chemo, infuse method add-on | 0.00 | NA | 1.38 | 0.07 | XXX
96420 |  | A | Chemotherapy, push technique | 0.00 | NA | 1.29 | 0.07 | XXX
96422 |  | A | Chemotherapy infusion method | 0.00 | NA | 1.27 | 0.07 | XXX
96423 |  | A | Chemo, infuse method add-on | 0.00 | NA | 0.50 | 0.02 | ZZZ
96425 |  | A | Chemotherapy infusion method | 0.00 | NA | 1.48 | 0.07 | XXX
96440 |  | A | Chemotherapy, intracavitary | 2.37 | 1.06 | 8.23 | 0.12 | 000
96445 |  | A | Chemotherapy, intracavitary | 2.20 | 1.03 | 8.30 | 0.07 | 000
96450 |  | A | Chemotherapy, into CNS | 1.89 | 0.93 | 6.60 | 0.06 | 000
96520 |  | A | Pump refilling, maintenance | 0.00 | NA | 0.92 | 0.05 | XXX
96530 |  | A | Pump refilling, maintenance | 0.00 | NA | 1.10 | 0.05 | XXX
96542 |  | A | Chemotherapy injection | 1.42 | 0.55 | 4.08 | 0.05 | XXX
96545 |  | B | Provide chemotherapy agent | 0.00 | 0.00 | 0.00 | 0.00 | XXX
96549 |  | C | Chemotherapy, unspecified | 0.00 | 0.00 | 0.00 | 0.00 | XXX
96567 |  | A | Photodynamic tx, skin | 0.00 | NA | 1.65 | 0.03 | XXX
96570 |  | A | Photodynamic tx, 30 min | 1.10 | 0.37 | 0.44 | 0.04 | ZZZ
96571 |  | A | Photodynamic tx, addl 15 min | 0.55 | 0.20 | 0.21 | 0.02 | ZZZ
96900 |  | A | Ultraviolet light therapy | 0.00 | NA | 0.44 | 0.02 | XXX
96902 |  | B | Trichogram | 0.41 | 0.16 | 0.24 | 0.01 | XXX
96910 |  | A | Photochemotherapy with UV-B | 0.00 | NA | 1.33 | 0.03 | XXX
96912 |  | A | Photochemotherapy with UV-A | 0.00 | NA | 1.52 | 0.04 | XXX
96913 |  | A | Photochemotherapy, UV-A or B | 0.00 | NA | 2.20 | 0.08 | XXX
96999 |  | C | Dermatological procedure | 0.00 | 0.00 | 0.00 | 0.00 | XXX
97001 |  | A | Pt evaluation | 1.20 | 0.43 | 0.55 | 0.10 | XXX
97002 |  | A | Pt re-evaluation | 0.60 | 0.24 | 0.36 | 0.04 | XXX
97003 |  | A | Ot evaluation | 1.20 | 0.32 | 0.71 | 0.05 | XXX
97004 |  | A | Ot re-evaluation | 0.60 | 0.17 | 0.69 | 0.02 | XXX
97005 |  | I | Athletic train eval | 0.00 | 0.00 | 0.00 | 0.00 | XXX
97006 |  | I | Athletic train reeval | 0.00 | 0.00 | 0.00 | 0.00 | XXX
97010 |  | B | Hot or cold packs therapy | 0.06 | NA | 0.04 | 0.01 | XXX
97012 |  | A | Mechanical traction therapy | 0.25 | NA | 0.10 | 0.01 | XXX
97014 |  | A | Electric stimulation therapy | 0.18 | NA | 0.19 | 0.01 | XXX
97016 |  | A | Vasopneumatic device therapy | 0.18 | NA | 0.14 | 0.01 | XXX
97018 |  | A | Paraffin bath therapy | 0.06 | NA | 0.12 | 0.01 | XXX
97020 |  | A | Microwave therapy | 0.06 | NA | 0.05 | 0.01 | XXX
97022 |  | A | Whirlpool therapy | 0.17 | NA | 0.26 | 0.01 | XXX
97024 |  | A | Diathermy treatment | 0.06 | NA | 0.05 | 0.01 | XXX
97026 |  | A | Infrared therapy | 0.06 | NA | 0.05 | 0.01 | XXX
97028 |  | A | Ultraviolet therapy | 0.08 | NA | 0.06 | 0.01 | XXX
97032 |  | A | Electrical stimulation | 0.25 | NA | 0.20 | 0.01 | XXX
97033 |  | A | Electric current therapy | 0.26 | NA | 0.36 | 0.02 | XXX
97034 |  | A | Contrast bath therapy | 0.21 | NA | 0.14 | 0.01 | XXX
97035 |  | A | Ultrasound therapy | 0.21 | NA | 0.08 | 0.01 | XXX
97036 |  | A | Hydrotherapy | 0.28 | NA | 0.34 | 0.01 | XXX
97039 |  | A | Physical therapy treatment | 0.20 | NA | 0.08 | 0.01 | XXX
97110 |  | A | Therapeutic exercises | 0.45 | NA | 0.25 | 0.03 | XXX
97112 |  | A | Neuromuscular reeducation | 0.45 | NA | 0.28 | 0.02 | XXX
97113 |  | A | Aquatic therapy/exercises | 0.44 | NA | 0.32 | 0.03 | XXX
97116 |  | A | Gait training therapy | 0.40 | NA | 0.21 | 0.02 | XXX
97124 |  | A | Massage therapy | 0.35 | NA | 0.21 | 0.01 | XXX
97139 |  | A | Physical medicine procedure | 0.21 | NA | 0.21 | 0.01 | XXX
97140 |  | A | Manual therapy | 0.43 | NA | 0.23 | 0.02 | XXX
97150 |  | A | Group therapeutic procedures | 0.27 | NA | 0.19 | 0.02 | XXX
97504 |  | A | Orthotic training | 0.45 | NA | 0.25 | 0.03 | XXX
97520 |  | A | Prosthetic training | 0.45 | NA | 0.21 | 0.02 | XXX
97530 |  | A | Therapeutic activities | 0.44 | NA | 0.43 | 0.02 | XXX
97532 |  | A | Cognitive skills development | 0.44 | NA | 0.16 | 0.01 | XXX
97533 |  | A | Sensory integration | 0.44 | NA | 0.21 | 0.01 | XXX
97535 |  | A | Self care mngment training | 0.45 | NA | 0.34 | 0.02 | XXX
97537 |  | A | Community/work reintegration | 0.45 | NA | 0.20 | 0.01 | XXX
97542 |  | A | Wheelchair mngment training | 0.45 | NA | 0.22 | 0.01 | XXX
97545 |  | R | Work hardening | 0.00 | 0.00 | 0.00 | 0.00 | XXX
97546 |  | R | Work hardening add-on | 0.00 | 0.00 | 0.00 | 0.00 | ZZZ
97601 |  | A | Wound(s) care, selective | 0.50 | NA | 0.66 | 0.04 | XXX
97602 |  | B | Wound(s) care non-selective | 0.00 | 0.00 | 0.00 | 0.00 | XXX
97703 |  | A | Prosthetic checkout | 0.25 | NA | 0.42 | 0.02 | XXX
97750 |  | A | Physical performance test | 0.45 | NA | 0.24 | 0.02 | XXX
97780 |  | N | Acupuncture w/o stimul | 0.00 | 0.00 | 0.00 | 0.00 | XXX
97781 |  | N | Acupuncture w/stimul | 0.00 | 0.00 | 0.00 | 0.00 | XXX
97799 |  | C | Physical medicine procedure | 0.00 | 0.00 | 0.00 | 0.00 | XXX
97802 |  | A | Medical nutrition, indiv, in | 0.00 | NA | 0.49 | 0.01 | XXX
97803 |  | A | Med nutrition, indiv, subseq | 0.00 | NA | 0.49 | 0.01 | XXX
97804 |  | A | Medical nutrition, group | 0.00 | NA | 0.19 | 0.01 | XXX
98925 |  | A | Osteopathic manipulation | 0.45 | 0.15 | 0.37 | 0.01 | 000
98926 |  | A | Osteopathic manipulation | 0.65 | 0.26 | 0.44 | 0.02 | 000
98927 |  | A | Osteopathic manipulation | 0.87 | 0.30 | 0.51 | 0.03 | 000
98928 |  | A | Osteopathic manipulation | 1.03 | 0.35 | 0.58 | 0.03 | 000
98929 |  | A | Osteopathic manipulation | 1.19 | 0.38 | 0.64 | 0.04 | 000
98940 |  | A | Chiropractic manipulation | 0.45 | 0.13 | 0.24 | 0.01 | 000
98941 |  | A | Chiropractic manipulation | 0.65 | 0.18 | 0.30 | 0.02 | 000
98942 |  | A | Chiropractic manipulation | 0.87 | 0.24 | 0.36 | 0.03 | 000
98943 |  | N | Chiropractic manipulation | 0.40 | 0.15 | 0.34 | 0.01 | XXX
99000 |  | B | Specimen handling | 0.00 | 0.00 | 0.00 | 0.00 | XXX
99001 |  | B | Specimen handling | 0.00 | 0.00 | 0.00 | 0.00 | XXX
99002 |  | B | Device handling | 0.00 | 0.00 | 0.00 | 0.00 | XXX
99024 |  | B | Postop follow-up visit | 0.00 | 0.00 | 0.00 | 0.00 | XXX
99025 |  | B | Initial surgical evaluation | 0.00 | 0.00 | 0.00 | 0.00 | XXX
99050 |  | B | Medical services after hrs | 0.00 | 0.00 | 0.00 | 0.00 | XXX
99052 |  | B | Medical services at night | 0.00 | 0.00 | 0.00 | 0.00 | XXX
99054 |  | B | Medical servcs, unusual hrs | 0.00 | 0.00 | 0.00 | 0.00 | XXX
99056 |  | B | Non-office medical services | 0.00 | 0.00 | 0.00 | 0.00 | XXX
99058 |  | B | Office emergency care | 0.00 | 0.00 | 0.00 | 0.00 | XXX
99070 |  | B | Special supplies | 0.00 | 0.00 | 0.00 | 0.00 | XXX
99071 |  | B | Patient education materials | 0.00 | 0.00 | 0.00 | 0.00 | XXX
99075 |  | N | Medical testimony | 0.00 | 0.00 | 0.00 | 0.00 | XXX
99078 |  | B | Group health education | 0.00 | 0.00 | 0.00 | 0.00 | XXX
99080 |  | B | Special reports or forms | 0.00 | 0.00 | 0.00 | 0.00 | XXX
99082 |  | C | Unusual physician travel | 0.00 | 0.00 | 0.00 | 0.00 | XXX
99090 |  | B | Computer data analysis | 0.00 | 0.00 | 0.00 | 0.00 | XXX
99091 |  | B | Collect/review data from pt | 0.00 | 0.00 | 0.00 | 0.00 | XXX
99100 |  | B | Special anesthesia service | 0.00 | 0.00 | 0.00 | 0.00 | ZZZ
99116 |  | B | Anesthesia with hypothermia | 0.00 | 0.00 | 0.00 | 0.00 | ZZZ
99135 |  | B | Special anesthesia procedure | 0.00 | 0.00 | 0.00 | 0.00 | ZZZ
99140 |  | B | Emergency anesthesia | 0.00 | 0.00 | 0.00 | 0.00 | ZZZ
99141 |  | B | Sedation, iv/im or inhalant | 0.80 | 0.38 | 2.13 | 0.04 | XXX
99142 |  | B | Sedation, oral/rectal/nasal | 0.60 | 0.30 | 1.24 | 0.03 | XXX
99170 |  | A | Anogenital exam, child | 1.75 | 0.53 | 1.96 | 0.07 | 000
99172 |  | N | Ocular function screen | 0.00 | 0.00 | 0.00 | 0.00 | XXX
99173 |  | N | Visual acuity screen | 0.00 | 0.00 | 0.00 | 0.00 | XXX
99175 |  | A | Induction of vomiting | 0.00 | NA | 1.44 | 0.08 | XXX
99183 |  | A | Hyperbaric oxygen therapy | 2.34 | 0.74 | NA | 0.12 | XXX
99185 |  | A | Regional hypothermia | 0.00 | NA | 0.66 | 0.03 | XXX
99186 |  | A | Total body hypothermia | 0.00 | NA | 1.84 | 0.37 | XXX
99190 |  | X | Special pump services | 0.00 | 0.00 | 0.00 | 0.00 | XXX
99191 |  | X | Special pump services | 0.00 | 0.00 | 0.00 | 0.00 | XXX
99192 |  | X | Special pump services | 0.00 | 0.00 | 0.00 | 0.00 | XXX
99195 |  | A | Phlebotomy | 0.00 | NA | 0.46 | 0.02 | XXX
99199 |  | C | Special service/proc/report | 0.00 | 0.00 | 0.00 | 0.00 | XXX
99201 |  | A | Office/outpatient visit, new | 0.45 | 0.16 | 0.46 | 0.02 | XXX
99202 |  | A | Office/outpatient visit, new | 0.88 | 0.32 | 0.75 | 0.05 | XXX
99203 |  | A | Office/outpatient visit, new | 1.34 | 0.49 | 1.09 | 0.08 | XXX
99204 |  | A | Office/outpatient visit, new | 2.00 | 0.73 | 1.48 | 0.10 | XXX
99205 |  | A | Office/outpatient visit, new | 2.67 | 0.95 | 1.76 | 0.12 | XXX
99211 |  | A | Office/outpatient visit, est | 0.17 | 0.06 | 0.37 | 0.01 | XXX
99212 |  | A | Office/outpatient visit, est | 0.45 | 0.16 | 0.51 | 0.02 | XXX
99213 |  | A | Office/outpatient visit, est | 0.67 | 0.24 | 0.68 | 0.03 | XXX
99214 |  | A | Office/outpatient visit, est | 1.10 | 0.40 | 1.02 | 0.04 | XXX
99215 |  | A | Office/outpatient visit, est | 1.77 | 0.64 | 1.32 | 0.07 | XXX
99217 |  | A | Observation care discharge | 1.28 | 0.44 | NA | 0.05 | XXX
99218 |  | A | Observation care | 1.28 | 0.44 | NA | 0.05 | XXX
99219 |  | A | Observation care | 2.14 | 0.73 | NA | 0.08 | XXX
99220 |  | A | Observation care | 2.99 | 1.03 | NA | 0.11 | XXX
99221 |  | A | Initial hospital care | 1.28 | 0.46 | NA | 0.05 | XXX
99222 |  | A | Initial hospital care | 2.14 | 0.75 | NA | 0.08 | XXX
99223 |  | A | Initial hospital care | 2.99 | 1.05 | NA | 0.10 | XXX
99231 |  | A | Subsequent hospital care | 0.64 | 0.23 | NA | 0.02 | XXX
99232 |  | A | Subsequent hospital care | 1.06 | 0.38 | NA | 0.03 | XXX
99233 |  | A | Subsequent hospital care | 1.51 | 0.53 | NA | 0.05 | XXX
99234 |  | A | Observ/hosp same date | 2.56 | 0.89 | NA | 0.11 | XXX
99235 |  | A | Observ/hosp same date | 3.42 | 1.18 | NA | 0.13 | XXX
99236 |  | A | Observ/hosp same date | 4.27 | 1.48 | NA | 0.17 | XXX
99238 |  | A | Hospital discharge day | 1.28 | 0.50 | NA | 0.04 | XXX
99239 |  | A | Hospital discharge day | 1.75 | 0.69 | NA | 0.05 | XXX
99241 |  | A | Office consultation | 0.64 | 0.22 | 0.61 | 0.04 | XXX
99242 |  | A | Office consultation | 1.29 | 0.47 | 1.00 | 0.09 | XXX
99243 |  | A | Office consultation | 1.72 | 0.65 | 1.34 | 0.10 | XXX
99244 |  | A | Office consultation | 2.58 | 0.95 | 1.78 | 0.13 | XXX
99245 |  | A | Office consultation | 3.43 | 1.26 | 2.23 | 0.16 | XXX
99251 |  | A | Initial inpatient consult | 0.66 | 0.25 | NA | 0.04 | XXX
99252 |  | A | Initial inpatient consult | 1.32 | 0.51 | NA | 0.08 | XXX
99253 |  | A | Initial inpatient consult | 1.82 | 0.70 | NA | 0.09 | XXX
99254 |  | A | Initial inpatient consult | 2.64 | 1.00 | NA | 0.11 | XXX
99255 |  | A | Initial inpatient consult | 3.65 | 1.36 | NA | 0.15 | XXX
99261 |  | A | Follow-up inpatient consult | 0.42 | 0.16 | NA | 0.02 | XXX
99262 |  | A | Follow-up inpatient consult | 0.85 | 0.31 | NA | 0.03 | XXX
99263 |  | A | Follow-up inpatient consult | 1.27 | 0.46 | NA | 0.04 | XXX
99271 |  | A | Confirmatory consultation | 0.45 | 0.16 | 0.65 | 0.03 | XXX
99272 |  | A | Confirmatory consultation | 0.84 | 0.32 | 0.88 | 0.06 | XXX
99273 |  | A | Confirmatory consultation | 1.19 | 0.45 | 1.08 | 0.07 | XXX
99274 |  | A | Confirmatory consultation | 1.73 | 0.65 | 1.38 | 0.09 | XXX
99275 |  | A | Confirmatory consultation | 2.31 | 0.84 | 1.63 | 0.10 | XXX
99281 |  | A | Emergency dept visit | 0.33 | 0.09 | NA | 0.02 | XXX
99282 |  | A | Emergency dept visit | 0.55 | 0.15 | NA | 0.03 | XXX
99283 |  | A | Emergency dept visit | 1.24 | 0.32 | NA | 0.08 | XXX
99284 |  | A | Emergency dept visit | 1.95 | 0.49 | NA | 0.12 | XXX
99285 |  | A | Emergency dept visit | 3.06 | 0.74 | NA | 0.19 | XXX
99288 |  | B | Direct advanced life support | 0.00 | 0.00 | 0.00 | 0.00 | XXX
99289 |  | I | Pt transport, 30-74 min | 0.00 | 0.00 | 0.00 | 0.00 | XXX
99290 |  | I | Pt transport, addl 30 min | 0.00 | 0.00 | 0.00 | 0.00 | ZZZ
99291 |  | A | Critical care, first hour | 4.00 | 1.31 | 1.57 | 0.14 | XXX
99292 |  | A | Critical care, addl 30 min | 2.00 | 0.65 | 0.85 | 0.07 | ZZZ
99295 |  | A | Neonatal critical care | 16.00 | 4.84 | NA | 0.70 | XXX
99296 |  | A | Neonatal critical care | 8.00 | 2.62 | NA | 0.23 | XXX
99297 |  | A | Neonatal critical care | 4.00 | 1.34 | NA | 0.12 | XXX
99298 |  | A | Neonatal critical care | 2.75 | 0.94 | NA | 0.10 | XXX
99301 |  | A | Nursing facility care | 1.20 | 0.42 | 0.69 | 0.04 | XXX
99302 |  | A | Nursing facility care | 1.61 | 0.56 | 0.97 | 0.05 | XXX
99303 |  | A | Nursing facility care | 2.01 | 0.69 | 1.19 | 0.06 | XXX
99311 |  | A | Nursing fac care, subseq | 0.60 | 0.21 | 0.49 | 0.02 | XXX
99312 |  | A | Nursing fac care, subseq | 1.00 | 0.34 | 0.67 | 0.03 | XXX
99313 |  | A | Nursing fac care, subseq | 1.42 | 0.49 | 0.86 | 0.04 | XXX
99315 |  | A | Nursing fac discharge day | 1.13 | 0.39 | 0.72 | 0.04 | XXX
99316 |  | A | Nursing fac discharge day | 1.50 | 0.52 | 0.92 | 0.05 | XXX
99321 |  | A | Rest home visit, new patient | 0.71 | NA | 0.45 | 0.02 | XXX
99322 |  | A | Rest home visit, new patient | 1.01 | NA | 0.69 | 0.03 | XXX
99323 |  | A | Rest home visit, new patient | 1.28 | NA | 0.92 | 0.04 | XXX
99331 |  | A | Rest home visit, est pat | 0.60 | NA | 0.47 | 0.02 | XXX
99332 |  | A | Rest home visit, est pat | 0.80 | NA | 0.58 | 0.03 | XXX
99333 |  | A | Rest home visit, est pat | 1.00 | NA | 0.71 | 0.03 | XXX
99341 |  | A | Home visit, new patient | 1.01 | NA | 0.55 | 0.05 | XXX
99342 |  | A | Home visit, new patient | 1.52 | NA | 0.85 | 0.05 | XXX
99343 |  | A | Home visit, new patient | 2.27 | NA | 1.27 | 0.07 | XXX
99344 |  | A | Home visit, new patient | 3.03 | NA | 1.55 | 0.10 | XXX
99345 |  | A | Home visit, new patient | 3.79 | NA | 1.81 | 0.12 | XXX
99347 |  | A | Home visit, est patient | 0.76 | NA | 0.48 | 0.03 | XXX
99348 |  | A | Home visit, est patient | 1.26 | NA | 0.72 | 0.04 | XXX
99349 |  | A | Home visit, est patient | 2.02 | NA | 1.06 | 0.06 | XXX
99350 |  | A | Home visit, est patient | 3.03 | NA | 1.42 | 0.10 | XXX
99354 |  | A | Prolonged service, office | 1.77 | 0.62 | 1.44 | 0.06 | ZZZ
99355 |  | A | Prolonged service, office | 1.77 | 0.59 | 1.23 | 0.06 | ZZZ
99356 |  | A | Prolonged service, inpatient | 1.71 | 0.60 | NA | 0.06 | ZZZ
99357 |  | A | Prolonged service, inpatient | 1.71 | 0.61 | NA | 0.06 | ZZZ
99358 |  | B | Prolonged serv, w/o contact | 0.00 | 0.00 | 0.00 | 0.00 | ZZZ
99359 |  | B | Prolonged serv, w/o contact | 0.00 | 0.00 | 0.00 | 0.00 | ZZZ
99360 |  | X | Physician standby services | 0.00 | 0.00 | 0.00 | 0.00 | XXX
99361 |  | B | Physician/team conference | 0.00 | 0.00 | 0.00 | 0.00 | XXX
99362 |  | B | Physician/team conference | 0.00 | 0.00 | 0.00 | 0.00 | XXX
99371 |  | B | Physician phone consultation | 0.00 | 0.00 | 0.00 | 0.00 | XXX
99372 |  | B | Physician phone consultation | 0.00 | 0.00 | 0.00 | 0.00 | XXX
99373 |  | B | Physician phone consultation | 0.00 | 0.00 | 0.00 | 0.00 | XXX
99374 |  | B | Home health care supervision | 1.10 | 0.43 | 1.44 | 0.04 | XXX
99375 |  | I | Home health care supervision | 1.73 | NA | NA | 0.06 | XXX
99377 |  | B | Hospice care supervision | 1.10 | 0.43 | 1.44 | 0.04 | XXX
99378 |  | I | Hospice care supervision | 1.73 | NA | NA | 0.06 | XXX
99379 |  | B | Nursing fac care supervision | 1.10 | 0.43 | 1.44 | 0.03 | XXX
99380 |  | B | Nursing fac care supervision | 1.73 | 0.67 | 1.69 | 0.05 | XXX
99381 |  | N | Prev visit, new, infant | 1.19 | 0.46 | 1.47 | 0.04 | XXX
99382 |  | N | Prev visit, new, age 1-4 | 1.36 | 0.53 | 1.51 | 0.04 | XXX
99383 |  | N | Prev visit, new, age 5-11 | 1.36 | 0.53 | 1.46 | 0.04 | XXX
99384 |  | N | Prev visit, new, age 12-17 | 1.53 | 0.59 | 1.53 | 0.05 | XXX
99385 |  | N | Prev visit, new, age 18-39 | 1.53 | 0.59 | 1.53 | 0.05 | XXX
99386 |  | N | Prev visit, new, age 40-64 | 1.88 | 0.73 | 1.71 | 0.06 | XXX
99387 |  | N | Prev visit, new, 65 & over | 2.06 | 0.80 | 1.84 | 0.06 | XXX
99391 |  | N | Prev visit, est, infant | 1.02 | 0.39 | 1.01 | 0.03 | XXX
99392 |  | N | Prev visit, est, age 1-4 | 1.19 | 0.46 | 1.07 | 0.04 | XXX
99393 |  | N | Prev visit, est, age 5-11 | 1.19 | 0.46 | 1.04 | 0.04 | XXX
99394 |  | N | Prev visit, est, age 12-17 | 1.36 | 0.53 | 1.12 | 0.04 | XXX
99395 |  | N | Prev visit, est, age 18-39 | 1.36 | 0.53 | 1.16 | 0.04 | XXX
99396 |  | N | Prev visit, est, age 40-64 | 1.53 | 0.59 | 1.25 | 0.05 | XXX
99397 |  | N | Prev visit, est, 65 & over | 1.71 | 0.66 | 1.35 | 0.05 | XXX
99401 |  | N | Preventive counseling, indiv | 0.48 | 0.19 | 0.61 | 0.01 | XXX
99402 |  | N | Preventive counseling, indiv | 0.98 | 0.38 | 0.85 | 0.02 | XXX
99403 |  | N | Preventive counseling, indiv | 1.46 | 0.56 | 1.08 | 0.03 | XXX
99404 |  | N | Preventive counseling, indiv | 1.95 | 0.75 | 1.32 | 0.04 | XXX
99411 |  | N | Preventive counseling, group | 0.15 | 0.06 | 0.18 | 0.01 | XXX
99412 |  | N | Preventive counseling, group | 0.25 | 0.10 | 0.24 | 0.01 | XXX
99420 |  | N | Health risk assessment test | 0.00 | 0.00 | 0.00 | 0.00 | XXX
99429 |  | N | Unlisted preventive service | 0.00 | 0.00 | 0.00 | 0.00 | XXX
99431 |  | A | Initial care, normal newborn | 1.17 | 0.38 | NA | 0.04 | XXX
99432 |  | A | Newborn care, not in hosp | 1.26 | 0.41 | 1.11 | 0.06 | XXX
99433 |  | A | Normal newborn care/hospital | 0.62 | 0.20 | NA | 0.02 | XXX
99435 |  | A | Newborn discharge day hosp | 1.50 | 0.51 | NA | 0.05 | XXX
99436 |  | A | Attendance, birth | 1.50 | 0.46 | 0.50 | 0.05 | XXX
99440 |  | A | Newborn resuscitation | 2.93 | 0.93 | NA | 0.11 | XXX
99450 |  | N | Life/disability evaluation | 0.00 | 0.00 | 0.00 | 0.00 | XXX
99455 |  | R | Disability examination | 0.00 | 0.00 | 0.00 | 0.00 | XXX
99456 |  | R | Disability examination | 0.00 | 0.00 | 0.00 | 0.00 | XXX
99499 |  | C | Unlisted e&m service | 0.00 | 0.00 | 0.00 | 0.00 | XXX
99500 |  | I | Home visit, prenatal | 0.00 | 0.00 | 0.00 | 0.00 | XXX
99501 |  | I | Home visit, postnatal | 0.00 | 0.00 | 0.00 | 0.00 | XXX
99502 |  | I | Home visit, nb care | 0.00 | 0.00 | 0.00 | 0.00 | XXX
99503 |  | I | Home visit, resp therapy | 0.00 | 0.00 | 0.00 | 0.00 | XXX
99504 |  | I | Home visit mech ventilator | 0.00 | 0.00 | 0.00 | 0.00 | XXX
99505 |  | I | Home visit, stoma care | 0.00 | 0.00 | 0.00 | 0.00 | XXX
99506 |  | I | Home visit, im injection | 0.00 | 0.00 | 0.00 | 0.00 | XXX
99507 |  | I | Home visit, cath maintain | 0.00 | 0.00 | 0.00 | 0.00 | XXX
99508 |  | I | Home visit, sleep studies | 0.00 | 0.00 | 0.00 | 0.00 | XXX
99509 |  | I | Home visit day life activity | 0.00 | 0.00 | 0.00 | 0.00 | XXX
99510 |  | I | Home visit, sing/m/fam couns | 0.00 | 0.00 | 0.00 | 0.00 | XXX
99511 |  | I | Home visit, fecal/enema mgmt | 0.00 | 0.00 | 0.00 | 0.00 | XXX
99512 |  | I | Home visit, hemodialysis | 0.00 | 0.00 | 0.00 | 0.00 | XXX
99539 |  | I | Home visit, nos | 0.00 | 0.00 | 0.00 | 0.00 | XXX
99551 |  | I | Home infus, pain mgmt, iv/sc | 0.00 | 0.00 | 0.00 | 0.00 | XXX
99552 |  | I | Hm infus pain mgmt, epid/ith | 0.00 | 0.00 | 0.00 | 0.00 | XXX
99553 |  | I | Home infuse, tocolytic tx | 0.00 | 0.00 | 0.00 | 0.00 | XXX
99554 |  | I | Home infus, hormone/platelet | 0.00 | 0.00 | 0.00 | 0.00 | XXX
99555 |  | I | Home infuse, chemotheraphy | 0.00 | 0.00 | 0.00 | 0.00 | XXX
99556 |  | I | Home infus, antibio/fung/vir | 0.00 | 0.00 | 0.00 | 0.00 | XXX
99557 |  | I | Home infuse, anticoagulant | 0.00 | 0.00 | 0.00 | 0.00 | XXX
99558 |  | I | Home infuse, immunotherapy | 0.00 | 0.00 | 0.00 | 0.00 | XXX
99559 |  | I | Home infus, periton dialysis | 0.00 | 0.00 | 0.00 | 0.00 | XXX
99560 |  | I | Home infus, entero nutrition | 0.00 | 0.00 | 0.00 | 0.00 | XXX
99561 |  | I | Home infuse, hydration tx | 0.00 | 0.00 | 0.00 | 0.00 | XXX
99562 |  | I | Home infus, parent nutrition | 0.00 | 0.00 | 0.00 | 0.00 | XXX
99563 |  | I | Home admin, pentamidine | 0.00 | 0.00 | 0.00 | 0.00 | XXX
99564 |  | I | Hme infus, antihemophil agnt | 0.00 | 0.00 | 0.00 | 0.00 | XXX
99565 |  | I | Home infus, proteinase inhib | 0.00 | 0.00 | 0.00 | 0.00 | XXX
99566 |  | I | Home infuse, iv therapy | 0.00 | 0.00 | 0.00 | 0.00 | XXX
99567 |  | I | Home infuse, sympath agent | 0.00 | 0.00 | 0.00 | 0.00 | XXX
99568 |  | I | Home infus, misc drug, daily | 0.00 | 0.00 | 0.00 | 0.00 | XXX
99569 |  | I | Home infuse, each addl tx | 0.00 | 0.00 | 0.00 | 0.00 | XXX
A4211 |  | P | Supp for self-adm injections | 0.00 | 0.00 | 0.00 | 0.00 | XXX
A4212 |  | P | Non coring needle or stylet | 0.00 | 0.00 | 0.00 | 0.00 | XXX
A4214 |  | P | 30 CC sterile water/saline | 0.00 | 0.00 | 0.00 | 0.00 | XXX
A4220 |  | P | Infusion pump refill kit | 0.00 | 0.00 | 0.00 | 0.00 | XXX
A4253 |  | P | Blood glucose/reagent strips | 0.00 | 0.00 | 0.00 | 0.00 | XXX
A4256 |  | P | Calibrator solution/chips | 0.00 | 0.00 | 0.00 | 0.00 | XXX
A4258 |  | P | Lancet device each | 0.00 | 0.00 | 0.00 | 0.00 | XXX
A4259 |  | P | Lancets per box | 0.00 | 0.00 | 0.00 | 0.00 | XXX
A4262 |  | B | Temporary tear duct plug | 0.00 | 0.00 | 0.00 | 0.00 | XXX
A4263 |  | B | Permanent tear duct plug | 0.00 | 0.00 | 0.00 | 0.00 | XXX
A4265 |  | P | Paraffin | 0.00 | 0.00 | 0.00 | 0.00 | XXX
A4270 |  | B | Disposable endoscope sheath | 0.00 | 0.00 | 0.00 | 0.00 | XXX
A4300 |  | B | Cath impl vasc access portal | 0.00 | 0.00 | 0.00 | 0.00 | XXX
A4301 |  | P | Implantable access syst perc | 0.00 | 0.00 | 0.00 | 0.00 | XXX
A4305 |  | P | Drug delivery system >=50 ML | 0.00 | 0.00 | 0.00 | 0.00 | XXX
A4306 |  | P | Drug delivery system <=5 ML | 0.00 | 0.00 | 0.00 | 0.00 | XXX
A4310 |  | P | Insert tray w/o bag/cath | 0.00 | 0.00 | 0.00 | 0.00 | XXX
A4311 |  | P | Catheter w/o bag 2-way latex | 0.00 | 0.00 | 0.00 | 0.00 | XXX
A4312 |  | P | Cath w/o bag 2-way silicone | 0.00 | 0.00 | 0.00 | 0.00 | XXX
A4313 |  | P | Catheter w/bag 3-way | 0.00 | 0.00 | 0.00 | 0.00 | XXX
A4314 |  | P | Cath w/drainage 2-way latex | 0.00 | 0.00 | 0.00 | 0.00 | XXX
A4315 |  | P | Cath w/drainage 2-way silcne | 0.00 | 0.00 | 0.00 | 0.00 | XXX
A4316 |  | P | Cath w/drainage 3-way | 0.00 | 0.00 | 0.00 | 0.00 | XXX
A4320 |  | P | Irrigation tray | 0.00 | 0.00 | 0.00 | 0.00 | XXX
A4322 |  | P | Irrigation syringe | 0.00 | 0.00 | 0.00 | 0.00 | XXX
A4323 |  | P | Saline irrigation solution | 0.00 | 0.00 | 0.00 | 0.00 | XXX
A4326 |  | P | Male external catheter | 0.00 | 0.00 | 0.00 | 0.00 | XXX
A4327 |  | P | Fem urinary collect dev cup | 0.00 | 0.00 | 0.00 | 0.00 | XXX
A4328 |  | P | Fem urinary collect pouch | 0.00 | 0.00 | 0.00 | 0.00 | XXX
A4330 |  | P | Stool collection pouch | 0.00 | 0.00 | 0.00 | 0.00 | XXX
A4335 |  | P | Incontinence supply | 0.00 | 0.00 | 0.00 | 0.00 | XXX
A4338 |  | P | Indwelling catheter latex | 0.00 | 0.00 | 0.00 | 0.00 | XXX
A4340 |  | P | Indwelling catheter special | 0.00 | 0.00 | 0.00 | 0.00 | XXX
A4344 |  | P | Cath indw foley 2 way silicn | 0.00 | 0.00 | 0.00 | 0.00 | XXX
A4346 |  | P | Cath indw foley 3 way | 0.00 | 0.00 | 0.00 | 0.00 | XXX
A4347 |  | P | Male external catheter | 0.00 | 0.00 | 0.00 | 0.00 | XXX
A4351 |  | P | Straight tip urine catheter | 0.00 | 0.00 | 0.00 | 0.00 | XXX
A4352 |  | P | Coude tip urinary catheter | 0.00 | 0.00 | 0.00 | 0.00 | XXX
A4354 |  | P | Cath insertion tray w/bag | 0.00 | 0.00 | 0.00 | 0.00 | XXX
A4355 |  | P | Bladder irrigation tubing | 0.00 | 0.00 | 0.00 | 0.00 | XXX
A4356 |  | P | Ext ureth clmp or compr dvc | 0.00 | 0.00 | 0.00 | 0.00 | XXX
A4357 |  | P | Bedside drainage bag | 0.00 | 0.00 | 0.00 | 0.00 | XXX
A4358 |  | P | Urinary leg or abdomen bag | 0.00 | 0.00 | 0.00 | 0.00 | XXX
A4359 |  | P | Urinary suspensory w/o leg b | 0.00 | 0.00 | 0.00 | 0.00 | XXX
A4361 |  | P | Ostomy face plate | 0.00 | 0.00 | 0.00 | 0.00 | XXX
A4362 |  | P | Solid skin barrier | 0.00 | 0.00 | 0.00 | 0.00 | XXX
A4364 |  | P | Adhesive, liquid or equal | 0.00 | 0.00 | 0.00 | 0.00 | XXX
A4367 |  | P | Ostomy belt | 0.00 | 0.00 | 0.00 | 0.00 | XXX
A4397 |  | P | Irrigation supply sleeve | 0.00 | 0.00 | 0.00 | 0.00 | XXX
A4398 |  | P | Ostomy irrigation bag | 0.00 | 0.00 | 0.00 | 0.00 | XXX
A4399 |  | P | Ostomy irrig cone/cath w brs | 0.00 | 0.00 | 0.00 | 0.00 | XXX
A4400 |  | P | Ostomy irrigation set | 0.00 | 0.00 | 0.00 | 0.00 | XXX
A4402 |  | P | Lubricant per ounce | 0.00 | 0.00 | 0.00 | 0.00 | XXX
A4404 |  | P | Ostomy ring each | 0.00 | 0.00 | 0.00 | 0.00 | XXX
A4421 |  | P | Ostomy supply misc | 0.00 | 0.00 | 0.00 | 0.00 | XXX
A4454 |  | P | Tape all types all sizes | 0.00 | 0.00 | 0.00 | 0.00 | XXX
A4455 |  | P | Adhesive remover per ounce | 0.00 | 0.00 | 0.00 | 0.00 | XXX
A4460 |  | P | Elastic compression bandage | 0.00 | 0.00 | 0.00 | 0.00 | XXX
A4465 |  | P | Non-elastic extremity binder | 0.00 | 0.00 | 0.00 | 0.00 | XXX
A4470 |  | P | Gravlee jet washer | 0.00 | 0.00 | 0.00 | 0.00 | XXX
A4480 |  | P | Vabra aspirator | 0.00 | 0.00 | 0.00 | 0.00 | XXX
A4550 |  | B | Surgical trays | 0.00 | 0.00 | 0.00 | 0.00 | XXX
A4556 |  | P | Electrodes, pair | 0.00 | 0.00 | 0.00 | 0.00 | XXX
A4557 |  | P | Lead wires, pair | 0.00 | 0.00 | 0.00 | 0.00 | XXX
A4558 |  | P | Conductive paste or gel | 0.00 | 0.00 | 0.00 | 0.00 | XXX
A4647 |  | B | Supp- paramagnetic contr mat | 0.00 | 0.00 | 0.00 | 0.00 | XXX
A4649 |  | P | Surgical supplies | 0.00 | 0.00 | 0.00 | 0.00 | XXX
A4890 |  | R | Repair/maint cont hemo equip | 0.00 | 0.00 | 0.00 | 0.00 | XXX
A5051 |  | P | Pouch clsd w barr attached | 0.00 | 0.00 | 0.00 | 0.00 | XXX
A5052 |  | P | Clsd ostomy pouch w/o barr | 0.00 | 0.00 | 0.00 | 0.00 | XXX
A5053 |  | P | Clsd ostomy pouch faceplate | 0.00 | 0.00 | 0.00 | 0.00 | XXX
A5054 |  | P | Clsd ostomy pouch w/flange | 0.00 | 0.00 | 0.00 | 0.00 | XXX
A5055 |  | P | Stoma cap | 0.00 | 0.00 | 0.00 | 0.00 | XXX
A5061 |  | P | Pouch drainable w barrier at | 0.00 | 0.00 | 0.00 | 0.00 | XXX
A5062 |  | P | Drnble ostomy pouch w/o barr | 0.00 | 0.00 | 0.00 | 0.00 | XXX
A5063 |  | P | Drain ostomy pouch w/flange | 0.00 | 0.00 | 0.00 | 0.00 | XXX
A5071 |  | P | Urinary pouch w/barrier | 0.00 | 0.00 | 0.00 | 0.00 | XXX
A5072 |  | P | Urinary pouch w/o barrier | 0.00 | 0.00 | 0.00 | 0.00 | XXX
A5073 |  | P | Urinary pouch on barr w/flng | 0.00 | 0.00 | 0.00 | 0.00 | XXX
A5081 |  | P | Continent stoma plug | 0.00 | 0.00 | 0.00 | 0.00 | XXX
A5082 |  | P | Continent stoma catheter | 0.00 | 0.00 | 0.00 | 0.00 | XXX
A5093 |  | P | Ostomy accessory convex inse | 0.00 | 0.00 | 0.00 | 0.00 | XXX
A5102 |  | P | Bedside drain btl w/wo tube | 0.00 | 0.00 | 0.00 | 0.00 | XXX
A5105 |  | P | Urinary suspensory | 0.00 | 0.00 | 0.00 | 0.00 | XXX
A5112 |  | P | Urinary leg bag | 0.00 | 0.00 | 0.00 | 0.00 | XXX
A5113 |  | P | Latex leg strap | 0.00 | 0.00 | 0.00 | 0.00 | XXX
A5114 |  | P | Foam/fabric leg strap | 0.00 | 0.00 | 0.00 | 0.00 | XXX
A5119 |  | P | Skin barrier wipes box pr 50 | 0.00 | 0.00 | 0.00 | 0.00 | XXX
A5121 |  | P | Solid skin barrier 6x6 | 0.00 | 0.00 | 0.00 | 0.00 | XXX
A5122 |  | P | Solid skin barrier 8x8 | 0.00 | 0.00 | 0.00 | 0.00 | XXX
A5123 |  | P | Skin barrier with flange | 0.00 | 0.00 | 0.00 | 0.00 | XXX
A5126 |  | P | Disk/foam pad +or- adhesive | 0.00 | 0.00 | 0.00 | 0.00 | XXX
A5131 |  | P | Appliance cleaner | 0.00 | 0.00 | 0.00 | 0.00 | XXX
A6154 |  | P | Wound pouch each | 0.00 | 0.00 | 0.00 | 0.00 | XXX
A6196 |  | P | Alginate dressing <=16 sq in | 0.00 | 0.00 | 0.00 | 0.00 | XXX
A6197 |  | P | Alginate drsg >16 <=48 sq in | 0.00 | 0.00 | 0.00 | 0.00 | XXX
A6198 |  | P | alginate dressing > 48 sq in | 0.00 | 0.00 | 0.00 | 0.00 | XXX
A6199 |  | P | Alginate drsg wound filler | 0.00 | 0.00 | 0.00 | 0.00 | XXX
A6203 |  | P | Composite drsg <= 16 sq in | 0.00 | 0.00 | 0.00 | 0.00 | XXX
A6204 |  | P | Composite drsg >16<=48 sq in | 0.00 | 0.00 | 0.00 | 0.00 | XXX
A6205 |  | P | Composite drsg > 48 sq in | 0.00 | 0.00 | 0.00 | 0.00 | XXX
A6206 |  | P | Contact layer <= 16 sq in | 0.00 | 0.00 | 0.00 | 0.00 | XXX
A6207 |  | P | Contact layer >16<= 48 sq in | 0.00 | 0.00 | 0.00 | 0.00 | XXX
A6208 |  | P | Contact layer > 48 sq in | 0.00 | 0.00 | 0.00 | 0.00 | XXX
A6209 |  | P | Foam drsg <=16 sq in w/o bdr | 0.00 | 0.00 | 0.00 | 0.00 | XXX
A6210 |  | P | Foam drg >16<=48 sq in w/o b | 0.00 | 0.00 | 0.00 | 0.00 | XXX
A6211 |  | P | Foam drg > 48 sq in w/o brdr | 0.00 | 0.00 | 0.00 | 0.00 | XXX
A6212 |  | P | Foam drg <=16 sq in w/border | 0.00 | 0.00 | 0.00 | 0.00 | XXX
A6213 |  | P | Foam drg >16<=48 sq in w/bdr | 0.00 | 0.00 | 0.00 | 0.00 | XXX
A6214 |  | P | Foam drg > 48 sq in w/border | 0.00 | 0.00 | 0.00 | 0.00 | XXX
A6215 |  | P | Foam dressing wound filler | 0.00 | 0.00 | 0.00 | 0.00 | XXX
A6216 |  | P | Non-sterile gauze<=16 sq in | 0.00 | 0.00 | 0.00 | 0.00 | XXX
A6217 |  | P | Non-sterile gauze>16<=48 sq | 0.00 | 0.00 | 0.00 | 0.00 | XXX
A6218 |  | P | Non-sterile gauze > 48 sq in | 0.00 | 0.00 | 0.00 | 0.00 | XXX
A6219 |  | P | Gauze <= 16 sq in w/border | 0.00 | 0.00 | 0.00 | 0.00 | XXX
A6220 |  | P | Gauze >16 <=48 sq in w/bordr | 0.00 | 0.00 | 0.00 | 0.00 | XXX
A6221 |  | P | Gauze > 48 sq in w/border | 0.00 | 0.00 | 0.00 | 0.00 | XXX
A6222 |  | P | Gauze <=16 in no w/sal w/o b | 0.00 | 0.00 | 0.00 | 0.00 | XXX
A6223 |  | P | Gauze >16<=48 no w/sal w/o b | 0.00 | 0.00 | 0.00 | 0.00 | XXX
A6224 |  | P | Gauze > 48 in no w/sal w/o b | 0.00 | 0.00 | 0.00 | 0.00 | XXX
A6228 |  | P | Gauze <= 16 sq in water/sal | 0.00 | 0.00 | 0.00 | 0.00 | XXX
A6229 |  | P | Gauze >16<=48 sq in watr/sal | 0.00 | 0.00 | 0.00 | 0.00 | XXX
A6230 |  | P | Gauze > 48 sq in water/salne | 0.00 | 0.00 | 0.00 | 0.00 | XXX
A6234 |  | P | Hydrocolld drg <=16 w/o bdr | 0.00 | 0.00 | 0.00 | 0.00 | XXX
A6235 |  | P | Hydrocolld drg >16<=48 w/o b | 0.00 | 0.00 | 0.00 | 0.00 | XXX
A6236 |  | P | Hydrocolld drg > 48 in w/o b | 0.00 | 0.00 | 0.00 | 0.00 | XXX
A6237 |  | P | Hydrocolld drg <=16 in w/bdr | 0.00 | 0.00 | 0.00 | 0.00 | XXX
A6238 |  | P | Hydrocolld drg >16<=48 w/bdr | 0.00 | 0.00 | 0.00 | 0.00 | XXX
A6239 |  | P | Hydrocolld drg > 48 in w/bdr | 0.00 | 0.00 | 0.00 | 0.00 | XXX
A6240 |  | P | Hydrocolld drg filler paste | 0.00 | 0.00 | 0.00 | 0.00 | XXX
A6241 |  | P | Hydrocolloid drg filler dry | 0.00 | 0.00 | 0.00 | 0.00 | XXX
A6242 |  | P | Hydrogel drg <=16 in w/o bdr | 0.00 | 0.00 | 0.00 | 0.00 | XXX
A6243 |  | P | Hydrogel drg >16<=48 w/o bdr | 0.00 | 0.00 | 0.00 | 0.00 | XXX
A6244 |  | P | Hydrogel drg >48 in w/o bdr | 0.00 | 0.00 | 0.00 | 0.00 | XXX
A6245 |  | P | Hydrogel drg <= 16 in w/bdr | 0.00 | 0.00 | 0.00 | 0.00 | XXX
A6246 |  | P | Hydrogel drg >16<=48 in w/b | 0.00 | 0.00 | 0.00 | 0.00 | XXX
A6247 |  | P | Hydrogel drg > 48 sq in w/b | 0.00 | 0.00 | 0.00 | 0.00 | XXX
A6248 |  | P | Hydrogel drsg gel filler | 0.00 | 0.00 | 0.00 | 0.00 | XXX
A6250 |  | P | Skin seal protect moisturizr | 0.00 | 0.00 | 0.00 | 0.00 | XXX
A6251 |  | P | Absorpt drg <=16 sq in w/o b | 0.00 | 0.00 | 0.00 | 0.00 | XXX
A6252 |  | P | Absorpt drg >16 <=48 w/o bdr | 0.00 | 0.00 | 0.00 | 0.00 | XXX
A6253 |  | P | Absorpt drg > 48 sq in w/o b | 0.00 | 0.00 | 0.00 | 0.00 | XXX
A6254 |  | P | Absorpt drg <=16 sq in w/bdr | 0.00 | 0.00 | 0.00 | 0.00 | XXX
A6255 |  | P | Absorpt drg >16<=48 in w/bdr | 0.00 | 0.00 | 0.00 | 0.00 | XXX
A6256 |  | P | Absorpt drg > 48 sq in w/bdr | 0.00 | 0.00 | 0.00 | 0.00 | XXX
A6257 |  | P | Transparent film <= 16 sq in | 0.00 | 0.00 | 0.00 | 0.00 | XXX
A6258 |  | P | Transparent film >16<=48 in | 0.00 | 0.00 | 0.00 | 0.00 | XXX
A6259 |  | P | Transparent film > 48 sq in | 0.00 | 0.00 | 0.00 | 0.00 | XXX
A6260 |  | P | Wound cleanser any type/size | 0.00 | 0.00 | 0.00 | 0.00 | XXX
A6261 |  | P | Wound filler gel/paste /oz | 0.00 | 0.00 | 0.00 | 0.00 | XXX
A6262 |  | P | Wound filler dry form / gram | 0.00 | 0.00 | 0.00 | 0.00 | XXX
A6263 |  | P | Non-sterile elastic gauze/yd | 0.00 | 0.00 | 0.00 | 0.00 | XXX
A6264 |  | P | Non-sterile no elastic gauze | 0.00 | 0.00 | 0.00 | 0.00 | XXX
A6265 |  | P | Tape per 18 sq inches | 0.00 | 0.00 | 0.00 | 0.00 | XXX
A6266 |  | P | Impreg gauze no h20/sal/yard | 0.00 | 0.00 | 0.00 | 0.00 | XXX
A6402 |  | P | Sterile gauze <= 16 sq in | 0.00 | 0.00 | 0.00 | 0.00 | XXX
A6403 |  | P | Sterile gauze>16 <= 48 sq in | 0.00 | 0.00 | 0.00 | 0.00 | XXX
A6404 |  | P | Sterile gauze > 48 sq in | 0.00 | 0.00 | 0.00 | 0.00 | XXX
A6405 |  | P | Sterile elastic gauze/yd | 0.00 | 0.00 | 0.00 | 0.00 | XXX
A6406 |  | P | Sterile non-elastic gauze/yd | 0.00 | 0.00 | 0.00 | 0.00 | XXX
D0150 |  | R | Comprehensve oral evaluation | 0.00 | 0.00 | 0.00 | 0.00 | YYY
D0240 |  | R | Intraoral occlusal film | 0.00 | 0.00 | 0.00 | 0.00 | YYY
D0250 |  | R | Extraoral first film | 0.00 | 0.00 | 0.00 | 0.00 | YYY
D0260 |  | R | Extraoral ea additional film | 0.00 | 0.00 | 0.00 | 0.00 | YYY
D0270 |  | R | Dental bitewing single film | 0.00 | 0.00 | 0.00 | 0.00 | YYY
D0272 |  | R | Dental bitewings two films | 0.00 | 0.00 | 0.00 | 0.00 | YYY
D0274 |  | R | Dental bitewings four films | 0.00 | 0.00 | 0.00 | 0.00 | YYY
D0277 |  | R | Vert bitewings-sev to eight | 0.00 | 0.00 | 0.00 | 0.00 | XXX
D0460 |  | R | Pulp vitality test | 0.00 | 0.00 | 0.00 | 0.00 | YYY
D0472 |  | R | Gross exam, prep & report | 0.00 | 0.00 | 0.00 | 0.00 | XXX
D0473 |  | R | Micro exam, prep & report | 0.00 | 0.00 | 0.00 | 0.00 | XXX
D0474 |  | R | Micro w exam of surg margins | 0.00 | 0.00 | 0.00 | 0.00 | XXX
D0480 |  | R | Cytopath smear prep & report | 0.00 | 0.00 | 0.00 | 0.00 | XXX
D0501 |  | R | Histopathologic examinations | 0.00 | 0.00 | 0.00 | 0.00 | YYY
D0502 |  | R | Other oral pathology procedu | 0.00 | 0.00 | 0.00 | 0.00 | YYY
D0999 |  | R | Unspecified diagnostic proce | 0.00 | 0.00 | 0.00 | 0.00 | YYY
D1510 |  | R | Space maintainer fxd unilat | 0.00 | 0.00 | 0.00 | 0.00 | YYY
D1515 |  | R | Fixed bilat space maintainer | 0.00 | 0.00 | 0.00 | 0.00 | YYY
D1520 |  | R | Remove unilat space maintain | 0.00 | 0.00 | 0.00 | 0.00 | YYY
D1525 |  | R | Remove bilat space maintain | 0.00 | 0.00 | 0.00 | 0.00 | YYY
D1550 |  | R | Recement space maintainer | 0.00 | 0.00 | 0.00 | 0.00 | YYY
D2970 |  | R | Temporary- fractured tooth | 0.00 | 0.00 | 0.00 | 0.00 | YYY
D2999 |  | R | Dental unspec restorative pr | 0.00 | 0.00 | 0.00 | 0.00 | YYY
D3460 |  | R | Endodontic endosseous implan | 0.00 | 0.00 | 0.00 | 0.00 | YYY
D3999 |  | R | Endodontic procedure | 0.00 | 0.00 | 0.00 | 0.00 | YYY
D4260 |  | R | Osseous surgery per quadrant | 0.00 | 0.00 | 0.00 | 0.00 | YYY
D4263 |  | R | Bone replce graft first site | 0.00 | 0.00 | 0.00 | 0.00 | YYY
D4264 |  | R | Bone replce graft each add | 0.00 | 0.00 | 0.00 | 0.00 | YYY
D4268 |  | R | Surgical revision procedure | 0.00 | 0.00 | 0.00 | 0.00 | XXX
D4270 |  | R | Pedicle soft tissue graft pr | 0.00 | 0.00 | 0.00 | 0.00 | YYY
D4271 |  | R | Free soft tissue graft proc | 0.00 | 0.00 | 0.00 | 0.00 | YYY
D4273 |  | R | Subepithelial tissue graft | 0.00 | 0.00 | 0.00 | 0.00 | YYY
D4355 |  | R | Full mouth debridement | 0.00 | 0.00 | 0.00 | 0.00 | YYY
D4381 |  | R | Localized chemo delivery | 0.00 | 0.00 | 0.00 | 0.00 | YYY
D5911 |  | R | Facial moulage sectional | 0.00 | 0.00 | 0.00 | 0.00 | YYY
D5912 |  | R | Facial moulage complete | 0.00 | 0.00 | 0.00 | 0.00 | YYY
D5951 |  | R | Feeding aid | 0.00 | 0.00 | 0.00 | 0.00 | YYY
D5983 |  | R | Radiation applicator | 0.00 | 0.00 | 0.00 | 0.00 | YYY
D5984 |  | R | Radiation shield | 0.00 | 0.00 | 0.00 | 0.00 | YYY
D5985 |  | R | Radiation cone locator | 0.00 | 0.00 | 0.00 | 0.00 | YYY
D5987 |  | R | Commissure splint | 0.00 | 0.00 | 0.00 | 0.00 | YYY
D6920 |  | R | Dental connector bar | 0.00 | 0.00 | 0.00 | 0.00 | YYY
D7110 |  | R | Oral surgery single tooth | 0.00 | 0.00 | 0.00 | 0.00 | YYY
D7120 |  | R | Each add tooth extraction | 0.00 | 0.00 | 0.00 | 0.00 | YYY
D7130 |  | R | Tooth root removal | 0.00 | 0.00 | 0.00 | 0.00 | YYY
D7210 |  | R | Rem imp tooth w mucoper flp | 0.00 | 0.00 | 0.00 | 0.00 | YYY
D7220 |  | R | Impact tooth remov soft tiss | 0.00 | 0.00 | 0.00 | 0.00 | YYY
D7230 |  | R | Impact tooth remov part bony | 0.00 | 0.00 | 0.00 | 0.00 | YYY
D7240 |  | R | Impact tooth remov comp bony | 0.00 | 0.00 | 0.00 | 0.00 | YYY
D7241 |  | R | Impact tooth rem bony w/comp | 0.00 | 0.00 | 0.00 | 0.00 | YYY
D7250 |  | R | Tooth root removal | 0.00 | 0.00 | 0.00 | 0.00 | YYY
D7260 |  | R | Oral antral fistula closure | 0.00 | 0.00 | 0.00 | 0.00 | YYY
D7291 |  | R | Transseptal fiberotomy | 0.00 | 0.00 | 0.00 | 0.00 | YYY
D7940 |  | R | Reshaping bone orthognathic | 0.00 | 0.00 | 0.00 | 0.00 | YYY
D9110 |  | R | Tx dental pain minor proc | 0.00 | 0.00 | 0.00 | 0.00 | YYY
D9230 |  | R | Analgesia | 0.00 | 0.00 | 0.00 | 0.00 | YYY
D9248 |  | R | Sedation (non-iv) | 0.00 | 0.00 | 0.00 | 0.00 | XXX
D9630 |  | R | Other drugs/medicaments | 0.00 | 0.00 | 0.00 | 0.00 | YYY
D9930 |  | R | Treatment of complications | 0.00 | 0.00 | 0.00 | 0.00 | YYY
D9940 |  | R | Dental occlusal guard | 0.00 | 0.00 | 0.00 | 0.00 | YYY
D9950 |  | R | Occlusion analysis | 0.00 | 0.00 | 0.00 | 0.00 | YYY
D9951 |  | R | Limited occlusal adjustment | 0.00 | 0.00 | 0.00 | 0.00 | YYY
D9952 |  | R | Complete occlusal adjustment | 0.00 | 0.00 | 0.00 | 0.00 | YYY
G0001 |  | X | Drawing blood for specimen | 0.00 | 0.00 | 0.00 | 0.00 | XXX
G0002 |  | A | Temporary urinary catheter | 0.50 | 0.16 | 3.25 | 0.03 | 000
G0004 |  | A | ECG transm phys review & int | 0.52 | NA | 7.69 | 0.45 | XXX
G0005 |  | A | ECG 24 hour recording | 0.00 | NA | 1.28 | 0.07 | XXX
G0006 |  | A | ECG transmission & analysis | 0.00 | NA | 6.22 | 0.36 | XXX
G0007 |  | A | ECG phy review & interpret | 0.52 | 0.20 | 0.20 | 0.02 | XXX
G0008 |  | X | Admin influenza virus vac | 0.00 | 0.00 | 0.00 | 0.00 | XXX
G0009 |  | X | Admin pneumococcal vaccine | 0.00 | 0.00 | 0.00 | 0.00 | XXX
G0010 |  | X | Admin hepatitis b vaccine | 0.00 | 0.00 | 0.00 | 0.00 | XXX
G0015 |  | A | Post symptom ECG tracing | 0.00 | NA | 6.22 | 0.36 | XXX
G0016 |  | D | Post symptom ECG md review | 0.52 | 0.22 | 0.22 | 0.02 | XXX
G0025 |  | B | Collagen skin test kit | 0.00 | 0.00 | 0.00 | 0.00 | XXX
G0026 |  | X | Fecal leukocyte examination | 0.00 | 0.00 | 0.00 | 0.00 | XXX
G0027 |  | X | Semen analysis | 0.00 | 0.00 | 0.00 | 0.00 | XXX
G0030 |  | C | PET imaging prev PET single | 0.00 | 0.00 | 0.00 | 0.00 | XXX
G0030 | 26 | A | PET imaging prev PET single | 1.50 | 0.52 | 0.52 | 0.04 | XXX
G0030 | TC | C | PET imaging prev PET single | 0.00 | 0.00 | 0.00 | 0.00 | XXX
G0031 |  | C | PET imaging prev PET multple | 0.00 | 0.00 | 0.00 | 0.00 | XXX
G0031 | 26 | A | PET imaging prev PET multple | 1.87 | 0.70 | 0.70 | 0.06 | XXX
G0031 | TC | C | PET imaging prev PET multple | 0.00 | 0.00 | 0.00 | 0.00 | XXX
G0032 |  | C | PET follow SPECT 78464 singl | 0.00 | 0.00 | 0.00 | 0.00 | XXX
G0032 | 26 | A | PET follow SPECT 78464 singl | 1.50 | 0.52 | 0.52 | 0.05 | XXX
G0032 | TC | C | PET follow SPECT 78464 singl | 0.00 | 0.00 | 0.00 | 0.00 | XXX
G0033 |  | C | PET follow SPECT 78464 mult | 0.00 | 0.00 | 0.00 | 0.00 | XXX
G0033 | 26 | A | PET follow SPECT 78464 mult | 1.87 | 0.70 | 0.70 | 0.06 | XXX
G0033 | TC | C | PET follow SPECT 78464 mult | 0.00 | 0.00 | 0.00 | 0.00 | XXX
G0034 |  | C | PET follow SPECT 76865 singl | 0.00 | 0.00 | 0.00 | 0.00 | XXX
G0034 | 26 | A | PET follow SPECT 76865 singl | 1.50 | 0.52 | 0.52 | 0.05 | XXX
G0034 | TC | C | PET follow SPECT 76865 singl | 0.00 | 0.00 | 0.00 | 0.00 | XXX
G0035 |  | C | PET follow SPECT 78465 mult | 0.00 | 0.00 | 0.00 | 0.00 | XXX
G0035 | 26 | A | PET follow SPECT 78465 mult | 1.87 | 0.70 | 0.70 | 0.06 | XXX
G0035 | TC | C | PET follow SPECT 78465 mult | 0.00 | 0.00 | 0.00 | 0.00 | XXX
G0036 |  | C | PET follow cornry angio sing | 0.00 | 0.00 | 0.00 | 0.00 | XXX
G0036 | 26 | A | PET follow cornry angio sing | 1.50 | 0.52 | 0.52 | 0.04 | XXX
G0036 | TC | C | PET follow cornry angio sing | 0.00 | 0.00 | 0.00 | 0.00 | XXX
G0037 |  | C | PET follow cornry angio mult | 0.00 | 0.00 | 0.00 | 0.00 | XXX
G0037 | 26 | A | PET follow cornry angio mult | 1.87 | 0.70 | 0.70 | 0.06 | XXX
G0037 | TC | C | PET follow cornry angio mult | 0.00 | 0.00 | 0.00 | 0.00 | XXX
G0038 |  | C | PET follow myocard perf sing | 0.00 | 0.00 | 0.00 | 0.00 | XXX
G0038 | 26 | A | PET follow myocard perf sing | 1.50 | 0.52 | 0.52 | 0.04 | XXX
G0038 | TC | C | PET follow myocard perf sing | 0.00 | 0.00 | 0.00 | 0.00 | XXX
G0039 |  | C | PET follow myocard perf mult | 0.00 | 0.00 | 0.00 | 0.00 | XXX
G0039 | 26 | A | PET follow myocard perf mult | 1.87 | 0.70 | 0.70 | 0.07 | XXX
G0039 | TC | C | PET follow myocard perf mult | 0.00 | 0.00 | 0.00 | 0.00 | XXX
G0040 |  | C | PET follow stress echo singl | 0.00 | 0.00 | 0.00 | 0.00 | XXX
G0040 | 26 | A | PET follow stress echo singl | 1.50 | 0.52 | 0.52 | 0.04 | XXX
G0040 | TC | C | PET follow stress echo singl | 0.00 | 0.00 | 0.00 | 0.00 | XXX
G0041 |  | C | PET follow stress echo mult | 0.00 | 0.00 | 0.00 | 0.00 | XXX
G0041 | 26 | A | PET follow stress echo mult | 1.87 | 0.70 | 0.70 | 0.05 | XXX
G0041 | TC | C | PET follow stress echo mult | 0.00 | 0.00 | 0.00 | 0.00 | XXX
G0042 |  | C | PET follow ventriculogm sing | 0.00 | 0.00 | 0.00 | 0.00 | XXX
G0042 | 26 | A | PET follow ventriculogm sing | 1.50 | 0.52 | 0.52 | 0.04 | XXX
G0042 | TC | C | PET follow ventriculogm sing | 0.00 | 0.00 | 0.00 | 0.00 | XXX
G0043 |  | C | PET follow ventriculogm mult | 0.00 | 0.00 | 0.00 | 0.00 | XXX
G0043 | 26 | A | PET follow ventriculogm mult | 1.87 | 0.70 | 0.70 | 0.06 | XXX
G0043 | TC | C | PET follow ventriculogm mult | 0.00 | 0.00 | 0.00 | 0.00 | XXX
G0044 |  | C | PET following rest ECG singl | 0.00 | 0.00 | 0.00 | 0.00 | XXX
G0044 | 26 | A | PET following rest ECG singl | 1.50 | 0.52 | 0.52 | 0.04 | XXX
G0044 | TC | C | PET following rest ECG singl | 0.00 | 0.00 | 0.00 | 0.00 | XXX
G0045 |  | C | PET following rest ECG mult | 0.00 | 0.00 | 0.00 | 0.00 | XXX
G0045 | 26 | A | PET following rest ECG mult | 1.87 | 0.70 | 0.70 | 0.06 | XXX
G0045 | TC | C | PET following rest ECG mult | 0.00 | 0.00 | 0.00 | 0.00 | XXX
G0046 |  | C | PET follow stress ECG singl | 0.00 | 0.00 | 0.00 | 0.00 | XXX
G0046 | 26 | A | PET follow stress ECG singl | 1.50 | 0.52 | 0.52 | 0.04 | XXX
G0046 | TC | C | PET follow stress ECG singl | 0.00 | 0.00 | 0.00 | 0.00 | XXX
G0047 |  | C | PET follow stress ECG mult | 0.00 | 0.00 | 0.00 | 0.00 | XXX
G0047 | 26 | A | PET follow stress ECG mult | 1.87 | 0.70 | 0.70 | 0.06 | XXX
G0047 | TC | C | PET follow stress ECG mult | 0.00 | 0.00 | 0.00 | 0.00 | XXX
G0050 |  | A | Residual urine by ultrasound | 0.00 | NA | 0.88 | 0.04 | XXX
G0101 |  | A | CA screen; pelvic/breast exam | 0.45 | 0.17 | 0.52 | 0.01 | XXX
G0102 |  | A | Prostate ca screening; dre | 0.17 | 0.06 | 0.37 | 0.01 | XXX
G0103 |  | X | Psa, total screening | 0.00 | 0.00 | 0.00 | 0.00 | XXX
G0104 |  | A | CA screen; flexi sigmoidscope | 0.96 | 0.51 | 1.82 | 0.05 | 000
G0105 |  | A | Colorectal scrn; hi risk ind | 3.70 | 1.71 | 7.97 | 0.20 | 000
G0106 |  | A | Colon CA screen; barium enema | 0.99 | NA | 2.65 | 0.15 | XXX
G0106 | 26 | A | Colon CA screen; barium enema | 0.99 | 0.34 | 0.34 | 0.04 | XXX
G0106 | TC | A | Colon CA screen; barium enema | 0.00 | NA | 2.31 | 0.11 | XXX
G0107 |  | X | CA screen; fecal blood test | 0.00 | 0.00 | 0.00 | 0.00 | XXX
G0108 |  | A | Diab manage trn per indiv | 0.00 | NA | 0.82 | 0.01 | XXX
G0109 |  | A | Diab manage trn ind/group | 0.00 | NA | 0.48 | 0.01 | XXX
G0110 |  | R | Nett pulm-rehab educ; ind | 0.90 | 0.35 | 0.69 | 0.03 | XXX
G0111 |  | R | Nett pulm-rehab educ; group | 0.27 | 0.10 | 0.29 | 0.01 | XXX
G0112 |  | R | Nett;nutrition guid, initial | 1.72 | 0.66 | 1.21 | 0.05 | XXX
G0113 |  | R | Nett;nutrition guid,subseqnt | 1.29 | 0.50 | 0.95 | 0.04 | XXX
G0114 |  | R | Nett; psychosocial consult | 1.20 | 0.46 | 0.49 | 0.03 | XXX
G0115 |  | R | Nett; psychological testing | 1.20 | 0.46 | 0.72 | 0.04 | XXX
G0116 |  | R | Nett; psychosocial counsel | 1.11 | 0.38 | 1.06 | 0.04 | XXX
G0117 |  | T | Glaucoma scrn hgh risk direc | 0.45 | 0.21 | 0.97 | 0.02 | XXX
G0118 |  | T | Glaucoma scrn hgh risk direc | 0.17 | 0.08 | 0.84 | 0.01 | XXX
G0120 |  | A | Colon ca scrn; barium enema | 0.99 | NA | 2.65 | 0.15 | XXX
G0120 | 26 | A | Colon ca scrn; barium enema | 0.99 | 0.34 | 0.34 | 0.04 | XXX
G0120 | TC | A | Colon ca scrn; barium enema | 0.00 | NA | 2.31 | 0.11 | XXX
G0121 |  | A | Colon ca scrn not hi rsk ind | 3.70 | 1.71 | 7.97 | 0.20 | 000
G0122 |  | N | Colon ca scrn; barium enema | 0.99 | NA | 2.69 | 0.15 | XXX
G0122 | 26 | N | Colon ca scrn; barium enema | 0.99 | 0.38 | 0.38 | 0.04 | XXX
G0122 | TC | N | Colon ca scrn; barium enema | 0.00 | NA | 2.31 | 0.11 | XXX
G0123 |  | X | Screen cerv/vag thin layer | 0.00 | 0.00 | 0.00 | 0.00 | XXX
G0124 |  | A | Screen c/v thin layer by MD | 0.42 | 0.19 | 0.19 | 0.01 | XXX
G0125 |  | A | PET img WhBD sgl pulm ring | 1.50 | NA | 56.10 | 2.00 | XXX
G0125 | 26 | A | PET img WhBD sgl pulm ring | 1.50 | 0.52 | 0.52 | 0.05 | XXX
G0125 | TC | A | PET img WhBD sgl pulm ring | 0.00 | NA | 55.58 | 1.95 | XXX
G0126 |  | F | Lung image (PET) staging | 1.87 | NA | 56.28 | 2.01 | XXX
G0126 | 26 | F | Lung image (PET) staging | 1.87 | 0.70 | 0.70 | 0.06 | XXX
G0126 | TC | F | Lung image (PET) staging | 0.00 | NA | 55.58 | 1.95 | XXX
G0127 |  | R | Trim nail(s) | 0.17 | 0.07 | 0.25 | 0.01 | 000
G0128 |  | R | CORF skilled nursing service | 0.08 | 0.03 | 0.03 | 0.01 | XXX
G0130 |  | A | Single energy x-ray study | 0.22 | NA | 0.90 | 0.05 | XXX
G0130 | 26 | A | Single energy x-ray study | 0.22 | 0.11 | 0.11 | 0.01 | XXX
G0130 | TC | A | Single energy x-ray study | 0.00 | NA | 0.79 | 0.04 | XXX
G0131 |  | A | CT scan, bone density study | 0.25 | NA | 3.18 | 0.14 | XXX
G0131 | 26 | A | CT scan, bone density study | 0.25 | 0.13 | 0.13 | 0.01 | XXX
G0131 | TC | A | CT scan, bone density study | 0.00 | NA | 3.05 | 0.13 | XXX
G0132 |  | A | CT scan, bone density study | 0.22 | NA | 0.90 | 0.05 | XXX
G0132 | 26 | A | CT scan, bone density study | 0.22 | 0.11 | 0.11 | 0.01 | XXX
G0132 | TC | A | CT scan, bone density study | 0.00 | NA | 0.79 | 0.04 | XXX
G0141 |  | A | Scr c/v cyto,autosys and md | 0.42 | 0.19 | 0.19 | 0.01 | XXX
G0143 |  | X | Scr c/v cyto,thinlayer,rescr | 0.00 | 0.00 | 0.00 | 0.00 | XXX
G0144 |  | X | Scr c/v cyto,thinlayer,rescr | 0.00 | 0.00 | 0.00 | 0.00 | XXX
G0145 |  | X | Scr c/v cyto,thinlayer,rescr | 0.00 | 0.00 | 0.00 | 0.00 | XXX
G0147 |  | X | Scr c/v cyto, automated sys | 0.00 | 0.00 | 0.00 | 0.00 | XXX
G0148 |  | X | Scr c/v cyto, autosys, rescr | 0.00 | 0.00 | 0.00 | 0.00 | XXX
G0163 |  | F | Pet for rec of colorectal ca | 1.50 | NA | 0.58 | 2.00 | XXX
G0163 | 26 | F | Pet for rec of colorectal ca | 1.50 | 0.58 | 0.58 | 0.05 | XXX
G0163 | TC | F | Pet for rec of colorectal ca | 0.00 | NA | NA | 1.95 | XXX
G0164 |  | F | Pet for lymphoma staging | 1.87 | NA | 0.72 | 2.01 | XXX
G0164 | 26 | F | Pet for lymphoma staging | 1.87 | 0.72 | 0.72 | 0.06 | XXX
G0164 | TC | F | Pet for lymphoma staging | 0.00 | NA | NA | 1.95 | XXX
G0165 |  | F | Pet, rec of melanoma/met ca | 1.50 | NA | 0.58 | 2.00 | XXX
G0165 | 26 | F | Pet, rec of melanoma/met ca | 1.50 | 0.58 | 0.58 | 0.05 | XXX
G0165 | TC | F | Pet, rec of melanoma/met ca | 0.00 | NA | NA | 1.95 | XXX
G0166 |  | A | Extrnl counterpulse, per tx | 0.07 | 0.03 | 4.53 | 0.01 | XXX
G0167 |  | C | Hyperbaric oz tx;no md reqrd | 0.00 | 0.00 | 0.00 | 0.00 | XXX
G0168 |  | A | Wound closure by adhesive | 0.45 | 0.19 | 2.39 | 0.01 | 000
G0173 |  | X | Stereo radoisurgery,complete | 0.00 | 0.00 | 0.00 | 0.00 | XXX
G0174 |  | D | Intensitymodulatedradiation | 0.00 | 0.00 | 0.00 | 0.00 | XXX
G0175 |  | X | OPPS Service,sched team conf | 0.00 | 0.00 | 0.00 | 0.00 | XXX
G0176 |  | X | OPPS/PHP;activity therapy | 0.00 | 0.00 | 0.00 | 0.00 | XXX
G0177 |  | X | OPPS/PHP; train & educ serv | 0.00 | 0.00 | 0.00 | 0.00 | XXX
G0178 |  | D | Intensitymodulatedradiation | 0.00 | 0.00 | 0.00 | 0.00 | XXX
G0179 |  | A | MD recertification HHA PT | 0.45 | NA | 1.19 | 0.01 | XXX
G0180 |  | A | MD certification HHA patient | 0.67 | NA | 1.28 | 0.02 | XXX
G0181 |  | A | Home health care supervision | 1.73 | NA | 1.52 | 0.06 | XXX
G0182 |  | A | Hospice care supervision | 1.73 | NA | 1.74 | 0.06 | XXX
G0184 |  | D | Ocular photdynamicTx 2nd eye | 0.47 | 0.22 | 0.29 | 0.01 | ZZZ
G0185 |  | C | Transpuppillary thermotx | 0.00 | 0.00 | 0.00 | 0.00 | YYY
G0186 |  | C | Dstry eye lesn,fdr vssl tech | 0.00 | 0.00 | 0.00 | 0.00 | YYY
G0187 |  | C | Dstry mclr drusen,photocoag | 0.00 | 0.00 | 0.00 | 0.00 | YYY
G0188 |  | D | Xray lwr extrmty-full lngth | 0.00 | 0.00 | 0.00 | 0.00 | XXX
G0188 | 26 | D | Xray lwr extrmty-full lngth | 0.00 | 0.00 | 0.00 | 0.00 | XXX
G0188 | TC | D | Xray lwr extrmty-full lngth | 0.00 | 0.00 | 0.00 | 0.00 | XXX
G0190 |  | D | Immunization administration | 0.00 | 0.00 | 0.00 | 0.00 | XXX
G0191 |  | D | Immunization admin,each add | 0.00 | 0.00 | 0.00 | 0.00 | XXX
G0192 |  | N | Immunization oral/intranasal | 0.00 | 0.00 | 0.00 | 0.00 | XXX
G0193 |  | C | Endoscopicstudyswallowfunctn | 0.00 | 0.00 | 0.00 | 0.00 | XXX
G0194 |  | C | Sensorytestingendoscopicstud | 0.00 | 0.00 | 0.00 | 0.00 | XXX
G0195 |  | A | Clinicalevalswallowingfunct | 1.50 | 0.74 | 2.04 | 0.07 | XXX
G0196 |  | A | Evalofswallowingwithradioopa | 1.50 | 0.74 | 2.04 | 0.07 | XXX
G0197 |  | A | Evalofptforprescipspeechdevi | 1.35 | 0.74 | 2.01 | 0.04 | XXX
G0198 |  | A | Patientadapation&trainforspe | 0.99 | 0.55 | 1.11 | 0.03 | XXX
G0199 |  | A | Reevaluationofpatientusespec | 1.01 | 0.55 | 1.82 | 0.03 | XXX
G0200 |  | A | Evalofpatientprescipofvoicep | 1.35 | 0.74 | 2.01 | 0.04 | XXX
G0201 |  | A | Modifortraininginusevoicepro | 0.99 | 0.55 | 1.11 | 0.03 | XXX
G0202 |  | A | Screeningmammographydigital | 0.70 | NA | 2.90 | 0.09 | XXX
G0202 | 26 | A | Screeningmammographydigital | 0.70 | 0.27 | 0.27 | 0.03 | XXX
G0202 | TC | A | Screeningmammographydigital | 0.00 | NA | 2.63 | 0.06 | XXX
G0203 |  | F | Screenmammographyfilmdigital | 0.00 | 0.00 | 0.00 | 0.00 | XXX
G0204 |  | A | Diagnosticmammographydigital | 0.87 | NA | 2.92 | 0.09 | XXX
G0204 | 26 | A | Diagnosticmammographydigital | 0.87 | 0.34 | 0.34 | 0.03 | XXX
G0204 | TC | A | Diagnosticmammographydigital | 0.00 | NA | 2.59 | 0.06 | XXX
G0205 |  | F | Diagnosticmammographyfilmpro | 0.69 | NA | 1.62 | 0.09 | XXX
G0205 | 26 | F | Diagnosticmammographyfilmpro | 0.69 | 0.27 | 0.27 | 0.03 | XXX
G0205 | TC | F | Diagnosticmammographyfilmpro | 0.00 | NA | 1.35 | 0.06 | XXX
G0206 |  | A | Diagnosticmammographydigital | 0.70 | NA | 2.36 | 0.08 | XXX
G0206 | 26 | A | Diagnosticmammographydigital | 0.70 | 0.27 | 0.27 | 0.03 | XXX
G0206 | TC | A | Diagnosticmammographydigital | 0.00 | NA | 2.09 | 0.05 | XXX
G0207 |  | F | Diagnostic mammography film | 0.58 | NA | 1.31 | 0.08 | XXX
G0207 | 26 | F | Diagnostic mammography film | 0.58 | 0.22 | 0.22 | 0.03 | XXX
G0207 | TC | F | Diagnostic mammography film | 0.00 | NA | 1.09 | 0.05 | XXX
G0210 |  | C | PET img WhBD ring dxlung ca | 0.00 | 0.00 | 0.00 | 0.00 | XXX
G0210 | 26 | A | PET img WhBD ring dxlung ca | 1.50 | 0.58 | 0.58 | 0.04 | XXX
G0210 | TC | C | PET img WhBD ring dxlung ca | 0.00 | 0.00 | 0.00 | 0.00 | XXX
G0211 |  | C | PET img WhBD ring init lung | 0.00 | 0.00 | 0.00 | 0.00 | XXX
G0211 | 26 | A | PET img WhBD ring init lung | 1.50 | 0.58 | 0.58 | 0.04 | XXX
G0211 | TC | C | PET img WhBD ring init lung | 0.00 | 0.00 | 0.00 | 0.00 | XXX
G0212 |  | C | PET img WhBD ring restag lun | 0.00 | 0.00 | 0.00 | 0.00 | XXX
G0212 | 26 | A | PET img WhBD ring restag lun | 1.50 | 0.58 | 0.58 | 0.04 | XXX
G0212 | TC | C | PET img WhBD ring restag lun | 0.00 | 0.00 | 0.00 | 0.00 | XXX
G0213 |  | C | PET img WhBD ring dx colorec | 0.00 | 0.00 | 0.00 | 0.00 | XXX
G0213 | 26 | A | PET img WhBD ring dx colorec | 1.50 | 0.58 | 0.58 | 0.04 | XXX
G0213 | TC | C | PET img WhBD ring dx colorec | 0.00 | 0.00 | 0.00 | 0.00 | XXX
G0214 |  | C | PET img WhBD ring init colre | 0.00 | 0.00 | 0.00 | 0.00 | XXX
G0214 | 26 | A | PET img WhBD ring init colre | 1.50 | 0.58 | 0.58 | 0.04 | XXX
G0214 | TC | C | PET img WhBD ring init colre | 0.00 | 0.00 | 0.00 | 0.00 | XXX
G0215 |  | C | PETimg whbd restag col | 0.00 | 0.00 | 0.00 | 0.00 | XXX
G0215 | 26 | A | PETimg whbd restag col | 1.50 | 0.58 | 0.58 | 0.04 | XXX
G0215 | TC | C | PETimg whbd restag col | 0.00 | 0.00 | 0.00 | 0.00 | XXX
G0216 |  | C | PET img WhBD ring dx melanom | 0.00 | 0.00 | 0.00 | 0.00 | XXX
G0216 | 26 | A | PET img WhBD ring dx melanom | 1.50 | 0.58 | 0.58 | 0.04 | XXX
G0216 | TC | C | PET img WhBD ring dx melanom | 0.00 | 0.00 | 0.00 | 0.00 | XXX
G0217 |  | C | PET img WhBD ring init melan | 0.00 | 0.00 | 0.00 | 0.00 | XXX
G0217 | 26 | A | PET img WhBD ring init melan | 1.50 | 0.58 | 0.58 | 0.04 | XXX
G0217 | TC | C | PET img WhBD ring init melan | 0.00 | 0.00 | 0.00 | 0.00 | XXX
G0218 |  | C | PET img WhBD ring restag mel | 0.00 | 0.00 | 0.00 | 0.00 | XXX
G0218 | 26 | A | PET img WhBD ring restag mel | 1.50 | 0.58 | 0.58 | 0.04 | XXX
G0218 | TC | C | PET img WhBD ring restag mel | 0.00 | 0.00 | 0.00 | 0.00 | XXX
G0219 |  | N | PET img WhBD ring noncov ind | 1.50 | NA | 1.01 | 0.04 | XXX
G0219 | 26 | N | PET img WhBD ring noncov ind | 1.50 | 0.58 | 0.58 | 0.04 | XXX
G0219 | TC | N | PET img WhBD ring noncov ind | 0.00 | 0.00 | 0.00 | 0.00 | XXX
G0220 |  | C | PET img WhBD ring dx lymphom | 0.00 | 0.00 | 0.00 | 0.00 | XXX
G0220 | 26 | A | PET img WhBD ring dx lymphom | 1.50 | 0.58 | 0.58 | 0.04 | XXX
G0220 | TC | C | PET img WhBD ring dx lymphom | 0.00 | 0.00 | 0.00 | 0.00 | XXX
G0221 |  | C | PET img WhBD ring init lymph | 0.00 | 0.00 | 0.00 | 0.00 | XXX
G0221 | 26 | A | PET img WhBD ring init lymph | 1.50 | 0.58 | 0.58 | 0.04 | XXX
G0221 | TC | C | PET img WhBD ring init lymph | 0.00 | 0.00 | 0.00 | 0.00 | XXX
G0222 |  | C | PET img WhBD ring resta lymp | 0.00 | 0.00 | 0.00 | 0.00 | XXX
G0222 | 26 | A | PET img WhBD ring resta lymp | 1.50 | 0.58 | 0.58 | 0.04 | XXX
G0222 | TC | C | PET img WhBD ring resta lymp | 0.00 | 0.00 | 0.00 | 0.00 | XXX
G0223 |  | C | PET img WhBD reg ring dx hea | 0.00 | 0.00 | 0.00 | 0.00 | XXX
G0223 | 26 | A | PET img WhBD reg ring dx hea | 1.50 | 0.58 | 0.58 | 0.04 | XXX
G0223 | TC | C | PET img WhBD reg ring dx hea | 0.00 | 0.00 | 0.00 | 0.00 | XXX
G0224 |  | C | PETimg WhBD reg ring ini hea | 0.00 | 0.00 | 0.00 | 0.00 | XXX
G0224 | 26 | A | PETimg WhBD reg ring ini hea | 1.50 | 0.58 | 0.58 | 0.04 | XXX
G0224 | TC | C | PETimg WhBD reg ring ini hea | 0.00 | 0.00 | 0.00 | 0.00 | XXX
G0225 |  | C | PET img WhBD ring restag hea | 0.00 | 0.00 | 0.00 | 0.00 | XXX
G0225 | 26 | A | PET img WhBD ring restag hea | 1.50 | 0.58 | 0.58 | 0.04 | XXX
G0225 | TC | C | PET img WhBD ring restag hea | 0.00 | 0.00 | 0.00 | 0.00 | XXX
G0226 |  | C | PET img WhBD dx esophag | 0.00 | 0.00 | 0.00 | 0.00 | XXX
G0226 | 26 | A | PET img WhBD dx esophag | 1.50 | 0.58 | 0.58 | 0.04 | XXX
G0226 | TC | C | PET img WhBD dx esophag | 0.00 | 0.00 | 0.00 | 0.00 | XXX
G0227 |  | C | PET img whbd ini esopha | 0.00 | 0.00 | 0.00 | 0.00 | XXX
G0227 | 26 | A | PET img whbd ini esopha | 1.50 | 0.58 | 0.58 | 0.04 | XXX
G0227 | TC | C | PET img whbd ini esopha | 0.00 | 0.00 | 0.00 | 0.00 | XXX
G0228 |  | C | PET img WhBD ring restg esop | 0.00 | 0.00 | 0.00 | 0.00 | XXX
G0228 | 26 | A | PET img WhBD ring restg esop | 1.50 | 0.58 | 0.58 | 0.04 | XXX
G0228 | TC | C | PET img WhBD ring restg esop | 0.00 | 0.00 | 0.00 | 0.00 | XXX
G0229 |  | C | PET img metabolic brain ring | 0.00 | 0.00 | 0.00 | 0.00 | XXX
G0229 | 26 | A | PET img metabolic brain ring | 1.50 | 0.58 | 0.58 | 0.04 | XXX
G0229 | TC | C | PET img metabolic brain ring | 0.00 | 0.00 | 0.00 | 0.00 | XXX
G0230 |  | C | PET myocard viability ring | 0.00 | 0.00 | 0.00 | 0.00 | XXX
G0230 | 26 | A | PET myocard viability ring | 1.50 | 0.58 | 0.58 | 0.04 | XXX
G0230 | TC | C | PET myocard viability ring | 0.00 | 0.00 | 0.00 | 0.00 | XXX
G0231 |  | C | PET WhBD colorec; gamma cam | 0.00 | 0.00 | 0.00 | 0.00 | XXX
G0231 | 26 | A | PET WhBD colorec; gamma cam | 1.50 | 0.58 | 0.58 | 0.04 | XXX
G0231 | TC | C | PET WhBD colorec; gamma cam | 0.00 | 0.00 | 0.00 | 0.00 | XXX
G0232 |  | C | PET WhBD lymphoma; gamma cam | 0.00 | 0.00 | 0.00 | 0.00 | XXX
G0232 | 26 | A | PET WhBD lymphoma; gamma cam | 1.50 | 0.58 | 0.58 | 0.04 | XXX
G0232 | TC | C | PET WhBD lymphoma; gamma cam | 0.00 | 0.00 | 0.00 | 0.00 | XXX
G0233 |  | C | PET WhBD melanoma; gamma cam | 0.00 | 0.00 | 0.00 | 0.00 | XXX
G0233 | 26 | A | PET WhBD melanoma; gamma cam | 1.50 | 0.58 | 0.58 | 0.04 | XXX
G0233 | TC | C | PET WhBD melanoma; gamma cam | 0.00 | 0.00 | 0.00 | 0.00 | XXX
G0234 |  | C | PET WhBD pulm nod; gamma cam | 0.00 | 0.00 | 0.00 | 0.00 | XXX
G0234 | 26 | A | PET WhBD pulm nod; gamma cam | 1.50 | 0.58 | 0.58 | 0.04 | XXX
G0234 | TC | C | PET WhBD pulm nod; gamma cam | 0.00 | 0.00 | 0.00 | 0.00 | XXX
G0236 |  | A | digital film convert diag ma | 0.06 | NA | 0.45 | 0.02 | ZZZ
G0236 | 26 | A | digital film convert diag ma | 0.06 | 0.02 | 0.02 | 0.01 | ZZZ
G0236 | TC | A | digital film convert diag ma | 0.00 | NA | 0.43 | 0.01 | ZZZ
G0237 |  | A | Therapeutic procd strg endur | 0.00 | NA | 0.49 | 0.02 | XXX
G0238 |  | C | Oth resp proc, indiv | 0.00 | 0.00 | 0.00 | 0.00 | XXX
G0239 |  | C | Oth resp proc, group | 0.00 | 0.00 | 0.00 | 0.00 | XXX
G0240 |  | A | Critic care by MD transport | 4.00 | 1.55 | 1.55 | 0.14 | XXX
G0241 |  | A | Each additional 30 minutes | 2.00 | 0.77 | 0.77 | 0.07 | ZZZ
G0242 |  | X | Multisource photon ster plan | 0.00 | 0.00 | 0.00 | 0.00 | XXX
G0243 |  | X | Multisour photon stero treat | 0.00 | 0.00 | 0.00 | 0.00 | XXX
G0244 |  | X | Observ care by facility topt | 0.00 | 0.00 | 0.00 | 0.00 | XXX
G0245 |  | R | Initial foot exam ptlops | 0.88 | 0.32 | 0.75 | 0.05 | XXX
G0246 |  | R | Followup eval of foot pt lop | 0.45 | 0.16 | 0.51 | 0.02 | XXX
G0247 |  | R | Routine footcare pt w lops | 0.50 | 0.21 | 0.54 | 0.05 | XXX
G0248 |  | R | Demonstrate use home INR mon | 0.00 | NA | 2.92 | 0.01 | XXX
G0249 |  | R | Provide test material,equipm | 0.00 | NA | 2.08 | 0.01 | XXX
G0250 |  | R | MD review interpret of test | 0.18 | 0.07 | 0.07 | 0.01 | XXX
G0251 |  | I | Stereotactic radiosurgery | 0.00 | 0.00 | 0.00 | 0.00 | XXX
G0252 |  | N | PET image breast initial dx | 0.00 | 0.00 | 0.00 | 0.00 | XXX
G0252 | 26 | N | PET image breast initial dx | 0.00 | 0.00 | 0.00 | 0.00 | XXX
G0252 | TC | N | PET image breast initial dx | 0.00 | 0.00 | 0.00 | 0.00 | XXX
G0253 |  | C | PET image brst dection recur | 0.00 | 0.00 | 0.00 | 0.00 | XXX
G0253 | 26 | A | PET image brst dection recur | 1.87 | 0.58 | 0.58 | 0.07 | XXX
G0253 | TC | C | PET image brst dection recur | 0.00 | 0.00 | 0.00 | 0.00 | XXX
G0254 |  | C | PET image brst eval to tx | 0.00 | 0.00 | 0.00 | 0.00 | XXX
G0254 | 26 | A | PET image brst eval to tx | 1.87 | 0.58 | 0.58 | 0.07 | XXX
G0254 | TC | C | PET image brst eval to tx | 0.00 | 0.00 | 0.00 | 0.00 | XXX
G0255 |  | N | Sensory nerve conduction tst | 0.00 | 0.00 | 0.00 | 0.00 | XXX
G0255 | 26 | N | Sensory nerve conduction tst | 0.00 | 0.00 | 0.00 | 0.00 | XXX
G0255 | TC | N | Sensory nerve conduction tst | 0.00 | 0.00 | 0.00 | 0.00 | XXX
G9001 |  | X | MCCD, initial rate | 0.00 | 0.00 | 0.00 | 0.00 | XXX
G9002 |  | X | MCCD, maintenance rate | 0.00 | 0.00 | 0.00 | 0.00 | XXX
G9003 |  | X | MCCD, risk adj hi, initial | 0.00 | 0.00 | 0.00 | 0.00 | XXX
G9004 |  | X | MCCD, risk adj lo, initial | 0.00 | 0.00 | 0.00 | 0.00 | XXX
G9005 |  | X | MCCD, risk adj, maintenance | 0.00 | 0.00 | 0.00 | 0.00 | XXX
G9006 |  | X | MCCD, Home monitoring | 0.00 | 0.00 | 0.00 | 0.00 | XXX
G9007 |  | X | MCCD, sch team conf | 0.00 | 0.00 | 0.00 | 0.00 | XXX
G9008 |  | X | Mccd,phys coor-care ovrsght | 0.00 | 0.00 | 0.00 | 0.00 | XXX
G9009 |  | X | MCCD, risk adj, level 3 | 0.00 | 0.00 | 0.00 | 0.00 | XXX
G9010 |  | X | MCCD, risk adj, level 4 | 0.00 | 0.00 | 0.00 | 0.00 | XXX
G9011 |  | X | MCCD, risk adj, level 5 | 0.00 | 0.00 | 0.00 | 0.00 | XXX
G9012 |  | X | Other Specified Case Mgmt | 0.00 | 0.00 | 0.00 | 0.00 | XXX
G9016 |  | N | Demo-smoking cessation coun | 0.00 | 0.00 | 0.00 | 0.00 | XXX
J3370 |  | R | Vancomycin hcl injeciton | 0.00 | 0.00 | 0.00 | 0.00 | XXX
M0064 |  | A | Visit for drug monitoring | 0.37 | 0.12 | 0.26 | 0.01 | XXX
P3001 |  | A | Screening pap smear by phys | 0.42 | 0.19 | 0.19 | 0.01 | XXX
Q0035 |  | A | Cardiokymography | 0.17 | NA | 0.47 | 0.03 | XXX
Q0035 | 26 | A | Cardiokymography | 0.17 | 0.07 | 0.07 | 0.01 | XXX
Q0035 | TC | A | Cardiokymography | 0.00 | NA | 0.40 | 0.02 | XXX
Q0091 |  | A | Obtaining screen pap smear | 0.37 | 0.14 | 0.68 | 0.01 | XXX
Q0092 |  | A | Set up port xray equipment | 0.00 | NA | 0.33 | 0.01 | XXX
R0070 |  | C | Transport portable x-ray | 0.00 | 0.00 | 0.00 | 0.00 | XXX
R0075 |  | C | Transport port x-ray multipl | 0.00 | 0.00 | 0.00 | 0.00 | XXX
R0076 |  | B | Transport portable EKG | 0.00 | 0.00 | 0.00 | 0.00 | XXX
V2520 |  | P | Contact lens hydrophilic | 0.00 | 0.00 | 0.00 | 0.00 | XXX
V5299 |  | R | Hearing service | 0.00 | 0.00 | 0.00 | 0.00 | XXX
V5362 |  | R | Speech screening | 0.00 | 0.00 | 0.00 | 0.00 | XXX
V5363 |  | R | Language screening | 0.00 | 0.00 | 0.00 | 0.00 | XXX
V5364 |  | R | Dysphagia screening | 0.00 | 0.00 | 0.00 | 0.00 | XXX
¹ CPT codes and descriptions only are copyright 2001 American Medical Association. All Rights Reserved. Applicable FARS/DFARS Apply.
² Copyright 1994 American Dental Association. All rights reserved(D0110-D9999).
³ +Indicates RVUs are not use for Medicate payments.
⁴ PE RVUs = Practice Expense Relative Value Units.

[FR Doc. 02-16146 Filed 6-27-02; 8:45 am]

BILLING CODE 4120-01-P